DEPARTMENT OF HEALTH AND HUMAN SERVICES

Centers for Medicare & Medicaid Services

42 CFR Parts 405, 410 and 419

[CMS-1206-P]

RIN 0938-AL19

Medicare Program; Changes to the Hospital Outpatient Prospective Payment System and Calendar Year 2003 Payment Rates; and Changes to Payment Suspension for Unfiled Cost Reports

AGENCY: Centers for Medicare & Medicaid Services (CMS), HHS.

ACTION: Proposed rule.

SUMMARY: This proposed rule would revise the Medicare hospital outpatient prospective payment system to implement applicable statutory requirements and changes arising from our continuing experience with this system. In addition, it would describe proposed changes to the amounts and factors used to determine the payment rates for Medicare hospital outpatient services paid under the prospective payment system. These changes would be applicable to services furnished on or after January 1, 2003. In addition, this rule proposes to allow the Secretary to suspend Medicare payments “in whole or in part” if a provider fails to file a timely and acceptable cost report.

DATES: We will consider comments if we receive them at the appropriate address, as provided below, no later than 5 p.m. on October 8, 2002.

ADDRESSES: In commenting, please refer to file code CMS-1206-P. Because of staff and resource limitations, we cannot accept comments by facsimile (FAX) transmission. Mail written comments (one original and two copies) to the following address ONLY: Centers for Medicare & Medicaid Services, Department of Health and Human Services, Attention: CMS-1206-P, P.O. Box 8018, Baltimore, MD 21244-8018.

Please allow sufficient time for mailed comments to be timely received in the event of delivery delays.

If you prefer, you may deliver (by hand or courier) your written comments (one original and two copies) to one of the following addresses:

Room 445-G, Hubert H. Humphrey Building, 200 Independence Avenue, SW., Washington, DC 20201, or

Room C5-14-03, 7500 Security Boulevard, Baltimore, MD 21244-1850.

(Because access to the interior of the HHH Building is not readily available to persons without Federal Government identification, commenters are encouraged to leave their comments in the CMS drop slots located in the main lobby of the building. A stamp-in clock is available for persons wishing to retain a proof of filing by stamping in and retaining an extra copy of the comments being filed.)

Comments mailed to the addresses indicated as appropriate for hand or courier delivery may be delayed and could be considered late.

For information on viewing public comments, see the beginning of the SUPPLEMENTARY INFORMATION section.

FOR FURTHER INFORMATION CONTACT: Anita Heygster, (410) 786-0378—outpatient prospective payment issues; Lana Price, (410) 786-4533—partial hospitalization and ESRD; Gerald Walters, (410) 786-2070—payment suspension issues.

SUPPLEMENTARY INFORMATION: Inspection of Public Comments: Comments received timely will be available for public inspection as they are received, generally beginning approximately 3 weeks after publication of a document, at the headquarters of the Centers for Medicare & Medicaid Services, 7500 Security Boulevard, Baltimore, Maryland 21244, Monday through Friday of each week from 8:30 a.m. to 4 p.m. To schedule an appointment to view public comments, call (410) 786-7197.

Availability of Copies and Electronic Access

Copies: To order copies of the Federal Register containing this document, send your request to: New Orders, Superintendent of Documents, P.O. Box 371954, Pittsburgh, PA 15250-7954. Specify the date of the issue requested and enclose a check or money order payable to the Superintendent of Documents, or enclose your Visa or Master Card number and expiration date. Credit card orders can also be placed by calling the order desk at (202) 512-1800 (or toll-free at 1-888-293-6498) or by faxing to (202) 512-2250. The cost for each copy is $9. As an alternative, you can view and photocopy the Federal Register document at most libraries designated as Federal Depository Libraries and at many other public and academic libraries throughout the country that receive the Federal Register.

This Federal Register document is also available from the Federal Register online database through GPO Access, a service of the U.S. Government Printing Office. The web site address is: http://www.access.gpo.gov/nara/index.html.

To assist readers in referencing sections contained in this document, we are providing the following table of contents.

Outline of Contents

Comparison of Proposed 2003 Payment Rates to 2002 Payment Rates

I. Background

A. Authority for the Outpatient Prospective Payment System

B. Summary of Rulemaking for the Outpatient Prospective Payment System

C. Authority for Payment Suspension for Unfiled Cost Reports

D. Summary of Payment Suspension for Unfiled Cost Reports

II. Proposed Changes to the Ambulatory Payment Classification (APC) Groups and Relative Weights

A. Recommendations of the Advisory Panel on APC Groups

1. Establishment of the Advisory Panel

2. General Issues Considered by the Advisory Panel

3. Recommendations of the Advisory Panel and Our Responses

B. Other Changes Affecting the APCs

1. Limit on Variation of Costs of Services Classified Within a Group

2. Procedures Moved from New Technology APCs to Clinically Appropriate APCs

3. APC Assignment for New Codes Created During 2002

4. Recalibration of Weights for 2003

a. Data Issues

(1) Treatment of “Multiple Procedure” Claims

(2) Calendar Year 2002 Charge Data for Pass-Through Device Categories

b. Description of How Weights Were Calculated for 2003

5. Procedures That Will Be Paid Only As Inpatient Procedures

C. Partial Hospitalization

III. Transitional Pass-Through and Related Payment Issues

A. Background

B. Discussion of Pro Rata Reduction

C. Expiration of Transitional Pass-Through Payments in Calendar Year 2003

1. Devices

2. Drugs and Biologicals (Including Radiopharmaceuticals, Blood, and Blood Products)

3. Brachytherapy

D. Criteria for New Device Categories

E. Payment for Transitional Pass-Through Drugs and Biologicals for Calendar Year 2003

IV. Wage Index Changes for Calendar Year 2003

V. Copayment for Calendar Year 2003

VI. Conversion Factor Update for Calendar Year 2003

VII. Outlier Policy for Calendar Year 2003

VIII. Other Policy Decisions and Proposed Changes

A. Hospital Coding for Evaluation and Management (E/M) Services

B. Observation Services

C. Payment Policy When A Surgical Procedure on the Inpatient List Is Performed on an Emergency Basis

1. Current Policy

2. Hospital Concerns

3. Clarification of Payment Policy

4. Orders to Admit

D. Status Indicators

E. Other Policy Issues Relating to Pass-Through Device Categories

1. Reducing Transitional Pass-Through Payments To Offset Costs Packaged Into APC Groups

2. Devices Paid With Multiple Procedures

F. Outpatient Billing for Dialysis

IX. Summary of and Responses to MedPAC Recommendations

X. Summary of Proposed Changes for 2003

A. Changes Required by Statute

B. Additional Changes to OPPS and Payment Suspension Provisons

C. Changes to the Regulations Text

XI. Summary of Proposed Payment Suspension Provisions

XII. Collection of Information Requirements

XIII. Response to Public Comments

XIV. Regulatory Impact Analysis

A. OPPS

1. General

2. Changes in this Proposed Rule

3. Limitations of Our Analysis

4. Estimated Impacts of this Proposed Rule

5. Projected Distribution of Outlier Payments

B. Payment Suspension for Unfiled Cost Reports Regulations Text

Addenda

Addendum A—List of Ambulatory Payment Classifications (APCs) with Status Indicators, Relative Weights, Payment Rates, and Copayment Amounts

Addendum B—Payment Status by HCPCS Code, and Related Information

Addendum C—Hospital Outpatient Payment for Procedures by APC: Displayed on Website Only

Addendum D—Payment Status Indicators for the Hospital Outpatient Prospective Payment System

Addendum E—CPT Codes That Would Be Paid Only As Inpatient Procedures

Addendum H—Wage Index for Urban Areas

Addendum I—Wage Index for Rural Areas

Addendum J—Wage Index for Hospitals That Are Reclassified

Alphabetical List of Acronyms Appearing in the Proposed Rule

ACEP American College of Emergency Physicians

AMA American Medical Association

APC Ambulatory payment classification

AWP Average wholesale price

BBA Balanced Budget Act of 1997

BIPA Medicare, Medicaid, and SCHIP Benefits Improvement and Protection Act of 2000

BBRA Balanced Budget Refinement Act of 1999

CCR Cost center specific cost-to-charge ratio

CMHC Community mental health center

CMS Centers for Medicare & Medicaid Services (Formerly known as the Health Care Financing Administration)

CPT (Physician's) Current Procedural Terminology, Fourth Edition, 2002, copyrighted by the American Medical Association

CSW Clinical social worker

CY Calendar year

DRG Diagnosis-related group

DSH Disproportionate Share Hospital

EACH Essential Access Community Hospital

E/M Evaluation and management

ERCP Endoscopic retrograde cholangiopancreatography

ESRD End-stage renal disease

FACA Federal Advisory Committee Act

FY Federal fiscal year

HCPCS Healthcare Common Procedure Coding System

HIPAA Health Insurance Portability and Accountability Act of 1996

ICU Intensive care unit

ICD-9-CM International Classification of Diseases, Ninth Edition, Clinical Modification

IME Indirect Medical Education

IPPS (Hospital) inpatient prospective payment system

LTC Long Term Care

MedPAC Medicare Payment Advisory Commission

MDH Medicare Dependent Hospital

MSA Metropolitan statistical area

NECMA New England County Metropolitan Area

OCE Outpatient code editor

OMB Office of Management and Budget

OPD (Hospital) outpatient department

OPPS (Hospital) outpatient prospective payment system

OT Occupational therapist

PHP Partial hospitalization program

PPS Prospective payment system

PPV Pneumococcal pneumonia (virus)

PRA Paperwork Reduction Act

RFA Regulatory Flexibility Act

RRC Rural Referral Center

RVUs Relative value units

SCH Sole Community Hospital

TEFRA Tax Equity and Fiscal Responsibility Act

USPDI United States Pharmacopoeia Drug Information

Comparison of Proposed 2003 Payment Rates to 2002 Payment Rates

The outpatient pass-through provisions of the BBRA and BIPA have been exceptionally difficult to implement, arguably the most complex and difficult in the history of the Medicare program. In CY 2002, the pass-through payments, and the APC rates were calculated on the best information available. This was often manufacturer list prices, which may not reflect not actual prices paid by hospitals. For CY 2003, far more data is available on the actual charges for hospital OPDs, and these are reflected in the rates in this proposed rule. In many cases these new rates are significantly different from CY 2003 rates, but they are based on actual hospital charges, and on far more complete data than were the CY 2002 rates. Nevertheless, CMS is actively seeking comment on all aspects of these rates, given the significant changes in the proposed rule, and the agency is open to making changes, perhaps significant, in the final rule based on comments.

The 2003 payment rates proposed in this proposed rule are, for many items and services, significantly higher or lower than the payment rates for the same items and services for 2002, particularly for APCs which use medical devices, and for APCs for drugs that will no longer be eligible for pass-through status in 2003 and paid under separate APCs. Some proposed payments for 2003 are far lower than the 2002 payment amounts (and some are higher).

For example, as can be seen in Addenda A, the proposed rate for APC 0108 (Insertion/Replacement/Repair of Cardioverter-Defibrilator Leads) shows a dramatic decrease in payment compared to the 2002 rate. This reduction for a number of APCs is of concern to us because of the potential impact on access to care. We invite public comment and suggestions on how to address the potential for adverse impact of these proposed changes.

The proposed 2003 payment rates reflect the use of updated data, as required by the statute, in calculating payment rates in accordance with the methodologies set forth in the statute and regulations. The proposed payment rates reflect mathematical calculations based on the latest available program data.

Our goal in this proposed rule is to explain the methodology and to solicit comments on our rate-setting methods and the effect on beneficiary access, provider participation and the fiscal integrity of the Medicare Trust Fund.

Devices

We believe that there are several factors that may explain the differences between the proposed payment amounts for 2003 and the payment amounts for 2002 (some, but not all of which, are significant).

First, we believe that the payment rates for the device related procedures for 2002 may in some cases have been higher than they would have been had actual hospital acquisition cost data been available for us to use. Specifically, because we lacked hospitals' cost data for devices, we used the best data available to us at the time which was manufacturer data regarding the hospitals' acquisition costs in providing the devices. We assumed that a device would be provided with a related procedure and packaged 75 percent of these manufacturer estimated costs for the devices into the APCs for the procedures.

The costs that we packaged in for some devices may have been higher than actual hospital acquisition costs. The differences between the 2002 payment rate and the lower 2003 proposed payments are based on our data sources. While the 2003 rates are based on 2001 hospital claims and the latest available cost report data, the 2002 rates are based on manufacturer data for devices. We use charges on the hospital claims data to estimate hospital costs. We apply hospital-specific, department-specific cost-to-charge ratios (CCRs) from each provider's most recently submitted cost report to the charges to develop the estimate of costs. In most cases, the provider's most recently submitted cost report is from fiscal year 1999. An adjustment factor is applied in developing CCRs for cost reports that have not yet been settled, so that the CCRs will more closely reflect CCRs from a settled cost report.

Second, there may be problems in the data, particularly for coding of devices in 2001. As discussed later in this preamble, devices were to be coded using device specific C codes from the start of the OPPS on August 1, 2000 until the law changes required that we establish category codes by April 1, 2001. We then granted a grace period until July 1, 2001, during which we accepted both device specific codes and category codes. During a Town Hall meeting with the public on April 5, 2001, and in other contacts with hospitals (such as the open forum calls and visits to hospitals) we have been told that hospitals had difficulty in submitting proper HCPCS coding for services and for devices once OPPS began and that, in many cases, they did not bill for devices for which they should have claimed payment.

In some cases, hospitals were confused by the change from device specific codes to category codes; in other cases, the use of HCPCS codes was new and they had a long learning curve to learn how to use HCPCS codes. Our initial data analysis suggested that hospitals may not have billed for the devices using the device or category codes in all cases. If the charges were not on the claim, they would not have been picked up for calculation of the median cost for the service and the associated device, possibly resulting in a proposed payment rate for the APC that is inappropriately low and other rates that are inappropriately too high. However, based on our analysis which is described later, we believe that hospitals often showed the charges for the devices in the applicable revenue centers (such as, supplies) and that the charges for the devices often were on the claim, even if the HCPCS code was not.

We welcome public comments regarding these issues for these payment changes and proposals regarding how problems with claims data could be rectified for development of the final rule.

Drugs

As discussed later in this preamble, we propose to package the costs for lower cost drugs into the payment for the APC in which they are used and to pay specialty drugs and high cost drugs under separate APCs. Some of the APCs for separately paid drugs also show significant reductions in payments compared to the pass-through payments made in 2002. Several factors may help place these decreases in perspective.

These changes result largely because the payment method for items in transitional pass-through payment status differs significantly from other services paid under the OPPS, and as items lose transitional pass-through payment status they are subject to a different payment method. In particular, a drug in transitional pass-through payment status is paid based on 95 percent of the average wholesale price for the drug, possibly subject to a uniform reduction.¹

¹ In 2002, we apply a uniform reduction to the transitional pass-through portion of payments for drugs with transitional pass-through status. As a result, the OPPS now pays hospitals about 72 percent of AWP for drugs in this status. The uniform reduction, as discussed in the March 1, 2002 final rule, is to comply with section 1833(t)(6)(E) of the Act, which limits the total projected amount of transitional pass-through payments for 2002 to 2.5 percent of projected total payments under the OPPS in 2002.

In contrast, a drug not in transitional pass-through status is paid as are other services under the OPPS. The statute provides that services (other than transitional pass-through items) be paid on the basis of a service-specific relative weight multiplied by a conversion factor. The relative weight is determined based on the median hospital cost, where the cost on each claim is derived by multiplying the submitting hospital's charge by a cost-to-charge ratio (determined from the hospital's latest submitted cost report, usually from fiscal year 1999). We anticipate that a hospital's charges on particular services reflect, at least in relative terms, the hospital's resource use in providing that service.

Per the statute, the conversion factor was set at the initiation of the system to achieve budget neutrality relative to the prior system; it is updated each year by the rate of increase in the hospital market basket. This mechanism does reflect changes in input costs from the initial base, but the system is not rebased to reflect the absolute level of such costs.

This payment method was not intended to assure that hospitals, even on average, are reimbursed costs of particular services. In fact, because the conversion factor was calibrated to reflect prior reductions in hospital operating and capital costs that were built into the baseline for overall program expenditures, the OPPS is not set to pay full costs to hospitals.²

² In fact, because of the effect of prior statutory reductions in payments, the OPPS system was calibrated at its initiation to pay only about 82 percent of hospital costs in the aggregate.

Further, nothing in the payment method prescribed by the statute requires or anticipates that hospitals would be reimbursed full costs of purchased inputs such as drugs, just as it does not anticipate that hospitals would be reimbursed for the full cost of any other services they deliver.

The payment methods are set out in section 1833(t) of the Act. This section does not permit continuation of a pass-through payment (at 95 percent of AWP or some other level) for drugs losing their transitional pass-through status. This section permits the Secretary to specify APC groupings, and we are proposing in 2003 to continue to pay separately for certain drugs that had transitional pass-through status in 2002 and that are no longer eligible for pass-through status in 2003. These drugs would be in separate APCs, rather than being packaged into other, procedure-related APCs; the payment method would be the same relative-weight payment method used for other APCs.

The resulting payment rates incorporate the best evidence we have regarding what hospitals charged in 2001. They may diverge, however, from payment rates based on the AWP, including those in use for 2002. As is discussed above, movement from pass-through payment rates to relative-weight based payment rates would be expected to lead to decreases in payments, even if AWP represented a reliable measure of hospital acquisition costs (As discussed above, we use hospital charges and hospital-specific, department-specific cost-to-charge ratios to estimate hospital costs. In most cases, cost-to-charge ratios are derived from 1999 cost reports).

However, we believe this outcome is also be due to deficiencies in AWP as a measure of hospital acquisition costs. AWP is not an accurate estimate of what providers actually pay for drugs. Studies undertaken over the past decade by the Office of the Inspector General, the Department of Justice, and the General Accounting Office that compare AWP with actual drug acquisition costs have consistently shown that published AWPs considerably exceed these costs (See “MEDICARE Payments for Covered Outpatient Drugs Exceed Providers’ Costs”, GAO-01-1118). Therefore, it is to be expected that the proposed 2003 APC payment rates based on median hospital costs for these drugs will be lower than the 2002 payment rates for the same drugs that are based on AWP. The Administration has repeatedly stated its view that AWP inaccurately represents actual market pricing. The pass-through system pays based on AWP, creating further incentives for artificially high AWP listings. We believe the steep reductions in some drug prices reflect these incentives, and that the new rates more accurately reflect the actual acquisition costs for hospitals pay. Still, we are interested in soliciting comments on these costs, and the mechanisms to identify them.

I. Background

A. Authority for the Outpatient Prospective Payment System

When the Medicare statute was originally enacted, Medicare payment for hospital outpatient services was based on hospital-specific costs. In an effort to ensure that Medicare and its beneficiaries pay appropriately for services and to encourage more efficient delivery of care, the Congress mandated replacement of the cost-based payment methodology with a prospective payment system (PPS). The Balanced Budget Act of 1997 (BBA) (Pub. L. 105-33), enacted on August 5, 1997, added section 1833(t) to the Social Security Act (the Act) authorizing implementation of a PPS for hospital outpatient services. The Balanced Budget Refinement Act of 1999 (BBRA) (Pub. L. 106-113), enacted on November 29, 1999, made major changes that affected the hospital outpatient PPS (OPPS). The Medicare, Medicaid, and SCHIP Benefits Improvement and Protection Act of 2000 (BIPA) (Pub. L. 106-554), enacted on December 21, 2000, made further changes in the OPPS. The OPPS was first implemented for services furnished on or after August 1, 2000.

B. Summary of Rulemaking for the Outpatient Prospective System

• On September 8, 1998, we published a proposed rule (63 FR 47552) to establish in regulations a PPS for hospital outpatient services, to eliminate the formula-driven overpayment for certain hospital outpatient services, and to extend reductions in payment for costs of hospital outpatient services. On June 30, 1999, we published a correction notice (64 FR 35258) to correct a number of technical and typographic errors in the September 1998 proposed rule including the proposed amounts and factors used to determine the payment rates.

• On April 7, 2000, we published a final rule with comment period (65 FR 18434) that addressed the provisions of the PPS for hospital outpatient services scheduled to be effective for services furnished on or after July 1, 2000. Under this system, Medicare payment for hospital outpatient services included in the PPS is made at a predetermined, specific rate. These outpatient services are classified according to a list of ambulatory payment classifications (APCs). The April 7, 2000 final rule with comment period also established requirements for provider departments and provider-based entities and prohibited Medicare payment for nonphysician services furnished to a hospital outpatient by a provider or supplier other than a hospital unless the services are furnished under arrangement. In addition, this rule extended reductions in payment for costs of hospital outpatient services as required by the BBA and amended by the BBRA. Medicare regulations governing the hospital OPPS are set forth at 42 CFR part 419.

• On June 30, 2000, we published a notice (65 FR 40535) announcing a delay in implementation of the OPPS from July 1, 2000 to August 1, 2000. We implemented the OPPS on August 1, 2000.

• On August 3, 2000, we published an interim final rule with comment period (65 FR 47670) that modified criteria that we use to determine which medical devices are eligible for transitional pass-through payments. The August 3, 2000 rule also corrected and clarified certain provider-based provisions included in the April 7, 2000 rule.

• On November 13, 2000, we published an interim final rule with comment period (65 FR 67798). This rule provided for the annual update to the amounts and factors for OPPS payment rates effective for services furnished on or after January 1, 2001. We implemented the 2001 OPPS on January 1, 2001. We also responded to public comments on those portions of the April 7, 2000 final rule that implemented related provisions of the BBRA and public comments on the August 3, 2000 rule.

• On November 2, 2001, we published a final rule (66 FR 55857) that announced the Medicare OPPS conversion factor for calendar year 2002. In addition, it described the Secretary's estimate of the total amount of the transitional pass-through payments for CY 2002 and the implementation of a uniform reduction in each of the pass-through payments for that year.

• On November 2, 2001, we also published an interim final rule with comment period (66 FR 55850) that set forth the criteria the Secretary will use to establish new categories of medical devices eligible for transitional pass-through payments under Medicare's OPPS.

• On November 30, 2001, we published a final rule (66 FR 59856) that revised the Medicare OPPS to implement applicable statutory requirements, including relevant provisions of BIPA, and changes resulting from continuing experience with this system. It addition, it described the CY 2002 payment rates for Medicare hospital outpatient services paid under the PPS. This final rule also announced a uniform reduction of 68.9 percent to be applied to each of the transitional pass-through payments for certain categories of medical devices and drugs and biologicals.

• On December 31, 2001, we published a final rule (66 FR 67494) that delayed, until no later than April 1, 2002, the effective date of CY 2002 payment rates and the uniform reduction of transitional pass-through payments that were announced in the November 30, 2001 final rule. In addition, this final rule indefinitely delayed certain related regulatory provisions.

• On March 1, 2002, we published a final rule (67 FR 9556) that corrected technical errors that affected the amounts and factors used to determine the payment rates for services paid under the Medicare OPPS and corrected the uniform reduction to be applied to transitional pass-through payments for CY 2002 as published in the November 30, 2001 final rule. These corrections and the regulatory provisions that had been delayed became effective on April 1, 2002.

C. Authority for Payment Suspensions for Unfiled Cost Reports

Authority for the provision regarding payment suspensions for unfiled cost reports is contained within the authority for subpart C of 42 CFR Part 405, that is, sections 1102, 1815, 1833, 1842, 1866, 1870, 1871, 1879, and 1892 of the Social Security Act (42 U.S.C. 1302, 1395g, 13951, 1395u, 1395cc, 1395gg, 1395hh, 1395pp, and 1395ccc) and 31 U.S.C. 3711.

D. Summary of Payment Suspensions for Unfiled Cost Reports

This provision is set forth in our existing regulations at 42 CFR 405.371 as follows:

Section 405.371 (a) provides that Medicare payments may be suspended, in whole or in part, following overpayments determined by the Medicare contractor when overpayment exists or when the payments to be made may not be correct.

Section 405.371(b) provides, in relevant part, that a payment suspension may proceed only after certain procedural requirements contained at § 405.372 are met.

Existing § 405.371(c) provides for suspension of payment if a provider has failed to timely file an acceptable cost report. Payment to the provider is immediately suspended until a cost report is filed and determined by the intermediary to be acceptable.

With the increased transition to the prospective payment systems, the cost report settlement process has become less determinative of an institutional provider's Medicare reimbursement. For instance, in the case of an inpatient acute care hospital, the base DRG payment (as opposed to any teaching or disproportionate share payments, or pass-through payments) is determined when a claim is initially adjudicated, and does not generally change at the time of cost report settlement. Similarly, the APC payment for an outpatient service is also based on the claim adjudication. For home health agencies, minimal changes to payment are made at the time of cost report settlement, and for skilled nursing facilities, the main cost report issues revolve around bad debt determinations. In all of these cases, a significant proportion of the institution's payments are determined based on the adjudication of claims, and do not change at the point of settling the cost report. However, the filing of cost reports remains important for settling some payments, such as medical education payments, even for providers that are fully transitioned to prospective payment systems. Also, cost reports for PPS providers are used for determining prospective payment rates for future years. For these reasons, tailored payment suspensions can still be an effective measure for ensuring that providers comply with their obligation to file timely and acceptable cost reports.

II. Proposed Changes to the Ambulatory Payment Classification (APC) Groups and Relative Weights

Under the OPPS, we pay for hospital outpatient services on a rate-per-service basis that varies according to the APC group to which the service is assigned. Each APC weight represents the median hospital cost of the services included in that APC relative to the median hospital cost of the services included in APC 601, Mid-Level Clinic Visits. The APC weights are scaled to APC 601 because a mid-level clinic visit is one of the most frequently performed services in the outpatient setting.

Section 1833(t)(9)(A) of the Act requires the Secretary to review the components of the OPPS not less often than annually and to revise the groups and related payment adjustment factors to take into account changes in medical practice, changes in technology, and the addition of new services, new cost data, and other relevant information. Section 1833(t)(9)(A) of the Act requires the Secretary, beginning in 2001, to consult with an outside panel of experts when annually reviewing and updating the APC groups and the relative payment weights.

Finally, section 1833(t)(2) of the Act provides that, subject to certain exceptions, the items and services within an APC group cannot be considered comparable with respect to the use of resources if the highest median or mean cost item or service in the group is more than 2 times greater than the lowest median or mean cost item or service within the same group (referred to as the “2 times rule”).

We use the median cost of the item or service in implementing this provision. The statute authorizes the Secretary to make exceptions to the 2 times rule “in unusual cases, such as low volume items and services.”

The APC groups that we are proposing in this rule as the basis for payment in 2003 under the OPPS have been analyzed within this statutory framework.

A. Recommendations of the Advisory Panel on APC Groups

1. Establishment of the Advisory Panel

Section 1833(t)(9)(A) of the Act, requires that we consult with an outside panel of experts when annually reviewing and updating the APC groups and the relative weights. The Act specifies that the panel will act in an advisory capacity. The expert panel, which is to be composed of representatives of providers, is to review and advise us about the clinical integrity of the APC groups and their weights. The panel is not restricted to using our data and may use data collected or developed by organizations outside the Department in conducting its review.

On November 21, 2000, the Secretary signed the charter establishing an “Advisory Panel on APC Groups” (the Panel). The Panel is technical in nature and is governed by the provisions of the Federal Advisory Committee Act (FACA) as amended (Pub. L. 92-463). To establish the Panel, we solicited members in a notice published in the Federal Register on December 5, 2000 (65 FR 75943). We received applications from more than 115 individuals nominating either themselves or a colleague. After carefully reviewing the applications, we chose 15 highly qualified individuals to serve on the Panel. The first APC Panel meeting was held on February 27, February 28, and March 1, 2001 to discuss the 2001 APCs in anticipation of the 2002 OPPS.

We published a notice in the Federal Register on December 14, 2001 to announce the location and time of the second Panel meeting, a list of agenda items, and that the meeting was open to the public. We also provided additional information through a press release and on our website. We convened the second meeting of the Panel on January 22 through January 24, 2002.

2. General Issues Considered by the Advisory Panel

In this section, we summarize the Panel's discussion of a recommendation by the Panel's Research Subcommittee concerning the format of written submissions and oral presentations to the Panel and of several general OPPS payment issues.

Content for Future Presentations to the Panel

During the 2001 meeting, the Panel heard many different types of oral presentations. The Panel members felt that requiring consistency for all presentations with regard to format, data submission, and general information would assist them in analyzing the submissions and presentations and making recommendations. Therefore, during the 2001 meeting, the Panel recommended the creation of a Research Subcommittee. The Research Subcommittee was established during the 2001 meeting and had regular conference calls to discuss the development and implementation of standards for written submissions and oral presentations to the Panel during its meetings. The Research Subcommittee also analyzed complex issues (such as the use of multiple procedure claims data to set APC relative weights) that could not be addressed in the time allotted for the annual meeting.

The Panel began its 2002 meeting by considering the Research Subcommittee's recommendation to the Panel on requirements for written submissions and oral presentations. The Research Subcommittee recommended that all future oral presentations and written submissions contain the following:

• Name, address, and telephone number of the proposed presenter.

• Financial relationship(s), if any, with any company whose products, services, or procedures are under consideration.

• CPT codes involved.

• APC(s) affected.

• Description of the issue.

• Clinical description of the service under discussion, with comparison to other services within the APC.

• Description of the resource inputs associated with the service under discussion, with a comparison to resource inputs for other services within the APC.

• Recommendations and rationale for change.

• Expected outcome of change and potential consequences of no change.

The Panel adopted the Subcommittee s recommendation. Presentations for the 2003 meeting must contain, at a minimum, this information.

Inpatient Only List

At its February 2001 meeting, the Panel discussed the existence of the inpatient list. The Panel favored its elimination. At the January 2002 meeting, Panel members noted that hospitals receive no payment for a service performed in an outpatient department that appears on the inpatient list, even though the physician performing that service will receive payment for his or her services. The Panel believes the physician should determine what procedure to perform and that both the hospital and the physician should receive payment for the procedure. We continue to disagree with the position taken by the Panel regarding the inpatient list for reasons that we discuss in detail in the April 7, 2000 final rule (65 FR 18456).

Prior to the 2002 Panel meeting, we received requests from hospital and surgical associations and societies to remove certain procedures from the inpatient list. We reviewed those requests and presented to the Panel the requests for which we were unable to make a determination based on the information submitted with the request.

The Panel considered removing the following procedures from the inpatient list:

CPT | Description
21390 | Treat eye socket fracture.
27216 | Treat pelvic ring fracture.
27235 | Treat thigh fracture.
32201 | Drain, percut, lung lesion.
33967 | Insert ia percut device.
47490 | Incision of gallbladder.
62351 | Implant spinal canal cath.
64820 | Remove sympathetic nerves.
92986 | Revision of aortic valve.
92987 | Revision of mitral valve.
92990 | Revision of pulmonary valve.
92997 | Pul art balloon repr, precut.
92998 | Pul art balloon repr, precut.

The Panel recommended that we solicit comments and additional information from hospitals and medical specialty societies that have an interest in these procedures. The Panel also recommended that we present to them at their 2003 meeting any such comments that we receive to assist in their evaluation of whether to recommend removing the codes from the inpatient list.

The Panel did recommend that we remove from the inpatient list CPT code 47001, Biopsy of liver, needle; when done for indicated purpose at time of other major procedure. Panel members stated that this add-on code is being billed with surgical procedures that are payable under the OPPS. The Panel noted that coding edits prevent payment for the other payable OPPS services if CPT code 47001 is on the claim. We agree with the Panel's recommendation and we propose to remove 47001 from the inpatient list. We further propose to assign it status indicator “N” so that costs associated with CPT code 47001 would be packaged into the APC payment for the primary procedure performed during the same operative session.

One presenter at the Panel meeting suggested removing CPT codes 53448, 54411, and 54417 from the inpatient list because he believed they were being performed in the outpatient setting. After discussing this suggestion, the Panel recommended that these codes remain on the inpatient list because they involve removing a prosthesis through an infected operative field and cannot be safely and effectively performed in the outpatient setting. We agree with the Panel's recommendation, and we are not proposing to remove these codes from the inpatient list.

In section II.B.5 of this preamble, below, we discuss additional procedures, which were not considered by the Panel, that we propose to remove from the inpatient list. We discuss in detail our reasons for proposing these additional changes, and we propose two new criteria that we would adopt in the future when evaluating whether to make a procedure on the inpatient list payable under the OPPS. Table 6 in section II.B.5 lists all the procedures we propose to remove from the inpatient list, including those discussed by the Panel. We are considering the removal of CPT code 33967, Insertion of intra-aortic balloon assist device, percutaneous from the inpatient list, but did not include it in Table 6. The Panel considered this code for removal from the inpatient list and had concerns about whether performing this procedure in an outpatient setting is appropriate. Further, we have not been able to confirm that this procedure is being performed on Medicare beneficiaries in an outpatient setting. We solicit comments, including clinical data and specific case reports, that would support payment for CPT 33967 under the OPPS.

Multiple Bills

During its February 2001 meeting, the Panel received oral testimony identifying CMS exclusive use of single procedure claims to set relative weights for APCs as a potential problem in setting appropriate payment rates for APCs. Therefore, the panel asked its Research Subcommittee to work with CMS staff, using the Endoscopic Retrograde Cholangiopancreatography (ERCP) code family as a case study, to explore the use of multiple procedure claims data for setting relative weights. This code family was selected because presenters had suggested that when procedures in this family are performed, it is typical to perform more than one procedure during a session.

The Subcommittee reviewed pre-OPPS claims data for these codes, paying particular attention to common code combinations and costs per procedure and per code combination. After lengthy review, the Panel concluded that (1) it could not determine whether findings based on review of pre-OPPS data could be extrapolated to post-OPPS claims data; (2) the variability in allocation of costs across ERCP line items and the existence of claims where the same ERCP code was billed more than once indicate that problems exist with the accuracy of facility coding for these procedures; and (3) analysis of multiple claims data for ERCP may not be applicable to other sets of services.

The Subcommittee made the following recommendations to the Panel, which the Panel approved:

• We should continue to explore the use of multiple procedure claims data for setting payment rates but should continue to use only single procedure claims data to determine relative payment weights for CY 2003.

• We should work with the APC Panel to explore the use of multiple claims data drawn from OPPS claims for services such as radiation oncology in time for the next APC Panel meeting.

• We should educate hospitals on appropriate coding and billing practices to ensure that claims with multiple procedures are properly coded and that costs are properly allocated to each procedure.

One presenter to the panel suggested a method to increase the number of claims that could be considered as single claims. Currently, we consider any claim submitted with two or more primary codes (that is, a code assigned to an APC for separate payment) to be a multiple procedure claim. When these claims contain line items for revenue centers without an accompanying Healthcare Common Procedure Coding System (HCPCS) code there is no way to determine the appropriate primary code with which to package the revenue center. The presenter suggested that we consider all claims where every line contains a separately payable HCPCS code as a single procedure claim, reasoning that on such claims we do not have to determine how and where to “package” line items not identified by a separately payable HCPCS code. Where every line item contains a separately payable HCPCS code, every cost can easily be allocated to a separately payable HCPCS code on the line item and all costs for each HCPCS code can then be accurately and completely determined.

We agree. We describe in section II.B.4 how we determined the number of single claims used to set the APC relative weights proposed for 2003 using this methodology. We ask for comments on our methodology.

Packaging

We sought the Panel's guidance on whether we should package the costs of HCPCS codes for radiologic guidance and radiologic supervision and interpretation services whose descriptors require that they only be performed in conjunction with a surgical procedure.

There are a number of reasons why we package the costs of certain procedures. For example, “add-on” procedures and radiologic guidance procedures should never be billed on a claim without the code for an associated procedure. A facility should not submit a claim for ultrasound guidance for a biopsy unless the claim also includes the biopsy procedure, because the guidance is necessary only when a biopsy is performed. A claim for a packaged guidance procedure (or a supervision and interpretation procedure whose descriptor requires it be performed in association with a surgical procedure) would be returned to the provider for correction and resubmission.

Also, we use packaging because billing conventions allow hospitals to report costs for certain services using only revenue center codes (that is, hospitals are not required to specify HCPCS codes for certain services). Packaging allows these costs to be captured in the data used to calculate median costs for services with an APC.

Several presenters to the panel requested that we not package any radiologic guidance or supervision and interpretation codes. They believe that hospitals will not use codes for which they do not receive a separate payment. If that were the case, it would be difficult to track utilization for these procedures and make it difficult for radiology departments to receive an appropriate payment for their services. A few presenters also pointed out that various forms of guidance with widely varying costs can be used for a single surgical procedure. Therefore, we might unintentionally create an incentive for inappropriate care by packaging several guidance procedures with varying costs into a single surgical code. Additionally, a manufacturer of ultrasound guidance equipment used for placement of radiation fields commented that, because guidance is rarely used for this purpose, its costs could not be adequately captured by packaging it into a common procedure where the vast majority of claims did not use guidance.

The Panel concluded that, even though we could be setting relative weights based on error claims, we should not package additional radiologic guidance and supervision and interpretation procedures and should continue to explore methodologies that would allow these procedures to be recognized for separate payment. The Panel also recommended that radiology guidance codes that were in APC 268 for CY 2001 but that were designated with status indicator “N” as packaged services in 2002, be restored as separately payable services for CY 2003. The Panel requested that this topic be placed on the agenda for the next Panel meeting.

Add-On Codes

We presented for the Panel's consideration several options for payment of add-on codes, including assignment of status indicator “N” to package them into the payment for the base procedure. Add-on codes described additional procedures performed by the same physician that are associated with the primary procedure, and which cannot be billed without the primary procedure. Such a methodology would create a single, weight averaged payment for the parent procedure and the add-on procedure while addressing the problem that any “single” claim for an add-on procedure is, by definition, an error claim. After thorough review, the Panel concluded that we should continue to pay for add-on codes separately, setting relative weights with the use of single procedure claims in spite of the fact that these were error claims. The Panel asked us to continue exploring ways to most appropriately pay for these services. They requested that this item also be placed on the agenda for the next Panel meeting.

We propose to accept the recommendations of the APC Panel both for packaging radiology guidance and supervision and interpretation codes and for payment of add-on codes. We are proposing to pay separately in 2003 for radiology guidance codes that were paid in APC 268 in CY 2001 but that were packaged in 2002.

3. Recommendations of the Advisory Panel and Our Responses

In this section, we consider the Panel's recommendations affecting specific APCs. The most recent data available for the Panel to review in considering specific APC groupings were the 1999-2000 pre-OPPS claims data that were the basis of the CY 2002 relative payment weights. The APC titles are shown in this discussion of the APC Panel recommendations as they existed when the APC Panel met in January 2002. In a few cases the APC titles were changed for the proposed 2003 OPPS and therefore some APCs do not have the same title in Addenda A as they have in this section.

As discussed below, the Panel sometimes declined to recommend a change in an APC even though the APC violated the 2 times rule. In section II.B.1 of this preamble, we discuss our proposals regarding the 2 times rule based on the CY 2001 data we are using to recalibrate the 2003 APC relative weights. Section II.B.1 also details the criteria we use in deciding to make an exception to the 2 times rule. We asked the Panel to review many of the exceptions we implemented in 2001 and 2002. We refer to the exceptions as “violations of the 2 times” rule in the following discussion.

APC 215: Level I Nerve and Muscle Tests

APC 216: Level III Nerve and Muscle Tests

APC 218: Level II Nerve and Muscle Tests

We presented this agenda item because APC 215 appeared to violate the 2 times rule. In order to remedy this violation, we asked the Panel to consider the following changes:

• Move CPT codes 95858, 95921, and 95922 from APC 215 to APC 218.

• Move CPT code 95930 from APC 216 to APC 218.

• Move CPT code 92275 from APC 216 to APC 231.

• Move CPT code 95920 from APC 218 to APC 216.

A presenter to the Panel who represented a device manufacturer noted that the resources used to provide 95921, Autonomic nerve function test, are not similar to the resources required for performing the procedures in APC 218, where we had suggested moving the device. He requested that the code be reassigned to APC 216 where it resided in calendar year 2000. Because there were very few claims for the code in the 1999 and 2000 data, the Panel voiced concern about making the change without sufficient data to support such a move.

The Panel recommended that the changes we asked them to consider be made, that is, to move CPT codes 95921 and 95922 to APC 218. However, if the calendar year 2001 data support a move of 95921 to APC 216, the Panel recommended that we consider that move.

APC 600: Low Level Clinic Visits

APC 601: Mid Level Clinic Visits

APC 602: High Level Clinic Visits

APC 610: Low Level Emergency Visits

APC 611: Mid Level Emergency Visits

APC 612: High Level Emergency Visits

The Panel's recommendations related to facility coding for clinic and emergency department visits are discussed below, in section VIII.A.

APC 296: Level I Therapeutic Radiologic Procedures

APC 297: Level II Therapeutic Radiologic Procedures

APC 263: Level I Miscellaneous Radiology Procedures

APC 264: Level II Miscellaneous Radiology Procedures

APCs 296, 263, and 264 appear to violate the 2 times rule. We asked the Panel to consider three options for reconfiguring these APCs so that they would conform with the 2 times rule.

Option 1: Create a new APC, Level III Therapeutic Radiology Procedures, by moving CPT code 75984 from APC 296 and 74475 from APC 297. Also, move CPT codes 76101, 70390, and 71060 from APC 263 to APC 264 and move CPT code 75980 from APC 297 to APC 296.

Option 2: Move CPT codes 76101, 703690, and 71060 from APC 263 to APC 264 and move CPT code 75984 from APC 296 to APC 264. Move CPT code 75980 from APC 297 to APC 296.

Option 3: Create a new APC, Level III Miscellaneous Radiology Procedures, by moving CPT codes 76080, 7036736, 76101, 70390, 74190, and 71060 from APC 263. Move CPT code 74327 from APC 296 to APC 263 and move CPT code 75980 from APC 297 to APC 296. APC 264 remains unchanged.

One presenter to the panel objected to the use of miscellaneous APCs in the OPPS. The presenter argued that we are charged with creating clinically coherent APCs and that miscellaneous APCs contradict the principle of clinical coherence. We noted that in spite of considerable effort to do so, we have not been able to incorporate the procedures assigned to miscellaneous APCs into other, more clinically homogeneous APCs. We asked the presenter to propose a configuration for consideration.

The Panel noted that none of the options that we presented resolve all of the 2 times violations. However, the Panel agreed that Option 2 would create more clinically coherent APCs without creating a new APC based on anticipated device costs that would be billed in 2002. In addition, the Panel invited the American College of Radiology and other interested parties to propose further changes for the Panel's consideration next year.

We propose to accept the Panel's recommendations that option 2 be implemented.

APC 230: Level I Eye Tests and Treatments

APC 231: Level III Eye Tests and Treatments

APC 232: Level I Anterior Segment Eye Procedures

APC 233: Level II Anterior Segment Eye Procedures

APC 234: Level III Anterior Segment Eye Procedures

APC 235: Level I Posterior Segment Eye Procedures

APC 236: Level II Posterior Segment Eye Procedures

APC 237: Level III Posterior Segment Eye Procedures

APC 238: Level I Repair and Plastic Eye Procedures

APC 239: Level II Repair and Plastic Eye Procedures

APC 240: Level III Repair and Plastic Eye Procedures

APC 241: Level IV Repair and Plastic Eye Procedures

APC 242: Level V Repair and Plastic Eye Procedures

APC 247: Laser Eye Procedures Except Retinal

APC 248: Laser Retinal Procedures

APC 698: Level II Eye Tests and Treatments

APC 699: Level IV Eye Tests and Treatments

We asked the Panel to review these APCs to address clinical inconsistencies and violations of the 2 times rule. We suggested creating a new level for posterior segment eye procedures and other changes in order to make the groups more clinically coherent, as follows:

• Move CPT codes 65260 and 67218 from APC 237 to 236.

• Create a new APC (Level IV Posterior Segment Eye Procedures) by moving CPT codes 67107, 67112, 67040, and 67108 from APC 237.

• Move CPT codes 67145, 67105, and 67210 from APC 247 to APC 248.

• Move CPT code 66999 from APC 247 to APC 232.

• Move CPT code 67299 from APC 248 to APC 235.

• Move CPT codes 65855, 66761, and 66821 from APC 248 to APC 247.

• Move CPT code 67820 from APC 698 to APC 230.

• Move CPT code 67208 from APC 231 to APC 235.

• Move CPT codes 92226, 92284, 65205, 92140 from APC 231 to APC 698.

• Move CPT code 92235 from APC 231 to APC 699.

• Move CPT code 68100 from APC 233 to APC 232.

• Move CPT code 65180 from APC 233 to APC 234.

• Create a new APC (Level IV Anterior Segment Eye Procedures) by moving CPT codes 66172, 66185, 66180, 66225 from APC 234.

• Move CPT code 92275 from APC 216 to APC 231.

No presenters commented on these APCs, and, after brief discussion, the Panel recommended concurrence with our suggested changes. We propose to accept the Panel's recommendations. We note that when we were able to use 2001 claims data to re-evaluate the changes recommended by the Panel for these APCs, we found violations of the 2 times rule in the reconfigured APCs. Nonetheless, we propose to accept the Panel's recommendations because they result in more clinically coherent APCs. We solicit comments on further changes that would address the violations of the 2 times rule. We plan to place these APCs on the panel's agenda for 2003.

APC 110: Transfusion

APC 111: Blood Product Exchange

APC 112: Apheresis, Photopheresis, and Plasmapheresis

We presented these APCs to the Panel in 2001 because of their low payment rates and concern that our cost data was inaccurate. These APCs were on the agenda this year in order to obtain further comment on our cost data. We suggested no changes in the structure of these APCs.

Representatives of two associations made presentations regarding these APCs. One recommended that all the plasma derivatives and recombinant analogs that currently receive transitional pass-through payments be assigned to permanent APCs in 2003, similar to the designations of other blood products. The representative of the second association supported this recommendation.

The second presenter also pointed out that, consistent with our billing instructions, every claim that a hospital submits for a blood transfusion should include codes for both the blood product and the transfusion. Therefore, payment for blood and blood products is another area affected by the use of single bills in setting payment weights. The Panel agreed to look specifically at blood in its work on the multiple claims issues.

The Panel recommended that plasma derivatives be placed in their own APCs and classified in the same manner as whole blood products. In addition, the Panel observed that hospitals incur additional costs with each unit of blood product transfused and, therefore, recommended that APC 110 be revised to allow for the costs of additional units of blood product and clinical services.

In section III.C, we discuss our payment proposals for drugs and biologicals for which pass-through payments are scheduled to expire in 2003. Those proposals would affect payment for blood and blood products. We propose not to accept the Panel's recommendation to change current OPPS payment policy for transfusions. The current payment reflects weight averaging over the number of units transfused. Therefore, unless a hospital specializes in transfusing multiple units of blood, payments for this procedure should be, on average, appropriate.

Panel Recommendations to Defer Changes Pending Availability of 2001 Claims Data

Regarding the remaining APC groups that are addressed below, the Panel recommended that we make no changes until data from claims billed in 2001 under the OPPS become available for analysis. The Panel further requested that we place the APC groups in this section on the agenda for consideration at its meeting in 2003. The changes that we propose for the APCs in this section are based upon our review of the 2001 claims data, which did not become available until March 2002.

APC 203: Level V Nerve Injections

APC 204: Level VI Nerve Injections

APC 206: Level III Nerve Injections

APC 207: Level IV Nerve Injections

Several presenters to the Panel suggested changes in the configuration of these APCs because of concerns that the current classifications result in payment rates that are too low relative to the resource costs associated with certain procedures in the APCs. Several of these APCs include procedures associated with drugs or with device categories for which pass-through payments are scheduled to expire in 2003. The Panel recommended that we not change the structure of these APCs at this time. Because the structure of these APCs was substantially changed for 2002, and 2002 cost data was not yet available, the Panel felt it would be appropriate to review 2002 cost data prior to making further structural changes to these APCs. We propose to accept the Panel's recommendation. We will place these APCs on the Panel's agenda when 2002 cost data becomes available.

APC 43: Closed Treatment Fracture Finger/Toe/Trunk

APC 44: Closed Treatment Fracture/Dislocation, Except Finger/Toe/Trunk

On the basis of 1999-2000 claims data, these APCs violate the 2 times rule. The Panel reviewed these APCs and recommended no changes.

Our subsequent review of 2001 OPPS cost data shows continuing violations of the 2 times rule and that costs within these APCs are virtually identical. Therefore, we propose to combine APCs 43 and 44 into APC 43. The procedures in the consolidated APC are clinically homogeneous.

APC 58: Level I Strapping and Cast Application

APC 59: Level II Strapping and Cast Application

The Panel reviewed these APCs and recommended that no changes be made pending analysis of 2001 claims data. The panel did recommend that billing instructions be developed on the appropriate use of the codes in these APCs. We agree with the Panel's recommendation regarding the need for billing instructions, and we expect to develop such instructions for hospitals to use in 2003.

Our subsequent review of 2001 claims data reveals that, in some cases, costs for short casts and splints are greater than costs for long casts and splints. Moreover, the proposed payments for these two APCs, based on 2001 OPPS data, would not differ significantly from each other. Therefore, we propose to combine the codes in APC 58 and APC 59 into a single APC, APC 58. Combining these APCs does not compromise clinical homogeneity. The relative weight of the proposed single APC is virtually identical to the relative weight of each of the two current APCs. We propose to continue to work with hospitals to develop appropriate coding for these services and will review the appropriate APC structure for these services next year.

APC 279: Level I Angiography and Venography Except Extremity

APC 280: Level II Angiography and Venography Except Extremity

Without the benefit of 2001 OPPS claims data, it was difficult for the Panel to determine whether the apparent violation of the 2 times rule in APCs 279 and 280 was attributable to underreporting of procedures or inaccurate coding. Therefore, the Panel recommended no changes pending the availability of the more recent claims data. After subsequently reviewing the 2001 claims data, we propose to move CPT codes 75978, Transluminal balloon angioplasty, venous, radiological supervision and interpretation, and 75774, Angiography, selective, each additional vessel studied after basic examination, radiological supervision and interpretation, to new APC 0668. This would resolve violations of the 2 times rule and result in clinically coherent APCs.

APC 115: Cannula/Access Device Procedures

We propose to move CPT code 36860, External Cannula Declotting; without balloon catheter, to APC 103, Miscellaneous Vascular Procedures. We believe this makes both APC 115 and APC 103 more clinically homogeneous and it resolves a violation of the 2 times rule in APC 115 that was caused by the presence of CPT code 36860.

APC 93: Vascular Repair/Fistula Construction

APC 140: Esophageal Dilation without Endoscopy

APC 141: Upper GI Procedures

APC 142: Small Intestine Endoscopy

APC 143: Lower GI Endoscopy

APC 144: Diagnostic Anoscopy

APC 145: Therapeutic Anoscopy

APC 146: Level I Sigmoidoscopy

APC 147: Level II Sigmoidoscopy

APC 148: Level I Anal/Rectal Procedure

APC 149: Level II Anal/Rectal Procedure

Our subsequent review of 2001 claims data suggests that the cost data for APCs 144 and 145 are aberrant. The cost data for these APCs yield relative weights and payments that are significantly higher than the relative weights for APCs 146 and 147, which consist of similar procedures performed through a sigmoidoscope rather than an anoscope. As currently arranged, the APC configuration for these services could provide a financial incentive for hospitals to perform unnecessary anoscopic procedures, either alone or with a sigmoidoscopy. To rectify this problem, we propose to move the procedures in APCs 144 and 145 to APC 147 with the exception of CPT code 46600, Anoscopy; diagnostic, which we propose to assign to APC 340, Minor Ancillary procedures. We believe these changes would result in clinically coherent APCs with appropriate relative weights and payment rates.

APC 363: Otorhinolaryngologic Function Tests

Based on 2001 claims data, we propose to move CPT codes 92543, 92588, 92520, 92546, 92516, 92548, and 92584 to new APC 0660 (Level III Otorhinolaryngolgic Function Tests). This change would resolve a 2 times rule violation and create clinically coherent APCs.

APC 96: Non-Invasive Vascular Studies

APC 265: Level I Diagnostic Ultrasound Except Vascular

APC 266: Level II Diagnostic Ultrasound Except Vascular

APC 267: Vascular Ultrasound

APC 269: Level I Echocardiogram Except Transesophageal

APC 270: Transesophageal Echocardiogram

The APC Panel recommended making no changes in the configuration of these APCs. Several groups made a joint proposal to reconfigure these APCs arguing that their proposal resulted in more clinically coherent APCs. However, several other presenters commented that the joint proposal did not include several physician groups who commonly perform these procedures.

Based on 2001 claims data, we propose to make several changes in order to resolve 2 times rule violations and to make these APCs more clinically coherent. Specifically, we propose to move CPT code 43499 from APC 0140 to APC 141; CPT code 93721 from APC 0096 to APC 368; CPT code 93740 from APC 0096 to APC 367; CPT code 93888 from APC 0267 to APC 266; and CPT code 93931 from APC 0267 to APC 266. We also propose to move CPT codes 78627, 76825, and 93320 from APC 0269 to new APC 0671 to achieve more clinical coherence. We also propose to create new APC 0670 for intravascular ultrasound and intracardiac echocardiography consisting of CPT codes 37250, 37251, 92978, 92979, and 93662.

APC 291: Level I Diagnostic Nuclear Medicine Excluding Myocardial Scans

APC 292: Level II Diagnostic Nuclear Medicine Excluding Myocardial Scans

Subsequent to the APC Panel meeting, we received comments on these APCs from the Nuclear Medicine Task Force. After a thorough review of that proposal within the context of the 2001 claims data, we propose to accept the recommendations of the Nuclear Medicine Task Force, which would result in a complete reconfiguration of APCs 290, 291, and 292. Although the reconfiguration would create violations of the 2 times rule, we agree with the Task Force that the reconfigured APCs are more clinically coherent. We note that APCs 290, 291, and 292 as currently configured would also violate the 2 times rule. Therefore, we solicit comments on the proposed reconfiguration of APCs 290, 291, and 292 and on alternative groupings that would achieve clinical coherence without violating the 2 times rule.

APC 274: Myleography

APC 179: Urinary Incontinence Procedures

APC 182: Insertion of Penile Prosthesis

APC 19: Level I Excision/Biopsy

APC 20: Level II Excision/Biopsy

APC 21: Level IV Excision/Biopsy

APC 22: Level V Excision/Biopsy

APC 694: Level III Excision/Biopsy

Based on 2001 claims data, we propose to move several codes from APC 19 to APC 20 and several codes from ACP 20 to APC 21. Additionally, we propose to move CPT codes 11770, 54105, and 60512 to APC 22. We also propose to move CPT code 58999 to APC 191 and CPT code 37799 to APC 35. These changes would result in clinically coherent APCs that do not violate the 2 times rule.

APC 24: Level I Skin Repair

APC 25: Level II Skin Repair

APC 26: Level III Skin Repair

APC 27: Level IV Skin Repair

APC 686: Level V Skin Repair

Based on 2001 claims data, we propose to move CPT code 43870 from APC 0025 to APC 141; and CPT codes with high costs from APC 26 to APC 27. We also propose to move the codes remaining in APC 26 to APC 25. APC 26 would then be deleted. These changes would result in a more compact APC structure without compromising the clinical homogeneity of the reconfigured APCs and without violating the 2 times rule. See Table 1 for codes moving from APC 26 to APC 25 or APC 27.

Table 1.—HCPCS Codes Proposed To Be Moved From APC 26 into APC 25 or APC 27
2002 APC 26 | 2003 APC 25 | 2003 APC 27
11960 |  | 11960
11970 |  | 11970
12037 | 12037
12047 | 12047
12057 | 12057
13150 | 13150
13160 |  | 13160
14000 |  | 14000
14001 |  | 14001
14020 |  | 14020
14021 |  | 14021
14040 |  | 14040
14041 |  | 14041
14060 |  | 14060
14061 |  | 14061
14300 |  | 14300
14350 |  | 14350
15000 | 15000
15001 | 15001
15050 | 15050
15101 |  | 15101
15120 |  | 15120
15121 |  | 15121
15200 |  | 15200
15201 | 15201
15220 |  | 15220
15221 | 15221
15240 |  | 15240
15241 | 15241
15260 |  | 15260
15261 | 15261
15351 |  | 15351
15400 | 15400
15401 | 15401
15570 |  | 15570
15572 |  | 15572
15574 |  | 15574
15576 |  | 15576
15600 |  | 15600
15610 |  | 15610
15620 |  | 15620
15630 |  | 15630
15650 |  | 15650
15775 | 15775
15776 | 15776
15819 | 15819
15820 |  | 15820
15821 |  | 15821
15822 |  | 15822
15823 |  | 15823
15825 |  | 15825
15826 |  | 15826
15829 |  | 15829
15835 | 15835
20101 |  | 20101
20102 |  | 20102
20910 |  | 20910
20912 |  | 20912
20920 |  | 20920
20922 |  | 20922
20926 |  | 20926
23921 | 23921
25929 |  | 25929
33222 |  | 33222
33223 |  | 33223
44312 |  | 44312
44340 |  | 44340
15580—Code Deleted
15625—Code Deleted

APC 77: Level I Pulmonary Treatment

APC 78: Level II Pulmonary Treatment

APC 251: Level I ENT Procedures

APC 252: Level II ENT Procedures

APC 253: Level III ENT Procedures

APC 254: Level IV ENT Procedures

APC 256: Level V ENT Procedures

Based on 2001 claims data, we propose to address violations of the 2 times rule by moving CPT codes 40812, 42330, and 21015 from APC 0252 to APC 253 and by moving CPT codes 41120 and 30520 to APC 254.

B. Other Changes Affecting the APCs

1. Limit on Variation of Costs of Services Classified Within a Group

Section 1833(t)(2) of the Act provides that the items and services within an APC group cannot be considered comparable with respect to the use of resources if the highest cost item or service within a group is more than 2 times greater than the lowest cost item or service within the same group. However, the statute authorizes the Secretary to make exceptions to this limit on the variation of costs within each group in unusual cases such as low volume items and services. No exception may be made, however, in the case of a drug or biological that has been designated as an orphan drug under section 526 of the Federal Food, Drug, and Cosmetic Act.

Taking into account the proposed APC changes discussed in relation to the APC panel recommendations in this section of this preamble and the use of 2001 claims data to calculate the median cost of procedures classified to APCs, we reviewed all the APCs to determine which of them would not meet the 2 times limit. We use the following criteria when deciding whether to make exceptions to the 2 times rule for affected APCs:

• Resource homogeneity.

• Clinical homogeneity.

• Hospital concentration.

• Frequency of service (volume).

• Opportunity for upcoding and code fragmentation.

For a detailed discussion of these criteria, refer to the April 7, 2000 final rule (65 FR 18457).

The following table contains APCs that we propose to exempt from the 2 times rule based on the criteria cited above. In cases in which compliance with the 2 times rule appeared to conflict with a recommendation of the APC Advisory Panel, we generally accepted the Panel recommendation. This was because Panel recommendations were based on explicit consideration of resource use, clinical homogeneity, hospital specialization, and the quality of the data used to determine payment rates.

The median cost for hospital outpatient services for these and all other APCs can be found at website: http://www.cms.hhs.gov.

Table 2.—Table of Exempted Codes
NPRM APC | Description
0012 | Level I Debridement & Destruction
0019 | Level I Excision/ Biopsy
0020 | Level II Excision/ Biopsy
0025 | Level II Skin Repair
0032 | Insertion of Central Venous/Arterial Catheter
0043 | Closed Treatment Fracture Finger/Toe/Trunk
0046 | Open/Percutaneous Treatment Fracture or Dislocation
0058 | Level I Strapping and Cast Application
0074 | Level IV Endoscopy Upper Airway
0080 | Diagnostic Cardiac Catheterization
0081 | Non-Coronary Angioplasty or Atherectomy
0093 | Vascular Repair/Fistula Construction
0097 | Cardiac and Ambulatory Blood Pressure Monitoring
0099 | Electrocardiograms
0103 | Miscellaneous Vascular Procedures
0105 | Revision/Removal of Pacemakers, AICD, or Vascular
0121 | Level I Tube changes and Repositioning
0140 | Esophageal Dilation without Endoscopy
0147 | Level II Sigmoidoscopy
0148 | Level I Anal/Rectal Procedure
0155 | Level II Anal/Rectal Procedure
0165 | Level III Urinary and Anal Procedures
0170 | Dialysis
0179 | Urinary Incontinence Procedures
0191 | Level I Female Reproductive Proc
0192 | Level IV Female Reproductive Proc
0203 | Level VI Nerve Injections
0204 | Level I Nerve Injections
0207 | Level III Nerve Injection
0218 | Level II Nerve and Muscle Tests
0225 | Implantation of Neurostimulator Electrodes
0230 | Level I Eye Tests & Treatments
0231 | Level III Eye Tests & Treatments
0233 | Level II Anterior Segment Eye Procedures
0235 | Level I Posterior Segment Eye Procedures
0238 | Level I Repair and Plastic Eye Procedures
0239 | Level II Repair and Plastic Eye Procedures
0252 | Level II ENT Procedures
0260 | Level I Plain Film Except Teeth
0274 | Myelography
0286 | Myocardial Scans
0290 | Level I Diagnostic Nuclear Medicine Excluding Myocardial Scans
0291 | Level II Diagnostic Nuclear Medicine Excluding Myocardial Scans
0294 | Level I Therapeutic Nuclear Medicine
0297 | Level II Therapeutic Radiologic Procedures
0303 | Treatment Device Construction
0304 | Level I Therapeutic Radiation Treatment Preparation
0330 | Dental Procedures
0345 | Level I Transfusion Laboratory Procedures
0354 | Administration of Influenza/Pneumonia Vaccine
0356 | Level II Immunizations
0367 | Level I Pulmonary Test
0368 | Level II Pulmonary Tests
0370 | Allergy Tests
0373 | Neuropsychological Testing
0600 | Low Level Clinic Visits
0602 | High Level Clinic Visits
0660 | Level III Otorhinolaryngologic Function Tests
0692 | Electronic Analysis of Neurostimulator Pulse Generators
0694 | Mohs Surgery
0698 | Level II Eye Tests & Treatments

2. Procedures Moved From New Technology APCs to Clinically Appropriate APCs

In the November 30, 2001 final rule, we made final our proposal to change the period of time during which a service may be paid under a new technology APC (66 FR 59903), initially established in the April 7, 2000 final rule. That is, beginning in 2002, we will retain a service within a new technology APC group until we have acquired adequate data that allow us to assign the service to a clinically appropriate APC. This policy allows us to move a service from a new technology APC in less than 2 years if sufficient data are available, and it also allows us to retain a service in a new technology APC for more than 3 years if sufficient data upon which to base a decision for reassignment have not been collected.

Effective in 2003, we propose to move several procedures from new technology APCs to clinical APCs. Those procedures and the clinical APCs to which we propose to assign the procedures for payment in 2003 are identified in Table 3. Based upon our review of the 2001 OPPS claims data, we believe we have sufficient information upon which to base assignment of these procedures to clinical APCs. In making this determination, we reviewed both single and multiple procedure claims. We compared median cost data for the new technology procedures with median cost data for procedures that are clinically similar and for which we would expect costs to be similar. We also compared median cost data for the new technology procedures with median cost data for clinically related procedures, such as different methods of treating prostatic hypertrophy, where expected median costs were lower or higher than those of the new technology procedure. In some cases we propose classification of a new technology procedure in an APC with procedures that are similar both clinically and in terms of resource consumption. In other cases, we propose to create a new APC for a new technology procedure because we do not believe any of the existing APCs contain procedures that are clinically similar and similar in terms of resource consumption. We solicit comments on our proposed reassignment of the new technology procedures listed in Table 3.

Table 3.—Proposed Changes in HCPCS Assignments From New Technology APCs to Procedure APCs for 2003
HCPCS | Description | 2002 SI | 2003 SI | 2002 APC | 2003 APC
19103 | Bx breast percut w/device | S | T | 0710 | 0658
33282 | Implant pat-active ht record | S | S | 0710 | 0680
36550 | Declot vascular device | T | T | 0972 | 0677
53850 | Prostatic microwave thermotx | T | T | 0982 | 0675
53852 | Prostatic rf thermotx | T | T | 0982 | 0675
55873 | Cryoablate prostate | T | T | 0982 | 0674
76075 | Dual energy x-ray study | S | S | 0707 | 0288
76076 | Dual energy x-ray study | S | S | 0707 | 0665
77520 | Proton trmt, simple w/o comp | S | S | 0710 | 0664
77522 | Proton trmt, simple w/comp | S | S | 0710 | 0664
77523 | Proton trmt, intermediate | S | S | 0712 | 0664
77525 | Proton treatment, complex | S | S | 0712 | 0664
92586 | Auditor evoke potent, limit | S | S | 0707 | 0218
95965 | Meg, spontaneous | T | S | 0972 | 0717
95966 | Meg, evoked, single | T | S | 0972 | 0714
95967 | Meg, evoked, each addl | T | S | 0972 | 0712
C1300 | Hyperbaric oxygen | S | S | 0707 | 0659
C9708 | Preview Tx Planning Software | T | T | 0975 | 0973
G0125 | PET img WhBD sgl pulm ring | T | S | 0976 | 0667
G0166 | Extrnl counterpulse, per tx | T | T | 0972 | 0678
G0168 | Wound closure by adhesive | T | X | 0970 | 0340
G0173 | Stereo radoisurgery, complete | S | S | 0721 | 0663
G0204 | Diagnostic mammography digital | S | S | 0707 | 0669
G0206 | Diagnostic mammography digital | S | S | 0707 | 0669
G0210 | PET img whbd ring dxlung ca | S | S | 0714 | 0667
G0211 | PET img whbd ring init lung | S | S | 0714 | 0667
G0212 | PET img whbd ring restag lun | S | S | 0714 | 0667
G0213 | PET img whbd ring dx colorec | S | S | 0714 | 0667
G0214 | PET img whbd ring init colre | S | S | 0714 | 0667
G0215 | PET img whbd restag col | S | S | 0714 | 0667
G0216 | PET img whbd ring dx melanom | S | S | 0714 | 0667
G0217 | PET img whbd ring init melan | S | S | 0714 | 0667
G0218 | PET img whbd ring restag mel | S | S | 0714 | 0667
G0220 | PET img whbd ring dx lymphom | S | S | 0714 | 0667
G0221 | PET img whbd ring init lymph | S | S | 0714 | 0667
G0222 | PET img whbd ring resta lymp | S | S | 0714 | 0667
G0223 | PET img whbd reg ring dx hea | S | S | 0714 | 0667
G0224 | PET img whbd reg ring ini hea | S | S | 0714 | 0667
G0225 | PET img whbd ring restag hea | S | S | 0714 | 0667
G0226 | PET img whbd dx esophag | S | S | 0714 | 0667
G0227 | PET img whbd ring ini esopha | S | S | 0714 | 0667
G0228 | PET img whbd ring restg esop | S | S | 0714 | 0667
G0229 | PET img metabolic brain ring | S | S | 0714 | 0667
G0230 | PET myocard viability ring | S | S | 0714 | 0667
G0231 | PET WhBD colorec; gamma cam | S | S | 0714 | 0667
G0232 | PET WhBD lymphoma; gamma cam | S | S | 0714 | 0667
G0233 | PET WhBD melanoma; gamma cam | S | S | 0714 | 0667
G0234 | PET WhBD pulm nod, gamma cam | S | S | 0714 | 0667

3. APC Assignment for New Codes Created During 2002

During CY 2002 we created several HCPCS codes to describe services newly covered by Medicare and payable under the hospital OPPS. While we have assigned these services to APCs for CY 2002, the assignments are open to public comment in this proposed rule. In this proposed rule, we solicit comment on the APC assignment of these services. In addition, in this proposed rule, we are proposing the creation of several new HCPCS codes and APC assignments with an effective date of January 1, 2003. Table 4 below includes new procedural HCPCS codes either created for implementation in July 2002, which we intend to implement in October 2002, or which we propose to implement January 2003.

Table 4 does not include new codes for drugs and devices for which we established or intend to establish pass-through payment eligibility in July or October 2002. Furthermore, neither the new procedural HCPCS nor the new pass-through codes intended as of this publication for implementation beginning October 2002 or later are included in Addendum B of this proposed rule.

Table 4.—New G Codes for 2002 and Proposed G Codes for 2003
Code | Long descriptor | APC | SI | Proposed effective date
G0245 | Initial physician evaluation of a diabetic patient with diabetic sensory neuropathy resulting in a loss of protective sensation (LOPS) which must include the procedure used to diagnose LOPS; a patient history; and a physician examination that consists of at least the following elements—* * * | 0600 | V | 7/01/02
G0246 | Follow-up physician evaluation of a diabetic patient with diabetic sensory neuropathy resulting in a loss of protective sensation (LOPS) which must include the procedure used to diagnose LOPS; a patient history; and a physician examination that includes—* * * | 0600 | V | 7/01/02
G0247 | Routine foot care by a physician of a diabetic patient with diabetic sensory neuropathy resulting in a loss of protective sensation (LOPS) to include if present at least the following—* * * | 0009 | T | 7/01/02
G0248 | Demonstration, at initial use, of home INR monitoring for a patient with mechanical heart valve(s) who meets Medicare coverage criteria, under the direction of a physician; includes: demonstration use and care of the INR monitor, obtaining at least one blood sample provision of instructions for reporting home INR test results and documentation of a patient's ability to perform testing | 0708 | S | 7/01/02
G0249 | Provision of test material and equipment for home INR monitoring to patient wih mechanical heart valve(s) who meets Medicare coverage criteria. Includes provision of materials for use in the home and reporting of test results to physician; per 4 tests | 0708 | S | 7/01/02
G0250 | Physician review/interpretation and patient management of home INR test for patient with mechanical heart valve(s) who meets other coverage criteria; per 4 tests (does not require face-to-face service) | N/A | E | 7/01/02
G0AAA | PET imaging for initial diagnosis of breast cancer and/or surgical planning for breast cancer (for example, initial staging of axillary lymph nodes), not covered by Medicare. | N/A | E | 10/01/02
G0BBB | PET imaging for breast cancer, full and partial-ring PET scanners only, staging/restaging after or prior to course of treatment | 0285 | S | 10/01/02
G0CCC | PET imaging for breast cancer, full and partial-ring PET scanners only, evaluation of response to treatment, performed during course of treatment | 0285 | S | 10/01/02
G0DDD | Current Perception Threshold/Sensory Nerve Conduction Test, (SNCT) per limb, any nerve. | N/A | E | 10/01/02
G0EEE | Intravenous infusion(s) during separately payable observation stay, Per observation stay (must be reported with G0244) | 0340 | X | 10/01/02
G0FFF | Bone marrow aspiration and biopsy performed through a single incision during a single session | 0003 | T | 1/01/03
G0GGG | Unscheduled or emergency treatment for dialysis for ESRD patient in the outpatient department of a hospital that does not have a certified ESRD facility | 0170 | S | 1/01/03
G0HHH | Injection procedure for sacroiliac joint; arthrography | N/A | N | 1/01/03
G0JJJ | Injection procedure for sacroiliac joint; provision of anesthetic, steroid, and/or other therapeutic agent | 0204 | T | 1/01/03
G0KKK | Prostate brachytherapy, including transperineal placement of needles or catheters into the prostate, cystoscopy, and interstitial radiation source application. | 0684 | T | 1/01/03
G0LLL | Initial nursing assessment of patient directly admitted to observation with diagnosis of congestive heart failure, chest pain or asthma. | N | N | 1/01/03
G0MMM | Initial nursing assessment of patient directly admitted to observation with diagnosis other than congestive heart failure, chest pain or asthma. | 0706 | S | 1/01/03
G0NNN | Transcatheter placement of a drug eluting intracoronary stent(s), percutaneous, with or without other therapeutic intervention, any method; single vessel. | 0656 | T | 01/01/03
G0OOO | Transcatheter placement of a drug eluting intracoronary stent(s), percutaneous, with or without other therapeutic intervention, any method; each additional vessel. | 0656 | T | 01/01/03

HCPCS Codes Created During CY 2002

The G codes G0245 through G0250 were created to implement payment for newly covered Medicare services due to national coverage determinations. The G codes G0AAA-G0DDD will be established October 1, 2002 as a result of national coverage policies that will be effective October 1, 2002. These codes were created to accurately describe the services covered, to ensure they were reported correctly, to track their utilization, and to establish payment. We solicit comments on the APC assignment of these services. The codes describing evaluation and management services were assigned to clinic visit APCs containing similar services, and the codes describing procedural services were assigned to new technology APCs or to APCs containing procedures requiring similar resource consumption. Because G0250 is a professional service furnished by a physician, it is not payable under OPPS.

We expect to implement HCPCS code G0EEE (Intravenous Infusion(s) During Separately Payable Observation Stay) effective October 1, 2002 to describe infusion therapy given during a separately payable observation stay. This code is discussed in detail in section VIII.B of this proposed rule. We have assigned it to APC 0340. We believe APC 0340 appropriately accounts for the resources used for infusion during observation. This is because we believe that Q0081, which represents the same service as G0EEE, is typically billed with an APC that has a higher relative weight, therefore making APC 0120 payable at 50 percent of its payment rate.

HCPCS Codes Proposed in This Rule for January 1, 2003

We are proposing the creation of several new HCPCS codes for 2003 in order to address issues that have come to our attention, to describe new technology procedures, to implement policy proposals discussed in this rule, and to allow more appropriate reporting of procedures currently described by CPT (HCPCS Level I) codes.

(1) G0FFF—Bone Marrow Aspiration and Biopsy Services—we are proposing to create this code to describe bone marrow aspiration and biopsy performed through the same incision. We propose to place this code in APC 0003. This code also appears in the proposed rule for the physician fee schedule, published in the June 28, 2002 issue of the Federal Register (67 FR 43846). This code would facilitate proper reporting of this procedure.

(2) G0GGG—Unscheduled and Emergency Treatment for ESRD Patients—we are proposing this code in order to facilitate payment for dialysis provided to ESRD patients in the outpatient department of a hospital that does not have a certified ESRD facility. This code is described in detail in section VIII.G of this proposed rule.

(3) G0HHH and G0JJJ—Sacroiliac Joint Injections—we are proposing to create these two codes to replace CPT code 27096, Injection procedure for sacroiliac joint, arthrography and/or anesthetic steroid. CPT code 27096 describes two distinct procedures requiring different resource consumption. Moreover, our policy of packaging injection procedures required packaging of this procedure even when it was used to report injection of a steroid or anesthetic. In these cases, it was appropriately billed without another procedure and should have been payable. Therefore, in order to facilitate appropriate reporting and payment for the procedures described by CPT code 27096, we propose to create G0HHH, Injection procedure for sacroiliac joint, arthrography, and G0JJJ, Injection procedure for sacroiliac joint, provision of anesthetic and/or steroid. G0HHH would be given status indicator N, and G0JJJ would be assigned to APC 0204.

(4) G0KKK—Prostate Brachytherapy—we are proposing this code to implement our policy decision discussed in section III.C.3 of this proposed rule.

(5) G0LLL and G0MMM—Observation Care—we are proposing to create these codes to describe observation care provided to a patient who is directly admitted from a physician's office to a hospital for observation care. These codes are discussed in detail in section VIII.B of this rule.

(6) G0NNN, G0OOO; Drug Eluting Stents—

Drug-Eluting Stents

Drug-eluting coronary artery stents (referred to as “drug-eluting stents” in the discussion that follows) have been developed to combat the problem of restenosis of blood vessels previously treated for stenosis. The drug is coated on a stent with a special polymer, and after the stent is placed in the vessel, the drug is slowly released into the vessel wall tissue over a period of 30 to 45 days. The drug coating on the stent is intended to prevent the build-up of scar tissue that can narrow the reopened artery. The FDA has not yet approved this technology for general use. We understand the earliest date that a decision from the FDA is anticipated is late 2002.

We received an application to establish a new medical device category eligible for transitional pass-through payment under the OPPS for drug-eluting stents from a manufacturer of these stents. In the application for the new device category, the manufacturer asserts that drug-eluting stents meet the criteria for establishing a new device category that were set forth in the November 2, 2001 Federal Register. Specifically, the manufacturer believes a new device category is appropriate because drug-eluting stents meet the cost significance thresholds for a new device category, and they provide substantial therapeutic benefit to Medicare beneficiaries compared to other available therapies for coronary atherosclerosis.

Based on our review of the application as well as other information pertaining to drug-eluting stents, we determined that drug-eluting stents are described by an existing pass-through device category. As we discuss in section III.D of this preamble, section 1833(t)(6)(B)(ii)(IV) of the Act requires that a new category must include medical devices for which no existing category, or one previously in effect, is appropriate. In the program memorandum that we issued to our contractors on March 22, 2001 (Transmittal A-01-41) with instructions for the implementation of category codes for use in making transitional pass-through payments for devices, we established two categories that describe and could be used to bill for drug-eluting stents: HCPCS code C1874, Stent, coated/covered, with delivery system, and HCPCS code C1875, Stent, coated/covered, without delivery system. These two categories were based on devices that previously qualified for transitional pass-through payment on an item-specific basis. Although these two device categories are among those that will sunset after December 31, 2002, as we discuss in section III.C of this preamble, the fact that they exist precludes the establishment of a new device category for drug-eluting stents.

Payment for drug-eluting stents is not allowed under the OPPS until they receive FDA approval for general use. If the drug-eluting stents are approved for general use by the FDA, payment would be packaged into the APC payment for the procedures with which the stents are used. The cost of drug-eluting stents would be incorporated within the APC relative payment weights when we recalibrate the payment weights in CY 2005 using CY 2003 claims data.

In considering how we would pay for drug eluting stents under OPPS we thought carefully about how the payment should relate to payment for these stents under IPPS. Section 533 of BIPA added sections 1886(d)(5)(K) and (d)(5)(L) to the Act (as implemented by § 42 CFR 412.87 and 412.88 ) to reduce the time needed under the hospital inpatient PPS for the DRG system to recognize the higher costs of new technologies that meet certain criteria. Drug-eluting stents did not meet the inpatient PPS new technology cost threshold criterion in the May 9, 2002 proposed rule to update the hospital inpatient PPS for FY 2003. Therefore, in that proposed rule, we listed a new ICD-9 procedure code 36.07 (Insertion of drug-eluting coronary artery stent(s)) that would be effective for use October 1, 2002. We also proposed to add ICD-9 code 00.55 (Insertion of drug-eluting noncoronary artery stent) (67 FR 31630). To be consistent with our prior practice of assigning new technology to the same DRGs to which its predecessor technologies were assigned, we proposed in the May 9 inpatient PPS proposed rule to assign inpatient cases involving ICD-9 code 36.07 to DRG 517 (Percutaneous Cardiovascular Procedure with Coronary Artery Stent without AMI).

However, comments to the May 9, 2002 proposed IPPS rule and our own further consideration of this issue persuaded us that a different approach was needed for the IPPS given the preliminary evidence that drug-eluting stents could prove potentially to be transformational technology in the treatment of coronary artery disease. While this technology is not yet approved for general use by FDA, commenters to the May 9 hospital inpatient PPS proposed rule reported that drug-eluting stents have shown promise to significantly advance the treatment of coronary artery disease, and they encouraged CMS to consider the available data to determine the most appropriate DRG payment. Commenters supported reassignment of the new procedure codes for drug-eluting stent insertions to higher paying DRGs or, if necessary, the modification of all affected DRGs, once verifiable data on the costs associated with drug-eluting stents become available.

Many of the commenters who supported higher payment under the inpatient PPS for this technology were clinical practitioners and hospitals, who expressed great anticipation for the potential benefits of this technology. In addition, commenters referred to the likelihood that, once approved, patients would demand to have these new drug-eluting stents, putting tremendous financial strain on hospitals.

Commenters to the proposed rule for the inpatient PPS for FY 2003 also argued there should be long-term cost savings to the Medicare program and the health system generally from this technology after approval by the FDA. Specifically, if dramatically fewer patients require restenting, savings will result from fewer repeat angioplasty procedures. And, to the extent bypass surgeries are reduced, savings would result from that outcome as well.

In responding to these commenters in the inpatient final rule published in the Federal Register on August 1, 2002 (67 FR 50003), we noted that, although the FDA has not yet approved this technology for general use, public presentation of the results from recent clinical trials have found virtually no in-stent restenosis in patients treated with the drug-eluting stent. Therefore, we recognize the potentially significant impact this technology may conceivably have on the treatment of coronary artery blockages.

We are concerned that, if the FDA does approve this technology and the predictions of its rapid, widespread use are accurate, significant strain on hospital financial resources would result. In particular, we are concerned that the higher costs of this technology would create undue financial hardships for hospitals due to the high volume of stent cases and the fact that a large proportion of these cases could involve the new technology soon after FDA approval. Therefore, in the final rule for the FY 2003 inpatient PPS, we implemented an unprecedented approach in response to the unique circumstances surrounding the potential breakthrough nature of this technology and we created two new DRGs to reflect cases involving the insertion of a drug-eluting coronary artery stent. We discuss in detail in the final inpatient PPS rule our rationale for establishing these DRGs (67 FR 50003-50005).

Although the clinical trials for drug-eluting stents are being conducted on hospital inpatients, our 2001 hospital outpatient claims data included nearly 18,000 claims for procedures utilizing other types of coronary stents in the hospital outpatient setting. Every indication points to a steady increase in the future volume of coronary stent procedures performed on an outpatient basis. The same concerns that we express above about the impact of the advent of drug-eluting stents on hospital resources apply to procedures performed in the outpatient setting as well as the inpatient setting. We created these new DRGs for drug-eluting stents to ensure and promote beneficiary access to the best care possible by ensuring that our payment system keeps pace with what we believe will be a growing volume of coronary stent procedures if FDA approves drug-eluting coronary artery stents. We want to ensure that the costs of drug-eluting stents will be recognized sufficiently quickly to ensure beneficiary access in the outpatient setting over the 2 years that it will take for the costs of these devices to appear in the Medicare data on which we will base Medicare payments for them.

Drug-eluting stents may have been commercially marketed for 2 years by the time cost data for stent insertion procedures performed in CY 2003 are incorporated into the APC relative weights under the OPPS for CY 2005. Therefore, as we have done under the inpatient PPS for FY 2003 under these exceptional circumstances, we propose to deviate from our standard OPPS payment methodology to ensure consistent payment for drug-eluting stents in both the inpatient and outpatient settings; to ensure that hospital resources are not negatively affected by a sudden surge in demand for this new technology if FDA approval is received; and, to ensure that Medicare payment does not impede beneficiary access to what appears to be a potentially landmark advance in the treatment of coronary disease. Consistent with the special approach we implemented in the inpatient PPS final rule, we propose to create two new HCPCS codes and a new APC that may be used to pay for the insertion of coronary artery drug-eluting stents under the OPPS, to be effective if these stents receive FDA approval for general use. Of course, as with other new procedures, FDA approval does not mean that Medicare will always cover the approved item. Medicare coverage depends upon whether an item or service is medically necessary to treat illness or injury as determined by Medicare contractors based on the specifics of individual cases.

The new HCPCS codes that we propose are as follows: G0NNN—Transcatheter placement of a drug eluting intracoronary stent(s), percutaneous, with or without other therapeutic intervention, any method; single vessel G0OOO—Transcatheter placement of a drug eluting intracoronary stent(s), percutaneous, with or without other therapeutic intervention, any method; each additional vessel.

We propose to assign G0NNN and G0OOO to new APC 0656, Transcatheter Placement of Drug-Eluting Coronary Stents, with a status indicator of T.

To establish a payment amount for the proposed new APC, we propose to apply the same assumptions that we used in establishing the weights for DRG 526 (Percutaneous Cardiovascular Procedure with Drug-Eluting Stent with AMI) and DRG 527 (Percutaneous Cardiovascular Procedure With Drug-Eluting Stent Without AMI) as described in the final rule implementing the FY 2003 inpatient PPS. That is, based on prices in countries where drug-eluting stents are currently being used, manufacturer information and information furnished in response to the May 9, 2002 IPPS proposed rule, and the average price of currently available stents, we assume a price differential of approximately $1,200. Using an average of 1.5 stents per procedure, we propose to add $1,200 to the median costs established for APC 0104 based on 2001 claims data. We would then calculate a relative payment weight and payment rate for APC 0656 in accordance with the methodology that we discuss in section II.B. of this preamble. By taking this approach, we believe that payment for drug-eluting stents would be balanced between the OPPS and the inpatient PPS, minimizing the incentive to use payment as the basis for determining where to furnish this new technology.

We are taking the extraordinary temporary measure of establishing this APC and pricing it as we propose only because we have been advised by experts that these stents can be expected to revolutionize the provision of coronary care and can be expected to supplant use of existing stents. While the statute contemplates the difficulties of setting OPPS payments for new devices by providing the transitional pass-through mechanism, that mechanism does not work in this circumstance since these devices fall into a previously existing device category and do not meet the test for inclusion in new technology APCs. However, the law permits us to take into account changes in technology and the addition of new factors (See section 1833(t)(9)(A)) of the Act. In this case, we think the impact of this new technology will be so great compared to other new technologies that, to ensure beneficiary access to state-of-the-art medical care, we believe that we need to create new codes and a separate APC, paid based on the best information currently available, to ensure adequate payment to providers and access to care during the first 2 years of the device's existence. To undertake this methodology in other cases, we would have to be similarly convinced that the technology would not qualify for pass-through payment nor new technology APC payment, that it will revolutionize the provision of care and that it will replace an existing technology. As indicated previously, this payment mechanism would be a temporary one that would exist only until 2005, at which point we would have sufficient data to determine how to pay for these devices under the standard OPPS methodology for setting payment amounts.

We propose to implement payment under APC 0656 effective April 1, 2003, consistent with the effective date for implementation of the drug-eluting DRGs under the OPPS and contingent upon FDA approval by that date. If the FDA grants approval prior to April 1, 2003, hospitals would be paid for insertion of coronary artery drug-eluting stents under APC 104.

We are proposing to establish the new HCPCS codes and APC group for coronary artery drug-eluting stents to allow close tracking of the utilization and costs associated with these services. Once we obtain adequate cost data for coronary artery drug-eluting stents, we propose to incorporate these data into the current CPT codes for coronary stent placement. We invite comments on this proposed methodology for recognizing the additional costs of drug-eluting stents under the OPPS.

It is important to emphasize that we anticipate that the vast majority of new technologies in the future will continue to be routinely incorporated into the existing DRGs or through the new technology add-on payments under the inpatient PPS. Similarly, we expect in the future to continue to make payment under the OPPS for the vast majority of new technologies through the existing provisions for transitional pass-through payments for new devices, drugs, and biologicals and through new technology APCs.

4. Recalibration of APC Weights for 2003

Section 1833(t)(9)(A) of the Act requires that the Secretary review and revise the relative payment weights for APCs at least annually, beginning in 2001 for application in 2002. In the April 7, 2000 final rule (65 FR 18482), we explained in detail how we calculated the relative payment weights that were implemented on August 1, 2000 for each APC group. Except for some reweighting due to APC changes, these relative weights continued to be in effect for 2001. (See the November 13, 2000 interim final rule (65 FR 67824 to 67827).)

To recalibrate the relative APC weights for services furnished on or after January 1, 2003 and before January 1, 2004, we are proposing to use the same basic methodology that we described in the April 7, 2000 final rule. That is, we would recalibrate the weights based on claims and cost report data for outpatient services. We propose to use the most recent available data to construct the database for calculating APC group weights. For the purpose of recalibrating APC relative weights for 2003, the most recent available claims data are the approximately 110 million final action claims for hospital outpatient department services furnished on or after January 1, 2001 and before January 1, 2002 and processed through March 2002. Many of these 110 million claims were for services that are not paid under OPPS (such as, clinical laboratory tests). We matched the claims that are paid under OPPS to the most recent cost report filed by the individual hospitals represented in our claims data. The APC relative weights would continue to be based on the median hospital costs for services in the APC groups.

a. Data Issues

(1) Treatment of “Multiple Procedure” Claims

We have received many requests (through an April Town Hall meeting and other sources of contact with the public) asking that we ensure that the data from claims that contain charges for multiple procedures are included in the data from which we calculate the 2003 relative payment weights. They believe that relying solely on single procedure claims to recalibrate APC weights fails to take into account data for many frequently performed procedures, particularly those commonly performed in combination with other procedures.

We agree that optimally, it is desirable to use the data from as many claims as possible to recalibrate the relative payment weights, including those with multiple procedures. We identified certain multiple procedure claims that could be treated as single procedure claims, enabling us to greatly increase the number of services used to develop the APC payment weights for 2003. However, several inherent features of multiple bill claims prevented us from using all of them to recalibrate the payment weights. We discuss these obstacles below.

There are four scenarios that occur when multiple procedures are billed on a claim that result in our being unable to use all of those claims to recalibrate the APC weights. In each case, the underlying problem is that there are charges on the claim that we are unable to correctly associate with the HCPCS codes for the procedures on the claim (that is, payable HCPCS codes). In general, we are unable to determine with confidence what portion of those charges should be packaged into the charges for each of the procedures on the claim. The different scenarios that we describe below may occur singly or in combination on the same claim.

In the first scenario, costs associated with outpatient hospital services are reported in revenue centers that cannot be associated with individual HCPCS codes because they are ancillary and supportive of some or all services furnished to the beneficiary. We do not require that hospitals assign a HCPCS code to each revenue center and charge or that they split the charges within revenue centers by HCPCS code because they advise us that they are unable to account for costs in this manner. In addition, to collect and report this information would be burdensome and costly.

Where there is only one HCPCS code for a procedure on the claim, we can assign supporting charges in revenue centers to the single HCPCS code. However, when there are two or more HCPCS codes for procedures on the claim, we have no basis for allocating appropriately the ancillary charges reported under revenue centers to the HCPCS codes for separately payable procedures. For example, a claim containing HCPCS codes for a visit and a surgical procedure may show charges under the revenue center for family clinic (517) for the visit and under operating room (360) for the surgery. But in addition, the claim could show charges under the following revenue centers without assigning a HCPCS code to the revenue center: recovery room (710), charge A for sterile supplies (272), charge B for sterile supplies (272), anesthesia (370), and pharmacy (250). If only a single HCPCS code was billed, we could sum the charges shown under the ancillary revenue centers and attribute those charges to the HCPCS code for the single HCPCS code that was billed. However, because there is more than one separately payable code on the claim (clinic visit and surgery), we do not know which charge for sterile supplies should be mapped to the visit and which should be assigned to the surgery. Similarly, there is nothing on the claim to indicate whether the total pharmacy charge is associated with the surgery or with the clinic visit, or split between them. For this type of multiple procedure claim, we have chosen to exclude the claim from the pool of charges used to calculate median APC costs rather than risk assigning the ancillary revenue center charges incorrectly. This type of multiple procedure claim, often much more complex than this example, accounts for a significant portion of the multiple procedure claims that we are unable to use to recalibrate payment weights.

In the second scenario, we are unable to correctly assign to procedures the charges for HCPCS codes that we package into other procedures. HCPCS codes with status indicator “N” are not paid separately. Rather, the payment for these packaged items or services is recognized in the payment for a service or services billed on the same claim for which there is an APC payment rate. In calculating the median costs, we have to know where to incorporate the charges shown for the HCPCS code with status indicator “N.” When a packaged HCPCS codes is on a claim that also bills for more than one primary procedure (that is, procedures for which we make separate payment), we do not know with which of the procedures the charges for the packaged HCPCS code should be associated, or whether the charges for the packaged HCPCS code should be apportioned on some basis among the multiple primary procedures.

In the third scenario, in the case of multiple surgical procedures, our billing instructions permit hospitals to show charges for only one surgical procedure code although they report more than one surgical HCPCS code. Specifically, this billing convention has long been permitted in Medicare Intermediary Manual section 3626.4B3 and was reconfirmed by Medicare Transmittal A-01-50, which was issued on April 12, 2001 (http://www.hcfa.gov/pubforms/transmit/A0150.pdf) in response to hospital requests that we clarify whether they were required to create and report charges for each HCPCS code for each surgical service billed on a claim. We believe that to report charges for each HCPCS code for surgical services would have imposed an additional accounting and billing burden on hospitals that had not previously existed. This would have been in addition to the changes to the claims format and instructions that hospitals had recently made to accommodate OPPS and our other initiatives. As in the case of the ancillary services billed under revenue centers, the charges for each HCPCS code for the surgery were not needed to ensure that correct payment was made on the claim (since payment was made based on the code's APC assignment and not on reported charges).

However, because hospitals are permitted to report operating room charges for only one of the multiple surgical procedures on a claim, we are unable to identify a valid means of apportioning the operating room charges to the other procedures that were performed. We are not aware of any research on comparative hospital outpatient department (OPD) resource consumption by HCPCS codes that would indicate how to apportion a total charge among the individual codes on the claim. Moreover, these multiple surgical procedure claims frequently have problems similar to those discussed above in scenario one. Therefore, we are unable to use data from multiple surgery claims that are submitted in this form to calculate APC median costs.

In the fourth scenario are claims with multiple units of the same HCPCS code billed with charges in revenue centers or packaged HCPCS codes. In this case, we cannot determine the appropriate distribution of charges on the claim between the first and subsequent units of the HCPCS code. To approximate the charges that would occur if single rather than multiple units of the HCPCS code were billed, we would have to inflate the charges for the second and subsequent units of the service, which would eliminate the impact of the efficiencies that we believe occur when second and subsequent units of a procedure are performed. There are no data to suggest an appropriate factor to apportion charges for the second and subsequent units.

We considered several methods of apportioning charges from revenue centers and packaged HCPCS codes to enable us to use charge data from multiple procedure claims in the calculation of APC weights, but none of these methods was sufficient to yield cost data that we could be assured were valid. Specifically, we considered dividing the total charges in a revenue center or for a packaged HCPCS code by the number of payable HCPCS codes for multiple procedures on the claim. In the example of a claim for a visit code and a surgical code with the revenue center for sterile supplies billed twice on the same claim, we would sum the charges for sterile supplies, divide the sum by 2, and add the resulting divided charges for sterile supplies to the charges for each HCPCS code. The single pharmacy charge would be divided by 2, and half of the pharmacy charge would be added to each HCPCS code. We rejected this approach because of concern about whether it is likely to be sufficiently accurate to serve as a reasonable means of apportioning charges.

We also considered apportioning the charges among the codes based on physician work relative value units (RVUs) because time is a major factor in the establishment of physician work RVUs under the Medicare fee schedule for physician services. Time may be reflective of the comparative amount of resources used by the hospital for different surgical procedures, particularly charges for operating rooms, recovery rooms, and observation rooms. However, physician work RVUs also depend in part on the intensity and difficulty of the work of a physician in providing a service and would therefore not necessarily reflect accurately the relative resources a hospital would expend for the same procedure. Moreover, we do not believe that time appropriately reflects the use of resources such as pharmacy and supplies.

We then considered apportioning the charges among the codes based on physician nonfacility practice expense RVUs because practice expense RVUs reflect relative resource utilization for these services. However, we have no evidence that the relative practice expenses of physicians correlate with the resources that a hospital would use for the same service. Moreover, physician practice expenses are minimal for the many services typically furnished in a facility rather than the physician's office. For these services, the practice expense RVU reflects only minimal expenses for services, such as the physician's billing costs. They are, therefore, an inadequate proxy for the facility costs, such as supplies, drugs, equipment, nursing services, and overhead costs incurred by hospitals.

In summary, we concluded that the inherent drawbacks of these methodologies would outweigh any potential advantages accrued from the resulting increase in data used to calculate APC median costs. Without evidence to the contrary, we believe that applying these arbitrary methods of apportioning costs to multiple procedure claims would yield results that are less reliable and valid than continuing to rely on single procedure claims in calculating APC median costs.

We solicit public comment on the methods we considered for apportioning the total charges to individual HCPCS codes as described above. We also invite suggestions of other alternative means of apportioning the total costs on multiple procedure claims to the HCPCS codes for the procedures so that we can use more data from multiple procedure claims in the 2004 update of the OPPS.

We also solicit information on existing studies that would provide comparative hospital outpatient resource inputs by HCPCS code. In addition, we welcome suggestions for studies that we might undertake either to determine the relative value of OPD resources by HCPCS code or to provide a valid means of apportioning the charges among HCPCS codes when multiple surgical procedures are billed on the same claim with a single total charge for all services.

Further, we ask for comments on the feasibility of requiring hospitals to apportion all charges currently shown in revenue centers to the HCPCS codes billed so that we could use all multiple services claims in the calculation of the relative weights. For example, where the patient received multiple surgeries on the same day or received a visit and a procedure on the same day, the hospital would have to create a charge for each billable HCPCS code and that charge would have to encompass all charges for OR, recovery room, pharmacy, supplies, etc. that were relevant to that code. No charges would be billed under revenue centers alone or with packaged HCPCS codes (that is, HCPCS codes having a status indicator of N) since all charges would be reported under associated payable HCPCS codes. There would have to be corollary changes in completion of the cost report. Also, because hospitals must have a uniform charge structure, providers would need to charge all other payers and private pay patients in the same manner as they would be required to charge Medicare.

We are particularly interested in the views of hospitals and billing experts weighing the burden that could be created by these changes in billing rules relative to the potential benefit of calculating more precise OPPS payment rates that incorporate data from multiple procedure claims.

Finally, we solicit information regarding the extent to which efficiencies are realized when multiple services are furnished during the same visit or operative session. We currently discount the APC payment for the second and subsequent procedures performed during a single encounter by 50 percent in the expectation that the same efficiencies of service that are demonstrated to exist in the provision of physician services also exist in the provision of outpatient hospital services. In general, when a second or subsequent service is performed at the same time as an initial service, we believe that the combined resource costs associated with operating room time, recovery room time, anesthesia, supplies, and other services are less than if the procedures were performed separately. However, we are interested in empirical data regarding the extent to which these efficiencies of resource consumption actually occur.

(2) Calendar Year 2002 Charge Data for Pass-Through Device Categories

HCPCS coding for medical devices that qualified for transitional pass-through payment for services furnished in 2001 occurred in two different ways. (A detailed discussion of the provisions authorizing transitional pass-through payments for certain medical devices and drugs and biologicals can be found in section III of this preamble.) From August 1, 2000 until April 1, 2001, claims for medical devices that were paid on a pass-through basis were coded using device specific codes that were often manufacturer specific. BBRA required that, effective April 1, 2001, claims for medical devices eligible for transitional pass-through payment were to be billed using codes that applied to categories of devices. We issued the applicable category codes in Program Memoranda, Transmittals A-01-40 and A-01-41. We posted them on our web site at http://www.hcfa.gov/pubforms/transmit/A0140.pdf and http://www.hcfa.gov/pubforms/transmit/A0141.pdf, respectively. The change to the use of category codes, rather than device specific codes, simplified coding and also expanded the number of devices that were eligible for transitional pass-through payment. The expansion occurred because devices that fit the categories but that had previously not met the criteria for transitional pass-through payments could now be billed for a transitional pass-through payment.

Moreover, in recognition of the impact of the change on hospital billing and in recognition of the short time between the passage of legislation (December 14, 2000) and the effective date for the new codes (April 1, 2001), we gave hospitals a 90-day grace period during which they could bill using either the device specific codes they had previously been using or the new category codes. For this reason, only services furnished on or after July 1, 2001 were required to be billed using the new device category codes.

We have been advised that during the period in which the 2001 OPPS was in effect, hospitals may not have billed properly for devices eligible for transitional pass-through payments. We understand that the changes in billing format and systems for implementation of the OPPS compounded the problems of billing using the device specific codes during the first 9 months of the OPPS. We have been informed that these problems were further compounded by the creation and requirement to use category codes on and after April 1, 2001. In general, we have been advised that hospitals may have been underpaid for transitional pass-through devices (because they did not bill separately for them and therefore did not get the pass-through payment) and that our data will not correctly show the charges associated with the devices (because the devices were not coded with device category codes on the claim).

We agree that where hospitals failed to show the code for the transitional pass-through device (whether the device specific code or the category code as applicable), they will not have received payment for the device as a transitional pass-through device. For many years, there have been processes in place for hospitals to submit adjustment bills so they can receive payment for all applicable services they furnished if they subsequently determine that their original bills were deficient. Notwithstanding, there is no method by which we can infer a charge on a claim for a service that is not billed by the hospital.

Regarding the impact of the absence of coding for devices on the data from claims submitted for July 2001 and later, we looked at the claims data for a sample of services for which we thought there should have been a device category billed because of the nature of the procedure (for example, insertion of a pacemaker). We found that there were many instances when a device category code was not billed when we would have expected it. However, we found that when we summed the charges for revenue centers with the charges for the procedure on claims where no category code was reported and compared those totals with the sum of charges from claims where both a device category code and the associated procedure code were billed, the results were very similar. From this analysis, we conclude that in many cases, particularly during the first half of the calendar year, hospitals included charges for transitional pass-through devices in the revenue center for supplies. Therefore, we believe cost data for transitional pass-through devices are contained in the charges of most claims, even where they are not separately identified by the code for the device category, which should have been reported.

We believe that this absence of category codes in the claims data and our data analysis, and the issues surrounding multiple procedure claims argue strongly for packaging the cost of these devices into the payment for the procedures with which they were used and to then create weights for procedures for the 2003 OPPS. Incorrect device coding could lead to skewed weights for the retired transitional pass-through devices, if we were to establish individual APCs for the expired device categories.

We believe that packaging the charges billed under the revenue centers into the charges for the procedures before setting the weights for the APCs will allow us to capture all of the cost data for services in which devices were used which will result in the most valid payment for the APC. This approach assures that the payment rate for the procedure includes accurate payment for the devices used in the procedure. Further discussion of our proposal to package payment for sunsetting transitional pass-through devices is contained in section III.C of this preamble.

b. Description of How Weights Were Calculated for 2003

The methodology we followed to calculate the APC relative payment weights proposed for CY 2003 is as follows:

• We excluded from the data approximately 15 million claims for those bill and claim types that would not be paid under the OPPS (for example, bill type 72X for dialysis services for patients with end-stage renal disease (ESRD)).

• Using the most recent available cost report from each hospital, we converted billed charges to costs and aggregated them to the procedure or visit level first by identifying the cost-to-charge ratio specific to each hospital's cost centers (“cost center specific cost-to-charge ratios” or CCRs) and then by matching the CCRs to revenue centers used on the hospital's 2001 outpatient bills. The CCRs include operating and capital costs but exclude items paid on a reasonable cost basis.

• We eliminated from the hospital CCR data 301 hospitals that we identified as having reported charges on their cost reports that were not actual charges (for example, a uniform charge applied to all services).

• We calculated the geometric mean of the total operating CCRs of hospitals remaining in the CCR data. We removed from the CCR data 67 hospitals whose total operating CCR exceeded the geometric mean by more than 3 standard deviations.

• We excluded from our data approximately 3 million claims submitted by the hospitals that we removed or trimmed from the hospital CCR data.

• We eliminated 1.2 million claims from hospitals located in Maryland, Guam, and the U.S. Virgin Islands.

• We matched revenue centers from the remaining universe of approximately 92.2 million claims to CCRs hospitals.

• We separated the 92.2 million claims that we had matched with a cost report into the following three distinct groups: (1) single-procedure claims, (2) multiple-procedure claims, and (3) claims on which we could not identify at least one OPPS covered service. Single-procedure claims are those that include only one HCPCS code (other than laboratory and incidentals such as packaged drugs and venipuncture) that could be grouped to an APC. Multiple-procedure claims include more than one HCPCS code that could be mapped to an APC. Dividing the claims in this manner yielded approximately 30.4 million single-procedure claims and 20.1 million multiple-procedure claims. Approximately 41.5 million claims without at least one covered OPPS service were set aside.

We converted 10.7 million multiple-procedure claims to single-procedure claims using the following criteria: (1) If a multiple-procedure claim contained lines with a HCPCS code in the pathology series (that is, CPT 80000 series of codes), we treated each of those lines as a single claim. (2) For multiple procedure claims with a packaged HCPCS code (status indicator “N”) on the claim, we ignored line items for chest X-rays (HCPCS codes 71010 and/or 71020) and/or EKGs (HCPCS code 93005) on these claims. If only one procedure (other than HCPCS codes 71010, 71020, and 93005) existed on the claim, we treated it as a single-procedure claim. (3) If the claim had no packaged HCPCS codes and if there were no packaged revenue centers on the claim, we treated each line with a procedure as a single claim if the line item was billed as a single unit. (4) If the claim had no packaged HCPCS codes on the claim but had packaged revenue centers for the procedure, we ignored the line item for chest X-rays and/or EKG codes (as identified above) and if only one HCPCS code remained, we treated the claim as a single procedure claim. We created an additional 31.3 million single-procedure bills through this process, which enabled us to use these data from multiple-procedure claims in calculation of the APC relative payment weights.

• To calculate median costs for services within an APC, we used only single-procedure bills and those multiple procedure bills that we converted into single claims. If a claim had a single code with a zero charge (that would have been considered a single-procedure claim), we did not use it. As we discussed in section II.B.4.a.(1) of this preamble, we did not use multiple-procedure claims that billed more than one separately payable HCPCS code with charges for packaged items and services such as anesthesia, recovery room, or supplies that could not be reliably allocated or apportioned among the primary HCPCS codes on the claim. We have not yet developed what we regard as an acceptable method of using multiple-procedure bills to recalibrate APC weights that minimizes the risk of improperly assigning charges to the wrong procedure or visit.

• For each single-procedure claim, we calculated a cost for every billed line item charge by multiplying each revenue center charge by the appropriate hospital-specific CCR. If an appropriate cost center did not exist for a given hospital, we crosswalked the revenue center to a secondary cost center when possible, or used the hospital's overall cost-to-charge ratio for outpatient department services. We excluded from this calculation all charges associated with HCPCS codes previously defined as not paid under the OPPS (for example, laboratory, ambulance, and therapy services). We included all charges associated with HCPCS codes that are designated as packaged services (that is, HCPCS codes with the status indicator of “N”).

• To calculate per-service costs, we used the charges shown in revenue centers that contained items integral to performing the service. We observed the packaging provisions set forth in the April 7, 2000 final rule with comment period that were in effect during 2001 (65 FR 18484). For instance, in calculating the cost of a surgical procedure, we included charges for the operating room, treatment rooms, recovery, observation, medical and surgical supplies, pharmacy, anesthesia, casts and splints, and donor tissue, bone, and organs. To determine medical visit costs, we included charges for items such as medical and surgical supplies, drugs, and observation in those instances where they are still packaged. Table 5 lists packaged services by revenue center that we are proposing to use to calculate per-service costs for outpatient services furnished in 2003.

Table 5.—Packaged Services by Revenue Code
Revenue code | Description
Surgery
250 | PHARMACY
251 | GENERIC
252 | NONGENERIC
257 | NONPRESCRIPTION DRUGS
258 | IV SOLUTIONS
259 | OTHER PHARMACY
260 | IV THERAPY, GENERAL CLASS
262 | IV THERAPY/PHARMACY SERVICES
263 | IV THERAPY/DRUG SUPPLY/DELIVERY
264 | IV THERAPY/SUPPLIES
269 | OTHER IV THERAPY
270 | M&S SUPPLIES
271 | NONSTERILE SUPPLIES
272 | STERILE SUPPLIES
274 | PROSTHETIC/ORTHOTIC DEVICES
275 | PACEMAKER DRUG
276 | INTRAOCULAR LENS SOURCE DRUG
278 | OTHER IMPLANTS
279 | OTHER M&S SUPPLIES
280 | ONCOLOGY
289 | OTHER ONCOLOGY
290 | DURABLE MEDICAL EQUIPMENT
370 | ANESTHESIA
379 | OTHER ANESTHESIA
390 | BLOOD STORAGE AND PROCESSING
399 | OTHER BLOOD STORAGE AND PROCESSING
560 | MEDICAL SOCIAL SERVICES
569 | OTHER MEDICAL SOCIAL SERVICES
624 | INVESTIGATIONAL DEVICE (IDE)
630 | DRUGS REQUIRING SPECIFIC IDENTIFICATION, GENERAL CLASS
631 | SINGLE SOURCE
632 | MULTIPLE
633 | RESTRICTIVE PRESCRIPTION
700 | CAST ROOM
709 | OTHER CAST ROOM
710 | RECOVERY ROOM
719 | OTHER RECOVERY ROOM
720 | LABOR ROOM
721 | LABOR
762 | OBSERVATION ROOM
810 | ORGAN ACQUISITION
819 | OTHER ORGAN ACQUISITION
Medical Visit
250 | PHARMACY
251 | GENERIC
252 | NONGENERIC
257 | NONPRESCRIPTION DRUGS
258 | IV SOLUTIONS
259 | OTHER PHARMACY
270 | M&S SUPPLIES
271 | NONSTERILE SUPPLIES
272 | STERILE SUPPLIES
279 | OTHER M&S SUPPLIES
560 | MEDICAL SOCIAL SERVICES
569 | OTHER MEDICAL SOCIAL SERVICES
630 | DRUGS REQUIRING SPECIFIC IDENTIFICATION, GENERAL CLASS
631 | SINGLE SOURCE DRUG
632 | MULTIPLE SOURCE DRUG
633 | RESTRICTIVE PRESCRIPTION
637 | SELF-ADMINISTERED DRUG (INSULIN ADMIN. IN EMERGENCY DIABETIC COMA
700 | CAST ROOM
709 | OTHER CAST ROOM
762 | OBSERVATION ROOM
| 942 | EDUCATION/TRAINING
Other Diagnostic
254 | PHARMACY INCIDENT TO OTHER DIAGNOSTIC
280 | ONCOLOGY
289 | OTHER ONCOLOGY
372 | ANESTHESIA INCIDENT TO OTHER DIAGNOSTIC
560 | MEDICAL SOCIAL SERVICES
569 | OTHER MEDICAL SOCIAL SERVICES
622 | SUPPLIES INCIDENT TO OTHER DIAGNOSTIC
624 | INVESTIGATIONAL DEVICE (IDE)
710 | RECOVERY ROOM
719 | OTHER RECOVERY ROOM
762 | OBSERVATION ROOM
Radiology
255 | PHARMACY INCIDENT TO RADIOLOGY
280 | ONCOLOGY
289 | OTHER ONCOLOGY
371 | ANESTHESIA INCIDENT TO RADIOLOGY
560 | MEDICAL SOCIAL SERVICES
569 | OTHER MEDICAL SOCIAL SERVICES
621 | SUPPLIES INCIDENT TO RADIOLOGY
624 | INVESTIGATIONAL DEVICE (IDE)
710 | RECOVERY ROOM
719 | OTHER RECOVERY ROOM
762 | OBSERVATION ROOM
All Other APC Groups
250 | PHARMACY
251 | GENERIC
252 | NONGENERIC
257 | NONPRESCRIPTION DRUGS
258 | IV SOLUTIONS
259 | OTHER PHARMACY
260 | IV THERAPY, GENERAL CLASS
262 | IV THERAPY PHARMACY SERVICES
263 | IV THERAPY DRUG/SUPPLY/DELIVERY
264 | IV THERAPY SUPPLIES
269 | OTHER IV THERAPY
270 | M&S SUPPLIES
271 | NONSTERILE SUPPLIES
272 | STERILE SUPPLIES
279 | OTHER M&S SUPPLIES
560 | MEDICAL SOCIAL SERVICES
569 | OTHER MEDICAL SOCIAL SERVICES
630 | DRUGS REQUIRING SPECIFIC IDENTIFICATION, GENERAL CLASS
631 | SINGLE SOURCE DRUG
632 | MULTIPLE SOURCE DRUG
633 | RESTRICTIVE PRESCRIPTION
762 | OBSERVATION ROOM
942 | EDUCATION/TRAINING

• We standardized costs for geographic wage variation by dividing the labor-related portion of the operating and capital costs for each billed item by the proposed FY 2003 hospital inpatient prospective payment system (IPPS) wage index published in the Federal Register on May 9, 2002 (67 FR 31602). We used 60 percent to represent our estimate of that portion of costs attributable, on average, to labor. We have used this estimate since the inception of the OPPS and continue to believe that it is appropriate. See 65 FR 18496, the April 7, 2000 final rule for a complete description of how we derived this percentage.

• We summed the standardized labor-related cost and the nonlabor-related cost component for each billed item to derive the total standardized cost for each procedure or medical visit.

• We removed extremely unusual costs that appeared to be errors in the data using a trimming methodology analogous to what we use in calculating the diagnosis-related group (DRG) weights for the hospital IPPS. That is, we eliminated any bills with costs outside of 3 standard deviations from the geometric mean.

• After trimming the procedure and visit level costs, we mapped each procedure or visit cost to its assigned APC, including, to the extent possible, the proposed APC changes described in section II.A of this preamble.

• We calculated the median cost for each APC.

• Using the median APC costs, we calculated the relative payment weights for each APC. As in prior years, we scaled all the relative payment weights to APC 0601, Mid-level clinic visit, because it is one of the most frequently performed services in the hospital outpatient setting. This approach is consistent with that used in developing relative value units for the Medicare physician fee schedule. We assigned APC 0601 a relative payment weight of 1.00 and divided the median cost for each APC by the median cost for APC 0601 to derive the relative payment weight for each APC. Using 2001 data, the median cost for APC 0601 is $56.77.

Section 1833(t)(9)(B) of the Act requires that APC reclassification and recalibration changes and wage index changes be made in a manner that assures that aggregate payments under the OPPS for 2003 are neither greater than nor less than the aggregate payments that would have been made without the changes. To comply with this requirement concerning the APC changes, we compared aggregate payments using the CY 2002 relative weights to aggregate payments using the CY 2003 proposed weights. Based on this comparison, we are proposing to make an adjustment of 1.04227 to the weights. The weights that we are proposing for 2003, which incorporate the recalibration adjustments explained in this section, are listed in Addendum A and Addendum B.

5. Procedures That Will Be Paid Only As Inpatient Procedures

Before implementation of the OPPS, Medicare paid reasonable costs for services provided in the outpatient department. The claims submitted were subject to medical review by the fiscal intermediaries to determine the appropriateness of providing certain services in the outpatient setting. We did not specify in regulations those services that were appropriate to provide only in the inpatient setting and that, therefore, should be payable only when provided in that setting.

Section 1833(t)(1)(B)(i) of the Act gives the Secretary broad authority to determine the services to be covered and paid for under the OPPS. In the April 7, 2000 final rule, we identified procedures that are typically provided only in an inpatient setting and, therefore, would not be paid by Medicare under the OPPS (65 FR 18455). These procedures comprise what is referred to as the “inpatient list.” The inpatient list specifies those services that are only paid when provided in an inpatient setting. These are services that require inpatient care because of the nature of the procedure, the need for at least 24 hours of postoperative recovery time or monitoring before the patient can be safely discharged, or the underlying physical condition of the patient. As we discussed in the April 7, 2000 and the November 30, 2001 final rules, we use the following criteria when reviewing procedures to determine whether or not they should be moved from the inpatient list and assigned to an APC group for payment under the OPPS:

• Most outpatient departments are equipped to provide the services to the Medicare population.

• The simplest procedure described by the code may be performed in most outpatient departments.

• The procedure is related to codes we have already moved off the inpatient list.

We update the inpatient list as often as quarterly through program memoranda to reflect current advances in medical practice. We last updated the inpatient list in the November 30, 2001 final rule. As we discuss in section II.A.2, above, the APC Panel at its January 2002 meeting reviewed certain procedures on the inpatient list for which we had received requests that they be made payable under the OPPS. The Panel recommended that we solicit comments and further information about all these procedures except for CPT code 47001, which they recommended be removed from the inpatient list (see section II.A.2 above for a discussion of this and the other codes that the Panel considered for removal from the inpatient list). These procedures are included in Table 6, with the exception of CPT code 33967, which we are not proposing to pay for under the OPPS for reasons that we explain in section II.A.2.

In preparing this proposed rule to update the OPPS for CY 2003, we compared procedures with status indicator “C” (status indicator “C” is assigned to inpatient procedures that are not payable under the OPPS) to the list of procedures that are currently on the ambulatory surgical center (ASC) list of approved procedures, to procedures that we proposed to add to the ASC list in a proposed rule published in the Federal Register on June 12, 1998 (63 FR 32291), and to procedures recommended for addition to the ASC list by commenters in response to the June 12, 1998 proposed rule. We found that there are procedures on the current ASC list, or procedures proposed for addition to the ASC list, or procedures recommended by commenters for addition to the ASC list that are assigned status indicator “C” under the OPPS. A review of 2001 physician claims data also revealed that physicians are performing some of these “C” status indicator procedures on Medicare beneficiaries on an outpatient basis. We concluded that it was appropriate to propose removal of procedures from the OPPS inpatient list that are being performed on an outpatient basis and/or that we had determined could be safely and appropriately performed on a Medicare beneficiary in an ASC under the applicable ASC rules that are set forth in 42 CFR 416.22. We believe that our payment policies for surgical procedures provided in an outpatient hospital setting and in the ASC setting should be consistent to the extent possible within the limitations imposed by statutory or regulatory requirements. So, we propose to add the following criteria for use in reviewing procedures to determine whether they should be removed from the inpatient list and assigned to an APC group for payment under the OPPS:

• We have determined that the procedure is being performed in numerous hospitals on an outpatient basis; or

• We have determined that the procedure can be appropriately and safely performed in an ASC and is on the list of approved ASC procedures or proposed by us for addition to the ASC list.

In addition to the procedures considered by the APC Panel for removal from the inpatient list, Table 6 includes the procedures that we are proposing to be removed from the inpatient list for payment under the OPPS. We applied the criteria discussed above in order to be consistent with the ASC list of approved procedures, and with utilization data that indicate the procedures are being performed on an outpatient basis. We solicit comments on whether the procedures in Table 6 should be paid under the OPPS. We also solicit comments on the APC assignment that we propose for these procedures in the event we determine in the final rule, based on comments, that these procedures would be payable under the OPPS in 2003. We ask that commenters recommending reclassification of a procedure to an APC include evidence (preferably from peer-reviewed medical literature) that the procedure is being performed on an outpatient basis in a safe and effective manner.

Following our review of the comments that we receive about the procedures in Table 6, we propose either to assign a CPT code to an APC for payment under the OPPS or, if the comments do not provide sufficient information and data to enable us to make a decision, to present the comments to the APC Panel at its 2003 meeting.

Table 6.—Procedures on the Inpatient List Proposed for Payment Under the OPPS in CY 2003.
CPT code | Proposed status indicator | Proposed APC | Description
21390 | T | 0256 | OPEN TREATMENT OF ORBITAL FLOOR BLOWOUT FRACTURE; PERIORBITAL APPROACH, WITH ALLOPLASTIC OR OTHER IMPLANT.
22100 | T | 0208 | PARTIAL EXCISION OF POSTERIOR VERTEBRAL COMPONENT (EG, SPINOUS PROCESS, LAMINA OR FACET) FOR INTRINSIC BONY LESION, SINGLE VERTEBRAL SEGMENT; CERVICAL.
22101 | T | 0208 | PARTIAL EXCISION OF POSTERIOR VERTEBRAL COMPONENT (EG, SPINOUS PROCESS, LAMINA OR FACET) FOR INTRINSIC BONY LESION, SINGLE VERTEBRAL SEGMENT; THORACIC.
22102 | T | 0208 | PARTIAL EXCISION OF POSTERIOR VERTEBRAL COMPONENT (EG, SPINOUS PROCESS, LAMINA OR FACET) FOR INTRINSIC BONY LESION, SINGLE VERTEBRAL SEGMENT; LUMBAR.
22103 | T | 0208 | PARTIAL EXCISION OF POSTERIOR VERTEBRAL COMPONENT (EG, SPINOUS PROCESS, LAMINA OR FACET) FOR INTRINSIC BONY LESION, SINGLE VERTEBRAL SEGMENT; EACH ADDITIONAL SEGMENT (LIST SEPARATELY IN ADDITION TO CODE FOR PRIMARY PROCEDURE).
23035 | T | 0049 | INCISION, BONE CORTEX (EG, OSTEOMYELITIS OR BONE ABSCESS), SHOULDER AREA.
23125 | T | 0051 | CLAVICULECTOMY; TOTAL.
23195 | T | 0050 | RESECTION, HUMERAL HEAD.
23395 | T | 0051 | MUSCLE TRANSFER, ANY TYPE, SHOULDER OR UPPER ARM; SINGLE.
23397 | T | 0052 | MUSCLE TRANSFER, ANY TYPE, SHOULDER OR UPPER ARM; MULTIPLE.
23400 | T | 0050 | SCAPULOPEXY (EG, SPRENGELS DEFORMITY OR FOR PARALYSIS).
24150 | T | 0052 | RADICAL RESECTION FOR TUMOR, SHAFT OR DISTAL HUMERUS;.
24151 | T | 0052 | RADICAL RESECTION FOR TUMOR, SHAFT OR DISTAL HUMERUS; WITH AUTOGRAFT (INCLUDES OBTAINING GRAFT).
24152 | T | 0052 | RADICAL RESECTION FOR TUMOR, RADIAL HEAD OR NECK;.
24153 | T | 0052 | RADICAL RESECTION FOR TUMOR, RADIAL HEAD OR NECK; WITH AUTOGRAFT (INCLUDES OBTAINING GRAFT).
25170 | T | 0052 | RADICAL RESECTION FOR TUMOR, RADIUS OR ULNA.
25390 | T | 0050 | OSTEOPLASTY, RADIUS OR ULNA; SHORTENING.
25391 | T | 0051 | OSTEOPLASTY, RADIUS OR ULNA; LENGTHENING WITH AUTOGRAFT.
25392 | T | 0050 | OSTEOPLASTY, RADIUS AND ULNA; SHORTENING (EXCLUDING 64876).
25393 | T | 0051 | OSTEOPLASTY, RADIUS AND ULNA; LENGTHENING WITH AUTOGRAFT.
25420 | T | 0051 | REPAIR OF NONUNION OR MALUNION, RADIUS AND ULNA; WITH AUTOGRAFT (INCLUDES OBTAINING GRAFT).
27035 | T | 0052 | DENERVATION, HIP JOINT, INTRAPELVIC OR EXTRAPELVIC INTRA-ARTICULAR BRANCHES OF SCIATIC, FEMORAL, OR OBTURATOR NERVES.
27216 | T | 0050 | PERCUTANEOUS SKELETAL FIXATION OF POSTERIOR PELVIC RING FRACTURE AND/OR DISLOCATION (INCLUDES ILIUM, SACROILIAC JOINT AND/OR SACRUM).
27235 | T | 0050 | PERCUTANEOUS SKELETAL FIXATION OF FEMORAL FRACTURE, PROXIMAL END, NECK, UNDISPLACED, MILDLY DISPLACED, OR IMPACTED FRACTURE.
31582 | T | 0256 | LARYNGOPLASTY; FOR LARYNGEAL STENOSIS, WITH GRAFT OR CORE MOLD, INCLUDING TRACHEOTOMY.
31785 | T | 0254 | EXCISION OF TRACHEAL TUMOR OR CARCINOMA; CERVICAL.
32201 | T | 0070 | PNEUMONOSTOMY; WITH PERCUTANEOUS DRAINAGE OF ABSCESS OR CYST.
38700 | T | 0113 | SUPRAHYOID LYMPHADENECTOMY.
42842 | T | 0254 | RADICAL RESECTION OF TONSIL, TONSILLAR PILLARS, AND/OR RETROMOLAR TRIGONE; WITHOUT CLOSURE.
43030 | T | 0253 | CRICOPHARYNGEAL MYOTOMY.
47490 | T | 0152 | PERCUTANEOUS CHOLECYSTOSTOMY.
47001 | N |  | BIOPSY OF LIVER, NEEDLE; WHEN DONE FOR INDICATED PURPOSE AT TIME OF OTHER MAJOR PROCEDURE.
62351 | T | 0208 | IMPLANTATION, REVISION OR REPOSITIONING OF TUNNELED INTRATHECAL OR EPIDURAL CATHETER, FOR LONG-TERM MEDICATION ADMINISTRATION VIA AN EXTERNAL PUMP OR IMPLANTABLE RESERVOIR/INFUSION PUMP; WITH LAMINECTOMY.
64820 | T | 0220 | SYMPATHECTOMY; DIGITAL ARTERIES, EACH DIGIT.
69150 | T | 0252 | RADICAL EXCISIONS EXTERNAL AUDITORY CANAL LESION; WITHOUT NECK DISSECTION.
69502 | T | 0254 | MASTOIDECTOMY; COMPLETE.
92986 | T | 0083 | PERCUTANEOUS BALLOON VALVULOPLASTY; AORTIC VALVE.
92987 | T | 0083 | PERCUTANEOUS BALLOON VALVULOPLASTY; MITRAL VALVE.
92990 | T | 0083 | PERCUTANEOUS BALLOON VALVULOPLASTY; PULMONARY VALVE.
92997 | T | 0081 | PERCUTANEOUS TRANSLUMINAL PULMONARY ARTERY BALLOON ANGIOPLASTY; SINGLE VESSEL.
92998 | T | 0081 | PERCUTANEOUS TRANSLUMINAL PULMONARY ARTERY BALLOON ANGIOPLASTY; EACH ADDITIONAL VESSEL (LIST SEPARATELY IN ADDITION TO CODE FOR PRIMARY PROCEDURE)

C. Partial Hospitalization

Payment Methodology

As we discussed in the April 7, 2000 OPPS final rule (65 FR 18452), partial hospitalization is an intensive outpatient program of psychiatric services provided to patients in the place of inpatient care. A partial hospitalization program (PHP) may be provided by a hospital to its outpatients or by a Medicare-certified community mental health center (CMHC). Payment to providers under the OPPS for PHPs represents the provider's overhead costs associated with the program. Because a day of care is the unit that defines the structure and scheduling of partial hospitalization services, effective for services furnished on or after August 1, 2000, we established a per diem payment methodology for the PHP APC. We analyzed the service components billed by hospitals over the course of a billing period and determined the median hospital cost of furnishing a day of partial hospitalization. We were unable to use CMHC data in computing the per diem because up until April 1, 2000, CMHCs were not required to report HCPCS codes. In addition, section 1833(t)(2)(C) of the Act requires that we establish relative payment weights based on median (or mean, at the election of the Secretary) hospital costs determined by 1996 claims and the most recent available cost report data. This analysis resulted in a per diem payment of $202.19 effective August 1, 2000. This amount was updated effective January 1, 2001 and April 1, 2002 to $206.82 and $212.27.

Although we did not use CMHC data in establishing the initial APC for partial hospitalization (or in the updates made since then), in the April 7, 2000 final rule we made a commitment to analyze future data from hospitals and CMHCs to determine if refinements to the per diem are warranted. Based on our review of 2001 claims data submitted under the OPPS, we have developed a payment rate for partial hospitalization following the same methodology used to establish all the APC payment amounts. However, because a day of care is the unit for PHP services, we computed the median cost of furnishing a day of partial hospitalization. Other than the unit of service being a day of care, the method we used to determine median costs for PHP is no different than that used for all other APCs as described in other sections of this proposed rule. The CY 2003 proposed payment rate for the partial hospitalization APC is $256.96 per day, of which $51.39 is the beneficiary's coinsurance.

We used calendar year 2001 bills from both hospitals and CMHCs. We used data from all the hospital bills reporting condition code 41, which identifies the claim as partial hospitalization. Since section 1866(e)(2) of the Act specifies that a CMHC is a provider of service “* * * only with respect to the furnishing of partial hospitalization services * * *,” we used all bills from CMHCs. We used cost-to-charge ratios from the most recently available hospital and CMHC cost reports to develop costs from line item charges reported on bills. Since hospitals and CMHCs are now required to report line item dates of service on claims, we used that data to refine our estimates of line item costs.

We then computed per diem costs by summing the line item costs on each bill and dividing by the number of days on each bill. Using this method of determining costs, preliminary per diem cost estimates for CMHCs were much higher than expected, in many cases more than twice the average per diem for inpatient psychiatric care and more than three times the hospital median PHP per diem cost. The data strongly suggests that the costs were reported incorrectly. We believe that the data are unusable without adjustment.

Closer examination of the CMHC cost report data showed that costs from CMHC finalized cost reports were considerably lower than costs from “as submitted” CMHC cost reports. To account for the difference between settled and as-filed cost report data, we computed the ratio of total final costs to total as-filed costs over a 3-year period (FYs 1998-2000) and calculated an average adjustment factor which we applied to the costs on each claim. The adjusted costs were summed, then divided by the number of days on that bill.

Treatment of Professional Services Under PHP

Section 410.43 describes the conditions and exclusions of partial hospitalization services. That section lists the services that are separately covered and not paid as partial hospitalization services. The list includes—

• Physician services that meet the requirements of 42 CFR 415.102(a) for payment on a fee schedule basis;

• Physician assistant services, as defined in section 1861(s)(2)(K)(i) of the Act;

• Nurse practitioner and clinical nurse specialist services, as defined in section 1861(s)(2)(K)(ii) of the Act;

• Qualified psychologist services, as defined in section 1861(ii) of the Act; and

• Services furnished to SNF residents as defined in 42 CFR 411.15(p).

Based on this section, in the April 7, 2000 OPPS rule, we stated that the APC for partial hospitalization represents the provider's overhead costs, support staff, and the services of clinical social workers (CSWs) and occupational therapists (OTs), whose professional services are considered to be partial hospitalization services for which Medicare payment is made to the provider. Before implementation of the OPPS, the services of CSWs and OTs in a PHP were billed by the hospitals to the fiscal intermediaries and paid on a reasonable cost basis.

We have looked carefully at the differences between the cost experiences of CMHCs and of hospitals with respect to PHP services, as well as how payment is made for other hospital outpatient psychiatric services, to identify areas where improvements can be made in OPPS. One of the areas in which we identified discrepancies was in the coverage of CSW services. The way in which CSW services are currently billed and paid depends upon the circumstances under which CSW services are provided. In some settings, payment for CSW services is part of a bundled payment. In other settings, separate payment for CSW services is made.

Generally, CSW services furnished to hospital outpatients are bundled, which means that only the hospital may bill for such services. However, payment for CSW professional services furnished to hospital outpatients is made under the physician fee schedule. Therefore, the hospital outpatient department bills separately the Part B carrier for CSW services furnished to outpatients who are not in a PHP. CSW professional services are paid at 75 percent of the clinical psychologist fee schedule.

However, when CSWs furnish services to hospital outpatients or a CMHC under a partial hospitalization program, hospitals may not bill separately for the services of a CSW. Instead, for coverage and payment purposes, the services are recognized as partial hospitalization services. Partial hospitalization services are billed by hospitals and CMHCs to the fiscal intermediaries and paid the OPPS PHP APC per diem amount.

The different methodologies for payment of CSW services has proven both confusing and burdensome for hospitals because they must implement separate billing schemes for CSW services depending upon whether an individual outpatient is admitted to a PHP program or to any other hospital outpatient psychiatric program. We believe that these challenges have resulted in incorrect reporting by hospitals which has led to an under-representation of CSW services in the OPPS PHP APC per diem amount.

To facilitate proper billing and to ensure comparable reporting of costs by hospitals and CMHCs, we are proposing to allow separate payment for CSW services furnished in CMHCs. This means that both hospitals and CMHCs will bill the carrier for CSW services furnished to PHP patients. Therefore, we are proposing to amend § 410.43(b) to add clinical social worker services that meet the requirements of section 1861(hh)(2) of the Act to the list of professional services not considered to be PHP services. We believe this change will allow CSW services to be more appropriately reflected in both settings as part of PHPs.

III. Transitional Pass-Through and Related Payment Issues

A. Background

Section 1833(t)(6) of the Act provides for temporary additional payments or “transitional pass-through payments” for certain medical devices, drugs, and biologicals. As originally enacted by the BBRA, this provision required the Secretary to make additional payments to hospitals for current orphan drugs, as designated under section 526 of the Federal Food, Drug, and Cosmetic Act, Pub. L. 107-186; current drugs, biologic agents, and brachytherapy devices used for the treatment of cancer; and current radiopharmaceutical drugs and biological products.

For those drugs, biologicals, and devices referred to as “current,” the transitional pass-through payment began on the first date the hospital OPPS was implemented (before enactment of the Medicare, Medicaid, and SCHIP Benefits Improvement and Protection Act (BIPA), Pub. L. 106-554, enacted December 21, 2000).

Transitional pass-through payments are also required for certain “new” medical devices, drugs, and biological agents that were not being paid for as a hospital outpatient service as of December 31, 1996 and whose cost is “not insignificant” in relation to the OPPS payment for the procedures or services associated with the new device, drug, or biological. Under the statute, transitional pass-through payments are to be made for at least 2 years but not more than 3 years.

Section 1833(t)(6)(B)(i) of the Act required that we establish by April 1, 2001, initial categories to be used for purposes of determining which medical devices are eligible for transitional pass-through payments. Section 1833(t)(6)(B)(i)(II) of the Act explicitly authorized us to establish initial categories by program memorandum. On March 22, 2001, we issued two Program Memoranda, Transmittals A-01-40 and A-01-41 that established the initial categories. We posted them on our web site at http://www.hcfa.gov/pubforms/transmit/A0140.pdf and http://www.hcfa.gov/pubforms/transmit/A0141.pdf, respectively.

Transmittal A-01-41 includes a list of the initial device categories and a crosswalk of all the item-specific codes for individual devices that were approved for transitional pass-through payments as of January 21, 2001 to the initial category code by which the device is to be billed beginning April 1, 2001. Items eligible for transitional pass-through payments are generally coded using a Level II HCPCS code with an alpha prefix of “C.” Pass-through device categories are identified by status indicator “H” and pass-through drugs and biologicals are identified by status indicator “G.” Subsequently, we added two additional categories and made clarifications to some of the categories' long descriptors found in transmittal A-01-73. A current list of device category codes in effect as of July 1, 2002 can be found in Transmittal A-02-050, which was issued on June 17, 2002. This Program Memorandum can be accessed on our web site at http://www.hcfa.gov. The list is also included in this preamble in Table 7.

Section 1833(t)(6)(B)(ii) of the Act also requires us to establish, through rulemaking, criteria that will be used to create additional device categories. The criteria for new categories are the subject of a separate interim final rule with comment period that we published in the Federal Register on November 2, 2001 (66 FR 55850). We will respond to public comments on that interim final rule in the final rule that implements the 2003 OPPS update.

Transitional pass-through categories are for devices only; they do not apply to drugs or biologicals. The regulations at § 419.64 governing transitional pass-through payments for eligible drugs and biologicals are unaffected by the creation of categories.

The process to apply for transitional pass-through payment for eligible drugs and biological agents or for additional device categories can be found on respective pages on our web site at http://www.hcfa.gov. If we revise the application instructions in any way, we will post the revisions on our web site and submit the changes for approval by the Office of Management and Budget (OMB) under the Paperwork Reduction Act (PRA). Notification of new drug, biological, or device category application processes are generally posted on the OPPS web site at http://www.hcfa.gov/Medicare/hopsmain.html.

B. Discussion of Pro Rata Reduction

Section 1833(t)(6)(E) of the Act limits the total projected amount of transitional pass-through payments for a given year to an “applicable percentage” of projected total payments under the hospital OPPS. For a year before 2004, the applicable percentage is 2.5 percent; for 2004 and subsequent years, we specify the applicable percentage up to 2.0 percent. If we estimate before the beginning of the calendar year that the total amount of pass-through payments in that year would exceed the applicable percentage, section 1833(t)(6)(E)(iii) of the Act requires a (prospective) uniform reduction in the amount of each of the transitional pass-through payments made in that year to ensure that the limit is not exceeded. We make an estimate of pass-through spending to determine not only whether payment exceeds the applicable percentage but also to determine the appropriate reduction to the conversion factor.

We will make an estimate of pass-through spending in 2003 using the methodology described below. Making an estimate of pass-though spending in 2003 entails estimating spending for two groups of items. The first group consists of those items for which we have claims data (that is, items that were eligible in 2001 and that will continue to be eligible in 2003). The second group consists of those items for which we have no direct claims data (that is, items that became or will become eligible in 2002 and will retain pass-through status and items that will be newly eligible beginning in 2003).

To estimate 2003 pass-through spending for device categories in the first group, we will use volume and hospital cost (derived from charges on claims using cost-to-charge ratios) information from 2001 claims data. This information will be projected forward to 2003 levels using appropriate inflation and utilization factors. For existing categories with no claims data in 2001 that are or will be active in 2002, we will follow the method described in the November 2, 2001 final rule (66 FR 55857). We will use price information from manufacturers and volume estimates from claims related to procedures that use the devices in question. This information will be projected forward to 2003 using appropriate inflation and utilization factors to estimate 2003 pass-through spending for this group of categories. For categories that become eligible in 2003, we will use the same method as described for categories that are newly active in 2002. Any new categories for 2003 will be announced after the publication of this proposed rule but prior to the publication of the final rule. Therefore the estimate of pass-through spending will incorporate pass-through spending for categories made effective January 1, 2003.

To estimate 2003 pass-through spending for drugs, biologicals, and radiopharmaceuticals, in the first group, we will use volume data from 2001 claims and the average wholesale price (AWP) as published in the July 2002 Red Book. This information will be projected forward to 2003 using the appropriate utilization factor. (Because 2003 payment rates for pass-through drugs will be based on the July 2002 AWPs, we do not apply an inflation factor.) The pass-through amount for drugs, biologicals, and radiopharmaceuticals is the difference between the payment rate (that is, 95 percent of the AWP) and the amount that would have been included in the payment rate of its associated APC had the drug, biological, or radiopharmaceutical been packaged. Section V.E. describes this methodology. To estimate pass-through spending for drugs in this group, for each drug we will multiply the drug's estimated utilization times the pass-through amount (for example, the difference between 95 percent of AWP for the drug and the amount included in the payment rate for its associated APC). For most drugs, the pass-through amount will be based on the weighted average ratios described in Section IV.E. However some drugs may fall into two other classes. The first class includes a drug that is new and for which there are no previously existing costs in an associated APC. For such a drug, we propose that the pass-through amount would be 95 percent of the AWP (because there are no previously existing costs in an associated APC) and there will be no copayment (because there are no previously existing costs in an APC on which to base a copayment). The second class includes a drug that is new and is a substitute for only one drug whose cost is recognized in the OPPS through an unpackaged APC. For drugs in this second class, we propose that the pass-through amount would be the difference between 95 percent of the AWP for the pass-through drug and the payment rate for the comparable dose of the associated drug's APC. The copayment would be based on the payment rate of its associated APC.

For existing drugs, biologicals, and radiopharmaceuticals for which we have no claims data in 2001 and which are active or will be active in 2002 as well as for drugs, biologicals, and radiopharmaceuticals, we will derive volume estimates from information submitted by manufacturers as well as other sources (such as, peer-reviewed clinical studies) and the AWP as published in the July 2002 Red Book. This information will be projected forward to 2003 using the appropriate utilization factor. Again, because 2003 payment rates for pass-through drugs will be based on the July 2002 AWP, we do not apply an inflation factor. To estimate pass-through spending for drugs in this group, for each drug we will multiply the drug's estimated utilization times the pass-through amount. For most drugs, these amounts will be based on the weighted average ratios described in Section IV.E. However some drugs may fall into two other classes. The first class includes a drug that is new and has no previously existing costs included in an associated APC. For such a drug, we propose that the pass-through amount would be 95 percent of the AWP (because there are no previously existing costs included in an APC) and there would be no copayment (because there are no previously existing costs in an APC on which to base a copayment). The table below shows two such drugs, Y-90 Zevalin and IN-111 Zevalin. The second class includes a drug that is new and is a substitute for only one drug that is recognized in the OPPS, through an unpackaged APC. The table below shows one such drug, Darbepoetin alfa, which is a new substitute of epoetin. For drugs in this second class, the pass-through amount will be the difference between 95 percent of the AWP for the pass-through drug and the payment rate for the comparable dose of the associated drug's APC. The copayment will be based on the payment rate of its associated APC. For drugs, biologicals, and radiopharmaceuticals that may receive pass-through status effective January 1, 2003, we will use the same methodology as described for drugs, biologicals, and radiopharmaceuticals that received pass-through status in 2002. Any new pass-through drugs, biologicals, and radiopharmaceuticals effective beginning in 2003 will be announced after the publication of this proposed rule but prior to the publication of the final rule. Therefore the estimate of pass-through spending will incorporate pass-through spending for these drugs, biologicals, and radiopharmaceuticals made effective January 1, 2003.

Finally, we will incorporate an estimate of pass-through spending for items that become eligible later in 2003 (that is, April 1, 2003; July 1, 2003; and October 1, 2003) based on estimates for items that will become eligible for pass-through status January 1, 2003. Specifically, we will assume a proportionate amount of spending for items that become eligible later in the year while making an adjustment to account for the fact that items made eligible later in the year will not have received pass-through payments for the entire year.

After using the methodologies described above to determine projected 2003 pass-through spending for the groups of devices, drugs, biologicals, and radiopharmaceuticals described above, we would calculate total projected 2003 pass-through spending as a percentage of the total (that is, Medicare and beneficiary payments) projected payments under OPPS to determine if the pro rata reduction would be required.

Below is a table showing our current estimate of 2003 pass-through spending based on information available at the time this table was developed. We are uncertain whether pass-through spending in 2003 will exceed $457 million or 2.5 percent of total OPPS spending. We have not yet completed the estimate of pass-through spending for a number of drugs. In particular, we are in the process of obtaining additional information about the utilization volume for several pass-through drugs. We invite comments on the methodology described above as well as the assumptions shown in the table below including anticipated utilization and utilization not yet determined. More information regarding the assumptions used to create these estimates is available at http://cms.hhs.gov/regulations/regnotices.asp.

Table X.
HCPC | APC | DRUG, biological | 2002 payment rate | 2001 utilization | 2003 Pass-through payment portion | 2003 estimated utilization | 2003 anticipated pass-through payment
Existing Pass-through Drugs/Biologicals
A9700 | 9016 | Echocardiography Contrast* | $118.75 | 300,000 | $34.44 | 368,686 | $12,696,607.35
C1774 | 734 | Darbepoetin alfa, 1 mcg | 4.74 | 6136252 | 1.37 | 7,541,157 | 10,366,074.10
C1058 | 1058 | TC 99M oxidronate, per vial | 36.74 | 4,000 | 10.65 | 4,916 | 52,375.96
C1064 | 1064 | I-131 cap, each add mCi | 5.86 | 4,575 | 1.88 | 5,622 | 485,208.00
C1065 | 1065 | I-131 sol, each add mCi | 15.81 | 4,575 | 5.06 | 5,622 | 1,309,068.00
C1775 | 1775 | FDG, per dose (4-40 mCi/ml) | 475.00 | 30,000 | 137.75 | 36,869 | 5,078,642.94
J9219 | 7051 | Leuprolide acetate implant | 5,399.80 | 66 | 1,565.94 | 81 | 127,014.83
J9017 | 9012 | Arsenic Trioxide | 23.75 |  | 6.89 | TBD | To be determined
J7517 | 9015 | Mycophenolate mofetil | 2.40 |  | 0.70 | TBD | To be determined
J0587 | 9018 | Botulinum toxin type B | 8.79 |  | 2.55 | TBD | To be determined
C9019 | 9019 | Caspofugen acetate, 5 mg | 34.20 |  | 9.92 | TBD | To be determined
C9110 | 9110 | Alemtuzumab, per 10mg/ml | 486.88 |  | 141.20 | 517 | 72,997.92
C9111 | 9111 | Inj. Bivalrudin, 250 mg vial | 397.81 |  | 115.36 | TBD | To be determined
C9112 | 9112 | Perflutren lipid micro, 2ml | 148.20 | 300,000 | 42.98 | 368,686 | 15,845,365.98
C9113 | 9113 | Inj Pantoprazole sodium, vial | 22.80 |  | 6.61 | TBD | To be determined
C9114 | 9114 | Nesiritide, per 1.5 mg vial | 433.20 |  | 125.63 | TBD | To be determined
C9115 | 9115 | Zoledronic acid, 2 mg | 406.78 |  | 117.97 | TBD | To be determined
C9200 | 9200 | Orcel, per 36 cm2 | 1,135.25 |  | 329.22 | TBD | To be determined
C9201 | 9201 | Dermagraft, per 37.5 sq cm | 577.60 |  | 167.50 | TBD | To be determined
Pass-through Drugs/Biologicals Effective October 2002
C9116 | 9116 | Ertapenem sodium | 36.24 |  | 10.51 | TBD | To be determined
C9117 | 9117 | Y-90 Zevalin | 19,181.44 |  | 19,181.44 | 9,000 | 172,632,960.00
C9118 | 9118 | IN-111 Zevalin | 2,769.65 |  | 2,769.65 | 9,000 | 24,926,850.00
C9119 | 9119 | Pegfilgrastim | 2,802.50 |  | 2,367.13 | 85,258 | 201,815,396.40
Pass-through Devices
C1765 | 1754 | Adhesion barrier |  | 256 |  | 261 | 20,011.00
C1783 | 1783 | Ocular implant, aqueous drainage |  | 2000 |  | 2042 | 1,327,300.00
C1888 | 1888 | Endovascular, non-cardiac |  | 184 |  | 188 | 136,300.00
C1900 | 1900 | Lead, left ventricular |  | 1000 |  | 1021 | 2,042,000.00
C2618 | 2618 | Probe, cryoablation |  | 1120 |  | 1144 | 531,106.00

C. Expiration of Transitional Pass-Through Payments in Calendar Year 2003

1. Devices

Section 1833(t)(6)(B)(iii) of the Act requires that a category of devices be eligible for transitional pass-through payments for at least 2, but not more than 3, years. This period begins with the first date on which a transitional pass-through payment is made for any medical device that is described by the category. We propose that 95 device categories currently in effect will expire effective January 1, 2003. Our proposed payment methodology for devices that have been paid by means of pass-through categories, but for which pass-through status will expire effective January 1, 2003, is discussed in the section below.

Although the device category codes became effective on April 1, 2001, many of the item-specific C-codes for pass-through devices that were crosswalked to the new category codes were approved for pass-through payment in CY 2000, or as of January 1, 2001. (The crosswalk for item-specific C-codes to category codes was issued in Transmittals A-01-41 and A-01-97, cited in section III.A.) To establish the expiration date for the category codes listed in Table 7, we determined when item-specific devices that are described by the categories were first made effective for pass-through payment before the implementation of device categories. These dates are listed in Table 7 in the column entitled “Date First Populated.” We propose to base the expiration date for a device category on the earliest effective date of pass-through status for any device that populates that category. Thus, the 95 categories for devices that will have been eligible for pass-through payments for at least 2 years as of December 31, 2002 would not be eligible for pass-through payments effective January 1, 2003.

Below is Table 7, which includes a comprehensive list of all pass-through device categories effective on or before July 1, 2002 with the date that devices described by the category first became effective for payment under the pass-through provisions and their respective proposed expiration dates.

Table 7.—List of Pass-through Device Categories With Proposed Expiration Dates
| HCPCS codes | Category long descriptor | Date first populated | Expiration date
1 | C1883 | Adaptor/extension, pacing lead or neurostimulator lead (implantable) | 8/1/00 | 12/31/02
2 | C1765 | Adhesion barrier | 10/01/00-3/31/01; 7/1/01 | 12/31/03
3 | C1713 | Anchor/screw for opposing bone-to-bone or soft tissue-to-bone (implantable) | 8/1/00 | 12/31/02
4 | C1715 | Brachytherapy needle | 8/1/00 | 12/31/02
5 | C1716 | Brachytherapy seed, Gold 198 | 10/1/00 | 12/31/02
6 | C1717 | Brachytherapy seed, High Dose Rate Iridium 192 | 1/1/01 | 12/31/02
7 | C1718 | Brachytherapy seed, Iodine 125 | 8/1/00 | 12/31/02
8 | C1719 | Brachytherapy seed, Non-High Dose Rate Iridium 192 | 10/1/00 | 12/31/02
9 | C1720 | Brachytherapy seed, Palladium 103 | 8/1/00 | 12/31/02
10 | C2616 | Brachytherapy seed, Yttrium-90 | 1/1/01 | 12/31/02
11 | C1721 | Cardioverter-defibrillator, dual chamber (implantable) | 8/1/00 | 12/31/02
12 | C1882 | Cardioverter-defibrillator, other than single or dual chamber (implantable) | 8/1/00 | 12/31/02
13 | C1722 | Cardioverter-defibrillator, single chamber (implantable) | 8/1/00 | 12/31/02
14 | C1888 | Catheter, ablation, non-cardiac, endovascular (implantable) | 7/1/02 | 12/31/04
15 | C1726 | Catheter, balloon dilatation, non-vascular | 8/1/00 | 12/31/02
16 | C1727 | Catheter, balloon tissue dissector, non-vascular (insertable) | 8/1/00 | 12/31/02
17 | C1728 | Catheter, brachytherapy seed administration | 1/1/01 | 12/31/02
18 | C1729 | Catheter, drainage | 10/1/00 | 12/31/02
19 | C1730 | Catheter, electrophysiology, diagnostic, other than 3D mapping (19 or fewer electrodes) | 8/1/00 | 12/31/02
20 | C1731 | Catheter, electrophysiology, diagnostic, other than 3D mapping (20 or more electrodes) | 8/1/00 | 12/31/02
21 | C1732 | Catheter, electrophysiology, diagnostic/ablation, 3D or vector mapping | 8/1/00 | 12/31/02
22 | C1733 | Catheter, electrophysiology, diagnostic/ablation, other than 3D or vector mapping, other than cool-tip | 8/1/00 | 12/31/02
23 | C2630 | Catheter, electrophysiology, diagnostic/ablation, other than 3D or vector mapping, cool-tip | 10/1/00 | 12/31/02
24 | C1887 | Catheter, guiding (may include infusion/perfusion capability) | 8/1/00 | 12/31/02
25 | C1750 | Catheter, hemodialysis/peritoneal, long-term | 8/1/00 | 12/31/02
26 | C1752 | Catheter, hemodialysis/peritoneal, short-term | 8/1/00 | 12/31/02
27 | C1751 | Catheter, infusion, inserted peripherally, centrally or midline (other than hemodialysis) | 8/1/00 | 12/31/02
28 | C1759 | Catheter, intracardiac echocardiography | 8/1/00 | 12/31/02
29 | C1754 | Catheter, intradiscal | 10/1/00 | 12/31/02
30 | C1755 | Catheter, intraspinal | 8/1/00 | 12/31/02
31 | C1753 | Catheter, intravascular ultrasound | 8/1/00 | 12/31/02
32 | C2628 | Catheter, occlusion | 10/1/00 | 12/31/02
33 | C1756 | Catheter, pacing, transesophageal | 10/1/00 | 12/31/02
34 | C2627 | Catheter, suprapubic/cystoscopic | 10/1/00 | 12/31/02
35 | C1757 | Catheter, thrombectomy/embolectomy | 8/1/00 | 12/31/02
36 | C1885 | Catheter, transluminal angioplasty, laser | 10/1/00 | 12/31/02
37 | C1725 | Catheter, transluminal angioplasty, non-laser (may include guidance, infusion/perfusion capability) | 8/1/00 | 12/31/02
38 | C1714 | Catheter, transluminal atherectomy, directional | 8/1/00 | 12/31/02
39 | C1724 | Catheter, transluminal atherectomy, rotational | 8/1/00 | 12/31/02
40 | C1758 | Catheter, ureteral | 10/1/00 | 12/31/02
41 | C1760 | Closure device, vascular (implantable/insertable) | 8/1/00 | 12/31/02
42 | L8614 | Cochlear implant system | 8/1/00 | 12/31/02
43 | C1762 | Connective tissue, human (includes fascia lata) | 8/1/00 | 12/31/02
44 | C1763 | Connective tissue, non-human (includes synthetic) | 10/1/00 | 12/31/02
45 | C1881 | Dialysis access system (implantable) | 8/1/00 | 12/31/02
46 | C1764 | Event recorder, cardiac (implantable) | 8/1/00 | 12/31/02
47 | C1767 | Generator, neurostimulator (implantable) | 8/1/00 | 12/31/02
48 | C1768 | Graft, vascular | 1/1/01 | 12/31/02
49 | C1769 | Guide wire | 8/1/00 | 12/31/02
50 | C1770 | Imaging coil, magnetic resonance (insertable) | 1/1/01 | 12/31/02
51 | C1891 | Infusion pump, non-programmable, permanent (implantable) | 8/1/00 | 12/31/02
52 | C2626 | Infusion pump, non-programmable, temporary (implantable) | 1/1/01 | 12/31/02
53 | C1772 | Infusion pump, programmable (implantable) | 10/1/00 | 12/31/02
54 | C1893 | Introducer/sheath, guiding, intracardiac electrophysiological, fixed-curve, other than peel-away | 10/1/00 | 12/31/02
55 | C1766 | Introducer/sheath, guiding, intracardiac electrophysiological, steerable, other than peel-away | 1/1/01 | 12/31/02
56 | C1892 | Introducer/sheath, guiding, intracardiac electrophysiological, fixed-curve, peel-away | 1/1/01 | 12/31/02
57 | C1894 | Introducer/sheath, other than guiding, other than intracardiac electrophysiological, non-laser | 8/1/00 | 12/31/02
58 | C2629 | Introducer/sheath, other than guiding, other than intracardiac electrophysiological, laser | 1/1/01 | 12/31/02
59 | C1776 | Joint device (implantable) | 10/1/00 | 12/31/02
60 | C1895 | Lead, cardioverter-defibrillator, endocardial dual coil (implantable) | 8/1/00 | 12/31/02
61 | C1777 | Lead, cardioverter-defibrillator, endocardial single coil (implantable) | 8/1/00 | 12/31/02
62 | C1896 | Lead, cardioverter-defibrillator, other than endocardial single or dual coil (implantable) | 8/1/00 | 12/31/02
63 | C1900 | Lead, left ventricular coronary venous system | 7/1/02 | 12/31/04
64 | C1778 | Lead, neurostimulator (implantable) | 8/1/00 | 12/31/02
65 | C1897 | Lead, neurostimulator test kit (implantable) | 8/1/00 | 12/31/02
66 | C1898 | Lead, pacemaker, other than transvenous VDD single pass | 8/1/00 | 12/31/02
67 | C1779 | Lead, pacemaker, transvenous VDD single pass | 8/1/00 | 12/31/02
68 | C1899 | Lead, pacemaker/cardioverter-defibrillator combination (implantable) | 1/1/01 | 12/31/02
69 | C1780 | Lens, intraocular (new technology) | 8/1/00 | 12/31/02
70 | C1878 | Material for vocal cord medialization, synthetic (implantable) | 10/1/00 | 12/31/02
71 | C1781 | Mesh (implantable) | 8/1/00 | 12/31/02
72 | C1782 | Morcellator | 8/1/00 | 12/31/02
73 | C1784 | Ocular device, intraoperative, detached retina | 1/1/01 | 12/31/02
74 | C1783 | Ocular implant, aqueous drainage assist device | 7/1/02 | 12/31/04
75 | C2619 | Pacemaker, dual chamber, non rate-responsive (implantable) | 8/1/00 | 12/31/02
76 | C1785 | Pacemaker, dual chamber, rate-responsive (implantable) | 8/1/00 | 12/31/02
77 | C2621 | Pacemaker, other than single or dual chamber (implantable) | 1/1/01 | 12/31/02
78 | C2620 | Pacemaker, single chamber, non rate-responsive (implantable) | 8/1/00 | 12/31/02
79 | C1786 | Pacemaker, single chamber, rate-responsive (implantable) | 8/1/00 | 12/31/02
80 | C1787 | Patient programmer, neurostimulator | 8/1/00 | 12/31/02
81 | C1788 | Port, indwelling (implantable) | 8/1/00 | 12/31/02
82 | C2618 | Probe, cryoablation | 4/1/01 | 12/31/03
83 | C1789 | Prosthesis, breast (implantable) | 10/1/00 | 12/31/02
84 | C1813 | Prosthesis, penile, inflatable | 8/1/00 | 12/31/02
85 | C2622 | Prosthesis, penile, non-inflatable | 10/1/01 | 12/31/02
86 | C1815 | Prosthesis, urinary sphincter (implantable) | 10/1/00 | 12/31/02
87 | C1816 | Receiver and/or transmitter, neurostimulator (implantable) | 8/1/00 | 12/31/02
88 | C1771 | Repair device, urinary, incontinence, with sling graft | 10/1/00 | 12/31/02
89 | C2631 | Repair device, urinary, incontinence, without sling graft | 8/1/00 | 12/31/02
90 | C1773 | Retrieval device, insertable | 1/1/01 | 12/31/02
91 | C2615 | Sealant, pulmonary, liquid (Implantable) | 1/1/01 | 12/31/02
92 | C1817 | Septal defect implant system, intracardiac | 8/1/00 | 12/31/02
93 | C1874 | Stent, coated/covered, with delivery system | 8/1/00 | 12/31/02
94 | C1875 | Stent, coated/covered, without delivery system | 8/1/00 | 12/31/02
95 | C2625 | Stent, non-coronary, temporary, with delivery system | 10/1/00 | 12/31/02
96 | C2617 | Stent, non-coronary, temporary, without delivery system | 10/1/00 | 12/31/02
97 | C1876 | Stent, non-coated/non-covered, with delivery system | 8/1/00 | 12/31/02
98 | C1877 | Stent, non-coated/non-covered, without delivery system | 8/1/00 | 12/31/02
99 | C1879 | Tissue marker (implantable) | 8/1/00 | 12/31/02
100 | C1880 | Vena cava filter | 1/1/01 | 12/31/02

We considered a number of options on how to pay for devices after their pass-through payment status expires effective January 1, 2003. We held a Town Hall Meeting on April 5, 2002, to solicit recommendations on how to pay for drugs, biologicals, and devices once their eligibility for transitional pass-through payments expires in accordance with the time limits set by the statute. Interested parties representing hospitals, physician specialty groups, device and drug manufacturers and trade associations, and other organizations presented their views on these issues.

We have carefully considered all the comments, concerns, and recommendations submitted to us regarding payment for devices and drugs and biologicals that would no longer be eligible for pass-through payments in 2003. One consideration under the OPPS is the need to enable beneficiary access to new, and often costly, medical technology. We have also had to assess the extent to which the most recently available data that are the basis for prospectively setting payment rates for services within the APC system adequately reflect the costs incurred by hospitals to furnish this new technology. Having considered these factors, we propose to package the costs of medical devices no longer eligible for pass-through payment in 2003 into the costs of the procedures with which the devices were billed in 2001. (Our proposal to pay for pass-through drugs and biologicals whose pass-through status expires in 2003 is discussed below, in section III.C.2.)

The methodology that we propose to use to package pass-through device costs is consistent with the methodology for packaging that we describe in section II.B.4.b. That is, to calculate the total cost for a service on a per-service basis, we included all charges billed with the service in a revenue center in addition to packaged HCPCS codes with status indicator “N.” We also packaged the 2001 charges for devices that will cease to be eligible for pass-through payment in 2003 into the changes for the HCPCS codes with which the devices were billed. We relied on the hospitals to correctly code their bills for all costs, including pass-through devices, using HCPCS codes and revenue centers as appropriate to describe the services that they furnished.

We discuss in section II.B.4.a.(2), issues related to coding and billing for pass-through devices in 2001 and how our analysis of the claims data suggests that in some instances charges for devices were billed in revenue centers and in other instances with a device-specific or device category “C” code. We did not want to lose the device costs billed by hospitals through revenue centers in developing our relative weights for APCs, yet we were unable to separate the device costs from other costs included in the revenue centers. This problem is resolved by our proposal to package the costs of both the device “C” codes and the billed revenue centers, whichever appears on the claim. We are confident that this method will allow us to capture all device related costs billed by hospitals.

We customarily allow a grace period for HCPCS codes that are scheduled for deletion. When we allow a grace period for deleted codes, we permit deleted codes to continue to be billed and paid for 90 days after the effective date of the changes that require their deletion. However, we propose to not allow a grace period for expiring pass-through codes because permitting a grace period would result in pass-through payment for the items for which we propose to cease pass-through payment effective with services furnished on or after January 1, 2003. Effective for services furnished on or after January 1, 2003, hospitals would submit charges for all surgically inserted devices in the supply, implant, or device revenue center that most appropriately describes the implant. Device costs will thus be packaged into and reflected in the costs for the procedure with which they are associated. Therefore, effective for services furnished on or after January 1, 2003, we propose to reject line items containing a “C” code for a device category scheduled to expire effective January 1, 2003.

2. Drugs and Biologicals (Including Radiopharmaceuticals, Blood, and Blood Products)

Under the OPPS, we currently pay for drugs and biologicals, including radiopharmaceuticals, blood, and blood products, in one of three ways: packaged payment, separate APCs and transitional pass-through payment.

Packaged Payment

As we explained in the April 7, 2000 final rule, we generally package the cost of drugs and biologicals into the APC payment rate for the primary procedure or treatment with which the drugs are usually furnished (65 FR 18450). Hospitals do not receive separate payment from Medicare for packaged items and supplies, and hospitals may not bill beneficiaries separately for any such packaged items and supplies whose costs are recognized and paid for within the national OPPS payment rate for the associated procedure or service. (Transmittal A-01-133, a Program Memorandum issued to Intermediaries on November 20, 2001, explains in greater detail the rules regarding separate payment for packaged services). Hospitals bill for costs directly related and integral to performing a procedure or furnishing a service using a revenue center or packaged HCPCS code (status indicator “N”). As discussed earlier in section II.B.4.a(2), we list the packaged services, by revenue center, that we use to calculate per-service costs.

As specified in the regulations at § 419.2(b), costs directly related and integral to performing a procedure or furnishing a service on an outpatient basis are included in the determination of OPPS payment rates for the procedure or service. For example, sedatives administered to patients while they are in the preoperative area being prepared for a procedure are supplies that are integral to being able to perform the procedure. Similarly, mydriatic drops instilled into the eye to dilate the pupils, anti-inflammatory drops, antibiotic ointments, and ocular hypotensives that are administered to the patient immediately before, during, or following an ophthalmic procedure are considered an integral part of the procedure without which the procedure could not be performed. The costs of these items are packaged into and reflected within the OPPS payment rate for the procedure. Likewise, barium or low osmolar contrast media are supplies that are integral to a diagnostic imaging procedure as is the topical solution used with photodynamic therapy furnished at the hospital to treat non-hyperkeratotic actinic keratosis lesions of the face or scalp. Local anesthetics such as marcaine, lidocaine (with or without epinephrine) and antibiotic ointments such as bacitracin, placed on a wound or surgical incision at the completion of a procedure, are other examples. The hospital furnishes these items while the patient is in the hospital and registered as an outpatient for the purpose of receiving a therapy, treatment, procedure, or service. These and other such supplies may be furnished pre-operatively, while the patient is being prepared for a procedure; intra-operatively, while the procedure is being performed; or post-operatively, while the patient is in the recovery area prior to discharge. Or, these items may be part of an E/M service furnished during a clinic visit or in the emergency department. All of these supplies are directly related and integral to the performance of a separately payable therapy, treatment, procedure, or service with which they are furnished. Therefore, we do not generally recognize them as separately payable services. We package their cost into the cost of the primary procedure, and we pay for them as part of the APC payment.

Separate APCs for Drugs Not Eligible for Transitional Pass-Through Payment

There are certain new technology drugs and biologicals that are not eligible for transitional pass-through payments but for which we have made separate payment. Beginning with the April 7, 2000 rule (65 FR 18476), we created separate new technology APCs for these drugs and biologicals as well as devices. For example, we did not package into the emergency room visit APCs the various drugs classified as tissue plasminogen activators (TPAs) and other thrombolytic agents that are used to treat patients with myocardial infarctions. We also did not package the costs of certain vaccines into the payment for visits or procedures. Rather, we created temporary individual APC groups for these drugs to allow separate payment so as not to discourage their use where appropriate. In the case of blood and blood products, wide variations in patient requirements convinced us that we should pay for these items separately rather than packaging their costs into the procedural APCs. Moreover, the Secretary's Advisory Council on Blood Safety and Access recommended that blood and blood products be paid separately to ensure that there were no incentives that would be inconsistent with the promotion of blood safety and access.

In the case of the other drugs and vaccines that we did not package into payment for visits or procedures, we paid separately for them because we wanted to avoid creating an incentive to cease providing these drugs when they were medically indicated.

We based the payment rate for the APCs for these drugs and biologicals on median hospital acquisition costs. To determine the hospital acquisition cost for the drugs, we imputed a cost using the same ratios of drug acquisition cost to AWP that we discuss below in connection with calculating acquisition costs for transitional pass-through drug payments. That is, we multiplied the AWP for the drug by the applicable ratio (sole or multisource drug) based on data collected in an external survey of hospital drug acquisition costs.

We set beneficiary copayment amounts for these drug and biological APCs at 20 percent of the imputed acquisition cost. In 2003 we will use status indicator “K” to denote the APCs for drugs and biologicals (including blood and blood products) and certain brachytherapy seeds that are paid separately from and in addition to the procedure or treatment with which they are associated but that are not eligible for transitional pass-through payment.

Transitional Pass-Through Payments for Eligible Drugs and Biologicals

BBRA provided for special transitional pass-through payments for a period of 2 to 3 years for the following drugs and biologicals (pass-through payments for devices are addressed in section III.C.1 of this proposed rule):

• Current orphan drugs, as designated under section 526 of the Federal Food, Drug, and Cosmetic Act.

• Current drugs and biologic agents used for treatment of cancer.

• Current radiopharmaceutical drugs and biological products.

• New drugs and biological agents.

In this context, “current” refers to those items for which hospital outpatient payment was being made on August 1, 2000, the date on which the OPPS was implemented. A “new” drug or biological is a product that is not paid under the OPPS as a “current” drug or biological, was not paid as a hospital outpatient service before January 1, 1997, and for which the cost is not insignificant in relation to the payment for the APC with which it is associated.

Section 1833(t)(6)(D)(i) of the Act sets the payment rate for pass-through eligible drugs as the amount by which the amount determined under section 1842(o) of the Act, that is, 95 percent of the applicable average wholesale price (AWP), exceeds the difference between 95 percent of the applicable AWP and the portion of the otherwise applicable fee schedule amount (that is, the APC payment rate) that the Secretary determines is associated with the drug or biological. Therefore, in order to determine the pass-through payment amount, we first had to determine the cost that was packaged for the drug or biological within its related APC. In order to determine this amount, we used data on hospital acquisition costs for drugs from a survey that is described more fully in the April 7, 2000 and the November 30, 2001 final rules. The ratio of hospital acquisition cost, on average, to AWP that we used is as follows:

• For sole-source drugs, the ratio of acquisition cost to AWP equals 0.68.

• For multisource drugs, the ratio of acquisition cost to AWP equals 0.61.

• For multisource drugs with generic competitors, the ratio of acquisition cost to AWP equals 0.43.

Section 1833(t)(6)(C)(i) of the Act specifies that the duration of transitional pass-through payments for current drugs and biologicals must be no less than 2 years nor any longer than 3 years beginning on the date that the OPPS is implemented. Therefore, the latest date for which current drugs that have been in transitional pass-through status since August 1, 2000 will be eligible for transitional pass-through payments is July 31, 2003. We propose to remove these drugs from transitional pass-through status effective January 1, 2003 because the law gives us the discretion to do so and because we generally implement annual OPPS updates on January 1 of each year. We would be in violation of the law if we were to not remove these drugs and biologicals from transitional pass through status before August 2, 2003. The next new OPPS that will go into place will not be effective until January 1, 2004, at which time, the statute's 3-year limit on pass-through payments for these drugs would have been exceeded. We further propose to remove from transitional pass-through status, beginning January 1, 2003, those drugs for which transitional pass-through payments were made effective on or prior to January 1, 2001 because the law gives us the discretion to do so and we believe that, to the extent possible, payments should be made under the OPPS, without pass-through payment, when the law permits, as it does in this case.

As explained above, our policy has been to package payment for drugs and biologicals into the payment for the procedure or service to which the drug is integral and directly related. In general, packaging the costs of items and services into the payment for the primary procedure or service with which it is associated encourages hospital efficiencies and also enables hospitals to manage their resources with maximum flexibility. Packaging costs into a single aggregate payment for a service procedure or episode of care is a fundamental principle that distinguishes a prospective payment system from a fee schedule. Our proposal to package the costs of devices that we discuss in section III.C.1 of this preamble is based on this principle. As we refine the OPPS in the future, we intend to continue to package, to the maximum possible extent, the costs of any items and services that are furnished with an outpatient procedure or service into the APC payment for services with which it is billed.

Notwithstanding our commitment to package as many costs as possible, we are aware of concerns that were presented at the April 5, 2002 Town Hall meeting and that have been brought to our attention by various interested parties, that packaging payments for certain drugs, especially those that are particularly expensive or rarely used, might result in insufficient payments to hospitals, which could adversely affect beneficiary access to medically necessary services.

The options that we considered included packaging the costs of all drugs and biologicals, both those with status indicator “K” in 2002 and those that would no longer receive pass-through payments in 2003, or continuing to make separate payment for both categories of drugs and biologicals through separate APCs. After careful consideration of the various options for 2003, we propose to package the cost of many drugs for which separate payment is made currently. But we also propose to continue making separate payment for orphan drugs (as defined below), blood and blood products, vaccines that are paid under a benefit separate from the outpatient hospital benefit (that is, influenza, pneumococcal pneumonia, and hepatitis B), and certain higher cost drugs as explained below. The payment rates for those drugs for which we would make separate payment in 2003 would be an APC payment rate based on a relative weight calculated in the same way that relative weights for procedural APCs are calculated.

Orphan Drugs

We recognize that orphan drugs that are used solely for an orphan condition or conditions are generally expensive and, by definition, are rarely used. We believe that if the cost of these drugs were packaged into the payment for an associated procedure or visit, the payment for the procedure might be insufficient to compensate a hospital for the typically high cost of this special type of drug. Therefore, we propose to establish separate APCs to pay for those orphan drugs that are used solely for orphan conditions.

To identify the orphan drugs for which we would continue to make separate payment, we applied the following criteria:

• The drug must be designated as an orphan drug by FDA and approved by FDA for the orphan condition.

• The current United States Pharmacopoeia Drug Information (USPDI) shows that the drug had neither an approved use for other than an orphan condition nor an off label use for conditions other than the orphan condition. There are three orphan drugs that are used solely for orphan conditions for which we propose to make separate payment: J0205 Alglucerase injection (APC 0900); J0256 Alpha 1 proteinase inhibitor (APC 0901); and J09300 Gemtuzumab ozogamicin (APC 9004).

Blood and Blood Products

From the onset of the OPPS, we have made separate payment for blood and blood products either in APCs with status indicator “K” or as pass-through drugs and biologicals with status indicator “G” rather than packaging them into payment for the procedures with which they were administered. As we explained in the April 7, 2000 final rule (65 FR 18449), the high degree of variability in blood use among patients could result in payment inequities if the costs of blood and blood products were packaged with their administration. We also want to ensure that costs associated with blood safety testing are fully recognized. The safety of the nation's blood supply continues to be among the highest priorities of the Secretary's council on Blood Safety and Access. Therefore, we propose to continue to pay separately for blood and blood products.

Vaccines Covered Under a Benefit Other Than OPPS

Outpatient hospital departments administer large numbers of the vaccines for influenza (flu), pneumococcal pneumonia (PPV), and hepatitis B, typically by participating in immunization programs encouraged by the Secretary because these vaccinations greatly reduce death and illness in vulnerable populations. In recent years, the availability and cost of the vaccines (particularly the flu vaccine) have varied considerably. We want to avoid creating any disincentives to provide these important preventative services that might result from packaging their costs into those of primary procedures, visits, or administration codes. Therefore, we propose to pay for these vaccines under OPPS through the establishment of separate APCs.

Higher Cost Drugs

While our preferred policy is to package the cost of drugs and other items into the cost of the procedures with which they are associated, we are concerned that beneficiary access to care may be affected by packaging certain higher cost drugs. For this reason, we propose to allow payment under separate APCs for high cost drugs for an additional year while we further study various payment options. Specifically, we propose to pay separately for drugs for which the median cost per line (cost per unit multiplied by the number of units billed on the claim) exceeded $150, as determined below.

To establish a reasonable threshold for determining which drugs we would pay under separate APCs rather than through packaging, we calculated the median cost per unit using 2001 claims data for each of the drugs for which transitional pass-through payment ceases January 1, 2003 and for those additional drugs that we have paid separately (status indicator “K”) since the outset of OPPS. We excluded from these calculations the orphan drugs, vaccines, and blood and blood products discussed above. The unit median represents the cost per single unit dose of the drug as described by its HCPCS code. Because many drugs are used and billed in multiple unit doses, we then multiplied the median cost per unit for the drug by the average number of units that were billed per line. The average number of units per drug equals the total units divided by the total number of times the drug was billed. This calculation gave us an approximate median cost per line for the drug. We viewed this as being the approximate cost per administration because we believed that a single administration of a drug was billed as a single line item on a claim and that the correct number of units was placed in the “units” field of the claim form. We then arrayed the median cost per line in ascending order and examined the distribution. A natural break occurs at $150 per line, the midpoint of a $10 span between the drug immediately above and below the $150 point. Within the array, approximately 61 percent of the drugs fall below the $150 point and 39 percent of the array are above the point. Among the drugs that we propose to package are some radiopharmaceuticals, vaccines, anesthetics, and anticancer agents. After including the costs of packaged drugs in the services with which they were provided, we noted that the median costs of those services increased. For example, based on 2001 data, APC 117, Chemotherapy Administration by Infusion Only, showed a median cost before packaging of $129.53 and showed a median cost after packaging of $210.36. Similarly, APC 118, Chemotherapy administration by both infusion and another technique, showed a median cost before packaging of $136.00 and a median cost after packaging of $309.65. We believe that this appropriately represents the cost of packaged drugs on a per administration basis. However, in particular, we solicit comments that address specific alternative protocols we might use when several packaged drugs whose total cost significantly exceeds the applicable APC payment amount may be administered to a patient on the same day (for example, multiple agent cancer chemotherapy).

We request comments on the factors we considered in determining which drugs to package in 2003. We are particularly interested in comments with respect to the exclusion of high cost drugs from packaging. We are continuing to analyze the effect of our drug packaging proposal to assess whether the $150 threshold should be adjusted to avoid significant overpayments or underpayments for the base APCs relative to the median costs of the individual drugs packaged into the APCs. Depending on this analysis, we may revise our threshold or criteria for packaging in the final rule for 2003. We expect to further consider each of these exclusions for packaging when we develop our proposals for the 2004 OPPS.

Although we expect to expand packaging of drugs to package payment for more drugs into the APC for the services with which they are billed, we are, nonetheless, requesting comments on alternatives to packaging. One example of an alternative approach is to use different criteria from those we propose in this proposed rule to identify the drugs to package into procedure APCs and the drugs to pay separately. We could package all drugs for which the median cost was less than $500 or alternatively package drugs for which the median cost was less than $100. Another alternative approach would be to create APCs for groups of drugs based on their costs. Under such an approach we could group drugs with costs between $0 and $100 and pay at the mid-point—$50. The next group could consist of drugs with a median cost between $100 and $250 and pay at the mid-point—$175. This approach would be similar to that employed for new technology services. Another approach would be to create separate APCs for each drug. Under this approach we would create a separate APC for each drug (regardless of its median cost) and use its relative weight to calculate a payment rate for the drug. We welcome a full discussion of the alternatives as we determine the best way to ensure that hospitals are paid appropriately for the drugs they administer to the Medicare beneficiaries whom they treat in their outpatient departments.

Table 8 lists drugs and biologicals for which separate payment is currently being made in 2002 with either status indicator “K” or “G” and whose costs we propose to package in 2003. Drugs that we propose to pay for separately in 2003 are designated in Addendum B by status indicator “K” or “G.”.

Table 8.—Drugs and Biologicals Separately Payable in CY 2002
HCPCS | Short description
90296 | Diphtheria antitoxin
90375 | Rabies ig, im/sc
90376 | Rabies ig, heat treated
90378 | Rsv ig, im, 50mg
90379 | Rsv ig, iv
90385 | Rh ig, minidose, im
90389 | Tetanus ig, im
90393 | Vaccina ig, im
90396 | Varicella-zoster ig, im
90471 | Immunization admin
90476 | Adenovirus vaccine, type 4
90477 | Adenovirus vaccine, type 7
90585 | Bcg vaccine, percut
90586 | Bcg vaccine, intravesical
90632 | Hep a vaccine, adult im
90633 | Hep a vacc, ped/adol, 2 dose
90634 | Hep a vacc, ped/adol, 3 dose
90645 | Hib vaccine, hboc, im
90646 | Hib vaccine, prp-d, im
90647 | Hib vaccine, prp-omp, im
90648 | Hib vaccine, prp-t, im
90665 | Lyme disease vaccine, im
90675 | Rabies vaccine, im
90676 | Rabies vaccine, id
90680 | Rotovirus vaccine, oral
90690 | Typhoid vaccine, oral
90691 | Typhoid vaccine, im
90692 | Typhoid vaccine, h-p, sc/id
90700 | Dtap vaccine, im
90701 | Dtp vaccine, im
90702 | Dt vaccine < 7, im
90703 | Tetanus vaccine, im
90704 | Mumps vaccine, sc
90705 | Measles vaccine, sc
90706 | Rubella vaccine, sc
90707 | Mmr vaccine, sc
90708 | Measles-rubella vaccine, sc
90710 | Mmrv vaccine, sc
90712 | Oral poliovirus vaccine
90713 | Poliovirus, ipv, sc
90716 | Chicken pox vaccine, sc
90717 | Yellow fever vaccine, sc
90718 | Td vaccine > 7, im
90719 | Diphtheria vaccine, im
90720 | Dtp/hib vaccine, im
90721 | Dtap/hib vaccine, im
90725 | Cholera vaccine, injectable
90727 | Plague vaccine, im
90733 | Meningococcal vaccine, sc
90735 | Encephalitis vaccine, sc
90749 | Vaccine toxoid
A4642 | Satumomab pendetide per dose
A9500 | Technetium TC 99m sestamibi
A9502 | Technetium TC99M tetrofosmin
A9503 | Technetium TC 99m medronate
A9504 | Technetium tc 99m apcitide
A9505 | Thallous chloride TL 201/mci
A9508 | Iobenguane sulfate I-131
A9510 | Technetium TC99m Disofenin
A9700 | Echocardiography Contrast
C1066 | IN 111 satumomab pendetide
C1079 | CO 57/58 per 0.5 uCi
C1087 | I-123 per 100 uCi
C1094 | TC99Malbumin aggr, per 1.0 mCi
C1097 | TC 99M MEBROFENIN, PER Vial
C1098 | TC 99M PENTETATE, PER Vial
C1099 | TC 99M PYROPHOSPHATE, PER Via
C1166 | CYTARABINE LIPOSOMAL, 10 mg
C1188 | I-131 cap, per 1-5 mCi
C1200 | TC 99M Sodium Glucoheptonat
C1201 | TC 99M SUCCIMER, PER Vial
C1202 | TC 99M SULFUR COLLOID, Vial
J2020 | Linezolid inj, 200mg
J7525 | Tacrolimus inj, per 5 mg
C9007 | Baclofen Intrathecal kit-1am
C9008 | Baclofen Refill Kit-500mcg
J0706 | Caffeine Citrate, inj, 1ml
C9100 | Iodinated I-131 Albumin
C9102 | 51 Na Chromate, 50 mCi
C9103 | Na Iothalamate I-125, 10 uCi
J0150 | Injection adenosine 6 MG
J0350 | Injection anistreplase 30 u
J0640 | Leucovorin calcium injection
J0706 | Caffeine Citrate, inj, per 5 mg
J1245 | Dipyridamole injection
J1260 | Dolasetron mesylate
J1325 | Epoprostenol injection
J1327 | Eptifibatide injection
J1436 | Etidronate disodium inj
J1438 | Etanercept injection
J1565 | RSV-ivig
J1570 | Ganciclovir sodium injection
J1620 | Gonadorelin hydroch/ 100 mcg
J1626 | Granisetron HCl injection
J1670 | Tetanus immune globulin inj
J1830 | Interferon beta-1b / .25 MG
J2260 | Inj milrinone lactate / 5 ML
J2275 | Morphine sulfate injection
J2405 | Ondansetron hcl injection
J2765 | Metoclopramide hcl injection
J2770 | Quinupristin/dalfopristin
J2820 | Sargramostim injection
J2995 | Inj streptokinase /250000 IU
J2997 | Alteplase recombinant
J3010 | Fentanyl citrate injeciton
J3280 | Thiethylperazine maleate inj
J3365 | Urokinase 250,000 IU inj
J7310 | Ganciclovir long act implant
J7316 | Sodium hyaluronate injection, per 5 mg
J7500 | Azathioprine oral 50 mg
J7501 | Azathioprine parenteral
J7506 | Prednisone oral
J7516 | Cyclosporin parenteral 250 mg
J8510 | Oral busulfan
J8530 | Cyclophosphamide oral 25 MG
J8600 | Melphalan oral 2 MG
J8610 | Methotrexate oral 2.5 MG
J9000 | Doxorubic hcl 10 MG vl chemo
J9020 | Asparaginase injection
J9031 | Bcg live intravesical vac
J9050 | Carmus bischl nitro inj
J9070 | Cyclophosphamide 100 MG inj
J9093 | Cyclophosphamide lyophilized
J9100 | Cytarabine hcl 100 MG inj
J9120 | Dactinomycin actinomycin d
J9130 | Dacarbazine 10 MG inj
J9181 | Etoposide 10 MG inj
J9190 | Fluorouracil injection
J9212 | Interferon alfacon-1
J9213 | Interferon alfa-2a inj
J9214 | Interferon alfa-2b inj
J9215 | Interferon alfa-n3 inj
J9230 | Mechlorethamine hcl inj
J9250 | Methotrexate sodium inj
J9270 | Plicamycin (mithramycin) inj
J9320 | Streptozocin injection
J9340 | Thiotepa injection
J9360 | Vinblastine sulfate inj
J9370 | Vincristine sulfate 1 MG inj
Q0163 | Diphenhydramine HCl 50 mg
Q0164 | Prochlorperazine maleate 5 mg
Q0166 | Granisetron HCl 1 mg oral
Q0167 | Dronabinol 2.5 mg oral
Q0169 | Promethazine HCl 12.5 mg oral
Q0171 | Chlorpromazine HCl 10 mg oral
Q0173 | Trimethobenzamide HCl 250 mg
Q0174 | Thiethylperazine maleate 10 mg
Q0175 | Perphenazine 4 mg oral
Q0177 | Hydroxyzine pamoate 25 mg
Q0179 | Ondansetron HCl 8 mg oral
Q0180 | Dolasetron mesylate oral
Q2002 | Elliotts b solution per ml
Q2003 | Aprotinin, 10,000 kiu
Q2004 | Bladder calculi irrig sol
Q2007 | Ethanolamine oleate 100 mg
Q2008 | Fomepizole, 15 mg
Q2009 | Fosphenytoin, 50 mg
Q2010 | Glatiramer acetate, per dose
Q2013 | Pentastarch 10% solution
Q2014 | Sermorelin acetate, 0.5 mg
J2940 | Somatrem injection
Q2018 | Urofollitropin, 75 iu
Q2021 | Lepirudin
Q3002 | Gallium ga 67
Q3004 | Xenon xe 133
Q3005 | Technetium tc99m mertiatide
Q3006 | Technetium tc99m glucepatate
Q3007 | Sodium phosphate p32
Q3009 | Technetium tc99m oxidronate
Q3010 | Technetium tc99m labeledrbcs

3. Brachytherapy

Section 1833(t)(6) of the Act requires us to establish transitional pass-through payments for devices of brachytherapy. As of August 1, 2000, we established item-specific device codes including codes for brachytherapy seeds, needles, and catheters. Effective April 1, 2001, we established category codes for brachytherapy seeds on a per seed basis (one for each isotope), brachytherapy needles on a per needle basis, and brachytherapy catheters on a per catheter basis. Because initial payment was made for a device in each of these categories in August 2000, we propose that these categories (and the transitional pass-through payments) will be discontinued as of January 1, 2003. Furthermore, as discussed above, we propose that there will be no grace period for billing these category codes.

We received comments, both in writing and at the April 2002 Town Hall meeting, recommending that we continue to make separate payment for brachytherapy seeds. The basis for this recommendation is that the number of brachytherapy seeds implanted per procedure is variable. These commenters stated that the number and type of seeds implanted in a given patient depends on the type of tumor, its size, extent, and biology, and the amount of radioactivity contained in each seed. For example, a given type of cancer may be treated by implanting seeds of different isotopes (for example, iodine or palladium) depending on its biological characteristics. Further, depending on the size of the tumor, the number of implanted seeds that may be required to effectively treat the cancer is quite variable (for example, from 25 to 100 seeds). In addition, implantable seeds may be manufactured with different amounts of radioactivity, and it may be preferable to implant fewer seeds with higher activity in some cases while in other cases it may be preferable to implant a larger number of seeds with lower activity. To further complicate the matter, the HCPCS codes used to report implantation of brachytherapy seeds are not tumor-specific. Instead, they are defined based on the number of sources, that is, the number of seeds or ribbons used in the procedure. This means that the treatment of many different tumors requiring implantation of widely varying numbers of seeds is described by a single HCPCS code. Therefore, it has been argued that given the costs of seeds and the variety of treatments described by a single HCPCS code, the cost of brachytherapy billed under a single HCPCS code could vary by as much as $3,000.

In determining whether to package seeds into their associated procedures, we considered all these factors as well as our claims data. Consistent with our proposed policy for other device costs and the cost of many drugs, as well as with the principles of a prospective payment system, our preferred policy is to package the cost of brachytherapy devices into their associated procedures. For 2003, in the case of remote afterloading high intensity brachytherapy and prostate brachytherapy, which we discuss below, we propose to package the costs into payment for the procedures with which they are billed.

For other uses of brachytherapy, we propose to defer packaging of brachytherapy seeds for at least 1 year. In those cases, when paying separately in 2003 for brachytherapy seeds, we propose to continue payment on a per seed basis. The payment amount would be based on the median cost of brachytherapy seeds, per seed, as determined from our claims data.

We solicit comments on methodologies we might use to package all brachytherapy seeds beginning in CY 2004. For example, creation of tumor-specific brachytherapy HCPCS codes would reduce the variability in seed implantation costs associated with the current HCPCS codes used for seed implantation.

As stated above, beginning January 1, 2003, we propose to package payment for brachytherapy seeds into the payment for the following two types of brachytherapy services:

Remote Afterloading High Intensity Brachytherapy.

Participants in the April 5, 2002 Town Hall meeting expressed concern about packaging single use brachytherapy seeds into payment for procedures.

Remote afterloading high intensity brachytherapy treatment does not involve implantation of seeds. Instead, it utilizes a single radioactive “source” of high dose iridium with a 90-day life span. This single source is purchased and used multiple times in multiple patients over its life. One or more temporary catheters are inserted into the area requiring treatment, and the radioactive source is briefly inserted into each catheter and then removed. Because the source never comes in direct contact with the patient, it may be used for multiple patients. We note that the cost of the radioactive source, per procedure, is the same irrespective of how many catheters are inserted into the patient. Further, because the number of treatments administered with a single source over a 90-day period may vary and because the cost of the source is fixed, it is difficult if not impossible to determine a per “treatment” cost for the source. Moreover, we believe that the costs of this type of source should be amortized over the life of the source. Therefore, each hospital administering this type of therapy should include a charge (which is hospital-specific) for the radiation source in the charge for the procedure. Therefore, we propose to package the costs associated with high dose iridium into the HCPCS codes used to describe this procedure. Those codes are: 77781, 77782, 77783, and 77784.

Prostate Brachytherapy

The preponderance of brachytherapy claims under OPPS to date is for prostate brachytherapy. Brachytherapy is administered in several other organ systems, but the claims volume for non-prostate brachytherapy is very small, and hence our base of information on which to make payment decisions is slim. Furthermore, prostate brachytherapy uses only two isotopes, which are similar in cost, while brachytherapy on other organs involves a variety of isotopes with greater variation in cost. Consequently, we believe it would be prudent to wait for further experience to develop before proceeding to package non-prostate brachytherapy seeds.

A number of commenters at the April 5, 2002, Town Hall Meeting and elsewhere have stressed to us their views that brachytherapy seeds should remain unpackaged. The principle argument put forth in favor of this approach is that the number of seeds used is highly variable across patients. We do not find this argument compelling. Payments in the OPPS, as in other prospective payment systems, are based on averages. We expect hospitals, in general, to be able to accommodate variation across patients in resource costs of services paid in a particular payment cell. The degree of variation should be immaterial as long as the payment is appropriate for a typical case, the hospital treats a caseload the resource use of which approximates a typical distribution, and the number of cases treated by a hospital is sufficiently large to overcome peculiarities in resource use that might be observed with a very small number of cases. We believe the service volume at hospitals providing prostate brachytherapy is likely to be large enough for a payment reflecting average use of seeds to be appropriate.

Additionally, appropriate payment for prostate brachytherapy has been of concern to many commenters since implementation of the OPPS because facilities must use multiple HCPCS codes on a single claim to accurately describe the entire procedure. Because we determine APC relative weights using single procedure claims, commenters have argued that payments for prostate brachytherapy are, in part, based on error claims, resulting in underpayment for this important service. We agree that basing the relative weights for APCs reported for prostate brachytherapy services on only the small number of claims related to this service that are single procedure claims may be problematic. To increase the number of claims we could use to develop the proposed 2003 relative payment weights for prostate brachytherapy, we began by identifying all claims billed in 2001 for prostate brachytherapy. That is, we identified all claims that contained a line item for HCPCS code 77778, Interstitial radiation source application; complex, and HCPCS code 55859, Transperineal placement of needles or catheters into prostate for interstitial radioelement application, with or without cystoscopy. We discovered more than 12,000 claims that met these specifications, suggesting that most of the procedures coded under HCPCS code 77778 were for prostate brachytherapy. Unfortunately, closer analysis of these claims revealed that hospitals do not report prostate brachytherapy using a uniform combination of codes. Of the more than 12,000 claims for prostate brachytherapy that we identified in the 2001 claims data, no single combination of HCPCS codes occurred more than 25 times.

Therefore, in order to facilitate tracking of this service, we propose to establish a G code for hospital use only that will specifically identify prostate brachytherapy. We propose as the descriptor for this G code the following: “Prostate brachytherapy, including transperineal placement of needles or catheters into the prostate, cystoscopy, and interstitial radiation source application.” This G code would be used by hospitals instead of HCPCS codes 55859 and 77778 to bill for prostate brachytherapy. Hospitals would continue to use HCPCS codes 55859 and 77778 when reporting services other than prostate brachytherapy. We would also instruct hospitals to continue to report separately other services provided in conjunction with prostate brachytherapy, such as dosimetry and ultrasound guidance. These additional services would be paid according to the APC payment rate established by our usual methodology.

This G code will allow us to package brachytherapy seeds into the procedures for administering prostate brachytherapy while permitting us to pay separately for brachytherapy seeds which are administered for other procedures. Therefore, we propose to package the costs of the brachytherapy seeds, catheters, and needles into the payment for the prostate brachytherapy G code. In order to develop a payment amount for this G code, we used all claims where both HCPCS codes 55859 and 77778 appeared. We packaged all revenue centers and appropriate HCPCS codes, that is, HCPCS with status indicator “N.” We then determined median costs of the line items for HCPCS codes 55859 and 77778 and added the two. Next, we packaged the costs of all C codes, whether an item-specific or a device category code, into the payment amount. We propose to assign APC 0684 with status indicator “T.” We believe the payment rate proposed for this G code appropriately reflects the costs of the procedures, the brachytherapy seeds, and any other devices associated with these procedures. We solicit comments on this proposal.

Packaging of Other Device Costs Associated with Brachytherapy

We propose to package the costs of brachytherapy needles and catheters with whichever procedures they are reported, similar to our proposal for packaging the costs of other devices that will no longer be eligible for a transitional pass-through payment in 2003. Because the HCPCS code descriptors for brachytherapy are based on the number of catheters or needles used, we believe the costs of these devices would be appropriately reflected within the costs of the associated procedure.

D. Criteria for New Device Categories

Section 1833(t)(6)(B)(ii) of the Act, as amended by BIPA, required us to establish criteria by July 1, 2001 that will be used to create additional device categories to be used in determining eligibility of a device for pass-through payments. This provision requires that no medical device be described by more than one category. In addition, the criteria must include a test of whether the average cost of devices that would be included in a category is “not insignificant” in relation to the APC payment amount for the associated service.

On November 2, 2001, we published in the Federal Register an interim final rule (66 FR 55850) that set forth the criteria for establishing new (that is, additional) categories of medical devices eligible for transitional pass-through payments under the hospital outpatient PPS as required by section 1833(t)(6)(B)(ii) of the Act. The provisions relating to transitional pass-through payments for eligible drugs and biologicals remained unchanged and were not addressed in the November 2001 interim final rule (except for a change relating to contrast agents as provided in section 430 of BIPA). We received several public comments regarding our criteria published in the November 2001 interim final rule. We will respond to these public comments in the final rule for the OPPS for 2003.

In the November 2, 2001 interim final rule, we implemented new § 419.66(c), which establishes the criteria for establishing a new device category. We propose to make a technical correction to § 419.66(c)(1), which establishes one of those criteria. Specifically, we discuss in the November 2, 2001 interim final rule the criterion that a new category must describe devices that demonstrate substantial improvement in medical benefits for Medicare beneficiaries compared to the benefits obtained by devices in previously established (that is, previously existing) categories or other available treatments, as described in regulations at new § 419.66(c)(1) (66 FR 55852). Section 1833(t)(6)(B)(ii)(IV) of the Act requires that a new category must include medical devices for which no existing category, or one previously in effect, is appropriate. In the November 2, 2001 IFC, we addressed in the preamble the requirement that no category previously in effect could describe a new category (66 FR 55852), but we did not conform the regulations text to this requirement. Therefore, we propose to correct § 419.66(c)(1) to read as follows:

(1) CMS determines that a device to be included in the category is not described by any of the existing categories or by any category previously in effect, and was not being paid for as an outpatient service as of December 31, 1996.

E. Payment for Transitional Pass-Through Drugs and Biologicals for Calendar Year 2003

As discussed in the November 13, 2000 interim final rule (65 FR 67809) and the November 30, 2001 final rule (66 FR 59895), we update the payment rates for pass-through drugs on an annual basis. Therefore, as we have done for prior updates, we propose to update the APC rates for drugs that are eligible for pass-through payments in 2003 using the most recent version of the Red Book, the July 2002 version in this case. The updated rates effective January 1, 2003 would remain in effect until we implement the next annual update in 2004, when we would again update the AWPs for any pass-through drugs based on the latest quarterly version of the Red Book. This retains the update of pass-through drug prices on the same calendar year schedule as the other annual OPPS updates.

As described in our final rule of November 30, 2001 (66 FR 59894), in order to establish the applicable beneficiary copayment amount and the pass-through payment amount, we must determine the cost of the pass-through eligible drug or biological that would have been included in the payment rate for its associated APC had the drug or biological been packaged. We used hospital acquisition costs as a proxy for the amount that would have been packaged, based on data from an external survey of hospital drug costs (see the April 7, 2000 final rule (65 FR 18481)). That survey concluded that—

• For drugs available through only one source drugs, the ratio of acquisition cost to AWP equals 0.68;

• For multisource drugs, the ratio of acquisition cost to AWP equals 0.6l;

• For drugs with generic competitors, the ratio is 0.43.

As we stated in our final rule of November 30, 2001 (66 FR 59896), we considered the use of the study-derived ratios of drug costs to AWP to be an interim measure until we could obtain data on hospital costs from claims. We stated that we anticipated having this data to use in setting payment rates for 2003.

As described elsewhere in this preamble, we used 2001 claims data to calculate a median cost per unit of drug for each drug for which we are currently paying separately. We compared the median per unit cost of each drug to the AWP to determine a ratio of acquisition cost to AWP. Using the total units billed for each drug, we then calculated a weighted average for each of the above three categories of drugs. These calculations resulted in the following weighted average ratios:

• For sole-source drugs, the ratio of cost to AWP equals 71.0 percent.

• For multisource drugs, the ratio of cost to AWP equals 68.0 percent.

• For drugs with generic competitors, the ratio of cost to AWP equals 46.0 percent.

We propose to use these percentages for determining the applicable beneficiary copayment amount and the pass-through payment amount for drugs eligible for pass-through payment in 2003.

We propose to use these percentages for determining the applicable beneficiary copayment amount and the pass-through payment amount for most drugs eligible for pass-through payment in 2003. However some drugs may fall into two other classes. The first class includes a drug that is new and for which no cost is yet included in an associated APC. For such a drug, because there is no cost for the drug yet included in an associated APC, the pass-through amount will be 95 percent of the AWP and there would be no copayment. The second class includes a drug that is new and is a substitute for only one drug that is recognized in the OPPS through an unpackaged APC. For drugs in this second class, the pass-through amount would be the difference between 95 percent of the AWP for the pass-through drug and the payment rate for the comparable dose of the associated drug's APC. The copayment would be based on the payment rate of its associated APC. We believe that using this methodology will yield a more accurate payment rate.

We have received questions with respect to our definition of multisource drugs. In determining whether a drug is available from multiple sources, we consider repackagers to be among the sources. This is consistent with the findings of the survey cited above which indicated a lower ratio of acquisition cost to AWP from multiple sources including repackagers.

We note that determining that a drug is eligible for a pass-through payment or assigning a status indicator “K” to a drug or biological (indicating that the drugs or biologicals is paid based on a separate APC rate) indicates only the method by which the drug or biological is paid if it is covered by the Medicare program. It does not represent a determination that the drug is covered by the Medicare program. For example, Medicare contractors must determine whether the drug or biological is: (1) reasonable and necessary to treat the beneficiary's conditions; and (2) excluded from payment because it is usually self-administered by the patient.

IV. Wage Index Changes for Calendar Year 2003

Section 1833(t)(2)(D) of the Act requires that we determine a wage adjustment factor to adjust for geographic wage differences, in a budget neutral manner, that portion of the OPPS payment rate and copayment amount that is attributable to labor and labor-related costs.

We used the proposed Federal fiscal year (FY) 2003 hospital inpatient PPS wage index to make wage adjustments in determining the proposed payment rates set forth in this proposed rule. The proposed FY 2003 hospital inpatient wage index published in the May 9, 2002 Federal Register (67 FR 31431) is reprinted in this proposed rule as Addendum H—Wage Index for Urban Areas; Addendum I—Wage Index for Rural Areas; and Addendum J—Wage Index for Hospitals That Are Reclassified. We propose to use the final FY 2003 hospital inpatient wage index to calculate the payment rates and coinsurance amounts that we will publish in the final rule implementing the OPPS for CY 2003.

V. Copayment for Calendar Year 2003

Section 1833(t)(8)(C)(ii) of the Act accelerates the reduction of beneficiary copayment amounts, providing that, for services furnished on or after April 1, 2001 and before January 1, 2002, the national unadjusted coinsurance for an APC cannot exceed 57 percent of the APC payment rate. The statute provides that the national unadjusted coinsurance for an APC cannot exceed 55 percent in 2002 and 2003. The statute provides for further reductions in future years so that the national unadjusted coinsurance for an APC cannot exceed 55 percent of the APC payment rate in 2002 and 2003, 50 percent in 2004, 45 percent in 2005, and 40 percent in 2006 and thereafter.

For 2003, we determined copayment amounts for new and revised APCs using the same methodology that we implemented for 2002 (see the November 30, 2001 final at 66 FR 59888). See Addendum B for proposed national unadjusted copayments for 2003. Our regulations at § 419.41 conform to this provision of the Act.

VI. Conversion Factor Update for Calendar Year 2003

Section 1833(t)(3)(C)(ii) of the Act requires us to update the conversion factor used to determine payment rates under the OPPS on an annual basis. Section 1833(t)(3)(C)(iv) of the Act provides that for 2003, the update is equal to the hospital inpatient market basket percentage increase applicable to hospital discharges under section 1886(b)(3)(B)(iii) of the Act.

The most recent forecast of the hospital market basket increase for FY 2003 is 3.5 percent. To set the proposed OPPS conversion factor for 2003, we increased the 2002 conversion factor of $50.904 (the figure from the March 1, 2002 final rule (67 FR 9556)) by 3.5 percent.

In accordance with section 1833(t)(9)(B) of the Act, we further adjusted the proposed conversion factor for 2003 to ensure that the revisions we are proposing to update by means of the wage index are made on a budget-neutral basis. We calculated a budget neutrality factor of .98715 for wage index changes by comparing total payments from our simulation model using the proposed FY 2003 hospital inpatient PPS wage index values to those payments using the current (FY 2002) wage index values.

The increase factor of 3.5 percent for 2003 and the required wage index budget neutrality adjustment of .98715 result in a proposed conversion factor for 2003 of 52.009.

VII. Outlier Policy for Calendar Year 2003

For OPPS services furnished between August 1, 2000 and April 1, 2002, we calculated outlier payments in the aggregate for all OPPS services that appear on a bill in accordance with section 1833(t)(5)(D) of the Act. In the November 30, 2001 final rule (66 FR 59856, 59888), we specified that beginning with 2002, we will calculate outlier payments based on each individual OPPS service. We revised the aggregate method that we had used to calculate outlier payments and began to determine outliers on a service-by-service basis.

As explained in the April 7, 2000 final rule (65 FR 18498), we set a target for outlier payments at 2.0 percent of total payments. For purposes of simulating payments to calculate outlier thresholds, we propose to continue to set the target for outlier payments at 2.0 percent, as we did for CYs 2001 and 2002. For 2002, the outlier threshold is met when costs of furnishing a service or procedure exceed 3.5 times the APC payment amount, and the current outlier payment percentage is 50 percent of the amount of costs in excess of the threshold. Based on our simulations for 2003, we propose to set the threshold for 2003 at 2.75 times the APC payment amounts, and the proposed 2003 payment percentage applicable to costs over the threshold at 50 percent.

VIII. Other Policy Decisions and Proposed Changes

A. Hospital Coding for Evaluation and Management (E/M) Services

Background

Currently, facilities code clinic and emergency department visits using the same current procedural terminology (CPT) codes as physicians. For both clinic and emergency department visits, there are five levels of care. While there is only one set of codes for emergency visits, clinic visits are differentiated by new patient, established patient, and consultation visits. CPT codes 99201 through 99205 are used for new patients, CPT codes 99211 through 99215 are used for established patients, and CPT codes 99281 through 99285 for emergency patients.

Physicians determine the proper code for reporting their services by referring to CPT descriptors and our documentation guidelines. The descriptors and guidelines are helpful to physicians because they reference taking a history, performing an examination, and making medical decisions. The lower levels of service (for example, CPT codes 99201, 99211, and 99281) are used for shorter visits and for patients with uncomplicated problems, and the higher levels of service (for example, CPT codes 99205, 99215, and 99285) are used for longer visits and patients with complex problems.

These codes were defined to reflect the activities of physicians. It is generally agreed, however, that they do not describe well the range and mix of services provided by facilities to clinic and emergency patients (for example, ongoing nursing care, preparation for diagnostic tests, and patient education).

Before the implementation of the OPPS, facilities were paid on the basis of charges reduced to costs. In that system, because use of a correct HCPCS code did not influence payment, there was little incentive to correctly report the level of service. In fact, many facilities reported all clinic and emergency visits with the lowest level of service (for example, CPT codes 99211, 99201, and 99281) simply to minimize administrative burden (for example, charge-masters might include only one level of service).

This situation changed with the implementation of the OPPS. The OPPS requires correct reporting of services using HCPCS codes as a prerequisite to payment. For emergency and clinic visits, the OPPS distinguishes three levels of service for payment purposes. These are referred to as “low-level,” “mid-level,” and “high-level” emergency or clinic visits. Low-level clinic and emergency visits include CPT codes for level one and two services (for example, CPT codes 99201, 99211, and 99281), mid-level visits include level three services (for example, CPT codes 99203, 99213, and 99283), and high-level visits include level four and five services (for example, CPT codes 99205, 99215, and 99285). Payment rates for low-level visits are less than for mid-level visits, which are less than rates for high-level visits.

In the April 7, 2000 final rule (65 FR 18434), we stated that to pay hospitals properly, it was important that emergency and clinic visits be coded properly. To facilitate proper coding, we required each hospital to create an internal set of guidelines to determine what level of visit to report for each patient. We stated in the rule, that if hospitals set up these guidelines and follow them, they would be in compliance with OPPS coding requirements for the visits. Furthermore, we announced that we would be reviewing this issue and planned to set national guidelines for coding clinic and emergency visits in the future. In the August 24, 2001 proposed rule (66 FR 44672), we asked for public comments regarding national guidelines for hospital coding of emergency and clinic visits. We also announced that we would compile these comments and present them to our APC Panel at the January 2002 meeting. We also announced that we planned to propose uniform national facility coding guidelines in the proposed rule for the 2003 OPPS.

During its January 2002 meeting, the APC Panel reviewed written comments, heard oral testimony, discussed the issue, and made recommendations concerning establishment of facility coding guidelines for emergency and clinic visits. Among those who submitted oral and written comments to us and to the Panel were national hospital organizations, national physician organizations, hospital systems, individual hospitals, coding organizations, and consultants.

Discussion

We set forth below, by issue, a summary of the comments we received:

• The need for national coding guidelines.

Except for the American Medical Association (AMA) and one other physician organization, commenters unanimously agreed that national guidelines for facility coding of emergency and clinic visits were required. Furthermore, most commenters requested that we establish these guidelines as soon as possible, but, in any event, not later than January 2003. Among the reasons cited were the following:

+ The need for facilities to comply with the requirements of the Health Insurance Portability and Accountability Act (HIPAA), no later than October 16, 2003 (October 16, 2002 for those entities that do not obtain a one-year extension). Commenters expressed concern that use of CPT E/M codes with different reporting rules when used by facilities (as opposed to use by physicians) would violate HIPAA requirements.

+ The need for facilities to set up effective audit and compliance programs.

+ The need to minimize confusion on the part of coders.

+ The need to minimize inaccurate payments.

+ The need to prevent gaming of the system by facilities.

The AMA recommended that we wait for the CPT Editorial Panel to develop coding guidelines for hospitals to assure that coding guidelines will be minimally burdensome to hospitals.

• The need to establish principles against which facility E/M coding guidelines would be measured. Commenters unanimously agreed that any set of coding guidelines for facilities would have to satisfy a uniform set of basic principles to be acceptable to, and accepted by, hospitals. These include the following:

+ Coding guidelines for emergency and clinic visits should be based on emergency department or clinic facility resource use, not physician resource use.

+ Coding guidelines should be clear, facilitate accurate payment, be usable for compliance purposes and audits, and meet HIPAA requirements.

+ Coding guidelines should only require documentation that is clinically necessary for patient care. Preferably, coding guidelines should be based on current hospital documentation requirements.

+ Coding guidelines should not facilitate upcoding or gaming.

We would add one other requirement to these principles: The distribution of codes should result in a normal curve. Documentation guidelines should facilitate this result.

• Current use of hospital coding guidelines is inconsistent and much more prevalent in the emergency department.

Several commenters noted that many hospitals have developed their own coding guidelines but that no specific set of guidelines is in widespread use at the present time. These commenters noted that guidelines have been used much more in the emergency department setting than in the clinic setting. They also noted that only one set of guidelines has undergone any sort of testing. These are the facility coding guidelines for emergency departments, developed and copyrighted by the American College of Emergency Physicians (ACEP). Unfortunately, the testing was not done by protocol, no quantitative data were collected, and only a small number of facilities participated.

• Development of two sets of guidelines: one for emergency department visits and one for clinic visits.

Several commenters noted that the types and intensity of hospital resources used for emergency department visits were significantly different from the types and intensity of resources used for clinic visits. These commenters recommended that we adopt different guidelines for emergency department and clinic visits.

• The need to develop new descriptors and codes for facility emergency and clinic visits.

Commenters unanimously agreed that the current CPT descriptors for E/M services were not only inappropriate for facility coding of emergency and clinic visits but also were confusing and misleading to both facility coders and our reviewers. Commenters stated that patients whose complexity level was low in terms of physician work could frequently require highly intensive and complex facility services (for example, patients with gastroenteritis who require intravenous fluids, patients in motor vehicle accidents who require multiple X-rays, or patients with congestive heart failure or diabetes who require extensive education). In these cases, lack of agreement between physician and hospital coding would be clinically appropriate but could be the source of an investigation given the current code descriptors and hospital reporting guidelines. Commenters were also concerned that internal hospital-specific coding guidelines could vary greatly because the current CPT descriptors exclude any reference to facility services and, therefore, are highly susceptible to individual interpretation. A third concern was HIPAA compliance. Commenters believe that development by individual hospitals of a second set of descriptors that the hospital uses when reporting E/M codes could violate HIPAA requirements. These commenters believe that when HIPAA is first implemented on October 16, 2002 (October 16, 2003 for those entities that obtain a one-year extension), Healthcare Common Procedure Coding System (HCPCS) codes must be used uniformly by all providers. Two sets of descriptors for a single set of codes would require that different providers (that is, physicians and hospitals) use the codes differently. Based on these concerns, all commenters recommended that we develop, on an interim basis, HCPCS codes for emergency and clinic visits with descriptors specific for hospital coding.

• Maintenance of five levels of service.

Although a few commenters were not certain that facilities needed to differentiate among five levels of service, they believe that reducing the number of levels of service, even if clinically appropriate, would cause significant confusion among coders and reviewers. Therefore, they recommended maintaining five levels of service on an interim basis until more data on this issue can be obtained.

• Recommendations concerning adoption of specific guidelines.

Commenters recommended four basic types of guidelines for adoption.

1. Guidelines based on the number or type of staff interventions. Under this model, the level of service reported would be based on the number and/or type of interventions performed by nursing or ancillary staff. In the intervention model, baseline care (including registration, triage, initial nursing assessment, periodic vital signs as appropriate, simple discharge instructions, and exam room set up/clean up) and possibly a single minor intervention (for example, suture removal, rapid strep test, visual acuity) would be reported by the lowest level of service. Higher levels of service would be reported as the number and/or complexity of staff interventions increased.

The most commonly recommended intervention-based guidelines were the facility-coding guidelines developed by ACEP. The ACEP model uses examples of interventions to illustrate appropriate coding. Coders extrapolate from these examples to determine the correct level of service to report. The ACEP model uses the type of intervention rather than the number of interventions to determine the appropriate level of service. This means that the single most complex intervention determines the level of service whether it was the only service provided (in addition to baseline care), whether other similarly complex interventions were also provided, or whether other interventions of less complexity were also provided. The intervention model is based on emergency/clinic resource use, is simple, reflects the care given to the patient, and does not require additional facility documentation. However, we are concerned that the intervention model may provide an incentive to provide unnecessary services and that it is susceptible to upcoding. Furthermore, the ACEP model requires extrapolation from a set of examples that could make it prone to variability across hospitals.

2. Guidelines based on the time staff spent with the patient. Under this model, the level of service would be determined based on the amount of time hospital staff spent with the patient. The underlying assumption is that staff time spent with the patient is an appropriate proxy for total facility resource consumption. In this model, if only baseline care (as described above) were provided a Level 1 service would be reported. Higher levels of service would be reported based on increments of staff time beyond baseline care (for example, Level 2 would be reported for 11 to 20 minutes beyond baseline care, and Level 3 would be reported for 21 to 30 minutes beyond baseline care). This model is simple, it correlates with total facility resource use, and it would provide an objective standard for all hospitals to follow. However, extra, potentially burdensome, documentation (that is, documentation of staff time that is not normally required for clinical care) would be necessary, there would be an incentive to work slowly or use less efficient personnel, and there would be significant potential for upcoding and gaming.

3. Guidelines based on a point system where a certain number of points is assigned to each staff intervention based on the time, intensity, and staff type required for the intervention. In this model, points or weights are assigned to each facility service and/or intervention provided to a patient in the clinic or emergency department. The level of service is determined by the sum of the points for all services/interventions provided. Commenters recommended various approaches to a point system including point systems that assigned points based on the amount of staff time spent with the patient, the number of activities performed during the emergency department or clinic visit, and a combination of patient condition and activities performed. A point system would correlate with facility resource consumption and provide an objective standard. However, a point system could present significant burdens for hospitals in terms of requiring extra, clinically unnecessary, documentation. Point systems are extremely complex, would probably require dedicated staff to monitor and maintain, and would be susceptible to upcoding and gaming.

4. Guidelines based on patient complexity. Several variations were recommended including assignment of level of service based on ICD-9-CM (International Classification of Diseases, Ninth Edition, Clinical Modification) diagnosis codes, assignment of level of service based on complexity of medical decision making, or assignment of level of service based on presenting complaint or medical problem. The premise for these systems is that many emergency departments follow established protocols based on patients presenting complaints and diagnoses. Therefore, assigning a level of service based on patient diagnosis should correlate with facility resource consumption. These systems require the use of a coding “grid,” which lists more than 100 examples of patient conditions and diagnosis and assigns a level of service to each example. When a patient has a condition that does not appear on the grid, the coder must extrapolate from the grid to the individual patient. These systems are extremely complex, demand significant interpretive work on the part of a coder (who may not have clinical experience), and are subject to variability across hospitals. No clinically unnecessary documentation would be required but, because the system is based on diagnosis, there is a significant potential for upcoding and gaming.

APC Panel Recommendations

The APC Panel reviewed the comments that we received, reviewed background material we prepared, and heard oral testimony. Most commenters recommended that we adopt the ACEP guidelines. However, one organization representing cancer centers stated that the most appropriate proxy for facility resource consumption in cancer care is staff time and asked that we consider basing our guidelines on staff time. Commenters agreed that we needed to address this problem in the proposed rule for CY 2003. They also agreed that to address potential HIPAA compliance issues, we should develop new HCPCS codes for facility visits; and that we should maintain five levels of service for emergency and clinic visits until data are available to show that only three levels of service are required to ensure accurate payments. Commenters also agreed that, for the same level of service, clinic resource consumption should be similar for new, established, and consultation patients. Therefore, we need only create a single set of five codes for clinic visits.

After a thorough discussion, the APC technical panel made the following recommendations:

1. Propose and make final facility coding guidelines for E/M services for calendar year 2003.

2. Create a series of G codes with appropriate descriptors for facility E/M services.

3. Maintain a single set of codes, with five levels of service, for emergency department visits.

4. Develop a single set of codes, with five levels of service, for clinic visits. The Panel specifically recommended that we not differentiate among visit types (for example, new, established, and consultation visits) for the purposes of facility coding of clinic visits.

5. Adopt the ACEP facility coding guidelines as the national guidelines for facility coding of emergency department visits.

6. Develop guidelines for clinic visits that are modeled on the ACEP guidelines but are appropriate for clinic visits.

7. Implement these guidelines as interim and continue to work with appropriate organizations and stakeholders to develop final guidelines.

Proposal

We have reviewed the written comments, the oral testimony before the APC Panel, and the Panel's recommendations. We agree that facility coding guidelines should be implemented as soon as possible. We are particularly concerned that facilities be able to comply with HIPAA requirements. We have worked, and will continue to work, on this issue, with hospitals, organizations representing hospitals, physicians, and organizations representing physicians. We note that the AMA CPT Editorial Panel is not currently considering the issue of facility coding guidelines for clinic visits and that the earliest any CPT guidelines could be implemented would be in January 2004. Additionally, consistent with the intent of the outpatient prospective payment system, we want to ensure that reporting of hospital emergency and clinic visits is resource based.

After careful review and consideration of written comments, oral testimony and the APC Panel's recommendations, we propose the following (for implementation no earlier than January 2004):

1. To develop five G codes to describe emergency department services: GXXX1—Level 1 Facility Emergency Services, GXXX2—Level 2 Facility Emergency Services, GXXX3—Level 3 Facility Emergency Services, GXXX4— Level 4 Facility Emergency Services, and GXXX5—Level 5 Facility Emergency Services.

2. To develop five G codes to describe clinic visits: GXXX6—Level 1 Facility Clinic Services, GXXX7—Level 2 Facility Clinic Services, GXXX8—Level 3 Facility Clinic Services, GXXX9—Level 4 Facility Clinic Services, and GXXX10—Level 5 Facility Clinic Services.

3. To replace CPT Visit Codes with the 10 new G codes for OPPS payment purposes.

4. To establish separate documentation guidelines for emergency visits and clinic visits.

With regard to the documentation guidelines, our primary concerns are to make appropriate payment for medically necessary care, to minimize the information collection and reporting burden on facilities, and to minimize any incentive to provide unnecessary or low quality care. We realize that many facilities use complaint or diagnosis driven care protocols and that current documentation standards do not include documentation of staff time or the complexity of diagnostic and therapeutic services provided. Therefore, in the interest of facilitating the delivery of medically necessary care in a clinically appropriate way, we believe that the potential drawbacks of each of the recommended sets of guidelines outweigh the potential benefits of creating uniformity and reproducibility. For example, any documentation system requiring counting or quantification of resource use has the potential to be burdensome, require clinically unnecessary documentation, and be susceptible to upcoding and gaming. Documentation systems using coding grids or a series of clinical examples for each level of service are subject to interpretation, may induce variability, may be overly complex and burdensome, and may result in disagreements with medical reviewers. We are also concerned that all the proposed guidelines allow counting of separately paid services (for example, intravenous infusion, x-ray, EKG, lab tests, etc.) as “interventions” or “staff time” in determining a level of service. We believe that, within the constraints of clinical care and management protocols, the level of service for emergency and clinic visits should be determined by resource consumption that is not otherwise separately payable.

To address these concerns, in addition to reviewing written comments, oral comments, and the APC Panel recommendations, we have also reviewed the current distribution of paid emergency and clinic visit codes in the OPPS. With regard to emergency visits, we have observed that well over 50 percent of the visits are considered “multiple procedure claims” because the claim includes services such as diagnostic tests (for example, EKGs, x-rays) or therapeutic interventions (for example, intravenous infusions). The distribution of all emergency services is in a bell-shaped curve with a slight left shift because there are more claims for CPT codes 99281 and 99282 than for CPT codes 99284 and 99285. This pattern of coding is significantly different from physician billing for emergency services, which is skewed and peaks at CPT code 99284. We also note that the median costs for successive levels of emergency visits show an expected increase across APCs.

With regard to clinic visits, we have observed that more than 50 percent of the services are considered “single claims” meaning that they are billed without any other significant procedures such as diagnostic tests or therapeutic interventions. We also note that the distribution of clinic visits is skewed with the majority being low-level clinic visits. This distribution is consistent with pre-OPPS billing patterns where many facilities billed all clinic visits as low level visits. However, the median costs for different levels of clinic services, while similar within an APC, do not show the expected increase across the clinic visit APCs.

Based on our review, on the current distribution of coding for emergency and clinic visits, and on our understanding that hospitals set charges for services based on the resources used to provide those services, we believe that an incremental approach to developing and implementing documentation guidelines for emergency and clinic visits is appropriate. As hospitals become more familiar with the OPPS and with the need to differentiate emergency and clinic visits based on resource consumption, we will continue to review the advantages and disadvantages of detailed, uniform documentation guidelines. We plan to begin the development of uniform guidelines over the next year. If we are ready, we would propose the guidelines for comments in our Federal Register document for the calendar year 2004 update. For calendar year 2003, we propose the following new codes:

Emergency Visits

Our data indicate that, in general, hospitals under the OPPS are reporting emergency visits appropriately. We believe that insofar as hospitals have existing guidelines for determining the level of emergency service, those guidelines reflect facility resource consumption. Therefore, we propose that GXXX1—Level 1 Facility Emergency Services be reported when facilities deliver, and document, basic emergency department services. These services include registration, triage, initial nursing assessment, minimal monitoring in the emergency department (for example, one additional set of vital signs), minimal diagnostic and therapeutic services (for example, rapid strep test, urine dipstick), nursing discharge (including brief home instructions), and exam room set up/clean up. We would expect that these services would be delivered to patients who present with minor problems of low acuity.

With regard to GXXX2 through GXXX5, we propose to require that facilities develop internal documentation guidelines based on hospital resource consumption (for example, staff time). These guidelines must be appropriate for the type of services provided in the hospital and must also clearly differentiate the relative resource consumption for each level of service so that a medical reviewer can easily infer the type, complexity, and medical necessity of the services provided and validate the level of service reported. Because there is great variability in available facility resources, staff, and clinical protocols among facilities, we do not believe that it is advisable to require a single set of guidelines for all facilities. Instead, we believe it is appropriate for each facility to develop its own documentation guidelines that take into account the facility's clinical protocols, available facility resources, and staff types. As stated above, we are not proposing any specific requirements with regard to the basis of these guidelines. However, the guidelines must be tied to actual resource consumption in the emergency department such as number and type of staff interventions, staff time, clinical examples, or patient acuity. We also propose to require that facilities have documentation guidelines available for review upon request. The guidelines must emphasize relative resource consumption and must not, to the extent possible, set minimal requirements as a basis for determining the level of service (for example, require 30 minutes of staff time or five staff interventions to bill a Level 3 emergency visit).

If made final, these requirements would be interim. We will work with interested parties to revise these requirements and would propose any revision to these requirements in a future proposed rule.

Clinic Visits

The current distribution of codes for clinic visits may be due to a facility's continued use of pre-OPPS coding policies for clinic visits. We believe that over time facilities will become as experienced differentiating levels of clinic visits as they are at differentiating levels of emergency visits. Therefore, we propose a set of guidelines for clinic visits that parallels the requirements for emergency visits. We propose that GXXX6—Level 1 Facility Clinic Services, be reported when facilities deliver, and document, basic clinic services. These services include registration, triage, initial nursing assessment, minimal monitoring in the clinic (for example, one additional set of vital signs), minimal diagnostic and therapeutic services (for example, rapid strep test, urine dipstick), nursing discharge (including brief home instructions), and exam room set up/clean up. Our proposal for GXXX7 through GXXX10 is the same as for GXXX2 through GXXX5 except that the facility-specific guidelines must be tied to actual resource consumption in the clinic such as number and type of staff intervention, staff time, clinical examples, or patient acuity. The guidelines must also differentiate the relative resource consumption in the clinic for each level of service sufficiently so that a medical reviewer could easily infer the type, complexity, and medical necessity of the services provided to validate the level of service provided.

This proposal, if made final, would also be interim while we work with interested parties to revise the requirements. Any revision would be proposed in a future proposed rule.

We propose to make final, in the 2003 OPPS final rule, changes in coding for clinic and emergency department visits and requirements related to the development of documentation guidelines for the new codes. However, we propose to implement the new codes and documentation guidelines no earlier than January 1, 2004. This will give hospitals time to develop documentation guidelines for the new codes and prepare their internal billing systems to accommodate the changes. We will continue to work with hospitals throughout CY 2003 as they develop the documentation guidelines. We solicit comments on this proposal overall as well as the specific components of the proposal.

B. Observation Services

Coding and Billing Instructions

On November 30, 2001, we published a final rule updating changes to the OPPS for 2002. We implemented provisions that allow separate payment for observation services under certain conditions. That is, a hospital may bill for a separate APC payment (APC 0339) for observation services for patients with diagnoses of chest pain, asthma, or congestive heart failure when certain criteria are met. The criteria discussed in the November 30, 2001 final rule and as corrected in the March 1, 2002 final rule are also explained in detail in section XI of a Program Memorandum to intermediaries issued on March 28, 2002 (Transmittal A-02-026). Payment for HCPCS code G0244, observation care provided by a facility to a patient with congestive heart failure, chest pain or asthma, minimum eight hours, maximum 48 hours, was effective for services furnished on or after April 1, 2002.

Section XI of Transmittal A-02-026 that was issued on March 28, 2002 provides additional billing and coding instructions and requirements that flow from the basic criteria that we implemented in the November 30, 2001 and the March 1, 2002 final rules. Although we do not address them explicitly in the final rules, the additional instructions and requirements in Transmittal A-02-026 were developed to implement the basic observation criteria within the programming logic of the outpatient code editor (OCE), which is used to process claims submitted by hospitals for payment under the OPPS. For example, in the November 30, 2001 final rule, we state that an emergency department visit (APC 0610, 0611, or 0612) or a clinic visit (APC 0600, 0601, or 0602) must be billed in conjunction with each bill for observation services (66 FR 59879). In section XI of Transmittal A-02-026, we state that an Evaluation and Management (E/M) code (referred to, incorrectly, in Transmittal A-02-026 as an “Emergency Management” code), for the emergency room, clinic visit, or critical care is required to be billed on the day before or the day that the patient is admitted to observation. That is, unless one of the CPT codes assigned to APCs 0600, 0601, 0602, 0610, 0611, 0612, or 0620 is billed on the day before or the day that the patient is admitted to observation, separate payment for G0244 is not allowed. The codes assigned to these APCs are categorized by CPT as E/M codes. Although we did not include APC 0620, Critical Care, among the APCs that must be billed in order to receive separate payment for observation services, we added it in the program memorandum because critical care is an E/M service which can be furnished in a clinic or an emergency department. Critical care may appropriately precede admission to observation for chest pain, asthma, or congestive heart failure. We clarify in Transmittal A-02-026 that both the associated E/M code and G0244 are paid separately if the observation criteria are met. We also specify that the E/M code associated with observation must be billed on the same claim as the observation service.

Similarly, in the November 30, 2001 and the March 1, 2002 final rules, we require that certain diagnostic tests be performed in order to bill for separate payment for observation services. In Transmittal A-02-026, in section XI.B.2, we list the diagnostic tests that the OCE looks for on a bill for G0244. This list, which amplifies what we published in the November 30, 2001 and March 1, 2002 final rules, is incomplete and should read as follows to reflect the current OCE logic that is applied to claims for G0244:

• For chest pain, at least two sets of cardiac enzymes [either two CPK (82550, 82552, or 82553), or two troponin (84484 or 84512)], and two sequential electrocardiograms (93005);

• For asthma, a peak expiratory flow rate (94010) or pulse oximetry (94760, 94761, or 94762);

• For congestive heart failure, a chest x-ray (71010, 71020, or 71030) and an electrocardiogram (93005) and pulse oximetry (94760, 94761, or 94762).

• Note: Pulse oximetry codes 94760, 94761, and 94762 are treated as packaged services under the OPPS. Although as packaged codes no separate payment is made for these codes, hospitals must separately report the HCPCS code and a charge for pulse oximetry in order to establish that observation services for congestive heart failure and asthma diagnoses meet the criteria for separate payment.

Transmittal A-02-026 also provides specific coding instructions that hospitals must use when billing for observation services that do not meet the criteria for separate payment under APC 0339. In addition, Transmittal A-02-026 addresses the use of modifier “25 with the E/M code billed with G0244.

Direct Admissions to Observation

Since implementation of the provision for separate payment for observation services under APC 0339, a number of hospitals, hospital associations, and other interested parties have asked if separate payment for observation services would be allowed for a patient with chest pain, asthma, or congestive heart failure who is admitted directly into observation by order of the patient's physician but without having received critical care or E/M services in a hospital clinic or the emergency department on the day before or the day of admission to observation. We have responded during monthly CMS hospital open forum calls that, consistent with the criteria in the November 30, 2001 final rule, effective for services furnished on or after April 1, 2002, separate payment for observation services requires that an admission to observation be made by order of a physician in a hospital clinic or in a hospital emergency department. If a patient is directly admitted to observation but without an associated E/M service (including critical care) shown on the same bill, the hospital should bill observation services using revenue code 762 alone or revenue code 762 with one of the HCPCS codes for packaged observation services (CPT codes 99218, 99219, 99220, 99234, 99235, or 99236).

A related question has arisen in connection with a policy interpretation that was posted as a response to a “Frequently Asked Question” (FAQ) on our web site on September 12, 2000. The FAQ follows:

“Q.97: If a patient is admitted from the physician's office to the observation room, will there be no reimbursement?”

“A.97: Since observation is a packaged service, payment cannot be made if it is the only OPPS service on a claim. However, we believe that the “admission” of a patient to observation involves a low-level visit billed by the hospital, as well as whatever office visit the physician who arranged for the admission billed. Thus, when a patient arrives for observation arranged for by a physician in the community (that is, “direct admit to observation”), and is not seen or assessed by a hospital-based physician, the hospital may bill a low-level visit code. This low-level visit code will capture the baseline nursing assessment, the creation of a medical record, the recording and initiation of telephone orders, etc. This visit may be coded only once during the period of observation. The observation charges should be shown in revenue code 762. The number of hours the patient was in observation status should be shown in the units field. Payment for those services is packaged into the APC for the visit. Other services performed in connection with observation, such as lab, radiology, etc., should be billed for as well * * *”

We have been asked to clarify whether or not the low-level visit code suggested in the FAQ for patients directly admitted for observation services would satisfy the requirement that a line item for a hospital emergency visit, hospital clinic visit, or critical care appear on the same bill as HCPCS code G0244. Our response is that when we established the final criteria effective for services furnished on or after April 1, 2002, we did not contemplate that the low-level visit described in the FAQ would satisfy the requirement for the E/M code that a hospital must bill to show a hospital clinic visit or hospital emergency department visit was performed before observation services for asthma, congestive heart failure, or chest pain to bill and receive payment for G0244 under APC 0339.

In light of these questions, we have reviewed the criteria for separate payment for observation services under APC 0339, and we propose to modify the criteria and coding for observation services furnished on or after January 1, 2003. Specifically, we propose to create two new codes. These additional codes would allow us to collect data on the extent to which patients are directly admitted to hospital observation services without an associated hospital clinic visit or emergency department visit. The proposed codes are as follows:

G0LLL—Initial nursing assessment of patient directly admitted to observation with diagnosis of congestive heart failure, chest pain, or asthma.

G0MMM—Initial nursing assessment of patient directly admitted to observation with diagnosis other than congestive heart failure, chest pain, or asthma.

If a hospital directly admits to observation from a physician's office a patient with a diagnosis of congestive heart failure, asthma, or chest pain, we propose to require that G0LLL be billed with G0244. The current requirement that the hospital bill an emergency department visit (APC 0600, 0601, or 0602) or a clinic visit (APC 0610, 0611, or 0612) or a critical care service (APC 0620) in order to receive separate payment for observation services for patients not admitted directly from a physician's office would remain in effect. However, because the initial nursing assessment is part of any observation service, we propose not to make separate payment for G0LLL. Rather, we propose to assign status indicator “N” to G0LLL, to designate that charges submitted with G0LLL would be packaged into the costs associated with APC 0339. If G0LLL is billed, we would require that the medical record show that the patient was admitted directly from a physician's office for purposes of evaluating and treating chest pain, asthma, or congestive heart failure.

G0MMM describes the initial nursing assessment of a patient directly admitted to observation with a diagnosis other than chest pain, asthma, or congestive heart failure. We propose to assign G0MMM for payment under APC 0706, New Technology—Level I. We propose to require hospitals to bill G0MMM instead of the low level clinic visit referred to in the FAQ above to describe the initial nursing assessment of a patient directly admitted to observation with a diagnosis other than chest pain, asthma, or congestive heart failure. Separate payment would not be made for observation services billed with G0MMM. Rather, when billing G0MMM, hospitals would be required to use revenue code 762 alone or revenue code 762 with one of the HCPCS codes for packaged observation services (99218, 99219, 99220, 99234, 992335, or 99236). We propose to create G0MMM to establish a separately payable code into which costs for observation care for patients directly admitted for diagnoses other than asthma, chest pain, or congestive heart failure can be packaged and recognized.

We would use billing data for G0LLL and G0MMM in reviewing the provisions for payment of observation services in future updates of the OPPS. We invite comment on the extent to which these codes address the concerns that have been raised in connection with patients who are directly admitted to observation services.

Billing Intravenous Infusions With Observation

Based on questions and concerns raised by hospitals since implementation of payment for APC 0339 effective April 1, 2002, we have also reviewed the current status of billing intravenous infusions with observation. Several hospitals have noted that claims for G0244 when billed with intravenous infusion services reported with HCPCS code Q0084 are denied because of the “T” status indicator assigned to HCPCS code Q0084. Our current payment rules for G0244 require that G0244 be denied if a service with status indicator “T” is performed the day before, the day of, or the day after observation care. Because patients in observation may require intravenous infusions of fluid, we propose to create code G0EEE, Intravenous infusion during separately payable observation stay, per observation, payable under APC 0340 with status indicator “X.” When observation services that otherwise meet the billing requirements for separate payment under APC 0339 include an intravenous infusion administered as part of the observation care, G0EEE would be used to report the infusion service. We include instructions on the use of G0EEE in the program memorandum issued to implement OPPS coding changes for the October 1, 2002 OCE. We solicit comment on the use of this code.

We discuss this and other new Level II HCPCS codes proposed for payment under the OPPS in section II.B.3 of this preamble. We instruct hospitals to use G0EEE only when billing for payment under APC 0339. G0EEE includes placement of the IV access and should not be billed with CPT code 36000.

Annual Update of ICD-9 Diagnosis Codes

To receive payment for G0244, we require hospitals to bill specified ICD-9-CM diagnosis code(s). Because ICD-9-CM codes are updated effective October 1 of each year, we propose to issue by Program Memorandum any changes in the diagnosis codes required for payment of G0244 resulting from the ICD-9-CM annual update.

In the March 1, 2002 final rule (67 FR 9559) and in Transmittal A-02-026 issued on March 28, 2002, we listed the diagnosis codes required in order for separate payment of observation services under APC 0339 to be made for patients with congestive heart failure. We added by program memorandum the following new ICD-9-CM codes to the list of allowed diagnosis codes for separate payment for observation of patients with congestive heart failure, effective for services furnished on or after October 1, 2002:

428.20 unspecified systolic heart failure

428.21 acute systolic heart failure

428.22 chronic systolic heart failure

428.23 acute on chronic systolic heart failure

428.30 unspecified diastolic heart failure

428.31 acute diastolic heart failure

428.32 chronic diastolic heart failure

428.33 acute on chronic diastolic heart failure

428.40 unspecified combined systolic and diastolic heart failure

428.41 acute combined systolic and diastolic heart failure

428.42 chronic combined systolic and diastolic heart failure

428.43 acute on chronic combined systolic and diastolic heart failure

We invite comment on the addition of these diagnosis codes to the criteria for separate payment for observation services under APC 0339.

C. Payment Policy When a Surgical Procedure on the Inpatient List Is Performed on an Emergency Basis

As we state in section II.B.5 of this preamble, the inpatient list specifies those services that are only paid when provided in an inpatient setting. The inpatient list proposed for 2003 is printed as Addendum E. In Addendum B, status indicator C designates a HCPCS code that is on the inpatient list.

Over the past year, some hospitals and hospital associations have asked how a hospital could receive Medicare payment for a procedure on the inpatient list that had to be performed to resuscitate or stabilize a patient with an emergent, life-threatening condition who was transferred or died before being admitted as an inpatient. We reviewed within the context of our current policy the cases brought to our attention for which payment under the OPPS was denied because a procedure with status indicator C was on the bill. Based on that review, we propose to clarify our policy regarding Medicare payment when a procedure with status indicator C is performed under certain life-threatening, emergent conditions. We solicit comments on the extent to which the payment policy described below addresses hospitals' concerns. These comments would be most helpful if they are supported by specific examples of cases when hospitals have, in these instances, submitted bills for a procedure with OPPS status indicator C that were not paid.

1. Current Policy

In the April 7, 2000 final rule (65 FR 18451), in response to comments about the appropriate level of payment for patients who die in the emergency department, we set forth the following guidelines for fiscal intermediaries to use in determining how to make payment when a patient dies in the emergency department or is sent directly to surgery and dies there.

• If the patient dies in the emergency department, make payment under the outpatient PPS for services furnished.

• If the emergency department or other physician orders the patient to the operating room for a surgical procedure, and the patient dies in surgery, payment will be made based on the status of the patient. If the patient had been admitted as an inpatient, pay under the hospital inpatient PPS (a DRG-based payment).

• If the patient was not admitted as an inpatient, pay under the outpatient PPS (an APC-based payment).

• If the patient was not admitted as an inpatient and the procedure is designated as an inpatient-only procedure (payment status indicator C), no Medicare payment will be made for the procedure, but payment will be made for emergency department services.

The OPPS outpatient code editor (OCE) currently has an edit in place that generates a “line item denial” for a line on a claim that has a status indicator C. A line item denial means that the claim can be processed for payment but with some line items denied for payment. A line item denial can be appealed under the provisions of section 1869 of the Act. The OCE includes another edit that denies all other line items furnished on the same day as a line item with a status indicator C. The rationale for this edit is that all line items for services furnished on the same date as the procedure with status indicator C would be considered inpatient services and paid under the appropriate DRG.

As part of the definition of line item denial in the program memorandum that we issue quarterly to update the OCE specifications (for example, see Program Memorandum/Intermediaries, Transmittal A-02-052, June 18, 2002, which is available on our website at http://www.hcfa.gov/pubforms/transmit/A02052.pdf), we state that a line item denial cannot be resubmitted except for an emergency room visit in which a patient dies during a procedure that is categorized as an inpatient procedure: “Under such circumstances, the claim can be resubmitted as an inpatient claim.”

In Addendum D of the March 1, 2002 final rule, we designate payment status indicator “C” as follows: “Admit patient; bill as inpatient.”

2. Hospital Concerns

Hospitals have requested clarification regarding billing and payment in certain situations that our current policy does not seem to explicitly address. The following scenarios synthesize cases described by hospitals for which they have encountered problems when billing for a procedure with status indicator C.

Scenario A: A procedure assigned status indicator C under the OPPS is performed to resuscitate or stabilize a beneficiary who appears with or suddenly develops a life-threatening condition. The patient dies during surgery or postoperatively before being admitted.

Scenario B: An elective or emergent surgical procedure payable under the OPPS is being performed. Because of sudden, unexpected intra-operative complications, the physician must alter the surgical procedure and perform a procedure with OPPS status indicator C. The patient dies during the operation before he or she is admitted as an inpatient.

Scenario C: A procedure with status indicator C is performed to resuscitate or stabilize a beneficiary who appears with or suddenly develops a life-threatening condition. After the procedure, the patient is transferred to another facility for postoperative care.

3. Clarification of Payment Policy

We propose the following policy for fiscal intermediaries and providers to use in determining the appropriate Medicare payment in cases such as those described in the section above.

A procedure assigned status indicator C under the OPPS is never payable under the OPPS. Therefore, for a hospital to receive payment when a procedure with OPPS status indicator C is performed and: (1) the patient dies during or after the procedure, before being admitted, or (2) the patient survives the procedure and is transferred following the procedure, the patient's medical record must contain all of the following information:

• Either orders to admit written by the physician responsible for the patient's care at the hospital to which the patient was to be admitted, the hospital following the procedure for the purpose of receiving inpatient hospital services and occupying an inpatient bed, or written orders to admit and transfer the patient to another hospital following the procedure.

• Documentation that the reported HCPCS code for the surgical procedure with OPPS payment status indicator C (such as CPT code 61345) was actually performed.

• Documentation that the reported surgical procedure with status indicator C was medically necessary.

• If the patient is admitted and subsequently transferred to another facility, documentation that the transfer was medically necessary, such as the patient requiring postoperative treatment unavailable at the transferring facility.

Because these services would be paid according to the appropriate DRG or per diem (see below), all services that were furnished before admission that would otherwise be payable under the OPPS would be paid in accordance with the provisions of section 3610.3 of the Medicare Intermediary Manual (“3-day rule”) and section 415.6 of the Medicare Hospital Manual.

In the case of a patient who dies during performance of a procedure with OPPS status indicator C before being admitted, the hospital would submit a claim for all services provided, including a line item for the status indicator C procedure. The claim would be rejected for payment under the OPPS and returned to the hospital. The hospital would resubmit the claim for payment as an inpatient stay under the appropriate DRG.

In the case of a patient who is admitted and transferred, the transferring hospital would be paid a per diem DRG rate if all the above conditions are met. (We propose to revise section 3610.5 of the Medicare Intermediary Manual accordingly.)

Note that a physician's order to admit a patient to an observation bed following a procedure designated with OPPS status indicator C would not constitute an inpatient admission and, therefore, would not qualify the procedure with status indicator C for payment. In this instance, the only allowable Medicare payment would be for a code payable under APC 0610, 0611, or 0612 if those services were provided. Payment would not be allowed for either the procedure with status indicator C or for any ancillary services furnished on the same date.

4. Orders To Admit

Some hospitals have raised questions about the timing of a physician's order to admit a patient. The requirements for the authenticating physician orders and the standards for medical record keeping fall outside the scope of this proposed rule and OPPS payment policy. The payment guidelines proposed above are to assist hospitals and contractors in determining how to bill and pay for services appropriately under Medicare. The patient's admission status, as documented by the medical records, determines what Medicare payment is appropriate. Medical record keeping and documentation requirements are addressed in the Medicare hospital conditions of participation at § 482.24, and are governed by applicable State law and State licensing rules and hospital accreditation standards.

D. Status Indicators

The status indicators we assign to HCPCS codes and APCs under the OPPS have an important role in payment for services under the OPPS because they indicate if a service represented by a HCPCS code is payable under the OPPS or another payment system and also if particular OPPS policies apply to the code. We are providing our proposed status indicator assignments for APCs in Addendum A, HCPCS codes in Addendum B, and definitions of the status indicators in Addendum D.

The OPPS is based on HCPCS codes for medical and other health services. These codes are used for a wide variety of payment systems under Medicare, including, but not limited to, the Medicare fee schedule for physician services, the Medicare fee schedule for durable medical equipment and prosthetic devices, and the Medicare clinical laboratory fee schedule. For purposes of making payment under the OPPS, we need a way to signal the claims processing system which HCPCS codes are paid under the OPPS and those codes to which particular OPPS payment policies apply. We accomplish this identification in the OPPS through the establishment of a system of status indicators with specific meanings. Addendum D defines the meaning of each status indicator for purposes of the OPPS.

We assign one and only one status indicator to each APC and to each HCPCS code. Each HCPCS code that is assigned to an APC has the same status indicator as the APC to which it is assigned.

Specifically, in 2003, we propose to use the status indicators in the following manner:

• We use A to indicate services that are paid under some payment method other than OPPS, such as the Durable medical equipment, prosthetics, orthotics, and supplies (DMEPOS) fee schedule or the physician fee schedule. Some but not all of these other payment systems are identified in Addendum D.

• We use “C” to indicate inpatient services that are not payable under the OPPS.

• We use “D” to indicate a code that was deleted effective with the beginning of the calendar year.

• We use “E” to indicate services for which payment is not allowed under the OPPS or that are not covered by Medicare.

• We use “F” to indicate acquisition of corneal tissue, which is paid at reasonable cost.

• We use “G” to indicate drugs and biologicals that are paid under OPPS transitional pass-through rules.

• We use “H” to indicate devices that are paid under OPPS transitional pass-through rules.

• We use “K” to indicate drugs and biologicals (including blood and blood products) and certain brachytherapy seeds that are paid in separate APCs under the OPPS, but that are not paid under OPPS transitional pass-through rules.

• We use “N” to indicate services that are paid under the OPPS for which payment is packaged into another service or APC group.

• We use “P” to indicate services that are paid under the OPPS but only in partial hospitalization programs.

• We use “S” to indicate significant procedures that are paid under OPPS but to which the multiple procedure reduction does not apply.

• We use “T” to indicate significant services that are paid under the OPPS and to which the multiple procedure payment discount under OPPS applies.

• We use “V” to indicate medical visits (including clinic or emergency department visits) that are paid under the OPPS.

• We use “X” to indicate ancillary services that are paid under the OPPS.

The software that controls Medicare payment looks to the status indicators attached to the HCPCS codes and APCs for direction in the processing of the claim. Therefore, the assignment of the status indicators has significance for the payment of services. We sometimes change these indicators in the course of a year through Program Memoranda. Moreover, indicators are established for new codes that we establish in the middle of the year, either as a result of a national coverage decision or otherwise. A status indicator, as well as an APC, must be assigned so that payment can be made for the service identified by the new code.

We are proposing the status indicators identified for each HCPCS code and each APC in Addenda A and B and are requesting comments on the appropriateness of the indicators we have assigned.

E. Other Policy Issues Relating To Pass-Through Device Categories

1. Reducing Transitional Pass-Through Payments To Offset Costs Packaged Into APC Groups

In the November 30, 2001 final rule, we explain the methodology we used to estimate the portion of each APC rate that could reasonably be attributed to the cost of associated devices that are eligible for pass-through payments (66 FR 59904). Effective with implementation of the 2002 OPPS update on April 1, 2002, we deduct from the pass-through payments for those devices an amount that offsets the portion of the otherwise applicable APC payment amount that we determined is associated with the device, as required by section 1833(t)(6)(D)(ii) of the Act. In the March 1, 2002 final rule, we published the applicable offset amounts for 2002, which we had recalculated to reflect certain device cost assignments that were corrected in the same final rule (67 FR 9557).

For the 2003 OPPS update, we propose to estimate the portion of each APC rate that could reasonably be attributed to the cost of an associated pass-through device that is eligible for pass-through payment using claims data for services furnished between July 1, 2001 through December 31, 2001. We propose to use only the last 6 months of 2001 claims data because bills for pass-through devices submitted during this time period would use only device category codes, allowing a more consistent analysis than would result were we to include pre-July 1 claims that might still show item-specific codes for pass-through devices. Using these claims, we would calculate a median cost for every APC without packaging the costs of associated C-codes for device categories that were billed with the APC. We would then calculate a median cost for every APC with the costs of associated C-codes for device categories that were billed with the APC packaged into the median. Comparing the median APC cost minus device packaging by the median APC cost including device packaging would allow us to determine the percentage of the median APC cost that is attributable to associated pass-through devices. By applying these percentages to the median APC cost, we would determine the applicable offset amount. Table 9 shows the offsets that we propose be applied in 2003 to each APC that contains device costs. APCs were included for offsets if their device costs comprised at least 1 percent of the APC's costs. (However, if any APC's calculated offset had been less than 1 dollar, that APC and offset would not have been included.)

Table 9.—Proposed Offsets To Be Applied for Each APC That Contains Device Costs
APC | Description | APC percent attributed to devices | Device related cost to be subtracted from pass-through payment
0032 | Insertion of Central Venous/Arterial Catheter | 6.12 | $22.73
0046 | Open/Percutaneous Treatment Fracture or Dislocation | 1.06 | 16.00
0048 | Arthroplasty with Prosthesis | 5.78 | 111.02
0051 | Level III Musculoskeletal Procedures Except Hand and Foot | 1.24 | 21.95
0052 | Level IV Musculoskeletal Procedures Except Hand and Foot | 3.05 | 67.21
0080 | Diagnostic Cardiac Catheterization | 4.36 | 80.82
0081 | Non-Coronary Angioplasty or Atherectomy | 7.29 | 86.03
0082 | Coronary Atherectomy | 47.58 | 1,866.34
0083 | Coronary Angioplasty and Percutaneous Valvuloplasty | 20.08 | 499.51
0085 | Level II Electrophysiologic Evaluation | 10.22 | 168.87
0086 | Ablate Heart Dysrhythm Focus | 20.36 | 462.74
0087 | Cardiac Electrophysiologic Recording/Mapping | 15.19 | 45.90
0088 | Thrombectomy | 4.08 | 72.06
0089 | Insertion/Replacement of Permanent Pacemaker and Electrodes | 68.56 | 3,883.80
0090 | Insertion/Replacement of Pacemaker Pulse Generator | 64.17 | 2,574.81
0091 | Level II Vascular Ligation | 1.75 | 24.60
0093 | Vascular Repair/Fistula Construction | 1.63 | 22.29
0104 | Transcatheter Placement of Intracoronary Stents | 40.26 | 1,522.67
0105 | Revision/Removal of Pacemakers, AICD, or Vascular | 5.79 | 57.64
0106 | Insertion/Replacement/Repair of Pacemaker and/or Electrodes | 18.05 | 274.40
0107 | Insertion of Cardioverter-Defibrillator | 83.18 | 7,852.32
0108 | Insertion/Replacement/Repair of Cardioverter-Defibrillator Leads | 82.11 | 9,936.93
0109 | Removal of Implanted Devices | 1.70 | 6.79
0115 | Cannula/Access Device Procedures | 7.22 | 88.17
0119 | Implantation of Devices | 13.61 | 183.19
0122 | Level II Tube changes and Repositioning | 2.21 | 4.47
0124 | Revision of Implanted Infusion Pump | 9.82 | 119.87
0142 | Small Intestine Endoscopy | 1.03 | 4.40
0151 | Endoscopic Retrograde Cholangio-Pancreatography (ERCP) | 2.71 | 25.69
0152 | Percutaneous Abdominal and Biliary Procedures | 9.96 | 32.01
0153 | Peritoneal and Abdominal Procedures | 1.69 | 22.84
0154 | Hernia/Hydrocele Procedures | 2.66 | 37.33
0167 | Level III Urethral Procedures | 11.54 | 162.95
0168 | Level II Urethral Procedures | 5.20 | 65.18
0179 | Urinary Incontinence Procedures | 34.30 | 1,449.96
0182 | Insertion of Penile Prosthesis | 42.39 | 1,847.50
0202 | Level VIII Female Reproductive Proc | 10.67 | 216.92
0222 | Implantation of Neurological Device | 65.75 | 4,806.58
0223 | Implantation of Pain Management Device | 11.54 | 121.84
0225 | Implantation of Neurostimulator Electrodes | 33.33 | 770.87
0226 | Implantation of Drug Infusion Reservoir | 70.33 | 1,616.75
0227 | Implantation of Drug Infusion Device | 75.38 | 5,019.34
0229 | Transcatherter Placement of Intravascular Shunts | 46.89 | 1,194.96
0245 | Level I Cataract Procedures without IOL Insert | 3.24 | 24.25
0246 | Cataract Procedures with IOL Insert | 1.20 | 14.72
0259 | Level III ENT Procedures | 75.29 | 11,396.81
0279 | Level II Angiography and Venography except Extremity | 1.56 | 6.82
0280 | Level III Angiography and Venography except Extremity | 5.02 | 40.49
0281 | Venography of Extremity | 1.39 | 3.78
0297 | Level II Therapeutic Radiologic Procedures | 1.91 | 7.75
0656 | Transcatheter placement of drug eluting stents | 54.15 | 2668.28
0670 | Intravenous and Intracardiac Ultrasound | 51.03 | 392.26
0680 | Insertion of Patient Activated Event Recorders | 68.48 | 1,850.24
0681 | Knee Arthroplasty | 64.57 | 5,310.69
0684 | Prostate Brachytherapy | 67.49 | 3631.89
0686 | Level III Skin Repair | 4.00 | 23.51
0687 | Revision/Removal of Neurostimulator Electrodes | 1.50 | 15.21
0688 | Revision/Removal of Neurostimulator Pulse Generator Receiver | 22.15 | 352.28
0693 | Level II Breast Reconstruction | 1.00 | 20.44
0981 | New Technology—Level XII ($2000—$2500) | 13.32 | 299.70

2. Devices Paid With Multiple Procedures

As explained above, under section 1833(t)(6)(D)(ii) of the Act, the amount of additional payment for a device eligible for pass-through payment is the amount by which the hospital's cost exceeds the portion of the otherwise applicable APC payment amount that the Secretary determines is associated with the device. Thus, for devices eligible for pass-through payment, we reduce the pass-through payment amount by the cost attributable to the device that is already packaged into the APC payment for an associated procedure. For 2002, we developed offset amounts, for 59 APCs (March 1, 2002 final rule, 67 FR 9556 through 9557, Table 1).

In our November 30, 2001 final rule (66 FR 59856), we articulated a policy regarding the calculation of the offsets for device costs already reflected in APCs in cases where the payment for the associated APC is reduced due to the multiple procedure discount. The policy was in response to several commenting parties that recommended that we apply the multiple procedure discount only to the non-device-related portion of the APC payment amount (66 FR 59906).

We agreed with the commenters that the full pass-through offset should not be applied when the APC payment is subject to the multiple procedure discount of 50 percent.

The purpose of the offset is to ensure that the OPPS is not making double payments for any portion of the cost associated with the use of the pass-through item. We stated in the November 30, 2001 rule that the offset should reflect that portion of the cost for the pass-through device actually reflected in the payment that is received for the associated APC. We consequently ruled that the most straightforward methodology for applying this principle is to reduce the amount of the offset amount by 50 percent whenever the multiple procedure discount applies to the associated APC. This discounting of the offset is applied in 2002 to bills subject to multiple procedure discounting that also include devices eligible for pass-through payment.

The significant number of device categories that are expiring in 2003 combined with our proposal to package 100 percent of device costs into their associated APCs has prompted us to revisit the current policy of reducing offsets for pass-through devices in instances when multiple procedure discounts are applied to procedures associated with pass-through device categories. In order to determine the impact of multiple procedure discounting on APCs with full packaging of device costs, we reviewed the median costs of all APCs after incorporation of device costs and arrayed them in order of descending median cost. We also determined the contribution (in absolute dollars and as a percentage) of device costs to the median costs of each APC. We did this by examining claims submitted during the last 6 months of 2001 during which only device category codes were used to bill for pass-through devices because those were the only claims where we could specifically identify the contribution of device costs to the cost of each APC.

We then determined which APCs containing devices would be billed together. For example, the APC for insertion of a pacemaker would not be billed with the APC for insertion of neurostimulator electrodes, whereas the APC for coronary stent placement might be billed with the APC for coronary angioplasty. We next determined, based on median cost data, which device containing APCs would be subject to the 50 percent multiple procedure reduction. After identifying these APCs, we applied a 50 percent reduction to arrive at a discounted payment amount. We then reviewed the contribution of device costs to the discounted APC both as a percentage and in absolute dollars to determine if applying the 50 percent reduction would result in underpayment for the service. We determined that the reduced payment was adequate to pay both for the devices incorporated into the APC and for the procedure cost in the context of performing multiple procedures. We obtained the same results even when we overstated device costs in our model by 5 or 10 percent to offset concerns expressed by some manufacturers and physicians that hospital charges for transitional pass-through devices may be understated.

To illustrate this analysis, assume APCs 0104 and 0083 are billed together. The median cost of APC 0104 is $3,960 with 40 percent of the cost attributable to devices. The median cost of APC 0083 is $2,605 with 20 percent of its cost attributable to devices. Under our existing multiple procedure discount payment rules, APC 0104 would be paid at 100 percent, and APC 0083 would be paid at 50 percent. This means that payment for APC 0083 would be $1,302 of which $520 (20 percent of $2,605) is attributable to devices. We believe this total payment accounts for the costs of the devices and the costs of the procedure when it is performed in conjunction with APC 0104.

We note that almost all APCs with high device costs (such as insertion of pacemakers, insertion of cardioverter-defibrillators, insertion of infusion pumps and neurostimulator electrodes) would never be subject to a multiple procedure discount. They have the highest relative weights in the OPPS, and we would not expect these procedures to be performed during the same operative session with a higher paying procedure with status indicator “T.” Therefore, we propose to continue our current policy of multiple procedure discounting. That is, when two or more APCS with status indicator “T” are billed together we propose to pay 100 percent for the highest cost APC and 50 percent for all other APCs with status indicator “T.” We propose not to adjust these payments to account for device costs in the APCs.

F. Outpatient Billing For Dialysis

Currently, hospitals are unable to bill for dialysis treatments furnished to End-Stage Renal Disease (ESRD) patients on an outpatient basis, unless the hospital also has a certified hospital-based ESRD facility. As a result of this policy, there has been an increase in denials by the PROs for inappropriate hospital admissions.

When ESRD patients come to the hospital for a medical emergency or for problems with their access sites, they typically miss their regularly scheduled dialysis appointments. If the ESRD patient's usual facility is unable to reschedule the dialysis treatment, the beneficiary has to wait until the next scheduled dialysis appointment. CMS is concerned that by maintaining this policy, beneficiaries may be receiving interrupted care because there will be unnecessary lapses in treatment. The ESRD patient should not be prevented from receiving her or his normal dialysis because he or she experienced another unrelated medical situation. Therefore, we propose to allow payment for dialysis treatments for ESRD patients in the outpatient department of a hospital in specific situations. Payment would be limited to unscheduled dialysis for ESRD patients in exceptional circumstances. Outpatient dialysis for acute patients would not be included in this payment mechanism.

We propose to limit this payment to medical situations in which the ESRD patient cannot obtain her or his regularly scheduled dialysis treatment at a certified ESRD facility. Situations that we propose to allow are limited to: (1) dialysis performed following or in connection with a vascular access procedure; (2) dialysis performed following treatment for an unrelated medical emergency. For example, if a patient goes to the emergency room for chest pains and misses a regularly scheduled dialysis treatment that cannot be rescheduled, we would allow the hospital to provide and bill Medicare for the dialysis treatment; and (3) emergency dialysis—Currently, the only mechanism available for payment in this situation is through an inpatient admission. We will maintain our policy that routine treatments in non-ESRD certified hospitals would not be payable under OPPS.

We believe it is important to make this change in policy for two reasons: (1) to ensure that hospital outpatient departments are paid for providing this much needed service; and (2) to prevent dialysis patients from receiving interrupted care. Non-ESRD certified hospital outpatient facilities would bill Medicare using a new G code, G0GGG, “Unscheduled or emergency treatment for dialysis for ESRD patient in the outpatient department of a hospital that does not have a certified ESRD facility.” We propose that this new code will have status indicator “S” and be assigned to APC 0170. Payment would be roughly equivalent to the reimbursement rate for acute dialysis. We propose to implement this change effective January 1, 2003. Effective January 1, 2003, this would be the only way for non-ESRD certified hospital outpatient facilities to bill Medicare and be paid for providing outpatient dialysis to ESRD beneficiaries.

CMS will be monitoring the use of this new code to ensure that (1) certified dialysis facilities are not incorrectly using this code; and (2) the same dialysis patient is not repeatedly using this code, which would indicate routine dialysis treatment.

When ESRD patients receive outpatient dialysis in non-ESRD certified hospital outpatient facilities, the patient's home facility would be responsible for obtaining and reviewing the patient's medical records to ensure that appropriate care was provided in the hospital and that modifications are made, if necessary, to the patient's plan of care upon her or his return to the facility. This ensures continuity of care for the patient.

IX. Summary of and Responses to MedPAC Recommendations

The Medicare Payment Advisory Commission (MedPAC) in its March 2002 Report to the Congress: “Medicare Payment Policy,” makes a number of recommendations relating to the OPPS. This section provides responses to those recommendations.

Recommendation: For calendar year 2003, the Secretary should increase the payment rates for services covered by the OPPS by the rate of increase in the hospital market basket.

Response: Section 1833(t)(3)(C)(ii) of the Act requires the Secretary to update the conversion factor annually. Under section 1833(t)(3)(C)(iv) of the Act, the update is equal to the hospital market basket percentage increase applicable under the hospital inpatient PPS, minus one percentage point for the years 2000 and 2002. The Secretary has the authority under section 1833(t)(3)(C)(iv) of the Act to substitute a market basket that is specific to hospital outpatient services. In the September 8, 1998 proposed rule on the OPPS, we indicated that we were considering the option of developing an outpatient-specific market basket and invited comments on possible sources of data suitable for constructing one (63 FR 47579). We received no comments in response to this invitation, and we therefore announced in the April 7, 2000 final rule that we would update the conversion factor by the hospital inpatient market basket increase, minus one percentage point, for the years 2000, 2001, and 2002 (65 FR 18502). (As required by section 401(c) of the BIPA, we made payment adjustments effective April 1, 2001 under a special payment rule that had the effect of providing a full market basket update in 2001.) For 2003, we propose to increase payment rates by the rate of increase in the hospital market basket.

Recommendation: The Congress should—

• Replace hospital-specific payments for pass-through devices with national rates.

• Give the Secretary authority to consider alternatives to average wholesale price (AWP) when determining payments for pass-through drugs and biologicals.

Response: Regarding the pricing of transitional pass-through devices, we share the Commission's concern that the current methodology provides incentives for hospitals to inflate charges for transitional pass-through devices to increase payments. However, we believe that alternative approaches are not necessarily superior. Further, the salience of this problem should be much less in the future.

At present, the payment for a transitional pass-through device is set, on a claim-by-claim basis, relative to the hospital's charge for that device. The charge is reduced to a measure of cost by application of a hospital-specific cost-to-charge ratio, and a subtraction is made to reflect the portion of device costs already recognized in the payment for the associated procedure APC. This procedure means that a higher charge by a hospital will result in a higher payment from Medicare. The Commission notes that this method embodies an incentive for hospitals, perhaps prompted by manufacturers, to increase charges as a means of increasing payments. The Commission is concerned that this situation may lead to excessive payments and may bias the charges used to revise, from year to year, relative weights in the OPPS.

In fact, the extent to which hospitals raising their charges on devices is problematic depends on the outcomes. In general, we anticipate that hospital charge structures, on average, reflect their costs; this assumption helps support the use of charge data to revise relative weights in hospital prospective payment systems. Accordingly, whether payments to hospitals for transitional pass-through devices might be considered excessive depends on whether hospitals inflate charges beyond the levels appropriate to recover their costs. Whether their behavior leads to biases in charge data depends on whether they set charges on transitional pass-through devices significantly differently than on other services.

Moving to a fee schedule for transitional pass-through devices would remove the particular incentive problem that the Commission noted, which we agree would be desirable. However, the establishment of appropriate national rates would then become the focus. In the absence of field data on actual costs, we will be inevitably reliant on information that manufacturers provide. At present, manufacturers are asked for information about prices on applications for pass-through status. Anecdotal information suggests this information is not fully reliable as a measure of what hospitals actually pay.

The Commission's report discusses the possibility of CMS setting the rate for a device based on analysis of the manufacturer's costs, including an appropriate rate of return on equity. This approach would confront a number of accounting, legal, and operational difficulties.

• First, it would take some time to complete the analysis for a new product, which could significantly delay establishment of a rate. The rate that would be used in the meantime, or whether billing would be permitted at all, would be open to question.

• Second, it appears that large firms with multiple product lines supply most devices, which would make determining the costs of a particular device difficult. This problem would be compounded when multiple enterprises are involved in bringing a product to market, which is not uncommon in the device industry, where invention and initial development may occur in one firm and final development, manufacturing, and marketing in another.

• Third, the government generally does not have access to manufacturers cost information. While legal authority could be enhanced, manufacturers would face incentives that raise questions about the reliability of information provided, and the need for government accounting and auditing resources would be high.

• Fourth, as the Commission's report notes, an appropriate rate of return on equity would have to be established.

• Fifth, devices are now paid, under BIPA, on the basis of categories. As a result, if a manufacturer brings to market a product that fits the description of a category, hospitals can bill for that manufacturer's product without any change in coding or notification of CMS. Consequently, we do not know what specific devices are actually being billed in these categories, or who manufactures them. Whatever rate might be established on the basis of an initial application for a category would presumably be based on the applicant's costs. Later entrants might have significantly different cost structures, but this information would not come into account unless a more elaborate process was implemented to include it.

Finally, whether a rate set in this fashion would pay less or more than the current method is unclear. The current method is based on actual experience in the field, and it will reflect, though perhaps somewhat tenuously, whatever competitive market pressures exist. Any method that we use aimed at ensuring a more reliable price could yield a price that is too high, since it will not reflect market activity. Whether a rate set by ex ante analysis of this sort would produce superior results does not appear obvious.

The Commission's report also mentions the possibility of using competitive bidding to set rates for transitional pass-through devices. While competitive bidding appears attractive as a means of setting a market-related price, it has not proven an easy process for Medicare to implement. Competitive bidding seems best suited for established products with multiple suppliers. However, transitional pass-through devices are by definition new to the market and will frequently have only one manufacturer, at least at the start of the 2 to 3 year transitional pass-through period. Even in those instances in which this technique would be possible, it involves a fair amount of administrative resources and time, and using it to establish a rate that will be used at the most for 3 years does not appear to be an effective use of resources.

Both of the suggestions discussed above reflect procedures that involve relatively high overhead on the part of CMS and of other actors. It is not obvious whether either would produce results that are superior to those derived from the present method. While they would change incentives on hospitals, incentives of manufacturers would still be a source of concern. We agree with the Commission that further investigation would be necessary to determine a feasible alternative to cost-based pass-through payments.

In considering the advantages of various approaches, it is important to keep the size of the problem in mind, especially when contemplating procedures for setting rates that would involve substantial administrative resources. As of July 1, 2002, the OPPS pays for 100 categories of devices. As is explained in section III.C of this preamble, we are proposing that 95 categories will lose pass-through status and be retired as of January 1, 2003.³ Since the initial categories were established in April 2001, we have added only three categories. While several applications are pending, given the extensiveness of the existing categories, it appears likely that the number of new categories to be established in future years will be small.⁴ The likely volume of claims represented by these new categories is of course speculative, but it also does not seem likely to be large relative to the size of the OPPS system. As discussed below, we developed criteria for the establishment of new categories that were specifically intended to limit future pass-through payments to devices that provide a substantial clinical improvement.

³ In accord with the BBRA amendment that established the pass-through payment methodology, items are only eligible for pass-through payments for 2 to 3 years. After expiration of pass-through status, payments for devices described by these categories will be packaged into APC payments for the procedures with which they are used.

⁴ If a new device arrives on the market that would have fit in a category formerly in use but subsequently retired, it will not be eligible for pass-through payment.

Considering that the identified alternatives do not appear to be manifestly superior to the current system but do involve significantly more administrative resources, and given the anticipated small volume of transitional pass-through devices in the future, we think on balance it would be best to let more experience develop with the current system before making significant changes to the current method.

However, we agree that it would be desirable to give the Secretary authority to use alternatives to AWP when determining payments for pass-through drugs and biologicals. At present, total payment for these items is governed by the general rule (section 1842(o) of the Act) for Medicare pricing of drugs, which requires they be paid at 95 percent of AWP. This rule also covers most drugs delivered “incident to” physicians' services in physicians' offices and elsewhere. The Congress is at present considering various changes to the AWP as the basis for Medicare payment for drugs, and if a change is adopted to this standard, it may be an appropriate standard for transitional pass-through drugs and biologicals as well.

Recommendation: The Secretary should do the following:

• Ensure additional payments are made only for new or substantially improved technologies that are expensive in relation to the applicable ambulatory payment classification rate.

• Avoid basing national rates only on reported costs.

• Ensure that the same broad principles guide payments for new technologies in the inpatient and outpatient payment systems.

Response: We agree that additional payments should be limited to items that have the greatest merit and that have high costs not well captured in the existing payment structure. The Commission notes that limiting the number of transitional pass-through items limits the burdens on hospitals and us; reduces the likelihood of exceeding the statutory cap on aggregate pass-through payment, necessitating a uniform reduction in transitional pass-through payments; and limits the redistribution of funds across hospitals that are low versus high users of transitional pass-through items. We agree with these points. On November 2, 2001, we published an interim final rule with comment period in the Federal Register (66 FR 55850 to 55857) that set forth criteria we will use to evaluate whether to establish new categories of devices in the future. These criteria include tests of whether a device is new, whether it represents a substantial medical improvement for Medicare beneficiaries, and whether its costs are high relative to the payments that would otherwise be made.

Section 1833(t)(6)(D) of the Act prescribes the method for setting payment for transitional pass-through drugs and devices. The issue of possible alternatives is discussed above.

We agree that the same principles should govern payments for new technologies in the inpatient and outpatient prospective payment systems. Criteria governing extra new technology payments in the IPPS were established in a final rule published in the Federal Register (66 FR 46902 to 46925) on September 7, 2001. The criteria have the same general form as those for the OPPS. They differ in some particulars, largely traceable to the difference of the two payment systems. In particular, the IPPS system pays on the basis of an episode of care. As a result, the bundle of payment is generally larger and hospitals are better able to absorb minor cost differences. Considering the impact of new technology on all costs of the episode is also pertinent. Consequently, the criteria for special payment for inpatient new technologies require examination of the net effect on costs of the entire episode (not just the added costs of a new technology), and the relative cost standard we established is somewhat more stringent than for the OPPS. We believe it is premature to judge whether it will make sense to make these criteria even closer in the future, as the Commission's discussion suggests.

X. Summary of Proposed Changes for 2003

A. Changes Required by Statute

We are proposing the following changes to implement statutory requirements:

• Add APCs, delete APCs, and modify the composition of some existing APCs.

• Recalibrate the relative payment weights of the APCs.

• Update the conversion factor and the wage index.

• Revise the APC payment amounts to reflect the APC reclassifications, the recalibration of payment weights, and the other required updates and adjustments.

• Cease transitional pass-through payments for drugs and biologicals (including blood and blood products) and devices (including brachytherapy), that will, on January 1, 2003, have been paid under transitional pass-through methodology for at least 2 years.

B. Additional Changes to OPPS and Payment Suspension Provisions

We are proposing the following additional changes to the OPPS and Payment Suspension Provisions:

• Creation of new evaluation and management service codes for outpatient clinic and emergency department encounters for implementation no earlier than January 1, 2004.

• Changes to the list of services that we do not pay in outpatient departments because we define them as “inpatient only” procedures.

• Changes to our policy of nonpayment for procedures on the “inpatient only” list in special cases involving death or transfer before inpatient admission.

• Changes to our policy governing observation in cases of direct admission to observation.

• Changes to status indicators for HCPCS codes.

• Changes to our policies governing dialysis for ESRD patients and regarding partial hospitalization.

In addition, we are making changes to payment suspension policies.

C. Changes to the Regulations Text

A. We propose to make the following changes to our regulations:

• Amend § 410.43(b) to add clinical social worker services (for the diagnosis and treatment of mental illnesses) that meet the requirements of section 1861(hh)(2) of the Act to the specified professional services that are separately covered and not paid as partial hospitalization services.

• Amend § 419.66(c)(1) to specify that we must establish a new category for a medical device if it is not described by any category previously in effect as well as an existing category.

XI. Summary of Proposed Payment Suspension Provisions

In this rule, we propose to revise § 405.371 (c) to specify that we may suspend Medicare payments “in whole or in part” if a provider has failed to timely file an acceptable cost report. This provision is consistent with the existing provisions in § 405.371(a) governing the suspension of Medicare payments “in whole or in part” under certain conditions. We believe the Medicare program would benefit because immediate complete payment suspension can be disruptive to providers and may negatively affect the care of Medicare patients.

XII. Collection of Information Requirements

Under the Paperwork Reduction Act of 1995, we are required to provide 60-day notice in the Federal Register and solicit public comment before a collection of information requirement is submitted to the Office of Management and Budget (OMB) for review and approval. In order to fairly evaluate whether an information collection should be approved by OMB, section 3506(c)(2)(A) of the Paperwork Reduction Act of 1995 requires that we solicit comment on the following issues:

• The need for the information collection and its usefulness in carrying out the proper functions of our agency.

• The accuracy of our estimate of the information collection burden.

• The quality, utility, and clarity of the information to be collected.

• Recommendations to minimize the information collection burden on the affected public, including automated collection techniques.

This rule does not impose information collection and recordkeeping requirements. Consequently, it need not be reviewed by the Office of Management and Budget under the authority of the Paperwork Reduction Act of 1995.

XIII. Response to Public Comments

Because of the large number of items of correspondence we normally receive on a proposed rule, we are not able to acknowledge or respond to them individually. However, in preparing the final rule, we will consider all comments concerning the provisions of this proposed rule that we receive by the date and time specified in the DATES section of this preamble and respond to those comments in the preamble to that rule.

XIV. Regulatory Impact Analysis

The regulatory impact analysis for this proposed rule consists of an impact analysis for the OPPS provisions and a regulatory impact statement for the provision for payment suspension for unfiled cost reports.

A. OPPS

1. General

We have examined the impacts of this proposed rule as required by Executive Order 12866 (September 1993, Regulatory Planning and Review) and the Regulatory Flexibility Act (RFA) (September 16, 1980 Pub. L. 96-354). Executive Order 12866 directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more annually).

We estimate the effects of the provisions that would be implemented by this proposed rule would result in expenditures exceeding $100 million in any 1 year. We estimate the total increase (from changes in the proposed rule as well as enrollment, utilization, and case mix changes) in expenditures under the OPPS for CY 2003 compared to CY 2002 to be approximately $1.372 billion. Therefore, this proposed rule is an economically significant rule under Executive Order 12866, and a major rule under 5 U.S.C. 804(2).

The RFA requires agencies to determine whether a rule will have a significant economic impact on a substantial number of small entities. For purposes of the RFA, small entities include small businesses, nonprofit organizations and government agencies. Most hospitals and most other providers and suppliers are small entities, either by nonprofit status or by having revenues of $6 to $29 million or less in any 1 year (see 65 FR 69432).

For purposes of the RFA we have determined that approximately 37 percent of hospitals and 98 percent of mental health practitioners would be considered small entities according to the Small Business Administration (SBA) size standards. We do not have data available to calculate the percentages of entities in the pharmaceutical preparation manufacturing, biological products, or medical instrument industries. For the pharmaceutical preparation manufacturing industry (NAICS 325412), the size standard is 750 or fewer employees and $67.6 billion in annual sales (1997 business census). For biological products (except diagnostic) (NAICS 325414) $5.7 billion and medical instruments (NAICS 339112), with $18.5 billion in annual sales, the standard is 50 or fewer employees (see the standards web site at http://www.sba.gov/regulations/siccodes/). Individuals and States are not included in the definition of a small entity.

In addition, section 1102(b) of the Act requires us to prepare a regulatory impact analysis if a rule may have a significant impact on the operations of a substantial number of small rural hospitals. This analysis must conform to the provisions of section 603 of the RFA. With the exception of hospitals located in certain New England counties, for purposes of section 1102(b) of the Act, we define a small rural hospital as a hospital that is located outside of a Metropolitan Statistical Area (MSA) and has fewer than 100 beds (or New England County Metropolitan Area (NECMA)). Section 601(g) of the Social Security Amendments of 1983 (Pub. L. 98-21) designated hospitals in certain New England counties as belonging to the adjacent NECMA. Thus, for purposes of the OPPS, we classify these hospitals as urban hospitals. We believe that the changes in this proposed rule would affect both a substantial number of rural hospitals as well as other classes of hospitals and that the effects on some may be significant. Therefore, we conclude that this proposed rule has a significant impact on a substantial number of small entities. However, the statute provides for small rural hospitals (of less than 100 beds) to be held harmless by the law and to continue to be paid at cost; therefore this proposed rule has no impact on them.

Unfunded Mandates

Section 202 of the Unfunded Mandates Reform Act of 1995 (Pub. L. 104-4) also requires that agencies assess anticipated costs and benefits before issuing any rule that may result in an expenditure in any 1 year by State, local, or tribal governments, in the aggregate, or by the private sector, of $110 million. This proposed rule would not mandate any requirements for State, local, or tribal governments. This proposed rule imposes no unfunded mandates on the private sector.

Federalism

Executive Order 13132 establishes certain requirements that an agency must meet when it publishes a proposed rule (and subsequent final rule) that imposes substantial direct costs on State and local governments, preempts State law, or otherwise has Federalism implications.

We have examined this proposed rule in accordance with Executive Order 13132, Federalism, and have determined that it will not have an impact on the rights, roles, and responsibilities of State, local or tribal governments. The impact analysis (see table 10) shows that payments to governmental hospitals (including State, local and tribal governmental hospitals) would increase by 5 percent under the proposed rule.

2. Changes in this Proposed Rule

We are proposing several changes to the OPPS that are required by the statute. We are required under section 1833(t)(3)(C)(ii) of the Act to update annually the conversion factor used to determine the APC payment rates. We are also required under section 1833(t)(9)(A) of the Act to revise, not less often than annually, the wage index and other adjustments. In addition, we must review the clinical integrity of payment groups and weights at least annually. Accordingly, in this proposed rule, we are updating the conversion factor and the wage index adjustment for hospital outpatient services furnished beginning January 1, 2003 as we discuss in sections VI and IV, respectively, of this preamble. We are also proposing revisions to the relative APC payment weights based on claims data from January 1, 2001 through December 31, 2001. Finally, we are proposing to remove 95 devices and more than 200 drugs and biologicals from pass-through payment status.

Under this proposed rule, the change to the conversion factor as provided by statute would increase total OPPS payments by 3.5 percent in 2003. The changes to the wage index and to the APC weights (which incorporates the cessation of pass-through payments for many drugs and devices) do not increase OPPS payments because the OPPS is budget neutral. However, the wage index and APC weight changes do change the distribution of payments within the budget neutral system as shown in Table 10 and described in more detail in this section.

Alternatives Considered

Alternatives to the changes we propose and the reason that we did not choose to propose them are discussed throughout this proposed rule. Below we discuss options we considered when analyzing methodologies to appropriately recognize the costs of former pass-through items. For a more detailed discussion, see section III.C.1 regarding the expiration of pass-through payment for devices and section III.C.2 regarding the expiration of pass-through payment for drugs and biologicals.

Payment for Categories of Devices

We considered establishing separate APCs for categories of devices and paying for them separately. We did not propose this option because we believe that to the extent possible, hospital payment for procedures and visits should include all of the costs required to provide the procedures and visits.

A second option we considered involved (1) packaging some categories of devices into the procedures with which they were billed in 2001 and (2) paying the rest through separate APCs (as discussed in section III.C.). We did not propose this option because we believe that devices are routinely used in the services for which they are needed and therefore are consistently paid at the cost of providing the service. Furthermore, criteria that would provide a basis for some devices to be packaged and for others to be paid separately would have to be developed and approved, thereby further complicating an already complex payment system.

Payment for Drugs and Biologicals

We considered continuing to make separate payment for all drugs and biologicals through separate APCs. We did not propose to pay separately for all drugs through separate APCs because we believe that, to the extent possible, hospital payment for services should include all of the costs of the services. We believe that drugs should be packaged with the services in which they are furnished except when we determine that there is a valid reason to do otherwise. However, we recognize that (unlike the stability that exists with device usage with the applicable procedures) the use of drugs may vary widely depending upon patient and disease characteristics. Therefore, packaging payment for all drugs may, in some cases, provide inadequate payment for the services furnished. Where a hospital has a disproportionate share of patients who need greater amounts of expensive drugs, underpayment for the drugs needed by these patients could result in cessation of needed services. For the first year that we are ceasing transitional pass-through payment for drugs, we decided to proceed cautiously by proposing to pay separately for drugs when the cost per encounter was more than $150 or when special characteristics existed (for example, orphan drugs, blood products).

We also considered packaging the costs of all drugs into the cost of the associated procedures with which they were billed in 2001. We did not package all payment for drugs into the payment for the procedures because, while this packaging is ultimately our goal, we believe, for the reasons indicated above, that we need to proceed cautiously to ensure that we do not inadvertently threaten access to needed care.

Conclusion

It is clear that the changes in this proposed rule would affect both a substantial number of rural hospitals as well as other classes of hospitals, and the effects on some may be significant. Therefore, the discussion below, in combination with the rest of this proposed rule, constitutes a regulatory impact analysis.

The OPPS rates proposed for CY 2003 would have, overall, a positive effect for every category of hospital with the exception of children's hospitals, which are held harmless under the OPPS. The changes in the OPPS proposed for 2003 would result in an overall 3.5 percent increase in Medicare payments to hospitals, exclusive of outlier and transitional pass-through payments and transitional corridor payments. As described in the preamble, budget neutrality adjustments are made to the conversion factor and the weights to assure that the revisions in the wage index, APC groups, and relative weights do not affect aggregate payments. The impact of the wage and recalibration changes does vary somewhat by hospital group. Estimates of these impacts are displayed on Table 10.

The overall projected increase in payments for urban hospitals is slightly lower (2.5 percent) than the average increase for all hospitals (3.5 percent) while the increase for rural hospitals is significantly greater (7.6 percent) than the average increase. Rural hospitals gain 2.3 percent from the wage index change, and also gain 1.6 percent from APC changes. A discussion of the distribution of outlier payments that we project under this proposed rule can be found under section D below. Table 11 presents the outlier distribution that we expect to see under this proposed rule.

3. Limitations of Our Analysis

The distributional impacts represent the projected effects of the proposed policy changes, as well as statutory changes effective for 2003, on various hospital groups. We estimate the effects of individual policy changes by estimating payments per service while holding all other payment policies constant. We use the best data available but do not attempt to predict behavioral responses to our policy changes. In addition, we do not make adjustments for future changes in variables such as service volume, service mix, or number of encounters.

4. Estimated Impacts of This Proposed Rule on Hospitals

The OPPS is a budget neutral payment system under which the increase to the total payments made under OPPS is limited by the increase to the conversion factor set under the methodology in the statute. The impact tables show the redistributive effects of the wage index and APC changes. In some cases, under this proposed rule, hospitals would receive more total payment than in 2002 while in other cases they would receive less total payment than they received in 2002. The impact of this proposed rule would depend on a number of factors, most significant of which are the mix of services furnished by a hospital (for example, how the APCs for the hospital's most frequently furnished services would change) and the impact of the wage index changes on the hospital.

Column 4 in Table 10 represents the full impact on each hospital group of all the changes for 2003. Columns 2 and 3 in the table reflect the independent effects of the proposed change in the wage index and the APC reclassification and recalibration changes, respectively. We excluded critical access hospitals (CAHs) from the analysis of the impact of the proposed 2003 OPPS rates that is summarized in Table 10. For that reason, the total number of hospitals included in Table 10 (4,551) is lower than in previous years. CAHs are excluded from the OPPS.

In general, the wage index changes favor rural hospitals, particularly the largest in bed size and volume. The only rural hospitals that would experience a negative impact due to wage index changes are those in Puerto Rico, a decrease of 2.8 percent. Conversely, the urban hospitals are generally negatively affected by wage index changes, with the largest decreases occurring in those with 300-499 beds (−0.7 percent) and those in the Middle Atlantic (−1.3 percent), Pacific (−.09 percent) and Puerto Rico Regions (−1.8 percent). However, this effect is somewhat lessened by the distribution of outlier payments as discussed in more detail below.

The APC reclassification and recalibration changes also favor rural hospitals and have a negative effect on urban hospitals in excess of 200 beds. Specifically, urban hospitals with 200-299 beds (−0.5 percent decrease), urban hospitals with 300-499 beds (−2.0 percent decrease) and urban hospitals in excess of 500 beds (a −1.9 percent decrease) all show a decrease attributed to APC recalibration. We believe this occurs as a result of our folding 75 percent of estimated pass-through device costs into APC payments in the 2002 OPPS. Specifically, a comparison of the relative payment weights proposed for 2003, as listed in Addendum A, with the final 2002 relative payment weights in the March 1, 2002 final rule shows a decrease in the weights for certain APCs in 2002 that included a fold-in of 75 percent of estimated pass-through device costs. We relied on cost information supplied by device manufacturers in estimating the device costs to be folded in when calculating the median APC costs for the 2002 OPPS, whereas the proposed 2003 relative payment weights are based on actual hospital charges and utilization under the OPPS as reported by hospitals. We believe this downward tendency in the payment weights for APCs that include device costs, based on actual hospital experience, accounts in part for the lower positive effect of the proposed 2003 rates on urban hospitals and on teaching hospitals, which tend to perform a higher number of procedures involving costly new technology devices, in contrast with an increased positive effect in 2003 on rural and non-teaching hospitals, which tend to furnish a higher volume of clinic and preventive services than procedures associated with expensive new technology devices.

In both urban and rural areas, hospitals that provide a lower volume of outpatient services are projected to receive a larger increase in payments than higher volume hospitals. In rural areas, hospitals with volumes of fewer than 5000 services are projected to experience a significant increase in payments (8.1 percent). The less favorable impact for the high volume urban hospitals is attributable to both wage index and APC changes. For example, urban hospitals providing more than 42,999 services are projected to gain a combined 1.6 percent due to these changes.

Major teaching hospitals are projected to experience a smaller increase in payments (1.7 percent) than the aggregate for all hospitals (3.5 percent) due to negative impacts of the wage index (−0.5 percent) and recalibration (−1.2 percent). Hospitals with less intensive teaching programs are projected to experience an overall increase (2.0 percent) that is smaller than the average for all hospitals. There is little difference in impact among hospitals with that serve low-income patients.

Table 10.—Impact of Changes for CY 2003 Hospital Outpatient Prospective Payment System
[Percent change in total payment to hospitals (program and beneficiary); does not include the effects of outlier and transitional pass-through payments or of transitional corridor payments.]
| Number of hospitals ¹ (1) | New wage index ² (2) | APC changes)³ (3) | All CY 2003 changes ⁴ (4)
ALL HOSPITALS | 4,551 | 0.0 | 0.0 | 3.5
NON-TEFRA HOSPITALS | 4,002 | 0.0 | −0.1 | 3.4
URBAN HOSPS | 2,429 | −0.6 | −0.5 | 2.5
LARGE URBAN (GT 1 MILL.) | 1,398 | −0.7 | −0.1 | 2.6
OTHER URBAN (LE 1 MILL.) | 1,031 | −0.4 | −0.9 | 2.2
RURAL HOSPS | 1,573 | 2.3 | 1.6 | 7.6
BEDS (URBAN):
0-99 BEDS | 554 | −0.3 | 3.1 | 6.4
100-199 BEDS | 882 | −0.6 | 1.4 | 4.3
200-299 BEDS | 488 | −0.6 | −0.5 | 2.3
300-499 BEDS | 364 | −0.7 | −2.0 | 0.7
500+ BEDS | 141 | −0.3 | −1.9 | 1.3
BEDS (RURAL):
0-49 BEDS | 754 | 0.4 | 2.9 | 7.0
50-99 BEDS | 479 | 1.5 | 2.3 | 7.6
100-149 BEDS | 201 | 2.4 | 1.5 | 7.6
150-199 BEDS | 73 | 5.5 | 0.1 | 9.5
200+ BEDS | 66 | 3.3 | 0.0 | 7.0
VOLUME (URBAN):
LT 5,000 | 188 | 0.9 | 6.5 | 10.9
5,000-10,999 | 305 | −0.8 | 5.1 | 7.9
11,000-20,999 | 472 | −0.7 | 2.6 | 5.5
21,000-42,999 | 657 | −0.8 | 0.3 | 3.0
GT 42,999 | 807 | −0.5 | −1.4 | 1.6
VOLUME (RURAL):
LT 5,000 | 326 | 0.2 | 4.2 | 8.1
5,000-10,999 | 446 | 0.6 | 4.4 | 8.7
11,000-20,999 | 373 | 1.3 | 2.7 | 7.7
21,000-42,999 | 290 | 1.9 | 1.4 | 6.9
GT 42,999 | 138 | 4.3 | −0.2 | 7.8
REGION (URBAN):
NEW ENGLAND | 127 | −0.6 | 0.6 | 3.4
MIDDLE ATLANTIC | 372 | −1.3 | 0.2 | 2.3
SOUTH ATLANTIC | 370 | −0.2 | −0.1 | 3.2
EAST NORTH CENT. | 413 | −0.7 | −1.4 | 1.4
EAST SOUTH CENT. | 153 | −0.6 | −1.0 | 1.9
WEST NORTH CENT. | 172 | −0.3 | −1.6 | 1.6
WEST SOUTH CENT. | 293 | 0.5 | −0.7 | 3.3
MOUNTAIN | 122 | −0.4 | −1.1 | 1.9
PACIFIC | 368 | −0.9 | 0.6 | 3.1
PUERTO RICO | 39 | −1.8 | 4.7 | 6.4
REGION (RURAL):
NEW ENGLAND | 40 | 1.6 | 1.3 | 6.5
MIDDLE ATLANTIC | 63 | 2.2 | 1.3 | 7.2
SOUTH ATLANTIC | 226 | 2.6 | 2.1 | 8.4
EAST NORTH CENT. | 213 | 1.2 | −0.2 | 4.6
EAST SOUTH CENT. | 232 | 2.3 | 2.6 | 8.7
WEST NORTH CENT. | 271 | 2.0 | 0.9 | 6.6
WEST SOUTH CENT. | 278 | 1.8 | 3.2 | 8.8
MOUNTAIN | 141 | 4.1 | 1.3 | 9.2
PACIFIC | 104 | 5.6 | 2.7 | 12.1
PUERTO RICO | 5 | −2.8 | 10.4 | 11.1
TEACHING STATUS:
NON-TEACHING | 2,935 | 0.4 | 1.1 | 5.0
MINOR | 782 | −0.4 | −1.1 | 2.0
MAJOR | 284 | −0.5 | −1.2 | 1.7
DSH PATIENT PERCENT:
0 | 11 | 4.9 | 10.1 | 19.4
GT 0-0.10 | 982 | −0.2 | −0.4 | 3.0
0.10-0.16 | 873 | 0.7 | −0.8 | 3.4
0.16-0.23 | 767 | −0.6 | −0.3 | 2.6
0.23-0.35 | 756 | −0.2 | 0.1 | 3.4
GE 0.35 | 613 | −0.1 | 2.2 | 5.8
URBAN IME/DSH:
IME & DSH | 982 | −0.7 | −1.2 | 1.6
IME/NO DSH | 0 | 0.0 | 0.0 | 0.0
NO IME/DSH | 1,441 | −0.4 | 0.7 | 3.8
NO IME/NO DSH | 6 | 5.4 | 9.8 | 19.7
RURAL HOSP. TYPES:
NO SPECIAL STATUS | 610 | 0.7 | 2.7 | 7.1
RRC | 167 | 4.2 | 0.2 | 8.2
SCH/EACH | 507 | 1.5 | 2.7 | 7.8
MDH | 199 | 0.8 | 2.1 | 6.6
SCH AND RRC | 75 | 4.0 | 0.5 | 8.2
TYPE OF OWNERSHIP:
VOLUNTARY | 2,440 | −0.1 | −0.4 | 3.1
PROPRIETARY | 707 | −0.6 | 0.9 | 3.8
GOVERNMENT | 855 | 0.7 | 0.7 | 5.0
SPECIALTY HOSPITALS:
EYE AND EAR | 13 | −1.4 | 11.5 | 13.7
TRAUMA | 153 | −0.3 | −1.5 | 1.6
CANCER | 10 | 0.5 | −3.9 | 0.2
TEFRA HOSPITALS (NOT INCLUDED ON OTHER LINES):
REHAB | 166 | 10.3 | 2.8 | 16.9
PSYCH | 198 | 0.1 | 15.9 | 20.1
LTC | 143 | 1.3 | 15.9 | 20.4
CHILDREN | 42 | −1.4 | −2.8 | −0.9
Note: For CY 2003, under the OPPS transitional corridor policy, the following categories of hospitals are held harmless compared to their 1996 payment margin for these services: cancer and children's hospitals and rural hospitals with 100 or fewer beds.
¹ Some data necessary to classify hospitals by category were missing; thus, the total number of hospitals in each category may not equal the national total.
² This column shows the impact of updating the wage index used to calculate payment by applying the proposed FY 2003 hospital inpatient wage index after geographic reclassification by the Medicare Geographic Classification Review Board. The hospital inpatient proposed rule for FY 2003 was published in the Federal Register on May 9, 2002.
³ This column shows the impact of changes resulting from the reclassification of HCPCS codes among APC groups and the recalibration of APC weights based on 2001 hospital claims data.
⁴ This column shows changes in total payment from CY 2002 to CY 2003, excluding outlier and pass-through payments. It incorporates all of the changes reflected in columns 2 and 3. In addition, it shows the impact of the proposed CY 2003 payment update. The sum of the columns may be different from the percentage changes shown here due to rounding.

As stated elsewhere in this preamble, we propose to allocate 2 percent of the estimated 2003 expenditures to outlier payments. In Table 11 below, we provide a distribution by percentage of the total projected outlier payments for the categories of hospitals that we show in the impact table (Table 10).

We project, based on the mix of services for the hospitals that will be paid under the OPPS in 2003, that most hospitals will receive outlier payments. It appears that, with the exception of some smaller bed hospitals, all Tax Equity & Fiscal Responsibility Act of 1982 (TEFRA) hospitals can be expected to receive outlier payments. This is because TEFRA hospitals provide an atypical mix of specialty services (which account for less than 1 percent of total OPPS payment before consideration of outliers). A greater percentage of non-TEFRA hospitals are not projected to receive outlier payments.

The anticipated outlier payments for urban hospitals can be expected to ameliorate the impact of the wage index and APC changes on payments to urban hospitals.

Table 11.—Distribution of Outlier Payments for CY 2003 Hospital Outpatient Prospective Payment System
| Number of hosps | Percent of total hosps | Number of hosps with outliers | Percent of total outlier payments
ALL HOSPITALS | 4,551 | 100.00 | 4,306 | 100.00
NON-TEFRA HOSPITALS | 4,002 | 88.00 | 3,987 | 99.40
URBAN HOSPS | 2,429 | 53.40 | 2,420 | 83.20
LARGE URBAN (GT 1 MILL.) | 1,398 | 30.80 | 1,396 | 55.20
OTHER URBAN (LE 1 MILL.) | 1,031 | 22.60 | 1,024 | 28.00
RURAL HOSPS | 1,573 | 34.60 | 1,567 | 16.00
BEDS (URBAN):
0-99 BEDS | 554 | 12.20 | 550 | 6.80
100-199 BEDS | 882 | 19.40 | 877 | 18.20
200-299 BEDS | 488 | 10.80 | 488 | 16.20
300-499 BEDS | 364 | 8.00 | 364 | 21.00
500+ BEDS | 141 | 3.00 | 141 | 21.00
BEDS (RURAL):
0-49 BEDS | 754 | 16.60 | 751 | 4.20
50-99 BEDS | 479 | 10.60 | 477 | 5.00
100-149 BEDS | 201 | 4.40 | 200 | 2.60
150-199 BEDS | 73 | 1.60 | 73 | 2.00
200+ BEDS | 66 | 1.40 | 66 | 2.40
VOLUME (URBAN):
LT 5,000 | 188 | 4.20 | 180 | 1.00
5,000-10,999 | 310 | 6.80 | 309 | 2.80
11,000-20,999 | 467 | 10.20 | 467 | 7.00
21,000-42,999 | 659 | 14.40 | 659 | 15.80
GT 42,999 | 805 | 17.60 | 805 | 56.60
VOLUME (RURAL):
LT 5,000 | 326 | 7.20 | 321 | 1.00
5,000-10,999 | 447 | 9.80 | 446 | 2.60
11,000-20,999 | 372 | 8.20 | 372 | 3.80
21,000-42,999 | 290 | 6.40 | 290 | 4.20
GT 42,999 | 138 | 3.00 | 138 | 4.40
REGION (URBAN):
NEW ENGLAND | 127 | 2.80 | 126 | 6.20
MIDDLE ATLANTIC | 372 | 8.20 | 371 | 22.80
SOUTH ATLANTIC | 370 | 8.20 | 369 | 11.00
EAST NORTH CENT. | 413 | 9.00 | 409 | 15.60
EAST SOUTH CENT. | 153 | 3.40 | 152 | 3.40
WEST NORTH CENT. | 172 | 3.80 | 172 | 4.40
WEST SOUTH CENT. | 293 | 6.40 | 292 | 8.20
MOUNTAIN | 122 | 2.60 | 122 | 3.00
PACIFIC | 368 | 8.00 | 368 | 8.60
PUERTO RICO | 39 | 0.80 | 39 | 0.20
REGION (RURAL):
NEW ENGLAND | 40 | 0.80 | 40 | 1.00
MIDDLE ATLANTIC | 63 | 1.40 | 63 | 1.00
SOUTH ATLANTIC | 226 | 5.00 | 223 | 3.00
EAST NORTH CENT. | 213 | 4.60 | 212 | 3.00
EAST SOUTH CENT. | 232 | 5.00 | 232 | 1.60
WEST NORTH CENT. | 271 | 6.00 | 270 | 2.40
WEST SOUTH CENT. | 278 | 6.20 | 278 | 1.60
MOUNTAIN | 141 | 3.00 | 141 | 1.40
PACIFIC | 104 | 2.20 | 103 | 1.20
PUERTO RICO | 5 | 0.20 | 5 | 0.00
TEACHING STATUS:
NON-TEACHING | 2,935 | 64.40 | 2,920 | 39.80
MINOR | 782 | 17.20 | 782 | 27.20
MAJOR | 284 | 6.20 | 284 | 32.20
DSH PATIENT PERCENT:
0 | 11 | 0.20 | 10 | 0.00
GT 0—0.10 | 982 | 21.60 | 978 | 24.80
0.10—0.16 | 873 | 19.20 | 873 | 19.40
0.16—0.23 | 767 | 16.80 | 765 | 17.60
0.23—0.35 | 756 | 16.60 | 753 | 20.00
GE 0.35 | 613 | 13.40 | 608 | 17.40
URBAN IME/DSH:
IME & DSH | 982 | 21.60 | 982 | 57.20
IME/NO DSH | 0 | 0.00 | 0 | 0.00
NO IME/DSH | 1,441 | 31.60 | 1,433 | 26.00
NO IME/NO DSH | 6 | 0.20 | 5 | 0.00
RURAL HOSP. TYPES:
NO SPECIAL STATUS | 621 | 13.60 | 617 | 5.20
RRC | 167 | 3.60 | 166 | 4.00
SCH/EACH | 511 | 11.20 | 511 | 4.40
MDH | 199 | 4.40 | 198 | 1.00
SCH AND RRC | 75 | 1.60 | 75 | 1.40
TYPE OF OWNERSHIP:
VOLUNTARY | 2,440 | 53.60 | 2,435 | 73.60
PROPRIETARY | 707 | 15.60 | 702 | 10.40
GOVERNMENT | 855 | 18.80 | 850 | 15.20
SPECIALTY HOSPITALS:
EYE AND EAR | 13 | 0.20 | 13 | 0.20
TRAUMA | 153 | 3.40 | 153 | 15.00
CANCER | 10 | 0.20 | 10 | 3.80
TEFRA HOSPITALS (NOT INCLUDED ON OTHER LINES):
REHAB | 166 | 3.60 | 113 | 0.20
PSYCH | 198 | 4.40 | 65 | 0.20
LTC | 143 | 3.20 | 100 | 0.20
CHILDREN | 42 | 1.00 | 41 | 0.20

5. Estimated Impacts of This Proposed Rule on Beneficiaries

For services for which the beneficiary pays a coinsurance of 20 percent of the payment rate, the beneficiary share of payment would increase for services for which OPPS payments would rise and would decrease for services for which OPPS payments would fall. For example for a mid level office visit (APC 0601), the minimum unadjusted copayment in 2002 was $9.67; under this proposed rule, the minimum unadjusted copayment would be $10.82 because the OPPS payment for the service would increase under this proposed rule. For some services (those services for which a national unadjusted copayment amount is shown in Addendum B), however, the beneficiary copayment is frozen based on historic data and would not change, therefore not presenting any potential impact on beneficiaries.

However, in all cases, the statute limits beneficiary liability for copayment for a service to the inpatient hospital deductible for the applicable year. This amount was $812 for 2002, but is not yet determined for 2003. In general, the impact of this proposed rule on beneficiaries would vary based on the service the beneficiary receives and whether the copayment for the service is one that is frozen under the OPPS.

B. Payment Suspension for Unfiled Cost Reports

Overall Impact

We have examined the impacts of this proposed rule as required by Executive Order 12866 (September 1993, Regulatory Planning and Review), the Regulatory Flexibility Act (RFA) (September 16, 1980, Pub. L. 96-354), section 1102(b) of the Social Security Act, the Unfunded Mandates Reform Act of 1995 (Pub. L. 104-4), and Executive Order 13132. (A description of each of these requirements is stated above in section XIV.A.1.) We have determined that the proposed payment suspension provision does not have an economic impact on Medicare payments or other payments to providers. We are proposing to allow the Secretary flexibility in payment suspensions, but we are not altering the final payment determination in any way. With the implementation of the various prospective payment systems, the majority of the payment to providers is based on the PPS methodology and not on the cost report. Suspending all payments because the cost report is not timely filed negatively affects providers. Providing the Secretary with flexibility in payment suspension can lessen the financial impact on providers. For these reasons, we are not preparing analyses for either the RFA or section 1102(b) of the Act because we have determined, and we certify, that this rule would not have a significant economic impact on a substantial number of small entities or a significant impact on the operations of a substantial number of small rural hospitals. Under the requirement for Unfunded Mandates, this proposed rule will not have an economic effect on State, local, or tribal governments, in the aggregate, or on the private sector.

Anticipated Effects

1. Effects on providers that file cost reports. The majority of providers that file cost reports comply with the timeliness provisions and will be unaffected by this proposed regulation. In FY 2000, collectively 16 percent of hospitals, skilled nursing facilities, and home health agencies filed late cost reports. Of this 16 percent, 65 percent of those were only 1 day late. Currently, when a provider fails to file an acceptable cost report, the provider is placed on a complete payment suspension. Under this provision, for those providers who do not file timely, an immediate payment suspension less than the total suspension currently required might be imposed if the Secretary deemed it appropriate, which would allow the provider to more easily continue operations while completing and submitting the acceptable cost report.

2. Effects on other providers. The payment suspension provision does not affect other providers.

3. Effects on the Medicare Program. The provision would allow the Secretary to more effectively manage the Medicare program by imposing other than complete payment suspension when it is appropriate to do so. The Medicare program benefits because immediate complete payment suspension can be disruptive to providers and may negatively affect the care of Medicare patients. There are no costs to the Medicare program to doing so, because when the cost report is submitted, the suspended payments are returned to the provider.

4. Effects on Beneficiaries. We have determined that this provision has a potentially positive impact on beneficiaries. Under this proposed provision the Secretary will have the discretion to impose less than 100 percent payment suspension when a provider fails to timely file an acceptable cost report. Doing so will lessen the financial burden on the provider and thereby allow it to provide adequate services to its patient population as it works to complete and file an acceptable cost report.

Alternatives Considered

We considered not revising existing § 405.371(c) to provide that payment suspension could be “in whole or in part”. However, we did not choose this option because we believe the Secretary should have the discretion to impose partial payment suspensions when circumstances warrant in order to more effectively manage the Medicare program.

Conclusion

In conclusion, we have determined that the proposed payment suspension provision does not have an economic impact on Medicare payments.

Federalism

Since this regulation does not impose any costs on State or local governments, it will not have an effect on State or local governments. State or local governments will have no roles or responsibilities associated with this provision.

In accordance with the provisions of Executive Order 12866, this regulation was reviewed by the Office of Management and Budget.

List of Subjects

42 CFR Part 405

Administrative practice and procedure, Health facilities, Health professions, Kidney diseases, Medicare, Reporting and recordkeeping requirements, Rural areas, X-rays.

42 CFR Part 410

Health facilities, Health professions, Kidney diseases, Laboratories, Medicare, Reporting and recordkeeping requirements, Rural areas, X-rays.

42 CFR Part 419

Hospitals, Medicare, Reporting and recordkeeping requirements.

For the reasons set forth in the preamble, the Centers for Medicare & Medicaid Services proposes to amend 42 CFR chapter IV as follows:

PART 405—FEDERAL HEALTH INSURANCE FOR THE AGED AND DISABLED

Subpart C—Suspension of Payment, Recovery of Overpayments, and Repayment of Scholarships and Loans

1. The authority citation for subpart C continues to read as follows:

Authority: Secs. 1102, 1815, 1833, 1842, 1866, 1870, 1871, 1879, and 1892 of the Social Security Act (42 U.S.C. 1302, 1395g, 1395l, 1395u, 1395cc, 1395gg, 1395hh, 1395pp, and 1395ccc) and 31 U.S.C. 3711.

2.Section 405.371(c) is revised to read as follows:

§ 405.371 Suspension, offset and recoupment of Medicare payments to providers and suppliers of services.

* * * * *

(c) Suspension of payment in the case of unfiled cost reports. If a provider has failed to timely file an acceptable cost report, payment to the provider is immediately suspended in whole or in part until a cost report is filed and determined by the intermediary to be acceptable. In the case of an unfiled cost report, the provisions of § 405.372 do not apply. (See § 405.372(a)(2) concerning failure to furnish other information.)

PART 410—SUPPLEMENTARY MEDICAL INSURANCE (SMI) BENEFITS

1.The authority citation continues to read as follows:

Authority: Secs. 1102 and 1871 of the Social Security Act (42 U.S.C. 1302 and 1395hh).

2. In 410.43 republish the introductory text of paragraph (b), and add a new paragraph (b)(6) to read as follows:

§ 410.43 Partial hospitalization services: Conditions and exclusions.

* * * * *

(b) The following services are separately covered and not paid as partial hospitalization services:

* * * * *

(6) Clinical social worker services that meet the requirements of section 1861(hh)(2) of the Act.

PART 419—PROSPECTIVE PAYMENT SYSTEM FOR HOSPITAL OUTPATIENT DEPARTMENT SERVICES

1. The authority citation continues to read as follows:

Authority: Secs. 1102, 1833(t), and 1871 of the Social Security Act (42 U.S.C. 1302, 1395l(t), and 1395hh).

§ 419.66 [Amended]

2. In § 419.66, paragraph (c)(1) is amended by adding the phrase “or by any category previously in effect” after “categories” and before “and'.

Catalog of Federal Domestic Assistance Program No. 93.773, Medicare—Hospital Insurance; and Program No. 93.774, Medicare—Supplementary Medical Insurance Program)
Dated: July 31, 2002.
Thomas A. Scully,
Administrator, Centers for Medicare & Medicaid Services.
Approved: August 5, 2002.
Tommy G. Thompson,
Secretary.

BILLING CODE 4120-01-P

Addendum A.—List of Ambulatory Payment Classifications (APCs) With Status Indicators, Relative Weights, Payment Rates, and Copayment Amounts Calendar Year 2003
APC | Group title | Status indicator | Relative weight | Payment rate | National unadjusted copayment | Minimum unadjusted copayment
0620 | Critical Care | S | 10.25 | $533.09 | $150.55 | $106.62
0656 | Transcatheter Placement of Drug-Eluting Coronary Stents | T | 90.90 | $4,927.70 |  | $985.54
0657 | Placement of Tissue Clips | S | 1.38 | $71.77 |  | $14.35
0658 | Percutaneous Breast Biopsies | T | 5.57 | $289.69 |  | $57.94

Addendum A.—List of Ambulatory Payment Classifications (APCs) with Status Indicators, Relative Weights, Payment Rates, and Copayment Amounts Calendar Year 2003
APC | Group title | Status indicator | Relative weight | Payment rate | National unadjusted copayment | Minimum unadjusted copayment
0001 | Level I Photochemotherapy | S | 0.43 | $22.36 | $7.88 | $4.47
0002 | Fine needle Biopsy/Aspiration | T | 0.63 | $32.77 | $8.52 | $6.55
0003 | Bone Marrow Biopsy/Aspiration | T | 1.24 | $64.49 | $27.08 | $12.90
0004 | Level I Needle Biopsy/Aspiration Except Bone Marrow | T | 1.63 | $84.77 | $22.04 | $16.95
0005 | Level II Needle Biopsy /Aspiration Except Bone Marrow | T | 3.02 | $157.07 | $69.11 | $31.41
0006 | Level I Incision & Drainage | T | 1.89 | $98.30 | $25.56 | $19.66
0007 | Level II Incision & Drainage | T | 9.44 | $490.96 | $103.10 | $98.19
0008 | Level III Incision and Drainage | T | 16.32 | $848.79 |  | $169.76
0009 | Nail Procedures | T | 0.68 | $35.37 | $8.34 | $7.07
0010 | Level I Destruction of Lesion | T | 0.70 | $36.41 | $10.56 | $7.28
0011 | Level II Destruction of Lesion | T | 1.93 | $100.38 | $27.88 | $20.08
0012 | Level I Debridement & Destruction | T | 0.76 | $39.53 | $10.67 | $7.91
0013 | Level II Debridement & Destruction | T | 1.10 | $57.21 | $14.30 | $11.44
0015 | Level III Debridement & Destruction | T | 1.43 | $74.37 | $18.59 | $14.87
0016 | Level IV Debridement & Destruction | T | 2.57 | $133.66 | $56.14 | $26.73
0017 | Level VI Debridement & Destruction | T | 16.46 | $856.07 | $227.84 | $171.21
0018 | Biopsy of Skin/Puncture of Lesion | T | 0.92 | $47.85 | $15.79 | $9.57
0019 | Level I Excision/ Biopsy | T | 3.94 | $204.92 | $75.82 | $40.98
0020 | Level II Excision/ Biopsy | T | 7.36 | $382.79 | $114.84 | $76.56
0021 | Level III Excision/ Biopsy | T | 14.58 | $758.29 | $227.49 | $151.66
0022 | Level IV Excision/ Biopsy | T | 18.10 | $941.36 | $367.13 | $188.27
0023 | Exploration Penetrating Wound | T | 2.38 | $123.78 | $40.37 | $24.76
0024 | Level I Skin Repair | T | 2.00 | $104.02 | $37.45 | $20.80
0025 | Level II Skin Repair | T | 5.89 | $306.33 | $116.41 | $61.27
0027 | Level IV Skin Repair | T | 15.73 | $818.10 | $343.60 | $163.62
0028 | Level I Breast Surgery | T | 17.44 | $907.04 | $303.74 | $181.41
0029 | Level II Breast Surgery | T | 29.89 | $1,554.55 | $632.64 | $310.91
0030 | Level III Breast Surgery | T | 40.23 | $2,092.32 | $763.55 | $418.46
0032 | Insertion of Central Venous/Arterial Catheter | T | 7.14 | $371.34 |  | $74.27
0033 | Partial Hospitalization | P | 4.96 | $257.96 |  | $51.59
0035 | Placement of Arterial or Central Venous Catheter | T | 0.24 | $12.48 | $3.74 | $2.50
0041 | Level I Arthroscopy | T | 27.58 | $1,434.41 | $580.06 | $286.88
0042 | Level II Arthroscopy | T | 43.24 | $2,248.87 | $804.74 | $449.77
0043 | Closed Treatment Fracture Finger/Toe/Trunk | T | 1.68 | $87.38 |  | $17.48
0045 | Bone/Joint Manipulation Under Anesthesia | T | 13.47 | $700.56 | $280.22 | $140.11
0046 | Open/Percutaneous Treatment Fracture or Dislocation | T | 29.03 | $1,509.82 | $535.76 | $301.96
0047 | Arthroplasty without Prosthesis | T | 29.59 | $1,538.95 | $537.03 | $307.79
0048 | Arthroplasty with Prosthesis | T | 36.93 | $1,920.69 | $633.83 | $384.14
0049 | Level I Musculoskeletal Procedures Except Hand and Foot | T | 19.45 | $1,011.58 |  | $202.32
0050 | Level II Musculoskeletal Procedures Except Hand and Foot | T | 23.60 | $1,227.41 |  | $245.48
0051 | Level III Musculoskeletal Procedures Except Hand and Foot | T | 34.03 | $1,769.87 |  | $353.97
0052 | Level IV Musculoskeletal Procedures Except Hand and Foot | T | 42.37 | $2,203.62 |  | $440.72
0053 | Level I Hand Musculoskeletal Procedures | T | 14.76 | $767.65 | $253.49 | $153.53
0054 | Level II Hand Musculoskeletal Procedures | T | 23.50 | $1,222.21 | $472.33 | $244.44
0055 | Level I Foot Musculoskeletal Procedures | T | 18.28 | $950.72 | $355.34 | $190.14
0056 | Level II Foot Musculoskeletal Procedures | T | 22.94 | $1,193.09 | $405.81 | $238.62
0057 | Bunion Procedures | T | 23.87 | $1,241.45 | $496.58 | $248.29
0058 | Level I Strapping and Cast Application | S | 1.09 | $56.69 | $14.74 | $11.34
0060 | Manipulation Therapy | S | 0.36 | $18.72 |  | $3.74
0068 | CPAP Initiation | S | 1.59 | $82.69 | $45.48 | $16.54
0069 | Thoracoscopy | T | 29.51 | $1,534.79 | $591.64 | $306.96
0070 | Thoracentesis/Lavage Procedures | T | 3.30 | $171.63 |  | $34.33
0071 | Level I Endoscopy Upper Airway | T | 1.01 | $52.53 | $14.18 | $10.51
0072 | Level II Endoscopy Upper Airway | T | 1.66 | $86.33 | $37.99 | $17.27
0073 | Level III Endoscopy Upper Airway | T | 3.63 | $188.79 | $74.14 | $37.76
0074 | Level IV Endoscopy Upper Airway | T | 12.84 | $667.80 | $295.70 | $133.56
0075 | Level V Endoscopy Upper Airway | T | 20.41 | $1,061.50 | $445.92 | $212.30
0076 | Endoscopy Lower Airway | T | 9.30 | $483.68 | $189.92 | $96.74
0077 | Level I Pulmonary Treatment | S | 0.26 | $13.52 | $7.44 | $2.70
0078 | Level II Pulmonary Treatment | S | 0.68 | $35.37 | $15.21 | $7.07
0079 | Ventilation Initiation and Management | S | 1.63 | $84.77 | $16.80 | $16.95
0080 | Diagnostic Cardiac Catheterization | T | 35.64 | $1,853.60 | $838.92 | $370.72
0081 | Non-Coronary Angioplasty or Atherectomy | T | 22.69 | $1,180.08 |  | $236.02
0082 | Coronary Atherectomy | T | 75.42 | $3,922.52 | $1,137.53 | $784.50
0083 | Coronary Angioplasty and Percutaneous Valvuloplasty | T | 47.83 | $2,487.59 |  | $497.52
0084 | Level I Electrophysiologic Evaluation | S | 9.60 | $499.29 |  | $99.86
0085 | Level II Electrophysiologic Evaluation | T | 31.77 | $1,652.33 | $363.51 | $330.47
0086 | Ablate Heart Dysrhythm Focus | T | 43.70 | $2,272.79 | $772.75 | $454.56
0087 | Cardiac Electrophysiologic Recording/Mapping | T | 5.81 | $302.17 |  | $60.43
0088 | Thrombectomy | T | 33.96 | $1,766.23 | $678.68 | $353.25
0089 | Insertion/Replacement of Permanent Pacemaker and Electrodes | T | 108.92 | $5,664.82 | $1,642.80 | $1,132.96
0090 | Insertion/Replacement of Pacemaker Pulse Generator | T | 77.15 | $4,012.49 | $1,444.50 | $802.50
0091 | Level II Vascular Ligation | T | 27.03 | $1,405.80 | $348.23 | $281.16
0092 | Level I Vascular Ligation | T | 24.97 | $1,298.66 | $505.37 | $259.73
0093 | Vascular Repair/Fistula Construction | T | 26.29 | $1,367.32 | $277.34 | $273.46
0094 | Level I Resuscitation and Cardioversion | S | 2.68 | $139.38 | $47.39 | $27.88
0095 | Cardiac Rehabilitation | S | 0.66 | $34.33 | $16.73 | $6.87
0096 | Non-Invasive Vascular Studies | S | 1.82 | $94.66 | $48.15 | $18.93
0097 | Cardiac and Ambulatory Blood Pressure Monitoring | X | 0.84 | $43.69 | $23.80 | $8.74
0098 | Injection of Sclerosing Solution | T | 1.90 | $98.82 | $20.88 | $19.76
0099 | Electrocardiograms | S | 0.38 | $19.76 |  | $3.95
0100 | Stress Tests and Continuous ECG | X | 1.34 | $69.69 | $38.33 | $13.94
0101 | Tilt Table Evaluation | S | 4.40 | $228.84 | $105.27 | $45.77
0103 | Miscellaneous Vascular Procedures | T | 11.26 | $585.62 | $210.82 | $117.12
0104 | Transcatheter Placement of Intracoronary Stents | T | 72.72 | $3,782.09 |  | $756.42
0105 | Revision/Removal of Pacemakers, AICD, or Vascular | T | 19.14 | $995.45 | $370.40 | $199.09
0106 | Insertion/Replacement/Repair of Pacemaker and/or Electrodes | T | 29.23 | $1,520.22 | $410.46 | $304.04
0107 | Insertion of Cardioverter-Defibrillator | T | 181.51 | $9,440.15 | $2,076.83 | $1,888.03
0108 | Insertion/Replacement/Repair of Cardioverter-Defibrillator Leads | T | 232.69 | $12,101.97 |  | $2,420.39
0109 | Removal of Implanted Devices | T | 7.68 | $399.43 | $131.49 | $79.89
0110 | Transfusion | S | 4.04 | $210.12 |  | $42.02
0111 | Blood Product Exchange | S | 13.60 | $707.32 | $198.05 | $141.46
0112 | Apheresis, Photopheresis, and Plasmapheresis | S | 39.40 | $2,049.15 | $612.47 | $409.83
0113 | Excision Lymphatic System | T | 19.75 | $1,027.18 |  | $205.44
0114 | Thyroid/Lymphadenectomy Procedures | T | 37.55 | $1,952.94 | $507.76 | $390.59
0115 | Cannula/Access Device Procedures | T | 23.48 | $1,221.17 | $439.62 | $244.23
0116 | Chemotherapy Administration by Other Technique Except Infusion | S | 0.85 | $44.21 |  | $8.84
0117 | Chemotherapy Administration by Infusion Only | S | 3.87 | $201.27 | $52.33 | $40.25
0118 | Chemotherapy Administration by Both Infusion and Other Technique | S | 5.68 | $295.41 | $72.03 | $59.08
0119 | Implantation of Devices | T | 25.88 | $1,345.99 |  | $269.20
0120 | Infusion Therapy Except Chemotherapy | T | 1.81 | $94.14 | $25.42 | $18.83
0121 | Level I Tube changes and Repositioning | T | 2.17 | $112.86 | $45.14 | $22.57
0122 | Level II Tube changes and Repositioning | T | 3.89 | $202.32 | $46.53 | $40.46
0123 | Bone Marrow Harvesting and Bone Marrow/Stem Cell Transplant | S | 4.86 | $252.76 |  | $50.55
0124 | Revision of Implanted Infusion Pump | T | 23.47 | $1,220.65 |  | $244.13
0125 | Refilling of Infusion Pump | T | 1.73 | $89.98 |  | $18.00
0130 | Level I Laparoscopy | T | 31.99 | $1,663.77 | $659.53 | $332.75
0131 | Level II Laparoscopy | T | 42.44 | $2,207.26 | $1,001.89 | $441.45
0132 | Level III Laparoscopy | T | 57.95 | $3,013.92 | $1,239.22 | $602.78
0140 | Esophageal Dilation without Endoscopy | T | 5.84 | $303.73 | $107.24 | $60.75
0141 | Upper GI Procedures | T | 7.82 | $406.71 | $150.48 | $81.34
0142 | Small Intestine Endoscopy | T | 8.21 | $426.99 | $152.78 | $85.40
0143 | Lower GI Endoscopy | T | 8.37 | $435.32 | $186.06 | $87.06
0146 | Level I Sigmoidoscopy | T | 3.47 | $180.47 | $64.40 | $36.09
0147 | Level II Sigmoidoscopy | T | 7.30 | $379.67 | $83.53 | $75.93
0148 | Level I Anal/Rectal Procedure | T | 3.61 | $187.75 | $67.59 | $37.55
0149 | Level III Anal/Rectal Procedure | T | 16.91 | $879.47 | $293.06 | $175.89
0150 | Level IV Anal/Rectal Procedure | T | 22.02 | $1,145.24 | $437.12 | $229.05
0151 | Endoscopic Retrograde Cholangio-Pancreatography (ERCP) | T | 18.23 | $948.12 | $245.46 | $189.62
0152 | Percutaneous Abdominal and Biliary Procedures | T | 6.18 | $321.42 | $80.36 | $64.28
0153 | Peritoneal and Abdominal Procedures | T | 25.99 | $1,351.71 | $540.68 | $270.34
0154 | Hernia/Hydrocele Procedures | T | 26.98 | $1,403.20 | $491.12 | $280.64
0155 | Level II Anal/Rectal Procedure | T | 10.05 | $522.69 | $188.17 | $104.54
0156 | Level II Urinary and Anal Procedures | T | 3.10 | $161.23 | $48.37 | $32.25
0157 | Colorectal Cancer Screening: Barium Enema | S | 2.73 | $141.98 | $22.19 | $28.40
0158 | Colorectal Cancer Screening: Colonoscopy | T | 7.56 | $393.19 |  | $98.30
0159 | Colorectal Cancer Screening: Flexible Sigmoidoscopy | S | 2.48 | $128.98 |  | $32.25
0160 | Level I Cystourethroscopy and other Genitourinary Procedures | T | 6.44 | $334.94 | $105.06 | $66.99
0161 | Level II Cystourethroscopy and other Genitourinary Procedures | T | 16.03 | $833.70 | $249.36 | $166.74
0162 | Level III Cystourethroscopy and other Genitourinary Procedures | T | 21.50 | $1,118.19 |  | $223.64
0163 | Level IV Cystourethroscopy and other Genitourinary Procedures | T | 24.77 | $1,288.26 |  | $257.65
0164 | Level I Urinary and Anal Procedures | T | 1.18 | $61.37 | $18.41 | $12.27
0165 | Level III Urinary and Anal Procedures | T | 12.62 | $656.35 |  | $131.27
0166 | Level I Urethral Procedures | T | 15.63 | $812.90 | $218.73 | $162.58
0167 | Level III Urethral Procedures | T | 27.15 | $1,412.04 | $555.84 | $282.41
0168 | Level II Urethral Procedures | T | 24.10 | $1,253.42 | $405.60 | $250.68
0169 | Lithotripsy | T | 46.44 | $2,415.30 | $1,115.69 | $483.06
0170 | Dialysis | S | 4.79 | $249.12 |  | $49.82
0179 | Urinary Incontinence Procedures | T | 81.28 | $4,227.29 | $1,817.73 | $845.46
0180 | Circumcision | T | 18.95 | $985.57 | $304.87 | $197.11
0181 | Penile Procedures | T | 29.88 | $1,554.03 | $621.82 | $310.81
0182 | Insertion of Penile Prosthesis | T | 83.80 | $4,358.35 | $1,438.26 | $871.67
0183 | Testes/Epididymis Procedures | T | 22.19 | $1,154.08 | $448.94 | $230.82
0184 | Prostate Biopsy | T | 3.66 | $190.35 | $95.18 | $38.07
0187 | Miscellaneous Placement/Repositioning | X | 4.19 | $217.92 | $94.96 | $43.58
0188 | Level II Female Reproductive Proc | T | 1.12 | $58.25 | $11.95 | $11.65
0189 | Level III Female Reproductive Proc | T | 1.63 | $84.77 | $18.60 | $16.95
0190 | Surgical Hysteroscopy | T | 20.06 | $1,043.30 | $424.28 | $208.66
0191 | Level I Female Reproductive Proc | T | 0.22 | $11.44 | $3.32 | $2.29
0192 | Level IV Female Reproductive Proc | T | 2.94 | $152.91 | $42.81 | $30.58
0193 | Level V Female Reproductive Proc | T | 14.57 | $757.77 | $171.13 | $151.55
0194 | Level VI Female Reproductive Proc | T | 18.88 | $981.93 | $397.84 | $196.39
0195 | Level VII Female Reproductive Proc | T | 24.37 | $1,267.46 | $483.80 | $253.49
0196 | Dilation and Curettage | T | 16.32 | $848.79 | $338.23 | $169.76
0197 | Infertility Procedures | T | 1.19 | $61.89 | $24.76 | $12.38
0198 | Pregnancy and Neonatal Care Procedures | T | 1.33 | $69.17 | $32.92 | $13.83
0199 | Vaginal Delivery | T | 5.69 | $295.93 | $72.98 | $59.19
0200 | Therapeutic Abortion | T | 14.49 | $753.61 | $307.83 | $150.72
0201 | Spontaneous Abortion | T | 15.84 | $823.82 | $329.65 | $164.76
0202 | Level VIII Female Reproductive Proc | T | 39.09 | $2,033.03 | $996.18 | $406.61
0203 | Level IV Nerve Injections | T | 10.96 | $570.02 | $256.51 | $114.00
0204 | Level I Nerve Injections | T | 2.13 | $110.78 | $42.10 | $22.16
0206 | Level II Nerve Injections | T | 4.89 | $254.32 | $75.55 | $50.86
0207 | Level III Nerve Injections | T | 5.97 | $310.49 | $123.69 | $62.10
0208 | Laminotomies and Laminectomies | T | 39.95 | $2,077.76 |  | $415.55
0209 | Extended EEG Studies and Sleep Studies, Level II | S | 12.09 | $628.79 | $280.58 | $125.76
0212 | Nervous System Injections | T | 3.53 | $183.59 | $84.45 | $36.72
0213 | Extended EEG Studies and Sleep Studies, Level I | S | 3.38 | $175.79 | $70.41 | $35.16
0214 | Electroencephalogram | S | 2.37 | $123.26 | $61.63 | $24.65
0215 | Level I Nerve and Muscle Tests | S | 0.60 | $31.21 |  | $6.24
0216 | Level III Nerve and Muscle Tests | S | 3.06 | $159.15 | $71.62 | $31.83
0218 | Level II Nerve and Muscle Tests | S | 1.06 | $55.13 |  | $11.03
0220 | Level I Nerve Procedures | T | 16.66 | $866.47 |  | $173.29
0221 | Level II Nerve Procedures | T | 25.35 | $1,318.43 | $463.62 | $263.69
0222 | Implantation of Neurological Device | T | 140.56 | $7,310.39 |  | $1,462.08
0223 | Implantation of Pain Management Device | T | 20.30 | $1,055.78 |  | $211.16
0224 | Implantation of Reservoir/Pump/Shunt | T | 39.14 | $2,035.63 | $453.41 | $407.13
0225 | Implantation of Neurostimulator Electrodes | T | 44.47 | $2,312.84 |  | $462.57
0226 | Implantation of Drug Infusion Reservoir | T | 44.20 | $2,298.80 |  | $459.76
0227 | Implantation of Drug Infusion Device | T | 128.03 | $6,658.71 |  | $1,331.74
0228 | Creation of Lumbar Subarachnoid Shunt | T | 55.05 | $2,863.10 | $696.46 | $572.62
0229 | Transcatherter Placement of Intravascular Shunts | T | 49.00 | $2,548.44 | $662.59 | $509.69
0230 | Level I Eye Tests & Treatments | S | 0.78 | $40.57 | $15.82 | $8.11
0231 | Level III Eye Tests & Treatments | S | 2.24 | $116.50 | $52.43 | $23.30
0232 | Level I Anterior Segment Eye Procedures | T | 4.91 | $255.36 | $112.36 | $51.07
0233 | Level II Anterior Segment Eye Procedures | T | 13.43 | $698.48 | $266.33 | $139.70
0234 | Level III Anterior Segment Eye Procedures | T | 21.45 | $1,115.59 | $535.48 | $223.12
0235 | Level I Posterior Segment Eye Procedures | T | 5.62 | $292.29 | $81.84 | $58.46
0236 | Level II Posterior Segment Eye Procedures | T | 20.62 | $1,072.43 |  | $214.49
0237 | Level III Posterior Segment Eye Procedures | T | 35.09 | $1,825.00 | $818.54 | $365.00
0238 | Level I Repair and Plastic Eye Procedures | T | 3.04 | $158.11 | $58.96 | $31.62
0239 | Level II Repair and Plastic Eye Procedures | T | 6.91 | $359.38 | $115.94 | $71.88
0240 | Level III Repair and Plastic Eye Procedures | T | 16.99 | $883.63 | $315.31 | $176.73
0241 | Level IV Repair and Plastic Eye Procedures | T | 21.89 | $1,138.48 | $384.47 | $227.70
0242 | Level V Repair and Plastic Eye Procedures | T | 28.87 | $1,501.50 | $597.36 | $300.30
0243 | Strabismus/Muscle Procedures | T | 20.94 | $1,089.07 | $431.39 | $217.81
0244 | Corneal Transplant | T | 38.14 | $1,983.62 | $851.42 | $396.72
0245 | Level I Cataract Procedures without IOL Insert | T | 14.39 | $748.41 | $251.21 | $149.68
0246 | Cataract Procedures with IOL Insert | T | 23.59 | $1,226.89 | $495.96 | $245.38
0247 | Laser Eye Procedures Except Retinal | T | 4.97 | $258.48 | $108.56 | $51.70
0248 | Laser Retinal Procedures | T | 4.44 | $230.92 | $96.99 | $46.18
0249 | Level II Cataract Procedures without IOL Insert | T | 27.75 | $1,443.25 | $524.67 | $288.65
0250 | Nasal Cauterization/Packing | T | 1.68 | $87.38 | $30.58 | $17.48
0251 | Level I ENT Procedures | T | 1.92 | $99.86 |  | $19.97
0252 | Level II ENT Procedures | T | 6.27 | $326.10 | $114.24 | $65.22
0253 | Level III ENT Procedures | T | 14.79 | $769.21 | $284.61 | $153.84
0254 | Level IV ENT Procedures | T | 21.89 | $1,138.48 | $352.93 | $227.70
0256 | Level V ENT Procedures | T | 35.51 | $1,846.84 |  | $369.37
0258 | Tonsil and Adenoid Procedures | T | 21.15 | $1,099.99 | $437.25 | $220.00
0259 | Level VI ENT Procedures | T | 291.05 | $15,137.22 | $7,417.24 | $3,027.44
0260 | Level I Plain Film Except Teeth | X | 0.81 | $42.13 | $23.17 | $8.43
0261 | Level II Plain Film Except Teeth Including Bone Density Measurement | X | 1.37 | $71.25 | $34.15 | $14.25
0262 | Plain Film of Teeth | X | 0.60 | $31.21 | $10.30 | $6.24
0263 | Level I Miscellaneous Radiology Procedures | X | 1.99 | $103.50 | $45.54 | $20.70
0264 | Level II Miscellaneous Radiology Procedures | X | 2.75 | $143.02 | $77.23 | $28.60
0265 | Level I Diagnostic Ultrasound Except Vascular | S | 1.04 | $54.09 | $29.75 | $10.82
0266 | Level II Diagnostic Ultrasound Except Vascular | S | 1.70 | $88.42 | $48.63 | $17.68
0267 | Level III Diagnostic Ultrasound Except Vascular | S | 2.58 | $134.18 | $65.52 | $26.84
0268 | Ultrasound Guidance Procedures | S | 1.48 | $76.97 |  | $15.39
0269 | Level III Echocardiogram Except Transesophageal | S | 3.42 | $177.87 | $92.49 | $35.57
0270 | Transesophageal Echocardiogram | S | 5.65 | $293.85 | $146.79 | $58.77
0271 | Mammography | S | 0.69 | $35.89 | $16.80 | $7.18
0272 | Level I Fluoroscopy | X | 1.38 | $71.77 | $38.64 | $14.35
0274 | Myelography | S | 3.21 | $166.95 | $80.14 | $33.39
0275 | Arthrography | S | 3.09 | $160.71 | $69.09 | $32.14
0276 | Level I Digestive Radiology | S | 1.69 | $87.90 | $41.72 | $17.58
0277 | Level II Digestive Radiology | S | 2.50 | $130.02 | $60.47 | $26.00
0278 | Diagnostic Urography | S | 2.65 | $137.82 | $66.07 | $27.56
0279 | Level II Angiography and Venography except Extremity | S | 8.41 | $437.40 | $174.57 | $87.48
0280 | Level III Angiography and Venography except Extremity | S | 15.51 | $806.66 | $353.85 | $161.33
0281 | Venography of Extremity | S | 5.23 | $272.01 | $115.16 | $54.40
0282 | Miscellaneous Computerized Axial Tomography | S | 1.76 | $91.54 | $44.51 | $18.31
0283 | Computerized Axial Tomography with Contrast Material | S | 4.75 | $247.04 |  | $49.41
0284 | Magnetic Resonance Imaging and Magnetic Resonance Angiography with Contrast Material | S | 7.74 | $402.55 | $201.02 | $80.51
0285 | Myocardial Positron Emission Tomography (PET) | S | 16.73 | $870.11 | $374.15 | $174.02
0286 | Myocardial Scans | S | 6.94 | $360.94 | $198.52 | $72.19
0287 | Complex Venography | S | 7.13 | $370.82 | $114.51 | $74.16
0288 | Bone Density:Axial Skeleton | S | 1.38 | $71.77 |  | $14.35
0289 | Needle Localization for Breast Biopsy | X | 1.84 | $95.70 | $44.80 | $19.14
0290 | Level I Diagnostic Nuclear Medicine Excluding Myocardial Scans | S | 2.16 | $112.34 | $56.17 | $22.47
0291 | Level II Diagnostic Nuclear Medicine Excluding Myocardial Scans | S | 4.19 | $217.92 | $108.96 | $43.58
0292 | Level III Diagnostic Nuclear Medicine Excluding Myocardial Scans | S | 4.53 | $235.60 | $117.80 | $47.12
0294 | Level II Therapeutic Nuclear Medicine | S | 4.45 | $231.44 | $127.29 | $46.29
0295 | Level I Therapeutic Nuclear Medicine | S | 3.86 | $200.75 | $110.41 | $40.15
0296 | Level I Therapeutic Radiologic Procedures | S | 2.12 | $110.26 | $52.92 | $22.05
0297 | Level II Therapeutic Radiologic Procedures | S | 7.80 | $405.67 | $172.51 | $81.13
0299 | Miscellaneous Radiation Treatment | S | 6.20 | $322.46 |  | $64.49
0300 | Level I Radiation Therapy | S | 1.53 | $79.57 |  | $15.91
0301 | Level II Radiation Therapy | S | 2.22 | $115.46 |  | $23.09
0302 | Level III Radiation Therapy | S | 10.17 | $528.93 | $200.99 | $105.79
0303 | Treatment Device Construction | X | 2.93 | $152.39 | $68.58 | $30.48
0304 | Level I Therapeutic Radiation Treatment Preparation | X | 1.69 | $87.90 | $41.52 | $17.58
0305 | Level II Therapeutic Radiation Treatment Preparation | X | 3.87 | $201.27 | $91.38 | $40.25
0310 | Level III Therapeutic Radiation Treatment Preparation | X | 14.38 | $747.89 | $339.05 | $149.58
0312 | Radioelement Applications | S | 4.23 | $220.00 |  | $44.00
0313 | Brachytherapy | S | 13.80 | $717.72 |  | $143.54
0314 | Hyperthermic Therapies | S | 4.24 | $220.52 | $101.77 | $44.10
0320 | Electroconvulsive Therapy | S | 4.46 | $231.96 | $80.06 | $46.39
0321 | Biofeedback and Other Training | S | 1.27 | $66.05 | $21.78 | $13.21
0322 | Brief Individual Psychotherapy | S | 1.44 | $74.89 | $12.40 | $14.98
0323 | Extended Individual Psychotherapy | S | 1.95 | $101.42 | $21.26 | $20.28
0324 | Family Psychotherapy | S | 2.71 | $140.94 |  | $28.19
0325 | Group Psychotherapy | S | 1.55 | $80.61 | $18.27 | $16.12
0330 | Dental Procedures | S | 0.64 | $33.29 |  | $6.66
0332 | Computerized Axial Tomography and Computerized Angiography without Contrast Material | S | 3.62 | $188.27 | $91.27 | $37.65
0333 | Computerized Axial Tomography and Computerized Angio w/o Contrast Material followed by Contrast | S | 5.69 | $295.93 | $146.98 | $59.19
0335 | Magnetic Resonance Imaging, Miscellaneous | S | 6.46 | $335.98 | $151.46 | $67.20
0336 | Magnetic Resonance Imaging and Magnetic Resonance Angiography without Contrast | S | 7.01 | $364.58 | $176.94 | $72.92
0337 | MRI and Magnetic Resonance Angiography without Contrast Material followed by Contrast Material | S | 9.86 | $512.81 | $240.77 | $102.56
0339 | Observation | S | 7.60 | $395.27 |  | $79.05
0340 | Minor Ancillary Procedures | X | 0.66 | $34.33 |  | $6.87
0341 | Skin Tests and Miscellaneous Red Blood Cell Tests | X | 0.16 | $8.32 | $3.08 | $1.66
0342 | Level I Pathology | X | 0.23 | $11.96 | $5.88 | $2.39
0343 | Level II Pathology | X | 0.47 | $24.44 | $13.20 | $4.89
0344 | Level III Pathology | X | 0.66 | $34.33 | $18.54 | $6.87
0345 | Level I Transfusion Laboratory Procedures | X | 0.19 | $9.88 | $3.06 | $1.98
0346 | Level II Transfusion Laboratory Procedures | X | 0.42 | $21.84 | $5.46 | $4.37
0347 | Level III Transfusion Laboratory Procedures | X | 0.98 | $50.97 | $12.74 | $10.19
0348 | Fertility Laboratory Procedures | X | 0.83 | $43.17 |  | $8.63
0352 | Level I Injections | X | 0.14 | $7.28 |  | $1.46
0353 | Level II Allergy Injections | X | 0.43 | $22.36 |  | $4.47
0354 | Administration of Influenza/Pneumonia Vaccine | K | 0.09 | $4.68 |  |
0355 | Level I Immunizations | K | 0.24 | $12.48 |  | $2.50
0356 | Level II Immunizations | K | 0.69 | $35.89 |  | $7.18
0359 | Level II Injections | X | 0.83 | $43.17 |  | $8.63
0360 | Level I Alimentary Tests | X | 1.65 | $85.81 | $42.91 | $17.16
0361 | Level II Alimentary Tests | X | 3.55 | $184.63 | $83.23 | $36.93
0362 | Level III Otorhinolaryngologic Function Tests | X | 2.83 | $147.19 |  | $29.44
0363 | Level I Otorhinolaryngologic Function Tests | X | 0.76 | $39.53 | $14.63 | $7.91
0364 | Level I Audiometry | X | 0.45 | $23.40 | $9.13 | $4.68
0365 | Level II Audiometry | X | 1.31 | $68.13 | $20.16 | $13.63
0367 | Level I Pulmonary Test | X | 0.60 | $31.21 | $15.61 | $6.24
0368 | Level II Pulmonary Tests | X | 0.96 | $49.93 | $24.97 | $9.99
0369 | Level III Pulmonary Tests | X | 2.39 | $124.30 | $41.02 | $24.86
0370 | Allergy Tests | X | 0.74 | $38.49 | $11.16 | $7.70
0371 | Level I Allergy Injections | X | 0.50 | $26.00 |  | $5.20
0372 | Therapeutic Phlebotomy | X | 0.56 | $29.13 | $10.09 | $5.83
0373 | Neuropsychological Testing | X | 2.37 | $123.26 |  | $24.65
0374 | Monitoring Psychiatric Drugs | X | 1.20 | $62.41 |  | $12.48
0600 | Low Level Clinic Visits | V | 0.91 | $47.33 |  | $9.47
0601 | Mid Level Clinic Visits | V | 1.04 | $54.09 |  | $10.82
0602 | High Level Clinic Visits | V | 1.57 | $81.65 |  | $16.33
0610 | Low Level Emergency Visits | V | 1.49 | $77.49 | $19.57 | $15.50
0611 | Mid Level Emergency Visits | V | 2.66 | $138.34 | $36.47 | $27.67
0612 | High Level Emergency Visits | V | 4.53 | $235.60 | $54.14 | $47.12
0620 | Critical Care | S | 10.25 | $533.09 | $150.55 | $106.62
0656 | Transcatheter Placement of Drug-Eluting Coronary Stents | T | 90.90 | $4,927.70 |  | $985.54
0657 | Placement of Tissue Clips | S | 1.38 | $71.77 |  | $14.35
0658 | Percutaneous Breast Biopsies | T | 5.57 | $289.69 |  | $57.94
0659 | Hyperbaric Oxygen | S | 3.12 | $162.27 |  | $32.45
0660 | Level II Otorhinolaryngologic Function Tests | X | 1.65 | $85.81 | $31.75 | $17.16
0661 | Level IV Pathology | X | 3.46 | $179.95 | $98.97 | $35.99
0662 | CT Angiography | S | 5.96 | $309.97 | $170.48 | $61.99
0663 | Stereoteactic Radiosurgery | S | 63.69 | $3,312.45 |  | $662.49
0664 | Proton Beam Radiation Therapy | S | 11.03 | $573.66 |  | $114.73
0665 | Bone Density:AppendicularSkeleton | S | 0.73 | $37.97 |  | $7.59
0666 | Myocardial Add-on Scans | S | 1.59 | $82.69 | $45.48 | $16.54
0667 | Nonmyocardial Positron Emission Tomography (PET) | S | 18.68 | $971.53 |  | $194.31
0668 | Level I Angiography and Venography except Extremity | S | 5.36 | $278.77 | $122.66 | $55.75
0669 | Digital Mammography | S | 0.95 | $49.41 |  | $9.88
0670 | Intravenous and Intracardiac Ultrasound | S | 14.78 | $768.69 | $276.73 | $153.74
0671 | Level II Echocardiogram Except Transesophageal | S | 1.68 | $87.38 | $45.44 | $17.48
0672 | Level IV Posterior Segment Procedures | T | 39.95 | $2,077.76 | $1,038.88 | $415.55
0673 | Level IV Anterior Segment Eye Procedures | T | 27.47 | $1,428.69 | $685.77 | $285.74
0674 | Prostate Cryoablation | T | 69.25 | $3,601.62 |  | $720.32
0675 | Prostatic Thermotherapy | T | 51.57 | $2,682.10 |  | $536.42
0676 | Level II Transcatheter Thrombolysis | T | 4.62 | $240.28 | $64.88 | $48.06
0677 | Level I Transcatheter Thrombolysis | T | 2.80 | $145.63 |  | $29.13
0678 | External Counterpulsation | T | 2.55 | $132.62 |  | $26.52
0679 | Level II Resuscitation and Cardioversion | S | 5.70 | $296.45 | $100.79 | $59.29
0680 | Insertion of Patient Activated Event Recorders | S | 51.95 | $2,701.87 |  | $540.37
0681 | Knee Arthroplasty | T | 158.14 | $8,224.70 | $3,289.88 | $1,644.94
0682 | Level V Debridement & Destruction | T | 6.74 | $350.54 | $161.25 | $70.11
0683 | Level II Photochemotherapy | S | 2.11 | $109.74 | $39.51 | $21.95
0684 | Prostate Brachytherapy | T | 103.47 | $5,381.37 |  | $1,076.27
0685 | Level III Needle Biopsy/Aspiration Except Bone Marrow | T | 4.47 | $232.48 | $102.29 | $46.50
0686 | Level III Skin Repair | T | 11.30 | $587.70 | $270.34 | $117.54
0687 | Revision/Removal of Neurostimulator Electrodes | T | 19.50 | $1,014.18 | $466.52 | $202.84
0688 | Revision/Removal of Neurostimulator Pulse Generator Receiver | T | 30.58 | $1,590.44 | $779.32 | $318.09
0689 | Electronic Analysis of Cardioverter-defibrillators | S | 0.60 | $31.21 | $12.03 | $6.24
0690 | Electronic Analysis of Pacemakers and other Cardiac Devices | S | 0.45 | $23.40 | $10.63 | $4.68
0691 | Electronic Analysis of Programmable Shunts/Pumps | S | 3.14 | $163.31 | $89.02 | $32.66
0692 | Electronic Analysis of Neurostimulator Pulse Generators | S | 0.85 | $44.21 | $24.32 | $8.84
0693 | Level II Breast Reconstruction | T | 39.30 | $2,043.95 | $798.17 | $408.79
0694 | Mohs Surgery | T | 3.90 | $202.84 | $81.14 | $40.57
0695 | Level VII Debridement & Destruction | T | 19.65 | $1,021.98 | $266.59 | $204.40
0697 | Level I Echocardiogram Except Transesophageal | S | 1.51 | $78.53 | $40.84 | $15.71
0698 | Level II Eye Tests & Treatments | S | 1.01 | $52.53 | $20.49 | $10.51
0699 | Level IV Eye Tests & Treatment | T | 2.37 | $123.26 | $55.47 | $24.65
0701 | SR 89 chloride, per mCi | K | 6.43 | $334.42 |  | $66.88
0702 | SM 153 lexidronam, 50 mCi | K | 15.02 | $781.18 |  | $156.24
0706 | New Technology - Level I ($0 - $50) | S |  | $25.00 |  | $5.00
0707 | New Technology - Level II ($50 - $100) | S |  | $75.00 |  | $15.00
0708 | New Technology - Level III ($100 - $200) | S |  | $150.00 |  | $30.00
0709 | New Technology - Level IV ($200 - $300) | S |  | $250.00 |  | $50.00
0710 | New Technology - Level V ($300 - $500) | S |  | $400.00 |  | $80.00
0711 | New Technology - Level VI ($500 - $750) | S |  | $625.00 |  | $125.00
0712 | New Technology - Level VII ($750 - $1000) | S |  | $875.00 |  | $175.00
0713 | New Technology - Level VIII ($1000 - $1250) | S |  | $1,125.00 |  | $225.00
0714 | New Technology - Level IX ($1250 - $1500) | S |  | $1,375.00 |  | $275.00
0715 | New Technology - Level X ($1500 - $1750) | S |  | $1,625.00 |  | $325.00
0716 | New Technology - Level XI ($1750 - $2000) | S |  | $1,875.00 |  | $375.00
0717 | New Technology - Level XII ($2000 - $2500) | S |  | $2,250.00 |  | $450.00
0718 | New Technology - Level XIII ($2500 - $3000) | S |  | $2,750.00 |  | $550.00
0719 | New Technology-Level XIV ($3000- $3500) | S |  | $3,250.00 |  | $650.00
0720 | New Technology - Level XV ($3500 - $5000) | S |  | $4,250.00 |  | $850.00
0721 | New Technology - Level XVI ($5000 - $6000) | S |  | $5,500.00 |  | $1,100.00
0726 | Dexrazoxane hcl injection, 250 mg | K | 2.40 | $124.82 |  | $24.96
0728 | Filgrastim 300 mcg injection | K | 2.24 | $116.50 |  | $23.30
0730 | Pamidronate disodium , 30 mg | K | 3.46 | $179.95 |  | $35.99
0732 | Mesna injection 200 mg | K | 0.55 | $28.60 |  | $5.72
0733 | Non esrd epoetin alpha inj, 1000 u | K | 0.19 | $9.88 |  | $1.98
0734 | Darbepoetin alfa, 1 mcg | G |  | $4.74 |  | $.68
0800 | Leuprolide acetate, 3.75 mg | K | 4.15 | $215.84 |  | $43.17
0802 | Etoposide oral 50 mg | K | 0.54 | $28.08 |  | $5.62
0807 | Aldesleukin/single use vial | K | 6.09 | $316.73 |  | $63.35
0810 | Goserelin acetate implant 3.6 mg | K | 5.94 | $308.93 |  | $61.79
0811 | Carboplatin injection 50 mg | K | 1.58 | $82.17 |  | $16.43
0813 | Cisplatin 10 mg injection | K | 0.47 | $24.44 |  | $4.89
0820 | Daunorubicin 10 mg | K | 2.27 | $118.06 |  | $23.61
0821 | Daunorubicin citrate liposom 10 mg | K | 3.17 | $164.87 |  | $32.97
0822 | Diethylstilbestrol injection 250 mg | K | 2.21 | $114.94 |  | $22.99
0823 | Docetaxel, 20 mg | K | 4.01 | $208.56 |  | $41.71
0827 | Floxuridine injection 500 mg | K | 2.42 | $125.86 |  | $25.17
0828 | Gemcitabine HCL 200 mg | K | 1.49 | $77.49 |  | $15.50
0830 | Irinotecan injection 20 mg | K | 1.86 | $96.74 |  | $19.35
0831 | Ifosfomide injection 1 gm | K | 2.06 | $107.14 |  | $21.43
0832 | Idarubicin hcl injection 5 mg | K | 4.57 | $237.68 |  | $47.54
0838 | Interferon gamma 1-b inj, 3 million u | K | 2.49 | $129.50 |  | $25.90
0840 | Melphalan hydrochl 50 mg | K | 4.09 | $212.72 |  | $42.54
0842 | Fludarabine phosphate inj 50 mg | K | 3.30 | $171.63 |  | $34.33
0843 | Pegaspargase, singl dose vial | K | 2.38 | $123.78 |  | $24.76
0844 | Pentostatin injection, 10 mg | K | 21.32 | $1,108.83 |  | $221.77
0849 | Rituximab, 100 mg | K | 5.71 | $296.97 |  | $59.39
0852 | Topotecan, 4 mg | K | 7.61 | $395.79 |  | $79.16
0855 | Vinorelbine tartrate, 10 mg | K | 1.10 | $57.21 |  | $11.44
0856 | Porfimer sodium, 75 mg | K | 26.35 | $1,370.44 |  | $274.09
0857 | Bleomycin sulfate injection 15 u | K | 3.10 | $161.23 |  | $32.25
0858 | Cladribine, 1mg | K | 0.84 | $43.69 |  | $8.74
0861 | Leuprolide acetate injection 1 mg | K | 0.84 | $43.69 |  | $8.74
0862 | Mitomycin 5 mg inj | K | 1.18 | $61.37 |  | $12.27
0863 | Paclitaxel injection, 30 mg | K | 2.50 | $130.02 |  | $26.00
0864 | Mitoxantrone hcl, 5 mg | K | 3.02 | $157.07 |  | $31.41
0884 | Rho d immune globulin inj, 1 dose pkg | K | 0.70 | $36.41 |  | $7.28
0888 | Cyclosporine oral 100 mg | K | 0.04 | $2.08 |  | $.42
0890 | Lymphocyte immune globulin 250 mg | K | 3.64 | $189.31 |  | $37.86
0891 | Tacrolimus oral per 1 mg | K | 0.02 | $1.04 |  | $.21
0900 | Alglucerase injection, per 10 u | K | 0.53 | $27.56 |  | $5.51
0901 | Alpha 1 proteinase inhibitor, 10 mg | K | 0.02 | $1.04 |  | $.21
0902 | Botulinum toxin a, per unit | K | 0.05 | $2.60 |  | $.52
0903 | Cytomegalovirus imm IV/vial | K | 0.34 | $17.68 |  | $3.54
0905 | Immune globulin 500 mg | K | 0.45 | $23.40 |  | $4.68
0909 | Interferon beta-1a, 33 mcg | K | 2.77 | $144.06 |  | $28.81
0916 | Injection imiglucerase /unit | K | 0.05 | $2.60 |  | $.52
0925 | Factor viii per iu | K | 0.01 | $.52 |  | $.10
0926 | Factor VIII (porcine) per iu | K | 0.02 | $1.04 |  | $.21
0927 | Factor viii recombinant per iu | K | 0.01 | $.52 |  | $.10
0928 | Factor ix complex per iu | K | 0.01 | $.52 |  | $.10
0929 | Anti-inhibitor per iu | K | 0.01 | $.52 |  | $.10
0930 | Antithrombin iii injection per iu | K | 0.01 | $.52 |  | $.10
0931 | Factor IX non-recombinant, per iu | K | 0.01 | $.52 |  | $.10
0932 | Factor IX recombinant, per iu | K | 0.03 | $1.56 |  | $.31
0949 | Plasma, Pooled Multiple Donor, Solvent/Detergent T | K | 1.26 | $65.53 |  | $13.11
0950 | Blood (Whole) For Transfusion | K | 1.25 | $65.01 |  | $13.00
0952 | Cryoprecipitate | K | 0.53 | $27.56 |  | $5.51
0954 | RBC leukocytes reduced | K | 1.59 | $82.69 |  | $16.54
0955 | Plasma, Fresh Frozen | K | 0.71 | $36.93 |  | $7.39
0956 | Plasma Protein Fraction | K | 1.94 | $100.90 |  | $20.18
0957 | Platelet Concentrate | K | 0.67 | $34.85 |  | $6.97
0958 | Platelet Rich Plasma | K | 1.12 | $58.25 |  | $11.65
0959 | Red Blood Cells | K | 1.12 | $58.25 |  | $11.65
0960 | Washed Red Blood Cells | K | 1.42 | $73.85 |  | $14.77
0961 | Infusion, Albumin (Human) 5%, 50 ml | K | 0.47 | $24.44 |  | $4.89
0963 | Albumin (human), 5%, 250 ml | K | 2.37 | $123.26 |  | $24.65
0964 | Albumin (human), 25%, 20 ml | K | 0.50 | $26.00 |  | $5.20
0965 | Albumin (human), 25%, 50ml | K | 1.25 | $65.01 |  | $13.00
0966 | Plasmaprotein fract,5%,250ml | K | 9.71 | $505.01 |  | $101.00
0970 | New Technology - Level I ($0 - $50) | T |  | $25.00 |  | $5.00
0971 | New Technology - Level II ($50 - $100) | T |  | $75.00 |  | $15.00
0972 | New Technology - Level III ($100 - $200) | T |  | $150.00 |  | $30.00
0973 | New Technology - Level IV ($200 - $300) | T |  | $250.00 |  | $50.00
0974 | New Technology - Level V ($300 - $500) | T |  | $400.00 |  | $80.00
0975 | New Technology - Level VI ($500 - $750) | T |  | $625.00 |  | $125.00
0976 | New Technology - Level VII ($750 - $1000) | T |  | $875.00 |  | $175.00
0977 | New Technology - Level VIII ($1000 - $1250) | T |  | $1,125.00 |  | $225.00
0978 | New Technology - Level IX ($1250 - $1500) | T |  | $1,375.00 |  | $275.00
0979 | New Technology - Level X ($1500 - $1750) | T |  | $1,625.00 |  | $325.00
0980 | New Technology - Level XI ($1750 - $2000) | T |  | $1,875.00 |  | $375.00
0981 | New Technology - Level XII ($2000 - $2500) | T |  | $2,250.00 |  | $450.00
0982 | New Technology - Level XIII ($2500 - $3000) | T |  | $2,750.00 |  | $550.00
0983 | New Technology-Level XIV ($3000- $3500) | T |  | $3,250.00 |  | $650.00
0984 | New Technology - Level XV ($3500 - $5000) | T |  | $4,250.00 |  | $850.00
0985 | New Technology - Level XVI ($5000 - $6000) | T |  | $5,500.00 |  | $1,100.00
1009 | Cryoprecip reduced plasma | K | 0.66 | $34.33 |  | $6.87
1010 | Blood, L/R, CMV-neg | K | 1.67 | $86.86 |  | $17.37
1011 | Platelets, HLA-m, L/R, unit | K | 6.03 | $313.61 |  | $62.72
1013 | Platelet concentrate, L/R, unit | K | 0.91 | $47.33 |  | $9.47
1016 | Blood, L/R, froz/deglycerol/washed | K | 1.09 | $56.69 |  | $11.34
1017 | Platelets, aph/pher, L/R, CMV-neg, unit | K | 4.78 | $248.60 |  | $49.72
1018 | Blood, L/R, irradiated | K | 1.90 | $98.82 |  | $19.76
1019 | Platelets, aph/pher, L/R, irradiated, unit | K | 6.93 | $360.42 |  | $72.08
1058 | TC 99M oxidronate, per vial | G |  | $36.74 |  | $5.26
1059 | Cultured chondrocytes implnt | K | 43.64 | $2,269.67 |  | $453.93
1064 | I-131 cap, each add mCi | G |  | $5.86 |  | $.75
1065 | I-131 sol, each add mCi | G |  | $15.81 |  | $2.03
1084 | Denileukin diftitox, 300 MCG | K | 13.94 | $725.01 |  | $145.00
1086 | Temozolomide,oral 5 mg | K | 0.05 | $2.60 |  | $.52
1091 | IN 111 Oxyquinoline, per .5 mCi | K | 4.36 | $226.76 |  | $45.35
1092 | IN 111 Pentetate, per 0.5 mCi | K | 4.78 | $248.60 |  | $49.72
1095 | Technetium TC 99M Depreotide | K | 0.25 | $13.00 |  | $2.60
1096 | TC 99M Exametazime, per dose | K | 3.35 | $174.23 |  | $34.85
1122 | TC 99M arcitumomab, per vial | K | 8.33 | $433.23 |  | $86.65
1167 | Epirubicin hcl, 2 mg | K | 0.32 | $16.64 |  | $3.33
1178 | Busulfan IV, 6 mg | K | 0.53 | $27.56 |  | $5.51
1203 | Verteporfin for injection | K | 16.26 | $845.67 |  | $169.13
1207 | Octreotide acetate depot 1mg | K | 1.22 | $63.45 |  | $12.69
1305 | Apligraf | K | 12.47 | $648.55 |  | $129.71
1348 | I-131 sol, per 1-6 mCi | K | 0.19 | $9.88 |  | $1.98
1409 | Factor viia recombinant, per 1.2 mg | K | 13.53 | $703.68 |  | $140.74
1604 | IN 111 capromab pendetide, per dose | K | 5.91 | $307.37 |  | $61.47
1605 | Abciximab injection, 10 mg | K | 5.82 | $302.69 |  | $60.54
1609 | Rho(D) immune globulin h, sd, 100 iu | K | 0.22 | $11.44 |  | $2.29
1611 | Hylan G-F 20 injection, 16 mg | K | 2.43 | $126.38 |  | $25.28
1612 | Daclizumab, parenteral, 25 mg | K | 3.77 | $196.07 |  | $39.21
1613 | Trastuzumab, 10 mg | K | 0.66 | $34.33 |  | $6.87
1614 | Valrubicin, 200 mg | K | 2.04 | $106.10 |  | $21.22
1615 | Basiliximab, 20 mg | K | 9.64 | $501.37 |  | $100.27
1618 | Vonwillebrandfactrcmplx, per iu | K | 0.01 | $.52 |  | $.10
1620 | Technetium tc99m bicisate | K | 2.80 | $145.63 |  | $29.13
1625 | Indium 111-in pentetreotide | K | 4.57 | $237.68 |  | $47.54
1628 | Chromic phosphate p32 | K | 1.35 | $70.21 |  | $14.04
1716 | Brachytx seed, Gold 198 | K | 0.35 | $18.20 |  | $3.64
1718 | Brachytx seed, Iodine 125 | K | 0.64 | $33.29 |  | $6.66
1719 | Brachytxseed, Non-HDR Ir-192 | K | 0.57 | $29.65 |  | $5.93
1720 | Brachytx seed, Palladium 103 | K | 0.89 | $46.29 |  | $9.26
1765 | Adhesion barrier | H |  |  |  |
1775 | FDG, per dose (4-40 mCi/ml) | G |  | $475.00 |  | $68.00
1783 | Ocular implant, aqueous drainage assist device | H |  |  |  |
1888 | Catheter, ablation, non-cardiac, endovascular (implantable | H |  |  |  |
1900 | Lead, left ventricular coronary venous system | H |  |  |  |
2618 | Probe, cryoablation | H |  |  |  |
7000 | Amifostine, 500 mg | K | 4.46 | $231.96 |  | $46.39
7001 | Amphotericin B lipid complex, 50 mg | K | 2.05 | $106.62 |  | $21.32
7011 | Oprelvekin injection, 5 mg | K | 2.52 | $131.06 |  | $26.21
7024 | Corticorelin ovine triflutat | K | 4.62 | $240.28 |  | $48.06
7025 | Digoxin immune FAB (ovine) | K | 2.77 | $144.06 |  | $28.81
7030 | Hemin, per 1 mg | K | 0.01 | $.52 |  | $.10
7031 | Octreotide acetate injection | K | 0.90 | $46.81 |  | $9.36
7034 | Somatropin injection | K | 0.78 | $40.57 |  | $8.11
7035 | Teniposide, 50 mg | K | 1.24 | $64.49 |  | $12.90
7038 | Muromonab-CD3, 5 mg | K | 4.43 | $230.40 |  | $46.08
7041 | Tirofiban hydrochloride 12.5 mg | K | 4.82 | $250.68 |  | $50.14
7042 | Capecitabine, oral, 150 mg | K | 0.03 | $1.56 |  | $.31
7043 | Infliximab injection 10 mg | K | 0.74 | $38.49 |  | $7.70
7045 | Trimetrexate glucoronate | K | 1.23 | $63.97 |  | $12.79
7046 | Doxorubicin hcl liposome inj 10 mg | K | 4.54 | $236.12 |  | $47.22
7049 | Filgrastim 480 mcg injection | K | 3.37 | $175.27 |  | $35.05
7051 | Leuprolide acetate implant, 65 mg | G |  | $5,399.80 |  | $773.02
9002 | Tenecteplase, 50mg/vial | K | 25.46 | $1,324.15 |  | $264.83
9003 | Palivizumab, per 50mg | K | 9.34 | $485.76 |  | $97.15
9004 | Gemtuzumab ozogamicin inj,5mg | K | 1.05 | $54.61 |  | $10.92
9005 | Reteplase injection | K | 10.84 | $563.78 |  | $112.76
9009 | Baclofen refill kit - per 2000 mcg | K | 0.79 | $41.09 |  | $8.22
9010 | Baclofen refill kit - per 4000 mcg | K | 0.95 | $49.41 |  | $9.88
9012 | Arsenic Trioxide | G |  | $23.75 |  | $3.40
9015 | Mycophenolate mofetil oral 250 mg | G |  | $2.40 |  | $.34
9016 | Echocardiography contrast | G |  | $118.75 |  | $17.00
9018 | Botulinum tox B, per 100 u | G |  | $8.79 |  | $1.26
9019 | Caspofungin acetate, 5 mg | G |  | $34.20 |  | $4.90
9020 | Sirolimus tablet, 1 mg | K | 0.05 | $2.60 |  | $.52
9104 | Anti-thymocycte globulin rabbit | K | 1.97 | $102.46 |  | $20.49
9105 | Hep B imm glob, per 1 ml | K | 1.58 | $82.17 |  | $16.43
9106 | Sirolimus, 1 mg | K | 0.05 | $2.60 |  | $.52
9108 | Thyrotropin alfa, per 1.1 mg | K | 8.79 | $457.16 |  | $91.43
9109 | Tirofliban hcl, per 6.25 mg | K | 2.32 | $120.66 |  | $24.13
9110 | Alemtuzumab, per ml | G |  | $486.88 |  | $69.70
9111 | Inj, bivalirudin, per 250mg vial | G |  | $397.81 |  | $56.95
9112 | Perflutren lipid micro, per 2ml | G |  | $148.20 |  | $21.22
9113 | Inj pantoprazole sodium, vial | G |  | $22.80 |  | $3.26
9114 | Nesiritide, per 1.5 mg vial | G |  | $433.20 |  | $62.02
9115 | Inj, zoledronic acid, per 2 mg | G |  | $406.78 |  | $58.23
9200 | Orcel, per 36 cm2 | G |  | $1,135.25 |  | $162.52
9201 | Dermagraft, per 37.5 sq cm | G |  | $577.60 |  | $82.69
9217 | Leuprolide acetate suspnsion, 7.5 mg | K | 6.30 | $327.66 |  | $65.53
9500 | Platelets, irradiated | K | 0.92 | $47.85 |  | $9.57
9501 | Platelets, pheresis | K | 5.10 | $265.25 |  | $53.05
9502 | Platelet pheresis irradiated | K | 1.99 | $103.50 |  | $20.70
9503 | Fresh frozen plasma, ea unit | K | 0.77 | $40.05 |  | $8.01
9504 | RBC deglycerolized | K | 1.91 | $99.34 |  | $19.87
9505 | RBC irradiated | K | 1.82 | $94.66 |  | $18.93
9506 | Granulocytes, pheresis | K | 0.45 | $23.40 |  | $4.68

——————————

CPT codes and descriptions only are copyright American Medical Association. All Rights Reserved. Applicable FARS/DFARS Apply.

Copyright American Dental Association. All rights reserved.

Addendum B.—Payment Status by HCPCS Code and Related Information Calender Year 2003
CPT/HCPCS | Status indicator | Description | APC | Relative weight | Payment rate | National unadjusted copayment | Minimum unadjusted copayment
0002T | C | Endovas repr abdo ao aneurys |  |  |  |  |
0003T | S | Cervicography | 0706 |  | $25.00 |  | $5.00
0005T | C | Perc cath stent/brain cv art |  |  |  |  |
0006T | C | Perc cath stent/brain cv art |  |  |  |  |
0007T | C | Perc cath stent/brain cv art |  |  |  |  |
0008T | E | Upper gi endoscopy w/suture |  |  |  |  |
0009T | T | Endometrial cryoablation | 0980 |  | $1,875.00 |  | $375.00
00100 | N | Anesth, salivary gland |  |  |  |  |
00102 | N | Anesth, repair of cleft lip |  |  |  |  |
00103 | N | Anesth, blepharoplasty |  |  |  |  |
00104 | N | Anesth, electroshock |  |  |  |  |
0010T | A | Tb test, gamma interferon |  |  |  |  |
00120 | N | Anesth, ear surgery |  |  |  |  |
00124 | N | Anesth, ear exam |  |  |  |  |
00126 | N | Anesth, tympanotomy |  |  |  |  |
0012T | T | Osteochondral knee autograft | 0041 | 27.58 | $1,434.41 | $580.06 | $286.88
0013T | T | Osteochondral knee allograft | 0041 | 27.58 | $1,434.41 | $580.06 | $286.88
00140 | N | Anesth, procedures on eye |  |  |  |  |
00142 | N | Anesth, lens surgery |  |  |  |  |
00144 | N | Anesth, corneal transplant |  |  |  |  |
00145 | N | Anesth, vitreoretinal surg |  |  |  |  |
00147 | N | Anesth, iridectomy |  |  |  |  |
00148 | N | Anesth, eye exam |  |  |  |  |
0014T | T | Meniscal transplant, knee | 0041 | 27.58 | $1,434.41 | $580.06 | $286.88
00160 | N | Anesth, nose/sinus surgery |  |  |  |  |
00162 | N | Anesth, nose/sinus surgery |  |  |  |  |
00164 | N | Anesth, biopsy of nose |  |  |  |  |
0016T | E | Thermotx choroid vasc lesion |  |  |  |  |
00170 | N | Anesth, procedure on mouth |  |  |  |  |
00172 | N | Anesth, cleft palate repair |  |  |  |  |
00174 | C | Anesth, pharyngeal surgery |  |  |  |  |
00176 | C | Anesth, pharyngeal surgery |  |  |  |  |
0017T | E | Photocoagulat macular drusen |  |  |  |  |
0018T | S | Transcranial magnetic stimul | 0215 | 0.60 | $31.21 |  | $6.24
00190 | N | Anesth, face/skull bone surg |  |  |  |  |
00192 | C | Anesth, facial bone surgery |  |  |  |  |
0019T | A | Extracorp shock wave tx, ms |  |  |  |  |
0020T | A | Extracorp shock wave tx, ft |  |  |  |  |
00210 | N | Anesth, open head surgery |  |  |  |  |
00212 | N | Anesth, skull drainage |  |  |  |  |
00214 | C | Anesth, skull drainage |  |  |  |  |
00215 | C | Anesth, skull repair/fract |  |  |  |  |
00216 | N | Anesth, head vessel surgery |  |  |  |  |
00218 | N | Anesth, special head surgery |  |  |  |  |
0021T | C | Fetal oximetry, trnsvag/cerv |  |  |  |  |
00220 | N | Anesth, intrcrn nerve |  |  |  |  |
00222 | N | Anesth, head nerve surgery |  |  |  |  |
0023T | A | Phenotype drug test, hiv 1 |  |  |  |  |
0024T | C | Transcath cardiac reduction |  |  |  |  |
0025T | S | Ultrasonic pachymetry | 0230 | 0.78 | $40.57 | $15.82 | $8.11
0026T | A | Measure remnant lipoproteins |  |  |  |  |
00300 | N | Anesth, head/neck/ptrunk |  |  |  |  |
00320 | N | Anesth, neck organ surgery |  |  |  |  |
00322 | N | Anesth, biopsy of thyroid |  |  |  |  |
00350 | N | Anesth, neck vessel surgery |  |  |  |  |
00352 | N | Anesth, neck vessel surgery |  |  |  |  |
00400 | N | Anesth, skin, ext/per/atrunk |  |  |  |  |
00402 | N | Anesth, surgery of breast |  |  |  |  |
00404 | C | Anesth, surgery of breast |  |  |  |  |
00406 | C | Anesth, surgery of breast |  |  |  |  |
00410 | N | Anesth, correct heart rhythm |  |  |  |  |
00450 | N | Anesth, surgery of shoulder |  |  |  |  |
00452 | C | Anesth, surgery of shoulder |  |  |  |  |
00454 | N | Anesth, collar bone biopsy |  |  |  |  |
00470 | N | Anesth, removal of rib |  |  |  |  |
00472 | N | Anesth, chest wall repair |  |  |  |  |
00474 | C | Anesth, surgery of rib(s) |  |  |  |  |
00500 | N | Anesth, esophageal surgery |  |  |  |  |
00520 | N | Anesth, chest procedure |  |  |  |  |
00522 | N | Anesth, chest lining biopsy |  |  |  |  |
00524 | C | Anesth, chest drainage |  |  |  |  |
00528 | N | Anesth, chest partition view |  |  |  |  |
00530 | N | Anesth, pacemaker insertion |  |  |  |  |
00532 | N | Anesth, vascular access |  |  |  |  |
00534 | N | Anesth, cardioverter/defib |  |  |  |  |
00537 | N | Anesth, cardiac electrophys |  |  |  |  |
00540 | C | Anesth, chest surgery |  |  |  |  |
00542 | C | Anesth, release of lung |  |  |  |  |
00544 | C | Anesth, chest lining removal |  |  |  |  |
00546 | C | Anesth, lung,chest wall surg |  |  |  |  |
00548 | N | Anesth, trachea,bronchi surg |  |  |  |  |
00550 | N | Anesth, sternal debridement |  |  |  |  |
00560 | C | Anesth, open heart surgery |  |  |  |  |
00562 | C | Anesth, open heart surgery |  |  |  |  |
00563 | N | Anesth, heart proc w/pump |  |  |  |  |
00566 | N | Anesth, cabg w/o pump |  |  |  |  |
00580 | C | Anesth heart/lung transplant |  |  |  |  |
00600 | N | Anesth, spine, cord surgery |  |  |  |  |
00604 | C | Anesth, sitting procedure |  |  |  |  |
00620 | N | Anesth, spine, cord surgery |  |  |  |  |
00622 | C | Anesth, removal of nerves |  |  |  |  |
00630 | N | Anesth, spine, cord surgery |  |  |  |  |
00632 | C | Anesth, removal of nerves |  |  |  |  |
00634 | C | Anesth for chemonucleolysis |  |  |  |  |
00635 | N | Anesth, lumbar puncture |  |  |  |  |
00670 | C | Anesth, spine, cord surgery |  |  |  |  |
00700 | N | Anesth, abdominal wall surg |  |  |  |  |
00702 | N | Anesth, for liver biopsy |  |  |  |  |
00730 | N | Anesth, abdominal wall surg |  |  |  |  |
00740 | N | Anesth, upper gi visualize |  |  |  |  |
00750 | N | Anesth, repair of hernia |  |  |  |  |
00752 | N | Anesth, repair of hernia |  |  |  |  |
00754 | N | Anesth, repair of hernia |  |  |  |  |
00756 | N | Anesth, repair of hernia |  |  |  |  |
00770 | N | Anesth, blood vessel repair |  |  |  |  |
00790 | N | Anesth, surg upper abdomen |  |  |  |  |
00792 | C | Anesth, hemorr/excise liver |  |  |  |  |
00794 | C | Anesth, pancreas removal |  |  |  |  |
00796 | C | Anesth, for liver transplant |  |  |  |  |
00797 | N | Anesth, surgery for obesity |  |  |  |  |
00800 | N | Anesth, abdominal wall surg |  |  |  |  |
00802 | C | Anesth, fat layer removal |  |  |  |  |
00810 | N | Anesth, low intestine scope |  |  |  |  |
00820 | N | Anesth, abdominal wall surg |  |  |  |  |
00830 | N | Anesth, repair of hernia |  |  |  |  |
00832 | N | Anesth, repair of hernia |  |  |  |  |
00840 | N | Anesth, surg lower abdomen |  |  |  |  |
00842 | N | Anesth, amniocentesis |  |  |  |  |
00844 | C | Anesth, pelvis surgery |  |  |  |  |
00846 | C | Anesth, hysterectomy |  |  |  |  |
00848 | C | Anesth, pelvic organ surg |  |  |  |  |
00851 | N | Anesth, tubal ligation |  |  |  |  |
00860 | N | Anesth, surgery of abdomen |  |  |  |  |
00862 | N | Anesth, kidney/ureter surg |  |  |  |  |
00864 | C | Anesth, removal of bladder |  |  |  |  |
00865 | C | Anesth, removal of prostate |  |  |  |  |
00866 | C | Anesth, removal of adrenal |  |  |  |  |
00868 | C | Anesth, kidney transplant |  |  |  |  |
00869 | N | Anesth, vasectomy |  |  |  |  |
00870 | N | Anesth, bladder stone surg |  |  |  |  |
00872 | N | Anesth kidney stone destruct |  |  |  |  |
00873 | N | Anesth kidney stone destruct |  |  |  |  |
00880 | N | Anesth, abdomen vessel surg |  |  |  |  |
00882 | C | Anesth, major vein ligation |  |  |  |  |
00902 | N | Anesth, anorectal surgery |  |  |  |  |
00904 | C | Anesth, perineal surgery |  |  |  |  |
00906 | N | Anesth, removal of vulva |  |  |  |  |
00908 | C | Anesth, removal of prostate |  |  |  |  |
00910 | N | Anesth, bladder surgery |  |  |  |  |
00912 | N | Anesth, bladder tumor surg |  |  |  |  |
00914 | N | Anesth, removal of prostate |  |  |  |  |
00916 | N | Anesth, bleeding control |  |  |  |  |
00918 | N | Anesth, stone removal |  |  |  |  |
00920 | N | Anesth, genitalia surgery |  |  |  |  |
00922 | N | Anesth, sperm duct surgery |  |  |  |  |
00924 | N | Anesth, testis exploration |  |  |  |  |
00926 | N | Anesth, removal of testis |  |  |  |  |
00928 | C | Anesth, removal of testis |  |  |  |  |
00930 | N | Anesth, testis suspension |  |  |  |  |
00932 | C | Anesth, amputation of penis |  |  |  |  |
00934 | C | Anesth, penis, nodes removal |  |  |  |  |
00936 | C | Anesth, penis, nodes removal |  |  |  |  |
00938 | N | Anesth, insert penis device |  |  |  |  |
00940 | N | Anesth, vaginal procedures |  |  |  |  |
00942 | N | Anesth, surg on vag/urethal |  |  |  |  |
00944 | C | Anesth, vaginal hysterectomy |  |  |  |  |
00948 | N | Anesth, repair of cervix |  |  |  |  |
00950 | N | Anesth, vaginal endoscopy |  |  |  |  |
00952 | N | Anesth, hysteroscope/graph |  |  |  |  |
01112 | N | Anesth, bone aspirate/bx |  |  |  |  |
01120 | N | Anesth, pelvis surgery |  |  |  |  |
01130 | N | Anesth, body cast procedure |  |  |  |  |
01140 | C | Anesth, amputation at pelvis |  |  |  |  |
01150 | C | Anesth, pelvic tumor surgery |  |  |  |  |
01160 | N | Anesth, pelvis procedure |  |  |  |  |
01170 | N | Anesth, pelvis surgery |  |  |  |  |
01180 | N | Anesth, pelvis nerve removal |  |  |  |  |
01190 | C | Anesth, pelvis nerve removal |  |  |  |  |
01200 | N | Anesth, hip joint procedure |  |  |  |  |
01202 | N | Anesth, arthroscopy of hip |  |  |  |  |
01210 | N | Anesth, hip joint surgery |  |  |  |  |
01212 | C | Anesth, hip disarticulation |  |  |  |  |
01214 | C | Anesth, hip arthroplasty |  |  |  |  |
01215 | N | Anesth, revise hip repair |  |  |  |  |
01220 | N | Anesth, procedure on femur |  |  |  |  |
01230 | N | Anesth, surgery of femur |  |  |  |  |
01232 | C | Anesth, amputation of femur |  |  |  |  |
01234 | C | Anesth, radical femur surg |  |  |  |  |
01250 | N | Anesth, upper leg surgery |  |  |  |  |
01260 | N | Anesth, upper leg veins surg |  |  |  |  |
01270 | N | Anesth, thigh arteries surg |  |  |  |  |
01272 | C | Anesth, femoral artery surg |  |  |  |  |
01274 | C | Anesth, femoral embolectomy |  |  |  |  |
01320 | N | Anesth, knee area surgery |  |  |  |  |
01340 | N | Anesth, knee area procedure |  |  |  |  |
01360 | N | Anesth, knee area surgery |  |  |  |  |
01380 | N | Anesth, knee joint procedure |  |  |  |  |
01382 | N | Anesth, knee arthroscopy |  |  |  |  |
01390 | N | Anesth, knee area procedure |  |  |  |  |
01392 | N | Anesth, knee area surgery |  |  |  |  |
01400 | N | Anesth, knee joint surgery |  |  |  |  |
01402 | C | Anesth, knee arthroplasty |  |  |  |  |
01404 | C | Anesth, amputation at knee |  |  |  |  |
01420 | N | Anesth, knee joint casting |  |  |  |  |
01430 | N | Anesth, knee veins surgery |  |  |  |  |
01432 | N | Anesth, knee vessel surg |  |  |  |  |
01440 | N | Anesth, knee arteries surg |  |  |  |  |
01442 | C | Anesth, knee artery surg |  |  |  |  |
01444 | C | Anesth, knee artery repair |  |  |  |  |
01462 | N | Anesth, lower leg procedure |  |  |  |  |
01464 | N | Anesth, ankle arthroscopy |  |  |  |  |
01470 | N | Anesth, lower leg surgery |  |  |  |  |
01472 | N | Anesth, achilles tendon surg |  |  |  |  |
01474 | N | Anesth, lower leg surgery |  |  |  |  |
01480 | N | Anesth, lower leg bone surg |  |  |  |  |
01482 | N | Anesth, radical leg surgery |  |  |  |  |
01484 | N | Anesth, lower leg revision |  |  |  |  |
01486 | C | Anesth, ankle replacement |  |  |  |  |
01490 | N | Anesth, lower leg casting |  |  |  |  |
01500 | N | Anesth, leg arteries surg |  |  |  |  |
01502 | C | Anesth, lwr leg embolectomy |  |  |  |  |
01520 | N | Anesth, lower leg vein surg |  |  |  |  |
01522 | N | Anesth, lower leg vein surg |  |  |  |  |
01610 | N | Anesth, surgery of shoulder |  |  |  |  |
01620 | N | Anesth, shoulder procedure |  |  |  |  |
01622 | N | Anesth, shoulder arthroscopy |  |  |  |  |
01630 | N | Anesth, surgery of shoulder |  |  |  |  |
01632 | C | Anesth, surgery of shoulder |  |  |  |  |
01634 | C | Anesth, shoulder joint amput |  |  |  |  |
01636 | C | Anesth, forequarter amput |  |  |  |  |
01638 | C | Anesth, shoulder replacement |  |  |  |  |
01650 | N | Anesth, shoulder artery surg |  |  |  |  |
01652 | C | Anesth, shoulder vessel surg |  |  |  |  |
01654 | C | Anesth, shoulder vessel surg |  |  |  |  |
01656 | C | Anesth, arm-leg vessel surg |  |  |  |  |
01670 | N | Anesth, shoulder vein surg |  |  |  |  |
01680 | N | Anesth, shoulder casting |  |  |  |  |
01682 | N | Anesth, airplane cast |  |  |  |  |
01710 | N | Anesth, elbow area surgery |  |  |  |  |
01712 | N | Anesth, uppr arm tendon surg |  |  |  |  |
01714 | N | Anesth, uppr arm tendon surg |  |  |  |  |
01716 | N | Anesth, biceps tendon repair |  |  |  |  |
01730 | N | Anesth, uppr arm procedure |  |  |  |  |
01732 | N | Anesth, elbow arthroscopy |  |  |  |  |
01740 | N | Anesth, upper arm surgery |  |  |  |  |
01742 | N | Anesth, humerus surgery |  |  |  |  |
01744 | N | Anesth, humerus repair |  |  |  |  |
01756 | C | Anesth, radical humerus surg |  |  |  |  |
01758 | N | Anesth, humeral lesion surg |  |  |  |  |
01760 | N | Anesth, elbow replacement |  |  |  |  |
01770 | N | Anesth, uppr arm artery surg |  |  |  |  |
01772 | N | Anesth, uppr arm embolectomy |  |  |  |  |
01780 | N | Anesth, upper arm vein surg |  |  |  |  |
01782 | N | Anesth, uppr arm vein repair |  |  |  |  |
01810 | N | Anesth, lower arm surgery |  |  |  |  |
01820 | N | Anesth, lower arm procedure |  |  |  |  |
01830 | N | Anesth, lower arm surgery |  |  |  |  |
01832 | N | Anesth, wrist replacement |  |  |  |  |
01840 | N | Anesth, lwr arm artery surg |  |  |  |  |
01842 | N | Anesth, lwr arm embolectomy |  |  |  |  |
01844 | N | Anesth, vascular shunt surg |  |  |  |  |
01850 | N | Anesth, lower arm vein surg |  |  |  |  |
01852 | N | Anesth, lwr arm vein repair |  |  |  |  |
01860 | N | Anesth, lower arm casting |  |  |  |  |
01905 | N | Anes, spine inject, x-ray/re |  |  |  |  |
01916 | N | Anesth, dx arteriography |  |  |  |  |
01920 | N | Anesth, catheterize heart |  |  |  |  |
01922 | N | Anesth, cat or MRI scan |  |  |  |  |
01924 | N | Anes, ther interven rad, art |  |  |  |  |
01925 | N | Anes, ther interven rad, car |  |  |  |  |
01926 | N | Anes, tx interv rad hrt/cran |  |  |  |  |
01930 | N | Anes, ther interven rad, vei |  |  |  |  |
01931 | N | Anes, ther interven rad, tip |  |  |  |  |
01932 | N | Anes, tx interv rad, th vein |  |  |  |  |
01933 | N | Anes, tx interv rad, cran v |  |  |  |  |
01951 | N | Anesth, burn, less 4 percent |  |  |  |  |
01952 | N | Anesth, burn, 4-9 percent |  |  |  |  |
01953 | N | Anesth, burn, each 9 percent |  |  |  |  |
01960 | N | Anesth, vaginal delivery |  |  |  |  |
01961 | N | Anesth, cs delivery |  |  |  |  |
01962 | N | Anesth, emer hysterectomy |  |  |  |  |
01963 | N | Anesth, cs hysterectomy |  |  |  |  |
01964 | N | Anesth, abortion procedures |  |  |  |  |
01967 | N | Anesth/analg, vag delivery |  |  |  |  |
01968 | N | Anes/analg cs deliver add-on |  |  |  |  |
01969 | N | Anesth/analg cs hyst add-on |  |  |  |  |
01990 | C | Support for organ donor |  |  |  |  |
01995 | N | Regional anesthesia limb |  |  |  |  |
01996 | N | Manage daily drug therapy |  |  |  |  |
01999 | N | Unlisted anesth procedure |  |  |  |  |
10021 | T | Fna w/o image | 0002 | 0.63 | $32.77 | $8.52 | $6.55
10022 | T | Fna w/image | 0002 | 0.63 | $32.77 | $8.52 | $6.55
10040 | T | Acne surgery | 0010 | 0.70 | $36.41 | $10.56 | $7.28
10060 | T | Drainage of skin abscess | 0006 | 1.89 | $98.30 | $25.56 | $19.66
10061 | T | Drainage of skin abscess | 0006 | 1.89 | $98.30 | $25.56 | $19.66
10080 | T | Drainage of pilonidal cyst | 0006 | 1.89 | $98.30 | $25.56 | $19.66
10081 | T | Drainage of pilonidal cyst | 0007 | 9.44 | $490.96 | $103.10 | $98.19
10120 | T | Remove foreign body | 0006 | 1.89 | $98.30 | $25.56 | $19.66
10121 | T | Remove foreign body | 0021 | 14.58 | $758.29 | $227.49 | $151.66
10140 | T | Drainage of hematoma/fluid | 0007 | 9.44 | $490.96 | $103.10 | $98.19
10160 | T | Puncture drainage of lesion | 0018 | 0.92 | $47.85 | $15.79 | $9.57
10180 | T | Complex drainage, wound | 0007 | 9.44 | $490.96 | $103.10 | $98.19
11000 | T | Debride infected skin | 0015 | 1.43 | $74.37 | $18.59 | $14.87
11001 | T | Debride infected skin add-on | 0013 | 1.10 | $57.21 | $14.30 | $11.44
11010 | T | Debride skin, fx | 0022 | 18.10 | $941.36 | $367.13 | $188.27
11011 | T | Debride skin/muscle, fx | 0022 | 18.10 | $941.36 | $367.13 | $188.27
11012 | T | Debride skin/muscle/bone, fx | 0022 | 18.10 | $941.36 | $367.13 | $188.27
11040 | T | Debride skin, partial | 0015 | 1.43 | $74.37 | $18.59 | $14.87
11041 | T | Debride skin, full | 0015 | 1.43 | $74.37 | $18.59 | $14.87
11042 | T | Debride skin/tissue | 0016 | 2.57 | $133.66 | $56.14 | $26.73
11043 | T | Debride tissue/muscle | 0016 | 2.57 | $133.66 | $56.14 | $26.73
11044 | T | Debride tissue/muscle/bone | 0682 | 6.74 | $350.54 | $161.25 | $70.11
11055 | T | Trim skin lesion | 0012 | 0.76 | $39.53 | $10.67 | $7.91
11056 | T | Trim skin lesions, 2 to 4 | 0012 | 0.76 | $39.53 | $10.67 | $7.91
11057 | T | Trim skin lesions, over 4 | 0012 | 0.76 | $39.53 | $10.67 | $7.91
11100 | T | Biopsy of skin lesion | 0018 | 0.92 | $47.85 | $15.79 | $9.57
11101 | T | Biopsy, skin add-on | 0018 | 0.92 | $47.85 | $15.79 | $9.57
11200 | T | Removal of skin tags | 0013 | 1.10 | $57.21 | $14.30 | $11.44
11201 | T | Remove skin tags add-on | 0015 | 1.43 | $74.37 | $18.59 | $14.87
11300 | T | Shave skin lesion | 0012 | 0.76 | $39.53 | $10.67 | $7.91
11301 | T | Shave skin lesion | 0012 | 0.76 | $39.53 | $10.67 | $7.91
11302 | T | Shave skin lesion | 0013 | 1.10 | $57.21 | $14.30 | $11.44
11303 | T | Shave skin lesion | 0015 | 1.43 | $74.37 | $18.59 | $14.87
11305 | T | Shave skin lesion | 0013 | 1.10 | $57.21 | $14.30 | $11.44
11306 | T | Shave skin lesion | 0013 | 1.10 | $57.21 | $14.30 | $11.44
11307 | T | Shave skin lesion | 0013 | 1.10 | $57.21 | $14.30 | $11.44
11308 | T | Shave skin lesion | 0013 | 1.10 | $57.21 | $14.30 | $11.44
11310 | T | Shave skin lesion | 0013 | 1.10 | $57.21 | $14.30 | $11.44
11311 | T | Shave skin lesion | 0013 | 1.10 | $57.21 | $14.30 | $11.44
11312 | T | Shave skin lesion | 0013 | 1.10 | $57.21 | $14.30 | $11.44
11313 | T | Shave skin lesion | 0016 | 2.57 | $133.66 | $56.14 | $26.73
11400 | T | Removal of skin lesion | 0019 | 3.94 | $204.92 | $75.82 | $40.98
11401 | T | Removal of skin lesion | 0019 | 3.94 | $204.92 | $75.82 | $40.98
11402 | T | Removal of skin lesion | 0019 | 3.94 | $204.92 | $75.82 | $40.98
11403 | T | Removal of skin lesion | 0020 | 7.36 | $382.79 | $114.84 | $76.56
11404 | T | Removal of skin lesion | 0020 | 7.36 | $382.79 | $114.84 | $76.56
11406 | T | Removal of skin lesion | 0021 | 14.58 | $758.29 | $227.49 | $151.66
11420 | T | Removal of skin lesion | 0020 | 7.36 | $382.79 | $114.84 | $76.56
11421 | T | Removal of skin lesion | 0020 | 7.36 | $382.79 | $114.84 | $76.56
11422 | T | Removal of skin lesion | 0020 | 7.36 | $382.79 | $114.84 | $76.56
11423 | T | Removal of skin lesion | 0020 | 7.36 | $382.79 | $114.84 | $76.56
11424 | T | Removal of skin lesion | 0021 | 14.58 | $758.29 | $227.49 | $151.66
11426 | T | Removal of skin lesion | 0022 | 18.10 | $941.36 | $367.13 | $188.27
11440 | T | Removal of skin lesion | 0019 | 3.94 | $204.92 | $75.82 | $40.98
11441 | T | Removal of skin lesion | 0019 | 3.94 | $204.92 | $75.82 | $40.98
11442 | T | Removal of skin lesion | 0020 | 7.36 | $382.79 | $114.84 | $76.56
11443 | T | Removal of skin lesion | 0020 | 7.36 | $382.79 | $114.84 | $76.56
11444 | T | Removal of skin lesion | 0020 | 7.36 | $382.79 | $114.84 | $76.56
11446 | T | Removal of skin lesion | 0022 | 18.10 | $941.36 | $367.13 | $188.27
11450 | T | Removal, sweat gland lesion | 0022 | 18.10 | $941.36 | $367.13 | $188.27
11451 | T | Removal, sweat gland lesion | 0022 | 18.10 | $941.36 | $367.13 | $188.27
11462 | T | Removal, sweat gland lesion | 0022 | 18.10 | $941.36 | $367.13 | $188.27
11463 | T | Removal, sweat gland lesion | 0022 | 18.10 | $941.36 | $367.13 | $188.27
11470 | T | Removal, sweat gland lesion | 0022 | 18.10 | $941.36 | $367.13 | $188.27
11471 | T | Removal, sweat gland lesion | 0022 | 18.10 | $941.36 | $367.13 | $188.27
11600 | T | Removal of skin lesion | 0019 | 3.94 | $204.92 | $75.82 | $40.98
11601 | T | Removal of skin lesion | 0019 | 3.94 | $204.92 | $75.82 | $40.98
11602 | T | Removal of skin lesion | 0019 | 3.94 | $204.92 | $75.82 | $40.98
11603 | T | Removal of skin lesion | 0020 | 7.36 | $382.79 | $114.84 | $76.56
11604 | T | Removal of skin lesion | 0020 | 7.36 | $382.79 | $114.84 | $76.56
11606 | T | Removal of skin lesion | 0021 | 14.58 | $758.29 | $227.49 | $151.66
11620 | T | Removal of skin lesion | 0020 | 7.36 | $382.79 | $114.84 | $76.56
11621 | T | Removal of skin lesion | 0019 | 3.94 | $204.92 | $75.82 | $40.98
11622 | T | Removal of skin lesion | 0020 | 7.36 | $382.79 | $114.84 | $76.56
11623 | T | Removal of skin lesion | 0020 | 7.36 | $382.79 | $114.84 | $76.56
11624 | T | Removal of skin lesion | 0021 | 14.58 | $758.29 | $227.49 | $151.66
11626 | T | Removal of skin lesion | 0022 | 18.10 | $941.36 | $367.13 | $188.27
11640 | T | Removal of skin lesion | 0020 | 7.36 | $382.79 | $114.84 | $76.56
11641 | T | Removal of skin lesion | 0020 | 7.36 | $382.79 | $114.84 | $76.56
11642 | T | Removal of skin lesion | 0020 | 7.36 | $382.79 | $114.84 | $76.56
11643 | T | Removal of skin lesion | 0020 | 7.36 | $382.79 | $114.84 | $76.56
11644 | T | Removal of skin lesion | 0021 | 14.58 | $758.29 | $227.49 | $151.66
11646 | T | Removal of skin lesion | 0022 | 18.10 | $941.36 | $367.13 | $188.27
11719 | T | Trim nail(s) | 0009 | 0.68 | $35.37 | $8.34 | $7.07
11720 | T | Debride nail, 1-5 | 0009 | 0.68 | $35.37 | $8.34 | $7.07
11721 | T | Debride nail, 6 or more | 0009 | 0.68 | $35.37 | $8.34 | $7.07
11730 | T | Removal of nail plate | 0013 | 1.10 | $57.21 | $14.30 | $11.44
11732 | T | Remove nail plate, add-on | 0012 | 0.76 | $39.53 | $10.67 | $7.91
11740 | T | Drain blood from under nail | 0009 | 0.68 | $35.37 | $8.34 | $7.07
11750 | T | Removal of nail bed | 0019 | 3.94 | $204.92 | $75.82 | $40.98
11752 | T | Remove nail bed/finger tip | 0022 | 18.10 | $941.36 | $367.13 | $188.27
11755 | T | Biopsy, nail unit | 0019 | 3.94 | $204.92 | $75.82 | $40.98
11760 | T | Repair of nail bed | 0024 | 2.00 | $104.02 | $37.45 | $20.80
11762 | T | Reconstruction of nail bed | 0024 | 2.00 | $104.02 | $37.45 | $20.80
11765 | T | Excision of nail fold, toe | 0015 | 1.43 | $74.37 | $18.59 | $14.87
11770 | T | Removal of pilonidal lesion | 0022 | 18.10 | $941.36 | $367.13 | $188.27
11771 | T | Removal of pilonidal lesion | 0022 | 18.10 | $941.36 | $367.13 | $188.27
11772 | T | Removal of pilonidal lesion | 0022 | 18.10 | $941.36 | $367.13 | $188.27
11900 | T | Injection into skin lesions | 0012 | 0.76 | $39.53 | $10.67 | $7.91
11901 | T | Added skin lesions injection | 0012 | 0.76 | $39.53 | $10.67 | $7.91
11920 | T | Correct skin color defects | 0024 | 2.00 | $104.02 | $37.45 | $20.80
11921 | T | Correct skin color defects | 0024 | 2.00 | $104.02 | $37.45 | $20.80
11922 | T | Correct skin color defects | 0024 | 2.00 | $104.02 | $37.45 | $20.80
11950 | T | Therapy for contour defects | 0024 | 2.00 | $104.02 | $37.45 | $20.80
11951 | T | Therapy for contour defects | 0024 | 2.00 | $104.02 | $37.45 | $20.80
11952 | T | Therapy for contour defects | 0024 | 2.00 | $104.02 | $37.45 | $20.80
11954 | T | Therapy for contour defects | 0024 | 2.00 | $104.02 | $37.45 | $20.80
11960 | T | Insert tissue expander(s) | 0027 | 15.73 | $818.10 | $343.60 | $163.62
11970 | T | Replace tissue expander | 0027 | 15.73 | $818.10 | $343.60 | $163.62
11971 | T | Remove tissue expander(s) | 0022 | 18.10 | $941.36 | $367.13 | $188.27
11975 | E | Insert contraceptive cap |  |  |  |  |
11976 | T | Removal of contraceptive cap | 0019 | 3.94 | $204.92 | $75.82 | $40.98
11977 | E | Removal/reinsert contra cap |  |  |  |  |
11980 | X | Implant hormone pellet(s) | 0340 | 0.66 | $34.33 |  | $6.87
11981 | X | Insert drug implant device | 0340 | 0.66 | $34.33 |  | $6.87
11982 | X | Remove drug implant device | 0340 | 0.66 | $34.33 |  | $6.87
11983 | X | Remove/insert drug implant | 0340 | 0.66 | $34.33 |  | $6.87
12001 | T | Repair superficial wound(s) | 0024 | 2.00 | $104.02 | $37.45 | $20.80
12002 | T | Repair superficial wound(s) | 0024 | 2.00 | $104.02 | $37.45 | $20.80
12004 | T | Repair superficial wound(s) | 0024 | 2.00 | $104.02 | $37.45 | $20.80
12005 | T | Repair superficial wound(s) | 0024 | 2.00 | $104.02 | $37.45 | $20.80
12006 | T | Repair superficial wound(s) | 0024 | 2.00 | $104.02 | $37.45 | $20.80
12007 | T | Repair superficial wound(s) | 0024 | 2.00 | $104.02 | $37.45 | $20.80
12011 | T | Repair superficial wound(s) | 0024 | 2.00 | $104.02 | $37.45 | $20.80
12013 | T | Repair superficial wound(s) | 0024 | 2.00 | $104.02 | $37.45 | $20.80
12014 | T | Repair superficial wound(s) | 0024 | 2.00 | $104.02 | $37.45 | $20.80
12015 | T | Repair superficial wound(s) | 0024 | 2.00 | $104.02 | $37.45 | $20.80
12016 | T | Repair superficial wound(s) | 0024 | 2.00 | $104.02 | $37.45 | $20.80
12017 | T | Repair superficial wound(s) | 0024 | 2.00 | $104.02 | $37.45 | $20.80
12018 | T | Repair superficial wound(s) | 0024 | 2.00 | $104.02 | $37.45 | $20.80
12020 | T | Closure of split wound | 0024 | 2.00 | $104.02 | $37.45 | $20.80
12021 | T | Closure of split wound | 0024 | 2.00 | $104.02 | $37.45 | $20.80
12031 | T | Layer closure of wound(s) | 0024 | 2.00 | $104.02 | $37.45 | $20.80
12032 | T | Layer closure of wound(s) | 0024 | 2.00 | $104.02 | $37.45 | $20.80
12034 | T | Layer closure of wound(s) | 0024 | 2.00 | $104.02 | $37.45 | $20.80
12035 | T | Layer closure of wound(s) | 0024 | 2.00 | $104.02 | $37.45 | $20.80
12036 | T | Layer closure of wound(s) | 0024 | 2.00 | $104.02 | $37.45 | $20.80
12037 | T | Layer closure of wound(s) | 0025 | 5.89 | $306.33 | $116.41 | $61.27
12041 | T | Layer closure of wound(s) | 0024 | 2.00 | $104.02 | $37.45 | $20.80
12042 | T | Layer closure of wound(s) | 0024 | 2.00 | $104.02 | $37.45 | $20.80
12044 | T | Layer closure of wound(s) | 0024 | 2.00 | $104.02 | $37.45 | $20.80
12045 | T | Layer closure of wound(s) | 0024 | 2.00 | $104.02 | $37.45 | $20.80
12046 | T | Layer closure of wound(s) | 0024 | 2.00 | $104.02 | $37.45 | $20.80
12047 | T | Layer closure of wound(s) | 0025 | 5.89 | $306.33 | $116.41 | $61.27
12051 | T | Layer closure of wound(s) | 0024 | 2.00 | $104.02 | $37.45 | $20.80
12052 | T | Layer closure of wound(s) | 0024 | 2.00 | $104.02 | $37.45 | $20.80
12053 | T | Layer closure of wound(s) | 0024 | 2.00 | $104.02 | $37.45 | $20.80
12054 | T | Layer closure of wound(s) | 0024 | 2.00 | $104.02 | $37.45 | $20.80
12055 | T | Layer closure of wound(s) | 0024 | 2.00 | $104.02 | $37.45 | $20.80
12056 | T | Layer closure of wound(s) | 0024 | 2.00 | $104.02 | $37.45 | $20.80
12057 | T | Layer closure of wound(s) | 0025 | 5.89 | $306.33 | $116.41 | $61.27
13100 | T | Repair of wound or lesion | 0025 | 5.89 | $306.33 | $116.41 | $61.27
13101 | T | Repair of wound or lesion | 0025 | 5.89 | $306.33 | $116.41 | $61.27
13102 | T | Repair wound/lesion add-on | 0024 | 2.00 | $104.02 | $37.45 | $20.80
13120 | T | Repair of wound or lesion | 0024 | 2.00 | $104.02 | $37.45 | $20.80
13121 | T | Repair of wound or lesion | 0024 | 2.00 | $104.02 | $37.45 | $20.80
13122 | T | Repair wound/lesion add-on | 0024 | 2.00 | $104.02 | $37.45 | $20.80
13131 | T | Repair of wound or lesion | 0024 | 2.00 | $104.02 | $37.45 | $20.80
13132 | T | Repair of wound or lesion | 0024 | 2.00 | $104.02 | $37.45 | $20.80
13133 | T | Repair wound/lesion add-on | 0024 | 2.00 | $104.02 | $37.45 | $20.80
13150 | T | Repair of wound or lesion | 0025 | 5.89 | $306.33 | $116.41 | $61.27
13151 | T | Repair of wound or lesion | 0024 | 2.00 | $104.02 | $37.45 | $20.80
13152 | T | Repair of wound or lesion | 0025 | 5.89 | $306.33 | $116.41 | $61.27
13153 | T | Repair wound/lesion add-on | 0024 | 2.00 | $104.02 | $37.45 | $20.80
13160 | T | Late closure of wound | 0027 | 15.73 | $818.10 | $343.60 | $163.62
14000 | T | Skin tissue rearrangement | 0027 | 15.73 | $818.10 | $343.60 | $163.62
14001 | T | Skin tissue rearrangement | 0027 | 15.73 | $818.10 | $343.60 | $163.62
14020 | T | Skin tissue rearrangement | 0027 | 15.73 | $818.10 | $343.60 | $163.62
14021 | T | Skin tissue rearrangement | 0027 | 15.73 | $818.10 | $343.60 | $163.62
14040 | T | Skin tissue rearrangement | 0027 | 15.73 | $818.10 | $343.60 | $163.62
14041 | T | Skin tissue rearrangement | 0027 | 15.73 | $818.10 | $343.60 | $163.62
14060 | T | Skin tissue rearrangement | 0027 | 15.73 | $818.10 | $343.60 | $163.62
14061 | T | Skin tissue rearrangement | 0027 | 15.73 | $818.10 | $343.60 | $163.62
14300 | T | Skin tissue rearrangement | 0027 | 15.73 | $818.10 | $343.60 | $163.62
14350 | T | Skin tissue rearrangement | 0027 | 15.73 | $818.10 | $343.60 | $163.62
15000 | T | Skin graft | 0025 | 5.89 | $306.33 | $116.41 | $61.27
15001 | T | Skin graft add-on | 0025 | 5.89 | $306.33 | $116.41 | $61.27
15050 | T | Skin pinch graft | 0025 | 5.89 | $306.33 | $116.41 | $61.27
15100 | T | Skin split graft | 0027 | 15.73 | $818.10 | $343.60 | $163.62
15101 | T | Skin split graft add-on | 0027 | 15.73 | $818.10 | $343.60 | $163.62
15120 | T | Skin split graft | 0027 | 15.73 | $818.10 | $343.60 | $163.62
15121 | T | Skin split graft add-on | 0027 | 15.73 | $818.10 | $343.60 | $163.62
15200 | T | Skin full graft | 0027 | 15.73 | $818.10 | $343.60 | $163.62
15201 | T | Skin full graft add-on | 0025 | 5.89 | $306.33 | $116.41 | $61.27
15220 | T | Skin full graft | 0027 | 15.73 | $818.10 | $343.60 | $163.62
15221 | T | Skin full graft add-on | 0025 | 5.89 | $306.33 | $116.41 | $61.27
15240 | T | Skin full graft | 0027 | 15.73 | $818.10 | $343.60 | $163.62
15241 | T | Skin full graft add-on | 0025 | 5.89 | $306.33 | $116.41 | $61.27
15260 | T | Skin full graft | 0027 | 15.73 | $818.10 | $343.60 | $163.62
15261 | T | Skin full graft add-on | 0025 | 5.89 | $306.33 | $116.41 | $61.27
15342 | T | Cultured skin graft, 25 cm | 0025 | 5.89 | $306.33 | $116.41 | $61.27
15343 | T | Culture skn graft addl 25 cm | 0024 | 2.00 | $104.02 | $37.45 | $20.80
15350 | T | Skin homograft | 0686 | 11.30 | $587.70 | $270.34 | $117.54
15351 | T | Skin homograft add-on | 0027 | 15.73 | $818.10 | $343.60 | $163.62
15400 | T | Skin heterograft | 0025 | 5.89 | $306.33 | $116.41 | $61.27
15401 | T | Skin heterograft add-on | 0025 | 5.89 | $306.33 | $116.41 | $61.27
15570 | T | Form skin pedicle flap | 0027 | 15.73 | $818.10 | $343.60 | $163.62
15572 | T | Form skin pedicle flap | 0027 | 15.73 | $818.10 | $343.60 | $163.62
15574 | T | Form skin pedicle flap | 0027 | 15.73 | $818.10 | $343.60 | $163.62
15576 | T | Form skin pedicle flap | 0027 | 15.73 | $818.10 | $343.60 | $163.62
15600 | T | Skin graft | 0027 | 15.73 | $818.10 | $343.60 | $163.62
15610 | T | Skin graft | 0027 | 15.73 | $818.10 | $343.60 | $163.62
15620 | T | Skin graft | 0027 | 15.73 | $818.10 | $343.60 | $163.62
15630 | T | Skin graft | 0027 | 15.73 | $818.10 | $343.60 | $163.62
15650 | T | Transfer skin pedicle flap | 0027 | 15.73 | $818.10 | $343.60 | $163.62
15732 | T | Muscle-skin graft, head/neck | 0027 | 15.73 | $818.10 | $343.60 | $163.62
15734 | T | Muscle-skin graft, trunk | 0027 | 15.73 | $818.10 | $343.60 | $163.62
15736 | T | Muscle-skin graft, arm | 0027 | 15.73 | $818.10 | $343.60 | $163.62
15738 | T | Muscle-skin graft, leg | 0027 | 15.73 | $818.10 | $343.60 | $163.62
15740 | T | Island pedicle flap graft | 0027 | 15.73 | $818.10 | $343.60 | $163.62
15750 | T | Neurovascular pedicle graft | 0027 | 15.73 | $818.10 | $343.60 | $163.62
15756 | C | Free muscle flap, microvasc |  |  |  |  |
15757 | C | Free skin flap, microvasc |  |  |  |  |
15758 | C | Free fascial flap, microvasc |  |  |  |  |
15760 | T | Composite skin graft | 0027 | 15.73 | $818.10 | $343.60 | $163.62
15770 | T | Derma-fat-fascia graft | 0027 | 15.73 | $818.10 | $343.60 | $163.62
15775 | T | Hair transplant punch grafts | 0025 | 5.89 | $306.33 | $116.41 | $61.27
15776 | T | Hair transplant punch grafts | 0025 | 5.89 | $306.33 | $116.41 | $61.27
15780 | T | Abrasion treatment of skin | 0022 | 18.10 | $941.36 | $367.13 | $188.27
15781 | T | Abrasion treatment of skin | 0022 | 18.10 | $941.36 | $367.13 | $188.27
15782 | T | Abrasion treatment of skin | 0022 | 18.10 | $941.36 | $367.13 | $188.27
15783 | T | Abrasion treatment of skin | 0016 | 2.57 | $133.66 | $56.14 | $26.73
15786 | T | Abrasion, lesion, single | 0013 | 1.10 | $57.21 | $14.30 | $11.44
15787 | T | Abrasion, lesions, add-on | 0013 | 1.10 | $57.21 | $14.30 | $11.44
15788 | T | Chemical peel, face, epiderm | 0012 | 0.76 | $39.53 | $10.67 | $7.91
15789 | T | Chemical peel, face, dermal | 0015 | 1.43 | $74.37 | $18.59 | $14.87
15792 | T | Chemical peel, nonfacial | 0012 | 0.76 | $39.53 | $10.67 | $7.91
15793 | T | Chemical peel, nonfacial | 0013 | 1.10 | $57.21 | $14.30 | $11.44
15810 | T | Salabrasion | 0016 | 2.57 | $133.66 | $56.14 | $26.73
15811 | T | Salabrasion | 0016 | 2.57 | $133.66 | $56.14 | $26.73
15819 | T | Plastic surgery, neck | 0025 | 5.89 | $306.33 | $116.41 | $61.27
15820 | T | Revision of lower eyelid | 0027 | 15.73 | $818.10 | $343.60 | $163.62
15821 | T | Revision of lower eyelid | 0027 | 15.73 | $818.10 | $343.60 | $163.62
15822 | T | Revision of upper eyelid | 0027 | 15.73 | $818.10 | $343.60 | $163.62
15823 | T | Revision of upper eyelid | 0027 | 15.73 | $818.10 | $343.60 | $163.62
15824 | T | Removal of forehead wrinkles | 0027 | 15.73 | $818.10 | $343.60 | $163.62
15825 | T | Removal of neck wrinkles | 0027 | 15.73 | $818.10 | $343.60 | $163.62
15826 | T | Removal of brow wrinkles | 0027 | 15.73 | $818.10 | $343.60 | $163.62
15828 | T | Removal of face wrinkles | 0027 | 15.73 | $818.10 | $343.60 | $163.62
15829 | T | Removal of skin wrinkles | 0027 | 15.73 | $818.10 | $343.60 | $163.62
15831 | T | Excise excessive skin tissue | 0022 | 18.10 | $941.36 | $367.13 | $188.27
15832 | T | Excise excessive skin tissue | 0022 | 18.10 | $941.36 | $367.13 | $188.27
15833 | T | Excise excessive skin tissue | 0022 | 18.10 | $941.36 | $367.13 | $188.27
15834 | T | Excise excessive skin tissue | 0022 | 18.10 | $941.36 | $367.13 | $188.27
15835 | T | Excise excessive skin tissue | 0025 | 5.89 | $306.33 | $116.41 | $61.27
15836 | T | Excise excessive skin tissue | 0020 | 7.36 | $382.79 | $114.84 | $76.56
15837 | T | Excise excessive skin tissue | 0020 | 7.36 | $382.79 | $114.84 | $76.56
15838 | T | Excise excessive skin tissue | 0020 | 7.36 | $382.79 | $114.84 | $76.56
15839 | T | Excise excessive skin tissue | 0020 | 7.36 | $382.79 | $114.84 | $76.56
15840 | T | Graft for face nerve palsy | 0027 | 15.73 | $818.10 | $343.60 | $163.62
15841 | T | Graft for face nerve palsy | 0027 | 15.73 | $818.10 | $343.60 | $163.62
15842 | T | Flap for face nerve palsy | 0027 | 15.73 | $818.10 | $343.60 | $163.62
15845 | T | Skin and muscle repair, face | 0027 | 15.73 | $818.10 | $343.60 | $163.62
15850 | T | Removal of sutures | 0016 | 2.57 | $133.66 | $56.14 | $26.73
15851 | T | Removal of sutures | 0013 | 1.10 | $57.21 | $14.30 | $11.44
15852 | X | Dressing change,not for burn | 0340 | 0.66 | $34.33 |  | $6.87
15860 | S | Test for blood flow in graft | 0706 |  | $25.00 |  | $5.00
15876 | T | Suction assisted lipectomy | 0027 | 15.73 | $818.10 | $343.60 | $163.62
15877 | T | Suction assisted lipectomy | 0027 | 15.73 | $818.10 | $343.60 | $163.62
15878 | T | Suction assisted lipectomy | 0027 | 15.73 | $818.10 | $343.60 | $163.62
15879 | T | Suction assisted lipectomy | 0027 | 15.73 | $818.10 | $343.60 | $163.62
15920 | T | Removal of tail bone ulcer | 0022 | 18.10 | $941.36 | $367.13 | $188.27
15922 | T | Removal of tail bone ulcer | 0027 | 15.73 | $818.10 | $343.60 | $163.62
15931 | T | Remove sacrum pressure sore | 0022 | 18.10 | $941.36 | $367.13 | $188.27
15933 | T | Remove sacrum pressure sore | 0022 | 18.10 | $941.36 | $367.13 | $188.27
15934 | T | Remove sacrum pressure sore | 0027 | 15.73 | $818.10 | $343.60 | $163.62
15935 | T | Remove sacrum pressure sore | 0027 | 15.73 | $818.10 | $343.60 | $163.62
15936 | T | Remove sacrum pressure sore | 0027 | 15.73 | $818.10 | $343.60 | $163.62
15937 | T | Remove sacrum pressure sore | 0027 | 15.73 | $818.10 | $343.60 | $163.62
15940 | T | Remove hip pressure sore | 0022 | 18.10 | $941.36 | $367.13 | $188.27
15941 | T | Remove hip pressure sore | 0022 | 18.10 | $941.36 | $367.13 | $188.27
15944 | T | Remove hip pressure sore | 0027 | 15.73 | $818.10 | $343.60 | $163.62
15945 | T | Remove hip pressure sore | 0027 | 15.73 | $818.10 | $343.60 | $163.62
15946 | T | Remove hip pressure sore | 0027 | 15.73 | $818.10 | $343.60 | $163.62
15950 | T | Remove thigh pressure sore | 0022 | 18.10 | $941.36 | $367.13 | $188.27
15951 | T | Remove thigh pressure sore | 0022 | 18.10 | $941.36 | $367.13 | $188.27
15952 | T | Remove thigh pressure sore | 0027 | 15.73 | $818.10 | $343.60 | $163.62
15953 | T | Remove thigh pressure sore | 0027 | 15.73 | $818.10 | $343.60 | $163.62
15956 | T | Remove thigh pressure sore | 0027 | 15.73 | $818.10 | $343.60 | $163.62
15958 | T | Remove thigh pressure sore | 0027 | 15.73 | $818.10 | $343.60 | $163.62
15999 | T | Removal of pressure sore | 0022 | 18.10 | $941.36 | $367.13 | $188.27
16000 | T | Initial treatment of burn(s) | 0013 | 1.10 | $57.21 | $14.30 | $11.44
16010 | T | Treatment of burn(s) | 0016 | 2.57 | $133.66 | $56.14 | $26.73
16015 | T | Treatment of burn(s) | 0017 | 16.46 | $856.07 | $227.84 | $171.21
16020 | T | Treatment of burn(s) | 0013 | 1.10 | $57.21 | $14.30 | $11.44
16025 | T | Treatment of burn(s) | 0013 | 1.10 | $57.21 | $14.30 | $11.44
16030 | T | Treatment of burn(s) | 0015 | 1.43 | $74.37 | $18.59 | $14.87
16035 | C | Incision of burn scab, initi |  |  |  |  |
16036 | C | Incise burn scab, addl incis |  |  |  |  |
17000 | T | Detroy benign/premal lesion | 0010 | 0.70 | $36.41 | $10.56 | $7.28
17003 | T | Destroy lesions, 2-14 | 0010 | 0.70 | $36.41 | $10.56 | $7.28
17004 | T | Destroy lesions, 15 or more | 0011 | 1.93 | $100.38 | $27.88 | $20.08
17106 | T | Destruction of skin lesions | 0011 | 1.93 | $100.38 | $27.88 | $20.08
17107 | T | Destruction of skin lesions | 0011 | 1.93 | $100.38 | $27.88 | $20.08
17108 | T | Destruction of skin lesions | 0011 | 1.93 | $100.38 | $27.88 | $20.08
17110 | T | Destruct lesion, 1-14 | 0010 | 0.70 | $36.41 | $10.56 | $7.28
17111 | T | Destruct lesion, 15 or more | 0011 | 1.93 | $100.38 | $27.88 | $20.08
17250 | T | Chemical cautery, tissue | 0013 | 1.10 | $57.21 | $14.30 | $11.44
17260 | T | Destruction of skin lesions | 0015 | 1.43 | $74.37 | $18.59 | $14.87
17261 | T | Destruction of skin lesions | 0015 | 1.43 | $74.37 | $18.59 | $14.87
17262 | T | Destruction of skin lesions | 0015 | 1.43 | $74.37 | $18.59 | $14.87
17263 | T | Destruction of skin lesions | 0015 | 1.43 | $74.37 | $18.59 | $14.87
17264 | T | Destruction of skin lesions | 0015 | 1.43 | $74.37 | $18.59 | $14.87
17266 | T | Destruction of skin lesions | 0016 | 2.57 | $133.66 | $56.14 | $26.73
17270 | T | Destruction of skin lesions | 0015 | 1.43 | $74.37 | $18.59 | $14.87
17271 | T | Destruction of skin lesions | 0012 | 0.76 | $39.53 | $10.67 | $7.91
17272 | T | Destruction of skin lesions | 0015 | 1.43 | $74.37 | $18.59 | $14.87
17273 | T | Destruction of skin lesions | 0015 | 1.43 | $74.37 | $18.59 | $14.87
17274 | T | Destruction of skin lesions | 0016 | 2.57 | $133.66 | $56.14 | $26.73
17276 | T | Destruction of skin lesions | 0016 | 2.57 | $133.66 | $56.14 | $26.73
17280 | T | Destruction of skin lesions | 0015 | 1.43 | $74.37 | $18.59 | $14.87
17281 | T | Destruction of skin lesions | 0015 | 1.43 | $74.37 | $18.59 | $14.87
17282 | T | Destruction of skin lesions | 0015 | 1.43 | $74.37 | $18.59 | $14.87
17283 | T | Destruction of skin lesions | 0015 | 1.43 | $74.37 | $18.59 | $14.87
17284 | T | Destruction of skin lesions | 0016 | 2.57 | $133.66 | $56.14 | $26.73
17286 | T | Destruction of skin lesions | 0015 | 1.43 | $74.37 | $18.59 | $14.87
17304 | T | Chemosurgery of skin lesion | 0694 | 3.90 | $202.84 | $81.14 | $40.57
17305 | T | 2nd stage chemosurgery | 0694 | 3.90 | $202.84 | $81.14 | $40.57
17306 | T | 3rd stage chemosurgery | 0694 | 3.90 | $202.84 | $81.14 | $40.57
17307 | T | Followup skin lesion therapy | 0694 | 3.90 | $202.84 | $81.14 | $40.57
17310 | T | Extensive skin chemosurgery | 0694 | 3.90 | $202.84 | $81.14 | $40.57
17340 | T | Cryotherapy of skin | 0012 | 0.76 | $39.53 | $10.67 | $7.91
17360 | T | Skin peel therapy | 0012 | 0.76 | $39.53 | $10.67 | $7.91
17380 | T | Hair removal by electrolysis | 0012 | 0.76 | $39.53 | $10.67 | $7.91
17999 | T | Skin tissue procedure | 0006 | 1.89 | $98.30 | $25.56 | $19.66
19000 | T | Drainage of breast lesion | 0004 | 1.63 | $84.77 | $22.04 | $16.95
19001 | T | Drain breast lesion add-on | 0004 | 1.63 | $84.77 | $22.04 | $16.95
19020 | T | Incision of breast lesion | 0008 | 16.32 | $848.79 |  | $169.76
19030 | N | Injection for breast x-ray |  |  |  |  |
19100 | T | Bx breast percut w/o image | 0005 | 3.02 | $157.07 | $69.11 | $31.41
19101 | T | Biopsy of breast, open | 0028 | 17.44 | $907.04 | $303.74 | $181.41
19102 | T | Bx breast percut w/image | 0005 | 3.02 | $157.07 | $69.11 | $31.41
19103 | T | Bx breast percut w/device | 0658 | 5.57 | $289.69 |  | $57.94
19110 | T | Nipple exploration | 0028 | 17.44 | $907.04 | $303.74 | $181.41
19112 | T | Excise breast duct fistula | 0028 | 17.44 | $907.04 | $303.74 | $181.41
19120 | T | Removal of breast lesion | 0028 | 17.44 | $907.04 | $303.74 | $181.41
19125 | T | Excision, breast lesion | 0028 | 17.44 | $907.04 | $303.74 | $181.41
19126 | T | Excision, addl breast lesion | 0028 | 17.44 | $907.04 | $303.74 | $181.41
19140 | T | Removal of breast tissue | 0028 | 17.44 | $907.04 | $303.74 | $181.41
19160 | T | Removal of breast tissue | 0028 | 17.44 | $907.04 | $303.74 | $181.41
19162 | T | Remove breast tissue, nodes | 0693 | 39.30 | $2,043.95 | $798.17 | $408.79
19180 | T | Removal of breast | 0029 | 29.89 | $1,554.55 | $632.64 | $310.91
19182 | T | Removal of breast | 0029 | 29.89 | $1,554.55 | $632.64 | $310.91
19200 | C | Removal of breast |  |  |  |  |
19220 | C | Removal of breast |  |  |  |  |
19240 | T | Removal of breast | 0030 | 40.23 | $2,092.32 | $763.55 | $418.46
19260 | T | Removal of chest wall lesion | 0021 | 14.58 | $758.29 | $227.49 | $151.66
19271 | C | Revision of chest wall |  |  |  |  |
19272 | C | Extensive chest wall surgery |  |  |  |  |
19290 | N | Place needle wire, breast |  |  |  |  |
19291 | N | Place needle wire, breast |  |  |  |  |
19295 | S | Place breast clip, percut | 0657 | 1.38 | $71.77 |  | $14.35
19316 | T | Suspension of breast | 0029 | 29.89 | $1,554.55 | $632.64 | $310.91
19318 | T | Reduction of large breast | 0693 | 39.30 | $2,043.95 | $798.17 | $408.79
19324 | T | Enlarge breast | 0693 | 39.30 | $2,043.95 | $798.17 | $408.79
19325 | T | Enlarge breast with implant | 0693 | 39.30 | $2,043.95 | $798.17 | $408.79
19328 | T | Removal of breast implant | 0029 | 29.89 | $1,554.55 | $632.64 | $310.91
19330 | T | Removal of implant material | 0029 | 29.89 | $1,554.55 | $632.64 | $310.91
19340 | T | Immediate breast prosthesis | 0030 | 40.23 | $2,092.32 | $763.55 | $418.46
19342 | T | Delayed breast prosthesis | 0693 | 39.30 | $2,043.95 | $798.17 | $408.79
19350 | T | Breast reconstruction | 0029 | 29.89 | $1,554.55 | $632.64 | $310.91
19355 | T | Correct inverted nipple(s) | 0029 | 29.89 | $1,554.55 | $632.64 | $310.91
19357 | T | Breast reconstruction | 0693 | 39.30 | $2,043.95 | $798.17 | $408.79
19361 | C | Breast reconstruction |  |  |  |  |
19364 | C | Breast reconstruction |  |  |  |  |
19366 | T | Breast reconstruction | 0029 | 29.89 | $1,554.55 | $632.64 | $310.91
19367 | C | Breast reconstruction |  |  |  |  |
19368 | C | Breast reconstruction |  |  |  |  |
19369 | C | Breast reconstruction |  |  |  |  |
19370 | T | Surgery of breast capsule | 0029 | 29.89 | $1,554.55 | $632.64 | $310.91
19371 | T | Removal of breast capsule | 0029 | 29.89 | $1,554.55 | $632.64 | $310.91
19380 | T | Revise breast reconstruction | 0030 | 40.23 | $2,092.32 | $763.55 | $418.46
19396 | T | Design custom breast implant | 0029 | 29.89 | $1,554.55 | $632.64 | $310.91
19499 | T | Breast surgery procedure | 0028 | 17.44 | $907.04 | $303.74 | $181.41
20000 | T | Incision of abscess | 0006 | 1.89 | $98.30 | $25.56 | $19.66
20005 | T | Incision of deep abscess | 0049 | 19.45 | $1,011.58 |  | $202.32
20100 | T | Explore wound, neck | 0023 | 2.38 | $123.78 | $40.37 | $24.76
20101 | T | Explore wound, chest | 0027 | 15.73 | $818.10 | $343.60 | $163.62
20102 | T | Explore wound, abdomen | 0027 | 15.73 | $818.10 | $343.60 | $163.62
20103 | T | Explore wound, extremity | 0023 | 2.38 | $123.78 | $40.37 | $24.76
20150 | T | Excise epiphyseal bar | 0051 | 34.03 | $1,769.87 |  | $353.97
20200 | T | Muscle biopsy | 0021 | 14.58 | $758.29 | $227.49 | $151.66
20205 | T | Deep muscle biopsy | 0021 | 14.58 | $758.29 | $227.49 | $151.66
20206 | T | Needle biopsy, muscle | 0005 | 3.02 | $157.07 | $69.11 | $31.41
20220 | T | Bone biopsy, trocar/needle | 0019 | 3.94 | $204.92 | $75.82 | $40.98
20225 | T | Bone biopsy, trocar/needle | 0019 | 3.94 | $204.92 | $75.82 | $40.98
20240 | T | Bone biopsy, excisional | 0022 | 18.10 | $941.36 | $367.13 | $188.27
20245 | T | Bone biopsy, excisional | 0022 | 18.10 | $941.36 | $367.13 | $188.27
20250 | T | Open bone biopsy | 0049 | 19.45 | $1,011.58 |  | $202.32
20251 | T | Open bone biopsy | 0049 | 19.45 | $1,011.58 |  | $202.32
20500 | T | Injection of sinus tract | 0251 | 1.92 | $99.86 |  | $19.97
20501 | N | Inject sinus tract for x-ray |  |  |  |  |
20520 | T | Removal of foreign body | 0019 | 3.94 | $204.92 | $75.82 | $40.98
20525 | T | Removal of foreign body | 0022 | 18.10 | $941.36 | $367.13 | $188.27
20526 | T | Ther injection carpal tunnel | 0204 | 2.13 | $110.78 | $42.10 | $22.16
20550 | T | Inject tendon/ligament/cyst | 0204 | 2.13 | $110.78 | $42.10 | $22.16
20551 | T | Inject tendon origin/insert | 0204 | 2.13 | $110.78 | $42.10 | $22.16
20552 | T | Inject trigger point, 1 or 2 | 0204 | 2.13 | $110.78 | $42.10 | $22.16
20553 | T | Inject trigger points, > 3 | 0204 | 2.13 | $110.78 | $42.10 | $22.16
20600 | T | Drain/inject, joint/bursa | 0204 | 2.13 | $110.78 | $42.10 | $22.16
20605 | T | Drain/inject, joint/bursa | 0204 | 2.13 | $110.78 | $42.10 | $22.16
20610 | T | Drain/inject, joint/bursa | 0204 | 2.13 | $110.78 | $42.10 | $22.16
20615 | T | Treatment of bone cyst | 0004 | 1.63 | $84.77 | $22.04 | $16.95
20650 | T | Insert and remove bone pin | 0049 | 19.45 | $1,011.58 |  | $202.32
20660 | C | Apply,remove fixation device |  |  |  |  |
20661 | C | Application of head brace |  |  |  |  |
20662 | C | Application of pelvis brace |  |  |  |  |
20663 | C | Application of thigh brace |  |  |  |  |
20664 | C | Halo brace application |  |  |  |  |
20665 | X | Removal of fixation device | 0340 | 0.66 | $34.33 |  | $6.87
20670 | T | Removal of support implant | 0021 | 14.58 | $758.29 | $227.49 | $151.66
20680 | T | Removal of support implant | 0022 | 18.10 | $941.36 | $367.13 | $188.27
20690 | T | Apply bone fixation device | 0050 | 23.60 | $1,227.41 |  | $245.48
20692 | T | Apply bone fixation device | 0050 | 23.60 | $1,227.41 |  | $245.48
20693 | T | Adjust bone fixation device | 0049 | 19.45 | $1,011.58 |  | $202.32
20694 | T | Remove bone fixation device | 0049 | 19.45 | $1,011.58 |  | $202.32
20802 | C | Replantation, arm, complete |  |  |  |  |
20805 | C | Replant, forearm, complete |  |  |  |  |
20808 | C | Replantation hand, complete |  |  |  |  |
20816 | C | Replantation digit, complete |  |  |  |  |
20822 | C | Replantation digit, complete |  |  |  |  |
20824 | C | Replantation thumb, complete |  |  |  |  |
20827 | C | Replantation thumb, complete |  |  |  |  |
20838 | C | Replantation foot, complete |  |  |  |  |
20900 | T | Removal of bone for graft | 0050 | 23.60 | $1,227.41 |  | $245.48
20902 | T | Removal of bone for graft | 0050 | 23.60 | $1,227.41 |  | $245.48
20910 | T | Remove cartilage for graft | 0027 | 15.73 | $818.10 | $343.60 | $163.62
20912 | T | Remove cartilage for graft | 0027 | 15.73 | $818.10 | $343.60 | $163.62
20920 | T | Removal of fascia for graft | 0027 | 15.73 | $818.10 | $343.60 | $163.62
20922 | T | Removal of fascia for graft | 0027 | 15.73 | $818.10 | $343.60 | $163.62
20924 | T | Removal of tendon for graft | 0050 | 23.60 | $1,227.41 |  | $245.48
20926 | T | Removal of tissue for graft | 0027 | 15.73 | $818.10 | $343.60 | $163.62
20930 | C | Spinal bone allograft |  |  |  |  |
20931 | C | Spinal bone allograft |  |  |  |  |
20936 | C | Spinal bone autograft |  |  |  |  |
20937 | C | Spinal bone autograft |  |  |  |  |
20938 | C | Spinal bone autograft |  |  |  |  |
20950 | T | Fluid pressure, muscle | 0006 | 1.89 | $98.30 | $25.56 | $19.66
20955 | C | Fibula bone graft, microvasc |  |  |  |  |
20956 | C | Iliac bone graft, microvasc |  |  |  |  |
20957 | C | Mt bone graft, microvasc |  |  |  |  |
20962 | C | Other bone graft, microvasc |  |  |  |  |
20969 | C | Bone/skin graft, microvasc |  |  |  |  |
20970 | C | Bone/skin graft, iliac crest |  |  |  |  |
20972 | C | Bone/skin graft, metatarsal |  |  |  |  |
20973 | C | Bone/skin graft, great toe |  |  |  |  |
20974 | A | Electrical bone stimulation |  |  |  |  |
20975 | T | Electrical bone stimulation | 0049 | 19.45 | $1,011.58 |  | $202.32
20979 | A | Us bone stimulation |  |  |  |  |
20999 | T | Musculoskeletal surgery | 0049 | 19.45 | $1,011.58 |  | $202.32
21010 | T | Incision of jaw joint | 0254 | 21.89 | $1,138.48 | $352.93 | $227.70
21015 | T | Resection of facial tumor | 0253 | 14.79 | $769.21 | $284.61 | $153.84
21025 | T | Excision of bone, lower jaw | 0256 | 35.51 | $1,846.84 |  | $369.37
21026 | T | Excision of facial bone(s) | 0256 | 35.51 | $1,846.84 |  | $369.37
21029 | T | Contour of face bone lesion | 0256 | 35.51 | $1,846.84 |  | $369.37
21030 | T | Removal of face bone lesion | 0254 | 21.89 | $1,138.48 | $352.93 | $227.70
21031 | T | Remove exostosis, mandible | 0254 | 21.89 | $1,138.48 | $352.93 | $227.70
21032 | T | Remove exostosis, maxilla | 0254 | 21.89 | $1,138.48 | $352.93 | $227.70
21034 | T | Removal of face bone lesion | 0256 | 35.51 | $1,846.84 |  | $369.37
21040 | T | Removal of jaw bone lesion | 0254 | 21.89 | $1,138.48 | $352.93 | $227.70
21041 | T | Removal of jaw bone lesion | 0256 | 35.51 | $1,846.84 |  | $369.37
21044 | T | Removal of jaw bone lesion | 0256 | 35.51 | $1,846.84 |  | $369.37
21045 | C | Extensive jaw surgery |  |  |  |  |
21050 | T | Removal of jaw joint | 0256 | 35.51 | $1,846.84 |  | $369.37
21060 | T | Remove jaw joint cartilage | 0256 | 35.51 | $1,846.84 |  | $369.37
21070 | T | Remove coronoid process | 0256 | 35.51 | $1,846.84 |  | $369.37
21076 | T | Prepare face/oral prosthesis | 0254 | 21.89 | $1,138.48 | $352.93 | $227.70
21077 | T | Prepare face/oral prosthesis | 0256 | 35.51 | $1,846.84 |  | $369.37
21079 | T | Prepare face/oral prosthesis | 0256 | 35.51 | $1,846.84 |  | $369.37
21080 | T | Prepare face/oral prosthesis | 0256 | 35.51 | $1,846.84 |  | $369.37
21081 | T | Prepare face/oral prosthesis | 0256 | 35.51 | $1,846.84 |  | $369.37
21082 | T | Prepare face/oral prosthesis | 0256 | 35.51 | $1,846.84 |  | $369.37
21083 | T | Prepare face/oral prosthesis | 0256 | 35.51 | $1,846.84 |  | $369.37
21084 | T | Prepare face/oral prosthesis | 0256 | 35.51 | $1,846.84 |  | $369.37
21085 | T | Prepare face/oral prosthesis | 0253 | 14.79 | $769.21 | $284.61 | $153.84
21086 | T | Prepare face/oral prosthesis | 0256 | 35.51 | $1,846.84 |  | $369.37
21087 | T | Prepare face/oral prosthesis | 0256 | 35.51 | $1,846.84 |  | $369.37
21088 | T | Prepare face/oral prosthesis | 0256 | 35.51 | $1,846.84 |  | $369.37
21089 | T | Prepare face/oral prosthesis | 0253 | 14.79 | $769.21 | $284.61 | $153.84
21100 | T | Maxillofacial fixation | 0256 | 35.51 | $1,846.84 |  | $369.37
21110 | T | Interdental fixation | 0252 | 6.27 | $326.10 | $114.24 | $65.22
21116 | N | Injection, jaw joint x-ray |  |  |  |  |
21120 | T | Reconstruction of chin | 0254 | 21.89 | $1,138.48 | $352.93 | $227.70
21121 | T | Reconstruction of chin | 0254 | 21.89 | $1,138.48 | $352.93 | $227.70
21122 | T | Reconstruction of chin | 0254 | 21.89 | $1,138.48 | $352.93 | $227.70
21123 | T | Reconstruction of chin | 0254 | 21.89 | $1,138.48 | $352.93 | $227.70
21125 | T | Augmentation, lower jaw bone | 0254 | 21.89 | $1,138.48 | $352.93 | $227.70
21127 | T | Augmentation, lower jaw bone | 0256 | 35.51 | $1,846.84 |  | $369.37
21137 | T | Reduction of forehead | 0254 | 21.89 | $1,138.48 | $352.93 | $227.70
21138 | T | Reduction of forehead | 0256 | 35.51 | $1,846.84 |  | $369.37
21139 | T | Reduction of forehead | 0256 | 35.51 | $1,846.84 |  | $369.37
21141 | C | Reconstruct midface, lefort |  |  |  |  |
21142 | C | Reconstruct midface, lefort |  |  |  |  |
21143 | C | Reconstruct midface, lefort |  |  |  |  |
21145 | C | Reconstruct midface, lefort |  |  |  |  |
21146 | C | Reconstruct midface, lefort |  |  |  |  |
21147 | C | Reconstruct midface, lefort |  |  |  |  |
21150 | C | Reconstruct midface, lefort |  |  |  |  |
21151 | C | Reconstruct midface, lefort |  |  |  |  |
21154 | C | Reconstruct midface, lefort |  |  |  |  |
21155 | C | Reconstruct midface, lefort |  |  |  |  |
21159 | C | Reconstruct midface, lefort |  |  |  |  |
21160 | C | Reconstruct midface, lefort |  |  |  |  |
21172 | C | Reconstruct orbit/forehead |  |  |  |  |
21175 | C | Reconstruct orbit/forehead |  |  |  |  |
21179 | C | Reconstruct entire forehead |  |  |  |  |
21180 | C | Reconstruct entire forehead |  |  |  |  |
21181 | T | Contour cranial bone lesion | 0254 | 21.89 | $1,138.48 | $352.93 | $227.70
21182 | C | Reconstruct cranial bone |  |  |  |  |
21183 | C | Reconstruct cranial bone |  |  |  |  |
21184 | C | Reconstruct cranial bone |  |  |  |  |
21188 | C | Reconstruction of midface |  |  |  |  |
21193 | C | Reconst lwr jaw w/o graft |  |  |  |  |
21194 | C | Reconst lwr jaw w/graft |  |  |  |  |
21195 | C | Reconst lwr jaw w/o fixation |  |  |  |  |
21196 | C | Reconst lwr jaw w/fixation |  |  |  |  |
21198 | T | Reconstr lwr jaw segment | 0256 | 35.51 | $1,846.84 |  | $369.37
21199 | T | Reconstr lwr jaw w/advance | 0256 | 35.51 | $1,846.84 |  | $369.37
21206 | T | Reconstruct upper jaw bone | 0256 | 35.51 | $1,846.84 |  | $369.37
21208 | T | Augmentation of facial bones | 0256 | 35.51 | $1,846.84 |  | $369.37
21209 | T | Reduction of facial bones | 0256 | 35.51 | $1,846.84 |  | $369.37
21210 | T | Face bone graft | 0256 | 35.51 | $1,846.84 |  | $369.37
21215 | T | Lower jaw bone graft | 0256 | 35.51 | $1,846.84 |  | $369.37
21230 | T | Rib cartilage graft | 0256 | 35.51 | $1,846.84 |  | $369.37
21235 | T | Ear cartilage graft | 0254 | 21.89 | $1,138.48 | $352.93 | $227.70
21240 | T | Reconstruction of jaw joint | 0256 | 35.51 | $1,846.84 |  | $369.37
21242 | T | Reconstruction of jaw joint | 0256 | 35.51 | $1,846.84 |  | $369.37
21243 | T | Reconstruction of jaw joint | 0256 | 35.51 | $1,846.84 |  | $369.37
21244 | T | Reconstruction of lower jaw | 0256 | 35.51 | $1,846.84 |  | $369.37
21245 | T | Reconstruction of jaw | 0256 | 35.51 | $1,846.84 |  | $369.37
21246 | T | Reconstruction of jaw | 0256 | 35.51 | $1,846.84 |  | $369.37
21247 | C | Reconstruct lower jaw bone |  |  |  |  |
21248 | T | Reconstruction of jaw | 0256 | 35.51 | $1,846.84 |  | $369.37
21249 | T | Reconstruction of jaw | 0256 | 35.51 | $1,846.84 |  | $369.37
21255 | C | Reconstruct lower jaw bone |  |  |  |  |
21256 | C | Reconstruction of orbit |  |  |  |  |
21260 | T | Revise eye sockets | 0256 | 35.51 | $1,846.84 |  | $369.37
21261 | T | Revise eye sockets | 0256 | 35.51 | $1,846.84 |  | $369.37
21263 | T | Revise eye sockets | 0256 | 35.51 | $1,846.84 |  | $369.37
21267 | T | Revise eye sockets | 0256 | 35.51 | $1,846.84 |  | $369.37
21268 | C | Revise eye sockets |  |  |  |  |
21270 | T | Augmentation, cheek bone | 0256 | 35.51 | $1,846.84 |  | $369.37
21275 | T | Revision, orbitofacial bones | 0256 | 35.51 | $1,846.84 |  | $369.37
21280 | T | Revision of eyelid | 0256 | 35.51 | $1,846.84 |  | $369.37
21282 | T | Revision of eyelid | 0253 | 14.79 | $769.21 | $284.61 | $153.84
21295 | T | Revision of jaw muscle/bone | 0252 | 6.27 | $326.10 | $114.24 | $65.22
21296 | T | Revision of jaw muscle/bone | 0254 | 21.89 | $1,138.48 | $352.93 | $227.70
21299 | T | Cranio/maxillofacial surgery | 0253 | 14.79 | $769.21 | $284.61 | $153.84
21300 | T | Treatment of skull fracture | 0253 | 14.79 | $769.21 | $284.61 | $153.84
21310 | X | Treatment of nose fracture | 0340 | 0.66 | $34.33 |  | $6.87
21315 | X | Treatment of nose fracture | 0340 | 0.66 | $34.33 |  | $6.87
21320 | X | Treatment of nose fracture | 0340 | 0.66 | $34.33 |  | $6.87
21325 | T | Treatment of nose fracture | 0254 | 21.89 | $1,138.48 | $352.93 | $227.70
21330 | T | Treatment of nose fracture | 0254 | 21.89 | $1,138.48 | $352.93 | $227.70
21335 | T | Treatment of nose fracture | 0254 | 21.89 | $1,138.48 | $352.93 | $227.70
21336 | T | Treat nasal septal fracture | 0046 | 29.03 | $1,509.82 | $535.76 | $301.96
21337 | T | Treat nasal septal fracture | 0253 | 14.79 | $769.21 | $284.61 | $153.84
21338 | T | Treat nasoethmoid fracture | 0254 | 21.89 | $1,138.48 | $352.93 | $227.70
21339 | T | Treat nasoethmoid fracture | 0254 | 21.89 | $1,138.48 | $352.93 | $227.70
21340 | T | Treatment of nose fracture | 0256 | 35.51 | $1,846.84 |  | $369.37
21343 | C | Treatment of sinus fracture |  |  |  |  |
21344 | C | Treatment of sinus fracture |  |  |  |  |
21345 | T | Treat nose/jaw fracture | 0254 | 21.89 | $1,138.48 | $352.93 | $227.70
21346 | C | Treat nose/jaw fracture |  |  |  |  |
21347 | C | Treat nose/jaw fracture |  |  |  |  |
21348 | C | Treat nose/jaw fracture |  |  |  |  |
21355 | T | Treat cheek bone fracture | 0256 | 35.51 | $1,846.84 |  | $369.37
21356 | C | Treat cheek bone fracture |  |  |  |  |
21360 | C | Treat cheek bone fracture |  |  |  |  |
21365 | C | Treat cheek bone fracture |  |  |  |  |
21366 | C | Treat cheek bone fracture |  |  |  |  |
21385 | C | Treat eye socket fracture |  |  |  |  |
21386 | C | Treat eye socket fracture |  |  |  |  |
21387 | C | Treat eye socket fracture |  |  |  |  |
21390 | T | Treat eye socket fracture | 0256 | 35.51 | $1,846.84 |  | $369.37
21395 | C | Treat eye socket fracture |  |  |  |  |
21400 | T | Treat eye socket fracture | 0252 | 6.27 | $326.10 | $114.24 | $65.22
21401 | T | Treat eye socket fracture | 0253 | 14.79 | $769.21 | $284.61 | $153.84
21406 | T | Treat eye socket fracture | 0256 | 35.51 | $1,846.84 |  | $369.37
21407 | T | Treat eye socket fracture | 0256 | 35.51 | $1,846.84 |  | $369.37
21408 | C | Treat eye socket fracture |  |  |  |  |
21421 | T | Treat mouth roof fracture | 0254 | 21.89 | $1,138.48 | $352.93 | $227.70
21422 | C | Treat mouth roof fracture |  |  |  |  |
21423 | C | Treat mouth roof fracture |  |  |  |  |
21431 | C | Treat craniofacial fracture |  |  |  |  |
21432 | C | Treat craniofacial fracture |  |  |  |  |
21433 | C | Treat craniofacial fracture |  |  |  |  |
21435 | C | Treat craniofacial fracture |  |  |  |  |
21436 | C | Treat craniofacial fracture |  |  |  |  |
21440 | T | Treat dental ridge fracture | 0254 | 21.89 | $1,138.48 | $352.93 | $227.70
21445 | T | Treat dental ridge fracture | 0254 | 21.89 | $1,138.48 | $352.93 | $227.70
21450 | T | Treat lower jaw fracture | 0251 | 1.92 | $99.86 |  | $19.97
21451 | T | Treat lower jaw fracture | 0252 | 6.27 | $326.10 | $114.24 | $65.22
21452 | T | Treat lower jaw fracture | 0253 | 14.79 | $769.21 | $284.61 | $153.84
21453 | T | Treat lower jaw fracture | 0256 | 35.51 | $1,846.84 |  | $369.37
21454 | T | Treat lower jaw fracture | 0254 | 21.89 | $1,138.48 | $352.93 | $227.70
21461 | T | Treat lower jaw fracture | 0256 | 35.51 | $1,846.84 |  | $369.37
21462 | T | Treat lower jaw fracture | 0256 | 35.51 | $1,846.84 |  | $369.37
21465 | T | Treat lower jaw fracture | 0256 | 35.51 | $1,846.84 |  | $369.37
21470 | T | Treat lower jaw fracture | 0256 | 35.51 | $1,846.84 |  | $369.37
21480 | T | Reset dislocated jaw | 0251 | 1.92 | $99.86 |  | $19.97
21485 | T | Reset dislocated jaw | 0253 | 14.79 | $769.21 | $284.61 | $153.84
21490 | T | Repair dislocated jaw | 0256 | 35.51 | $1,846.84 |  | $369.37
21493 | T | Treat hyoid bone fracture | 0252 | 6.27 | $326.10 | $114.24 | $65.22
21494 | T | Treat hyoid bone fracture | 0252 | 6.27 | $326.10 | $114.24 | $65.22
21495 | C | Treat hyoid bone fracture |  |  |  |  |
21497 | T | Interdental wiring | 0253 | 14.79 | $769.21 | $284.61 | $153.84
21499 | T | Head surgery procedure | 0253 | 14.79 | $769.21 | $284.61 | $153.84
21501 | T | Drain neck/chest lesion | 0008 | 16.32 | $848.79 |  | $169.76
21502 | T | Drain chest lesion | 0049 | 19.45 | $1,011.58 |  | $202.32
21510 | C | Drainage of bone lesion |  |  |  |  |
21550 | T | Biopsy of neck/chest | 0021 | 14.58 | $758.29 | $227.49 | $151.66
21555 | T | Remove lesion, neck/chest | 0022 | 18.10 | $941.36 | $367.13 | $188.27
21556 | T | Remove lesion, neck/chest | 0022 | 18.10 | $941.36 | $367.13 | $188.27
21557 | C | Remove tumor, neck/chest |  |  |  |  |
21600 | T | Partial removal of rib | 0050 | 23.60 | $1,227.41 |  | $245.48
21610 | T | Partial removal of rib | 0050 | 23.60 | $1,227.41 |  | $245.48
21615 | C | Removal of rib |  |  |  |  |
21616 | C | Removal of rib and nerves |  |  |  |  |
21620 | C | Partial removal of sternum |  |  |  |  |
21627 | C | Sternal debridement |  |  |  |  |
21630 | C | Extensive sternum surgery |  |  |  |  |
21632 | C | Extensive sternum surgery |  |  |  |  |
21700 | T | Revision of neck muscle | 0049 | 19.45 | $1,011.58 |  | $202.32
21705 | C | Revision of neck muscle/rib |  |  |  |  |
21720 | T | Revision of neck muscle | 0049 | 19.45 | $1,011.58 |  | $202.32
21725 | T | Revision of neck muscle | 0006 | 1.89 | $98.30 | $25.56 | $19.66
21740 | C | Reconstruction of sternum |  |  |  |  |
21750 | C | Repair of sternum separation |  |  |  |  |
21800 | T | Treatment of rib fracture | 0043 | 1.68 | $87.38 |  | $17.48
21805 | T | Treatment of rib fracture | 0046 | 29.03 | $1,509.82 | $535.76 | $301.96
21810 | C | Treatment of rib fracture(s) |  |  |  |  |
21820 | T | Treat sternum fracture | 0043 | 1.68 | $87.38 |  | $17.48
21825 | C | Treat sternum fracture |  |  |  |  |
21899 | T | Neck/chest surgery procedure | 0252 | 6.27 | $326.10 | $114.24 | $65.22
21920 | T | Biopsy soft tissue of back | 0020 | 7.36 | $382.79 | $114.84 | $76.56
21925 | T | Biopsy soft tissue of back | 0022 | 18.10 | $941.36 | $367.13 | $188.27
21930 | T | Remove lesion, back or flank | 0022 | 18.10 | $941.36 | $367.13 | $188.27
21935 | T | Remove tumor, back | 0022 | 18.10 | $941.36 | $367.13 | $188.27
22100 | T | Remove part of neck vertebra | 0208 | 39.95 | $2,077.76 |  | $415.55
22101 | T | Remove part, thorax vertebra | 0208 | 39.95 | $2,077.76 |  | $415.55
22102 | T | Remove part, lumbar vertebra | 0208 | 39.95 | $2,077.76 |  | $415.55
22103 | T | Remove extra spine segment | 0208 | 39.95 | $2,077.76 |  | $415.55
22110 | C | Remove part of neck vertebra |  |  |  |  |
22112 | C | Remove part, thorax vertebra |  |  |  |  |
22114 | C | Remove part, lumbar vertebra |  |  |  |  |
22116 | C | Remove extra spine segment |  |  |  |  |
22210 | C | Revision of neck spine |  |  |  |  |
22212 | C | Revision of thorax spine |  |  |  |  |
22214 | C | Revision of lumbar spine |  |  |  |  |
22216 | C | Revise, extra spine segment |  |  |  |  |
22220 | C | Revision of neck spine |  |  |  |  |
22222 | C | Revision of thorax spine |  |  |  |  |
22224 | C | Revision of lumbar spine |  |  |  |  |
22226 | C | Revise, extra spine segment |  |  |  |  |
22305 | T | Treat spine process fracture | 0043 | 1.68 | $87.38 |  | $17.48
22310 | T | Treat spine fracture | 0043 | 1.68 | $87.38 |  | $17.48
22315 | T | Treat spine fracture | 0043 | 1.68 | $87.38 |  | $17.48
22318 | C | Treat odontoid fx w/o graft |  |  |  |  |
22319 | C | Treat odontoid fx w/graft |  |  |  |  |
22325 | C | Treat spine fracture |  |  |  |  |
22326 | C | Treat neck spine fracture |  |  |  |  |
22327 | C | Treat thorax spine fracture |  |  |  |  |
22328 | C | Treat each add spine fx |  |  |  |  |
22505 | T | Manipulation of spine | 0045 | 13.47 | $700.56 | $280.22 | $140.11
22520 | T | Percut vertebroplasty thor | 0050 | 23.60 | $1,227.41 |  | $245.48
22521 | T | Percut vertebroplasty lumb | 0050 | 23.60 | $1,227.41 |  | $245.48
22522 | T | Percut vertebroplasty addl | 0050 | 23.60 | $1,227.41 |  | $245.48
22548 | C | Neck spine fusion |  |  |  |  |
22554 | C | Neck spine fusion |  |  |  |  |
22556 | C | Thorax spine fusion |  |  |  |  |
22558 | C | Lumbar spine fusion |  |  |  |  |
22585 | C | Additional spinal fusion |  |  |  |  |
22590 | C | Spine & skull spinal fusion |  |  |  |  |
22595 | C | Neck spinal fusion |  |  |  |  |
22600 | C | Neck spine fusion |  |  |  |  |
22610 | C | Thorax spine fusion |  |  |  |  |
22612 | C | Lumbar spine fusion |  |  |  |  |
22614 | C | Spine fusion, extra segment |  |  |  |  |
22630 | C | Lumbar spine fusion |  |  |  |  |
22632 | C | Spine fusion, extra segment |  |  |  |  |
22800 | C | Fusion of spine |  |  |  |  |
22802 | C | Fusion of spine |  |  |  |  |
22804 | C | Fusion of spine |  |  |  |  |
22808 | C | Fusion of spine |  |  |  |  |
22810 | C | Fusion of spine |  |  |  |  |
22812 | C | Fusion of spine |  |  |  |  |
22818 | C | Kyphectomy, 1-2 segments |  |  |  |  |
22819 | C | Kyphectomy, 3 or more |  |  |  |  |
22830 | C | Exploration of spinal fusion |  |  |  |  |
22840 | C | Insert spine fixation device |  |  |  |  |
22841 | C | Insert spine fixation device |  |  |  |  |
22842 | C | Insert spine fixation device |  |  |  |  |
22843 | C | Insert spine fixation device |  |  |  |  |
22844 | C | Insert spine fixation device |  |  |  |  |
22845 | C | Insert spine fixation device |  |  |  |  |
22846 | C | Insert spine fixation device |  |  |  |  |
22847 | C | Insert spine fixation device |  |  |  |  |
22848 | C | Insert pelv fixation device |  |  |  |  |
22849 | C | Reinsert spinal fixation |  |  |  |  |
22850 | C | Remove spine fixation device |  |  |  |  |
22851 | C | Apply spine prosth device |  |  |  |  |
22852 | C | Remove spine fixation device |  |  |  |  |
22855 | C | Remove spine fixation device |  |  |  |  |
22899 | T | Spine surgery procedure | 0043 | 1.68 | $87.38 |  | $17.48
22900 | T | Remove abdominal wall lesion | 0022 | 18.10 | $941.36 | $367.13 | $188.27
22999 | T | Abdomen surgery procedure | 0022 | 18.10 | $941.36 | $367.13 | $188.27
23000 | T | Removal of calcium deposits | 0021 | 14.58 | $758.29 | $227.49 | $151.66
23020 | T | Release shoulder joint | 0051 | 34.03 | $1,769.87 |  | $353.97
23030 | T | Drain shoulder lesion | 0008 | 16.32 | $848.79 |  | $169.76
23031 | T | Drain shoulder bursa | 0008 | 16.32 | $848.79 |  | $169.76
23035 | T | Drain shoulder bone lesion | 0049 | 19.45 | $1,011.58 |  | $202.32
23040 | T | Exploratory shoulder surgery | 0050 | 23.60 | $1,227.41 |  | $245.48
23044 | T | Exploratory shoulder surgery | 0050 | 23.60 | $1,227.41 |  | $245.48
23065 | T | Biopsy shoulder tissues | 0021 | 14.58 | $758.29 | $227.49 | $151.66
23066 | T | Biopsy shoulder tissues | 0022 | 18.10 | $941.36 | $367.13 | $188.27
23075 | T | Removal of shoulder lesion | 0021 | 14.58 | $758.29 | $227.49 | $151.66
23076 | T | Removal of shoulder lesion | 0022 | 18.10 | $941.36 | $367.13 | $188.27
23077 | T | Remove tumor of shoulder | 0022 | 18.10 | $941.36 | $367.13 | $188.27
23100 | T | Biopsy of shoulder joint | 0049 | 19.45 | $1,011.58 |  | $202.32
23101 | T | Shoulder joint surgery | 0050 | 23.60 | $1,227.41 |  | $245.48
23105 | T | Remove shoulder joint lining | 0050 | 23.60 | $1,227.41 |  | $245.48
23106 | T | Incision of collarbone joint | 0050 | 23.60 | $1,227.41 |  | $245.48
23107 | T | Explore treat shoulder joint | 0050 | 23.60 | $1,227.41 |  | $245.48
23120 | T | Partial removal, collar bone | 0051 | 34.03 | $1,769.87 |  | $353.97
23125 | T | Removal of collar bone | 0051 | 34.03 | $1,769.87 |  | $353.97
23130 | T | Remove shoulder bone, part | 0051 | 34.03 | $1,769.87 |  | $353.97
23140 | T | Removal of bone lesion | 0049 | 19.45 | $1,011.58 |  | $202.32
23145 | T | Removal of bone lesion | 0050 | 23.60 | $1,227.41 |  | $245.48
23146 | T | Removal of bone lesion | 0050 | 23.60 | $1,227.41 |  | $245.48
23150 | T | Removal of humerus lesion | 0050 | 23.60 | $1,227.41 |  | $245.48
23155 | T | Removal of humerus lesion | 0050 | 23.60 | $1,227.41 |  | $245.48
23156 | T | Removal of humerus lesion | 0050 | 23.60 | $1,227.41 |  | $245.48
23170 | T | Remove collar bone lesion | 0050 | 23.60 | $1,227.41 |  | $245.48
23172 | T | Remove shoulder blade lesion | 0050 | 23.60 | $1,227.41 |  | $245.48
23174 | T | Remove humerus lesion | 0050 | 23.60 | $1,227.41 |  | $245.48
23180 | T | Remove collar bone lesion | 0050 | 23.60 | $1,227.41 |  | $245.48
23182 | T | Remove shoulder blade lesion | 0050 | 23.60 | $1,227.41 |  | $245.48
23184 | T | Remove humerus lesion | 0050 | 23.60 | $1,227.41 |  | $245.48
23190 | T | Partial removal of scapula | 0050 | 23.60 | $1,227.41 |  | $245.48
23195 | T | Removal of head of humerus | 0050 | 23.60 | $1,227.41 |  | $245.48
23200 | C | Removal of collar bone |  |  |  |  |
23210 | C | Removal of shoulder blade |  |  |  |  |
23220 | C | Partial removal of humerus |  |  |  |  |
23221 | C | Partial removal of humerus |  |  |  |  |
23222 | C | Partial removal of humerus |  |  |  |  |
23330 | T | Remove shoulder foreign body | 0020 | 7.36 | $382.79 | $114.84 | $76.56
23331 | T | Remove shoulder foreign body | 0022 | 18.10 | $941.36 | $367.13 | $188.27
23332 | C | Remove shoulder foreign body |  |  |  |  |
23350 | N | Injection for shoulder x-ray |  |  |  |  |
23395 | T | Muscle transfer,shoulder/arm | 0051 | 34.03 | $1,769.87 |  | $353.97
23397 | T | Muscle transfers | 0052 | 42.37 | $2,203.62 |  | $440.72
23400 | T | Fixation of shoulder blade | 0050 | 23.60 | $1,227.41 |  | $245.48
23405 | T | Incision of tendon & muscle | 0050 | 23.60 | $1,227.41 |  | $245.48
23406 | T | Incise tendon(s) & muscle(s) | 0050 | 23.60 | $1,227.41 |  | $245.48
23410 | T | Repair of tendon(s) | 0052 | 42.37 | $2,203.62 |  | $440.72
23412 | T | Repair of tendon(s) | 0052 | 42.37 | $2,203.62 |  | $440.72
23415 | T | Release of shoulder ligament | 0051 | 34.03 | $1,769.87 |  | $353.97
23420 | T | Repair of shoulder | 0052 | 42.37 | $2,203.62 |  | $440.72
23430 | T | Repair biceps tendon | 0052 | 42.37 | $2,203.62 |  | $440.72
23440 | T | Remove/transplant tendon | 0052 | 42.37 | $2,203.62 |  | $440.72
23450 | T | Repair shoulder capsule | 0052 | 42.37 | $2,203.62 |  | $440.72
23455 | T | Repair shoulder capsule | 0052 | 42.37 | $2,203.62 |  | $440.72
23460 | T | Repair shoulder capsule | 0052 | 42.37 | $2,203.62 |  | $440.72
23462 | T | Repair shoulder capsule | 0052 | 42.37 | $2,203.62 |  | $440.72
23465 | T | Repair shoulder capsule | 0052 | 42.37 | $2,203.62 |  | $440.72
23466 | T | Repair shoulder capsule | 0052 | 42.37 | $2,203.62 |  | $440.72
23470 | T | Reconstruct shoulder joint | 0048 | 36.93 | $1,920.69 | $633.83 | $384.14
23472 | C | Reconstruct shoulder joint |  |  |  |  |
23480 | T | Revision of collar bone | 0051 | 34.03 | $1,769.87 |  | $353.97
23485 | T | Revision of collar bone | 0051 | 34.03 | $1,769.87 |  | $353.97
23490 | T | Reinforce clavicle | 0051 | 34.03 | $1,769.87 |  | $353.97
23491 | T | Reinforce shoulder bones | 0051 | 34.03 | $1,769.87 |  | $353.97
23500 | T | Treat clavicle fracture | 0043 | 1.68 | $87.38 |  | $17.48
23505 | T | Treat clavicle fracture | 0043 | 1.68 | $87.38 |  | $17.48
23515 | T | Treat clavicle fracture | 0046 | 29.03 | $1,509.82 | $535.76 | $301.96
23520 | T | Treat clavicle dislocation | 0043 | 1.68 | $87.38 |  | $17.48
23525 | T | Treat clavicle dislocation | 0043 | 1.68 | $87.38 |  | $17.48
23530 | T | Treat clavicle dislocation | 0046 | 29.03 | $1,509.82 | $535.76 | $301.96
23532 | T | Treat clavicle dislocation | 0046 | 29.03 | $1,509.82 | $535.76 | $301.96
23540 | T | Treat clavicle dislocation | 0043 | 1.68 | $87.38 |  | $17.48
23545 | T | Treat clavicle dislocation | 0043 | 1.68 | $87.38 |  | $17.48
23550 | T | Treat clavicle dislocation | 0046 | 29.03 | $1,509.82 | $535.76 | $301.96
23552 | T | Treat clavicle dislocation | 0046 | 29.03 | $1,509.82 | $535.76 | $301.96
23570 | T | Treat shoulder blade fx | 0043 | 1.68 | $87.38 |  | $17.48
23575 | T | Treat shoulder blade fx | 0043 | 1.68 | $87.38 |  | $17.48
23585 | T | Treat scapula fracture | 0046 | 29.03 | $1,509.82 | $535.76 | $301.96
23600 | T | Treat humerus fracture | 0043 | 1.68 | $87.38 |  | $17.48
23605 | T | Treat humerus fracture | 0043 | 1.68 | $87.38 |  | $17.48
23615 | T | Treat humerus fracture | 0046 | 29.03 | $1,509.82 | $535.76 | $301.96
23616 | T | Treat humerus fracture | 0046 | 29.03 | $1,509.82 | $535.76 | $301.96
23620 | T | Treat humerus fracture | 0043 | 1.68 | $87.38 |  | $17.48
23625 | T | Treat humerus fracture | 0043 | 1.68 | $87.38 |  | $17.48
23630 | T | Treat humerus fracture | 0046 | 29.03 | $1,509.82 | $535.76 | $301.96
23650 | T | Treat shoulder dislocation | 0043 | 1.68 | $87.38 |  | $17.48
23655 | T | Treat shoulder dislocation | 0045 | 13.47 | $700.56 | $280.22 | $140.11
23660 | T | Treat shoulder dislocation | 0046 | 29.03 | $1,509.82 | $535.76 | $301.96
23665 | T | Treat dislocation/fracture | 0043 | 1.68 | $87.38 |  | $17.48
23670 | T | Treat dislocation/fracture | 0046 | 29.03 | $1,509.82 | $535.76 | $301.96
23675 | T | Treat dislocation/fracture | 0043 | 1.68 | $87.38 |  | $17.48
23680 | T | Treat dislocation/fracture | 0046 | 29.03 | $1,509.82 | $535.76 | $301.96
23700 | T | Fixation of shoulder | 0045 | 13.47 | $700.56 | $280.22 | $140.11
23800 | T | Fusion of shoulder joint | 0051 | 34.03 | $1,769.87 |  | $353.97
23802 | T | Fusion of shoulder joint | 0051 | 34.03 | $1,769.87 |  | $353.97
23900 | C | Amputation of arm & girdle |  |  |  |  |
23920 | C | Amputation at shoulder joint |  |  |  |  |
23921 | T | Amputation follow-up surgery | 0025 | 5.89 | $306.33 | $116.41 | $61.27
23929 | T | Shoulder surgery procedure | 0043 | 1.68 | $87.38 |  | $17.48
23930 | T | Drainage of arm lesion | 0008 | 16.32 | $848.79 |  | $169.76
23931 | T | Drainage of arm bursa | 0006 | 1.89 | $98.30 | $25.56 | $19.66
23935 | T | Drain arm/elbow bone lesion | 0049 | 19.45 | $1,011.58 |  | $202.32
24000 | T | Exploratory elbow surgery | 0050 | 23.60 | $1,227.41 |  | $245.48
24006 | T | Release elbow joint | 0050 | 23.60 | $1,227.41 |  | $245.48
24065 | T | Biopsy arm/elbow soft tissue | 0021 | 14.58 | $758.29 | $227.49 | $151.66
24066 | T | Biopsy arm/elbow soft tissue | 0021 | 14.58 | $758.29 | $227.49 | $151.66
24075 | T | Remove arm/elbow lesion | 0021 | 14.58 | $758.29 | $227.49 | $151.66
24076 | T | Remove arm/elbow lesion | 0022 | 18.10 | $941.36 | $367.13 | $188.27
24077 | T | Remove tumor of arm/elbow | 0022 | 18.10 | $941.36 | $367.13 | $188.27
24100 | T | Biopsy elbow joint lining | 0049 | 19.45 | $1,011.58 |  | $202.32
24101 | T | Explore/treat elbow joint | 0050 | 23.60 | $1,227.41 |  | $245.48
24102 | T | Remove elbow joint lining | 0050 | 23.60 | $1,227.41 |  | $245.48
24105 | T | Removal of elbow bursa | 0049 | 19.45 | $1,011.58 |  | $202.32
24110 | T | Remove humerus lesion | 0049 | 19.45 | $1,011.58 |  | $202.32
24115 | T | Remove/graft bone lesion | 0050 | 23.60 | $1,227.41 |  | $245.48
24116 | T | Remove/graft bone lesion | 0050 | 23.60 | $1,227.41 |  | $245.48
24120 | T | Remove elbow lesion | 0049 | 19.45 | $1,011.58 |  | $202.32
24125 | T | Remove/graft bone lesion | 0050 | 23.60 | $1,227.41 |  | $245.48
24126 | T | Remove/graft bone lesion | 0050 | 23.60 | $1,227.41 |  | $245.48
24130 | T | Removal of head of radius | 0050 | 23.60 | $1,227.41 |  | $245.48
24134 | T | Removal of arm bone lesion | 0050 | 23.60 | $1,227.41 |  | $245.48
24136 | T | Remove radius bone lesion | 0050 | 23.60 | $1,227.41 |  | $245.48
24138 | T | Remove elbow bone lesion | 0050 | 23.60 | $1,227.41 |  | $245.48
24140 | T | Partial removal of arm bone | 0050 | 23.60 | $1,227.41 |  | $245.48
24145 | T | Partial removal of radius | 0050 | 23.60 | $1,227.41 |  | $245.48
24147 | T | Partial removal of elbow | 0050 | 23.60 | $1,227.41 |  | $245.48
24149 | C | Radical resection of elbow |  |  |  |  |
24150 | T | Extensive humerus surgery | 0052 | 42.37 | $2,203.62 |  | $440.72
24151 | T | Extensive humerus surgery | 0052 | 42.37 | $2,203.62 |  | $440.72
24152 | T | Extensive radius surgery | 0052 | 42.37 | $2,203.62 |  | $440.72
24153 | T | Extensive radius surgery | 0052 | 42.37 | $2,203.62 |  | $440.72
24155 | T | Removal of elbow joint | 0051 | 34.03 | $1,769.87 |  | $353.97
24160 | T | Remove elbow joint implant | 0050 | 23.60 | $1,227.41 |  | $245.48
24164 | T | Remove radius head implant | 0050 | 23.60 | $1,227.41 |  | $245.48
24200 | T | Removal of arm foreign body | 0019 | 3.94 | $204.92 | $75.82 | $40.98
24201 | T | Removal of arm foreign body | 0021 | 14.58 | $758.29 | $227.49 | $151.66
24220 | N | Injection for elbow x-ray |  |  |  |  |
24300 | T | Manipulate elbow w/anesth | 0045 | 13.47 | $700.56 | $280.22 | $140.11
24301 | T | Muscle/tendon transfer | 0050 | 23.60 | $1,227.41 |  | $245.48
24305 | T | Arm tendon lengthening | 0050 | 23.60 | $1,227.41 |  | $245.48
24310 | T | Revision of arm tendon | 0049 | 19.45 | $1,011.58 |  | $202.32
24320 | T | Repair of arm tendon | 0051 | 34.03 | $1,769.87 |  | $353.97
24330 | T | Revision of arm muscles | 0051 | 34.03 | $1,769.87 |  | $353.97
24331 | T | Revision of arm muscles | 0051 | 34.03 | $1,769.87 |  | $353.97
24332 | T | Tenolysis, triceps | 0049 | 19.45 | $1,011.58 |  | $202.32
24340 | T | Repair of biceps tendon | 0051 | 34.03 | $1,769.87 |  | $353.97
24341 | T | Repair arm tendon/muscle | 0051 | 34.03 | $1,769.87 |  | $353.97
24342 | T | Repair of ruptured tendon | 0051 | 34.03 | $1,769.87 |  | $353.97
24343 | T | Repr elbow lat ligmnt w/tiss | 0050 | 23.60 | $1,227.41 |  | $245.48
24344 | T | Reconstruct elbow lat ligmnt | 0051 | 34.03 | $1,769.87 |  | $353.97
24345 | T | Repr elbw med ligmnt w/tiss | 0050 | 23.60 | $1,227.41 |  | $245.48
24346 | T | Reconstruct elbow med ligmnt | 0051 | 34.03 | $1,769.87 |  | $353.97
24350 | T | Repair of tennis elbow | 0050 | 23.60 | $1,227.41 |  | $245.48
24351 | T | Repair of tennis elbow | 0050 | 23.60 | $1,227.41 |  | $245.48
24352 | T | Repair of tennis elbow | 0050 | 23.60 | $1,227.41 |  | $245.48
24354 | T | Repair of tennis elbow | 0050 | 23.60 | $1,227.41 |  | $245.48
24356 | T | Revision of tennis elbow | 0050 | 23.60 | $1,227.41 |  | $245.48
24360 | T | Reconstruct elbow joint | 0047 | 29.59 | $1,538.95 | $537.03 | $307.79
24361 | T | Reconstruct elbow joint | 0048 | 36.93 | $1,920.69 | $633.83 | $384.14
24362 | T | Reconstruct elbow joint | 0048 | 36.93 | $1,920.69 | $633.83 | $384.14
24363 | T | Replace elbow joint | 0048 | 36.93 | $1,920.69 | $633.83 | $384.14
24365 | T | Reconstruct head of radius | 0047 | 29.59 | $1,538.95 | $537.03 | $307.79
24366 | T | Reconstruct head of radius | 0048 | 36.93 | $1,920.69 | $633.83 | $384.14
24400 | T | Revision of humerus | 0050 | 23.60 | $1,227.41 |  | $245.48
24410 | T | Revision of humerus | 0050 | 23.60 | $1,227.41 |  | $245.48
24420 | T | Revision of humerus | 0051 | 34.03 | $1,769.87 |  | $353.97
24430 | T | Repair of humerus | 0051 | 34.03 | $1,769.87 |  | $353.97
24435 | T | Repair humerus with graft | 0051 | 34.03 | $1,769.87 |  | $353.97
24470 | T | Revision of elbow joint | 0051 | 34.03 | $1,769.87 |  | $353.97
24495 | T | Decompression of forearm | 0050 | 23.60 | $1,227.41 |  | $245.48
24498 | T | Reinforce humerus | 0051 | 34.03 | $1,769.87 |  | $353.97
24500 | T | Treat humerus fracture | 0043 | 1.68 | $87.38 |  | $17.48
24505 | T | Treat humerus fracture | 0043 | 1.68 | $87.38 |  | $17.48
24515 | T | Treat humerus fracture | 0046 | 29.03 | $1,509.82 | $535.76 | $301.96
24516 | T | Treat humerus fracture | 0046 | 29.03 | $1,509.82 | $535.76 | $301.96
24530 | T | Treat humerus fracture | 0043 | 1.68 | $87.38 |  | $17.48
24535 | T | Treat humerus fracture | 0043 | 1.68 | $87.38 |  | $17.48
24538 | T | Treat humerus fracture | 0046 | 29.03 | $1,509.82 | $535.76 | $301.96
24545 | T | Treat humerus fracture | 0046 | 29.03 | $1,509.82 | $535.76 | $301.96
24546 | T | Treat humerus fracture | 0046 | 29.03 | $1,509.82 | $535.76 | $301.96
24560 | T | Treat humerus fracture | 0043 | 1.68 | $87.38 |  | $17.48
24565 | T | Treat humerus fracture | 0043 | 1.68 | $87.38 |  | $17.48
24566 | T | Treat humerus fracture | 0046 | 29.03 | $1,509.82 | $535.76 | $301.96
24575 | T | Treat humerus fracture | 0046 | 29.03 | $1,509.82 | $535.76 | $301.96
24576 | T | Treat humerus fracture | 0043 | 1.68 | $87.38 |  | $17.48
24577 | T | Treat humerus fracture | 0043 | 1.68 | $87.38 |  | $17.48
24579 | T | Treat humerus fracture | 0046 | 29.03 | $1,509.82 | $535.76 | $301.96
24582 | T | Treat humerus fracture | 0046 | 29.03 | $1,509.82 | $535.76 | $301.96
24586 | T | Treat elbow fracture | 0046 | 29.03 | $1,509.82 | $535.76 | $301.96
24587 | T | Treat elbow fracture | 0046 | 29.03 | $1,509.82 | $535.76 | $301.96
24600 | T | Treat elbow dislocation | 0043 | 1.68 | $87.38 |  | $17.48
24605 | T | Treat elbow dislocation | 0045 | 13.47 | $700.56 | $280.22 | $140.11
24615 | T | Treat elbow dislocation | 0046 | 29.03 | $1,509.82 | $535.76 | $301.96
24620 | T | Treat elbow fracture | 0043 | 1.68 | $87.38 |  | $17.48
24635 | T | Treat elbow fracture | 0046 | 29.03 | $1,509.82 | $535.76 | $301.96
24640 | T | Treat elbow dislocation | 0043 | 1.68 | $87.38 |  | $17.48
24650 | T | Treat radius fracture | 0043 | 1.68 | $87.38 |  | $17.48
24655 | T | Treat radius fracture | 0043 | 1.68 | $87.38 |  | $17.48
24665 | T | Treat radius fracture | 0046 | 29.03 | $1,509.82 | $535.76 | $301.96
24666 | T | Treat radius fracture | 0046 | 29.03 | $1,509.82 | $535.76 | $301.96
24670 | T | Treat ulnar fracture | 0043 | 1.68 | $87.38 |  | $17.48
24675 | T | Treat ulnar fracture | 0043 | 1.68 | $87.38 |  | $17.48
24685 | T | Treat ulnar fracture | 0046 | 29.03 | $1,509.82 | $535.76 | $301.96
24800 | T | Fusion of elbow joint | 0051 | 34.03 | $1,769.87 |  | $353.97
24802 | T | Fusion/graft of elbow joint | 0051 | 34.03 | $1,769.87 |  | $353.97
24900 | C | Amputation of upper arm |  |  |  |  |
24920 | C | Amputation of upper arm |  |  |  |  |
24925 | T | Amputation follow-up surgery | 0049 | 19.45 | $1,011.58 |  | $202.32
24930 | C | Amputation follow-up surgery |  |  |  |  |
24931 | C | Amputate upper arm & implant |  |  |  |  |
24935 | T | Revision of amputation | 0052 | 42.37 | $2,203.62 |  | $440.72
24940 | C | Revision of upper arm |  |  |  |  |
24999 | T | Upper arm/elbow surgery | 0043 | 1.68 | $87.38 |  | $17.48
25000 | T | Incision of tendon sheath | 0049 | 19.45 | $1,011.58 |  | $202.32
25001 | T | Incise flexor carpi radialis | 0049 | 19.45 | $1,011.58 |  | $202.32
25020 | T | Decompress forearm 1 space | 0049 | 19.45 | $1,011.58 |  | $202.32
25023 | T | Decompress forearm 1 space | 0050 | 23.60 | $1,227.41 |  | $245.48
25024 | T | Decompress forearm 2 spaces | 0050 | 23.60 | $1,227.41 |  | $245.48
25025 | T | Decompress forarm 2 spaces | 0050 | 23.60 | $1,227.41 |  | $245.48
25028 | T | Drainage of forearm lesion | 0049 | 19.45 | $1,011.58 |  | $202.32
25031 | T | Drainage of forearm bursa | 0049 | 19.45 | $1,011.58 |  | $202.32
25035 | T | Treat forearm bone lesion | 0049 | 19.45 | $1,011.58 |  | $202.32
25040 | T | Explore/treat wrist joint | 0050 | 23.60 | $1,227.41 |  | $245.48
25065 | T | Biopsy forearm soft tissues | 0021 | 14.58 | $758.29 | $227.49 | $151.66
25066 | T | Biopsy forearm soft tissues | 0022 | 18.10 | $941.36 | $367.13 | $188.27
25075 | T | Remove forearm lesion subcut | 0021 | 14.58 | $758.29 | $227.49 | $151.66
25076 | T | Remove forearm lesion deep | 0022 | 18.10 | $941.36 | $367.13 | $188.27
25077 | T | Remove tumor, forearm/wrist | 0022 | 18.10 | $941.36 | $367.13 | $188.27
25085 | T | Incision of wrist capsule | 0049 | 19.45 | $1,011.58 |  | $202.32
25100 | T | Biopsy of wrist joint | 0049 | 19.45 | $1,011.58 |  | $202.32
25101 | T | Explore/treat wrist joint | 0050 | 23.60 | $1,227.41 |  | $245.48
25105 | T | Remove wrist joint lining | 0050 | 23.60 | $1,227.41 |  | $245.48
25107 | T | Remove wrist joint cartilage | 0050 | 23.60 | $1,227.41 |  | $245.48
25110 | T | Remove wrist tendon lesion | 0049 | 19.45 | $1,011.58 |  | $202.32
25111 | T | Remove wrist tendon lesion | 0053 | 14.76 | $767.65 | $253.49 | $153.53
25112 | T | Reremove wrist tendon lesion | 0053 | 14.76 | $767.65 | $253.49 | $153.53
25115 | T | Remove wrist/forearm lesion | 0049 | 19.45 | $1,011.58 |  | $202.32
25116 | T | Remove wrist/forearm lesion | 0049 | 19.45 | $1,011.58 |  | $202.32
25118 | T | Excise wrist tendon sheath | 0050 | 23.60 | $1,227.41 |  | $245.48
25119 | T | Partial removal of ulna | 0050 | 23.60 | $1,227.41 |  | $245.48
25120 | T | Removal of forearm lesion | 0050 | 23.60 | $1,227.41 |  | $245.48
25125 | T | Remove/graft forearm lesion | 0050 | 23.60 | $1,227.41 |  | $245.48
25126 | T | Remove/graft forearm lesion | 0050 | 23.60 | $1,227.41 |  | $245.48
25130 | T | Removal of wrist lesion | 0050 | 23.60 | $1,227.41 |  | $245.48
25135 | T | Remove & graft wrist lesion | 0050 | 23.60 | $1,227.41 |  | $245.48
25136 | T | Remove & graft wrist lesion | 0050 | 23.60 | $1,227.41 |  | $245.48
25145 | T | Remove forearm bone lesion | 0050 | 23.60 | $1,227.41 |  | $245.48
25150 | T | Partial removal of ulna | 0050 | 23.60 | $1,227.41 |  | $245.48
25151 | T | Partial removal of radius | 0050 | 23.60 | $1,227.41 |  | $245.48
25170 | T | Extensive forearm surgery | 0052 | 42.37 | $2,203.62 |  | $440.72
25210 | T | Removal of wrist bone | 0054 | 23.50 | $1,222.21 | $472.33 | $244.44
25215 | T | Removal of wrist bones | 0054 | 23.50 | $1,222.21 | $472.33 | $244.44
25230 | T | Partial removal of radius | 0050 | 23.60 | $1,227.41 |  | $245.48
25240 | T | Partial removal of ulna | 0050 | 23.60 | $1,227.41 |  | $245.48
25246 | N | Injection for wrist x-ray |  |  |  |  |
25248 | T | Remove forearm foreign body | 0049 | 19.45 | $1,011.58 |  | $202.32
25250 | T | Removal of wrist prosthesis | 0050 | 23.60 | $1,227.41 |  | $245.48
25251 | T | Removal of wrist prosthesis | 0050 | 23.60 | $1,227.41 |  | $245.48
25259 | T | Manipulate wrist w/anesthes | 0043 | 1.68 | $87.38 |  | $17.48
25260 | T | Repair forearm tendon/muscle | 0050 | 23.60 | $1,227.41 |  | $245.48
25263 | T | Repair forearm tendon/muscle | 0050 | 23.60 | $1,227.41 |  | $245.48
25265 | T | Repair forearm tendon/muscle | 0050 | 23.60 | $1,227.41 |  | $245.48
25270 | T | Repair forearm tendon/muscle | 0050 | 23.60 | $1,227.41 |  | $245.48
25272 | T | Repair forearm tendon/muscle | 0050 | 23.60 | $1,227.41 |  | $245.48
25274 | T | Repair forearm tendon/muscle | 0050 | 23.60 | $1,227.41 |  | $245.48
25275 | T | Repair forearm tendon sheath | 0050 | 23.60 | $1,227.41 |  | $245.48
25280 | T | Revise wrist/forearm tendon | 0050 | 23.60 | $1,227.41 |  | $245.48
25290 | T | Incise wrist/forearm tendon | 0050 | 23.60 | $1,227.41 |  | $245.48
25295 | T | Release wrist/forearm tendon | 0049 | 19.45 | $1,011.58 |  | $202.32
25300 | T | Fusion of tendons at wrist | 0050 | 23.60 | $1,227.41 |  | $245.48
25301 | T | Fusion of tendons at wrist | 0050 | 23.60 | $1,227.41 |  | $245.48
25310 | T | Transplant forearm tendon | 0051 | 34.03 | $1,769.87 |  | $353.97
25312 | T | Transplant forearm tendon | 0051 | 34.03 | $1,769.87 |  | $353.97
25315 | T | Revise palsy hand tendon(s) | 0051 | 34.03 | $1,769.87 |  | $353.97
25316 | T | Revise palsy hand tendon(s) | 0051 | 34.03 | $1,769.87 |  | $353.97
25320 | T | Repair/revise wrist joint | 0051 | 34.03 | $1,769.87 |  | $353.97
25332 | T | Revise wrist joint | 0047 | 29.59 | $1,538.95 | $537.03 | $307.79
25335 | T | Realignment of hand | 0051 | 34.03 | $1,769.87 |  | $353.97
25337 | T | Reconstruct ulna/radioulnar | 0051 | 34.03 | $1,769.87 |  | $353.97
25350 | T | Revision of radius | 0051 | 34.03 | $1,769.87 |  | $353.97
25355 | T | Revision of radius | 0051 | 34.03 | $1,769.87 |  | $353.97
25360 | T | Revision of ulna | 0050 | 23.60 | $1,227.41 |  | $245.48
25365 | T | Revise radius & ulna | 0050 | 23.60 | $1,227.41 |  | $245.48
25370 | T | Revise radius or ulna | 0051 | 34.03 | $1,769.87 |  | $353.97
25375 | T | Revise radius & ulna | 0051 | 34.03 | $1,769.87 |  | $353.97
25390 | T | Shorten radius or ulna | 0050 | 23.60 | $1,227.41 |  | $245.48
25391 | T | Lengthen radius or ulna | 0051 | 34.03 | $1,769.87 |  | $353.97
25392 | T | Shorten radius & ulna | 0050 | 23.60 | $1,227.41 |  | $245.48
25393 | T | Lengthen radius & ulna | 0051 | 34.03 | $1,769.87 |  | $353.97
25394 | T | Repair carpal bone, shorten | 0053 | 14.76 | $767.65 | $253.49 | $153.53
25400 | T | Repair radius or ulna | 0050 | 23.60 | $1,227.41 |  | $245.48
25405 | T | Repair/graft radius or ulna | 0050 | 23.60 | $1,227.41 |  | $245.48
25415 | T | Repair radius & ulna | 0050 | 23.60 | $1,227.41 |  | $245.48
25420 | T | Repair/graft radius & ulna | 0051 | 34.03 | $1,769.87 |  | $353.97
25425 | T | Repair/graft radius or ulna | 0051 | 34.03 | $1,769.87 |  | $353.97
25426 | T | Repair/graft radius & ulna | 0051 | 34.03 | $1,769.87 |  | $353.97
25430 | T | Vasc graft into carpal bone | 0054 | 23.50 | $1,222.21 | $472.33 | $244.44
25431 | T | Repair nonunion carpal bone | 0054 | 23.50 | $1,222.21 | $472.33 | $244.44
25440 | T | Repair/graft wrist bone | 0051 | 34.03 | $1,769.87 |  | $353.97
25441 | T | Reconstruct wrist joint | 0048 | 36.93 | $1,920.69 | $633.83 | $384.14
25442 | T | Reconstruct wrist joint | 0048 | 36.93 | $1,920.69 | $633.83 | $384.14
25443 | T | Reconstruct wrist joint | 0048 | 36.93 | $1,920.69 | $633.83 | $384.14
25444 | T | Reconstruct wrist joint | 0048 | 36.93 | $1,920.69 | $633.83 | $384.14
25445 | T | Reconstruct wrist joint | 0048 | 36.93 | $1,920.69 | $633.83 | $384.14
25446 | T | Wrist replacement | 0048 | 36.93 | $1,920.69 | $633.83 | $384.14
25447 | T | Repair wrist joint(s) | 0047 | 29.59 | $1,538.95 | $537.03 | $307.79
25449 | T | Remove wrist joint implant | 0047 | 29.59 | $1,538.95 | $537.03 | $307.79
25450 | T | Revision of wrist joint | 0051 | 34.03 | $1,769.87 |  | $353.97
25455 | T | Revision of wrist joint | 0051 | 34.03 | $1,769.87 |  | $353.97
25490 | T | Reinforce radius | 0051 | 34.03 | $1,769.87 |  | $353.97
25491 | T | Reinforce ulna | 0051 | 34.03 | $1,769.87 |  | $353.97
25492 | T | Reinforce radius and ulna | 0051 | 34.03 | $1,769.87 |  | $353.97
25500 | T | Treat fracture of radius | 0043 | 1.68 | $87.38 |  | $17.48
25505 | T | Treat fracture of radius | 0043 | 1.68 | $87.38 |  | $17.48
25515 | T | Treat fracture of radius | 0046 | 29.03 | $1,509.82 | $535.76 | $301.96
25520 | T | Treat fracture of radius | 0043 | 1.68 | $87.38 |  | $17.48
25525 | T | Treat fracture of radius | 0046 | 29.03 | $1,509.82 | $535.76 | $301.96
25526 | T | Treat fracture of radius | 0046 | 29.03 | $1,509.82 | $535.76 | $301.96
25530 | T | Treat fracture of ulna | 0043 | 1.68 | $87.38 |  | $17.48
25535 | T | Treat fracture of ulna | 0043 | 1.68 | $87.38 |  | $17.48
25545 | T | Treat fracture of ulna | 0046 | 29.03 | $1,509.82 | $535.76 | $301.96
25560 | T | Treat fracture radius & ulna | 0043 | 1.68 | $87.38 |  | $17.48
25565 | T | Treat fracture radius & ulna | 0043 | 1.68 | $87.38 |  | $17.48
25574 | T | Treat fracture radius & ulna | 0046 | 29.03 | $1,509.82 | $535.76 | $301.96
25575 | T | Treat fracture radius/ulna | 0046 | 29.03 | $1,509.82 | $535.76 | $301.96
25600 | T | Treat fracture radius/ulna | 0043 | 1.68 | $87.38 |  | $17.48
25605 | T | Treat fracture radius/ulna | 0043 | 1.68 | $87.38 |  | $17.48
25611 | T | Treat fracture radius/ulna | 0046 | 29.03 | $1,509.82 | $535.76 | $301.96
25620 | T | Treat fracture radius/ulna | 0046 | 29.03 | $1,509.82 | $535.76 | $301.96
25622 | T | Treat wrist bone fracture | 0043 | 1.68 | $87.38 |  | $17.48
25624 | T | Treat wrist bone fracture | 0043 | 1.68 | $87.38 |  | $17.48
25628 | T | Treat wrist bone fracture | 0046 | 29.03 | $1,509.82 | $535.76 | $301.96
25630 | T | Treat wrist bone fracture | 0043 | 1.68 | $87.38 |  | $17.48
25635 | T | Treat wrist bone fracture | 0043 | 1.68 | $87.38 |  | $17.48
25645 | T | Treat wrist bone fracture | 0046 | 29.03 | $1,509.82 | $535.76 | $301.96
25650 | T | Treat wrist bone fracture | 0043 | 1.68 | $87.38 |  | $17.48
25651 | T | Pin ulnar styloid fracture | 0046 | 29.03 | $1,509.82 | $535.76 | $301.96
25652 | T | Treat fracture ulnar styloid | 0046 | 29.03 | $1,509.82 | $535.76 | $301.96
25660 | T | Treat wrist dislocation | 0043 | 1.68 | $87.38 |  | $17.48
25670 | T | Treat wrist dislocation | 0046 | 29.03 | $1,509.82 | $535.76 | $301.96
25671 | T | Pin radioulnar dislocation | 0046 | 29.03 | $1,509.82 | $535.76 | $301.96
25675 | T | Treat wrist dislocation | 0043 | 1.68 | $87.38 |  | $17.48
25676 | T | Treat wrist dislocation | 0046 | 29.03 | $1,509.82 | $535.76 | $301.96
25680 | T | Treat wrist fracture | 0043 | 1.68 | $87.38 |  | $17.48
25685 | T | Treat wrist fracture | 0046 | 29.03 | $1,509.82 | $535.76 | $301.96
25690 | T | Treat wrist dislocation | 0043 | 1.68 | $87.38 |  | $17.48
25695 | T | Treat wrist dislocation | 0046 | 29.03 | $1,509.82 | $535.76 | $301.96
25800 | T | Fusion of wrist joint | 0051 | 34.03 | $1,769.87 |  | $353.97
25805 | T | Fusion/graft of wrist joint | 0051 | 34.03 | $1,769.87 |  | $353.97
25810 | T | Fusion/graft of wrist joint | 0051 | 34.03 | $1,769.87 |  | $353.97
25820 | T | Fusion of hand bones | 0053 | 14.76 | $767.65 | $253.49 | $153.53
25825 | T | Fuse hand bones with graft | 0054 | 23.50 | $1,222.21 | $472.33 | $244.44
25830 | T | Fusion, radioulnar jnt/ulna | 0051 | 34.03 | $1,769.87 |  | $353.97
25900 | C | Amputation of forearm |  |  |  |  |
25905 | C | Amputation of forearm |  |  |  |  |
25907 | T | Amputation follow-up surgery | 0049 | 19.45 | $1,011.58 |  | $202.32
25909 | C | Amputation follow-up surgery |  |  |  |  |
25915 | C | Amputation of forearm |  |  |  |  |
25920 | C | Amputate hand at wrist |  |  |  |  |
25922 | T | Amputate hand at wrist | 0049 | 19.45 | $1,011.58 |  | $202.32
25924 | C | Amputation follow-up surgery |  |  |  |  |
25927 | C | Amputation of hand |  |  |  |  |
25929 | T | Amputation follow-up surgery | 0027 | 15.73 | $818.10 | $343.60 | $163.62
25931 | C | Amputation follow-up surgery |  |  |  |  |
25999 | T | Forearm or wrist surgery | 0043 | 1.68 | $87.38 |  | $17.48
26010 | T | Drainage of finger abscess | 0006 | 1.89 | $98.30 | $25.56 | $19.66
26011 | T | Drainage of finger abscess | 0007 | 9.44 | $490.96 | $103.10 | $98.19
26020 | T | Drain hand tendon sheath | 0053 | 14.76 | $767.65 | $253.49 | $153.53
26025 | T | Drainage of palm bursa | 0053 | 14.76 | $767.65 | $253.49 | $153.53
26030 | T | Drainage of palm bursa(s) | 0053 | 14.76 | $767.65 | $253.49 | $153.53
26034 | T | Treat hand bone lesion | 0053 | 14.76 | $767.65 | $253.49 | $153.53
26035 | T | Decompress fingers/hand | 0053 | 14.76 | $767.65 | $253.49 | $153.53
26037 | T | Decompress fingers/hand | 0053 | 14.76 | $767.65 | $253.49 | $153.53
26040 | T | Release palm contracture | 0054 | 23.50 | $1,222.21 | $472.33 | $244.44
26045 | T | Release palm contracture | 0054 | 23.50 | $1,222.21 | $472.33 | $244.44
26055 | T | Incise finger tendon sheath | 0053 | 14.76 | $767.65 | $253.49 | $153.53
26060 | T | Incision of finger tendon | 0053 | 14.76 | $767.65 | $253.49 | $153.53
26070 | T | Explore/treat hand joint | 0053 | 14.76 | $767.65 | $253.49 | $153.53
26075 | T | Explore/treat finger joint | 0053 | 14.76 | $767.65 | $253.49 | $153.53
26080 | T | Explore/treat finger joint | 0053 | 14.76 | $767.65 | $253.49 | $153.53
26100 | T | Biopsy hand joint lining | 0053 | 14.76 | $767.65 | $253.49 | $153.53
26105 | T | Biopsy finger joint lining | 0053 | 14.76 | $767.65 | $253.49 | $153.53
26110 | T | Biopsy finger joint lining | 0053 | 14.76 | $767.65 | $253.49 | $153.53
26115 | T | Remove hand lesion subcut | 0022 | 18.10 | $941.36 | $367.13 | $188.27
26116 | T | Remove hand lesion, deep | 0022 | 18.10 | $941.36 | $367.13 | $188.27
26117 | T | Remove tumor, hand/finger | 0022 | 18.10 | $941.36 | $367.13 | $188.27
26121 | T | Release palm contracture | 0054 | 23.50 | $1,222.21 | $472.33 | $244.44
26123 | T | Release palm contracture | 0054 | 23.50 | $1,222.21 | $472.33 | $244.44
26125 | T | Release palm contracture | 0054 | 23.50 | $1,222.21 | $472.33 | $244.44
26130 | T | Remove wrist joint lining | 0053 | 14.76 | $767.65 | $253.49 | $153.53
26135 | T | Revise finger joint, each | 0054 | 23.50 | $1,222.21 | $472.33 | $244.44
26140 | T | Revise finger joint, each | 0053 | 14.76 | $767.65 | $253.49 | $153.53
26145 | T | Tendon excision, palm/finger | 0053 | 14.76 | $767.65 | $253.49 | $153.53
26160 | T | Remove tendon sheath lesion | 0053 | 14.76 | $767.65 | $253.49 | $153.53
26170 | T | Removal of palm tendon, each | 0053 | 14.76 | $767.65 | $253.49 | $153.53
26180 | T | Removal of finger tendon | 0053 | 14.76 | $767.65 | $253.49 | $153.53
26185 | T | Remove finger bone | 0053 | 14.76 | $767.65 | $253.49 | $153.53
26200 | T | Remove hand bone lesion | 0053 | 14.76 | $767.65 | $253.49 | $153.53
26205 | T | Remove/graft bone lesion | 0054 | 23.50 | $1,222.21 | $472.33 | $244.44
26210 | T | Removal of finger lesion | 0053 | 14.76 | $767.65 | $253.49 | $153.53
26215 | T | Remove/graft finger lesion | 0053 | 14.76 | $767.65 | $253.49 | $153.53
26230 | T | Partial removal of hand bone | 0053 | 14.76 | $767.65 | $253.49 | $153.53
26235 | T | Partial removal, finger bone | 0053 | 14.76 | $767.65 | $253.49 | $153.53
26236 | T | Partial removal, finger bone | 0053 | 14.76 | $767.65 | $253.49 | $153.53
26250 | T | Extensive hand surgery | 0053 | 14.76 | $767.65 | $253.49 | $153.53
26255 | T | Extensive hand surgery | 0054 | 23.50 | $1,222.21 | $472.33 | $244.44
26260 | T | Extensive finger surgery | 0053 | 14.76 | $767.65 | $253.49 | $153.53
26261 | T | Extensive finger surgery | 0053 | 14.76 | $767.65 | $253.49 | $153.53
26262 | T | Partial removal of finger | 0053 | 14.76 | $767.65 | $253.49 | $153.53
26320 | T | Removal of implant from hand | 0021 | 14.58 | $758.29 | $227.49 | $151.66
26340 | T | Manipulate finger w/anesth | 0043 | 1.68 | $87.38 |  | $17.48
26350 | T | Repair finger/hand tendon | 0054 | 23.50 | $1,222.21 | $472.33 | $244.44
26352 | T | Repair/graft hand tendon | 0054 | 23.50 | $1,222.21 | $472.33 | $244.44
26356 | T | Repair finger/hand tendon | 0054 | 23.50 | $1,222.21 | $472.33 | $244.44
26357 | T | Repair finger/hand tendon | 0054 | 23.50 | $1,222.21 | $472.33 | $244.44
26358 | T | Repair/graft hand tendon | 0054 | 23.50 | $1,222.21 | $472.33 | $244.44
26370 | T | Repair finger/hand tendon | 0054 | 23.50 | $1,222.21 | $472.33 | $244.44
26372 | T | Repair/graft hand tendon | 0054 | 23.50 | $1,222.21 | $472.33 | $244.44
26373 | T | Repair finger/hand tendon | 0054 | 23.50 | $1,222.21 | $472.33 | $244.44
26390 | T | Revise hand/finger tendon | 0054 | 23.50 | $1,222.21 | $472.33 | $244.44
26392 | T | Repair/graft hand tendon | 0054 | 23.50 | $1,222.21 | $472.33 | $244.44
26410 | T | Repair hand tendon | 0053 | 14.76 | $767.65 | $253.49 | $153.53
26412 | T | Repair/graft hand tendon | 0054 | 23.50 | $1,222.21 | $472.33 | $244.44
26415 | T | Excision, hand/finger tendon | 0054 | 23.50 | $1,222.21 | $472.33 | $244.44
26416 | T | Graft hand or finger tendon | 0054 | 23.50 | $1,222.21 | $472.33 | $244.44
26418 | T | Repair finger tendon | 0053 | 14.76 | $767.65 | $253.49 | $153.53
26420 | T | Repair/graft finger tendon | 0054 | 23.50 | $1,222.21 | $472.33 | $244.44
26426 | T | Repair finger/hand tendon | 0054 | 23.50 | $1,222.21 | $472.33 | $244.44
26428 | T | Repair/graft finger tendon | 0054 | 23.50 | $1,222.21 | $472.33 | $244.44
26432 | T | Repair finger tendon | 0053 | 14.76 | $767.65 | $253.49 | $153.53
26433 | T | Repair finger tendon | 0053 | 14.76 | $767.65 | $253.49 | $153.53
26434 | T | Repair/graft finger tendon | 0054 | 23.50 | $1,222.21 | $472.33 | $244.44
26437 | T | Realignment of tendons | 0053 | 14.76 | $767.65 | $253.49 | $153.53
26440 | T | Release palm/finger tendon | 0053 | 14.76 | $767.65 | $253.49 | $153.53
26442 | T | Release palm & finger tendon | 0054 | 23.50 | $1,222.21 | $472.33 | $244.44
26445 | T | Release hand/finger tendon | 0053 | 14.76 | $767.65 | $253.49 | $153.53
26449 | T | Release forearm/hand tendon | 0054 | 23.50 | $1,222.21 | $472.33 | $244.44
26450 | T | Incision of palm tendon | 0053 | 14.76 | $767.65 | $253.49 | $153.53
26455 | T | Incision of finger tendon | 0053 | 14.76 | $767.65 | $253.49 | $153.53
26460 | T | Incise hand/finger tendon | 0053 | 14.76 | $767.65 | $253.49 | $153.53
26471 | T | Fusion of finger tendons | 0053 | 14.76 | $767.65 | $253.49 | $153.53
26474 | T | Fusion of finger tendons | 0053 | 14.76 | $767.65 | $253.49 | $153.53
26476 | T | Tendon lengthening | 0053 | 14.76 | $767.65 | $253.49 | $153.53
26477 | T | Tendon shortening | 0053 | 14.76 | $767.65 | $253.49 | $153.53
26478 | T | Lengthening of hand tendon | 0053 | 14.76 | $767.65 | $253.49 | $153.53
26479 | T | Shortening of hand tendon | 0053 | 14.76 | $767.65 | $253.49 | $153.53
26480 | T | Transplant hand tendon | 0054 | 23.50 | $1,222.21 | $472.33 | $244.44
26483 | T | Transplant/graft hand tendon | 0054 | 23.50 | $1,222.21 | $472.33 | $244.44
26485 | T | Transplant palm tendon | 0054 | 23.50 | $1,222.21 | $472.33 | $244.44
26489 | T | Transplant/graft palm tendon | 0054 | 23.50 | $1,222.21 | $472.33 | $244.44
26490 | T | Revise thumb tendon | 0054 | 23.50 | $1,222.21 | $472.33 | $244.44
26492 | T | Tendon transfer with graft | 0054 | 23.50 | $1,222.21 | $472.33 | $244.44
26494 | T | Hand tendon/muscle transfer | 0054 | 23.50 | $1,222.21 | $472.33 | $244.44
26496 | T | Revise thumb tendon | 0054 | 23.50 | $1,222.21 | $472.33 | $244.44
26497 | T | Finger tendon transfer | 0054 | 23.50 | $1,222.21 | $472.33 | $244.44
26498 | T | Finger tendon transfer | 0054 | 23.50 | $1,222.21 | $472.33 | $244.44
26499 | T | Revision of finger | 0054 | 23.50 | $1,222.21 | $472.33 | $244.44
26500 | T | Hand tendon reconstruction | 0053 | 14.76 | $767.65 | $253.49 | $153.53
26502 | T | Hand tendon reconstruction | 0054 | 23.50 | $1,222.21 | $472.33 | $244.44
26504 | T | Hand tendon reconstruction | 0054 | 23.50 | $1,222.21 | $472.33 | $244.44
26508 | T | Release thumb contracture | 0053 | 14.76 | $767.65 | $253.49 | $153.53
26510 | T | Thumb tendon transfer | 0054 | 23.50 | $1,222.21 | $472.33 | $244.44
26516 | T | Fusion of knuckle joint | 0054 | 23.50 | $1,222.21 | $472.33 | $244.44
26517 | T | Fusion of knuckle joints | 0054 | 23.50 | $1,222.21 | $472.33 | $244.44
26518 | T | Fusion of knuckle joints | 0054 | 23.50 | $1,222.21 | $472.33 | $244.44
26520 | T | Release knuckle contracture | 0053 | 14.76 | $767.65 | $253.49 | $153.53
26525 | T | Release finger contracture | 0053 | 14.76 | $767.65 | $253.49 | $153.53
26530 | T | Revise knuckle joint | 0047 | 29.59 | $1,538.95 | $537.03 | $307.79
26531 | T | Revise knuckle with implant | 0048 | 36.93 | $1,920.69 | $633.83 | $384.14
26535 | T | Revise finger joint | 0047 | 29.59 | $1,538.95 | $537.03 | $307.79
26536 | T | Revise/implant finger joint | 0048 | 36.93 | $1,920.69 | $633.83 | $384.14
26540 | T | Repair hand joint | 0053 | 14.76 | $767.65 | $253.49 | $153.53
26541 | T | Repair hand joint with graft | 0054 | 23.50 | $1,222.21 | $472.33 | $244.44
26542 | T | Repair hand joint with graft | 0053 | 14.76 | $767.65 | $253.49 | $153.53
26545 | T | Reconstruct finger joint | 0054 | 23.50 | $1,222.21 | $472.33 | $244.44
26546 | T | Repair nonunion hand | 0054 | 23.50 | $1,222.21 | $472.33 | $244.44
26548 | T | Reconstruct finger joint | 0054 | 23.50 | $1,222.21 | $472.33 | $244.44
26550 | T | Construct thumb replacement | 0054 | 23.50 | $1,222.21 | $472.33 | $244.44
26551 | C | Great toe-hand transfer |  |  |  |  |
26553 | C | Single transfer, toe-hand |  |  |  |  |
26554 | C | Double transfer, toe-hand |  |  |  |  |
26555 | T | Positional change of finger | 0054 | 23.50 | $1,222.21 | $472.33 | $244.44
26556 | C | Toe joint transfer |  |  |  |  |
26560 | T | Repair of web finger | 0053 | 14.76 | $767.65 | $253.49 | $153.53
26561 | T | Repair of web finger | 0054 | 23.50 | $1,222.21 | $472.33 | $244.44
26562 | T | Repair of web finger | 0054 | 23.50 | $1,222.21 | $472.33 | $244.44
26565 | T | Correct metacarpal flaw | 0054 | 23.50 | $1,222.21 | $472.33 | $244.44
26567 | T | Correct finger deformity | 0054 | 23.50 | $1,222.21 | $472.33 | $244.44
26568 | T | Lengthen metacarpal/finger | 0054 | 23.50 | $1,222.21 | $472.33 | $244.44
26580 | T | Repair hand deformity | 0054 | 23.50 | $1,222.21 | $472.33 | $244.44
26587 | T | Reconstruct extra finger | 0053 | 14.76 | $767.65 | $253.49 | $153.53
26590 | T | Repair finger deformity | 0054 | 23.50 | $1,222.21 | $472.33 | $244.44
26591 | T | Repair muscles of hand | 0054 | 23.50 | $1,222.21 | $472.33 | $244.44
26593 | T | Release muscles of hand | 0053 | 14.76 | $767.65 | $253.49 | $153.53
26596 | T | Excision constricting tissue | 0054 | 23.50 | $1,222.21 | $472.33 | $244.44
26600 | T | Treat metacarpal fracture | 0043 | 1.68 | $87.38 |  | $17.48
26605 | T | Treat metacarpal fracture | 0043 | 1.68 | $87.38 |  | $17.48
26607 | T | Treat metacarpal fracture | 0043 | 1.68 | $87.38 |  | $17.48
26608 | T | Treat metacarpal fracture | 0046 | 29.03 | $1,509.82 | $535.76 | $301.96
26615 | T | Treat metacarpal fracture | 0046 | 29.03 | $1,509.82 | $535.76 | $301.96
26641 | T | Treat thumb dislocation | 0043 | 1.68 | $87.38 |  | $17.48
26645 | T | Treat thumb fracture | 0043 | 1.68 | $87.38 |  | $17.48
26650 | T | Treat thumb fracture | 0046 | 29.03 | $1,509.82 | $535.76 | $301.96
26665 | T | Treat thumb fracture | 0046 | 29.03 | $1,509.82 | $535.76 | $301.96
26670 | T | Treat hand dislocation | 0043 | 1.68 | $87.38 |  | $17.48
26675 | T | Treat hand dislocation | 0043 | 1.68 | $87.38 |  | $17.48
26676 | T | Pin hand dislocation | 0046 | 29.03 | $1,509.82 | $535.76 | $301.96
26685 | T | Treat hand dislocation | 0046 | 29.03 | $1,509.82 | $535.76 | $301.96
26686 | T | Treat hand dislocation | 0046 | 29.03 | $1,509.82 | $535.76 | $301.96
26700 | T | Treat knuckle dislocation | 0043 | 1.68 | $87.38 |  | $17.48
26705 | T | Treat knuckle dislocation | 0043 | 1.68 | $87.38 |  | $17.48
26706 | T | Pin knuckle dislocation | 0043 | 1.68 | $87.38 |  | $17.48
26715 | T | Treat knuckle dislocation | 0046 | 29.03 | $1,509.82 | $535.76 | $301.96
26720 | T | Treat finger fracture, each | 0043 | 1.68 | $87.38 |  | $17.48
26725 | T | Treat finger fracture, each | 0043 | 1.68 | $87.38 |  | $17.48
26727 | T | Treat finger fracture, each | 0046 | 29.03 | $1,509.82 | $535.76 | $301.96
26735 | T | Treat finger fracture, each | 0046 | 29.03 | $1,509.82 | $535.76 | $301.96
26740 | T | Treat finger fracture, each | 0043 | 1.68 | $87.38 |  | $17.48
26742 | T | Treat finger fracture, each | 0043 | 1.68 | $87.38 |  | $17.48
26746 | T | Treat finger fracture, each | 0046 | 29.03 | $1,509.82 | $535.76 | $301.96
26750 | T | Treat finger fracture, each | 0043 | 1.68 | $87.38 |  | $17.48
26755 | T | Treat finger fracture, each | 0043 | 1.68 | $87.38 |  | $17.48
26756 | T | Pin finger fracture, each | 0046 | 29.03 | $1,509.82 | $535.76 | $301.96
26765 | T | Treat finger fracture, each | 0046 | 29.03 | $1,509.82 | $535.76 | $301.96
26770 | T | Treat finger dislocation | 0043 | 1.68 | $87.38 |  | $17.48
26775 | T | Treat finger dislocation | 0045 | 13.47 | $700.56 | $280.22 | $140.11
26776 | T | Pin finger dislocation | 0046 | 29.03 | $1,509.82 | $535.76 | $301.96
26785 | T | Treat finger dislocation | 0046 | 29.03 | $1,509.82 | $535.76 | $301.96
26820 | T | Thumb fusion with graft | 0054 | 23.50 | $1,222.21 | $472.33 | $244.44
26841 | T | Fusion of thumb | 0054 | 23.50 | $1,222.21 | $472.33 | $244.44
26842 | T | Thumb fusion with graft | 0054 | 23.50 | $1,222.21 | $472.33 | $244.44
26843 | T | Fusion of hand joint | 0054 | 23.50 | $1,222.21 | $472.33 | $244.44
26844 | T | Fusion/graft of hand joint | 0054 | 23.50 | $1,222.21 | $472.33 | $244.44
26850 | T | Fusion of knuckle | 0054 | 23.50 | $1,222.21 | $472.33 | $244.44
26852 | T | Fusion of knuckle with graft | 0054 | 23.50 | $1,222.21 | $472.33 | $244.44
26860 | T | Fusion of finger joint | 0054 | 23.50 | $1,222.21 | $472.33 | $244.44
26861 | T | Fusion of finger jnt, add-on | 0054 | 23.50 | $1,222.21 | $472.33 | $244.44
26862 | T | Fusion/graft of finger joint | 0054 | 23.50 | $1,222.21 | $472.33 | $244.44
26863 | T | Fuse/graft added joint | 0054 | 23.50 | $1,222.21 | $472.33 | $244.44
26910 | T | Amputate metacarpal bone | 0054 | 23.50 | $1,222.21 | $472.33 | $244.44
26951 | T | Amputation of finger/thumb | 0053 | 14.76 | $767.65 | $253.49 | $153.53
26952 | T | Amputation of finger/thumb | 0053 | 14.76 | $767.65 | $253.49 | $153.53
26989 | T | Hand/finger surgery | 0043 | 1.68 | $87.38 |  | $17.48
26990 | T | Drainage of pelvis lesion | 0049 | 19.45 | $1,011.58 |  | $202.32
26991 | T | Drainage of pelvis bursa | 0049 | 19.45 | $1,011.58 |  | $202.32
26992 | C | Drainage of bone lesion |  |  |  |  |
27000 | T | Incision of hip tendon | 0049 | 19.45 | $1,011.58 |  | $202.32
27001 | T | Incision of hip tendon | 0050 | 23.60 | $1,227.41 |  | $245.48
27003 | T | Incision of hip tendon | 0050 | 23.60 | $1,227.41 |  | $245.48
27005 | C | Incision of hip tendon |  |  |  |  |
27006 | C | Incision of hip tendons |  |  |  |  |
27025 | C | Incision of hip/thigh fascia |  |  |  |  |
27030 | C | Drainage of hip joint |  |  |  |  |
27033 | T | Exploration of hip joint | 0051 | 34.03 | $1,769.87 |  | $353.97
27035 | T | Denervation of hip joint | 0052 | 42.37 | $2,203.62 |  | $440.72
27036 | C | Excision of hip joint/muscle |  |  |  |  |
27040 | T | Biopsy of soft tissues | 0021 | 14.58 | $758.29 | $227.49 | $151.66
27041 | T | Biopsy of soft tissues | 0022 | 18.10 | $941.36 | $367.13 | $188.27
27047 | T | Remove hip/pelvis lesion | 0022 | 18.10 | $941.36 | $367.13 | $188.27
27048 | T | Remove hip/pelvis lesion | 0022 | 18.10 | $941.36 | $367.13 | $188.27
27049 | T | Remove tumor, hip/pelvis | 0022 | 18.10 | $941.36 | $367.13 | $188.27
27050 | T | Biopsy of sacroiliac joint | 0049 | 19.45 | $1,011.58 |  | $202.32
27052 | T | Biopsy of hip joint | 0049 | 19.45 | $1,011.58 |  | $202.32
27054 | C | Removal of hip joint lining |  |  |  |  |
27060 | T | Removal of ischial bursa | 0049 | 19.45 | $1,011.58 |  | $202.32
27062 | T | Remove femur lesion/bursa | 0049 | 19.45 | $1,011.58 |  | $202.32
27065 | T | Removal of hip bone lesion | 0049 | 19.45 | $1,011.58 |  | $202.32
27066 | T | Removal of hip bone lesion | 0050 | 23.60 | $1,227.41 |  | $245.48
27067 | T | Remove/graft hip bone lesion | 0050 | 23.60 | $1,227.41 |  | $245.48
27070 | C | Partial removal of hip bone |  |  |  |  |
27071 | C | Partial removal of hip bone |  |  |  |  |
27075 | C | Extensive hip surgery |  |  |  |  |
27076 | C | Extensive hip surgery |  |  |  |  |
27077 | C | Extensive hip surgery |  |  |  |  |
27078 | C | Extensive hip surgery |  |  |  |  |
27079 | C | Extensive hip surgery |  |  |  |  |
27080 | T | Removal of tail bone | 0050 | 23.60 | $1,227.41 |  | $245.48
27086 | T | Remove hip foreign body | 0020 | 7.36 | $382.79 | $114.84 | $76.56
27087 | T | Remove hip foreign body | 0049 | 19.45 | $1,011.58 |  | $202.32
27090 | C | Removal of hip prosthesis |  |  |  |  |
27091 | C | Removal of hip prosthesis |  |  |  |  |
27093 | N | Injection for hip x-ray |  |  |  |  |
27095 | N | Injection for hip x-ray |  |  |  |  |
27096 | N | Inject sacroiliac joint |  |  |  |  |
27097 | T | Revision of hip tendon | 0050 | 23.60 | $1,227.41 |  | $245.48
27098 | T | Transfer tendon to pelvis | 0050 | 23.60 | $1,227.41 |  | $245.48
27100 | T | Transfer of abdominal muscle | 0051 | 34.03 | $1,769.87 |  | $353.97
27105 | T | Transfer of spinal muscle | 0051 | 34.03 | $1,769.87 |  | $353.97
27110 | T | Transfer of iliopsoas muscle | 0051 | 34.03 | $1,769.87 |  | $353.97
27111 | T | Transfer of iliopsoas muscle | 0051 | 34.03 | $1,769.87 |  | $353.97
27120 | C | Reconstruction of hip socket |  |  |  |  |
27122 | C | Reconstruction of hip socket |  |  |  |  |
27125 | C | Partial hip replacement |  |  |  |  |
27130 | C | Total hip arthroplasty |  |  |  |  |
27132 | C | Total hip arthroplasty |  |  |  |  |
27134 | C | Revise hip joint replacement |  |  |  |  |
27137 | C | Revise hip joint replacement |  |  |  |  |
27138 | C | Revise hip joint replacement |  |  |  |  |
27140 | C | Transplant femur ridge |  |  |  |  |
27146 | C | Incision of hip bone |  |  |  |  |
27147 | C | Revision of hip bone |  |  |  |  |
27151 | C | Incision of hip bones |  |  |  |  |
27156 | C | Revision of hip bones |  |  |  |  |
27158 | C | Revision of pelvis |  |  |  |  |
27161 | C | Incision of neck of femur |  |  |  |  |
27165 | C | Incision/fixation of femur |  |  |  |  |
27170 | C | Repair/graft femur head/neck |  |  |  |  |
27175 | C | Treat slipped epiphysis |  |  |  |  |
27176 | C | Treat slipped epiphysis |  |  |  |  |
27177 | C | Treat slipped epiphysis |  |  |  |  |
27178 | C | Treat slipped epiphysis |  |  |  |  |
27179 | C | Revise head/neck of femur |  |  |  |  |
27181 | C | Treat slipped epiphysis |  |  |  |  |
27185 | C | Revision of femur epiphysis |  |  |  |  |
27187 | C | Reinforce hip bones |  |  |  |  |
27193 | T | Treat pelvic ring fracture | 0043 | 1.68 | $87.38 |  | $17.48
27194 | T | Treat pelvic ring fracture | 0045 | 13.47 | $700.56 | $280.22 | $140.11
27200 | T | Treat tail bone fracture | 0043 | 1.68 | $87.38 |  | $17.48
27202 | T | Treat tail bone fracture | 0046 | 29.03 | $1,509.82 | $535.76 | $301.96
27215 | C | Treat pelvic fracture(s) |  |  |  |  |
27216 | T | Treat pelvic ring fracture | 0050 | 23.60 | $1,227.41 |  | $245.48
27217 | C | Treat pelvic ring fracture |  |  |  |  |
27218 | C | Treat pelvic ring fracture |  |  |  |  |
27220 | T | Treat hip socket fracture | 0043 | 1.68 | $87.38 |  | $17.48
27222 | C | Treat hip socket fracture |  |  |  |  |
27226 | C | Treat hip wall fracture |  |  |  |  |
27227 | C | Treat hip fracture(s) |  |  |  |  |
27228 | C | Treat hip fracture(s) |  |  |  |  |
27230 | T | Treat thigh fracture | 0043 | 1.68 | $87.38 |  | $17.48
27232 | C | Treat thigh fracture |  |  |  |  |
27235 | T | Treat thigh fracture | 0050 | 23.60 | $1,227.41 |  | $245.48
27236 | C | Treat thigh fracture |  |  |  |  |
27238 | T | Treat thigh fracture | 0043 | 1.68 | $87.38 |  | $17.48
27240 | C | Treat thigh fracture |  |  |  |  |
27244 | C | Treat thigh fracture |  |  |  |  |
27245 | C | Treat thigh fracture |  |  |  |  |
27246 | T | Treat thigh fracture | 0043 | 1.68 | $87.38 |  | $17.48
27248 | C | Treat thigh fracture |  |  |  |  |
27250 | T | Treat hip dislocation | 0043 | 1.68 | $87.38 |  | $17.48
27252 | T | Treat hip dislocation | 0045 | 13.47 | $700.56 | $280.22 | $140.11
27253 | C | Treat hip dislocation |  |  |  |  |
27254 | C | Treat hip dislocation |  |  |  |  |
27256 | T | Treat hip dislocation | 0043 | 1.68 | $87.38 |  | $17.48
27257 | T | Treat hip dislocation | 0045 | 13.47 | $700.56 | $280.22 | $140.11
27258 | C | Treat hip dislocation |  |  |  |  |
27259 | C | Treat hip dislocation |  |  |  |  |
27265 | T | Treat hip dislocation | 0043 | 1.68 | $87.38 |  | $17.48
27266 | T | Treat hip dislocation | 0045 | 13.47 | $700.56 | $280.22 | $140.11
27275 | T | Manipulation of hip joint | 0045 | 13.47 | $700.56 | $280.22 | $140.11
27280 | C | Fusion of sacroiliac joint |  |  |  |  |
27282 | C | Fusion of pubic bones |  |  |  |  |
27284 | C | Fusion of hip joint |  |  |  |  |
27286 | C | Fusion of hip joint |  |  |  |  |
27290 | C | Amputation of leg at hip |  |  |  |  |
27295 | C | Amputation of leg at hip |  |  |  |  |
27299 | T | Pelvis/hip joint surgery | 0043 | 1.68 | $87.38 |  | $17.48
27301 | T | Drain thigh/knee lesion | 0008 | 16.32 | $848.79 |  | $169.76
27303 | C | Drainage of bone lesion |  |  |  |  |
27305 | T | Incise thigh tendon & fascia | 0049 | 19.45 | $1,011.58 |  | $202.32
27306 | T | Incision of thigh tendon | 0049 | 19.45 | $1,011.58 |  | $202.32
27307 | T | Incision of thigh tendons | 0049 | 19.45 | $1,011.58 |  | $202.32
27310 | T | Exploration of knee joint | 0050 | 23.60 | $1,227.41 |  | $245.48
27315 | T | Partial removal, thigh nerve | 0220 | 16.66 | $866.47 |  | $173.29
27320 | T | Partial removal, thigh nerve | 0220 | 16.66 | $866.47 |  | $173.29
27323 | T | Biopsy, thigh soft tissues | 0021 | 14.58 | $758.29 | $227.49 | $151.66
27324 | T | Biopsy, thigh soft tissues | 0022 | 18.10 | $941.36 | $367.13 | $188.27
27327 | T | Removal of thigh lesion | 0022 | 18.10 | $941.36 | $367.13 | $188.27
27328 | T | Removal of thigh lesion | 0022 | 18.10 | $941.36 | $367.13 | $188.27
27329 | T | Remove tumor, thigh/knee | 0022 | 18.10 | $941.36 | $367.13 | $188.27
27330 | T | Biopsy, knee joint lining | 0050 | 23.60 | $1,227.41 |  | $245.48
27331 | T | Explore/treat knee joint | 0050 | 23.60 | $1,227.41 |  | $245.48
27332 | T | Removal of knee cartilage | 0050 | 23.60 | $1,227.41 |  | $245.48
27333 | T | Removal of knee cartilage | 0050 | 23.60 | $1,227.41 |  | $245.48
27334 | T | Remove knee joint lining | 0050 | 23.60 | $1,227.41 |  | $245.48
27335 | T | Remove knee joint lining | 0050 | 23.60 | $1,227.41 |  | $245.48
27340 | T | Removal of kneecap bursa | 0049 | 19.45 | $1,011.58 |  | $202.32
27345 | T | Removal of knee cyst | 0049 | 19.45 | $1,011.58 |  | $202.32
27347 | T | Remove knee cyst | 0049 | 19.45 | $1,011.58 |  | $202.32
27350 | T | Removal of kneecap | 0050 | 23.60 | $1,227.41 |  | $245.48
27355 | T | Remove femur lesion | 0050 | 23.60 | $1,227.41 |  | $245.48
27356 | T | Remove femur lesion/graft | 0050 | 23.60 | $1,227.41 |  | $245.48
27357 | T | Remove femur lesion/graft | 0050 | 23.60 | $1,227.41 |  | $245.48
27358 | T | Remove femur lesion/fixation | 0050 | 23.60 | $1,227.41 |  | $245.48
27360 | T | Partial removal, leg bone(s) | 0050 | 23.60 | $1,227.41 |  | $245.48
27365 | C | Extensive leg surgery |  |  |  |  |
27370 | N | Injection for knee x-ray |  |  |  |  |
27372 | T | Removal of foreign body | 0022 | 18.10 | $941.36 | $367.13 | $188.27
27380 | T | Repair of kneecap tendon | 0049 | 19.45 | $1,011.58 |  | $202.32
27381 | T | Repair/graft kneecap tendon | 0049 | 19.45 | $1,011.58 |  | $202.32
27385 | T | Repair of thigh muscle | 0049 | 19.45 | $1,011.58 |  | $202.32
27386 | T | Repair/graft of thigh muscle | 0049 | 19.45 | $1,011.58 |  | $202.32
27390 | T | Incision of thigh tendon | 0049 | 19.45 | $1,011.58 |  | $202.32
27391 | T | Incision of thigh tendons | 0049 | 19.45 | $1,011.58 |  | $202.32
27392 | T | Incision of thigh tendons | 0049 | 19.45 | $1,011.58 |  | $202.32
27393 | T | Lengthening of thigh tendon | 0050 | 23.60 | $1,227.41 |  | $245.48
27394 | T | Lengthening of thigh tendons | 0050 | 23.60 | $1,227.41 |  | $245.48
27395 | T | Lengthening of thigh tendons | 0051 | 34.03 | $1,769.87 |  | $353.97
27396 | T | Transplant of thigh tendon | 0050 | 23.60 | $1,227.41 |  | $245.48
27397 | T | Transplants of thigh tendons | 0051 | 34.03 | $1,769.87 |  | $353.97
27400 | T | Revise thigh muscles/tendons | 0051 | 34.03 | $1,769.87 |  | $353.97
27403 | T | Repair of knee cartilage | 0050 | 23.60 | $1,227.41 |  | $245.48
27405 | T | Repair of knee ligament | 0051 | 34.03 | $1,769.87 |  | $353.97
27407 | T | Repair of knee ligament | 0051 | 34.03 | $1,769.87 |  | $353.97
27409 | T | Repair of knee ligaments | 0051 | 34.03 | $1,769.87 |  | $353.97
27418 | T | Repair degenerated kneecap | 0051 | 34.03 | $1,769.87 |  | $353.97
27420 | T | Revision of unstable kneecap | 0051 | 34.03 | $1,769.87 |  | $353.97
27422 | T | Revision of unstable kneecap | 0051 | 34.03 | $1,769.87 |  | $353.97
27424 | T | Revision/removal of kneecap | 0051 | 34.03 | $1,769.87 |  | $353.97
27425 | T | Lateral retinacular release | 0050 | 23.60 | $1,227.41 |  | $245.48
27427 | T | Reconstruction, knee | 0052 | 42.37 | $2,203.62 |  | $440.72
27428 | T | Reconstruction, knee | 0052 | 42.37 | $2,203.62 |  | $440.72
27429 | T | Reconstruction, knee | 0052 | 42.37 | $2,203.62 |  | $440.72
27430 | T | Revision of thigh muscles | 0051 | 34.03 | $1,769.87 |  | $353.97
27435 | T | Incision of knee joint | 0051 | 34.03 | $1,769.87 |  | $353.97
27437 | T | Revise kneecap | 0047 | 29.59 | $1,538.95 | $537.03 | $307.79
27438 | T | Revise kneecap with implant | 0048 | 36.93 | $1,920.69 | $633.83 | $384.14
27440 | T | Revision of knee joint | 0047 | 29.59 | $1,538.95 | $537.03 | $307.79
27441 | T | Revision of knee joint | 0047 | 29.59 | $1,538.95 | $537.03 | $307.79
27442 | T | Revision of knee joint | 0047 | 29.59 | $1,538.95 | $537.03 | $307.79
27443 | T | Revision of knee joint | 0047 | 29.59 | $1,538.95 | $537.03 | $307.79
27445 | C | Revision of knee joint |  |  |  |  |
27446 | T | Revision of knee joint | 0681 | 158.14 | $8,224.70 | $3,289.88 | $1,644.94
27447 | C | Total knee arthroplasty |  |  |  |  |
27448 | C | Incision of thigh |  |  |  |  |
27450 | C | Incision of thigh |  |  |  |  |
27454 | C | Realignment of thigh bone |  |  |  |  |
27455 | C | Realignment of knee |  |  |  |  |
27457 | C | Realignment of knee |  |  |  |  |
27465 | C | Shortening of thigh bone |  |  |  |  |
27466 | C | Lengthening of thigh bone |  |  |  |  |
27468 | C | Shorten/lengthen thighs |  |  |  |  |
27470 | C | Repair of thigh |  |  |  |  |
27472 | C | Repair/graft of thigh |  |  |  |  |
27475 | C | Surgery to stop leg growth |  |  |  |  |
27477 | C | Surgery to stop leg growth |  |  |  |  |
27479 | C | Surgery to stop leg growth |  |  |  |  |
27485 | C | Surgery to stop leg growth |  |  |  |  |
27486 | C | Revise/replace knee joint |  |  |  |  |
27487 | C | Revise/replace knee joint |  |  |  |  |
27488 | C | Removal of knee prosthesis |  |  |  |  |
27495 | C | Reinforce thigh |  |  |  |  |
27496 | T | Decompression of thigh/knee | 0049 | 19.45 | $1,011.58 |  | $202.32
27497 | T | Decompression of thigh/knee | 0049 | 19.45 | $1,011.58 |  | $202.32
27498 | T | Decompression of thigh/knee | 0049 | 19.45 | $1,011.58 |  | $202.32
27499 | T | Decompression of thigh/knee | 0049 | 19.45 | $1,011.58 |  | $202.32
27500 | T | Treatment of thigh fracture | 0043 | 1.68 | $87.38 |  | $17.48
27501 | T | Treatment of thigh fracture | 0043 | 1.68 | $87.38 |  | $17.48
27502 | T | Treatment of thigh fracture | 0043 | 1.68 | $87.38 |  | $17.48
27503 | T | Treatment of thigh fracture | 0043 | 1.68 | $87.38 |  | $17.48
27506 | C | Treatment of thigh fracture |  |  |  |  |
27507 | C | Treatment of thigh fracture |  |  |  |  |
27508 | T | Treatment of thigh fracture | 0043 | 1.68 | $87.38 |  | $17.48
27509 | T | Treatment of thigh fracture | 0046 | 29.03 | $1,509.82 | $535.76 | $301.96
27510 | T | Treatment of thigh fracture | 0043 | 1.68 | $87.38 |  | $17.48
27511 | C | Treatment of thigh fracture |  |  |  |  |
27513 | C | Treatment of thigh fracture |  |  |  |  |
27514 | C | Treatment of thigh fracture |  |  |  |  |
27516 | T | Treat thigh fx growth plate | 0043 | 1.68 | $87.38 |  | $17.48
27517 | T | Treat thigh fx growth plate | 0043 | 1.68 | $87.38 |  | $17.48
27519 | C | Treat thigh fx growth plate |  |  |  |  |
27520 | T | Treat kneecap fracture | 0043 | 1.68 | $87.38 |  | $17.48
27524 | T | Treat kneecap fracture | 0046 | 29.03 | $1,509.82 | $535.76 | $301.96
27530 | T | Treat knee fracture | 0043 | 1.68 | $87.38 |  | $17.48
27532 | T | Treat knee fracture | 0043 | 1.68 | $87.38 |  | $17.48
27535 | C | Treat knee fracture |  |  |  |  |
27536 | C | Treat knee fracture |  |  |  |  |
27538 | T | Treat knee fracture(s) | 0043 | 1.68 | $87.38 |  | $17.48
27540 | C | Treat knee fracture |  |  |  |  |
27550 | T | Treat knee dislocation | 0043 | 1.68 | $87.38 |  | $17.48
27552 | T | Treat knee dislocation | 0045 | 13.47 | $700.56 | $280.22 | $140.11
27556 | C | Treat knee dislocation |  |  |  |  |
27557 | C | Treat knee dislocation |  |  |  |  |
27558 | C | Treat knee dislocation |  |  |  |  |
27560 | T | Treat kneecap dislocation | 0043 | 1.68 | $87.38 |  | $17.48
27562 | T | Treat kneecap dislocation | 0045 | 13.47 | $700.56 | $280.22 | $140.11
27566 | T | Treat kneecap dislocation | 0046 | 29.03 | $1,509.82 | $535.76 | $301.96
27570 | T | Fixation of knee joint | 0045 | 13.47 | $700.56 | $280.22 | $140.11
27580 | C | Fusion of knee |  |  |  |  |
27590 | C | Amputate leg at thigh |  |  |  |  |
27591 | C | Amputate leg at thigh |  |  |  |  |
27592 | C | Amputate leg at thigh |  |  |  |  |
27594 | T | Amputation follow-up surgery | 0049 | 19.45 | $1,011.58 |  | $202.32
27596 | C | Amputation follow-up surgery |  |  |  |  |
27598 | C | Amputate lower leg at knee |  |  |  |  |
27599 | T | Leg surgery procedure | 0043 | 1.68 | $87.38 |  | $17.48
27600 | T | Decompression of lower leg | 0049 | 19.45 | $1,011.58 |  | $202.32
27601 | T | Decompression of lower leg | 0049 | 19.45 | $1,011.58 |  | $202.32
27602 | T | Decompression of lower leg | 0049 | 19.45 | $1,011.58 |  | $202.32
27603 | T | Drain lower leg lesion | 0008 | 16.32 | $848.79 |  | $169.76
27604 | T | Drain lower leg bursa | 0049 | 19.45 | $1,011.58 |  | $202.32
27605 | T | Incision of achilles tendon | 0055 | 18.28 | $950.72 | $355.34 | $190.14
27606 | T | Incision of achilles tendon | 0049 | 19.45 | $1,011.58 |  | $202.32
27607 | T | Treat lower leg bone lesion | 0049 | 19.45 | $1,011.58 |  | $202.32
27610 | T | Explore/treat ankle joint | 0050 | 23.60 | $1,227.41 |  | $245.48
27612 | T | Exploration of ankle joint | 0050 | 23.60 | $1,227.41 |  | $245.48
27613 | T | Biopsy lower leg soft tissue | 0020 | 7.36 | $382.79 | $114.84 | $76.56
27614 | T | Biopsy lower leg soft tissue | 0022 | 18.10 | $941.36 | $367.13 | $188.27
27615 | T | Remove tumor, lower leg | 0046 | 29.03 | $1,509.82 | $535.76 | $301.96
27618 | T | Remove lower leg lesion | 0021 | 14.58 | $758.29 | $227.49 | $151.66
27619 | T | Remove lower leg lesion | 0022 | 18.10 | $941.36 | $367.13 | $188.27
27620 | T | Explore/treat ankle joint | 0050 | 23.60 | $1,227.41 |  | $245.48
27625 | T | Remove ankle joint lining | 0050 | 23.60 | $1,227.41 |  | $245.48
27626 | T | Remove ankle joint lining | 0050 | 23.60 | $1,227.41 |  | $245.48
27630 | T | Removal of tendon lesion | 0049 | 19.45 | $1,011.58 |  | $202.32
27635 | T | Remove lower leg bone lesion | 0050 | 23.60 | $1,227.41 |  | $245.48
27637 | T | Remove/graft leg bone lesion | 0050 | 23.60 | $1,227.41 |  | $245.48
27638 | T | Remove/graft leg bone lesion | 0050 | 23.60 | $1,227.41 |  | $245.48
27640 | T | Partial removal of tibia | 0051 | 34.03 | $1,769.87 |  | $353.97
27641 | T | Partial removal of fibula | 0050 | 23.60 | $1,227.41 |  | $245.48
27645 | C | Extensive lower leg surgery |  |  |  |  |
27646 | C | Extensive lower leg surgery |  |  |  |  |
27647 | T | Extensive ankle/heel surgery | 0051 | 34.03 | $1,769.87 |  | $353.97
27648 | N | Injection for ankle x-ray |  |  |  |  |
27650 | T | Repair achilles tendon | 0051 | 34.03 | $1,769.87 |  | $353.97
27652 | T | Repair/graft achilles tendon | 0051 | 34.03 | $1,769.87 |  | $353.97
27654 | T | Repair of achilles tendon | 0051 | 34.03 | $1,769.87 |  | $353.97
27656 | T | Repair leg fascia defect | 0049 | 19.45 | $1,011.58 |  | $202.32
27658 | T | Repair of leg tendon, each | 0049 | 19.45 | $1,011.58 |  | $202.32
27659 | T | Repair of leg tendon, each | 0049 | 19.45 | $1,011.58 |  | $202.32
27664 | T | Repair of leg tendon, each | 0049 | 19.45 | $1,011.58 |  | $202.32
27665 | T | Repair of leg tendon, each | 0050 | 23.60 | $1,227.41 |  | $245.48
27675 | T | Repair lower leg tendons | 0049 | 19.45 | $1,011.58 |  | $202.32
27676 | T | Repair lower leg tendons | 0050 | 23.60 | $1,227.41 |  | $245.48
27680 | T | Release of lower leg tendon | 0050 | 23.60 | $1,227.41 |  | $245.48
27681 | T | Release of lower leg tendons | 0050 | 23.60 | $1,227.41 |  | $245.48
27685 | T | Revision of lower leg tendon | 0050 | 23.60 | $1,227.41 |  | $245.48
27686 | T | Revise lower leg tendons | 0050 | 23.60 | $1,227.41 |  | $245.48
27687 | T | Revision of calf tendon | 0050 | 23.60 | $1,227.41 |  | $245.48
27690 | T | Revise lower leg tendon | 0051 | 34.03 | $1,769.87 |  | $353.97
27691 | T | Revise lower leg tendon | 0051 | 34.03 | $1,769.87 |  | $353.97
27692 | T | Revise additional leg tendon | 0051 | 34.03 | $1,769.87 |  | $353.97
27695 | T | Repair of ankle ligament | 0050 | 23.60 | $1,227.41 |  | $245.48
27696 | T | Repair of ankle ligaments | 0050 | 23.60 | $1,227.41 |  | $245.48
27698 | T | Repair of ankle ligament | 0050 | 23.60 | $1,227.41 |  | $245.48
27700 | T | Revision of ankle joint | 0047 | 29.59 | $1,538.95 | $537.03 | $307.79
27702 | C | Reconstruct ankle joint |  |  |  |  |
27703 | C | Reconstruction, ankle joint |  |  |  |  |
27704 | T | Removal of ankle implant | 0049 | 19.45 | $1,011.58 |  | $202.32
27705 | T | Incision of tibia | 0051 | 34.03 | $1,769.87 |  | $353.97
27707 | T | Incision of fibula | 0049 | 19.45 | $1,011.58 |  | $202.32
27709 | T | Incision of tibia & fibula | 0050 | 23.60 | $1,227.41 |  | $245.48
27712 | C | Realignment of lower leg |  |  |  |  |
27715 | C | Revision of lower leg |  |  |  |  |
27720 | C | Repair of tibia |  |  |  |  |
27722 | C | Repair/graft of tibia |  |  |  |  |
27724 | C | Repair/graft of tibia |  |  |  |  |
27725 | C | Repair of lower leg |  |  |  |  |
27727 | C | Repair of lower leg |  |  |  |  |
27730 | T | Repair of tibia epiphysis | 0050 | 23.60 | $1,227.41 |  | $245.48
27732 | T | Repair of fibula epiphysis | 0050 | 23.60 | $1,227.41 |  | $245.48
27734 | T | Repair lower leg epiphyses | 0050 | 23.60 | $1,227.41 |  | $245.48
27740 | T | Repair of leg epiphyses | 0050 | 23.60 | $1,227.41 |  | $245.48
27742 | T | Repair of leg epiphyses | 0051 | 34.03 | $1,769.87 |  | $353.97
27745 | T | Reinforce tibia | 0051 | 34.03 | $1,769.87 |  | $353.97
27750 | T | Treatment of tibia fracture | 0043 | 1.68 | $87.38 |  | $17.48
27752 | T | Treatment of tibia fracture | 0043 | 1.68 | $87.38 |  | $17.48
27756 | T | Treatment of tibia fracture | 0046 | 29.03 | $1,509.82 | $535.76 | $301.96
27758 | T | Treatment of tibia fracture | 0046 | 29.03 | $1,509.82 | $535.76 | $301.96
27759 | T | Treatment of tibia fracture | 0046 | 29.03 | $1,509.82 | $535.76 | $301.96
27760 | T | Treatment of ankle fracture | 0043 | 1.68 | $87.38 |  | $17.48
27762 | T | Treatment of ankle fracture | 0043 | 1.68 | $87.38 |  | $17.48
27766 | T | Treatment of ankle fracture | 0046 | 29.03 | $1,509.82 | $535.76 | $301.96
27780 | T | Treatment of fibula fracture | 0043 | 1.68 | $87.38 |  | $17.48
27781 | T | Treatment of fibula fracture | 0043 | 1.68 | $87.38 |  | $17.48
27784 | T | Treatment of fibula fracture | 0046 | 29.03 | $1,509.82 | $535.76 | $301.96
27786 | T | Treatment of ankle fracture | 0043 | 1.68 | $87.38 |  | $17.48
27788 | T | Treatment of ankle fracture | 0043 | 1.68 | $87.38 |  | $17.48
27792 | T | Treatment of ankle fracture | 0046 | 29.03 | $1,509.82 | $535.76 | $301.96
27808 | T | Treatment of ankle fracture | 0043 | 1.68 | $87.38 |  | $17.48
27810 | T | Treatment of ankle fracture | 0043 | 1.68 | $87.38 |  | $17.48
27814 | T | Treatment of ankle fracture | 0046 | 29.03 | $1,509.82 | $535.76 | $301.96
27816 | T | Treatment of ankle fracture | 0043 | 1.68 | $87.38 |  | $17.48
27818 | T | Treatment of ankle fracture | 0043 | 1.68 | $87.38 |  | $17.48
27822 | T | Treatment of ankle fracture | 0046 | 29.03 | $1,509.82 | $535.76 | $301.96
27823 | T | Treatment of ankle fracture | 0046 | 29.03 | $1,509.82 | $535.76 | $301.96
27824 | T | Treat lower leg fracture | 0043 | 1.68 | $87.38 |  | $17.48
27825 | T | Treat lower leg fracture | 0043 | 1.68 | $87.38 |  | $17.48
27826 | T | Treat lower leg fracture | 0046 | 29.03 | $1,509.82 | $535.76 | $301.96
27827 | T | Treat lower leg fracture | 0046 | 29.03 | $1,509.82 | $535.76 | $301.96
27828 | T | Treat lower leg fracture | 0046 | 29.03 | $1,509.82 | $535.76 | $301.96
27829 | T | Treat lower leg joint | 0046 | 29.03 | $1,509.82 | $535.76 | $301.96
27830 | T | Treat lower leg dislocation | 0043 | 1.68 | $87.38 |  | $17.48
27831 | T | Treat lower leg dislocation | 0043 | 1.68 | $87.38 |  | $17.48
27832 | T | Treat lower leg dislocation | 0046 | 29.03 | $1,509.82 | $535.76 | $301.96
27840 | T | Treat ankle dislocation | 0043 | 1.68 | $87.38 |  | $17.48
27842 | T | Treat ankle dislocation | 0045 | 13.47 | $700.56 | $280.22 | $140.11
27846 | T | Treat ankle dislocation | 0046 | 29.03 | $1,509.82 | $535.76 | $301.96
27848 | T | Treat ankle dislocation | 0046 | 29.03 | $1,509.82 | $535.76 | $301.96
27860 | T | Fixation of ankle joint | 0045 | 13.47 | $700.56 | $280.22 | $140.11
27870 | T | Fusion of ankle joint | 0051 | 34.03 | $1,769.87 |  | $353.97
27871 | T | Fusion of tibiofibular joint | 0051 | 34.03 | $1,769.87 |  | $353.97
27880 | C | Amputation of lower leg |  |  |  |  |
27881 | C | Amputation of lower leg |  |  |  |  |
27882 | C | Amputation of lower leg |  |  |  |  |
27884 | T | Amputation follow-up surgery | 0049 | 19.45 | $1,011.58 |  | $202.32
27886 | C | Amputation follow-up surgery |  |  |  |  |
27888 | C | Amputation of foot at ankle |  |  |  |  |
27889 | T | Amputation of foot at ankle | 0050 | 23.60 | $1,227.41 |  | $245.48
27892 | T | Decompression of leg | 0049 | 19.45 | $1,011.58 |  | $202.32
27893 | T | Decompression of leg | 0049 | 19.45 | $1,011.58 |  | $202.32
27894 | T | Decompression of leg | 0049 | 19.45 | $1,011.58 |  | $202.32
27899 | T | Leg/ankle surgery procedure | 0043 | 1.68 | $87.38 |  | $17.48
28001 | T | Drainage of bursa of foot | 0008 | 16.32 | $848.79 |  | $169.76
28002 | T | Treatment of foot infection | 0049 | 19.45 | $1,011.58 |  | $202.32
28003 | T | Treatment of foot infection | 0049 | 19.45 | $1,011.58 |  | $202.32
28005 | T | Treat foot bone lesion | 0055 | 18.28 | $950.72 | $355.34 | $190.14
28008 | T | Incision of foot fascia | 0055 | 18.28 | $950.72 | $355.34 | $190.14
28010 | T | Incision of toe tendon | 0055 | 18.28 | $950.72 | $355.34 | $190.14
28011 | T | Incision of toe tendons | 0055 | 18.28 | $950.72 | $355.34 | $190.14
28020 | T | Exploration of foot joint | 0055 | 18.28 | $950.72 | $355.34 | $190.14
28022 | T | Exploration of foot joint | 0055 | 18.28 | $950.72 | $355.34 | $190.14
28024 | T | Exploration of toe joint | 0055 | 18.28 | $950.72 | $355.34 | $190.14
28030 | T | Removal of foot nerve | 0220 | 16.66 | $866.47 |  | $173.29
28035 | T | Decompression of tibia nerve | 0220 | 16.66 | $866.47 |  | $173.29
28043 | T | Excision of foot lesion | 0021 | 14.58 | $758.29 | $227.49 | $151.66
28045 | T | Excision of foot lesion | 0055 | 18.28 | $950.72 | $355.34 | $190.14
28046 | T | Resection of tumor, foot | 0055 | 18.28 | $950.72 | $355.34 | $190.14
28050 | T | Biopsy of foot joint lining | 0055 | 18.28 | $950.72 | $355.34 | $190.14
28052 | T | Biopsy of foot joint lining | 0055 | 18.28 | $950.72 | $355.34 | $190.14
28054 | T | Biopsy of toe joint lining | 0055 | 18.28 | $950.72 | $355.34 | $190.14
28060 | T | Partial removal, foot fascia | 0056 | 22.94 | $1,193.09 | $405.81 | $238.62
28062 | T | Removal of foot fascia | 0056 | 22.94 | $1,193.09 | $405.81 | $238.62
28070 | T | Removal of foot joint lining | 0056 | 22.94 | $1,193.09 | $405.81 | $238.62
28072 | T | Removal of foot joint lining | 0056 | 22.94 | $1,193.09 | $405.81 | $238.62
28080 | T | Removal of foot lesion | 0055 | 18.28 | $950.72 | $355.34 | $190.14
28086 | T | Excise foot tendon sheath | 0055 | 18.28 | $950.72 | $355.34 | $190.14
28088 | T | Excise foot tendon sheath | 0055 | 18.28 | $950.72 | $355.34 | $190.14
28090 | T | Removal of foot lesion | 0055 | 18.28 | $950.72 | $355.34 | $190.14
28092 | T | Removal of toe lesions | 0055 | 18.28 | $950.72 | $355.34 | $190.14
28100 | T | Removal of ankle/heel lesion | 0055 | 18.28 | $950.72 | $355.34 | $190.14
28102 | T | Remove/graft foot lesion | 0056 | 22.94 | $1,193.09 | $405.81 | $238.62
28103 | T | Remove/graft foot lesion | 0056 | 22.94 | $1,193.09 | $405.81 | $238.62
28104 | T | Removal of foot lesion | 0055 | 18.28 | $950.72 | $355.34 | $190.14
28106 | T | Remove/graft foot lesion | 0056 | 22.94 | $1,193.09 | $405.81 | $238.62
28107 | T | Remove/graft foot lesion | 0056 | 22.94 | $1,193.09 | $405.81 | $238.62
28108 | T | Removal of toe lesions | 0055 | 18.28 | $950.72 | $355.34 | $190.14
28110 | T | Part removal of metatarsal | 0056 | 22.94 | $1,193.09 | $405.81 | $238.62
28111 | T | Part removal of metatarsal | 0055 | 18.28 | $950.72 | $355.34 | $190.14
28112 | T | Part removal of metatarsal | 0055 | 18.28 | $950.72 | $355.34 | $190.14
28113 | T | Part removal of metatarsal | 0055 | 18.28 | $950.72 | $355.34 | $190.14
28114 | T | Removal of metatarsal heads | 0055 | 18.28 | $950.72 | $355.34 | $190.14
28116 | T | Revision of foot | 0055 | 18.28 | $950.72 | $355.34 | $190.14
28118 | T | Removal of heel bone | 0055 | 18.28 | $950.72 | $355.34 | $190.14
28119 | T | Removal of heel spur | 0055 | 18.28 | $950.72 | $355.34 | $190.14
28120 | T | Part removal of ankle/heel | 0055 | 18.28 | $950.72 | $355.34 | $190.14
28122 | T | Partial removal of foot bone | 0055 | 18.28 | $950.72 | $355.34 | $190.14
28124 | T | Partial removal of toe | 0055 | 18.28 | $950.72 | $355.34 | $190.14
28126 | T | Partial removal of toe | 0055 | 18.28 | $950.72 | $355.34 | $190.14
28130 | T | Removal of ankle bone | 0055 | 18.28 | $950.72 | $355.34 | $190.14
28140 | T | Removal of metatarsal | 0055 | 18.28 | $950.72 | $355.34 | $190.14
28150 | T | Removal of toe | 0055 | 18.28 | $950.72 | $355.34 | $190.14
28153 | T | Partial removal of toe | 0055 | 18.28 | $950.72 | $355.34 | $190.14
28160 | T | Partial removal of toe | 0055 | 18.28 | $950.72 | $355.34 | $190.14
28171 | T | Extensive foot surgery | 0055 | 18.28 | $950.72 | $355.34 | $190.14
28173 | T | Extensive foot surgery | 0055 | 18.28 | $950.72 | $355.34 | $190.14
28175 | T | Extensive foot surgery | 0055 | 18.28 | $950.72 | $355.34 | $190.14
28190 | T | Removal of foot foreign body | 0019 | 3.94 | $204.92 | $75.82 | $40.98
28192 | T | Removal of foot foreign body | 0021 | 14.58 | $758.29 | $227.49 | $151.66
28193 | T | Removal of foot foreign body | 0021 | 14.58 | $758.29 | $227.49 | $151.66
28200 | T | Repair of foot tendon | 0055 | 18.28 | $950.72 | $355.34 | $190.14
28202 | T | Repair/graft of foot tendon | 0056 | 22.94 | $1,193.09 | $405.81 | $238.62
28208 | T | Repair of foot tendon | 0055 | 18.28 | $950.72 | $355.34 | $190.14
28210 | T | Repair/graft of foot tendon | 0055 | 18.28 | $950.72 | $355.34 | $190.14
28220 | T | Release of foot tendon | 0055 | 18.28 | $950.72 | $355.34 | $190.14
28222 | T | Release of foot tendons | 0055 | 18.28 | $950.72 | $355.34 | $190.14
28225 | T | Release of foot tendon | 0055 | 18.28 | $950.72 | $355.34 | $190.14
28226 | T | Release of foot tendons | 0055 | 18.28 | $950.72 | $355.34 | $190.14
28230 | T | Incision of foot tendon(s) | 0055 | 18.28 | $950.72 | $355.34 | $190.14
28232 | T | Incision of toe tendon | 0055 | 18.28 | $950.72 | $355.34 | $190.14
28234 | T | Incision of foot tendon | 0055 | 18.28 | $950.72 | $355.34 | $190.14
28238 | T | Revision of foot tendon | 0056 | 22.94 | $1,193.09 | $405.81 | $238.62
28240 | T | Release of big toe | 0055 | 18.28 | $950.72 | $355.34 | $190.14
28250 | T | Revision of foot fascia | 0056 | 22.94 | $1,193.09 | $405.81 | $238.62
28260 | T | Release of midfoot joint | 0056 | 22.94 | $1,193.09 | $405.81 | $238.62
28261 | T | Revision of foot tendon | 0056 | 22.94 | $1,193.09 | $405.81 | $238.62
28262 | T | Revision of foot and ankle | 0056 | 22.94 | $1,193.09 | $405.81 | $238.62
28264 | T | Release of midfoot joint | 0056 | 22.94 | $1,193.09 | $405.81 | $238.62
28270 | T | Release of foot contracture | 0055 | 18.28 | $950.72 | $355.34 | $190.14
28272 | T | Release of toe joint, each | 0055 | 18.28 | $950.72 | $355.34 | $190.14
28280 | T | Fusion of toes | 0055 | 18.28 | $950.72 | $355.34 | $190.14
28285 | T | Repair of hammertoe | 0055 | 18.28 | $950.72 | $355.34 | $190.14
28286 | T | Repair of hammertoe | 0055 | 18.28 | $950.72 | $355.34 | $190.14
28288 | T | Partial removal of foot bone | 0056 | 22.94 | $1,193.09 | $405.81 | $238.62
28289 | T | Repair hallux rigidus | 0056 | 22.94 | $1,193.09 | $405.81 | $238.62
28290 | T | Correction of bunion | 0056 | 22.94 | $1,193.09 | $405.81 | $238.62
28292 | T | Correction of bunion | 0057 | 23.87 | $1,241.45 | $496.58 | $248.29
28293 | T | Correction of bunion | 0057 | 23.87 | $1,241.45 | $496.58 | $248.29
28294 | T | Correction of bunion | 0056 | 22.94 | $1,193.09 | $405.81 | $238.62
28296 | T | Correction of bunion | 0056 | 22.94 | $1,193.09 | $405.81 | $238.62
28297 | T | Correction of bunion | 0057 | 23.87 | $1,241.45 | $496.58 | $248.29
28298 | T | Correction of bunion | 0056 | 22.94 | $1,193.09 | $405.81 | $238.62
28299 | T | Correction of bunion | 0057 | 23.87 | $1,241.45 | $496.58 | $248.29
28300 | T | Incision of heel bone | 0056 | 22.94 | $1,193.09 | $405.81 | $238.62
28302 | T | Incision of ankle bone | 0056 | 22.94 | $1,193.09 | $405.81 | $238.62
28304 | T | Incision of midfoot bones | 0056 | 22.94 | $1,193.09 | $405.81 | $238.62
28305 | T | Incise/graft midfoot bones | 0056 | 22.94 | $1,193.09 | $405.81 | $238.62
28306 | T | Incision of metatarsal | 0056 | 22.94 | $1,193.09 | $405.81 | $238.62
28307 | T | Incision of metatarsal | 0056 | 22.94 | $1,193.09 | $405.81 | $238.62
28308 | T | Incision of metatarsal | 0056 | 22.94 | $1,193.09 | $405.81 | $238.62
28309 | T | Incision of metatarsals | 0056 | 22.94 | $1,193.09 | $405.81 | $238.62
28310 | T | Revision of big toe | 0055 | 18.28 | $950.72 | $355.34 | $190.14
28312 | T | Revision of toe | 0055 | 18.28 | $950.72 | $355.34 | $190.14
28313 | T | Repair deformity of toe | 0055 | 18.28 | $950.72 | $355.34 | $190.14
28315 | T | Removal of sesamoid bone | 0055 | 18.28 | $950.72 | $355.34 | $190.14
28320 | T | Repair of foot bones | 0056 | 22.94 | $1,193.09 | $405.81 | $238.62
28322 | T | Repair of metatarsals | 0056 | 22.94 | $1,193.09 | $405.81 | $238.62
28340 | T | Resect enlarged toe tissue | 0055 | 18.28 | $950.72 | $355.34 | $190.14
28341 | T | Resect enlarged toe | 0055 | 18.28 | $950.72 | $355.34 | $190.14
28344 | T | Repair extra toe(s) | 0056 | 22.94 | $1,193.09 | $405.81 | $238.62
28345 | T | Repair webbed toe(s) | 0056 | 22.94 | $1,193.09 | $405.81 | $238.62
28360 | T | Reconstruct cleft foot | 0056 | 22.94 | $1,193.09 | $405.81 | $238.62
28400 | T | Treatment of heel fracture | 0043 | 1.68 | $87.38 |  | $17.48
28405 | T | Treatment of heel fracture | 0043 | 1.68 | $87.38 |  | $17.48
28406 | T | Treatment of heel fracture | 0046 | 29.03 | $1,509.82 | $535.76 | $301.96
28415 | T | Treat heel fracture | 0046 | 29.03 | $1,509.82 | $535.76 | $301.96
28420 | T | Treat/graft heel fracture | 0046 | 29.03 | $1,509.82 | $535.76 | $301.96
28430 | T | Treatment of ankle fracture | 0043 | 1.68 | $87.38 |  | $17.48
28435 | T | Treatment of ankle fracture | 0043 | 1.68 | $87.38 |  | $17.48
28436 | T | Treatment of ankle fracture | 0046 | 29.03 | $1,509.82 | $535.76 | $301.96
28445 | T | Treat ankle fracture | 0046 | 29.03 | $1,509.82 | $535.76 | $301.96
28450 | T | Treat midfoot fracture, each | 0043 | 1.68 | $87.38 |  | $17.48
28455 | T | Treat midfoot fracture, each | 0043 | 1.68 | $87.38 |  | $17.48
28456 | T | Treat midfoot fracture | 0046 | 29.03 | $1,509.82 | $535.76 | $301.96
28465 | T | Treat midfoot fracture, each | 0046 | 29.03 | $1,509.82 | $535.76 | $301.96
28470 | T | Treat metatarsal fracture | 0043 | 1.68 | $87.38 |  | $17.48
28475 | T | Treat metatarsal fracture | 0043 | 1.68 | $87.38 |  | $17.48
28476 | T | Treat metatarsal fracture | 0046 | 29.03 | $1,509.82 | $535.76 | $301.96
28485 | T | Treat metatarsal fracture | 0046 | 29.03 | $1,509.82 | $535.76 | $301.96
28490 | T | Treat big toe fracture | 0043 | 1.68 | $87.38 |  | $17.48
28495 | T | Treat big toe fracture | 0043 | 1.68 | $87.38 |  | $17.48
28496 | T | Treat big toe fracture | 0046 | 29.03 | $1,509.82 | $535.76 | $301.96
28505 | T | Treat big toe fracture | 0046 | 29.03 | $1,509.82 | $535.76 | $301.96
28510 | T | Treatment of toe fracture | 0043 | 1.68 | $87.38 |  | $17.48
28515 | T | Treatment of toe fracture | 0043 | 1.68 | $87.38 |  | $17.48
28525 | T | Treat toe fracture | 0046 | 29.03 | $1,509.82 | $535.76 | $301.96
28530 | T | Treat sesamoid bone fracture | 0043 | 1.68 | $87.38 |  | $17.48
28531 | T | Treat sesamoid bone fracture | 0046 | 29.03 | $1,509.82 | $535.76 | $301.96
28540 | T | Treat foot dislocation | 0043 | 1.68 | $87.38 |  | $17.48
28545 | T | Treat foot dislocation | 0045 | 13.47 | $700.56 | $280.22 | $140.11
28546 | T | Treat foot dislocation | 0046 | 29.03 | $1,509.82 | $535.76 | $301.96
28555 | T | Repair foot dislocation | 0046 | 29.03 | $1,509.82 | $535.76 | $301.96
28570 | T | Treat foot dislocation | 0043 | 1.68 | $87.38 |  | $17.48
28575 | T | Treat foot dislocation | 0043 | 1.68 | $87.38 |  | $17.48
28576 | T | Treat foot dislocation | 0046 | 29.03 | $1,509.82 | $535.76 | $301.96
28585 | T | Repair foot dislocation | 0046 | 29.03 | $1,509.82 | $535.76 | $301.96
28600 | T | Treat foot dislocation | 0043 | 1.68 | $87.38 |  | $17.48
28605 | T | Treat foot dislocation | 0043 | 1.68 | $87.38 |  | $17.48
28606 | T | Treat foot dislocation | 0046 | 29.03 | $1,509.82 | $535.76 | $301.96
28615 | T | Repair foot dislocation | 0046 | 29.03 | $1,509.82 | $535.76 | $301.96
28630 | T | Treat toe dislocation | 0043 | 1.68 | $87.38 |  | $17.48
28635 | T | Treat toe dislocation | 0045 | 13.47 | $700.56 | $280.22 | $140.11
28636 | T | Treat toe dislocation | 0046 | 29.03 | $1,509.82 | $535.76 | $301.96
28645 | T | Repair toe dislocation | 0046 | 29.03 | $1,509.82 | $535.76 | $301.96
28660 | T | Treat toe dislocation | 0043 | 1.68 | $87.38 |  | $17.48
28665 | T | Treat toe dislocation | 0045 | 13.47 | $700.56 | $280.22 | $140.11
28666 | T | Treat toe dislocation | 0046 | 29.03 | $1,509.82 | $535.76 | $301.96
28675 | T | Repair of toe dislocation | 0046 | 29.03 | $1,509.82 | $535.76 | $301.96
28705 | T | Fusion of foot bones | 0056 | 22.94 | $1,193.09 | $405.81 | $238.62
28715 | T | Fusion of foot bones | 0056 | 22.94 | $1,193.09 | $405.81 | $238.62
28725 | T | Fusion of foot bones | 0056 | 22.94 | $1,193.09 | $405.81 | $238.62
28730 | T | Fusion of foot bones | 0056 | 22.94 | $1,193.09 | $405.81 | $238.62
28735 | T | Fusion of foot bones | 0056 | 22.94 | $1,193.09 | $405.81 | $238.62
28737 | T | Revision of foot bones | 0055 | 18.28 | $950.72 | $355.34 | $190.14
28740 | T | Fusion of foot bones | 0056 | 22.94 | $1,193.09 | $405.81 | $238.62
28750 | T | Fusion of big toe joint | 0055 | 18.28 | $950.72 | $355.34 | $190.14
28755 | T | Fusion of big toe joint | 0055 | 18.28 | $950.72 | $355.34 | $190.14
28760 | T | Fusion of big toe joint | 0056 | 22.94 | $1,193.09 | $405.81 | $238.62
28800 | C | Amputation of midfoot |  |  |  |  |
28805 | C | Amputation thru metatarsal |  |  |  |  |
28810 | T | Amputation toe & metatarsal | 0055 | 18.28 | $950.72 | $355.34 | $190.14
28820 | T | Amputation of toe | 0055 | 18.28 | $950.72 | $355.34 | $190.14
28825 | T | Partial amputation of toe | 0055 | 18.28 | $950.72 | $355.34 | $190.14
28899 | T | Foot/toes surgery procedure | 0043 | 1.68 | $87.38 |  | $17.48
29000 | S | Application of body cast | 0058 | 1.09 | $56.69 | $14.74 | $11.34
29010 | S | Application of body cast | 0058 | 1.09 | $56.69 | $14.74 | $11.34
29015 | S | Application of body cast | 0058 | 1.09 | $56.69 | $14.74 | $11.34
29020 | S | Application of body cast | 0058 | 1.09 | $56.69 | $14.74 | $11.34
29025 | S | Application of body cast | 0058 | 1.09 | $56.69 | $14.74 | $11.34
29035 | S | Application of body cast | 0058 | 1.09 | $56.69 | $14.74 | $11.34
29040 | S | Application of body cast | 0058 | 1.09 | $56.69 | $14.74 | $11.34
29044 | S | Application of body cast | 0058 | 1.09 | $56.69 | $14.74 | $11.34
29046 | S | Application of body cast | 0058 | 1.09 | $56.69 | $14.74 | $11.34
29049 | S | Application of figure eight | 0058 | 1.09 | $56.69 | $14.74 | $11.34
29055 | S | Application of shoulder cast | 0058 | 1.09 | $56.69 | $14.74 | $11.34
29058 | S | Application of shoulder cast | 0058 | 1.09 | $56.69 | $14.74 | $11.34
29065 | S | Application of long arm cast | 0058 | 1.09 | $56.69 | $14.74 | $11.34
29075 | S | Application of forearm cast | 0058 | 1.09 | $56.69 | $14.74 | $11.34
29085 | S | Apply hand/wrist cast | 0058 | 1.09 | $56.69 | $14.74 | $11.34
29086 | S | Apply finger cast | 0058 | 1.09 | $56.69 | $14.74 | $11.34
29105 | S | Apply long arm splint | 0058 | 1.09 | $56.69 | $14.74 | $11.34
29125 | S | Apply forearm splint | 0058 | 1.09 | $56.69 | $14.74 | $11.34
29126 | S | Apply forearm splint | 0058 | 1.09 | $56.69 | $14.74 | $11.34
29130 | S | Application of finger splint | 0058 | 1.09 | $56.69 | $14.74 | $11.34
29131 | S | Application of finger splint | 0058 | 1.09 | $56.69 | $14.74 | $11.34
29200 | S | Strapping of chest | 0058 | 1.09 | $56.69 | $14.74 | $11.34
29220 | S | Strapping of low back | 0058 | 1.09 | $56.69 | $14.74 | $11.34
29240 | S | Strapping of shoulder | 0058 | 1.09 | $56.69 | $14.74 | $11.34
29260 | S | Strapping of elbow or wrist | 0058 | 1.09 | $56.69 | $14.74 | $11.34
29280 | S | Strapping of hand or finger | 0058 | 1.09 | $56.69 | $14.74 | $11.34
29305 | S | Application of hip cast | 0058 | 1.09 | $56.69 | $14.74 | $11.34
29325 | S | Application of hip casts | 0058 | 1.09 | $56.69 | $14.74 | $11.34
29345 | S | Application of long leg cast | 0058 | 1.09 | $56.69 | $14.74 | $11.34
29355 | S | Application of long leg cast | 0058 | 1.09 | $56.69 | $14.74 | $11.34
29358 | S | Apply long leg cast brace | 0058 | 1.09 | $56.69 | $14.74 | $11.34
29365 | S | Application of long leg cast | 0058 | 1.09 | $56.69 | $14.74 | $11.34
29405 | S | Apply short leg cast | 0058 | 1.09 | $56.69 | $14.74 | $11.34
29425 | S | Apply short leg cast | 0058 | 1.09 | $56.69 | $14.74 | $11.34
29435 | S | Apply short leg cast | 0058 | 1.09 | $56.69 | $14.74 | $11.34
29440 | S | Addition of walker to cast | 0058 | 1.09 | $56.69 | $14.74 | $11.34
29445 | S | Apply rigid leg cast | 0058 | 1.09 | $56.69 | $14.74 | $11.34
29450 | S | Application of leg cast | 0058 | 1.09 | $56.69 | $14.74 | $11.34
29505 | S | Application, long leg splint | 0058 | 1.09 | $56.69 | $14.74 | $11.34
29515 | S | Application lower leg splint | 0058 | 1.09 | $56.69 | $14.74 | $11.34
29520 | S | Strapping of hip | 0058 | 1.09 | $56.69 | $14.74 | $11.34
29530 | S | Strapping of knee | 0058 | 1.09 | $56.69 | $14.74 | $11.34
29540 | S | Strapping of ankle | 0058 | 1.09 | $56.69 | $14.74 | $11.34
29550 | S | Strapping of toes | 0058 | 1.09 | $56.69 | $14.74 | $11.34
29580 | S | Application of paste boot | 0058 | 1.09 | $56.69 | $14.74 | $11.34
29590 | S | Application of foot splint | 0058 | 1.09 | $56.69 | $14.74 | $11.34
29700 | S | Removal/revision of cast | 0058 | 1.09 | $56.69 | $14.74 | $11.34
29705 | S | Removal/revision of cast | 0058 | 1.09 | $56.69 | $14.74 | $11.34
29710 | S | Removal/revision of cast | 0058 | 1.09 | $56.69 | $14.74 | $11.34
29715 | S | Removal/revision of cast | 0058 | 1.09 | $56.69 | $14.74 | $11.34
29720 | S | Repair of body cast | 0058 | 1.09 | $56.69 | $14.74 | $11.34
29730 | S | Windowing of cast | 0058 | 1.09 | $56.69 | $14.74 | $11.34
29740 | S | Wedging of cast | 0058 | 1.09 | $56.69 | $14.74 | $11.34
29750 | S | Wedging of clubfoot cast | 0058 | 1.09 | $56.69 | $14.74 | $11.34
29799 | S | Casting/strapping procedure | 0058 | 1.09 | $56.69 | $14.74 | $11.34
29800 | T | Jaw arthroscopy/surgery | 0041 | 27.58 | $1,434.41 | $580.06 | $286.88
29804 | T | Jaw arthroscopy/surgery | 0041 | 27.58 | $1,434.41 | $580.06 | $286.88
29805 | T | Shoulder arthroscopy, dx | 0041 | 27.58 | $1,434.41 | $580.06 | $286.88
29806 | T | Shoulder arthroscopy/surgery | 0041 | 27.58 | $1,434.41 | $580.06 | $286.88
29807 | T | Shoulder arthroscopy/surgery | 0041 | 27.58 | $1,434.41 | $580.06 | $286.88
29819 | T | Shoulder arthroscopy/surgery | 0041 | 27.58 | $1,434.41 | $580.06 | $286.88
29820 | T | Shoulder arthroscopy/surgery | 0041 | 27.58 | $1,434.41 | $580.06 | $286.88
29821 | T | Shoulder arthroscopy/surgery | 0041 | 27.58 | $1,434.41 | $580.06 | $286.88
29822 | T | Shoulder arthroscopy/surgery | 0041 | 27.58 | $1,434.41 | $580.06 | $286.88
29823 | T | Shoulder arthroscopy/surgery | 0041 | 27.58 | $1,434.41 | $580.06 | $286.88
29824 | T | Shoulder arthroscopy/surgery | 0041 | 27.58 | $1,434.41 | $580.06 | $286.88
29825 | T | Shoulder arthroscopy/surgery | 0041 | 27.58 | $1,434.41 | $580.06 | $286.88
29826 | T | Shoulder arthroscopy/surgery | 0042 | 43.24 | $2,248.87 | $804.74 | $449.77
29830 | T | Elbow arthroscopy | 0041 | 27.58 | $1,434.41 | $580.06 | $286.88
29834 | T | Elbow arthroscopy/surgery | 0041 | 27.58 | $1,434.41 | $580.06 | $286.88
29835 | T | Elbow arthroscopy/surgery | 0042 | 43.24 | $2,248.87 | $804.74 | $449.77
29836 | T | Elbow arthroscopy/surgery | 0042 | 43.24 | $2,248.87 | $804.74 | $449.77
29837 | T | Elbow arthroscopy/surgery | 0041 | 27.58 | $1,434.41 | $580.06 | $286.88
29838 | T | Elbow arthroscopy/surgery | 0041 | 27.58 | $1,434.41 | $580.06 | $286.88
29840 | T | Wrist arthroscopy | 0041 | 27.58 | $1,434.41 | $580.06 | $286.88
29843 | T | Wrist arthroscopy/surgery | 0041 | 27.58 | $1,434.41 | $580.06 | $286.88
29844 | T | Wrist arthroscopy/surgery | 0041 | 27.58 | $1,434.41 | $580.06 | $286.88
29845 | T | Wrist arthroscopy/surgery | 0041 | 27.58 | $1,434.41 | $580.06 | $286.88
29846 | T | Wrist arthroscopy/surgery | 0041 | 27.58 | $1,434.41 | $580.06 | $286.88
29847 | T | Wrist arthroscopy/surgery | 0041 | 27.58 | $1,434.41 | $580.06 | $286.88
29848 | T | Wrist endoscopy/surgery | 0041 | 27.58 | $1,434.41 | $580.06 | $286.88
29850 | T | Knee arthroscopy/surgery | 0041 | 27.58 | $1,434.41 | $580.06 | $286.88
29851 | T | Knee arthroscopy/surgery | 0041 | 27.58 | $1,434.41 | $580.06 | $286.88
29855 | T | Tibial arthroscopy/surgery | 0042 | 43.24 | $2,248.87 | $804.74 | $449.77
29856 | T | Tibial arthroscopy/surgery | 0041 | 27.58 | $1,434.41 | $580.06 | $286.88
29860 | T | Hip arthroscopy, dx | 0041 | 27.58 | $1,434.41 | $580.06 | $286.88
29861 | T | Hip arthroscopy/surgery | 0041 | 27.58 | $1,434.41 | $580.06 | $286.88
29862 | T | Hip arthroscopy/surgery | 0042 | 43.24 | $2,248.87 | $804.74 | $449.77
29863 | T | Hip arthroscopy/surgery | 0042 | 43.24 | $2,248.87 | $804.74 | $449.77
29870 | T | Knee arthroscopy, dx | 0041 | 27.58 | $1,434.41 | $580.06 | $286.88
29871 | T | Knee arthroscopy/drainage | 0041 | 27.58 | $1,434.41 | $580.06 | $286.88
29874 | T | Knee arthroscopy/surgery | 0041 | 27.58 | $1,434.41 | $580.06 | $286.88
29875 | T | Knee arthroscopy/surgery | 0041 | 27.58 | $1,434.41 | $580.06 | $286.88
29876 | T | Knee arthroscopy/surgery | 0041 | 27.58 | $1,434.41 | $580.06 | $286.88
29877 | T | Knee arthroscopy/surgery | 0041 | 27.58 | $1,434.41 | $580.06 | $286.88
29879 | T | Knee arthroscopy/surgery | 0041 | 27.58 | $1,434.41 | $580.06 | $286.88
29880 | T | Knee arthroscopy/surgery | 0041 | 27.58 | $1,434.41 | $580.06 | $286.88
29881 | T | Knee arthroscopy/surgery | 0041 | 27.58 | $1,434.41 | $580.06 | $286.88
29882 | T | Knee arthroscopy/surgery | 0041 | 27.58 | $1,434.41 | $580.06 | $286.88
29883 | T | Knee arthroscopy/surgery | 0041 | 27.58 | $1,434.41 | $580.06 | $286.88
29884 | T | Knee arthroscopy/surgery | 0041 | 27.58 | $1,434.41 | $580.06 | $286.88
29885 | T | Knee arthroscopy/surgery | 0041 | 27.58 | $1,434.41 | $580.06 | $286.88
29886 | T | Knee arthroscopy/surgery | 0041 | 27.58 | $1,434.41 | $580.06 | $286.88
29887 | T | Knee arthroscopy/surgery | 0041 | 27.58 | $1,434.41 | $580.06 | $286.88
29888 | T | Knee arthroscopy/surgery | 0042 | 43.24 | $2,248.87 | $804.74 | $449.77
29889 | T | Knee arthroscopy/surgery | 0042 | 43.24 | $2,248.87 | $804.74 | $449.77
29891 | T | Ankle arthroscopy/surgery | 0041 | 27.58 | $1,434.41 | $580.06 | $286.88
29892 | T | Ankle arthroscopy/surgery | 0041 | 27.58 | $1,434.41 | $580.06 | $286.88
29893 | T | Scope, plantar fasciotomy | 0055 | 18.28 | $950.72 | $355.34 | $190.14
29894 | T | Ankle arthroscopy/surgery | 0041 | 27.58 | $1,434.41 | $580.06 | $286.88
29895 | T | Ankle arthroscopy/surgery | 0041 | 27.58 | $1,434.41 | $580.06 | $286.88
29897 | T | Ankle arthroscopy/surgery | 0041 | 27.58 | $1,434.41 | $580.06 | $286.88
29898 | T | Ankle arthroscopy/surgery | 0041 | 27.58 | $1,434.41 | $580.06 | $286.88
29900 | T | Mcp joint arthroscopy, dx | 0053 | 14.76 | $767.65 | $253.49 | $153.53
29901 | T | Mcp joint arthroscopy, surg | 0053 | 14.76 | $767.65 | $253.49 | $153.53
29902 | T | Mcp joint arthroscopy, surg | 0053 | 14.76 | $767.65 | $253.49 | $153.53
29999 | T | Arthroscopy of joint | 0041 | 27.58 | $1,434.41 | $580.06 | $286.88
30000 | T | Drainage of nose lesion | 0251 | 1.92 | $99.86 |  | $19.97
30020 | T | Drainage of nose lesion | 0251 | 1.92 | $99.86 |  | $19.97
30100 | T | Intranasal biopsy | 0252 | 6.27 | $326.10 | $114.24 | $65.22
30110 | T | Removal of nose polyp(s) | 0253 | 14.79 | $769.21 | $284.61 | $153.84
30115 | T | Removal of nose polyp(s) | 0253 | 14.79 | $769.21 | $284.61 | $153.84
30117 | T | Removal of intranasal lesion | 0253 | 14.79 | $769.21 | $284.61 | $153.84
30118 | T | Removal of intranasal lesion | 0254 | 21.89 | $1,138.48 | $352.93 | $227.70
30120 | T | Revision of nose | 0253 | 14.79 | $769.21 | $284.61 | $153.84
30124 | T | Removal of nose lesion | 0252 | 6.27 | $326.10 | $114.24 | $65.22
30125 | T | Removal of nose lesion | 0256 | 35.51 | $1,846.84 |  | $369.37
30130 | T | Removal of turbinate bones | 0253 | 14.79 | $769.21 | $284.61 | $153.84
30140 | T | Removal of turbinate bones | 0254 | 21.89 | $1,138.48 | $352.93 | $227.70
30150 | T | Partial removal of nose | 0256 | 35.51 | $1,846.84 |  | $369.37
30160 | T | Removal of nose | 0256 | 35.51 | $1,846.84 |  | $369.37
30200 | T | Injection treatment of nose | 0253 | 14.79 | $769.21 | $284.61 | $153.84
30210 | T | Nasal sinus therapy | 0252 | 6.27 | $326.10 | $114.24 | $65.22
30220 | T | Insert nasal septal button | 0252 | 6.27 | $326.10 | $114.24 | $65.22
30300 | X | Remove nasal foreign body | 0340 | 0.66 | $34.33 |  | $6.87
30310 | T | Remove nasal foreign body | 0253 | 14.79 | $769.21 | $284.61 | $153.84
30320 | T | Remove nasal foreign body | 0253 | 14.79 | $769.21 | $284.61 | $153.84
30400 | T | Reconstruction of nose | 0256 | 35.51 | $1,846.84 |  | $369.37
30410 | T | Reconstruction of nose | 0256 | 35.51 | $1,846.84 |  | $369.37
30420 | T | Reconstruction of nose | 0256 | 35.51 | $1,846.84 |  | $369.37
30430 | T | Revision of nose | 0254 | 21.89 | $1,138.48 | $352.93 | $227.70
30435 | T | Revision of nose | 0256 | 35.51 | $1,846.84 |  | $369.37
30450 | T | Revision of nose | 0256 | 35.51 | $1,846.84 |  | $369.37
30460 | T | Revision of nose | 0256 | 35.51 | $1,846.84 |  | $369.37
30462 | T | Revision of nose | 0256 | 35.51 | $1,846.84 |  | $369.37
30465 | T | Repair nasal stenosis | 0256 | 35.51 | $1,846.84 |  | $369.37
30520 | T | Repair of nasal septum | 0254 | 21.89 | $1,138.48 | $352.93 | $227.70
30540 | T | Repair nasal defect | 0256 | 35.51 | $1,846.84 |  | $369.37
30545 | T | Repair nasal defect | 0256 | 35.51 | $1,846.84 |  | $369.37
30560 | T | Release of nasal adhesions | 0251 | 1.92 | $99.86 |  | $19.97
30580 | T | Repair upper jaw fistula | 0256 | 35.51 | $1,846.84 |  | $369.37
30600 | T | Repair mouth/nose fistula | 0256 | 35.51 | $1,846.84 |  | $369.37
30620 | T | Intranasal reconstruction | 0256 | 35.51 | $1,846.84 |  | $369.37
30630 | T | Repair nasal septum defect | 0254 | 21.89 | $1,138.48 | $352.93 | $227.70
30801 | T | Cauterization, inner nose | 0252 | 6.27 | $326.10 | $114.24 | $65.22
30802 | T | Cauterization, inner nose | 0253 | 14.79 | $769.21 | $284.61 | $153.84
30901 | T | Control of nosebleed | 0250 | 1.68 | $87.38 | $30.58 | $17.48
30903 | T | Control of nosebleed | 0250 | 1.68 | $87.38 | $30.58 | $17.48
30905 | T | Control of nosebleed | 0250 | 1.68 | $87.38 | $30.58 | $17.48
30906 | T | Repeat control of nosebleed | 0250 | 1.68 | $87.38 | $30.58 | $17.48
30915 | T | Ligation, nasal sinus artery | 0091 | 27.03 | $1,405.80 | $348.23 | $281.16
30920 | T | Ligation, upper jaw artery | 0092 | 24.97 | $1,298.66 | $505.37 | $259.73
30930 | T | Therapy, fracture of nose | 0253 | 14.79 | $769.21 | $284.61 | $153.84
30999 | T | Nasal surgery procedure | 0251 | 1.92 | $99.86 |  | $19.97
31000 | T | Irrigation, maxillary sinus | 0251 | 1.92 | $99.86 |  | $19.97
31002 | T | Irrigation, sphenoid sinus | 0252 | 6.27 | $326.10 | $114.24 | $65.22
31020 | T | Exploration, maxillary sinus | 0254 | 21.89 | $1,138.48 | $352.93 | $227.70
31030 | T | Exploration, maxillary sinus | 0256 | 35.51 | $1,846.84 |  | $369.37
31032 | T | Explore sinus,remove polyps | 0256 | 35.51 | $1,846.84 |  | $369.37
31040 | T | Exploration behind upper jaw | 0254 | 21.89 | $1,138.48 | $352.93 | $227.70
31050 | T | Exploration, sphenoid sinus | 0256 | 35.51 | $1,846.84 |  | $369.37
31051 | T | Sphenoid sinus surgery | 0256 | 35.51 | $1,846.84 |  | $369.37
31070 | T | Exploration of frontal sinus | 0254 | 21.89 | $1,138.48 | $352.93 | $227.70
31075 | T | Exploration of frontal sinus | 0256 | 35.51 | $1,846.84 |  | $369.37
31080 | T | Removal of frontal sinus | 0256 | 35.51 | $1,846.84 |  | $369.37
31081 | T | Removal of frontal sinus | 0256 | 35.51 | $1,846.84 |  | $369.37
31084 | T | Removal of frontal sinus | 0256 | 35.51 | $1,846.84 |  | $369.37
31085 | T | Removal of frontal sinus | 0256 | 35.51 | $1,846.84 |  | $369.37
31086 | T | Removal of frontal sinus | 0256 | 35.51 | $1,846.84 |  | $369.37
31087 | T | Removal of frontal sinus | 0256 | 35.51 | $1,846.84 |  | $369.37
31090 | T | Exploration of sinuses | 0256 | 35.51 | $1,846.84 |  | $369.37
31200 | T | Removal of ethmoid sinus | 0256 | 35.51 | $1,846.84 |  | $369.37
31201 | T | Removal of ethmoid sinus | 0256 | 35.51 | $1,846.84 |  | $369.37
31205 | T | Removal of ethmoid sinus | 0256 | 35.51 | $1,846.84 |  | $369.37
31225 | C | Removal of upper jaw |  |  |  |  |
31230 | C | Removal of upper jaw |  |  |  |  |
31231 | T | Nasal endoscopy, dx | 0071 | 1.01 | $52.53 | $14.18 | $10.51
31233 | T | Nasal/sinus endoscopy, dx | 0072 | 1.66 | $86.33 | $37.99 | $17.27
31235 | T | Nasal/sinus endoscopy, dx | 0074 | 12.84 | $667.80 | $295.70 | $133.56
31237 | T | Nasal/sinus endoscopy, surg | 0075 | 20.41 | $1,061.50 | $445.92 | $212.30
31238 | T | Nasal/sinus endoscopy, surg | 0074 | 12.84 | $667.80 | $295.70 | $133.56
31239 | T | Nasal/sinus endoscopy, surg | 0075 | 20.41 | $1,061.50 | $445.92 | $212.30
31240 | T | Nasal/sinus endoscopy, surg | 0074 | 12.84 | $667.80 | $295.70 | $133.56
31254 | T | Revision of ethmoid sinus | 0075 | 20.41 | $1,061.50 | $445.92 | $212.30
31255 | T | Removal of ethmoid sinus | 0075 | 20.41 | $1,061.50 | $445.92 | $212.30
31256 | T | Exploration maxillary sinus | 0075 | 20.41 | $1,061.50 | $445.92 | $212.30
31267 | T | Endoscopy, maxillary sinus | 0075 | 20.41 | $1,061.50 | $445.92 | $212.30
31276 | T | Sinus endoscopy, surgical | 0075 | 20.41 | $1,061.50 | $445.92 | $212.30
31287 | T | Nasal/sinus endoscopy, surg | 0075 | 20.41 | $1,061.50 | $445.92 | $212.30
31288 | T | Nasal/sinus endoscopy, surg | 0075 | 20.41 | $1,061.50 | $445.92 | $212.30
31290 | C | Nasal/sinus endoscopy, surg |  |  |  |  |
31291 | C | Nasal/sinus endoscopy, surg |  |  |  |  |
31292 | C | Nasal/sinus endoscopy, surg |  |  |  |  |
31293 | C | Nasal/sinus endoscopy, surg |  |  |  |  |
31294 | C | Nasal/sinus endoscopy, surg |  |  |  |  |
31299 | T | Sinus surgery procedure | 0252 | 6.27 | $326.10 | $114.24 | $65.22
31300 | T | Removal of larynx lesion | 0256 | 35.51 | $1,846.84 |  | $369.37
31320 | T | Diagnostic incision, larynx | 0256 | 35.51 | $1,846.84 |  | $369.37
31360 | C | Removal of larynx |  |  |  |  |
31365 | C | Removal of larynx |  |  |  |  |
31367 | C | Partial removal of larynx |  |  |  |  |
31368 | C | Partial removal of larynx |  |  |  |  |
31370 | C | Partial removal of larynx |  |  |  |  |
31375 | C | Partial removal of larynx |  |  |  |  |
31380 | C | Partial removal of larynx |  |  |  |  |
31382 | C | Partial removal of larynx |  |  |  |  |
31390 | C | Removal of larynx & pharynx |  |  |  |  |
31395 | C | Reconstruct larynx & pharynx |  |  |  |  |
31400 | T | Revision of larynx | 0256 | 35.51 | $1,846.84 |  | $369.37
31420 | T | Removal of epiglottis | 0256 | 35.51 | $1,846.84 |  | $369.37
31500 | S | Insert emergency airway | 0094 | 2.68 | $139.38 | $47.39 | $27.88
31502 | T | Change of windpipe airway | 0121 | 2.17 | $112.86 | $45.14 | $22.57
31505 | T | Diagnostic laryngoscopy | 0072 | 1.66 | $86.33 | $37.99 | $17.27
31510 | T | Laryngoscopy with biopsy | 0074 | 12.84 | $667.80 | $295.70 | $133.56
31511 | T | Remove foreign body, larynx | 0072 | 1.66 | $86.33 | $37.99 | $17.27
31512 | T | Removal of larynx lesion | 0074 | 12.84 | $667.80 | $295.70 | $133.56
31513 | T | Injection into vocal cord | 0072 | 1.66 | $86.33 | $37.99 | $17.27
31515 | T | Laryngoscopy for aspiration | 0074 | 12.84 | $667.80 | $295.70 | $133.56
31520 | T | Diagnostic laryngoscopy | 0072 | 1.66 | $86.33 | $37.99 | $17.27
31525 | T | Diagnostic laryngoscopy | 0074 | 12.84 | $667.80 | $295.70 | $133.56
31526 | T | Diagnostic laryngoscopy | 0075 | 20.41 | $1,061.50 | $445.92 | $212.30
31527 | T | Laryngoscopy for treatment | 0075 | 20.41 | $1,061.50 | $445.92 | $212.30
31528 | T | Laryngoscopy and dilation | 0074 | 12.84 | $667.80 | $295.70 | $133.56
31529 | T | Laryngoscopy and dilation | 0074 | 12.84 | $667.80 | $295.70 | $133.56
31530 | T | Operative laryngoscopy | 0075 | 20.41 | $1,061.50 | $445.92 | $212.30
31531 | T | Operative laryngoscopy | 0075 | 20.41 | $1,061.50 | $445.92 | $212.30
31535 | T | Operative laryngoscopy | 0075 | 20.41 | $1,061.50 | $445.92 | $212.30
31536 | T | Operative laryngoscopy | 0075 | 20.41 | $1,061.50 | $445.92 | $212.30
31540 | T | Operative laryngoscopy | 0075 | 20.41 | $1,061.50 | $445.92 | $212.30
31541 | T | Operative laryngoscopy | 0075 | 20.41 | $1,061.50 | $445.92 | $212.30
31560 | T | Operative laryngoscopy | 0075 | 20.41 | $1,061.50 | $445.92 | $212.30
31561 | T | Operative laryngoscopy | 0075 | 20.41 | $1,061.50 | $445.92 | $212.30
31570 | T | Laryngoscopy with injection | 0074 | 12.84 | $667.80 | $295.70 | $133.56
31571 | T | Laryngoscopy with injection | 0075 | 20.41 | $1,061.50 | $445.92 | $212.30
31575 | T | Diagnostic laryngoscopy | 0071 | 1.01 | $52.53 | $14.18 | $10.51
31576 | T | Laryngoscopy with biopsy | 0075 | 20.41 | $1,061.50 | $445.92 | $212.30
31577 | T | Remove foreign body, larynx | 0073 | 3.63 | $188.79 | $74.14 | $37.76
31578 | T | Removal of larynx lesion | 0075 | 20.41 | $1,061.50 | $445.92 | $212.30
31579 | T | Diagnostic laryngoscopy | 0073 | 3.63 | $188.79 | $74.14 | $37.76
31580 | T | Revision of larynx | 0256 | 35.51 | $1,846.84 |  | $369.37
31582 | T | Revision of larynx | 0256 | 35.51 | $1,846.84 |  | $369.37
31584 | C | Treat larynx fracture |  |  |  |  |
31585 | T | Treat larynx fracture | 0253 | 14.79 | $769.21 | $284.61 | $153.84
31586 | T | Treat larynx fracture | 0256 | 35.51 | $1,846.84 |  | $369.37
31587 | C | Revision of larynx |  |  |  |  |
31588 | T | Revision of larynx | 0256 | 35.51 | $1,846.84 |  | $369.37
31590 | T | Reinnervate larynx | 0256 | 35.51 | $1,846.84 |  | $369.37
31595 | T | Larynx nerve surgery | 0256 | 35.51 | $1,846.84 |  | $369.37
31599 | T | Larynx surgery procedure | 0254 | 21.89 | $1,138.48 | $352.93 | $227.70
31600 | T | Incision of windpipe | 0254 | 21.89 | $1,138.48 | $352.93 | $227.70
31601 | T | Incision of windpipe | 0254 | 21.89 | $1,138.48 | $352.93 | $227.70
31603 | T | Incision of windpipe | 0252 | 6.27 | $326.10 | $114.24 | $65.22
31605 | T | Incision of windpipe | 0253 | 14.79 | $769.21 | $284.61 | $153.84
31610 | T | Incision of windpipe | 0254 | 21.89 | $1,138.48 | $352.93 | $227.70
31611 | T | Surgery/speech prosthesis | 0254 | 21.89 | $1,138.48 | $352.93 | $227.70
31612 | T | Puncture/clear windpipe | 0254 | 21.89 | $1,138.48 | $352.93 | $227.70
31613 | T | Repair windpipe opening | 0254 | 21.89 | $1,138.48 | $352.93 | $227.70
31614 | T | Repair windpipe opening | 0256 | 35.51 | $1,846.84 |  | $369.37
31615 | T | Visualization of windpipe | 0076 | 9.30 | $483.68 | $189.92 | $96.74
31622 | T | Dx bronchoscope/wash | 0076 | 9.30 | $483.68 | $189.92 | $96.74
31623 | T | Dx bronchoscope/brush | 0076 | 9.30 | $483.68 | $189.92 | $96.74
31624 | T | Dx bronchoscope/lavage | 0076 | 9.30 | $483.68 | $189.92 | $96.74
31625 | T | Bronchoscopy with biopsy | 0076 | 9.30 | $483.68 | $189.92 | $96.74
31628 | T | Bronchoscopy with biopsy | 0076 | 9.30 | $483.68 | $189.92 | $96.74
31629 | T | Bronchoscopy with biopsy | 0076 | 9.30 | $483.68 | $189.92 | $96.74
31630 | T | Bronchoscopy with repair | 0076 | 9.30 | $483.68 | $189.92 | $96.74
31631 | T | Bronchoscopy with dilation | 0076 | 9.30 | $483.68 | $189.92 | $96.74
31635 | T | Remove foreign body, airway | 0076 | 9.30 | $483.68 | $189.92 | $96.74
31640 | T | Bronchoscopy & remove lesion | 0076 | 9.30 | $483.68 | $189.92 | $96.74
31641 | T | Bronchoscopy, treat blockage | 0076 | 9.30 | $483.68 | $189.92 | $96.74
31643 | T | Diag bronchoscope/catheter | 0076 | 9.30 | $483.68 | $189.92 | $96.74
31645 | T | Bronchoscopy, clear airways | 0076 | 9.30 | $483.68 | $189.92 | $96.74
31646 | T | Bronchoscopy, reclear airway | 0076 | 9.30 | $483.68 | $189.92 | $96.74
31656 | T | Bronchoscopy, inj for xray | 0076 | 9.30 | $483.68 | $189.92 | $96.74
31700 | T | Insertion of airway catheter | 0072 | 1.66 | $86.33 | $37.99 | $17.27
31708 | N | Instill airway contrast dye |  |  |  |  |
31710 | N | Insertion of airway catheter |  |  |  |  |
31715 | N | Injection for bronchus x-ray |  |  |  |  |
31717 | T | Bronchial brush biopsy | 0073 | 3.63 | $188.79 | $74.14 | $37.76
31720 | T | Clearance of airways | 0072 | 1.66 | $86.33 | $37.99 | $17.27
31725 | C | Clearance of airways |  |  |  |  |
31730 | T | Intro, windpipe wire/tube | 0073 | 3.63 | $188.79 | $74.14 | $37.76
31750 | T | Repair of windpipe | 0256 | 35.51 | $1,846.84 |  | $369.37
31755 | T | Repair of windpipe | 0256 | 35.51 | $1,846.84 |  | $369.37
31760 | C | Repair of windpipe |  |  |  |  |
31766 | C | Reconstruction of windpipe |  |  |  |  |
31770 | C | Repair/graft of bronchus |  |  |  |  |
31775 | C | Reconstruct bronchus |  |  |  |  |
31780 | C | Reconstruct windpipe |  |  |  |  |
31781 | C | Reconstruct windpipe |  |  |  |  |
31785 | T | Remove windpipe lesion | 0254 | 21.89 | $1,138.48 | $352.93 | $227.70
31786 | C | Remove windpipe lesion |  |  |  |  |
31800 | C | Repair of windpipe injury |  |  |  |  |
31805 | C | Repair of windpipe injury |  |  |  |  |
31820 | T | Closure of windpipe lesion | 0253 | 14.79 | $769.21 | $284.61 | $153.84
31825 | T | Repair of windpipe defect | 0254 | 21.89 | $1,138.48 | $352.93 | $227.70
31830 | T | Revise windpipe scar | 0254 | 21.89 | $1,138.48 | $352.93 | $227.70
31899 | T | Airways surgical procedure | 0076 | 9.30 | $483.68 | $189.92 | $96.74
32000 | T | Drainage of chest | 0070 | 3.30 | $171.63 |  | $34.33
32002 | T | Treatment of collapsed lung | 0070 | 3.30 | $171.63 |  | $34.33
32005 | T | Treat lung lining chemically | 0070 | 3.30 | $171.63 |  | $34.33
32020 | T | Insertion of chest tube | 0070 | 3.30 | $171.63 |  | $34.33
32035 | C | Exploration of chest |  |  |  |  |
32036 | C | Exploration of chest |  |  |  |  |
32095 | C | Biopsy through chest wall |  |  |  |  |
32100 | C | Exploration/biopsy of chest |  |  |  |  |
32110 | C | Explore/repair chest |  |  |  |  |
32120 | C | Re-exploration of chest |  |  |  |  |
32124 | C | Explore chest free adhesions |  |  |  |  |
32140 | C | Removal of lung lesion(s) |  |  |  |  |
32141 | C | Remove/treat lung lesions |  |  |  |  |
32150 | C | Removal of lung lesion(s) |  |  |  |  |
32151 | C | Remove lung foreign body |  |  |  |  |
32160 | C | Open chest heart massage |  |  |  |  |
32200 | C | Drain, open, lung lesion |  |  |  |  |
32201 | T | Drain, percut, lung lesion | 0070 | 3.30 | $171.63 |  | $34.33
32215 | C | Treat chest lining |  |  |  |  |
32220 | C | Release of lung |  |  |  |  |
32225 | C | Partial release of lung |  |  |  |  |
32310 | C | Removal of chest lining |  |  |  |  |
32320 | C | Free/remove chest lining |  |  |  |  |
32400 | T | Needle biopsy chest lining | 0005 | 3.02 | $157.07 | $69.11 | $31.41
32402 | C | Open biopsy chest lining |  |  |  |  |
32405 | T | Biopsy, lung or mediastinum | 0685 | 4.47 | $232.48 | $102.29 | $46.50
32420 | T | Puncture/clear lung | 0070 | 3.30 | $171.63 |  | $34.33
32440 | C | Removal of lung |  |  |  |  |
32442 | C | Sleeve pneumonectomy |  |  |  |  |
32445 | C | Removal of lung |  |  |  |  |
32480 | C | Partial removal of lung |  |  |  |  |
32482 | C | Bilobectomy |  |  |  |  |
32484 | C | Segmentectomy |  |  |  |  |
32486 | C | Sleeve lobectomy |  |  |  |  |
32488 | C | Completion pneumonectomy |  |  |  |  |
32491 | C | Lung volume reduction |  |  |  |  |
32500 | C | Partial removal of lung |  |  |  |  |
32501 | C | Repair bronchus add-on |  |  |  |  |
32520 | C | Remove lung & revise chest |  |  |  |  |
32522 | C | Remove lung & revise chest |  |  |  |  |
32525 | C | Remove lung & revise chest |  |  |  |  |
32540 | C | Removal of lung lesion |  |  |  |  |
32601 | T | Thoracoscopy, diagnostic | 0069 | 29.51 | $1,534.79 | $591.64 | $306.96
32602 | T | Thoracoscopy, diagnostic | 0069 | 29.51 | $1,534.79 | $591.64 | $306.96
32603 | T | Thoracoscopy, diagnostic | 0069 | 29.51 | $1,534.79 | $591.64 | $306.96
32604 | T | Thoracoscopy, diagnostic | 0069 | 29.51 | $1,534.79 | $591.64 | $306.96
32605 | T | Thoracoscopy, diagnostic | 0069 | 29.51 | $1,534.79 | $591.64 | $306.96
32606 | T | Thoracoscopy, diagnostic | 0069 | 29.51 | $1,534.79 | $591.64 | $306.96
32650 | C | Thoracoscopy, surgical |  |  |  |  |
32651 | C | Thoracoscopy, surgical |  |  |  |  |
32652 | C | Thoracoscopy, surgical |  |  |  |  |
32653 | C | Thoracoscopy, surgical |  |  |  |  |
32654 | C | Thoracoscopy, surgical |  |  |  |  |
32655 | C | Thoracoscopy, surgical |  |  |  |  |
32656 | C | Thoracoscopy, surgical |  |  |  |  |
32657 | C | Thoracoscopy, surgical |  |  |  |  |
32658 | C | Thoracoscopy, surgical |  |  |  |  |
32659 | C | Thoracoscopy, surgical |  |  |  |  |
32660 | C | Thoracoscopy, surgical |  |  |  |  |
32661 | C | Thoracoscopy, surgical |  |  |  |  |
32662 | C | Thoracoscopy, surgical |  |  |  |  |
32663 | C | Thoracoscopy, surgical |  |  |  |  |
32664 | C | Thoracoscopy, surgical |  |  |  |  |
32665 | C | Thoracoscopy, surgical |  |  |  |  |
32800 | C | Repair lung hernia |  |  |  |  |
32810 | C | Close chest after drainage |  |  |  |  |
32815 | C | Close bronchial fistula |  |  |  |  |
32820 | C | Reconstruct injured chest |  |  |  |  |
32850 | C | Donor pneumonectomy |  |  |  |  |
32851 | C | Lung transplant, single |  |  |  |  |
32852 | C | Lung transplant with bypass |  |  |  |  |
32853 | C | Lung transplant, double |  |  |  |  |
32854 | C | Lung transplant with bypass |  |  |  |  |
32900 | C | Removal of rib(s) |  |  |  |  |
32905 | C | Revise & repair chest wall |  |  |  |  |
32906 | C | Revise & repair chest wall |  |  |  |  |
32940 | C | Revision of lung |  |  |  |  |
32960 | T | Therapeutic pneumothorax | 0070 | 3.30 | $171.63 |  | $34.33
32997 | C | Total lung lavage |  |  |  |  |
32999 | T | Chest surgery procedure | 0070 | 3.30 | $171.63 |  | $34.33
33010 | T | Drainage of heart sac | 0070 | 3.30 | $171.63 |  | $34.33
33011 | T | Repeat drainage of heart sac | 0070 | 3.30 | $171.63 |  | $34.33
33015 | C | Incision of heart sac |  |  |  |  |
33020 | C | Incision of heart sac |  |  |  |  |
33025 | C | Incision of heart sac |  |  |  |  |
33030 | C | Partial removal of heart sac |  |  |  |  |
33031 | C | Partial removal of heart sac |  |  |  |  |
33050 | C | Removal of heart sac lesion |  |  |  |  |
33120 | C | Removal of heart lesion |  |  |  |  |
33130 | C | Removal of heart lesion |  |  |  |  |
33140 | C | Heart revascularize (tmr) |  |  |  |  |
33141 | C | Heart tmr w/other procedure |  |  |  |  |
33200 | C | Insertion of heart pacemaker |  |  |  |  |
33201 | C | Insertion of heart pacemaker |  |  |  |  |
33206 | T | Insertion of heart pacemaker | 0089 | 108.92 | $5,664.82 | $1,642.80 | $1,132.96
33207 | T | Insertion of heart pacemaker | 0089 | 108.92 | $5,664.82 | $1,642.80 | $1,132.96
33208 | T | Insertion of heart pacemaker | 0089 | 108.92 | $5,664.82 | $1,642.80 | $1,132.96
33210 | T | Insertion of heart electrode | 0106 | 29.23 | $1,520.22 | $410.46 | $304.04
33211 | T | Insertion of heart electrode | 0106 | 29.23 | $1,520.22 | $410.46 | $304.04
33212 | T | Insertion of pulse generator | 0090 | 77.15 | $4,012.49 | $1,444.50 | $802.50
33213 | T | Insertion of pulse generator | 0090 | 77.15 | $4,012.49 | $1,444.50 | $802.50
33214 | T | Upgrade of pacemaker system | 0089 | 108.92 | $5,664.82 | $1,642.80 | $1,132.96
33216 | T | Revise eltrd pacing-defib | 0106 | 29.23 | $1,520.22 | $410.46 | $304.04
33217 | T | Revise eltrd pacing-defib | 0106 | 29.23 | $1,520.22 | $410.46 | $304.04
33218 | T | Revise eltrd pacing-defib | 0106 | 29.23 | $1,520.22 | $410.46 | $304.04
33220 | T | Revise eltrd pacing-defib | 0106 | 29.23 | $1,520.22 | $410.46 | $304.04
33222 | T | Revise pocket, pacemaker | 0027 | 15.73 | $818.10 | $343.60 | $163.62
33223 | T | Revise pocket, pacing-defib | 0027 | 15.73 | $818.10 | $343.60 | $163.62
33233 | T | Removal of pacemaker system | 0105 | 19.14 | $995.45 | $370.40 | $199.09
33234 | T | Removal of pacemaker system | 0105 | 19.14 | $995.45 | $370.40 | $199.09
33235 | T | Removal pacemaker electrode | 0105 | 19.14 | $995.45 | $370.40 | $199.09
33236 | C | Remove electrode/thoracotomy |  |  |  |  |
33237 | C | Remove electrode/thoracotomy |  |  |  |  |
33238 | C | Remove electrode/thoracotomy |  |  |  |  |
33240 | T | Insert pulse generator | 0107 | 181.51 | $9,440.15 | $2,076.83 | $1,888.03
33241 | T | Remove pulse generator | 0105 | 19.14 | $995.45 | $370.40 | $199.09
33243 | C | Remove eltrd/thoracotomy |  |  |  |  |
33244 | T | Remove eltrd, transven | 0105 | 19.14 | $995.45 | $370.40 | $199.09
33245 | C | Insert epic eltrd pace-defib |  |  |  |  |
33246 | C | Insert epic eltrd/generator |  |  |  |  |
33249 | T | Eltrd/insert pace-defib | 0108 | 232.69 | $12,101.97 |  | $2,420.39
33250 | C | Ablate heart dysrhythm focus |  |  |  |  |
33251 | C | Ablate heart dysrhythm focus |  |  |  |  |
33253 | C | Reconstruct atria |  |  |  |  |
33261 | C | Ablate heart dysrhythm focus |  |  |  |  |
33282 | S | Implant pat-active ht record | 0680 | 51.95 | $2,701.87 |  | $540.37
33284 | T | Remove pat-active ht record | 0109 | 7.68 | $399.43 | $131.49 | $79.89
33300 | C | Repair of heart wound |  |  |  |  |
33305 | C | Repair of heart wound |  |  |  |  |
33310 | C | Exploratory heart surgery |  |  |  |  |
33315 | C | Exploratory heart surgery |  |  |  |  |
33320 | C | Repair major blood vessel(s) |  |  |  |  |
33321 | C | Repair major vessel |  |  |  |  |
33322 | C | Repair major blood vessel(s) |  |  |  |  |
33330 | C | Insert major vessel graft |  |  |  |  |
33332 | C | Insert major vessel graft |  |  |  |  |
33335 | C | Insert major vessel graft |  |  |  |  |
33400 | C | Repair of aortic valve |  |  |  |  |
33401 | C | Valvuloplasty, open |  |  |  |  |
33403 | C | Valvuloplasty, w/cp bypass |  |  |  |  |
33404 | C | Prepare heart-aorta conduit |  |  |  |  |
33405 | C | Replacement of aortic valve |  |  |  |  |
33406 | C | Replacement of aortic valve |  |  |  |  |
33410 | C | Replacement of aortic valve |  |  |  |  |
33411 | C | Replacement of aortic valve |  |  |  |  |
33412 | C | Replacement of aortic valve |  |  |  |  |
33413 | C | Replacement of aortic valve |  |  |  |  |
33414 | C | Repair of aortic valve |  |  |  |  |
33415 | C | Revision, subvalvular tissue |  |  |  |  |
33416 | C | Revise ventricle muscle |  |  |  |  |
33417 | C | Repair of aortic valve |  |  |  |  |
33420 | C | Revision of mitral valve |  |  |  |  |
33422 | C | Revision of mitral valve |  |  |  |  |
33425 | C | Repair of mitral valve |  |  |  |  |
33426 | C | Repair of mitral valve |  |  |  |  |
33427 | C | Repair of mitral valve |  |  |  |  |
33430 | C | Replacement of mitral valve |  |  |  |  |
33460 | C | Revision of tricuspid valve |  |  |  |  |
33463 | C | Valvuloplasty, tricuspid |  |  |  |  |
33464 | C | Valvuloplasty, tricuspid |  |  |  |  |
33465 | C | Replace tricuspid valve |  |  |  |  |
33468 | C | Revision of tricuspid valve |  |  |  |  |
33470 | C | Revision of pulmonary valve |  |  |  |  |
33471 | C | Valvotomy, pulmonary valve |  |  |  |  |
33472 | C | Revision of pulmonary valve |  |  |  |  |
33474 | C | Revision of pulmonary valve |  |  |  |  |
33475 | C | Replacement, pulmonary valve |  |  |  |  |
33476 | C | Revision of heart chamber |  |  |  |  |
33478 | C | Revision of heart chamber |  |  |  |  |
33496 | C | Repair, prosth valve clot |  |  |  |  |
33500 | C | Repair heart vessel fistula |  |  |  |  |
33501 | C | Repair heart vessel fistula |  |  |  |  |
33502 | C | Coronary artery correction |  |  |  |  |
33503 | C | Coronary artery graft |  |  |  |  |
33504 | C | Coronary artery graft |  |  |  |  |
33505 | C | Repair artery w/tunnel |  |  |  |  |
33506 | C | Repair artery, translocation |  |  |  |  |
33510 | C | CABG, vein, single |  |  |  |  |
33511 | C | CABG, vein, two |  |  |  |  |
33512 | C | CABG, vein, three |  |  |  |  |
33513 | C | CABG, vein, four |  |  |  |  |
33514 | C | CABG, vein, five |  |  |  |  |
33516 | C | Cabg, vein, six or more |  |  |  |  |
33517 | C | CABG, artery-vein, single |  |  |  |  |
33518 | C | CABG, artery-vein, two |  |  |  |  |
33519 | C | CABG, artery-vein, three |  |  |  |  |
33521 | C | CABG, artery-vein, four |  |  |  |  |
33522 | C | CABG, artery-vein, five |  |  |  |  |
33523 | C | Cabg, art-vein, six or more |  |  |  |  |
33530 | C | Coronary artery, bypass/reop |  |  |  |  |
33533 | C | CABG, arterial, single |  |  |  |  |
33534 | C | CABG, arterial, two |  |  |  |  |
33535 | C | CABG, arterial, three |  |  |  |  |
33536 | C | Cabg, arterial, four or more |  |  |  |  |
33542 | C | Removal of heart lesion |  |  |  |  |
33545 | C | Repair of heart damage |  |  |  |  |
33572 | C | Open coronary endarterectomy |  |  |  |  |
33600 | C | Closure of valve |  |  |  |  |
33602 | C | Closure of valve |  |  |  |  |
33606 | C | Anastomosis/artery-aorta |  |  |  |  |
33608 | C | Repair anomaly w/conduit |  |  |  |  |
33610 | C | Repair by enlargement |  |  |  |  |
33611 | C | Repair double ventricle |  |  |  |  |
33612 | C | Repair double ventricle |  |  |  |  |
33615 | C | Repair, modified fontan |  |  |  |  |
33617 | C | Repair single ventricle |  |  |  |  |
33619 | C | Repair single ventricle |  |  |  |  |
33641 | C | Repair heart septum defect |  |  |  |  |
33645 | C | Revision of heart veins |  |  |  |  |
33647 | C | Repair heart septum defects |  |  |  |  |
33660 | C | Repair of heart defects |  |  |  |  |
33665 | C | Repair of heart defects |  |  |  |  |
33670 | C | Repair of heart chambers |  |  |  |  |
33681 | C | Repair heart septum defect |  |  |  |  |
33684 | C | Repair heart septum defect |  |  |  |  |
33688 | C | Repair heart septum defect |  |  |  |  |
33690 | C | Reinforce pulmonary artery |  |  |  |  |
33692 | C | Repair of heart defects |  |  |  |  |
33694 | C | Repair of heart defects |  |  |  |  |
33697 | C | Repair of heart defects |  |  |  |  |
33702 | C | Repair of heart defects |  |  |  |  |
33710 | C | Repair of heart defects |  |  |  |  |
33720 | C | Repair of heart defect |  |  |  |  |
33722 | C | Repair of heart defect |  |  |  |  |
33730 | C | Repair heart-vein defect(s) |  |  |  |  |
33732 | C | Repair heart-vein defect |  |  |  |  |
33735 | C | Revision of heart chamber |  |  |  |  |
33736 | C | Revision of heart chamber |  |  |  |  |
33737 | C | Revision of heart chamber |  |  |  |  |
33750 | C | Major vessel shunt |  |  |  |  |
33755 | C | Major vessel shunt |  |  |  |  |
33762 | C | Major vessel shunt |  |  |  |  |
33764 | C | Major vessel shunt & graft |  |  |  |  |
33766 | C | Major vessel shunt |  |  |  |  |
33767 | C | Major vessel shunt |  |  |  |  |
33770 | C | Repair great vessels defect |  |  |  |  |
33771 | C | Repair great vessels defect |  |  |  |  |
33774 | C | Repair great vessels defect |  |  |  |  |
33775 | C | Repair great vessels defect |  |  |  |  |
33776 | C | Repair great vessels defect |  |  |  |  |
33777 | C | Repair great vessels defect |  |  |  |  |
33778 | C | Repair great vessels defect |  |  |  |  |
33779 | C | Repair great vessels defect |  |  |  |  |
33780 | C | Repair great vessels defect |  |  |  |  |
33781 | C | Repair great vessels defect |  |  |  |  |
33786 | C | Repair arterial trunk |  |  |  |  |
33788 | C | Revision of pulmonary artery |  |  |  |  |
33800 | C | Aortic suspension |  |  |  |  |
33802 | C | Repair vessel defect |  |  |  |  |
33803 | C | Repair vessel defect |  |  |  |  |
33813 | C | Repair septal defect |  |  |  |  |
33814 | C | Repair septal defect |  |  |  |  |
33820 | C | Revise major vessel |  |  |  |  |
33822 | C | Revise major vessel |  |  |  |  |
33824 | C | Revise major vessel |  |  |  |  |
33840 | C | Remove aorta constriction |  |  |  |  |
33845 | C | Remove aorta constriction |  |  |  |  |
33851 | C | Remove aorta constriction |  |  |  |  |
33852 | C | Repair septal defect |  |  |  |  |
33853 | C | Repair septal defect |  |  |  |  |
33860 | C | Ascending aortic graft |  |  |  |  |
33861 | C | Ascending aortic graft |  |  |  |  |
33863 | C | Ascending aortic graft |  |  |  |  |
33870 | C | Transverse aortic arch graft |  |  |  |  |
33875 | C | Thoracic aortic graft |  |  |  |  |
33877 | C | Thoracoabdominal graft |  |  |  |  |
33910 | C | Remove lung artery emboli |  |  |  |  |
33915 | C | Remove lung artery emboli |  |  |  |  |
33916 | C | Surgery of great vessel |  |  |  |  |
33917 | C | Repair pulmonary artery |  |  |  |  |
33918 | C | Repair pulmonary atresia |  |  |  |  |
33919 | C | Repair pulmonary atresia |  |  |  |  |
33920 | C | Repair pulmonary atresia |  |  |  |  |
33922 | C | Transect pulmonary artery |  |  |  |  |
33924 | C | Remove pulmonary shunt |  |  |  |  |
33930 | C | Removal of donor heart/lung |  |  |  |  |
33935 | C | Transplantation, heart/lung |  |  |  |  |
33940 | C | Removal of donor heart |  |  |  |  |
33945 | C | Transplantation of heart |  |  |  |  |
33960 | C | External circulation assist |  |  |  |  |
33961 | C | External circulation assist |  |  |  |  |
33967 | C | Insert ia percut device |  |  |  |  |
33968 | C | Remove aortic assist device |  |  |  |  |
33970 | C | Aortic circulation assist |  |  |  |  |
33971 | C | Aortic circulation assist |  |  |  |  |
33973 | C | Insert balloon device |  |  |  |  |
33974 | C | Remove intra-aortic balloon |  |  |  |  |
33975 | C | Implant ventricular device |  |  |  |  |
33976 | C | Implant ventricular device |  |  |  |  |
33977 | C | Remove ventricular device |  |  |  |  |
33978 | C | Remove ventricular device |  |  |  |  |
33979 | C | Insert intracorporeal device |  |  |  |  |
33980 | C | Remove intracorporeal device |  |  |  |  |
33999 | T | Cardiac surgery procedure | 0070 | 3.30 | $171.63 |  | $34.33
34001 | C | Removal of artery clot |  |  |  |  |
34051 | C | Removal of artery clot |  |  |  |  |
34101 | T | Removal of artery clot | 0088 | 33.96 | $1,766.23 | $678.68 | $353.25
34111 | T | Removal of arm artery clot | 0088 | 33.96 | $1,766.23 | $678.68 | $353.25
34151 | C | Removal of artery clot |  |  |  |  |
34201 | T | Removal of artery clot | 0088 | 33.96 | $1,766.23 | $678.68 | $353.25
34203 | T | Removal of leg artery clot | 0088 | 33.96 | $1,766.23 | $678.68 | $353.25
34401 | C | Removal of vein clot |  |  |  |  |
34421 | T | Removal of vein clot | 0088 | 33.96 | $1,766.23 | $678.68 | $353.25
34451 | C | Removal of vein clot |  |  |  |  |
34471 | T | Removal of vein clot | 0088 | 33.96 | $1,766.23 | $678.68 | $353.25
34490 | T | Removal of vein clot | 0088 | 33.96 | $1,766.23 | $678.68 | $353.25
34501 | T | Repair valve, femoral vein | 0088 | 33.96 | $1,766.23 | $678.68 | $353.25
34502 | C | Reconstruct vena cava |  |  |  |  |
34510 | T | Transposition of vein valve | 0088 | 33.96 | $1,766.23 | $678.68 | $353.25
34520 | T | Cross-over vein graft | 0088 | 33.96 | $1,766.23 | $678.68 | $353.25
34530 | T | Leg vein fusion | 0088 | 33.96 | $1,766.23 | $678.68 | $353.25
34800 | C | Endovasc abdo repair w/tube |  |  |  |  |
34802 | C | Endovasc abdo repr w/device |  |  |  |  |
34804 | C | Endovasc abdo repr w/device |  |  |  |  |
34808 | C | Endovasc abdo occlud device |  |  |  |  |
34812 | C | Xpose for endoprosth, aortic |  |  |  |  |
34813 | C | Xpose for endoprosth, femorl |  |  |  |  |
34820 | C | Xpose for endoprosth, iliac |  |  |  |  |
34825 | C | Endovasc extend prosth, init |  |  |  |  |
34826 | C | Endovasc exten prosth, addl |  |  |  |  |
34830 | C | Open aortic tube prosth repr |  |  |  |  |
34831 | C | Open aortoiliac prosth repr |  |  |  |  |
34832 | C | Open aortofemor prosth repr |  |  |  |  |
35001 | C | Repair defect of artery |  |  |  |  |
35002 | C | Repair artery rupture, neck |  |  |  |  |
35005 | C | Repair defect of artery |  |  |  |  |
35011 | T | Repair defect of artery | 0093 | 26.29 | $1,367.32 | $277.34 | $273.46
35013 | C | Repair artery rupture, arm |  |  |  |  |
35021 | C | Repair defect of artery |  |  |  |  |
35022 | C | Repair artery rupture, chest |  |  |  |  |
35045 | C | Repair defect of arm artery |  |  |  |  |
35081 | C | Repair defect of artery |  |  |  |  |
35082 | C | Repair artery rupture, aorta |  |  |  |  |
35091 | C | Repair defect of artery |  |  |  |  |
35092 | C | Repair artery rupture, aorta |  |  |  |  |
35102 | C | Repair defect of artery |  |  |  |  |
35103 | C | Repair artery rupture, groin |  |  |  |  |
35111 | C | Repair defect of artery |  |  |  |  |
35112 | C | Repair artery rupture,spleen |  |  |  |  |
35121 | C | Repair defect of artery |  |  |  |  |
35122 | C | Repair artery rupture, belly |  |  |  |  |
35131 | C | Repair defect of artery |  |  |  |  |
35132 | C | Repair artery rupture, groin |  |  |  |  |
35141 | C | Repair defect of artery |  |  |  |  |
35142 | C | Repair artery rupture, thigh |  |  |  |  |
35151 | C | Repair defect of artery |  |  |  |  |
35152 | C | Repair artery rupture, knee |  |  |  |  |
35161 | C | Repair defect of artery |  |  |  |  |
35162 | C | Repair artery rupture |  |  |  |  |
35180 | T | Repair blood vessel lesion | 0093 | 26.29 | $1,367.32 | $277.34 | $273.46
35182 | C | Repair blood vessel lesion |  |  |  |  |
35184 | T | Repair blood vessel lesion | 0093 | 26.29 | $1,367.32 | $277.34 | $273.46
35188 | T | Repair blood vessel lesion | 0088 | 33.96 | $1,766.23 | $678.68 | $353.25
35189 | C | Repair blood vessel lesion |  |  |  |  |
35190 | T | Repair blood vessel lesion | 0093 | 26.29 | $1,367.32 | $277.34 | $273.46
35201 | T | Repair blood vessel lesion | 0093 | 26.29 | $1,367.32 | $277.34 | $273.46
35206 | T | Repair blood vessel lesion | 0093 | 26.29 | $1,367.32 | $277.34 | $273.46
35207 | T | Repair blood vessel lesion | 0088 | 33.96 | $1,766.23 | $678.68 | $353.25
35211 | C | Repair blood vessel lesion |  |  |  |  |
35216 | C | Repair blood vessel lesion |  |  |  |  |
35221 | C | Repair blood vessel lesion |  |  |  |  |
35226 | T | Repair blood vessel lesion | 0093 | 26.29 | $1,367.32 | $277.34 | $273.46
35231 | T | Repair blood vessel lesion | 0093 | 26.29 | $1,367.32 | $277.34 | $273.46
35236 | T | Repair blood vessel lesion | 0093 | 26.29 | $1,367.32 | $277.34 | $273.46
35241 | C | Repair blood vessel lesion |  |  |  |  |
35246 | C | Repair blood vessel lesion |  |  |  |  |
35251 | C | Repair blood vessel lesion |  |  |  |  |
35256 | T | Repair blood vessel lesion | 0093 | 26.29 | $1,367.32 | $277.34 | $273.46
35261 | T | Repair blood vessel lesion | 0093 | 26.29 | $1,367.32 | $277.34 | $273.46
35266 | T | Repair blood vessel lesion | 0093 | 26.29 | $1,367.32 | $277.34 | $273.46
35271 | C | Repair blood vessel lesion |  |  |  |  |
35276 | C | Repair blood vessel lesion |  |  |  |  |
35281 | C | Repair blood vessel lesion |  |  |  |  |
35286 | T | Repair blood vessel lesion | 0093 | 26.29 | $1,367.32 | $277.34 | $273.46
35301 | C | Rechanneling of artery |  |  |  |  |
35311 | C | Rechanneling of artery |  |  |  |  |
35321 | T | Rechanneling of artery | 0093 | 26.29 | $1,367.32 | $277.34 | $273.46
35331 | C | Rechanneling of artery |  |  |  |  |
35341 | C | Rechanneling of artery |  |  |  |  |
35351 | C | Rechanneling of artery |  |  |  |  |
35355 | C | Rechanneling of artery |  |  |  |  |
35361 | C | Rechanneling of artery |  |  |  |  |
35363 | C | Rechanneling of artery |  |  |  |  |
35371 | C | Rechanneling of artery |  |  |  |  |
35372 | C | Rechanneling of artery |  |  |  |  |
35381 | C | Rechanneling of artery |  |  |  |  |
35390 | C | Reoperation, carotid add-on |  |  |  |  |
35400 | C | Angioscopy |  |  |  |  |
35450 | C | Repair arterial blockage |  |  |  |  |
35452 | C | Repair arterial blockage |  |  |  |  |
35454 | C | Repair arterial blockage |  |  |  |  |
35456 | C | Repair arterial blockage |  |  |  |  |
35458 | T | Repair arterial blockage | 0081 | 22.69 | $1,180.08 |  | $236.02
35459 | T | Repair arterial blockage | 0081 | 22.69 | $1,180.08 |  | $236.02
35460 | T | Repair venous blockage | 0081 | 22.69 | $1,180.08 |  | $236.02
35470 | T | Repair arterial blockage | 0081 | 22.69 | $1,180.08 |  | $236.02
35471 | T | Repair arterial blockage | 0081 | 22.69 | $1,180.08 |  | $236.02
35472 | T | Repair arterial blockage | 0081 | 22.69 | $1,180.08 |  | $236.02
35473 | T | Repair arterial blockage | 0081 | 22.69 | $1,180.08 |  | $236.02
35474 | T | Repair arterial blockage | 0081 | 22.69 | $1,180.08 |  | $236.02
35475 | T | Repair arterial blockage | 0081 | 22.69 | $1,180.08 |  | $236.02
35476 | T | Repair venous blockage | 0081 | 22.69 | $1,180.08 |  | $236.02
35480 | C | Atherectomy, open |  |  |  |  |
35481 | C | Atherectomy, open |  |  |  |  |
35482 | C | Atherectomy, open |  |  |  |  |
35483 | C | Atherectomy, open |  |  |  |  |
35484 | T | Atherectomy, open | 0081 | 22.69 | $1,180.08 |  | $236.02
35485 | T | Atherectomy, open | 0081 | 22.69 | $1,180.08 |  | $236.02
35490 | T | Atherectomy, percutaneous | 0081 | 22.69 | $1,180.08 |  | $236.02
35491 | T | Atherectomy, percutaneous | 0081 | 22.69 | $1,180.08 |  | $236.02
35492 | T | Atherectomy, percutaneous | 0081 | 22.69 | $1,180.08 |  | $236.02
35493 | T | Atherectomy, percutaneous | 0081 | 22.69 | $1,180.08 |  | $236.02
35494 | T | Atherectomy, percutaneous | 0081 | 22.69 | $1,180.08 |  | $236.02
35495 | T | Atherectomy, percutaneous | 0081 | 22.69 | $1,180.08 |  | $236.02
35500 | T | Harvest vein for bypass | 0081 | 22.69 | $1,180.08 |  | $236.02
35501 | C | Artery bypass graft |  |  |  |  |
35506 | C | Artery bypass graft |  |  |  |  |
35507 | C | Artery bypass graft |  |  |  |  |
35508 | C | Artery bypass graft |  |  |  |  |
35509 | C | Artery bypass graft |  |  |  |  |
35511 | C | Artery bypass graft |  |  |  |  |
35515 | C | Artery bypass graft |  |  |  |  |
35516 | C | Artery bypass graft |  |  |  |  |
35518 | C | Artery bypass graft |  |  |  |  |
35521 | C | Artery bypass graft |  |  |  |  |
35526 | C | Artery bypass graft |  |  |  |  |
35531 | C | Artery bypass graft |  |  |  |  |
35533 | C | Artery bypass graft |  |  |  |  |
35536 | C | Artery bypass graft |  |  |  |  |
35541 | C | Artery bypass graft |  |  |  |  |
35546 | C | Artery bypass graft |  |  |  |  |
35548 | C | Artery bypass graft |  |  |  |  |
35549 | C | Artery bypass graft |  |  |  |  |
35551 | C | Artery bypass graft |  |  |  |  |
35556 | C | Artery bypass graft |  |  |  |  |
35558 | C | Artery bypass graft |  |  |  |  |
35560 | C | Artery bypass graft |  |  |  |  |
35563 | C | Artery bypass graft |  |  |  |  |
35565 | C | Artery bypass graft |  |  |  |  |
35566 | C | Artery bypass graft |  |  |  |  |
35571 | C | Artery bypass graft |  |  |  |  |
35582 | C | Vein bypass graft |  |  |  |  |
35583 | C | Vein bypass graft |  |  |  |  |
35585 | C | Vein bypass graft |  |  |  |  |
35587 | C | Vein bypass graft |  |  |  |  |
35600 | C | Harvest artery for cabg |  |  |  |  |
35601 | C | Artery bypass graft |  |  |  |  |
35606 | C | Artery bypass graft |  |  |  |  |
35612 | C | Artery bypass graft |  |  |  |  |
35616 | C | Artery bypass graft |  |  |  |  |
35621 | C | Artery bypass graft |  |  |  |  |
35623 | C | Bypass graft, not vein |  |  |  |  |
35626 | C | Artery bypass graft |  |  |  |  |
35631 | C | Artery bypass graft |  |  |  |  |
35636 | C | Artery bypass graft |  |  |  |  |
35641 | C | Artery bypass graft |  |  |  |  |
35642 | C | Artery bypass graft |  |  |  |  |
35645 | C | Artery bypass graft |  |  |  |  |
35646 | C | Artery bypass graft |  |  |  |  |
35647 | C | Artery bypass graft |  |  |  |  |
35650 | C | Artery bypass graft |  |  |  |  |
35651 | C | Artery bypass graft |  |  |  |  |
35654 | C | Artery bypass graft |  |  |  |  |
35656 | C | Artery bypass graft |  |  |  |  |
35661 | C | Artery bypass graft |  |  |  |  |
35663 | C | Artery bypass graft |  |  |  |  |
35665 | C | Artery bypass graft |  |  |  |  |
35666 | C | Artery bypass graft |  |  |  |  |
35671 | C | Artery bypass graft |  |  |  |  |
35681 | C | Composite bypass graft |  |  |  |  |
35682 | C | Composite bypass graft |  |  |  |  |
35683 | C | Composite bypass graft |  |  |  |  |
35685 | T | Bypass graft patency/patch | 0093 | 26.29 | $1,367.32 | $277.34 | $273.46
35686 | T | Bypass graft/av fist patency | 0093 | 26.29 | $1,367.32 | $277.34 | $273.46
35691 | C | Arterial transposition |  |  |  |  |
35693 | C | Arterial transposition |  |  |  |  |
35694 | C | Arterial transposition |  |  |  |  |
35695 | C | Arterial transposition |  |  |  |  |
35700 | C | Reoperation, bypass graft |  |  |  |  |
35701 | C | Exploration, carotid artery |  |  |  |  |
35721 | C | Exploration, femoral artery |  |  |  |  |
35741 | C | Exploration popliteal artery |  |  |  |  |
35761 | T | Exploration of artery/vein | 0115 | 23.48 | $1,221.17 | $439.62 | $244.23
35800 | C | Explore neck vessels |  |  |  |  |
35820 | C | Explore chest vessels |  |  |  |  |
35840 | C | Explore abdominal vessels |  |  |  |  |
35860 | T | Explore limb vessels | 0093 | 26.29 | $1,367.32 | $277.34 | $273.46
35870 | C | Repair vessel graft defect |  |  |  |  |
35875 | T | Removal of clot in graft | 0088 | 33.96 | $1,766.23 | $678.68 | $353.25
35876 | T | Removal of clot in graft | 0088 | 33.96 | $1,766.23 | $678.68 | $353.25
35879 | T | Revise graft w/vein | 0088 | 33.96 | $1,766.23 | $678.68 | $353.25
35881 | T | Revise graft w/vein | 0088 | 33.96 | $1,766.23 | $678.68 | $353.25
35901 | C | Excision, graft, neck |  |  |  |  |
35903 | T | Excision, graft, extremity | 0115 | 23.48 | $1,221.17 | $439.62 | $244.23
35905 | C | Excision, graft, thorax |  |  |  |  |
35907 | C | Excision, graft, abdomen |  |  |  |  |
36000 | N | Place needle in vein |  |  |  |  |
36002 | S | Pseudoaneurysm injection trt | 0267 | 2.58 | $134.18 | $65.52 | $26.84
36005 | N | Injection ext venography |  |  |  |  |
36010 | N | Place catheter in vein |  |  |  |  |
36011 | N | Place catheter in vein |  |  |  |  |
36012 | N | Place catheter in vein |  |  |  |  |
36013 | N | Place catheter in artery |  |  |  |  |
36014 | N | Place catheter in artery |  |  |  |  |
36015 | N | Place catheter in artery |  |  |  |  |
36100 | N | Establish access to artery |  |  |  |  |
36120 | N | Establish access to artery |  |  |  |  |
36140 | N | Establish access to artery |  |  |  |  |
36145 | N | Artery to vein shunt |  |  |  |  |
36160 | N | Establish access to aorta |  |  |  |  |
36200 | N | Place catheter in aorta |  |  |  |  |
36215 | N | Place catheter in artery |  |  |  |  |
36216 | N | Place catheter in artery |  |  |  |  |
36217 | N | Place catheter in artery |  |  |  |  |
36218 | N | Place catheter in artery |  |  |  |  |
36245 | N | Place catheter in artery |  |  |  |  |
36246 | N | Place catheter in artery |  |  |  |  |
36247 | N | Place catheter in artery |  |  |  |  |
36248 | N | Place catheter in artery |  |  |  |  |
36260 | T | Insertion of infusion pump | 0119 | 25.88 | $1,345.99 |  | $269.20
36261 | T | Revision of infusion pump | 0124 | 23.47 | $1,220.65 |  | $244.13
36262 | T | Removal of infusion pump | 0109 | 7.68 | $399.43 | $131.49 | $79.89
36299 | N | Vessel injection procedure |  |  |  |  |
36400 | N | Drawing blood |  |  |  |  |
36405 | N | Drawing blood |  |  |  |  |
36406 | N | Drawing blood |  |  |  |  |
36410 | N | Drawing blood |  |  |  |  |
36415 | E | Drawing blood |  |  |  |  |
36420 | T | Establish access to vein | 0035 | 0.24 | $12.48 | $3.74 | $2.50
36425 | T | Establish access to vein | 0035 | 0.24 | $12.48 | $3.74 | $2.50
36430 | S | Blood transfusion service | 0110 | 4.04 | $210.12 |  | $42.02
36440 | S | Blood transfusion service | 0110 | 4.04 | $210.12 |  | $42.02
36450 | S | Exchange transfusion service | 0110 | 4.04 | $210.12 |  | $42.02
36455 | S | Exchange transfusion service | 0110 | 4.04 | $210.12 |  | $42.02
36460 | S | Transfusion service, fetal | 0110 | 4.04 | $210.12 |  | $42.02
36468 | T | Injection(s), spider veins | 0098 | 1.90 | $98.82 | $20.88 | $19.76
36469 | T | Injection(s), spider veins | 0098 | 1.90 | $98.82 | $20.88 | $19.76
36470 | T | Injection therapy of vein | 0098 | 1.90 | $98.82 | $20.88 | $19.76
36471 | T | Injection therapy of veins | 0098 | 1.90 | $98.82 | $20.88 | $19.76
36481 | N | Insertion of catheter, vein |  |  |  |  |
36488 | T | Insertion of catheter, vein | 0032 | 7.14 | $371.34 |  | $74.27
36489 | T | Insertion of catheter, vein | 0032 | 7.14 | $371.34 |  | $74.27
36490 | T | Insertion of catheter, vein | 0032 | 7.14 | $371.34 |  | $74.27
36491 | T | Insertion of catheter, vein | 0032 | 7.14 | $371.34 |  | $74.27
36493 | X | Repositioning of cvc | 0187 | 4.19 | $217.92 | $94.96 | $43.58
36500 | N | Insertion of catheter, vein |  |  |  |  |
36510 | C | Insertion of catheter, vein |  |  |  |  |
36520 | S | Plasma and/or cell exchange | 0111 | 13.60 | $707.32 | $198.05 | $141.46
36521 | S | Apheresis w/ adsorp/reinfuse | 0112 | 39.40 | $2,049.15 | $612.47 | $409.83
36522 | S | Photopheresis | 0112 | 39.40 | $2,049.15 | $612.47 | $409.83
36530 | T | Insertion of infusion pump | 0119 | 25.88 | $1,345.99 |  | $269.20
36531 | T | Revision of infusion pump | 0124 | 23.47 | $1,220.65 |  | $244.13
36532 | T | Removal of infusion pump | 0109 | 7.68 | $399.43 | $131.49 | $79.89
36533 | T | Insertion of access device | 0115 | 23.48 | $1,221.17 | $439.62 | $244.23
36534 | T | Revision of access device | 0109 | 7.68 | $399.43 | $131.49 | $79.89
36535 | T | Removal of access device | 0109 | 7.68 | $399.43 | $131.49 | $79.89
36540 | N | Collect blood venous device |  |  |  |  |
36550 | T | Declot vascular device | 0677 | 2.80 | $145.63 |  | $29.13
36600 | N | Withdrawal of arterial blood |  |  |  |  |
36620 | N | Insertion catheter, artery |  |  |  |  |
36625 | N | Insertion catheter, artery |  |  |  |  |
36640 | T | Insertion catheter, artery | 0032 | 7.14 | $371.34 |  | $74.27
36660 | C | Insertion catheter, artery |  |  |  |  |
36680 | T | Insert needle, bone cavity | 0120 | 1.81 | $94.14 | $25.42 | $18.83
36800 | T | Insertion of cannula | 0115 | 23.48 | $1,221.17 | $439.62 | $244.23
36810 | T | Insertion of cannula | 0115 | 23.48 | $1,221.17 | $439.62 | $244.23
36815 | T | Insertion of cannula | 0115 | 23.48 | $1,221.17 | $439.62 | $244.23
36819 | T | Av fusion/uppr arm vein | 0088 | 33.96 | $1,766.23 | $678.68 | $353.25
36820 | T | Av fusion/forearm vein | 0088 | 33.96 | $1,766.23 | $678.68 | $353.25
36821 | T | Av fusion direct any site | 0088 | 33.96 | $1,766.23 | $678.68 | $353.25
36822 | C | Insertion of cannula(s) |  |  |  |  |
36823 | C | Insertion of cannula(s) |  |  |  |  |
36825 | T | Artery-vein graft | 0088 | 33.96 | $1,766.23 | $678.68 | $353.25
36830 | T | Artery-vein graft | 0088 | 33.96 | $1,766.23 | $678.68 | $353.25
36831 | T | Open thrombect av fistula | 0088 | 33.96 | $1,766.23 | $678.68 | $353.25
36832 | T | Av fistula revision, open | 0088 | 33.96 | $1,766.23 | $678.68 | $353.25
36833 | T | Av fistula revision | 0088 | 33.96 | $1,766.23 | $678.68 | $353.25
36834 | T | Repair A-V aneurysm | 0088 | 33.96 | $1,766.23 | $678.68 | $353.25
36835 | T | Artery to vein shunt | 0115 | 23.48 | $1,221.17 | $439.62 | $244.23
36860 | T | External cannula declotting | 0103 | 11.26 | $585.62 | $210.82 | $117.12
36861 | T | Cannula declotting | 0115 | 23.48 | $1,221.17 | $439.62 | $244.23
36870 | T | Percut thrombect av fistula | 0093 | 26.29 | $1,367.32 | $277.34 | $273.46
37140 | C | Revision of circulation |  |  |  |  |
37145 | C | Revision of circulation |  |  |  |  |
37160 | C | Revision of circulation |  |  |  |  |
37180 | C | Revision of circulation |  |  |  |  |
37181 | C | Splice spleen/kidney veins |  |  |  |  |
37195 | C | Thrombolytic therapy, stroke |  |  |  |  |
37200 | T | Transcatheter biopsy | 0685 | 4.47 | $232.48 | $102.29 | $46.50
37201 | T | Transcatheter therapy infuse | 0676 | 4.62 | $240.28 | $64.88 | $48.06
37202 | T | Transcatheter therapy infuse | 0677 | 2.80 | $145.63 |  | $29.13
37203 | T | Transcatheter retrieval | 0103 | 11.26 | $585.62 | $210.82 | $117.12
37204 | T | Transcatheter occlusion | 0115 | 23.48 | $1,221.17 | $439.62 | $244.23
37205 | T | Transcatheter stent | 0229 | 49.00 | $2,548.44 | $662.59 | $509.69
37206 | T | Transcatheter stent add-on | 0229 | 49.00 | $2,548.44 | $662.59 | $509.69
37207 | T | Transcatheter stent | 0229 | 49.00 | $2,548.44 | $662.59 | $509.69
37208 | T | Transcatheter stent add-on | 0229 | 49.00 | $2,548.44 | $662.59 | $509.69
37209 | T | Exchange arterial catheter | 0103 | 11.26 | $585.62 | $210.82 | $117.12
37250 | S | Iv us first vessel add-on | 0670 | 14.78 | $768.69 | $276.73 | $153.74
37251 | S | Iv us each add vessel add-on | 0670 | 14.78 | $768.69 | $276.73 | $153.74
37565 | T | Ligation of neck vein | 0093 | 26.29 | $1,367.32 | $277.34 | $273.46
37600 | T | Ligation of neck artery | 0093 | 26.29 | $1,367.32 | $277.34 | $273.46
37605 | T | Ligation of neck artery | 0091 | 27.03 | $1,405.80 | $348.23 | $281.16
37606 | T | Ligation of neck artery | 0091 | 27.03 | $1,405.80 | $348.23 | $281.16
37607 | T | Ligation of a-v fistula | 0092 | 24.97 | $1,298.66 | $505.37 | $259.73
37609 | T | Temporal artery procedure | 0021 | 14.58 | $758.29 | $227.49 | $151.66
37615 | T | Ligation of neck artery | 0091 | 27.03 | $1,405.80 | $348.23 | $281.16
37616 | C | Ligation of chest artery |  |  |  |  |
37617 | C | Ligation of abdomen artery |  |  |  |  |
37618 | C | Ligation of extremity artery |  |  |  |  |
37620 | T | Revision of major vein | 0091 | 27.03 | $1,405.80 | $348.23 | $281.16
37650 | T | Revision of major vein | 0091 | 27.03 | $1,405.80 | $348.23 | $281.16
37660 | C | Revision of major vein |  |  |  |  |
37700 | T | Revise leg vein | 0091 | 27.03 | $1,405.80 | $348.23 | $281.16
37720 | T | Removal of leg vein | 0092 | 24.97 | $1,298.66 | $505.37 | $259.73
37730 | T | Removal of leg veins | 0092 | 24.97 | $1,298.66 | $505.37 | $259.73
37735 | T | Removal of leg veins/lesion | 0092 | 24.97 | $1,298.66 | $505.37 | $259.73
37760 | T | Revision of leg veins | 0091 | 27.03 | $1,405.80 | $348.23 | $281.16
37780 | T | Revision of leg vein | 0091 | 27.03 | $1,405.80 | $348.23 | $281.16
37785 | T | Revise secondary varicosity | 0091 | 27.03 | $1,405.80 | $348.23 | $281.16
37788 | C | Revascularization, penis |  |  |  |  |
37790 | T | Penile venous occlusion | 0181 | 29.88 | $1,554.03 | $621.82 | $310.81
37799 | T | Vascular surgery procedure | 0035 | 0.24 | $12.48 | $3.74 | $2.50
38100 | C | Removal of spleen, total |  |  |  |  |
38101 | C | Removal of spleen, partial |  |  |  |  |
38102 | C | Removal of spleen, total |  |  |  |  |
38115 | C | Repair of ruptured spleen |  |  |  |  |
38120 | T | Laparoscopy, splenectomy | 0131 | 42.44 | $2,207.26 | $1,001.89 | $441.45
38129 | T | Laparoscope proc, spleen | 0130 | 31.99 | $1,663.77 | $659.53 | $332.75
38200 | N | Injection for spleen x-ray |  |  |  |  |
38220 | T | Bone marrow aspiration | 0003 | 1.24 | $64.49 | $27.08 | $12.90
38221 | T | Bone marrow biopsy | 0003 | 1.24 | $64.49 | $27.08 | $12.90
38230 | S | Bone marrow collection | 0123 | 4.86 | $252.76 |  | $50.55
38231 | S | Stem cell collection | 0111 | 13.60 | $707.32 | $198.05 | $141.46
38240 | S | Bone marrow/stem transplant | 0123 | 4.86 | $252.76 |  | $50.55
38241 | S | Bone marrow/stem transplant | 0123 | 4.86 | $252.76 |  | $50.55
38300 | T | Drainage, lymph node lesion | 0008 | 16.32 | $848.79 |  | $169.76
38305 | T | Drainage, lymph node lesion | 0008 | 16.32 | $848.79 |  | $169.76
38308 | T | Incision of lymph channels | 0113 | 19.75 | $1,027.18 |  | $205.44
38380 | C | Thoracic duct procedure |  |  |  |  |
38381 | C | Thoracic duct procedure |  |  |  |  |
38382 | C | Thoracic duct procedure |  |  |  |  |
38500 | T | Biopsy/removal, lymph nodes | 0113 | 19.75 | $1,027.18 |  | $205.44
38505 | T | Needle biopsy, lymph nodes | 0005 | 3.02 | $157.07 | $69.11 | $31.41
38510 | T | Biopsy/removal, lymph nodes | 0113 | 19.75 | $1,027.18 |  | $205.44
38520 | T | Biopsy/removal, lymph nodes | 0113 | 19.75 | $1,027.18 |  | $205.44
38525 | T | Biopsy/removal, lymph nodes | 0113 | 19.75 | $1,027.18 |  | $205.44
38530 | T | Biopsy/removal, lymph nodes | 0113 | 19.75 | $1,027.18 |  | $205.44
38542 | T | Explore deep node(s), neck | 0114 | 37.55 | $1,952.94 | $507.76 | $390.59
38550 | T | Removal, neck/armpit lesion | 0113 | 19.75 | $1,027.18 |  | $205.44
38555 | T | Removal, neck/armpit lesion | 0113 | 19.75 | $1,027.18 |  | $205.44
38562 | C | Removal, pelvic lymph nodes |  |  |  |  |
38564 | C | Removal, abdomen lymph nodes |  |  |  |  |
38570 | T | Laparoscopy, lymph node biop | 0131 | 42.44 | $2,207.26 | $1,001.89 | $441.45
38571 | T | Laparoscopy, lymphadenectomy | 0132 | 57.95 | $3,013.92 | $1,239.22 | $602.78
38572 | T | Laparoscopy, lymphadenectomy | 0131 | 42.44 | $2,207.26 | $1,001.89 | $441.45
38589 | T | Laparoscope proc, lymphatic | 0130 | 31.99 | $1,663.77 | $659.53 | $332.75
38700 | T | Removal of lymph nodes, neck | 0113 | 19.75 | $1,027.18 |  | $205.44
38720 | T | Removal of lymph nodes, neck | 0113 | 19.75 | $1,027.18 |  | $205.44
38724 | C | Removal of lymph nodes, neck |  |  |  |  |
38740 | T | Remove armpit lymph nodes | 0114 | 37.55 | $1,952.94 | $507.76 | $390.59
38745 | T | Remove armpit lymph nodes | 0114 | 37.55 | $1,952.94 | $507.76 | $390.59
38746 | C | Remove thoracic lymph nodes |  |  |  |  |
38747 | C | Remove abdominal lymph nodes |  |  |  |  |
38760 | T | Remove groin lymph nodes | 0113 | 19.75 | $1,027.18 |  | $205.44
38765 | C | Remove groin lymph nodes |  |  |  |  |
38770 | C | Remove pelvis lymph nodes |  |  |  |  |
38780 | C | Remove abdomen lymph nodes |  |  |  |  |
38790 | N | Inject for lymphatic x-ray |  |  |  |  |
38792 | N | Identify sentinel node |  |  |  |  |
38794 | N | Access thoracic lymph duct |  |  |  |  |
38999 | S | Blood/lymph system procedure | 0110 | 4.04 | $210.12 |  | $42.02
39000 | C | Exploration of chest |  |  |  |  |
39010 | C | Exploration of chest |  |  |  |  |
39200 | C | Removal chest lesion |  |  |  |  |
39220 | C | Removal chest lesion |  |  |  |  |
39400 | T | Visualization of chest | 0069 | 29.51 | $1,534.79 | $591.64 | $306.96
39499 | C | Chest procedure |  |  |  |  |
39501 | C | Repair diaphragm laceration |  |  |  |  |
39502 | C | Repair paraesophageal hernia |  |  |  |  |
39503 | C | Repair of diaphragm hernia |  |  |  |  |
39520 | C | Repair of diaphragm hernia |  |  |  |  |
39530 | C | Repair of diaphragm hernia |  |  |  |  |
39531 | C | Repair of diaphragm hernia |  |  |  |  |
39540 | C | Repair of diaphragm hernia |  |  |  |  |
39541 | C | Repair of diaphragm hernia |  |  |  |  |
39545 | C | Revision of diaphragm |  |  |  |  |
39560 | C | Resect diaphragm, simple |  |  |  |  |
39561 | C | Resect diaphragm, complex |  |  |  |  |
39599 | C | Diaphragm surgery procedure |  |  |  |  |
40490 | T | Biopsy of lip | 0251 | 1.92 | $99.86 |  | $19.97
40500 | T | Partial excision of lip | 0253 | 14.79 | $769.21 | $284.61 | $153.84
40510 | T | Partial excision of lip | 0254 | 21.89 | $1,138.48 | $352.93 | $227.70
40520 | T | Partial excision of lip | 0253 | 14.79 | $769.21 | $284.61 | $153.84
40525 | T | Reconstruct lip with flap | 0254 | 21.89 | $1,138.48 | $352.93 | $227.70
40527 | T | Reconstruct lip with flap | 0254 | 21.89 | $1,138.48 | $352.93 | $227.70
40530 | T | Partial removal of lip | 0254 | 21.89 | $1,138.48 | $352.93 | $227.70
40650 | T | Repair lip | 0252 | 6.27 | $326.10 | $114.24 | $65.22
40652 | T | Repair lip | 0252 | 6.27 | $326.10 | $114.24 | $65.22
40654 | T | Repair lip | 0252 | 6.27 | $326.10 | $114.24 | $65.22
40700 | T | Repair cleft lip/nasal | 0256 | 35.51 | $1,846.84 |  | $369.37
40701 | T | Repair cleft lip/nasal | 0256 | 35.51 | $1,846.84 |  | $369.37
40702 | T | Repair cleft lip/nasal | 0256 | 35.51 | $1,846.84 |  | $369.37
40720 | T | Repair cleft lip/nasal | 0256 | 35.51 | $1,846.84 |  | $369.37
40761 | T | Repair cleft lip/nasal | 0256 | 35.51 | $1,846.84 |  | $369.37
40799 | T | Lip surgery procedure | 0253 | 14.79 | $769.21 | $284.61 | $153.84
40800 | T | Drainage of mouth lesion | 0251 | 1.92 | $99.86 |  | $19.97
40801 | T | Drainage of mouth lesion | 0252 | 6.27 | $326.10 | $114.24 | $65.22
40804 | X | Removal, foreign body, mouth | 0340 | 0.66 | $34.33 |  | $6.87
40805 | T | Removal, foreign body, mouth | 0252 | 6.27 | $326.10 | $114.24 | $65.22
40806 | T | Incision of lip fold | 0251 | 1.92 | $99.86 |  | $19.97
40808 | T | Biopsy of mouth lesion | 0251 | 1.92 | $99.86 |  | $19.97
40810 | T | Excision of mouth lesion | 0253 | 14.79 | $769.21 | $284.61 | $153.84
40812 | T | Excise/repair mouth lesion | 0253 | 14.79 | $769.21 | $284.61 | $153.84
40814 | T | Excise/repair mouth lesion | 0253 | 14.79 | $769.21 | $284.61 | $153.84
40816 | T | Excision of mouth lesion | 0254 | 21.89 | $1,138.48 | $352.93 | $227.70
40818 | T | Excise oral mucosa for graft | 0251 | 1.92 | $99.86 |  | $19.97
40819 | T | Excise lip or cheek fold | 0252 | 6.27 | $326.10 | $114.24 | $65.22
40820 | T | Treatment of mouth lesion | 0253 | 14.79 | $769.21 | $284.61 | $153.84
40830 | T | Repair mouth laceration | 0251 | 1.92 | $99.86 |  | $19.97
40831 | T | Repair mouth laceration | 0252 | 6.27 | $326.10 | $114.24 | $65.22
40840 | T | Reconstruction of mouth | 0254 | 21.89 | $1,138.48 | $352.93 | $227.70
40842 | T | Reconstruction of mouth | 0254 | 21.89 | $1,138.48 | $352.93 | $227.70
40843 | T | Reconstruction of mouth | 0254 | 21.89 | $1,138.48 | $352.93 | $227.70
40844 | T | Reconstruction of mouth | 0256 | 35.51 | $1,846.84 |  | $369.37
40845 | T | Reconstruction of mouth | 0256 | 35.51 | $1,846.84 |  | $369.37
40899 | T | Mouth surgery procedure | 0252 | 6.27 | $326.10 | $114.24 | $65.22
41000 | T | Drainage of mouth lesion | 0253 | 14.79 | $769.21 | $284.61 | $153.84
41005 | T | Drainage of mouth lesion | 0251 | 1.92 | $99.86 |  | $19.97
41006 | T | Drainage of mouth lesion | 0254 | 21.89 | $1,138.48 | $352.93 | $227.70
41007 | T | Drainage of mouth lesion | 0253 | 14.79 | $769.21 | $284.61 | $153.84
41008 | T | Drainage of mouth lesion | 0253 | 14.79 | $769.21 | $284.61 | $153.84
41009 | T | Drainage of mouth lesion | 0251 | 1.92 | $99.86 |  | $19.97
41010 | T | Incision of tongue fold | 0253 | 14.79 | $769.21 | $284.61 | $153.84
41015 | T | Drainage of mouth lesion | 0251 | 1.92 | $99.86 |  | $19.97
41016 | T | Drainage of mouth lesion | 0252 | 6.27 | $326.10 | $114.24 | $65.22
41017 | T | Drainage of mouth lesion | 0252 | 6.27 | $326.10 | $114.24 | $65.22
41018 | T | Drainage of mouth lesion | 0252 | 6.27 | $326.10 | $114.24 | $65.22
41100 | T | Biopsy of tongue | 0252 | 6.27 | $326.10 | $114.24 | $65.22
41105 | T | Biopsy of tongue | 0253 | 14.79 | $769.21 | $284.61 | $153.84
41108 | T | Biopsy of floor of mouth | 0252 | 6.27 | $326.10 | $114.24 | $65.22
41110 | T | Excision of tongue lesion | 0253 | 14.79 | $769.21 | $284.61 | $153.84
41112 | T | Excision of tongue lesion | 0253 | 14.79 | $769.21 | $284.61 | $153.84
41113 | T | Excision of tongue lesion | 0253 | 14.79 | $769.21 | $284.61 | $153.84
41114 | T | Excision of tongue lesion | 0254 | 21.89 | $1,138.48 | $352.93 | $227.70
41115 | T | Excision of tongue fold | 0252 | 6.27 | $326.10 | $114.24 | $65.22
41116 | T | Excision of mouth lesion | 0253 | 14.79 | $769.21 | $284.61 | $153.84
41120 | T | Partial removal of tongue | 0254 | 21.89 | $1,138.48 | $352.93 | $227.70
41130 | C | Partial removal of tongue |  |  |  |  |
41135 | C | Tongue and neck surgery |  |  |  |  |
41140 | C | Removal of tongue |  |  |  |  |
41145 | C | Tongue removal, neck surgery |  |  |  |  |
41150 | C | Tongue, mouth, jaw surgery |  |  |  |  |
41153 | C | Tongue, mouth, neck surgery |  |  |  |  |
41155 | C | Tongue, jaw, & neck surgery |  |  |  |  |
41250 | T | Repair tongue laceration | 0251 | 1.92 | $99.86 |  | $19.97
41251 | T | Repair tongue laceration | 0252 | 6.27 | $326.10 | $114.24 | $65.22
41252 | T | Repair tongue laceration | 0252 | 6.27 | $326.10 | $114.24 | $65.22
41500 | T | Fixation of tongue | 0254 | 21.89 | $1,138.48 | $352.93 | $227.70
41510 | T | Tongue to lip surgery | 0253 | 14.79 | $769.21 | $284.61 | $153.84
41520 | T | Reconstruction, tongue fold | 0252 | 6.27 | $326.10 | $114.24 | $65.22
41599 | T | Tongue and mouth surgery | 0251 | 1.92 | $99.86 |  | $19.97
41800 | T | Drainage of gum lesion | 0251 | 1.92 | $99.86 |  | $19.97
41805 | T | Removal foreign body, gum | 0254 | 21.89 | $1,138.48 | $352.93 | $227.70
41806 | T | Removal foreign body,jawbone | 0253 | 14.79 | $769.21 | $284.61 | $153.84
41820 | T | Excision, gum, each quadrant | 0252 | 6.27 | $326.10 | $114.24 | $65.22
41821 | T | Excision of gum flap | 0252 | 6.27 | $326.10 | $114.24 | $65.22
41822 | T | Excision of gum lesion | 0253 | 14.79 | $769.21 | $284.61 | $153.84
41823 | T | Excision of gum lesion | 0254 | 21.89 | $1,138.48 | $352.93 | $227.70
41825 | T | Excision of gum lesion | 0253 | 14.79 | $769.21 | $284.61 | $153.84
41826 | T | Excision of gum lesion | 0253 | 14.79 | $769.21 | $284.61 | $153.84
41827 | T | Excision of gum lesion | 0254 | 21.89 | $1,138.48 | $352.93 | $227.70
41828 | T | Excision of gum lesion | 0253 | 14.79 | $769.21 | $284.61 | $153.84
41830 | T | Removal of gum tissue | 0253 | 14.79 | $769.21 | $284.61 | $153.84
41850 | T | Treatment of gum lesion | 0253 | 14.79 | $769.21 | $284.61 | $153.84
41870 | T | Gum graft | 0254 | 21.89 | $1,138.48 | $352.93 | $227.70
41872 | T | Repair gum | 0253 | 14.79 | $769.21 | $284.61 | $153.84
41874 | T | Repair tooth socket | 0254 | 21.89 | $1,138.48 | $352.93 | $227.70
41899 | T | Dental surgery procedure | 0253 | 14.79 | $769.21 | $284.61 | $153.84
42000 | T | Drainage mouth roof lesion | 0251 | 1.92 | $99.86 |  | $19.97
42100 | T | Biopsy roof of mouth | 0252 | 6.27 | $326.10 | $114.24 | $65.22
42104 | T | Excision lesion, mouth roof | 0253 | 14.79 | $769.21 | $284.61 | $153.84
42106 | T | Excision lesion, mouth roof | 0253 | 14.79 | $769.21 | $284.61 | $153.84
42107 | T | Excision lesion, mouth roof | 0254 | 21.89 | $1,138.48 | $352.93 | $227.70
42120 | T | Remove palate/lesion | 0256 | 35.51 | $1,846.84 |  | $369.37
42140 | T | Excision of uvula | 0252 | 6.27 | $326.10 | $114.24 | $65.22
42145 | T | Repair palate, pharynx/uvula | 0254 | 21.89 | $1,138.48 | $352.93 | $227.70
42160 | T | Treatment mouth roof lesion | 0253 | 14.79 | $769.21 | $284.61 | $153.84
42180 | T | Repair palate | 0251 | 1.92 | $99.86 |  | $19.97
42182 | T | Repair palate | 0256 | 35.51 | $1,846.84 |  | $369.37
42200 | T | Reconstruct cleft palate | 0256 | 35.51 | $1,846.84 |  | $369.37
42205 | T | Reconstruct cleft palate | 0256 | 35.51 | $1,846.84 |  | $369.37
42210 | T | Reconstruct cleft palate | 0256 | 35.51 | $1,846.84 |  | $369.37
42215 | T | Reconstruct cleft palate | 0256 | 35.51 | $1,846.84 |  | $369.37
42220 | T | Reconstruct cleft palate | 0256 | 35.51 | $1,846.84 |  | $369.37
42225 | T | Reconstruct cleft palate | 0256 | 35.51 | $1,846.84 |  | $369.37
42226 | T | Lengthening of palate | 0256 | 35.51 | $1,846.84 |  | $369.37
42227 | T | Lengthening of palate | 0256 | 35.51 | $1,846.84 |  | $369.37
42235 | T | Repair palate | 0253 | 14.79 | $769.21 | $284.61 | $153.84
42260 | T | Repair nose to lip fistula | 0254 | 21.89 | $1,138.48 | $352.93 | $227.70
42280 | T | Preparation, palate mold | 0251 | 1.92 | $99.86 |  | $19.97
42281 | T | Insertion, palate prosthesis | 0253 | 14.79 | $769.21 | $284.61 | $153.84
42299 | T | Palate/uvula surgery | 0251 | 1.92 | $99.86 |  | $19.97
42300 | T | Drainage of salivary gland | 0253 | 14.79 | $769.21 | $284.61 | $153.84
42305 | T | Drainage of salivary gland | 0253 | 14.79 | $769.21 | $284.61 | $153.84
42310 | T | Drainage of salivary gland | 0251 | 1.92 | $99.86 |  | $19.97
42320 | T | Drainage of salivary gland | 0251 | 1.92 | $99.86 |  | $19.97
42325 | T | Create salivary cyst drain | 0251 | 1.92 | $99.86 |  | $19.97
42326 | T | Create salivary cyst drain | 0252 | 6.27 | $326.10 | $114.24 | $65.22
42330 | T | Removal of salivary stone | 0253 | 14.79 | $769.21 | $284.61 | $153.84
42335 | T | Removal of salivary stone | 0253 | 14.79 | $769.21 | $284.61 | $153.84
42340 | T | Removal of salivary stone | 0253 | 14.79 | $769.21 | $284.61 | $153.84
42400 | T | Biopsy of salivary gland | 0004 | 1.63 | $84.77 | $22.04 | $16.95
42405 | T | Biopsy of salivary gland | 0253 | 14.79 | $769.21 | $284.61 | $153.84
42408 | T | Excision of salivary cyst | 0253 | 14.79 | $769.21 | $284.61 | $153.84
42409 | T | Drainage of salivary cyst | 0253 | 14.79 | $769.21 | $284.61 | $153.84
42410 | T | Excise parotid gland/lesion | 0256 | 35.51 | $1,846.84 |  | $369.37
42415 | T | Excise parotid gland/lesion | 0256 | 35.51 | $1,846.84 |  | $369.37
42420 | T | Excise parotid gland/lesion | 0256 | 35.51 | $1,846.84 |  | $369.37
42425 | T | Excise parotid gland/lesion | 0256 | 35.51 | $1,846.84 |  | $369.37
42426 | C | Excise parotid gland/lesion |  |  |  |  |
42440 | T | Excise submaxillary gland | 0256 | 35.51 | $1,846.84 |  | $369.37
42450 | T | Excise sublingual gland | 0254 | 21.89 | $1,138.48 | $352.93 | $227.70
42500 | T | Repair salivary duct | 0254 | 21.89 | $1,138.48 | $352.93 | $227.70
42505 | T | Repair salivary duct | 0256 | 35.51 | $1,846.84 |  | $369.37
42507 | T | Parotid duct diversion | 0256 | 35.51 | $1,846.84 |  | $369.37
42508 | T | Parotid duct diversion | 0256 | 35.51 | $1,846.84 |  | $369.37
42509 | T | Parotid duct diversion | 0256 | 35.51 | $1,846.84 |  | $369.37
42510 | T | Parotid duct diversion | 0256 | 35.51 | $1,846.84 |  | $369.37
42550 | N | Injection for salivary x-ray |  |  |  |  |
42600 | T | Closure of salivary fistula | 0253 | 14.79 | $769.21 | $284.61 | $153.84
42650 | T | Dilation of salivary duct | 0252 | 6.27 | $326.10 | $114.24 | $65.22
42660 | T | Dilation of salivary duct | 0252 | 6.27 | $326.10 | $114.24 | $65.22
42665 | T | Ligation of salivary duct | 0254 | 21.89 | $1,138.48 | $352.93 | $227.70
42699 | T | Salivary surgery procedure | 0253 | 14.79 | $769.21 | $284.61 | $153.84
42700 | T | Drainage of tonsil abscess | 0251 | 1.92 | $99.86 |  | $19.97
42720 | T | Drainage of throat abscess | 0253 | 14.79 | $769.21 | $284.61 | $153.84
42725 | T | Drainage of throat abscess | 0256 | 35.51 | $1,846.84 |  | $369.37
42800 | T | Biopsy of throat | 0252 | 6.27 | $326.10 | $114.24 | $65.22
42802 | T | Biopsy of throat | 0253 | 14.79 | $769.21 | $284.61 | $153.84
42804 | T | Biopsy of upper nose/throat | 0253 | 14.79 | $769.21 | $284.61 | $153.84
42806 | T | Biopsy of upper nose/throat | 0254 | 21.89 | $1,138.48 | $352.93 | $227.70
42808 | T | Excise pharynx lesion | 0253 | 14.79 | $769.21 | $284.61 | $153.84
42809 | X | Remove pharynx foreign body | 0340 | 0.66 | $34.33 |  | $6.87
42810 | T | Excision of neck cyst | 0254 | 21.89 | $1,138.48 | $352.93 | $227.70
42815 | T | Excision of neck cyst | 0256 | 35.51 | $1,846.84 |  | $369.37
42820 | T | Remove tonsils and adenoids | 0258 | 21.15 | $1,099.99 | $437.25 | $220.00
42821 | T | Remove tonsils and adenoids | 0258 | 21.15 | $1,099.99 | $437.25 | $220.00
42825 | T | Removal of tonsils | 0258 | 21.15 | $1,099.99 | $437.25 | $220.00
42826 | T | Removal of tonsils | 0258 | 21.15 | $1,099.99 | $437.25 | $220.00
42830 | T | Removal of adenoids | 0258 | 21.15 | $1,099.99 | $437.25 | $220.00
42831 | T | Removal of adenoids | 0258 | 21.15 | $1,099.99 | $437.25 | $220.00
42835 | T | Removal of adenoids | 0258 | 21.15 | $1,099.99 | $437.25 | $220.00
42836 | T | Removal of adenoids | 0258 | 21.15 | $1,099.99 | $437.25 | $220.00
42842 | T | Extensive surgery of throat | 0254 | 21.89 | $1,138.48 | $352.93 | $227.70
42844 | T | Extensive surgery of throat | 0256 | 35.51 | $1,846.84 |  | $369.37
42845 | C | Extensive surgery of throat |  |  |  |  |
42860 | T | Excision of tonsil tags | 0258 | 21.15 | $1,099.99 | $437.25 | $220.00
42870 | T | Excision of lingual tonsil | 0258 | 21.15 | $1,099.99 | $437.25 | $220.00
42890 | T | Partial removal of pharynx | 0256 | 35.51 | $1,846.84 |  | $369.37
42892 | T | Revision of pharyngeal walls | 0256 | 35.51 | $1,846.84 |  | $369.37
42894 | C | Revision of pharyngeal walls |  |  |  |  |
42900 | T | Repair throat wound | 0252 | 6.27 | $326.10 | $114.24 | $65.22
42950 | T | Reconstruction of throat | 0254 | 21.89 | $1,138.48 | $352.93 | $227.70
42953 | C | Repair throat, esophagus |  |  |  |  |
42955 | T | Surgical opening of throat | 0254 | 21.89 | $1,138.48 | $352.93 | $227.70
42960 | T | Control throat bleeding | 0250 | 1.68 | $87.38 | $30.58 | $17.48
42961 | C | Control throat bleeding |  |  |  |  |
42962 | T | Control throat bleeding | 0256 | 35.51 | $1,846.84 |  | $369.37
42970 | T | Control nose/throat bleeding | 0250 | 1.68 | $87.38 | $30.58 | $17.48
42971 | C | Control nose/throat bleeding |  |  |  |  |
42972 | T | Control nose/throat bleeding | 0253 | 14.79 | $769.21 | $284.61 | $153.84
42999 | T | Throat surgery procedure | 0252 | 6.27 | $326.10 | $114.24 | $65.22
43020 | T | Incision of esophagus | 0252 | 6.27 | $326.10 | $114.24 | $65.22
43030 | T | Throat muscle surgery | 0253 | 14.79 | $769.21 | $284.61 | $153.84
43045 | C | Incision of esophagus |  |  |  |  |
43100 | C | Excision of esophagus lesion |  |  |  |  |
43101 | C | Excision of esophagus lesion |  |  |  |  |
43107 | C | Removal of esophagus |  |  |  |  |
43108 | C | Removal of esophagus |  |  |  |  |
43112 | C | Removal of esophagus |  |  |  |  |
43113 | C | Removal of esophagus |  |  |  |  |
43116 | C | Partial removal of esophagus |  |  |  |  |
43117 | C | Partial removal of esophagus |  |  |  |  |
43118 | C | Partial removal of esophagus |  |  |  |  |
43121 | C | Partial removal of esophagus |  |  |  |  |
43122 | C | Parital removal of esophagus |  |  |  |  |
43123 | C | Partial removal of esophagus |  |  |  |  |
43124 | C | Removal of esophagus |  |  |  |  |
43130 | T | Removal of esophagus pouch | 0254 | 21.89 | $1,138.48 | $352.93 | $227.70
43135 | C | Removal of esophagus pouch |  |  |  |  |
43200 | T | Esophagus endoscopy | 0141 | 7.82 | $406.71 | $150.48 | $81.34
43202 | T | Esophagus endoscopy, biopsy | 0141 | 7.82 | $406.71 | $150.48 | $81.34
43204 | T | Esophagus endoscopy & inject | 0141 | 7.82 | $406.71 | $150.48 | $81.34
43205 | T | Esophagus endoscopy/ligation | 0141 | 7.82 | $406.71 | $150.48 | $81.34
43215 | T | Esophagus endoscopy | 0141 | 7.82 | $406.71 | $150.48 | $81.34
43216 | T | Esophagus endoscopy/lesion | 0141 | 7.82 | $406.71 | $150.48 | $81.34
43217 | T | Esophagus endoscopy | 0141 | 7.82 | $406.71 | $150.48 | $81.34
43219 | T | Esophagus endoscopy | 0141 | 7.82 | $406.71 | $150.48 | $81.34
43220 | T | Esoph endoscopy, dilation | 0141 | 7.82 | $406.71 | $150.48 | $81.34
43226 | T | Esoph endoscopy, dilation | 0141 | 7.82 | $406.71 | $150.48 | $81.34
43227 | T | Esoph endoscopy, repair | 0141 | 7.82 | $406.71 | $150.48 | $81.34
43228 | T | Esoph endoscopy, ablation | 0141 | 7.82 | $406.71 | $150.48 | $81.34
43231 | T | Esoph endoscopy w/us exam | 0141 | 7.82 | $406.71 | $150.48 | $81.34
43232 | T | Esoph endoscopy w/us fn bx | 0141 | 7.82 | $406.71 | $150.48 | $81.34
43234 | T | Upper GI endoscopy, exam | 0141 | 7.82 | $406.71 | $150.48 | $81.34
43235 | T | Uppr gi endoscopy, diagnosis | 0141 | 7.82 | $406.71 | $150.48 | $81.34
43239 | T | Upper GI endoscopy, biopsy | 0141 | 7.82 | $406.71 | $150.48 | $81.34
43240 | T | Esoph endoscope w/drain cyst | 0141 | 7.82 | $406.71 | $150.48 | $81.34
43241 | T | Upper GI endoscopy with tube | 0141 | 7.82 | $406.71 | $150.48 | $81.34
43242 | T | Uppr gi endoscopy w/us fn bx | 0141 | 7.82 | $406.71 | $150.48 | $81.34
43243 | T | Upper gi endoscopy & inject | 0141 | 7.82 | $406.71 | $150.48 | $81.34
43244 | T | Upper GI endoscopy/ligation | 0141 | 7.82 | $406.71 | $150.48 | $81.34
43245 | T | Operative upper GI endoscopy | 0141 | 7.82 | $406.71 | $150.48 | $81.34
43246 | T | Place gastrostomy tube | 0141 | 7.82 | $406.71 | $150.48 | $81.34
43247 | T | Operative upper GI endoscopy | 0141 | 7.82 | $406.71 | $150.48 | $81.34
43248 | T | Uppr gi endoscopy/guide wire | 0141 | 7.82 | $406.71 | $150.48 | $81.34
43249 | T | Esoph endoscopy, dilation | 0141 | 7.82 | $406.71 | $150.48 | $81.34
43250 | T | Upper GI endoscopy/tumor | 0141 | 7.82 | $406.71 | $150.48 | $81.34
43251 | T | Operative upper GI endoscopy | 0141 | 7.82 | $406.71 | $150.48 | $81.34
43255 | T | Operative upper GI endoscopy | 0141 | 7.82 | $406.71 | $150.48 | $81.34
43256 | T | Uppr gi endoscopy w stent | 0141 | 7.82 | $406.71 | $150.48 | $81.34
43258 | T | Operative upper GI endoscopy | 0141 | 7.82 | $406.71 | $150.48 | $81.34
43259 | T | Endoscopic ultrasound exam | 0141 | 7.82 | $406.71 | $150.48 | $81.34
43260 | T | Endo cholangiopancreatograph | 0151 | 18.23 | $948.12 | $245.46 | $189.62
43261 | T | Endo cholangiopancreatograph | 0151 | 18.23 | $948.12 | $245.46 | $189.62
43262 | T | Endo cholangiopancreatograph | 0151 | 18.23 | $948.12 | $245.46 | $189.62
43263 | T | Endo cholangiopancreatograph | 0151 | 18.23 | $948.12 | $245.46 | $189.62
43264 | T | Endo cholangiopancreatograph | 0151 | 18.23 | $948.12 | $245.46 | $189.62
43265 | T | Endo cholangiopancreatograph | 0151 | 18.23 | $948.12 | $245.46 | $189.62
43267 | T | Endo cholangiopancreatograph | 0151 | 18.23 | $948.12 | $245.46 | $189.62
43268 | T | Endo cholangiopancreatograph | 0151 | 18.23 | $948.12 | $245.46 | $189.62
43269 | T | Endo cholangiopancreatograph | 0151 | 18.23 | $948.12 | $245.46 | $189.62
43271 | T | Endo cholangiopancreatograph | 0151 | 18.23 | $948.12 | $245.46 | $189.62
43272 | T | Endo cholangiopancreatograph | 0151 | 18.23 | $948.12 | $245.46 | $189.62
43280 | T | Laparoscopy, fundoplasty | 0132 | 57.95 | $3,013.92 | $1,239.22 | $602.78
43289 | T | Laparoscope proc, esoph | 0130 | 31.99 | $1,663.77 | $659.53 | $332.75
43300 | C | Repair of esophagus |  |  |  |  |
43305 | C | Repair esophagus and fistula |  |  |  |  |
43310 | C | Repair of esophagus |  |  |  |  |
43312 | C | Repair esophagus and fistula |  |  |  |  |
43313 | C | Esophagoplasty congential |  |  |  |  |
43314 | C | Tracheo-esophagoplasty cong |  |  |  |  |
43320 | C | Fuse esophagus & stomach |  |  |  |  |
43324 | C | Revise esophagus & stomach |  |  |  |  |
43325 | C | Revise esophagus & stomach |  |  |  |  |
43326 | C | Revise esophagus & stomach |  |  |  |  |
43330 | C | Repair of esophagus |  |  |  |  |
43331 | C | Repair of esophagus |  |  |  |  |
43340 | C | Fuse esophagus & intestine |  |  |  |  |
43341 | C | Fuse esophagus & intestine |  |  |  |  |
43350 | C | Surgical opening, esophagus |  |  |  |  |
43351 | C | Surgical opening, esophagus |  |  |  |  |
43352 | C | Surgical opening, esophagus |  |  |  |  |
43360 | C | Gastrointestinal repair |  |  |  |  |
43361 | C | Gastrointestinal repair |  |  |  |  |
43400 | C | Ligate esophagus veins |  |  |  |  |
43401 | C | Esophagus surgery for veins |  |  |  |  |
43405 | C | Ligate/staple esophagus |  |  |  |  |
43410 | C | Repair esophagus wound |  |  |  |  |
43415 | C | Repair esophagus wound |  |  |  |  |
43420 | C | Repair esophagus opening |  |  |  |  |
43425 | C | Repair esophagus opening |  |  |  |  |
43450 | T | Dilate esophagus | 0140 | 5.84 | $303.73 | $107.24 | $60.75
43453 | T | Dilate esophagus | 0140 | 5.84 | $303.73 | $107.24 | $60.75
43456 | T | Dilate esophagus | 0140 | 5.84 | $303.73 | $107.24 | $60.75
43458 | T | Dilate esophagus | 0140 | 5.84 | $303.73 | $107.24 | $60.75
43460 | C | Pressure treatment esophagus |  |  |  |  |
43496 | C | Free jejunum flap, microvasc |  |  |  |  |
43499 | T | Esophagus surgery procedure | 0141 | 7.82 | $406.71 | $150.48 | $81.34
43500 | C | Surgical opening of stomach |  |  |  |  |
43501 | C | Surgical repair of stomach |  |  |  |  |
43502 | C | Surgical repair of stomach |  |  |  |  |
43510 | C | Surgical opening of stomach |  |  |  |  |
43520 | C | Incision of pyloric muscle |  |  |  |  |
43600 | T | Biopsy of stomach | 0141 | 7.82 | $406.71 | $150.48 | $81.34
43605 | C | Biopsy of stomach |  |  |  |  |
43610 | C | Excision of stomach lesion |  |  |  |  |
43611 | C | Excision of stomach lesion |  |  |  |  |
43620 | C | Removal of stomach |  |  |  |  |
43621 | C | Removal of stomach |  |  |  |  |
43622 | C | Removal of stomach |  |  |  |  |
43631 | C | Removal of stomach, partial |  |  |  |  |
43632 | C | Removal of stomach, partial |  |  |  |  |
43633 | C | Removal of stomach, partial |  |  |  |  |
43634 | C | Removal of stomach, partial |  |  |  |  |
43635 | C | Removal of stomach, partial |  |  |  |  |
43638 | C | Removal of stomach, partial |  |  |  |  |
43639 | C | Removal of stomach, partial |  |  |  |  |
43640 | C | Vagotomy & pylorus repair |  |  |  |  |
43641 | C | Vagotomy & pylorus repair |  |  |  |  |
43651 | T | Laparoscopy, vagus nerve | 0132 | 57.95 | $3,013.92 | $1,239.22 | $602.78
43652 | T | Laparoscopy, vagus nerve | 0132 | 57.95 | $3,013.92 | $1,239.22 | $602.78
43653 | T | Laparoscopy, gastrostomy | 0131 | 42.44 | $2,207.26 | $1,001.89 | $441.45
43659 | T | Laparoscope proc, stom | 0130 | 31.99 | $1,663.77 | $659.53 | $332.75
43750 | T | Place gastrostomy tube | 0141 | 7.82 | $406.71 | $150.48 | $81.34
43752 | E | Nasal/orogastric w/stent |  |  |  |  |
43760 | T | Change gastrostomy tube | 0121 | 2.17 | $112.86 | $45.14 | $22.57
43761 | T | Reposition gastrostomy tube | 0121 | 2.17 | $112.86 | $45.14 | $22.57
43800 | C | Reconstruction of pylorus |  |  |  |  |
43810 | C | Fusion of stomach and bowel |  |  |  |  |
43820 | C | Fusion of stomach and bowel |  |  |  |  |
43825 | C | Fusion of stomach and bowel |  |  |  |  |
43830 | T | Place gastrostomy tube | 0141 | 7.82 | $406.71 | $150.48 | $81.34
43831 | T | Place gastrostomy tube | 0141 | 7.82 | $406.71 | $150.48 | $81.34
43832 | C | Place gastrostomy tube |  |  |  |  |
43840 | C | Repair of stomach lesion |  |  |  |  |
43842 | C | Gastroplasty for obesity |  |  |  |  |
43843 | C | Gastroplasty for obesity |  |  |  |  |
43846 | C | Gastric bypass for obesity |  |  |  |  |
43847 | C | Gastric bypass for obesity |  |  |  |  |
43848 | C | Revision gastroplasty |  |  |  |  |
43850 | C | Revise stomach-bowel fusion |  |  |  |  |
43855 | C | Revise stomach-bowel fusion |  |  |  |  |
43860 | C | Revise stomach-bowel fusion |  |  |  |  |
43865 | C | Revise stomach-bowel fusion |  |  |  |  |
43870 | T | Repair stomach opening | 0141 | 7.82 | $406.71 | $150.48 | $81.34
43880 | C | Repair stomach-bowel fistula |  |  |  |  |
43999 | T | Stomach surgery procedure | 0141 | 7.82 | $406.71 | $150.48 | $81.34
44005 | C | Freeing of bowel adhesion |  |  |  |  |
44010 | C | Incision of small bowel |  |  |  |  |
44015 | C | Insert needle cath bowel |  |  |  |  |
44020 | C | Explore small intestine |  |  |  |  |
44021 | C | Decompress small bowel |  |  |  |  |
44025 | C | Incision of large bowel |  |  |  |  |
44050 | C | Reduce bowel obstruction |  |  |  |  |
44055 | C | Correct malrotation of bowel |  |  |  |  |
44100 | T | Biopsy of bowel | 0141 | 7.82 | $406.71 | $150.48 | $81.34
44110 | C | Excise intestine lesion(s) |  |  |  |  |
44111 | C | Excision of bowel lesion(s) |  |  |  |  |
44120 | C | Removal of small intestine |  |  |  |  |
44121 | C | Removal of small intestine |  |  |  |  |
44125 | C | Removal of small intestine |  |  |  |  |
44126 | C | Enterectomy w/taper, cong |  |  |  |  |
44127 | C | Enterectomy w/o taper, cong |  |  |  |  |
44128 | C | Enterectomy cong, add-on |  |  |  |  |
44130 | C | Bowel to bowel fusion |  |  |  |  |
44132 | C | Enterectomy, cadaver donor |  |  |  |  |
44133 | C | Enterectomy, live donor |  |  |  |  |
44135 | C | Intestine transplnt, cadaver |  |  |  |  |
44136 | C | Intestine transplant, live |  |  |  |  |
44139 | C | Mobilization of colon |  |  |  |  |
44140 | C | Partial removal of colon |  |  |  |  |
44141 | C | Partial removal of colon |  |  |  |  |
44143 | C | Partial removal of colon |  |  |  |  |
44144 | C | Partial removal of colon |  |  |  |  |
44145 | C | Partial removal of colon |  |  |  |  |
44146 | C | Partial removal of colon |  |  |  |  |
44147 | C | Partial removal of colon |  |  |  |  |
44150 | C | Removal of colon |  |  |  |  |
44151 | C | Removal of colon/ileostomy |  |  |  |  |
44152 | C | Removal of colon/ileostomy |  |  |  |  |
44153 | C | Removal of colon/ileostomy |  |  |  |  |
44155 | C | Removal of colon/ileostomy |  |  |  |  |
44156 | C | Removal of colon/ileostomy |  |  |  |  |
44160 | C | Removal of colon |  |  |  |  |
44200 | T | Laparoscopy, enterolysis | 0131 | 42.44 | $2,207.26 | $1,001.89 | $441.45
44201 | T | Laparoscopy, jejunostomy | 0131 | 42.44 | $2,207.26 | $1,001.89 | $441.45
44202 | C | Lap resect s/intestine singl |  |  |  |  |
44203 | C | Lap resect s/intestine, addl |  |  |  |  |
44204 | C | Laparo partial colectomy |  |  |  |  |
44205 | C | Lap colectomy part w/ileum |  |  |  |  |
44209 | T | Laparoscope proc, intestine | 0130 | 31.99 | $1,663.77 | $659.53 | $332.75
44300 | C | Open bowel to skin |  |  |  |  |
44310 | C | Ileostomy/jejunostomy |  |  |  |  |
44312 | T | Revision of ileostomy | 0027 | 15.73 | $818.10 | $343.60 | $163.62
44314 | C | Revision of ileostomy |  |  |  |  |
44316 | C | Devise bowel pouch |  |  |  |  |
44320 | C | Colostomy |  |  |  |  |
44322 | C | Colostomy with biopsies |  |  |  |  |
44340 | T | Revision of colostomy | 0027 | 15.73 | $818.10 | $343.60 | $163.62
44345 | C | Revision of colostomy |  |  |  |  |
44346 | C | Revision of colostomy |  |  |  |  |
44360 | T | Small bowel endoscopy | 0142 | 8.21 | $426.99 | $152.78 | $85.40
44361 | T | Small bowel endoscopy/biopsy | 0142 | 8.21 | $426.99 | $152.78 | $85.40
44363 | T | Small bowel endoscopy | 0142 | 8.21 | $426.99 | $152.78 | $85.40
44364 | T | Small bowel endoscopy | 0142 | 8.21 | $426.99 | $152.78 | $85.40
44365 | T | Small bowel endoscopy | 0142 | 8.21 | $426.99 | $152.78 | $85.40
44366 | T | Small bowel endoscopy | 0142 | 8.21 | $426.99 | $152.78 | $85.40
44369 | T | Small bowel endoscopy | 0142 | 8.21 | $426.99 | $152.78 | $85.40
44370 | T | Small bowel endoscopy/stent | 0142 | 8.21 | $426.99 | $152.78 | $85.40
44372 | T | Small bowel endoscopy | 0142 | 8.21 | $426.99 | $152.78 | $85.40
44373 | T | Small bowel endoscopy | 0142 | 8.21 | $426.99 | $152.78 | $85.40
44376 | T | Small bowel endoscopy | 0142 | 8.21 | $426.99 | $152.78 | $85.40
44377 | T | Small bowel endoscopy/biopsy | 0142 | 8.21 | $426.99 | $152.78 | $85.40
44378 | T | Small bowel endoscopy | 0142 | 8.21 | $426.99 | $152.78 | $85.40
44379 | T | S bowel endoscope w/stent | 0142 | 8.21 | $426.99 | $152.78 | $85.40
44380 | T | Small bowel endoscopy | 0142 | 8.21 | $426.99 | $152.78 | $85.40
44382 | T | Small bowel endoscopy | 0142 | 8.21 | $426.99 | $152.78 | $85.40
44383 | T | Ileoscopy w/stent | 0142 | 8.21 | $426.99 | $152.78 | $85.40
44385 | T | Endoscopy of bowel pouch | 0143 | 8.37 | $435.32 | $186.06 | $87.06
44386 | T | Endoscopy, bowel pouch/biop | 0143 | 8.37 | $435.32 | $186.06 | $87.06
44388 | T | Colon endoscopy | 0143 | 8.37 | $435.32 | $186.06 | $87.06
44389 | T | Colonoscopy with biopsy | 0143 | 8.37 | $435.32 | $186.06 | $87.06
44390 | T | Colonoscopy for foreign body | 0143 | 8.37 | $435.32 | $186.06 | $87.06
44391 | T | Colonoscopy for bleeding | 0143 | 8.37 | $435.32 | $186.06 | $87.06
44392 | T | Colonoscopy & polypectomy | 0143 | 8.37 | $435.32 | $186.06 | $87.06
44393 | T | Colonoscopy, lesion removal | 0143 | 8.37 | $435.32 | $186.06 | $87.06
44394 | T | Colonoscopy w/snare | 0143 | 8.37 | $435.32 | $186.06 | $87.06
44397 | T | Colonoscopy w stent | 0143 | 8.37 | $435.32 | $186.06 | $87.06
44500 | T | Intro, gastrointestinal tube | 0121 | 2.17 | $112.86 | $45.14 | $22.57
44602 | C | Suture, small intestine |  |  |  |  |
44603 | C | Suture, small intestine |  |  |  |  |
44604 | C | Suture, large intestine |  |  |  |  |
44605 | C | Repair of bowel lesion |  |  |  |  |
44615 | C | Intestinal stricturoplasty |  |  |  |  |
44620 | C | Repair bowel opening |  |  |  |  |
44625 | C | Repair bowel opening |  |  |  |  |
44626 | C | Repair bowel opening |  |  |  |  |
44640 | C | Repair bowel-skin fistula |  |  |  |  |
44650 | C | Repair bowel fistula |  |  |  |  |
44660 | C | Repair bowel-bladder fistula |  |  |  |  |
44661 | C | Repair bowel-bladder fistula |  |  |  |  |
44680 | C | Surgical revision, intestine |  |  |  |  |
44700 | C | Suspend bowel w/prosthesis |  |  |  |  |
44799 | T | Intestine surgery procedure | 0142 | 8.21 | $426.99 | $152.78 | $85.40
44800 | C | Excision of bowel pouch |  |  |  |  |
44820 | C | Excision of mesentery lesion |  |  |  |  |
44850 | C | Repair of mesentery |  |  |  |  |
44899 | C | Bowel surgery procedure |  |  |  |  |
44900 | C | Drain app abscess, open |  |  |  |  |
44901 | C | Drain app abscess, percut |  |  |  |  |
44950 | C | Appendectomy |  |  |  |  |
44955 | C | Appendectomy add-on |  |  |  |  |
44960 | C | Appendectomy |  |  |  |  |
44970 | T | Laparoscopy, appendectomy | 0130 | 31.99 | $1,663.77 | $659.53 | $332.75
44979 | T | Laparoscope proc, app | 0130 | 31.99 | $1,663.77 | $659.53 | $332.75
45000 | T | Drainage of pelvic abscess | 0149 | 16.91 | $879.47 | $293.06 | $175.89
45005 | T | Drainage of rectal abscess | 0148 | 3.61 | $187.75 | $67.59 | $37.55
45020 | T | Drainage of rectal abscess | 0149 | 16.91 | $879.47 | $293.06 | $175.89
45100 | T | Biopsy of rectum | 0149 | 16.91 | $879.47 | $293.06 | $175.89
45108 | T | Removal of anorectal lesion | 0150 | 22.02 | $1,145.24 | $437.12 | $229.05
45110 | C | Removal of rectum |  |  |  |  |
45111 | C | Partial removal of rectum |  |  |  |  |
45112 | C | Removal of rectum |  |  |  |  |
45113 | C | Partial proctectomy |  |  |  |  |
45114 | C | Partial removal of rectum |  |  |  |  |
45116 | C | Partial removal of rectum |  |  |  |  |
45119 | C | Remove rectum w/reservoir |  |  |  |  |
45120 | C | Removal of rectum |  |  |  |  |
45121 | C | Removal of rectum and colon |  |  |  |  |
45123 | C | Partial proctectomy |  |  |  |  |
45126 | C | Pelvic exenteration |  |  |  |  |
45130 | C | Excision of rectal prolapse |  |  |  |  |
45135 | C | Excision of rectal prolapse |  |  |  |  |
45136 | C | Excise ileoanal reservoir |  |  |  |  |
45150 | T | Excision of rectal stricture | 0150 | 22.02 | $1,145.24 | $437.12 | $229.05
45160 | T | Excision of rectal lesion | 0150 | 22.02 | $1,145.24 | $437.12 | $229.05
45170 | T | Excision of rectal lesion | 0150 | 22.02 | $1,145.24 | $437.12 | $229.05
45190 | T | Destruction, rectal tumor | 0150 | 22.02 | $1,145.24 | $437.12 | $229.05
45300 | T | Proctosigmoidoscopy dx | 0146 | 3.47 | $180.47 | $64.40 | $36.09
45303 | T | Proctosigmoidoscopy dilate | 0146 | 3.47 | $180.47 | $64.40 | $36.09
45305 | T | Protosigmoidoscopy w/bx | 0146 | 3.47 | $180.47 | $64.40 | $36.09
45307 | T | Protosigmoidoscopy fb | 0146 | 3.47 | $180.47 | $64.40 | $36.09
45308 | T | Protosigmoidoscopy removal | 0147 | 7.30 | $379.67 | $83.53 | $75.93
45309 | T | Protosigmoidoscopy removal | 0147 | 7.30 | $379.67 | $83.53 | $75.93
45315 | T | Protosigmoidoscopy removal | 0147 | 7.30 | $379.67 | $83.53 | $75.93
45317 | T | Protosigmoidoscopy bleed | 0146 | 3.47 | $180.47 | $64.40 | $36.09
45320 | T | Protosigmoidoscopy ablate | 0147 | 7.30 | $379.67 | $83.53 | $75.93
45321 | T | Protosigmoidoscopy volvul | 0147 | 7.30 | $379.67 | $83.53 | $75.93
45327 | T | Proctosigmoidoscopy w/stent | 0147 | 7.30 | $379.67 | $83.53 | $75.93
45330 | T | Diagnostic sigmoidoscopy | 0146 | 3.47 | $180.47 | $64.40 | $36.09
45331 | T | Sigmoidoscopy and biopsy | 0146 | 3.47 | $180.47 | $64.40 | $36.09
45332 | T | Sigmoidoscopy w/fb removal | 0146 | 3.47 | $180.47 | $64.40 | $36.09
45333 | T | Sigmoidoscopy & polypectomy | 0147 | 7.30 | $379.67 | $83.53 | $75.93
45334 | T | Sigmoidoscopy for bleeding | 0147 | 7.30 | $379.67 | $83.53 | $75.93
45337 | T | Sigmoidoscopy & decompress | 0147 | 7.30 | $379.67 | $83.53 | $75.93
45338 | T | Sigmoidoscpy w/tumr remove | 0147 | 7.30 | $379.67 | $83.53 | $75.93
45339 | T | Sigmoidoscopy w/ablate tumr | 0147 | 7.30 | $379.67 | $83.53 | $75.93
45341 | T | Sigmoidoscopy w/ultrasound | 0147 | 7.30 | $379.67 | $83.53 | $75.93
45342 | T | Sigmoidoscopy w/us guide bx | 0147 | 7.30 | $379.67 | $83.53 | $75.93
45345 | T | Sigmodoscopy w/stent | 0147 | 7.30 | $379.67 | $83.53 | $75.93
45355 | T | Surgical colonoscopy | 0143 | 8.37 | $435.32 | $186.06 | $87.06
45378 | T | Diagnostic colonoscopy | 0143 | 8.37 | $435.32 | $186.06 | $87.06
45379 | T | Colonoscopy w/fb removal | 0143 | 8.37 | $435.32 | $186.06 | $87.06
45380 | T | Colonoscopy and biopsy | 0143 | 8.37 | $435.32 | $186.06 | $87.06
45382 | T | Colonoscopy/control bleeding | 0143 | 8.37 | $435.32 | $186.06 | $87.06
45383 | T | Lesion removal colonoscopy | 0143 | 8.37 | $435.32 | $186.06 | $87.06
45384 | T | Lesion remove colonoscopy | 0143 | 8.37 | $435.32 | $186.06 | $87.06
45385 | T | Lesion removal colonoscopy | 0143 | 8.37 | $435.32 | $186.06 | $87.06
45387 | T | Colonoscopy w/stent | 0143 | 8.37 | $435.32 | $186.06 | $87.06
45500 | T | Repair of rectum | 0150 | 22.02 | $1,145.24 | $437.12 | $229.05
45505 | T | Repair of rectum | 0150 | 22.02 | $1,145.24 | $437.12 | $229.05
45520 | T | Treatment of rectal prolapse | 0098 | 1.90 | $98.82 | $20.88 | $19.76
45540 | C | Correct rectal prolapse |  |  |  |  |
45541 | C | Correct rectal prolapse |  |  |  |  |
45550 | C | Repair rectum/remove sigmoid |  |  |  |  |
45560 | T | Repair of rectocele | 0150 | 22.02 | $1,145.24 | $437.12 | $229.05
45562 | C | Exploration/repair of rectum |  |  |  |  |
45563 | C | Exploration/repair of rectum |  |  |  |  |
45800 | C | Repair rect/bladder fistula |  |  |  |  |
45805 | C | Repair fistula w/colostomy |  |  |  |  |
45820 | C | Repair rectourethral fistula |  |  |  |  |
45825 | C | Repair fistula w/colostomy |  |  |  |  |
45900 | T | Reduction of rectal prolapse | 0148 | 3.61 | $187.75 | $67.59 | $37.55
45905 | T | Dilation of anal sphincter | 0149 | 16.91 | $879.47 | $293.06 | $175.89
45910 | T | Dilation of rectal narrowing | 0149 | 16.91 | $879.47 | $293.06 | $175.89
45915 | T | Remove rectal obstruction | 0148 | 3.61 | $187.75 | $67.59 | $37.55
45999 | T | Rectum surgery procedure | 0148 | 3.61 | $187.75 | $67.59 | $37.55
46020 | T | Placement of seton | 0148 | 3.61 | $187.75 | $67.59 | $37.55
46030 | T | Removal of rectal marker | 0148 | 3.61 | $187.75 | $67.59 | $37.55
46040 | T | Incision of rectal abscess | 0155 | 10.05 | $522.69 | $188.17 | $104.54
46045 | T | Incision of rectal abscess | 0150 | 22.02 | $1,145.24 | $437.12 | $229.05
46050 | T | Incision of anal abscess | 0155 | 10.05 | $522.69 | $188.17 | $104.54
46060 | T | Incision of rectal abscess | 0150 | 22.02 | $1,145.24 | $437.12 | $229.05
46070 | T | Incision of anal septum | 0155 | 10.05 | $522.69 | $188.17 | $104.54
46080 | T | Incision of anal sphincter | 0149 | 16.91 | $879.47 | $293.06 | $175.89
46083 | T | Incise external hemorrhoid | 0148 | 3.61 | $187.75 | $67.59 | $37.55
46200 | T | Removal of anal fissure | 0150 | 22.02 | $1,145.24 | $437.12 | $229.05
46210 | T | Removal of anal crypt | 0149 | 16.91 | $879.47 | $293.06 | $175.89
46211 | T | Removal of anal crypts | 0150 | 22.02 | $1,145.24 | $437.12 | $229.05
46220 | T | Removal of anal tab | 0149 | 16.91 | $879.47 | $293.06 | $175.89
46221 | T | Ligation of hemorrhoid(s) | 0148 | 3.61 | $187.75 | $67.59 | $37.55
46230 | T | Removal of anal tabs | 0149 | 16.91 | $879.47 | $293.06 | $175.89
46250 | T | Hemorrhoidectomy | 0150 | 22.02 | $1,145.24 | $437.12 | $229.05
46255 | T | Hemorrhoidectomy | 0150 | 22.02 | $1,145.24 | $437.12 | $229.05
46257 | T | Remove hemorrhoids & fissure | 0150 | 22.02 | $1,145.24 | $437.12 | $229.05
46258 | T | Remove hemorrhoids & fistula | 0150 | 22.02 | $1,145.24 | $437.12 | $229.05
46260 | T | Hemorrhoidectomy | 0150 | 22.02 | $1,145.24 | $437.12 | $229.05
46261 | T | Remove hemorrhoids & fissure | 0150 | 22.02 | $1,145.24 | $437.12 | $229.05
46262 | T | Remove hemorrhoids & fistula | 0150 | 22.02 | $1,145.24 | $437.12 | $229.05
46270 | T | Removal of anal fistula | 0150 | 22.02 | $1,145.24 | $437.12 | $229.05
46275 | T | Removal of anal fistula | 0150 | 22.02 | $1,145.24 | $437.12 | $229.05
46280 | T | Removal of anal fistula | 0150 | 22.02 | $1,145.24 | $437.12 | $229.05
46285 | T | Removal of anal fistula | 0150 | 22.02 | $1,145.24 | $437.12 | $229.05
46288 | T | Repair anal fistula | 0150 | 22.02 | $1,145.24 | $437.12 | $229.05
46320 | T | Removal of hemorrhoid clot | 0148 | 3.61 | $187.75 | $67.59 | $37.55
46500 | T | Injection into hemorrhoid(s) | 0155 | 10.05 | $522.69 | $188.17 | $104.54
46600 | X | Diagnostic anoscopy | 0340 | 0.66 | $34.33 |  | $6.87
46604 | T | Anoscopy and dilation | 0147 | 7.30 | $379.67 | $83.53 | $75.93
46606 | T | Anoscopy and biopsy | 0147 | 7.30 | $379.67 | $83.53 | $75.93
46608 | T | Anoscopy/ remove for body | 0147 | 7.30 | $379.67 | $83.53 | $75.93
46610 | T | Anoscopy/remove lesion | 0147 | 7.30 | $379.67 | $83.53 | $75.93
46611 | T | Anoscopy | 0147 | 7.30 | $379.67 | $83.53 | $75.93
46612 | T | Anoscopy/ remove lesions | 0147 | 7.30 | $379.67 | $83.53 | $75.93
46614 | T | Anoscopy/control bleeding | 0147 | 7.30 | $379.67 | $83.53 | $75.93
46615 | T | Anoscopy | 0147 | 7.30 | $379.67 | $83.53 | $75.93
46700 | T | Repair of anal stricture | 0150 | 22.02 | $1,145.24 | $437.12 | $229.05
46705 | C | Repair of anal stricture |  |  |  |  |
46715 | C | Repair of anovaginal fistula |  |  |  |  |
46716 | C | Repair of anovaginal fistula |  |  |  |  |
46730 | C | Construction of absent anus |  |  |  |  |
46735 | C | Construction of absent anus |  |  |  |  |
46740 | C | Construction of absent anus |  |  |  |  |
46742 | C | Repair of imperforated anus |  |  |  |  |
46744 | C | Repair of cloacal anomaly |  |  |  |  |
46746 | C | Repair of cloacal anomaly |  |  |  |  |
46748 | C | Repair of cloacal anomaly |  |  |  |  |
46750 | T | Repair of anal sphincter | 0150 | 22.02 | $1,145.24 | $437.12 | $229.05
46751 | C | Repair of anal sphincter |  |  |  |  |
46753 | T | Reconstruction of anus | 0150 | 22.02 | $1,145.24 | $437.12 | $229.05
46754 | T | Removal of suture from anus | 0149 | 16.91 | $879.47 | $293.06 | $175.89
46760 | T | Repair of anal sphincter | 0150 | 22.02 | $1,145.24 | $437.12 | $229.05
46761 | T | Repair of anal sphincter | 0150 | 22.02 | $1,145.24 | $437.12 | $229.05
46762 | T | Implant artificial sphincter | 0150 | 22.02 | $1,145.24 | $437.12 | $229.05
46900 | T | Destruction, anal lesion(s) | 0016 | 2.57 | $133.66 | $56.14 | $26.73
46910 | T | Destruction, anal lesion(s) | 0017 | 16.46 | $856.07 | $227.84 | $171.21
46916 | T | Cryosurgery, anal lesion(s) | 0013 | 1.10 | $57.21 | $14.30 | $11.44
46917 | T | Laser surgery, anal lesions | 0695 | 19.65 | $1,021.98 | $266.59 | $204.40
46922 | T | Excision of anal lesion(s) | 0695 | 19.65 | $1,021.98 | $266.59 | $204.40
46924 | T | Destruction, anal lesion(s) | 0695 | 19.65 | $1,021.98 | $266.59 | $204.40
46934 | T | Destruction of hemorrhoids | 0155 | 10.05 | $522.69 | $188.17 | $104.54
46935 | T | Destruction of hemorrhoids | 0155 | 10.05 | $522.69 | $188.17 | $104.54
46936 | T | Destruction of hemorrhoids | 0149 | 16.91 | $879.47 | $293.06 | $175.89
46937 | T | Cryotherapy of rectal lesion | 0149 | 16.91 | $879.47 | $293.06 | $175.89
46938 | T | Cryotherapy of rectal lesion | 0150 | 22.02 | $1,145.24 | $437.12 | $229.05
46940 | T | Treatment of anal fissure | 0149 | 16.91 | $879.47 | $293.06 | $175.89
46942 | T | Treatment of anal fissure | 0148 | 3.61 | $187.75 | $67.59 | $37.55
46945 | T | Ligation of hemorrhoids | 0155 | 10.05 | $522.69 | $188.17 | $104.54
46946 | T | Ligation of hemorrhoids | 0155 | 10.05 | $522.69 | $188.17 | $104.54
46999 | T | Anus surgery procedure | 0148 | 3.61 | $187.75 | $67.59 | $37.55
47000 | T | Needle biopsy of liver | 0685 | 4.47 | $232.48 | $102.29 | $46.50
47001 | N | Needle biopsy, liver add-on |  |  |  |  |
47010 | C | Open drainage, liver lesion |  |  |  |  |
47011 | T | Percut drain, liver lesion | 0005 | 3.02 | $157.07 | $69.11 | $31.41
47015 | C | Inject/aspirate liver cyst |  |  |  |  |
47100 | C | Wedge biopsy of liver |  |  |  |  |
47120 | C | Partial removal of liver |  |  |  |  |
47122 | C | Extensive removal of liver |  |  |  |  |
47125 | C | Partial removal of liver |  |  |  |  |
47130 | C | Partial removal of liver |  |  |  |  |
47133 | C | Removal of donor liver |  |  |  |  |
47134 | C | Partial removal, donor liver |  |  |  |  |
47135 | C | Transplantation of liver |  |  |  |  |
47136 | C | Transplantation of liver |  |  |  |  |
47300 | C | Surgery for liver lesion |  |  |  |  |
47350 | C | Repair liver wound |  |  |  |  |
47360 | C | Repair liver wound |  |  |  |  |
47361 | C | Repair liver wound |  |  |  |  |
47362 | C | Repair liver wound |  |  |  |  |
47370 | T | Laparo ablate liver tumor rf | 0130 | 31.99 | $1,663.77 | $659.53 | $332.75
47371 | T | Laparo ablate liver cryosug | 0130 | 31.99 | $1,663.77 | $659.53 | $332.75
47379 | T | Laparoscope procedure, liver | 0130 | 31.99 | $1,663.77 | $659.53 | $332.75
47380 | C | Open ablate liver tumor rf |  |  |  |  |
47381 | C | Open ablate liver tumor cryo |  |  |  |  |
47382 | T | Percut ablate liver rf | 0980 |  | $1,875.00 |  | $375.00
47399 | T | Liver surgery procedure | 0005 | 3.02 | $157.07 | $69.11 | $31.41
47400 | C | Incision of liver duct |  |  |  |  |
47420 | C | Incision of bile duct |  |  |  |  |
47425 | C | Incision of bile duct |  |  |  |  |
47460 | C | Incise bile duct sphincter |  |  |  |  |
47480 | C | Incision of gallbladder |  |  |  |  |
47490 | T | Incision of gallbladder | 0152 | 6.18 | $321.42 | $80.36 | $64.28
47500 | N | Injection for liver x-rays |  |  |  |  |
47505 | N | Injection for liver x-rays |  |  |  |  |
47510 | T | Insert catheter, bile duct | 0152 | 6.18 | $321.42 | $80.36 | $64.28
47511 | T | Insert bile duct drain | 0152 | 6.18 | $321.42 | $80.36 | $64.28
47525 | T | Change bile duct catheter | 0122 | 3.89 | $202.32 | $46.53 | $40.46
47530 | T | Revise/reinsert bile tube | 0121 | 2.17 | $112.86 | $45.14 | $22.57
47550 | C | Bile duct endoscopy add-on |  |  |  |  |
47552 | T | Biliary endoscopy thru skin | 0152 | 6.18 | $321.42 | $80.36 | $64.28
47553 | T | Biliary endoscopy thru skin | 0152 | 6.18 | $321.42 | $80.36 | $64.28
47554 | T | Biliary endoscopy thru skin | 0152 | 6.18 | $321.42 | $80.36 | $64.28
47555 | T | Biliary endoscopy thru skin | 0152 | 6.18 | $321.42 | $80.36 | $64.28
47556 | T | Biliary endoscopy thru skin | 0152 | 6.18 | $321.42 | $80.36 | $64.28
47560 | T | Laparoscopy w/cholangio | 0130 | 31.99 | $1,663.77 | $659.53 | $332.75
47561 | T | Laparo w/cholangio/biopsy | 0130 | 31.99 | $1,663.77 | $659.53 | $332.75
47562 | T | Laparoscopic cholecystectomy | 0131 | 42.44 | $2,207.26 | $1,001.89 | $441.45
47563 | T | Laparo cholecystectomy/graph | 0131 | 42.44 | $2,207.26 | $1,001.89 | $441.45
47564 | T | Laparo cholecystectomy/explr | 0131 | 42.44 | $2,207.26 | $1,001.89 | $441.45
47570 | C | Laparo cholecystoenterostomy |  |  |  |  |
47579 | T | Laparoscope proc, biliary | 0130 | 31.99 | $1,663.77 | $659.53 | $332.75
47600 | C | Removal of gallbladder |  |  |  |  |
47605 | C | Removal of gallbladder |  |  |  |  |
47610 | C | Removal of gallbladder |  |  |  |  |
47612 | C | Removal of gallbladder |  |  |  |  |
47620 | C | Removal of gallbladder |  |  |  |  |
47630 | T | Remove bile duct stone | 0152 | 6.18 | $321.42 | $80.36 | $64.28
47700 | C | Exploration of bile ducts |  |  |  |  |
47701 | C | Bile duct revision |  |  |  |  |
47711 | C | Excision of bile duct tumor |  |  |  |  |
47712 | C | Excision of bile duct tumor |  |  |  |  |
47715 | C | Excision of bile duct cyst |  |  |  |  |
47716 | C | Fusion of bile duct cyst |  |  |  |  |
47720 | C | Fuse gallbladder & bowel |  |  |  |  |
47721 | C | Fuse upper gi structures |  |  |  |  |
47740 | C | Fuse gallbladder & bowel |  |  |  |  |
47741 | C | Fuse gallbladder & bowel |  |  |  |  |
47760 | C | Fuse bile ducts and bowel |  |  |  |  |
47765 | C | Fuse liver ducts & bowel |  |  |  |  |
47780 | C | Fuse bile ducts and bowel |  |  |  |  |
47785 | C | Fuse bile ducts and bowel |  |  |  |  |
47800 | C | Reconstruction of bile ducts |  |  |  |  |
47801 | C | Placement, bile duct support |  |  |  |  |
47802 | C | Fuse liver duct & intestine |  |  |  |  |
47900 | C | Suture bile duct injury |  |  |  |  |
47999 | T | Bile tract surgery procedure | 0152 | 6.18 | $321.42 | $80.36 | $64.28
48000 | C | Drainage of abdomen |  |  |  |  |
48001 | C | Placement of drain, pancreas |  |  |  |  |
48005 | C | Resect/debride pancreas |  |  |  |  |
48020 | C | Removal of pancreatic stone |  |  |  |  |
48100 | C | Biopsy of pancreas, open |  |  |  |  |
48102 | T | Needle biopsy, pancreas | 0685 | 4.47 | $232.48 | $102.29 | $46.50
48120 | C | Removal of pancreas lesion |  |  |  |  |
48140 | C | Partial removal of pancreas |  |  |  |  |
48145 | C | Partial removal of pancreas |  |  |  |  |
48146 | C | Pancreatectomy |  |  |  |  |
48148 | C | Removal of pancreatic duct |  |  |  |  |
48150 | C | Partial removal of pancreas |  |  |  |  |
48152 | C | Pancreatectomy |  |  |  |  |
48153 | C | Pancreatectomy |  |  |  |  |
48154 | C | Pancreatectomy |  |  |  |  |
48155 | C | Removal of pancreas |  |  |  |  |
48160 | E | Pancreas removal/transplant |  |  |  |  |
48180 | C | Fuse pancreas and bowel |  |  |  |  |
48400 | C | Injection, intraop add-on |  |  |  |  |
48500 | C | Surgery of pancreatic cyst |  |  |  |  |
48510 | C | Drain pancreatic pseudocyst |  |  |  |  |
48511 | T | Drain pancreatic pseudocyst | 0005 | 3.02 | $157.07 | $69.11 | $31.41
48520 | C | Fuse pancreas cyst and bowel |  |  |  |  |
48540 | C | Fuse pancreas cyst and bowel |  |  |  |  |
48545 | C | Pancreatorrhaphy |  |  |  |  |
48547 | C | Duodenal exclusion |  |  |  |  |
48550 | E | Donor pancreatectomy |  |  |  |  |
48554 | E | Transpl allograft pancreas |  |  |  |  |
48556 | C | Removal, allograft pancreas |  |  |  |  |
48999 | T | Pancreas surgery procedure | 0005 | 3.02 | $157.07 | $69.11 | $31.41
49000 | C | Exploration of abdomen |  |  |  |  |
49002 | C | Reopening of abdomen |  |  |  |  |
49010 | C | Exploration behind abdomen |  |  |  |  |
49020 | C | Drain abdominal abscess |  |  |  |  |
49021 | C | Drain abdominal abscess |  |  |  |  |
49040 | C | Drain, open, abdom abscess |  |  |  |  |
49041 | C | Drain, percut, abdom abscess |  |  |  |  |
49060 | C | Drain, open, retrop abscess |  |  |  |  |
49061 | C | Drain, percut, retroper absc |  |  |  |  |
49062 | C | Drain to peritoneal cavity |  |  |  |  |
49080 | T | Puncture, peritoneal cavity | 0070 | 3.30 | $171.63 |  | $34.33
49081 | T | Removal of abdominal fluid | 0070 | 3.30 | $171.63 |  | $34.33
49085 | T | Remove abdomen foreign body | 0153 | 25.99 | $1,351.71 | $540.68 | $270.34
49180 | T | Biopsy, abdominal mass | 0685 | 4.47 | $232.48 | $102.29 | $46.50
49200 | T | Removal of abdominal lesion | 0130 | 31.99 | $1,663.77 | $659.53 | $332.75
49201 | C | Removal of abdominal lesion |  |  |  |  |
49215 | C | Excise sacral spine tumor |  |  |  |  |
49220 | C | Multiple surgery, abdomen |  |  |  |  |
49250 | T | Excision of umbilicus | 0153 | 25.99 | $1,351.71 | $540.68 | $270.34
49255 | C | Removal of omentum |  |  |  |  |
49320 | T | Diag laparo separate proc | 0130 | 31.99 | $1,663.77 | $659.53 | $332.75
49321 | T | Laparoscopy, biopsy | 0130 | 31.99 | $1,663.77 | $659.53 | $332.75
49322 | T | Laparoscopy, aspiration | 0130 | 31.99 | $1,663.77 | $659.53 | $332.75
49323 | T | Laparo drain lymphocele | 0130 | 31.99 | $1,663.77 | $659.53 | $332.75
49329 | T | Laparo proc, abdm/per/oment | 0130 | 31.99 | $1,663.77 | $659.53 | $332.75
49400 | N | Air injection into abdomen |  |  |  |  |
49420 | T | Insert abdominal drain | 0153 | 25.99 | $1,351.71 | $540.68 | $270.34
49421 | T | Insert abdominal drain | 0153 | 25.99 | $1,351.71 | $540.68 | $270.34
49422 | T | Remove perm cannula/catheter | 0105 | 19.14 | $995.45 | $370.40 | $199.09
49423 | T | Exchange drainage catheter | 0152 | 6.18 | $321.42 | $80.36 | $64.28
49424 | N | Assess cyst, contrast inject |  |  |  |  |
49425 | C | Insert abdomen-venous drain |  |  |  |  |
49426 | T | Revise abdomen-venous shunt | 0153 | 25.99 | $1,351.71 | $540.68 | $270.34
49427 | N | Injection, abdominal shunt |  |  |  |  |
49428 | C | Ligation of shunt |  |  |  |  |
49429 | T | Removal of shunt | 0105 | 19.14 | $995.45 | $370.40 | $199.09
49491 | T | Repairing hern premie reduc | 0154 | 26.98 | $1,403.20 | $491.12 | $280.64
49492 | T | Rpr ing hern premie, blocked | 0154 | 26.98 | $1,403.20 | $491.12 | $280.64
49495 | T | Rpr ing hernia baby, reduc | 0154 | 26.98 | $1,403.20 | $491.12 | $280.64
49496 | T | Rpr ing hernia baby, blocked | 0154 | 26.98 | $1,403.20 | $491.12 | $280.64
49500 | T | Rpr ing hernia, init, reduce | 0154 | 26.98 | $1,403.20 | $491.12 | $280.64
49501 | T | Rpr ing hernia, init blocked | 0154 | 26.98 | $1,403.20 | $491.12 | $280.64
49505 | T | Rpr i/hern init reduc>5 yr | 0154 | 26.98 | $1,403.20 | $491.12 | $280.64
49507 | T | Rpr i/hern init block>5 yr | 0154 | 26.98 | $1,403.20 | $491.12 | $280.64
49520 | T | Rerepair ing hernia, reduce | 0154 | 26.98 | $1,403.20 | $491.12 | $280.64
49521 | T | Rerepair ing hernia, blocked | 0154 | 26.98 | $1,403.20 | $491.12 | $280.64
49525 | T | Repair ing hernia, sliding | 0154 | 26.98 | $1,403.20 | $491.12 | $280.64
49540 | T | Repair lumbar hernia | 0154 | 26.98 | $1,403.20 | $491.12 | $280.64
49550 | T | Rpr fem hernia, init, reduce | 0154 | 26.98 | $1,403.20 | $491.12 | $280.64
49553 | T | Rpr fem hernia, init blocked | 0154 | 26.98 | $1,403.20 | $491.12 | $280.64
49555 | T | Rerepair fem hernia, reduce | 0154 | 26.98 | $1,403.20 | $491.12 | $280.64
49557 | T | Rerepair fem hernia, blocked | 0154 | 26.98 | $1,403.20 | $491.12 | $280.64
49560 | T | Rpr ventral hern init, reduc | 0154 | 26.98 | $1,403.20 | $491.12 | $280.64
49561 | T | Rpr ventral hern init, block | 0154 | 26.98 | $1,403.20 | $491.12 | $280.64
49565 | T | Rerepair ventrl hern, reduce | 0154 | 26.98 | $1,403.20 | $491.12 | $280.64
49566 | T | Rerepair ventrl hern, block | 0154 | 26.98 | $1,403.20 | $491.12 | $280.64
49568 | T | Hernia repair w/mesh | 0154 | 26.98 | $1,403.20 | $491.12 | $280.64
49570 | T | Rpr epigastric hern, reduce | 0154 | 26.98 | $1,403.20 | $491.12 | $280.64
49572 | T | Rpr epigastric hern, blocked | 0154 | 26.98 | $1,403.20 | $491.12 | $280.64
49580 | T | Rpr umbil hern, reduc <5 yr | 0154 | 26.98 | $1,403.20 | $491.12 | $280.64
49582 | T | Rpr umbil hern, block < 5 yr | 0154 | 26.98 | $1,403.20 | $491.12 | $280.64
49585 | T | Rpr umbil hern, reduc > 5 yr | 0154 | 26.98 | $1,403.20 | $491.12 | $280.64
49587 | T | Rpr umbil hern, block > 5 yr | 0154 | 26.98 | $1,403.20 | $491.12 | $280.64
49590 | T | Repair spigelian hernia | 0154 | 26.98 | $1,403.20 | $491.12 | $280.64
49600 | T | Repair umbilical lesion | 0154 | 26.98 | $1,403.20 | $491.12 | $280.64
49605 | C | Repair umbilical lesion |  |  |  |  |
49606 | C | Repair umbilical lesion |  |  |  |  |
49610 | C | Repair umbilical lesion |  |  |  |  |
49611 | C | Repair umbilical lesion |  |  |  |  |
49650 | T | Laparo hernia repair initial | 0131 | 42.44 | $2,207.26 | $1,001.89 | $441.45
49651 | T | Laparo hernia repair recur | 0131 | 42.44 | $2,207.26 | $1,001.89 | $441.45
49659 | T | Laparo proc, hernia repair | 0131 | 42.44 | $2,207.26 | $1,001.89 | $441.45
49900 | C | Repair of abdominal wall |  |  |  |  |
49905 | C | Omental flap |  |  |  |  |
49906 | C | Free omental flap, microvasc |  |  |  |  |
49999 | T | Abdomen surgery procedure | 0153 | 25.99 | $1,351.71 | $540.68 | $270.34
50010 | C | Exploration of kidney |  |  |  |  |
50020 | C | Renal abscess, open drain |  |  |  |  |
50021 | T | Renal abscess, percut drain | 0005 | 3.02 | $157.07 | $69.11 | $31.41
50040 | C | Drainage of kidney |  |  |  |  |
50045 | C | Exploration of kidney |  |  |  |  |
50060 | C | Removal of kidney stone |  |  |  |  |
50065 | C | Incision of kidney |  |  |  |  |
50070 | C | Incision of kidney |  |  |  |  |
50075 | C | Removal of kidney stone |  |  |  |  |
50080 | T | Removal of kidney stone | 0163 | 24.77 | $1,288.26 |  | $257.65
50081 | T | Removal of kidney stone | 0163 | 24.77 | $1,288.26 |  | $257.65
50100 | C | Revise kidney blood vessels |  |  |  |  |
50120 | C | Exploration of kidney |  |  |  |  |
50125 | C | Explore and drain kidney |  |  |  |  |
50130 | C | Removal of kidney stone |  |  |  |  |
50135 | C | Exploration of kidney |  |  |  |  |
50200 | T | Biopsy of kidney | 0685 | 4.47 | $232.48 | $102.29 | $46.50
50205 | C | Biopsy of kidney |  |  |  |  |
50220 | C | Remove kidney, open |  |  |  |  |
50225 | C | Removal kidney open, complex |  |  |  |  |
50230 | C | Removal kidney open, radical |  |  |  |  |
50234 | C | Removal of kidney & ureter |  |  |  |  |
50236 | C | Removal of kidney & ureter |  |  |  |  |
50240 | C | Partial removal of kidney |  |  |  |  |
50280 | C | Removal of kidney lesion |  |  |  |  |
50290 | C | Removal of kidney lesion |  |  |  |  |
50300 | C | Removal of donor kidney |  |  |  |  |
50320 | C | Removal of donor kidney |  |  |  |  |
50340 | C | Removal of kidney |  |  |  |  |
50360 | C | Transplantation of kidney |  |  |  |  |
50365 | C | Transplantation of kidney |  |  |  |  |
50370 | C | Remove transplanted kidney |  |  |  |  |
50380 | C | Reimplantation of kidney |  |  |  |  |
50390 | T | Drainage of kidney lesion | 0685 | 4.47 | $232.48 | $102.29 | $46.50
50392 | T | Insert kidney drain | 0161 | 16.03 | $833.70 | $249.36 | $166.74
50393 | T | Insert ureteral tube | 0161 | 16.03 | $833.70 | $249.36 | $166.74
50394 | N | Injection for kidney x-ray |  |  |  |  |
50395 | T | Create passage to kidney | 0161 | 16.03 | $833.70 | $249.36 | $166.74
50396 | T | Measure kidney pressure | 0164 | 1.18 | $61.37 | $18.41 | $12.27
50398 | T | Change kidney tube | 0122 | 3.89 | $202.32 | $46.53 | $40.46
50400 | C | Revision of kidney/ureter |  |  |  |  |
50405 | C | Revision of kidney/ureter |  |  |  |  |
50500 | C | Repair of kidney wound |  |  |  |  |
50520 | C | Close kidney-skin fistula |  |  |  |  |
50525 | C | Repair renal-abdomen fistula |  |  |  |  |
50526 | C | Repair renal-abdomen fistula |  |  |  |  |
50540 | C | Revision of horseshoe kidney |  |  |  |  |
50541 | T | Laparo ablate renal cyst | 0130 | 31.99 | $1,663.77 | $659.53 | $332.75
50544 | T | Laparoscopy, pyeloplasty | 0130 | 31.99 | $1,663.77 | $659.53 | $332.75
50545 | C | Laparo radical nephrectomy |  |  |  |  |
50546 | C | Laparoscopic nephrectomy |  |  |  |  |
50547 | C | Laparo removal donor kidney |  |  |  |  |
50548 | C | Laparo remove k/ureter |  |  |  |  |
50549 | T | Laparoscope proc, renal | 0130 | 31.99 | $1,663.77 | $659.53 | $332.75
50551 | T | Kidney endoscopy | 0160 | 6.44 | $334.94 | $105.06 | $66.99
50553 | T | Kidney endoscopy | 0161 | 16.03 | $833.70 | $249.36 | $166.74
50555 | T | Kidney endoscopy & biopsy | 0160 | 6.44 | $334.94 | $105.06 | $66.99
50557 | T | Kidney endoscopy & treatment | 0162 | 21.50 | $1,118.19 |  | $223.64
50559 | T | Renal endoscopy/radiotracer | 0160 | 6.44 | $334.94 | $105.06 | $66.99
50561 | T | Kidney endoscopy & treatment | 0161 | 16.03 | $833.70 | $249.36 | $166.74
50570 | C | Kidney endoscopy |  |  |  |  |
50572 | C | Kidney endoscopy |  |  |  |  |
50574 | C | Kidney endoscopy & biopsy |  |  |  |  |
50575 | C | Kidney endoscopy |  |  |  |  |
50576 | C | Kidney endoscopy & treatment |  |  |  |  |
50578 | C | Renal endoscopy/radiotracer |  |  |  |  |
50580 | C | Kidney endoscopy & treatment |  |  |  |  |
50590 | T | Fragmenting of kidney stone | 0169 | 46.44 | $2,415.30 | $1,115.69 | $483.06
50600 | C | Exploration of ureter |  |  |  |  |
50605 | C | Insert ureteral support |  |  |  |  |
50610 | C | Removal of ureter stone |  |  |  |  |
50620 | C | Removal of ureter stone |  |  |  |  |
50630 | C | Removal of ureter stone |  |  |  |  |
50650 | C | Removal of ureter |  |  |  |  |
50660 | C | Removal of ureter |  |  |  |  |
50684 | N | Injection for ureter x-ray |  |  |  |  |
50686 | T | Measure ureter pressure | 0164 | 1.18 | $61.37 | $18.41 | $12.27
50688 | T | Change of ureter tube | 0121 | 2.17 | $112.86 | $45.14 | $22.57
50690 | N | Injection for ureter x-ray |  |  |  |  |
50700 | C | Revision of ureter |  |  |  |  |
50715 | C | Release of ureter |  |  |  |  |
50722 | C | Release of ureter |  |  |  |  |
50725 | C | Release/revise ureter |  |  |  |  |
50727 | C | Revise ureter |  |  |  |  |
50728 | C | Revise ureter |  |  |  |  |
50740 | C | Fusion of ureter & kidney |  |  |  |  |
50750 | C | Fusion of ureter & kidney |  |  |  |  |
50760 | C | Fusion of ureters |  |  |  |  |
50770 | C | Splicing of ureters |  |  |  |  |
50780 | C | Reimplant ureter in bladder |  |  |  |  |
50782 | C | Reimplant ureter in bladder |  |  |  |  |
50783 | C | Reimplant ureter in bladder |  |  |  |  |
50785 | C | Reimplant ureter in bladder |  |  |  |  |
50800 | C | Implant ureter in bowel |  |  |  |  |
50810 | C | Fusion of ureter & bowel |  |  |  |  |
50815 | C | Urine shunt to intestine |  |  |  |  |
50820 | C | Construct bowel bladder |  |  |  |  |
50825 | C | Construct bowel bladder |  |  |  |  |
50830 | C | Revise urine flow |  |  |  |  |
50840 | C | Replace ureter by bowel |  |  |  |  |
50845 | C | Appendico-vesicostomy |  |  |  |  |
50860 | C | Transplant ureter to skin |  |  |  |  |
50900 | C | Repair of ureter |  |  |  |  |
50920 | C | Closure ureter/skin fistula |  |  |  |  |
50930 | C | Closure ureter/bowel fistula |  |  |  |  |
50940 | C | Release of ureter |  |  |  |  |
50945 | T | Laparoscopy ureterolithotomy | 0131 | 42.44 | $2,207.26 | $1,001.89 | $441.45
50947 | T | Laparo new ureter/bladder | 0131 | 42.44 | $2,207.26 | $1,001.89 | $441.45
50948 | T | Laparo new ureter/bladder | 0131 | 42.44 | $2,207.26 | $1,001.89 | $441.45
50949 | T | Laparoscope proc, ureter | 0130 | 31.99 | $1,663.77 | $659.53 | $332.75
50951 | T | Endoscopy of ureter | 0160 | 6.44 | $334.94 | $105.06 | $66.99
50953 | T | Endoscopy of ureter | 0160 | 6.44 | $334.94 | $105.06 | $66.99
50955 | T | Ureter endoscopy & biopsy | 0161 | 16.03 | $833.70 | $249.36 | $166.74
50957 | T | Ureter endoscopy & treatment | 0161 | 16.03 | $833.70 | $249.36 | $166.74
50959 | T | Ureter endoscopy & tracer | 0161 | 16.03 | $833.70 | $249.36 | $166.74
50961 | T | Ureter endoscopy & treatment | 0161 | 16.03 | $833.70 | $249.36 | $166.74
50970 | T | Ureter endoscopy | 0160 | 6.44 | $334.94 | $105.06 | $66.99
50972 | T | Ureter endoscopy & catheter | 0160 | 6.44 | $334.94 | $105.06 | $66.99
50974 | T | Ureter endoscopy & biopsy | 0161 | 16.03 | $833.70 | $249.36 | $166.74
50976 | T | Ureter endoscopy & treatment | 0161 | 16.03 | $833.70 | $249.36 | $166.74
50978 | T | Ureter endoscopy & tracer | 0161 | 16.03 | $833.70 | $249.36 | $166.74
50980 | T | Ureter endoscopy & treatment | 0161 | 16.03 | $833.70 | $249.36 | $166.74
51000 | T | Drainage of bladder | 0165 | 12.62 | $656.35 |  | $131.27
51005 | T | Drainage of bladder | 0164 | 1.18 | $61.37 | $18.41 | $12.27
51010 | T | Drainage of bladder | 0165 | 12.62 | $656.35 |  | $131.27
51020 | T | Incise & treat bladder | 0162 | 21.50 | $1,118.19 |  | $223.64
51030 | T | Incise & treat bladder | 0162 | 21.50 | $1,118.19 |  | $223.64
51040 | T | Incise & drain bladder | 0162 | 21.50 | $1,118.19 |  | $223.64
51045 | T | Incise bladder/drain ureter | 0160 | 6.44 | $334.94 | $105.06 | $66.99
51050 | T | Removal of bladder stone | 0162 | 21.50 | $1,118.19 |  | $223.64
51060 | C | Removal of ureter stone |  |  |  |  |
51065 | T | Remove ureter calculus | 0162 | 21.50 | $1,118.19 |  | $223.64
51080 | T | Drainage of bladder abscess | 0007 | 9.44 | $490.96 | $103.10 | $98.19
51500 | T | Removal of bladder cyst | 0154 | 26.98 | $1,403.20 | $491.12 | $280.64
51520 | T | Removal of bladder lesion | 0162 | 21.50 | $1,118.19 |  | $223.64
51525 | C | Removal of bladder lesion |  |  |  |  |
51530 | C | Removal of bladder lesion |  |  |  |  |
51535 | C | Repair of ureter lesion |  |  |  |  |
51550 | C | Partial removal of bladder |  |  |  |  |
51555 | C | Partial removal of bladder |  |  |  |  |
51565 | C | Revise bladder & ureter(s) |  |  |  |  |
51570 | C | Removal of bladder |  |  |  |  |
51575 | C | Removal of bladder & nodes |  |  |  |  |
51580 | C | Remove bladder/revise tract |  |  |  |  |
51585 | C | Removal of bladder & nodes |  |  |  |  |
51590 | C | Remove bladder/revise tract |  |  |  |  |
51595 | C | Remove bladder/revise tract |  |  |  |  |
51596 | C | Remove bladder/create pouch |  |  |  |  |
51597 | C | Removal of pelvic structures |  |  |  |  |
51600 | N | Injection for bladder x-ray |  |  |  |  |
51605 | N | Preparation for bladder xray |  |  |  |  |
51610 | N | Injection for bladder x-ray |  |  |  |  |
51700 | T | Irrigation of bladder | 0164 | 1.18 | $61.37 | $18.41 | $12.27
51705 | T | Change of bladder tube | 0121 | 2.17 | $112.86 | $45.14 | $22.57
51710 | T | Change of bladder tube | 0121 | 2.17 | $112.86 | $45.14 | $22.57
51715 | T | Endoscopic injection/implant | 0167 | 27.15 | $1,412.04 | $555.84 | $282.41
51720 | T | Treatment of bladder lesion | 0156 | 3.10 | $161.23 | $48.37 | $32.25
51725 | T | Simple cystometrogram | 0156 | 3.10 | $161.23 | $48.37 | $32.25
51726 | T | Complex cystometrogram | 0156 | 3.10 | $161.23 | $48.37 | $32.25
51736 | T | Urine flow measurement | 0164 | 1.18 | $61.37 | $18.41 | $12.27
51741 | T | Electro-uroflowmetry, first | 0164 | 1.18 | $61.37 | $18.41 | $12.27
51772 | T | Urethra pressure profile | 0164 | 1.18 | $61.37 | $18.41 | $12.27
51784 | T | Anal/urinary muscle study | 0164 | 1.18 | $61.37 | $18.41 | $12.27
51785 | T | Anal/urinary muscle study | 0164 | 1.18 | $61.37 | $18.41 | $12.27
51792 | T | Urinary reflex study | 0164 | 1.18 | $61.37 | $18.41 | $12.27
51795 | T | Urine voiding pressure study | 0164 | 1.18 | $61.37 | $18.41 | $12.27
51797 | T | Intraabdominal pressure test | 0164 | 1.18 | $61.37 | $18.41 | $12.27
51800 | C | Revision of bladder/urethra |  |  |  |  |
51820 | C | Revision of urinary tract |  |  |  |  |
51840 | C | Attach bladder/urethra |  |  |  |  |
51841 | C | Attach bladder/urethra |  |  |  |  |
51845 | C | Repair bladder neck |  |  |  |  |
51860 | C | Repair of bladder wound |  |  |  |  |
51865 | C | Repair of bladder wound |  |  |  |  |
51880 | T | Repair of bladder opening | 0162 | 21.50 | $1,118.19 |  | $223.64
51900 | C | Repair bladder/vagina lesion |  |  |  |  |
51920 | C | Close bladder-uterus fistula |  |  |  |  |
51925 | C | Hysterectomy/bladder repair |  |  |  |  |
51940 | C | Correction of bladder defect |  |  |  |  |
51960 | C | Revision of bladder & bowel |  |  |  |  |
51980 | C | Construct bladder opening |  |  |  |  |
51990 | T | Laparo urethral suspension | 0131 | 42.44 | $2,207.26 | $1,001.89 | $441.45
51992 | T | Laparo sling operation | 0132 | 57.95 | $3,013.92 | $1,239.22 | $602.78
52000 | T | Cystoscopy | 0160 | 6.44 | $334.94 | $105.06 | $66.99
52001 | T | Cystoscopy, removal of clots | 0160 | 6.44 | $334.94 | $105.06 | $66.99
52005 | T | Cystoscopy & ureter catheter | 0161 | 16.03 | $833.70 | $249.36 | $166.74
52007 | T | Cystoscopy and biopsy | 0161 | 16.03 | $833.70 | $249.36 | $166.74
52010 | T | Cystoscopy & duct catheter | 0160 | 6.44 | $334.94 | $105.06 | $66.99
52204 | T | Cystoscopy | 0161 | 16.03 | $833.70 | $249.36 | $166.74
52214 | T | Cystoscopy and treatment | 0162 | 21.50 | $1,118.19 |  | $223.64
52224 | T | Cystoscopy and treatment | 0162 | 21.50 | $1,118.19 |  | $223.64
52234 | T | Cystoscopy and treatment | 0163 | 24.77 | $1,288.26 |  | $257.65
52235 | T | Cystoscopy and treatment | 0163 | 24.77 | $1,288.26 |  | $257.65
52240 | T | Cystoscopy and treatment | 0162 | 21.50 | $1,118.19 |  | $223.64
52250 | T | Cystoscopy and radiotracer | 0162 | 21.50 | $1,118.19 |  | $223.64
52260 | T | Cystoscopy and treatment | 0161 | 16.03 | $833.70 | $249.36 | $166.74
52265 | T | Cystoscopy and treatment | 0160 | 6.44 | $334.94 | $105.06 | $66.99
52270 | T | Cystoscopy & revise urethra | 0161 | 16.03 | $833.70 | $249.36 | $166.74
52275 | T | Cystoscopy & revise urethra | 0161 | 16.03 | $833.70 | $249.36 | $166.74
52276 | T | Cystoscopy and treatment | 0161 | 16.03 | $833.70 | $249.36 | $166.74
52277 | T | Cystoscopy and treatment | 0162 | 21.50 | $1,118.19 |  | $223.64
52281 | T | Cystoscopy and treatment | 0161 | 16.03 | $833.70 | $249.36 | $166.74
52282 | T | Cystoscopy, implant stent | 0163 | 24.77 | $1,288.26 |  | $257.65
52283 | T | Cystoscopy and treatment | 0161 | 16.03 | $833.70 | $249.36 | $166.74
52285 | T | Cystoscopy and treatment | 0161 | 16.03 | $833.70 | $249.36 | $166.74
52290 | T | Cystoscopy and treatment | 0161 | 16.03 | $833.70 | $249.36 | $166.74
52300 | T | Cystoscopy and treatment | 0161 | 16.03 | $833.70 | $249.36 | $166.74
52301 | T | Cystoscopy and treatment | 0161 | 16.03 | $833.70 | $249.36 | $166.74
52305 | T | Cystoscopy and treatment | 0161 | 16.03 | $833.70 | $249.36 | $166.74
52310 | T | Cystoscopy and treatment | 0160 | 6.44 | $334.94 | $105.06 | $66.99
52315 | T | Cystoscopy and treatment | 0161 | 16.03 | $833.70 | $249.36 | $166.74
52317 | T | Remove bladder stone | 0162 | 21.50 | $1,118.19 |  | $223.64
52318 | T | Remove bladder stone | 0162 | 21.50 | $1,118.19 |  | $223.64
52320 | T | Cystoscopy and treatment | 0162 | 21.50 | $1,118.19 |  | $223.64
52325 | T | Cystoscopy, stone removal | 0162 | 21.50 | $1,118.19 |  | $223.64
52327 | T | Cystoscopy, inject material | 0162 | 21.50 | $1,118.19 |  | $223.64
52330 | T | Cystoscopy and treatment | 0162 | 21.50 | $1,118.19 |  | $223.64
52332 | T | Cystoscopy and treatment | 0162 | 21.50 | $1,118.19 |  | $223.64
52334 | T | Create passage to kidney | 0162 | 21.50 | $1,118.19 |  | $223.64
52341 | T | Cysto w/ureter stricture tx | 0162 | 21.50 | $1,118.19 |  | $223.64
52342 | T | Cysto w/up stricture tx | 0162 | 21.50 | $1,118.19 |  | $223.64
52343 | T | Cysto w/renal stricture tx | 0162 | 21.50 | $1,118.19 |  | $223.64
52344 | T | Cysto/uretero, stone remove | 0162 | 21.50 | $1,118.19 |  | $223.64
52345 | T | Cysto/uretero w/up stricture | 0162 | 21.50 | $1,118.19 |  | $223.64
52346 | T | Cystouretero w/renal strict | 0162 | 21.50 | $1,118.19 |  | $223.64
52347 | T | Cystoscopy, resect ducts | 0160 | 6.44 | $334.94 | $105.06 | $66.99
52351 | T | Cystouretro & or pyeloscope | 0160 | 6.44 | $334.94 | $105.06 | $66.99
52352 | T | Cystouretro w/stone remove | 0162 | 21.50 | $1,118.19 |  | $223.64
52353 | T | Cystouretero w/lithotripsy | 0163 | 24.77 | $1,288.26 |  | $257.65
52354 | T | Cystouretero w/biopsy | 0162 | 21.50 | $1,118.19 |  | $223.64
52355 | T | Cystouretero w/excise tumor | 0162 | 21.50 | $1,118.19 |  | $223.64
52400 | T | Cystouretero w/congen repr | 0162 | 21.50 | $1,118.19 |  | $223.64
52450 | T | Incision of prostate | 0162 | 21.50 | $1,118.19 |  | $223.64
52500 | T | Revision of bladder neck | 0162 | 21.50 | $1,118.19 |  | $223.64
52510 | T | Dilation prostatic urethra | 0161 | 16.03 | $833.70 | $249.36 | $166.74
52601 | T | Prostatectomy (TURP) | 0163 | 24.77 | $1,288.26 |  | $257.65
52606 | T | Control postop bleeding | 0162 | 21.50 | $1,118.19 |  | $223.64
52612 | T | Prostatectomy, first stage | 0163 | 24.77 | $1,288.26 |  | $257.65
52614 | T | Prostatectomy, second stage | 0163 | 24.77 | $1,288.26 |  | $257.65
52620 | T | Remove residual prostate | 0163 | 24.77 | $1,288.26 |  | $257.65
52630 | T | Remove prostate regrowth | 0163 | 24.77 | $1,288.26 |  | $257.65
52640 | T | Relieve bladder contracture | 0162 | 21.50 | $1,118.19 |  | $223.64
52647 | T | Laser surgery of prostate | 0163 | 24.77 | $1,288.26 |  | $257.65
52648 | T | Laser surgery of prostate | 0163 | 24.77 | $1,288.26 |  | $257.65
52700 | T | Drainage of prostate abscess | 0162 | 21.50 | $1,118.19 |  | $223.64
53000 | T | Incision of urethra | 0166 | 15.63 | $812.90 | $218.73 | $162.58
53010 | T | Incision of urethra | 0166 | 15.63 | $812.90 | $218.73 | $162.58
53020 | T | Incision of urethra | 0166 | 15.63 | $812.90 | $218.73 | $162.58
53025 | T | Incision of urethra | 0166 | 15.63 | $812.90 | $218.73 | $162.58
53040 | T | Drainage of urethra abscess | 0166 | 15.63 | $812.90 | $218.73 | $162.58
53060 | T | Drainage of urethra abscess | 0166 | 15.63 | $812.90 | $218.73 | $162.58
53080 | T | Drainage of urinary leakage | 0166 | 15.63 | $812.90 | $218.73 | $162.58
53085 | C | Drainage of urinary leakage |  |  |  |  |
53200 | T | Biopsy of urethra | 0166 | 15.63 | $812.90 | $218.73 | $162.58
53210 | T | Removal of urethra | 0168 | 24.10 | $1,253.42 | $405.60 | $250.68
53215 | T | Removal of urethra | 0168 | 24.10 | $1,253.42 | $405.60 | $250.68
53220 | T | Treatment of urethra lesion | 0168 | 24.10 | $1,253.42 | $405.60 | $250.68
53230 | T | Removal of urethra lesion | 0168 | 24.10 | $1,253.42 | $405.60 | $250.68
53235 | T | Removal of urethra lesion | 0168 | 24.10 | $1,253.42 | $405.60 | $250.68
53240 | T | Surgery for urethra pouch | 0168 | 24.10 | $1,253.42 | $405.60 | $250.68
53250 | T | Removal of urethra gland | 0166 | 15.63 | $812.90 | $218.73 | $162.58
53260 | T | Treatment of urethra lesion | 0166 | 15.63 | $812.90 | $218.73 | $162.58
53265 | T | Treatment of urethra lesion | 0166 | 15.63 | $812.90 | $218.73 | $162.58
53270 | T | Removal of urethra gland | 0167 | 27.15 | $1,412.04 | $555.84 | $282.41
53275 | T | Repair of urethra defect | 0166 | 15.63 | $812.90 | $218.73 | $162.58
53400 | T | Revise urethra, stage 1 | 0168 | 24.10 | $1,253.42 | $405.60 | $250.68
53405 | T | Revise urethra, stage 2 | 0168 | 24.10 | $1,253.42 | $405.60 | $250.68
53410 | T | Reconstruction of urethra | 0168 | 24.10 | $1,253.42 | $405.60 | $250.68
53415 | C | Reconstruction of urethra |  |  |  |  |
53420 | T | Reconstruct urethra, stage 1 | 0168 | 24.10 | $1,253.42 | $405.60 | $250.68
53425 | T | Reconstruct urethra, stage 2 | 0168 | 24.10 | $1,253.42 | $405.60 | $250.68
53430 | T | Reconstruction of urethra | 0168 | 24.10 | $1,253.42 | $405.60 | $250.68
53431 | T | Reconstruct urethra/bladder | 0168 | 24.10 | $1,253.42 | $405.60 | $250.68
53440 | T | Correct bladder function | 0179 | 81.28 | $4,227.29 | $1,817.73 | $845.46
53442 | T | Remove perineal prosthesis | 0166 | 15.63 | $812.90 | $218.73 | $162.58
53444 | T | Insert tandem cuff | 0179 | 81.28 | $4,227.29 | $1,817.73 | $845.46
53445 | T | Insert uro/ves nck sphincter | 0179 | 81.28 | $4,227.29 | $1,817.73 | $845.46
53446 | T | Remove uro sphincter | 0168 | 24.10 | $1,253.42 | $405.60 | $250.68
53447 | T | Remove/replace ur sphincter | 0179 | 81.28 | $4,227.29 | $1,817.73 | $845.46
53448 | C | Remov/replc ur sphinctr comp |  |  |  |  |
53449 | T | Repair uro sphincter | 0168 | 24.10 | $1,253.42 | $405.60 | $250.68
53450 | T | Revision of urethra | 0168 | 24.10 | $1,253.42 | $405.60 | $250.68
53460 | T | Revision of urethra | 0168 | 24.10 | $1,253.42 | $405.60 | $250.68
53502 | T | Repair of urethra injury | 0166 | 15.63 | $812.90 | $218.73 | $162.58
53505 | T | Repair of urethra injury | 0167 | 27.15 | $1,412.04 | $555.84 | $282.41
53510 | T | Repair of urethra injury | 0166 | 15.63 | $812.90 | $218.73 | $162.58
53515 | T | Repair of urethra injury | 0168 | 24.10 | $1,253.42 | $405.60 | $250.68
53520 | T | Repair of urethra defect | 0168 | 24.10 | $1,253.42 | $405.60 | $250.68
53600 | T | Dilate urethra stricture | 0156 | 3.10 | $161.23 | $48.37 | $32.25
53601 | T | Dilate urethra stricture | 0164 | 1.18 | $61.37 | $18.41 | $12.27
53605 | T | Dilate urethra stricture | 0161 | 16.03 | $833.70 | $249.36 | $166.74
53620 | T | Dilate urethra stricture | 0165 | 12.62 | $656.35 |  | $131.27
53621 | T | Dilate urethra stricture | 0164 | 1.18 | $61.37 | $18.41 | $12.27
53660 | T | Dilation of urethra | 0164 | 1.18 | $61.37 | $18.41 | $12.27
53661 | T | Dilation of urethra | 0164 | 1.18 | $61.37 | $18.41 | $12.27
53665 | T | Dilation of urethra | 0166 | 15.63 | $812.90 | $218.73 | $162.58
53670 | N | Insert urinary catheter |  |  |  |  |
53675 | T | Insert urinary catheter | 0164 | 1.18 | $61.37 | $18.41 | $12.27
53850 | T | Prostatic microwave thermotx | 0675 | 51.57 | $2,682.10 |  | $536.42
53852 | T | Prostatic rf thermotx | 0675 | 51.57 | $2,682.10 |  | $536.42
53853 | T | Prostatic water thermother | 0977 |  | $1,125.00 |  | $225.00
53899 | T | Urology surgery procedure | 0164 | 1.18 | $61.37 | $18.41 | $12.27
54000 | T | Slitting of prepuce | 0166 | 15.63 | $812.90 | $218.73 | $162.58
54001 | T | Slitting of prepuce | 0166 | 15.63 | $812.90 | $218.73 | $162.58
54015 | T | Drain penis lesion | 0007 | 9.44 | $490.96 | $103.10 | $98.19
54050 | T | Destruction, penis lesion(s) | 0013 | 1.10 | $57.21 | $14.30 | $11.44
54055 | T | Destruction, penis lesion(s) | 0017 | 16.46 | $856.07 | $227.84 | $171.21
54056 | T | Cryosurgery, penis lesion(s) | 0012 | 0.76 | $39.53 | $10.67 | $7.91
54057 | T | Laser surg, penis lesion(s) | 0017 | 16.46 | $856.07 | $227.84 | $171.21
54060 | T | Excision of penis lesion(s) | 0017 | 16.46 | $856.07 | $227.84 | $171.21
54065 | T | Destruction, penis lesion(s) | 0695 | 19.65 | $1,021.98 | $266.59 | $204.40
54100 | T | Biopsy of penis | 0021 | 14.58 | $758.29 | $227.49 | $151.66
54105 | T | Biopsy of penis | 0022 | 18.10 | $941.36 | $367.13 | $188.27
54110 | T | Treatment of penis lesion | 0181 | 29.88 | $1,554.03 | $621.82 | $310.81
54111 | T | Treat penis lesion, graft | 0181 | 29.88 | $1,554.03 | $621.82 | $310.81
54112 | T | Treat penis lesion, graft | 0181 | 29.88 | $1,554.03 | $621.82 | $310.81
54115 | T | Treatment of penis lesion | 0008 | 16.32 | $848.79 |  | $169.76
54120 | T | Partial removal of penis | 0181 | 29.88 | $1,554.03 | $621.82 | $310.81
54125 | C | Removal of penis |  |  |  |  |
54130 | C | Remove penis & nodes |  |  |  |  |
54135 | C | Remove penis & nodes |  |  |  |  |
54150 | T | Circumcision | 0180 | 18.95 | $985.57 | $304.87 | $197.11
54152 | T | Circumcision | 0180 | 18.95 | $985.57 | $304.87 | $197.11
54160 | T | Circumcision | 0180 | 18.95 | $985.57 | $304.87 | $197.11
54161 | T | Circumcision | 0180 | 18.95 | $985.57 | $304.87 | $197.11
54162 | T | Lysis penil circumcis lesion | 0180 | 18.95 | $985.57 | $304.87 | $197.11
54163 | T | Repair of circumcision | 0180 | 18.95 | $985.57 | $304.87 | $197.11
54164 | T | Frenulotomy of penis | 0180 | 18.95 | $985.57 | $304.87 | $197.11
54200 | T | Treatment of penis lesion | 0156 | 3.10 | $161.23 | $48.37 | $32.25
54205 | T | Treatment of penis lesion | 0181 | 29.88 | $1,554.03 | $621.82 | $310.81
54220 | T | Treatment of penis lesion | 0156 | 3.10 | $161.23 | $48.37 | $32.25
54230 | N | Prepare penis study |  |  |  |  |
54231 | T | Dynamic cavernosometry | 0165 | 12.62 | $656.35 |  | $131.27
54235 | T | Penile injection | 0164 | 1.18 | $61.37 | $18.41 | $12.27
54240 | T | Penis study | 0164 | 1.18 | $61.37 | $18.41 | $12.27
54250 | T | Penis study | 0165 | 12.62 | $656.35 |  | $131.27
54300 | T | Revision of penis | 0181 | 29.88 | $1,554.03 | $621.82 | $310.81
54304 | T | Revision of penis | 0181 | 29.88 | $1,554.03 | $621.82 | $310.81
54308 | T | Reconstruction of urethra | 0181 | 29.88 | $1,554.03 | $621.82 | $310.81
54312 | T | Reconstruction of urethra | 0181 | 29.88 | $1,554.03 | $621.82 | $310.81
54316 | T | Reconstruction of urethra | 0181 | 29.88 | $1,554.03 | $621.82 | $310.81
54318 | T | Reconstruction of urethra | 0181 | 29.88 | $1,554.03 | $621.82 | $310.81
54322 | T | Reconstruction of urethra | 0181 | 29.88 | $1,554.03 | $621.82 | $310.81
54324 | T | Reconstruction of urethra | 0181 | 29.88 | $1,554.03 | $621.82 | $310.81
54326 | T | Reconstruction of urethra | 0181 | 29.88 | $1,554.03 | $621.82 | $310.81
54328 | T | Revise penis/urethra | 0181 | 29.88 | $1,554.03 | $621.82 | $310.81
54332 | C | Revise penis/urethra |  |  |  |  |
54336 | C | Revise penis/urethra |  |  |  |  |
54340 | T | Secondary urethral surgery | 0181 | 29.88 | $1,554.03 | $621.82 | $310.81
54344 | T | Secondary urethral surgery | 0181 | 29.88 | $1,554.03 | $621.82 | $310.81
54348 | T | Secondary urethral surgery | 0181 | 29.88 | $1,554.03 | $621.82 | $310.81
54352 | T | Reconstruct urethra/penis | 0181 | 29.88 | $1,554.03 | $621.82 | $310.81
54360 | T | Penis plastic surgery | 0181 | 29.88 | $1,554.03 | $621.82 | $310.81
54380 | T | Repair penis | 0181 | 29.88 | $1,554.03 | $621.82 | $310.81
54385 | T | Repair penis | 0181 | 29.88 | $1,554.03 | $621.82 | $310.81
54390 | C | Repair penis and bladder |  |  |  |  |
54400 | T | Insert semi-rigid prosthesis | 0182 | 83.80 | $4,358.35 | $1,438.26 | $871.67
54401 | T | Insert self-contd prosthesis | 0182 | 83.80 | $4,358.35 | $1,438.26 | $871.67
54405 | T | Insert multi-comp penis pros | 0182 | 83.80 | $4,358.35 | $1,438.26 | $871.67
54406 | T | Remove multi-comp penis pros | 0181 | 29.88 | $1,554.03 | $621.82 | $310.81
54408 | T | Repair multi-comp penis pros | 0181 | 29.88 | $1,554.03 | $621.82 | $310.81
54410 | T | Remove/replace penis prosth | 0182 | 83.80 | $4,358.35 | $1,438.26 | $871.67
54411 | C | Remv/replc penis pros, comp |  |  |  |  |
54415 | T | Remove self-contd penis pros | 0181 | 29.88 | $1,554.03 | $621.82 | $310.81
54416 | T | Remv/repl penis contain pros | 0182 | 83.80 | $4,358.35 | $1,438.26 | $871.67
54417 | C | Remv/replc penis pros, compl |  |  |  |  |
54420 | T | Revision of penis | 0181 | 29.88 | $1,554.03 | $621.82 | $310.81
54430 | C | Revision of penis |  |  |  |  |
54435 | T | Revision of penis | 0181 | 29.88 | $1,554.03 | $621.82 | $310.81
54440 | T | Repair of penis | 0181 | 29.88 | $1,554.03 | $621.82 | $310.81
54450 | T | Preputial stretching | 0156 | 3.10 | $161.23 | $48.37 | $32.25
54500 | T | Biopsy of testis | 0005 | 3.02 | $157.07 | $69.11 | $31.41
54505 | T | Biopsy of testis | 0183 | 22.19 | $1,154.08 | $448.94 | $230.82
54512 | T | Excise lesion testis | 0183 | 22.19 | $1,154.08 | $448.94 | $230.82
54520 | T | Removal of testis | 0183 | 22.19 | $1,154.08 | $448.94 | $230.82
54522 | T | Orchiectomy, partial | 0183 | 22.19 | $1,154.08 | $448.94 | $230.82
54530 | T | Removal of testis | 0154 | 26.98 | $1,403.20 | $491.12 | $280.64
54535 | C | Extensive testis surgery |  |  |  |  |
54550 | T | Exploration for testis | 0154 | 26.98 | $1,403.20 | $491.12 | $280.64
54560 | C | Exploration for testis |  |  |  |  |
54600 | T | Reduce testis torsion | 0183 | 22.19 | $1,154.08 | $448.94 | $230.82
54620 | T | Suspension of testis | 0183 | 22.19 | $1,154.08 | $448.94 | $230.82
54640 | T | Suspension of testis | 0154 | 26.98 | $1,403.20 | $491.12 | $280.64
54650 | C | Orchiopexy (Fowler-Stephens) |  |  |  |  |
54660 | T | Revision of testis | 0183 | 22.19 | $1,154.08 | $448.94 | $230.82
54670 | T | Repair testis injury | 0183 | 22.19 | $1,154.08 | $448.94 | $230.82
54680 | T | Relocation of testis(es) | 0183 | 22.19 | $1,154.08 | $448.94 | $230.82
54690 | T | Laparoscopy, orchiectomy | 0131 | 42.44 | $2,207.26 | $1,001.89 | $441.45
54692 | T | Laparoscopy, orchiopexy | 0132 | 57.95 | $3,013.92 | $1,239.22 | $602.78
54699 | T | Laparoscope proc, testis | 0130 | 31.99 | $1,663.77 | $659.53 | $332.75
54700 | T | Drainage of scrotum | 0183 | 22.19 | $1,154.08 | $448.94 | $230.82
54800 | T | Biopsy of epididymis | 0004 | 1.63 | $84.77 | $22.04 | $16.95
54820 | T | Exploration of epididymis | 0183 | 22.19 | $1,154.08 | $448.94 | $230.82
54830 | T | Remove epididymis lesion | 0183 | 22.19 | $1,154.08 | $448.94 | $230.82
54840 | T | Remove epididymis lesion | 0183 | 22.19 | $1,154.08 | $448.94 | $230.82
54860 | T | Removal of epididymis | 0183 | 22.19 | $1,154.08 | $448.94 | $230.82
54861 | T | Removal of epididymis | 0183 | 22.19 | $1,154.08 | $448.94 | $230.82
54900 | T | Fusion of spermatic ducts | 0183 | 22.19 | $1,154.08 | $448.94 | $230.82
54901 | T | Fusion of spermatic ducts | 0183 | 22.19 | $1,154.08 | $448.94 | $230.82
55000 | T | Drainage of hydrocele | 0004 | 1.63 | $84.77 | $22.04 | $16.95
55040 | T | Removal of hydrocele | 0154 | 26.98 | $1,403.20 | $491.12 | $280.64
55041 | T | Removal of hydroceles | 0154 | 26.98 | $1,403.20 | $491.12 | $280.64
55060 | T | Repair of hydrocele | 0183 | 22.19 | $1,154.08 | $448.94 | $230.82
55100 | T | Drainage of scrotum abscess | 0007 | 9.44 | $490.96 | $103.10 | $98.19
55110 | T | Explore scrotum | 0183 | 22.19 | $1,154.08 | $448.94 | $230.82
55120 | T | Removal of scrotum lesion | 0183 | 22.19 | $1,154.08 | $448.94 | $230.82
55150 | T | Removal of scrotum | 0183 | 22.19 | $1,154.08 | $448.94 | $230.82
55175 | T | Revision of scrotum | 0183 | 22.19 | $1,154.08 | $448.94 | $230.82
55180 | T | Revision of scrotum | 0183 | 22.19 | $1,154.08 | $448.94 | $230.82
55200 | T | Incision of sperm duct | 0183 | 22.19 | $1,154.08 | $448.94 | $230.82
55250 | T | Removal of sperm duct(s) | 0183 | 22.19 | $1,154.08 | $448.94 | $230.82
55300 | N | Prepare, sperm duct x-ray |  |  |  |  |
55400 | T | Repair of sperm duct | 0183 | 22.19 | $1,154.08 | $448.94 | $230.82
55450 | T | Ligation of sperm duct | 0183 | 22.19 | $1,154.08 | $448.94 | $230.82
55500 | T | Removal of hydrocele | 0183 | 22.19 | $1,154.08 | $448.94 | $230.82
55520 | T | Removal of sperm cord lesion | 0183 | 22.19 | $1,154.08 | $448.94 | $230.82
55530 | T | Revise spermatic cord veins | 0183 | 22.19 | $1,154.08 | $448.94 | $230.82
55535 | T | Revise spermatic cord veins | 0154 | 26.98 | $1,403.20 | $491.12 | $280.64
55540 | T | Revise hernia & sperm veins | 0154 | 26.98 | $1,403.20 | $491.12 | $280.64
55550 | T | Laparo ligate spermatic vein | 0131 | 42.44 | $2,207.26 | $1,001.89 | $441.45
55559 | T | Laparo proc, spermatic cord | 0130 | 31.99 | $1,663.77 | $659.53 | $332.75
55600 | C | Incise sperm duct pouch |  |  |  |  |
55605 | C | Incise sperm duct pouch |  |  |  |  |
55650 | C | Remove sperm duct pouch |  |  |  |  |
55680 | T | Remove sperm pouch lesion | 0183 | 22.19 | $1,154.08 | $448.94 | $230.82
55700 | T | Biopsy of prostate | 0184 | 3.66 | $190.35 | $95.18 | $38.07
55705 | T | Biopsy of prostate | 0184 | 3.66 | $190.35 | $95.18 | $38.07
55720 | T | Drainage of prostate abscess | 0162 | 21.50 | $1,118.19 |  | $223.64
55725 | T | Drainage of prostate abscess | 0162 | 21.50 | $1,118.19 |  | $223.64
55801 | C | Removal of prostate |  |  |  |  |
55810 | C | Extensive prostate surgery |  |  |  |  |
55812 | C | Extensive prostate surgery |  |  |  |  |
55815 | C | Extensive prostate surgery |  |  |  |  |
55821 | C | Removal of prostate |  |  |  |  |
55831 | C | Removal of prostate |  |  |  |  |
55840 | C | Extensive prostate surgery |  |  |  |  |
55842 | C | Extensive prostate surgery |  |  |  |  |
55845 | C | Extensive prostate surgery |  |  |  |  |
55859 | T | Percut/needle insert, pros | 0163 | 24.77 | $1,288.26 |  | $257.65
55860 | T | Surgical exposure, prostate | 0165 | 12.62 | $656.35 |  | $131.27
55862 | C | Extensive prostate surgery |  |  |  |  |
55865 | C | Extensive prostate surgery |  |  |  |  |
55870 | T | Electroejaculation | 0197 | 1.19 | $61.89 | $24.76 | $12.38
55873 | T | Cryoablate prostate | 0674 | 69.25 | $3,601.62 |  | $720.32
55899 | T | Genital surgery procedure | 0164 | 1.18 | $61.37 | $18.41 | $12.27
55970 | E | Sex transformation, M to F |  |  |  |  |
55980 | E | Sex transformation, F to M |  |  |  |  |
56405 | T | I & D of vulva/perineum | 0192 | 2.94 | $152.91 | $42.81 | $30.58
56420 | T | Drainage of gland abscess | 0192 | 2.94 | $152.91 | $42.81 | $30.58
56440 | T | Surgery for vulva lesion | 0194 | 18.88 | $981.93 | $397.84 | $196.39
56441 | T | Lysis of labial lesion(s) | 0193 | 14.57 | $757.77 | $171.13 | $151.55
56501 | T | Destroy, vulva lesions, simp | 0017 | 16.46 | $856.07 | $227.84 | $171.21
56515 | T | Destroy vulva lesion/s compl | 0695 | 19.65 | $1,021.98 | $266.59 | $204.40
56605 | T | Biopsy of vulva/perineum | 0019 | 3.94 | $204.92 | $75.82 | $40.98
56606 | T | Biopsy of vulva/perineum | 0019 | 3.94 | $204.92 | $75.82 | $40.98
56620 | T | Partial removal of vulva | 0195 | 24.37 | $1,267.46 | $483.80 | $253.49
56625 | T | Complete removal of vulva | 0195 | 24.37 | $1,267.46 | $483.80 | $253.49
56630 | C | Extensive vulva surgery |  |  |  |  |
56631 | C | Extensive vulva surgery |  |  |  |  |
56632 | C | Extensive vulva surgery |  |  |  |  |
56633 | C | Extensive vulva surgery |  |  |  |  |
56634 | C | Extensive vulva surgery |  |  |  |  |
56637 | C | Extensive vulva surgery |  |  |  |  |
56640 | C | Extensive vulva surgery |  |  |  |  |
56700 | T | Partial removal of hymen | 0194 | 18.88 | $981.93 | $397.84 | $196.39
56720 | T | Incision of hymen | 0193 | 14.57 | $757.77 | $171.13 | $151.55
56740 | T | Remove vagina gland lesion | 0194 | 18.88 | $981.93 | $397.84 | $196.39
56800 | T | Repair of vagina | 0194 | 18.88 | $981.93 | $397.84 | $196.39
56805 | T | Repair clitoris | 0194 | 18.88 | $981.93 | $397.84 | $196.39
56810 | T | Repair of perineum | 0194 | 18.88 | $981.93 | $397.84 | $196.39
57000 | T | Exploration of vagina | 0194 | 18.88 | $981.93 | $397.84 | $196.39
57010 | T | Drainage of pelvic abscess | 0194 | 18.88 | $981.93 | $397.84 | $196.39
57020 | T | Drainage of pelvic fluid | 0192 | 2.94 | $152.91 | $42.81 | $30.58
57022 | T | I & d vaginal hematoma, pp | 0007 | 9.44 | $490.96 | $103.10 | $98.19
57023 | T | I & d vag hematoma, non-ob | 0007 | 9.44 | $490.96 | $103.10 | $98.19
57061 | T | Destroy vag lesions, simple | 0194 | 18.88 | $981.93 | $397.84 | $196.39
57065 | T | Destroy vag lesions, complex | 0194 | 18.88 | $981.93 | $397.84 | $196.39
57100 | T | Biopsy of vagina | 0192 | 2.94 | $152.91 | $42.81 | $30.58
57105 | T | Biopsy of vagina | 0194 | 18.88 | $981.93 | $397.84 | $196.39
57106 | T | Remove vagina wall, partial | 0194 | 18.88 | $981.93 | $397.84 | $196.39
57107 | T | Remove vagina tissue, part | 0195 | 24.37 | $1,267.46 | $483.80 | $253.49
57109 | T | Vaginectomy partial w/nodes | 0202 | 39.09 | $2,033.03 | $996.18 | $406.61
57110 | C | Remove vagina wall, complete |  |  |  |  |
57111 | C | Remove vagina tissue, compl |  |  |  |  |
57112 | C | Vaginectomy w/nodes, compl |  |  |  |  |
57120 | T | Closure of vagina | 0194 | 18.88 | $981.93 | $397.84 | $196.39
57130 | T | Remove vagina lesion | 0194 | 18.88 | $981.93 | $397.84 | $196.39
57135 | T | Remove vagina lesion | 0194 | 18.88 | $981.93 | $397.84 | $196.39
57150 | T | Treat vagina infection | 0191 | 0.22 | $11.44 | $3.32 | $2.29
57155 | T | Insert uteri tandems/ovoids | 0192 | 2.94 | $152.91 | $42.81 | $30.58
57160 | T | Insert pessary/other device | 0188 | 1.12 | $58.25 | $11.95 | $11.65
57170 | T | Fitting of diaphragm/cap | 0191 | 0.22 | $11.44 | $3.32 | $2.29
57180 | T | Treat vaginal bleeding | 0192 | 2.94 | $152.91 | $42.81 | $30.58
57200 | T | Repair of vagina | 0194 | 18.88 | $981.93 | $397.84 | $196.39
57210 | T | Repair vagina/perineum | 0194 | 18.88 | $981.93 | $397.84 | $196.39
57220 | T | Revision of urethra | 0195 | 24.37 | $1,267.46 | $483.80 | $253.49
57230 | T | Repair of urethral lesion | 0194 | 18.88 | $981.93 | $397.84 | $196.39
57240 | T | Repair bladder & vagina | 0195 | 24.37 | $1,267.46 | $483.80 | $253.49
57250 | T | Repair rectum & vagina | 0195 | 24.37 | $1,267.46 | $483.80 | $253.49
57260 | T | Repair of vagina | 0195 | 24.37 | $1,267.46 | $483.80 | $253.49
57265 | T | Extensive repair of vagina | 0195 | 24.37 | $1,267.46 | $483.80 | $253.49
57268 | T | Repair of bowel bulge | 0195 | 24.37 | $1,267.46 | $483.80 | $253.49
57270 | C | Repair of bowel pouch |  |  |  |  |
57280 | C | Suspension of vagina |  |  |  |  |
57282 | C | Repair of vaginal prolapse |  |  |  |  |
57284 | T | Repair paravaginal defect | 0195 | 24.37 | $1,267.46 | $483.80 | $253.49
57287 | T | Revise/remove sling repair | 0202 | 39.09 | $2,033.03 | $996.18 | $406.61
57288 | T | Repair bladder defect | 0202 | 39.09 | $2,033.03 | $996.18 | $406.61
57289 | T | Repair bladder & vagina | 0195 | 24.37 | $1,267.46 | $483.80 | $253.49
57291 | T | Construction of vagina | 0195 | 24.37 | $1,267.46 | $483.80 | $253.49
57292 | C | Construct vagina with graft |  |  |  |  |
57300 | T | Repair rectum-vagina fistula | 0195 | 24.37 | $1,267.46 | $483.80 | $253.49
57305 | C | Repair rectum-vagina fistula |  |  |  |  |
57307 | C | Fistula repair & colostomy |  |  |  |  |
57308 | C | Fistula repair, transperine |  |  |  |  |
57310 | T | Repair urethrovaginal lesion | 0195 | 24.37 | $1,267.46 | $483.80 | $253.49
57311 | C | Repair urethrovaginal lesion |  |  |  |  |
57320 | T | Repair bladder-vagina lesion | 0195 | 24.37 | $1,267.46 | $483.80 | $253.49
57330 | T | Repair bladder-vagina lesion | 0195 | 24.37 | $1,267.46 | $483.80 | $253.49
57335 | C | Repair vagina |  |  |  |  |
57400 | T | Dilation of vagina | 0194 | 18.88 | $981.93 | $397.84 | $196.39
57410 | T | Pelvic examination | 0194 | 18.88 | $981.93 | $397.84 | $196.39
57415 | T | Remove vaginal foreign body | 0194 | 18.88 | $981.93 | $397.84 | $196.39
57452 | T | Examination of vagina | 0189 | 1.63 | $84.77 | $18.60 | $16.95
57454 | T | Vagina examination & biopsy | 0192 | 2.94 | $152.91 | $42.81 | $30.58
57460 | T | Cervix excision | 0193 | 14.57 | $757.77 | $171.13 | $151.55
57500 | T | Biopsy of cervix | 0192 | 2.94 | $152.91 | $42.81 | $30.58
57505 | T | Endocervical curettage | 0192 | 2.94 | $152.91 | $42.81 | $30.58
57510 | T | Cauterization of cervix | 0193 | 14.57 | $757.77 | $171.13 | $151.55
57511 | T | Cryocautery of cervix | 0189 | 1.63 | $84.77 | $18.60 | $16.95
57513 | T | Laser surgery of cervix | 0193 | 14.57 | $757.77 | $171.13 | $151.55
57520 | T | Conization of cervix | 0194 | 18.88 | $981.93 | $397.84 | $196.39
57522 | T | Conization of cervix | 0195 | 24.37 | $1,267.46 | $483.80 | $253.49
57530 | T | Removal of cervix | 0195 | 24.37 | $1,267.46 | $483.80 | $253.49
57531 | C | Removal of cervix, radical |  |  |  |  |
57540 | C | Removal of residual cervix |  |  |  |  |
57545 | C | Remove cervix/repair pelvis |  |  |  |  |
57550 | T | Removal of residual cervix | 0195 | 24.37 | $1,267.46 | $483.80 | $253.49
57555 | T | Remove cervix/repair vagina | 0195 | 24.37 | $1,267.46 | $483.80 | $253.49
57556 | T | Remove cervix, repair bowel | 0195 | 24.37 | $1,267.46 | $483.80 | $253.49
57700 | T | Revision of cervix | 0194 | 18.88 | $981.93 | $397.84 | $196.39
57720 | T | Revision of cervix | 0194 | 18.88 | $981.93 | $397.84 | $196.39
57800 | T | Dilation of cervical canal | 0192 | 2.94 | $152.91 | $42.81 | $30.58
57820 | T | D & c of residual cervix | 0196 | 16.32 | $848.79 | $338.23 | $169.76
58100 | T | Biopsy of uterus lining | 0188 | 1.12 | $58.25 | $11.95 | $11.65
58120 | T | Dilation and curettage | 0196 | 16.32 | $848.79 | $338.23 | $169.76
58140 | C | Removal of uterus lesion |  |  |  |  |
58145 | T | Removal of uterus lesion | 0195 | 24.37 | $1,267.46 | $483.80 | $253.49
58150 | C | Total hysterectomy |  |  |  |  |
58152 | C | Total hysterectomy |  |  |  |  |
58180 | C | Partial hysterectomy |  |  |  |  |
58200 | C | Extensive hysterectomy |  |  |  |  |
58210 | C | Extensive hysterectomy |  |  |  |  |
58240 | C | Removal of pelvis contents |  |  |  |  |
58260 | C | Vaginal hysterectomy |  |  |  |  |
58262 | C | Vaginal hysterectomy |  |  |  |  |
58263 | C | Vaginal hysterectomy |  |  |  |  |
58267 | C | Hysterectomy & vagina repair |  |  |  |  |
58270 | C | Hysterectomy & vagina repair |  |  |  |  |
58275 | C | Hysterectomy/revise vagina |  |  |  |  |
58280 | C | Hysterectomy/revise vagina |  |  |  |  |
58285 | C | Extensive hysterectomy |  |  |  |  |
58300 | E | Insert intrauterine device |  |  |  |  |
58301 | T | Remove intrauterine device | 0189 | 1.63 | $84.77 | $18.60 | $16.95
58321 | T | Artificial insemination | 0197 | 1.19 | $61.89 | $24.76 | $12.38
58322 | T | Artificial insemination | 0197 | 1.19 | $61.89 | $24.76 | $12.38
58323 | T | Sperm washing | 0197 | 1.19 | $61.89 | $24.76 | $12.38
58340 | N | Catheter for hysterography |  |  |  |  |
58345 | T | Reopen fallopian tube | 0194 | 18.88 | $981.93 | $397.84 | $196.39
58346 | T | Insert heyman uteri capsule | 0192 | 2.94 | $152.91 | $42.81 | $30.58
58350 | T | Reopen fallopian tube | 0194 | 18.88 | $981.93 | $397.84 | $196.39
58353 | T | Endometr ablate, thermal | 0193 | 14.57 | $757.77 | $171.13 | $151.55
58400 | C | Suspension of uterus |  |  |  |  |
58410 | C | Suspension of uterus |  |  |  |  |
58520 | C | Repair of ruptured uterus |  |  |  |  |
58540 | C | Revision of uterus |  |  |  |  |
58550 | T | Laparo-asst vag hysterectomy | 0132 | 57.95 | $3,013.92 | $1,239.22 | $602.78
58551 | T | Laparoscopy, remove myoma | 0131 | 42.44 | $2,207.26 | $1,001.89 | $441.45
58555 | T | Hysteroscopy, dx, sep proc | 0194 | 18.88 | $981.93 | $397.84 | $196.39
58558 | T | Hysteroscopy, biopsy | 0190 | 20.06 | $1,043.30 | $424.28 | $208.66
58559 | T | Hysteroscopy, lysis | 0190 | 20.06 | $1,043.30 | $424.28 | $208.66
58560 | T | Hysteroscopy, resect septum | 0190 | 20.06 | $1,043.30 | $424.28 | $208.66
58561 | T | Hysteroscopy, remove myoma | 0190 | 20.06 | $1,043.30 | $424.28 | $208.66
58562 | T | Hysteroscopy, remove fb | 0190 | 20.06 | $1,043.30 | $424.28 | $208.66
58563 | T | Hysteroscopy, ablation | 0190 | 20.06 | $1,043.30 | $424.28 | $208.66
58578 | T | Laparo proc, uterus | 0190 | 20.06 | $1,043.30 | $424.28 | $208.66
58579 | T | Hysteroscope procedure | 0190 | 20.06 | $1,043.30 | $424.28 | $208.66
58600 | T | Division of fallopian tube | 0194 | 18.88 | $981.93 | $397.84 | $196.39
58605 | C | Division of fallopian tube |  |  |  |  |
58611 | C | Ligate oviduct(s) add-on |  |  |  |  |
58615 | T | Occlude fallopian tube(s) | 0194 | 18.88 | $981.93 | $397.84 | $196.39
58660 | T | Laparoscopy, lysis | 0131 | 42.44 | $2,207.26 | $1,001.89 | $441.45
58661 | T | Laparoscopy, remove adnexa | 0131 | 42.44 | $2,207.26 | $1,001.89 | $441.45
58662 | T | Laparoscopy, excise lesions | 0131 | 42.44 | $2,207.26 | $1,001.89 | $441.45
58670 | T | Laparoscopy, tubal cautery | 0131 | 42.44 | $2,207.26 | $1,001.89 | $441.45
58671 | T | Laparoscopy, tubal block | 0131 | 42.44 | $2,207.26 | $1,001.89 | $441.45
58672 | T | Laparoscopy, fimbrioplasty | 0131 | 42.44 | $2,207.26 | $1,001.89 | $441.45
58673 | T | Laparoscopy, salpingostomy | 0131 | 42.44 | $2,207.26 | $1,001.89 | $441.45
58679 | T | Laparo proc, oviduct-ovary | 0130 | 31.99 | $1,663.77 | $659.53 | $332.75
58700 | C | Removal of fallopian tube |  |  |  |  |
58720 | C | Removal of ovary/tube(s) |  |  |  |  |
58740 | C | Revise fallopian tube(s) |  |  |  |  |
58750 | C | Repair oviduct |  |  |  |  |
58752 | C | Revise ovarian tube(s) |  |  |  |  |
58760 | C | Remove tubal obstruction |  |  |  |  |
58770 | C | Create new tubal opening |  |  |  |  |
58800 | T | Drainage of ovarian cyst(s) | 0195 | 24.37 | $1,267.46 | $483.80 | $253.49
58805 | C | Drainage of ovarian cyst(s) |  |  |  |  |
58820 | T | Drain ovary abscess, open | 0195 | 24.37 | $1,267.46 | $483.80 | $253.49
58822 | C | Drain ovary abscess, percut |  |  |  |  |
58823 | T | Drain pelvic abscess, percut | 0193 | 14.57 | $757.77 | $171.13 | $151.55
58825 | C | Transposition, ovary(s) |  |  |  |  |
58900 | T | Biopsy of ovary(s) | 0195 | 24.37 | $1,267.46 | $483.80 | $253.49
58920 | T | Partial removal of ovary(s) | 0202 | 39.09 | $2,033.03 | $996.18 | $406.61
58925 | T | Removal of ovarian cyst(s) | 0202 | 39.09 | $2,033.03 | $996.18 | $406.61
58940 | C | Removal of ovary(s) |  |  |  |  |
58943 | C | Removal of ovary(s) |  |  |  |  |
58950 | C | Resect ovarian malignancy |  |  |  |  |
58951 | C | Resect ovarian malignancy |  |  |  |  |
58952 | C | Resect ovarian malignancy |  |  |  |  |
58953 | C | Tah, rad dissect for debulk |  |  |  |  |
58954 | C | Tah rad debulk/lymph remove |  |  |  |  |
58960 | C | Exploration of abdomen |  |  |  |  |
58970 | T | Retrieval of oocyte | 0194 | 18.88 | $981.93 | $397.84 | $196.39
58974 | T | Transfer of embryo | 0197 | 1.19 | $61.89 | $24.76 | $12.38
58976 | T | Transfer of embryo | 0197 | 1.19 | $61.89 | $24.76 | $12.38
58999 | T | Genital surgery procedure | 0191 | 0.22 | $11.44 | $3.32 | $2.29
59000 | T | Amniocentesis, diagnostic | 0198 | 1.33 | $69.17 | $32.92 | $13.83
59001 | T | Amniocentesis, therapeutic | 0198 | 1.33 | $69.17 | $32.92 | $13.83
59012 | T | Fetal cord puncture,prenatal | 0198 | 1.33 | $69.17 | $32.92 | $13.83
59015 | T | Chorion biopsy | 0198 | 1.33 | $69.17 | $32.92 | $13.83
59020 | T | Fetal contract stress test | 0198 | 1.33 | $69.17 | $32.92 | $13.83
59025 | T | Fetal non-stress test | 0198 | 1.33 | $69.17 | $32.92 | $13.83
59030 | T | Fetal scalp blood sample | 0198 | 1.33 | $69.17 | $32.92 | $13.83
59050 | E | Fetal monitor w/report |  |  |  |  |
59051 | E | Fetal monitor/interpret only |  |  |  |  |
59100 | C | Remove uterus lesion |  |  |  |  |
59120 | C | Treat ectopic pregnancy |  |  |  |  |
59121 | C | Treat ectopic pregnancy |  |  |  |  |
59130 | C | Treat ectopic pregnancy |  |  |  |  |
59135 | C | Treat ectopic pregnancy |  |  |  |  |
59136 | C | Treat ectopic pregnancy |  |  |  |  |
59140 | C | Treat ectopic pregnancy |  |  |  |  |
59150 | T | Treat ectopic pregnancy | 0131 | 42.44 | $2,207.26 | $1,001.89 | $441.45
59151 | T | Treat ectopic pregnancy | 0131 | 42.44 | $2,207.26 | $1,001.89 | $441.45
59160 | T | D & c after delivery | 0196 | 16.32 | $848.79 | $338.23 | $169.76
59200 | T | Insert cervical dilator | 0189 | 1.63 | $84.77 | $18.60 | $16.95
59300 | T | Episiotomy or vaginal repair | 0193 | 14.57 | $757.77 | $171.13 | $151.55
59320 | T | Revision of cervix | 0194 | 18.88 | $981.93 | $397.84 | $196.39
59325 | C | Revision of cervix |  |  |  |  |
59350 | C | Repair of uterus |  |  |  |  |
59400 | E | Obstetrical care |  |  |  |  |
59409 | T | Obstetrical care | 0199 | 5.69 | $295.93 | $72.98 | $59.19
59410 | E | Obstetrical care |  |  |  |  |
59412 | T | Antepartum manipulation | 0199 | 5.69 | $295.93 | $72.98 | $59.19
59414 | T | Deliver placenta | 0199 | 5.69 | $295.93 | $72.98 | $59.19
59425 | E | Antepartum care only |  |  |  |  |
59426 | E | Antepartum care only |  |  |  |  |
59430 | E | Care after delivery |  |  |  |  |
59510 | E | Cesarean delivery |  |  |  |  |
59514 | C | Cesarean delivery only |  |  |  |  |
59515 | E | Cesarean delivery |  |  |  |  |
59525 | C | Remove uterus after cesarean |  |  |  |  |
59610 | E | Vbac delivery |  |  |  |  |
59612 | T | Vbac delivery only | 0199 | 5.69 | $295.93 | $72.98 | $59.19
59614 | E | Vbac care after delivery |  |  |  |  |
59618 | E | Attempted vbac delivery |  |  |  |  |
59620 | C | Attempted vbac delivery only |  |  |  |  |
59622 | E | Attempted vbac after care |  |  |  |  |
59812 | T | Treatment of miscarriage | 0201 | 15.84 | $823.82 | $329.65 | $164.76
59820 | T | Care of miscarriage | 0201 | 15.84 | $823.82 | $329.65 | $164.76
59821 | T | Treatment of miscarriage | 0201 | 15.84 | $823.82 | $329.65 | $164.76
59830 | C | Treat uterus infection |  |  |  |  |
59840 | T | Abortion | 0200 | 14.49 | $753.61 | $307.83 | $150.72
59841 | T | Abortion | 0200 | 14.49 | $753.61 | $307.83 | $150.72
59850 | C | Abortion |  |  |  |  |
59851 | C | Abortion |  |  |  |  |
59852 | C | Abortion |  |  |  |  |
59855 | C | Abortion |  |  |  |  |
59856 | C | Abortion |  |  |  |  |
59857 | C | Abortion |  |  |  |  |
59866 | T | Abortion (mpr) | 0198 | 1.33 | $69.17 | $32.92 | $13.83
59870 | T | Evacuate mole of uterus | 0201 | 15.84 | $823.82 | $329.65 | $164.76
59871 | T | Remove cerclage suture | 0194 | 18.88 | $981.93 | $397.84 | $196.39
59898 | T | Laparo proc, ob care/deliver | 0130 | 31.99 | $1,663.77 | $659.53 | $332.75
59899 | T | Maternity care procedure | 0198 | 1.33 | $69.17 | $32.92 | $13.83
60000 | T | Drain thyroid/tongue cyst | 0252 | 6.27 | $326.10 | $114.24 | $65.22
60001 | T | Aspirate/inject thyriod cyst | 0004 | 1.63 | $84.77 | $22.04 | $16.95
60100 | T | Biopsy of thyroid | 0004 | 1.63 | $84.77 | $22.04 | $16.95
60200 | T | Remove thyroid lesion | 0114 | 37.55 | $1,952.94 | $507.76 | $390.59
60210 | T | Partial thyroid excision | 0114 | 37.55 | $1,952.94 | $507.76 | $390.59
60212 | T | Parital thyroid excision | 0114 | 37.55 | $1,952.94 | $507.76 | $390.59
60220 | T | Partial removal of thyroid | 0114 | 37.55 | $1,952.94 | $507.76 | $390.59
60225 | T | Partial removal of thyroid | 0114 | 37.55 | $1,952.94 | $507.76 | $390.59
60240 | T | Removal of thyroid | 0114 | 37.55 | $1,952.94 | $507.76 | $390.59
60252 | T | Removal of thyroid | 0256 | 35.51 | $1,846.84 |  | $369.37
60254 | C | Extensive thyroid surgery |  |  |  |  |
60260 | T | Repeat thyroid surgery | 0256 | 35.51 | $1,846.84 |  | $369.37
60270 | C | Removal of thyroid |  |  |  |  |
60271 | C | Removal of thyroid |  |  |  |  |
60280 | T | Remove thyroid duct lesion | 0114 | 37.55 | $1,952.94 | $507.76 | $390.59
60281 | T | Remove thyroid duct lesion | 0114 | 37.55 | $1,952.94 | $507.76 | $390.59
60500 | T | Explore parathyroid glands | 0256 | 35.51 | $1,846.84 |  | $369.37
60502 | C | Re-explore parathyroids |  |  |  |  |
60505 | C | Explore parathyroid glands |  |  |  |  |
60512 | T | Autotransplant parathyroid | 0022 | 18.10 | $941.36 | $367.13 | $188.27
60520 | C | Removal of thymus gland |  |  |  |  |
60521 | C | Removal of thymus gland |  |  |  |  |
60522 | C | Removal of thymus gland |  |  |  |  |
60540 | C | Explore adrenal gland |  |  |  |  |
60545 | C | Explore adrenal gland |  |  |  |  |
60600 | C | Remove carotid body lesion |  |  |  |  |
60605 | C | Remove carotid body lesion |  |  |  |  |
60650 | C | Laparoscopy adrenalectomy |  |  |  |  |
60659 | T | Laparo proc, endocrine | 0130 | 31.99 | $1,663.77 | $659.53 | $332.75
60699 | T | Endocrine surgery procedure | 0114 | 37.55 | $1,952.94 | $507.76 | $390.59
61000 | T | Remove cranial cavity fluid | 0212 | 3.53 | $183.59 | $84.45 | $36.72
61001 | T | Remove cranial cavity fluid | 0212 | 3.53 | $183.59 | $84.45 | $36.72
61020 | T | Remove brain cavity fluid | 0212 | 3.53 | $183.59 | $84.45 | $36.72
61026 | T | Injection into brain canal | 0212 | 3.53 | $183.59 | $84.45 | $36.72
61050 | T | Remove brain canal fluid | 0212 | 3.53 | $183.59 | $84.45 | $36.72
61055 | T | Injection into brain canal | 0212 | 3.53 | $183.59 | $84.45 | $36.72
61070 | T | Brain canal shunt procedure | 0212 | 3.53 | $183.59 | $84.45 | $36.72
61105 | C | Twist drill hole |  |  |  |  |
61107 | C | Drill skull for implantation |  |  |  |  |
61108 | C | Drill skull for drainage |  |  |  |  |
61120 | C | Burr hole for puncture |  |  |  |  |
61140 | C | Pierce skull for biopsy |  |  |  |  |
61150 | C | Pierce skull for drainage |  |  |  |  |
61151 | C | Pierce skull for drainage |  |  |  |  |
61154 | C | Pierce skull & remove clot |  |  |  |  |
61156 | C | Pierce skull for drainage |  |  |  |  |
61210 | C | Pierce skull, implant device |  |  |  |  |
61215 | T | Insert brain-fluid device | 0224 | 39.14 | $2,035.63 | $453.41 | $407.13
61250 | C | Pierce skull & explore |  |  |  |  |
61253 | C | Pierce skull & explore |  |  |  |  |
61304 | C | Open skull for exploration |  |  |  |  |
61305 | C | Open skull for exploration |  |  |  |  |
61312 | C | Open skull for drainage |  |  |  |  |
61313 | C | Open skull for drainage |  |  |  |  |
61314 | C | Open skull for drainage |  |  |  |  |
61315 | C | Open skull for drainage |  |  |  |  |
61320 | C | Open skull for drainage |  |  |  |  |
61321 | C | Open skull for drainage |  |  |  |  |
61330 | T | Decompress eye socket | 0256 | 35.51 | $1,846.84 |  | $369.37
61332 | C | Explore/biopsy eye socket |  |  |  |  |
61333 | C | Explore orbit/remove lesion |  |  |  |  |
61334 | C | Explore orbit/remove object |  |  |  |  |
61340 | C | Relieve cranial pressure |  |  |  |  |
61343 | C | Incise skull (press relief) |  |  |  |  |
61345 | C | Relieve cranial pressure |  |  |  |  |
61440 | C | Incise skull for surgery |  |  |  |  |
61450 | C | Incise skull for surgery |  |  |  |  |
61458 | C | Incise skull for brain wound |  |  |  |  |
61460 | C | Incise skull for surgery |  |  |  |  |
61470 | C | Incise skull for surgery |  |  |  |  |
61480 | C | Incise skull for surgery |  |  |  |  |
61490 | C | Incise skull for surgery |  |  |  |  |
61500 | C | Removal of skull lesion |  |  |  |  |
61501 | C | Remove infected skull bone |  |  |  |  |
61510 | C | Removal of brain lesion |  |  |  |  |
61512 | C | Remove brain lining lesion |  |  |  |  |
61514 | C | Removal of brain abscess |  |  |  |  |
61516 | C | Removal of brain lesion |  |  |  |  |
61518 | C | Removal of brain lesion |  |  |  |  |
61519 | C | Remove brain lining lesion |  |  |  |  |
61520 | C | Removal of brain lesion |  |  |  |  |
61521 | C | Removal of brain lesion |  |  |  |  |
61522 | C | Removal of brain abscess |  |  |  |  |
61524 | C | Removal of brain lesion |  |  |  |  |
61526 | C | Removal of brain lesion |  |  |  |  |
61530 | C | Removal of brain lesion |  |  |  |  |
61531 | C | Implant brain electrodes |  |  |  |  |
61533 | C | Implant brain electrodes |  |  |  |  |
61534 | C | Removal of brain lesion |  |  |  |  |
61535 | C | Remove brain electrodes |  |  |  |  |
61536 | C | Removal of brain lesion |  |  |  |  |
61538 | C | Removal of brain tissue |  |  |  |  |
61539 | C | Removal of brain tissue |  |  |  |  |
61541 | C | Incision of brain tissue |  |  |  |  |
61542 | C | Removal of brain tissue |  |  |  |  |
61543 | C | Removal of brain tissue |  |  |  |  |
61544 | C | Remove & treat brain lesion |  |  |  |  |
61545 | C | Excision of brain tumor |  |  |  |  |
61546 | C | Removal of pituitary gland |  |  |  |  |
61548 | C | Removal of pituitary gland |  |  |  |  |
61550 | C | Release of skull seams |  |  |  |  |
61552 | C | Release of skull seams |  |  |  |  |
61556 | C | Incise skull/sutures |  |  |  |  |
61557 | C | Incise skull/sutures |  |  |  |  |
61558 | C | Excision of skull/sutures |  |  |  |  |
61559 | C | Excision of skull/sutures |  |  |  |  |
61563 | C | Excision of skull tumor |  |  |  |  |
61564 | C | Excision of skull tumor |  |  |  |  |
61570 | C | Remove foreign body, brain |  |  |  |  |
61571 | C | Incise skull for brain wound |  |  |  |  |
61575 | C | Skull base/brainstem surgery |  |  |  |  |
61576 | C | Skull base/brainstem surgery |  |  |  |  |
61580 | C | Craniofacial approach, skull |  |  |  |  |
61581 | C | Craniofacial approach, skull |  |  |  |  |
61582 | C | Craniofacial approach, skull |  |  |  |  |
61583 | C | Craniofacial approach, skull |  |  |  |  |
61584 | C | Orbitocranial approach/skull |  |  |  |  |
61585 | C | Orbitocranial approach/skull |  |  |  |  |
61586 | C | Resect nasopharynx, skull |  |  |  |  |
61590 | C | Infratemporal approach/skull |  |  |  |  |
61591 | C | Infratemporal approach/skull |  |  |  |  |
61592 | C | Orbitocranial approach/skull |  |  |  |  |
61595 | C | Transtemporal approach/skull |  |  |  |  |
61596 | C | Transcochlear approach/skull |  |  |  |  |
61597 | C | Transcondylar approach/skull |  |  |  |  |
61598 | C | Transpetrosal approach/skull |  |  |  |  |
61600 | C | Resect/excise cranial lesion |  |  |  |  |
61601 | C | Resect/excise cranial lesion |  |  |  |  |
61605 | C | Resect/excise cranial lesion |  |  |  |  |
61606 | C | Resect/excise cranial lesion |  |  |  |  |
61607 | C | Resect/excise cranial lesion |  |  |  |  |
61608 | C | Resect/excise cranial lesion |  |  |  |  |
61609 | C | Transect artery, sinus |  |  |  |  |
61610 | C | Transect artery, sinus |  |  |  |  |
61611 | C | Transect artery, sinus |  |  |  |  |
61612 | C | Transect artery, sinus |  |  |  |  |
61613 | C | Remove aneurysm, sinus |  |  |  |  |
61615 | C | Resect/excise lesion, skull |  |  |  |  |
61616 | C | Resect/excise lesion, skull |  |  |  |  |
61618 | C | Repair dura |  |  |  |  |
61619 | C | Repair dura |  |  |  |  |
61624 | C | Occlusion/embolization cath |  |  |  |  |
61626 | T | Occlusion/embolization cath | 0081 | 22.69 | $1,180.08 |  | $236.02
61680 | C | Intracranial vessel surgery |  |  |  |  |
61682 | C | Intracranial vessel surgery |  |  |  |  |
61684 | C | Intracranial vessel surgery |  |  |  |  |
61686 | C | Intracranial vessel surgery |  |  |  |  |
61690 | C | Intracranial vessel surgery |  |  |  |  |
61692 | C | Intracranial vessel surgery |  |  |  |  |
61697 | C | Brain aneurysm repr, complx |  |  |  |  |
61698 | C | Brain aneurysm repr, complx |  |  |  |  |
61700 | C | Brain aneurysm repr , simple |  |  |  |  |
61702 | C | Inner skull vessel surgery |  |  |  |  |
61703 | C | Clamp neck artery |  |  |  |  |
61705 | C | Revise circulation to head |  |  |  |  |
61708 | C | Revise circulation to head |  |  |  |  |
61710 | C | Revise circulation to head |  |  |  |  |
61711 | C | Fusion of skull arteries |  |  |  |  |
61720 | C | Incise skull/brain surgery |  |  |  |  |
61735 | C | Incise skull/brain surgery |  |  |  |  |
61750 | C | Incise skull/brain biopsy |  |  |  |  |
61751 | C | Brain biopsy w/ ct/mr guide |  |  |  |  |
61760 | C | Implant brain electrodes |  |  |  |  |
61770 | C | Incise skull for treatment |  |  |  |  |
61790 | T | Treat trigeminal nerve | 0220 | 16.66 | $866.47 |  | $173.29
61791 | T | Treat trigeminal tract | 0204 | 2.13 | $110.78 | $42.10 | $22.16
61793 | E | Focus radiation beam |  |  |  |  |
61795 | S | Brain surgery using computer | 0302 | 10.17 | $528.93 | $200.99 | $105.79
61850 | C | Implant neuroelectrodes |  |  |  |  |
61860 | C | Implant neuroelectrodes |  |  |  |  |
61862 | C | Implant neurostimul, subcort |  |  |  |  |
61870 | C | Implant neuroelectrodes |  |  |  |  |
61875 | C | Implant neuroelectrodes |  |  |  |  |
61880 | T | Revise/remove neuroelectrode | 0687 | 19.50 | $1,014.18 | $466.52 | $202.84
61885 | T | Implant neurostim one array | 0222 | 140.56 | $7,310.39 |  | $1,462.08
61886 | T | Implant neurostim arrays | 0222 | 140.56 | $7,310.39 |  | $1,462.08
61888 | T | Revise/remove neuroreceiver | 0688 | 30.58 | $1,590.44 | $779.32 | $318.09
62000 | C | Treat skull fracture |  |  |  |  |
62005 | C | Treat skull fracture |  |  |  |  |
62010 | C | Treatment of head injury |  |  |  |  |
62100 | C | Repair brain fluid leakage |  |  |  |  |
62115 | C | Reduction of skull defect |  |  |  |  |
62116 | C | Reduction of skull defect |  |  |  |  |
62117 | C | Reduction of skull defect |  |  |  |  |
62120 | C | Repair skull cavity lesion |  |  |  |  |
62121 | C | Incise skull repair |  |  |  |  |
62140 | C | Repair of skull defect |  |  |  |  |
62141 | C | Repair of skull defect |  |  |  |  |
62142 | C | Remove skull plate/flap |  |  |  |  |
62143 | C | Replace skull plate/flap |  |  |  |  |
62145 | C | Repair of skull & brain |  |  |  |  |
62146 | C | Repair of skull with graft |  |  |  |  |
62147 | C | Repair of skull with graft |  |  |  |  |
62180 | C | Establish brain cavity shunt |  |  |  |  |
62190 | C | Establish brain cavity shunt |  |  |  |  |
62192 | C | Establish brain cavity shunt |  |  |  |  |
62194 | T | Replace/irrigate catheter | 0121 | 2.17 | $112.86 | $45.14 | $22.57
62200 | C | Establish brain cavity shunt |  |  |  |  |
62201 | C | Establish brain cavity shunt |  |  |  |  |
62220 | C | Establish brain cavity shunt |  |  |  |  |
62223 | C | Establish brain cavity shunt |  |  |  |  |
62225 | T | Replace/irrigate catheter | 0121 | 2.17 | $112.86 | $45.14 | $22.57
62230 | T | Replace/revise brain shunt | 0224 | 39.14 | $2,035.63 | $453.41 | $407.13
62252 | S | Csf shunt reprogram | 0691 | 3.14 | $163.31 | $89.02 | $32.66
62256 | C | Remove brain cavity shunt |  |  |  |  |
62258 | C | Replace brain cavity shunt |  |  |  |  |
62263 | T | Lysis epidural adhesions | 0203 | 10.96 | $570.02 | $256.51 | $114.00
62268 | T | Drain spinal cord cyst | 0212 | 3.53 | $183.59 | $84.45 | $36.72
62269 | T | Needle biopsy, spinal cord | 0005 | 3.02 | $157.07 | $69.11 | $31.41
62270 | T | Spinal fluid tap, diagnostic | 0206 | 4.89 | $254.32 | $75.55 | $50.86
62272 | T | Drain cerebro spinal fluid | 0206 | 4.89 | $254.32 | $75.55 | $50.86
62273 | T | Treat epidural spine lesion | 0206 | 4.89 | $254.32 | $75.55 | $50.86
62280 | T | Treat spinal cord lesion | 0207 | 5.97 | $310.49 | $123.69 | $62.10
62281 | T | Treat spinal cord lesion | 0207 | 5.97 | $310.49 | $123.69 | $62.10
62282 | T | Treat spinal canal lesion | 0207 | 5.97 | $310.49 | $123.69 | $62.10
62284 | N | Injection for myelogram |  |  |  |  |
62287 | T | Percutaneous diskectomy | 0220 | 16.66 | $866.47 |  | $173.29
62290 | N | Inject for spine disk x-ray |  |  |  |  |
62291 | N | Inject for spine disk x-ray |  |  |  |  |
62292 | T | Injection into disk lesion | 0212 | 3.53 | $183.59 | $84.45 | $36.72
62294 | T | Injection into spinal artery | 0212 | 3.53 | $183.59 | $84.45 | $36.72
62310 | T | Inject spine c/t | 0206 | 4.89 | $254.32 | $75.55 | $50.86
62311 | T | Inject spine l/s (cd) | 0206 | 4.89 | $254.32 | $75.55 | $50.86
62318 | T | Inject spine w/cath, c/t | 0206 | 4.89 | $254.32 | $75.55 | $50.86
62319 | T | Inject spine w/cath l/s (cd) | 0206 | 4.89 | $254.32 | $75.55 | $50.86
62350 | T | Implant spinal canal cath | 0223 | 20.30 | $1,055.78 |  | $211.16
62351 | T | Implant spinal canal cath | 0208 | 39.95 | $2,077.76 |  | $415.55
62355 | T | Remove spinal canal catheter | 0203 | 10.96 | $570.02 | $256.51 | $114.00
62360 | T | Insert spine infusion device | 0226 | 44.20 | $2,298.80 |  | $459.76
62361 | T | Implant spine infusion pump | 0227 | 128.03 | $6,658.71 |  | $1,331.74
62362 | T | Implant spine infusion pump | 0227 | 128.03 | $6,658.71 |  | $1,331.74
62365 | T | Remove spine infusion device | 0203 | 10.96 | $570.02 | $256.51 | $114.00
62367 | S | Analyze spine infusion pump | 0691 | 3.14 | $163.31 | $89.02 | $32.66
62368 | S | Analyze spine infusion pump | 0691 | 3.14 | $163.31 | $89.02 | $32.66
63001 | T | Removal of spinal lamina | 0208 | 39.95 | $2,077.76 |  | $415.55
63003 | T | Removal of spinal lamina | 0208 | 39.95 | $2,077.76 |  | $415.55
63005 | T | Removal of spinal lamina | 0208 | 39.95 | $2,077.76 |  | $415.55
63011 | T | Removal of spinal lamina | 0208 | 39.95 | $2,077.76 |  | $415.55
63012 | T | Removal of spinal lamina | 0208 | 39.95 | $2,077.76 |  | $415.55
63015 | T | Removal of spinal lamina | 0208 | 39.95 | $2,077.76 |  | $415.55
63016 | T | Removal of spinal lamina | 0208 | 39.95 | $2,077.76 |  | $415.55
63017 | T | Removal of spinal lamina | 0208 | 39.95 | $2,077.76 |  | $415.55
63020 | T | Neck spine disk surgery | 0208 | 39.95 | $2,077.76 |  | $415.55
63030 | T | Low back disk surgery | 0208 | 39.95 | $2,077.76 |  | $415.55
63035 | T | Spinal disk surgery add-on | 0208 | 39.95 | $2,077.76 |  | $415.55
63040 | T | Laminotomy, single cervical | 0208 | 39.95 | $2,077.76 |  | $415.55
63042 | T | Laminotomy, single lumbar | 0208 | 39.95 | $2,077.76 |  | $415.55
63043 | C | Laminotomy, addl cervical |  |  |  |  |
63044 | C | Laminotomy, addl lumbar |  |  |  |  |
63045 | T | Removal of spinal lamina | 0208 | 39.95 | $2,077.76 |  | $415.55
63046 | T | Removal of spinal lamina | 0208 | 39.95 | $2,077.76 |  | $415.55
63047 | T | Removal of spinal lamina | 0208 | 39.95 | $2,077.76 |  | $415.55
63048 | T | Remove spinal lamina add-on | 0208 | 39.95 | $2,077.76 |  | $415.55
63055 | T | Decompress spinal cord | 0208 | 39.95 | $2,077.76 |  | $415.55
63056 | T | Decompress spinal cord | 0208 | 39.95 | $2,077.76 |  | $415.55
63057 | T | Decompress spine cord add-on | 0208 | 39.95 | $2,077.76 |  | $415.55
63064 | T | Decompress spinal cord | 0208 | 39.95 | $2,077.76 |  | $415.55
63066 | T | Decompress spine cord add-on | 0208 | 39.95 | $2,077.76 |  | $415.55
63075 | C | Neck spine disk surgery |  |  |  |  |
63076 | C | Neck spine disk surgery |  |  |  |  |
63077 | C | Spine disk surgery, thorax |  |  |  |  |
63078 | C | Spine disk surgery, thorax |  |  |  |  |
63081 | C | Removal of vertebral body |  |  |  |  |
63082 | C | Remove vertebral body add-on |  |  |  |  |
63085 | C | Removal of vertebral body |  |  |  |  |
63086 | C | Remove vertebral body add-on |  |  |  |  |
63087 | C | Removal of vertebral body |  |  |  |  |
63088 | C | Remove vertebral body add-on |  |  |  |  |
63090 | C | Removal of vertebral body |  |  |  |  |
63091 | C | Remove vertebral body add-on |  |  |  |  |
63170 | C | Incise spinal cord tract(s) |  |  |  |  |
63172 | C | Drainage of spinal cyst |  |  |  |  |
63173 | C | Drainage of spinal cyst |  |  |  |  |
63180 | C | Revise spinal cord ligaments |  |  |  |  |
63182 | C | Revise spinal cord ligaments |  |  |  |  |
63185 | C | Incise spinal column/nerves |  |  |  |  |
63190 | C | Incise spinal column/nerves |  |  |  |  |
63191 | C | Incise spinal column/nerves |  |  |  |  |
63194 | C | Incise spinal column & cord |  |  |  |  |
63195 | C | Incise spinal column & cord |  |  |  |  |
63196 | C | Incise spinal column & cord |  |  |  |  |
63197 | C | Incise spinal column & cord |  |  |  |  |
63198 | C | Incise spinal column & cord |  |  |  |  |
63199 | C | Incise spinal column & cord |  |  |  |  |
63200 | C | Release of spinal cord |  |  |  |  |
63250 | C | Revise spinal cord vessels |  |  |  |  |
63251 | C | Revise spinal cord vessels |  |  |  |  |
63252 | C | Revise spinal cord vessels |  |  |  |  |
63265 | C | Excise intraspinal lesion |  |  |  |  |
63266 | C | Excise intraspinal lesion |  |  |  |  |
63267 | C | Excise intraspinal lesion |  |  |  |  |
63268 | C | Excise intraspinal lesion |  |  |  |  |
63270 | C | Excise intraspinal lesion |  |  |  |  |
63271 | C | Excise intraspinal lesion |  |  |  |  |
63272 | C | Excise intraspinal lesion |  |  |  |  |
63273 | C | Excise intraspinal lesion |  |  |  |  |
63275 | C | Biopsy/excise spinal tumor |  |  |  |  |
63276 | C | Biopsy/excise spinal tumor |  |  |  |  |
63277 | C | Biopsy/excise spinal tumor |  |  |  |  |
63278 | C | Biopsy/excise spinal tumor |  |  |  |  |
63280 | C | Biopsy/excise spinal tumor |  |  |  |  |
63281 | C | Biopsy/excise spinal tumor |  |  |  |  |
63282 | C | Biopsy/excise spinal tumor |  |  |  |  |
63283 | C | Biopsy/excise spinal tumor |  |  |  |  |
63285 | C | Biopsy/excise spinal tumor |  |  |  |  |
63286 | C | Biopsy/excise spinal tumor |  |  |  |  |
63287 | C | Biopsy/excise spinal tumor |  |  |  |  |
63290 | C | Biopsy/excise spinal tumor |  |  |  |  |
63300 | C | Removal of vertebral body |  |  |  |  |
63301 | C | Removal of vertebral body |  |  |  |  |
63302 | C | Removal of vertebral body |  |  |  |  |
63303 | C | Removal of vertebral body |  |  |  |  |
63304 | C | Removal of vertebral body |  |  |  |  |
63305 | C | Removal of vertebral body |  |  |  |  |
63306 | C | Removal of vertebral body |  |  |  |  |
63307 | C | Removal of vertebral body |  |  |  |  |
63308 | C | Remove vertebral body add-on |  |  |  |  |
63600 | T | Remove spinal cord lesion | 0220 | 16.66 | $866.47 |  | $173.29
63610 | T | Stimulation of spinal cord | 0220 | 16.66 | $866.47 |  | $173.29
63615 | T | Remove lesion of spinal cord | 0220 | 16.66 | $866.47 |  | $173.29
63650 | T | Implant neuroelectrodes | 0225 | 44.47 | $2,312.84 |  | $462.57
63655 | T | Implant neuroelectrodes | 0225 | 44.47 | $2,312.84 |  | $462.57
63660 | T | Revise/remove neuroelectrode | 0687 | 19.50 | $1,014.18 | $466.52 | $202.84
63685 | T | Implant neuroreceiver | 0222 | 140.56 | $7,310.39 |  | $1,462.08
63688 | T | Revise/remove neuroreceiver | 0688 | 30.58 | $1,590.44 | $779.32 | $318.09
63700 | C | Repair of spinal herniation |  |  |  |  |
63702 | C | Repair of spinal herniation |  |  |  |  |
63704 | C | Repair of spinal herniation |  |  |  |  |
63706 | C | Repair of spinal herniation |  |  |  |  |
63707 | C | Repair spinal fluid leakage |  |  |  |  |
63709 | C | Repair spinal fluid leakage |  |  |  |  |
63710 | C | Graft repair of spine defect |  |  |  |  |
63740 | C | Install spinal shunt |  |  |  |  |
63741 | T | Install spinal shunt | 0228 | 55.05 | $2,863.10 | $696.46 | $572.62
63744 | T | Revision of spinal shunt | 0228 | 55.05 | $2,863.10 | $696.46 | $572.62
63746 | T | Removal of spinal shunt | 0109 | 7.68 | $399.43 | $131.49 | $79.89
64400 | T | Injection for nerve block | 0204 | 2.13 | $110.78 | $42.10 | $22.16
64402 | T | Injection for nerve block | 0204 | 2.13 | $110.78 | $42.10 | $22.16
64405 | T | Injection for nerve block | 0204 | 2.13 | $110.78 | $42.10 | $22.16
64408 | T | Injection for nerve block | 0204 | 2.13 | $110.78 | $42.10 | $22.16
64410 | T | Injection for nerve block | 0204 | 2.13 | $110.78 | $42.10 | $22.16
64412 | T | Injection for nerve block | 0204 | 2.13 | $110.78 | $42.10 | $22.16
64413 | T | Injection for nerve block | 0204 | 2.13 | $110.78 | $42.10 | $22.16
64415 | T | Injection for nerve block | 0204 | 2.13 | $110.78 | $42.10 | $22.16
64417 | T | Injection for nerve block | 0204 | 2.13 | $110.78 | $42.10 | $22.16
64418 | T | Injection for nerve block | 0204 | 2.13 | $110.78 | $42.10 | $22.16
64420 | T | Injection for nerve block | 0207 | 5.97 | $310.49 | $123.69 | $62.10
64421 | T | Injection for nerve block | 0207 | 5.97 | $310.49 | $123.69 | $62.10
64425 | T | Injection for nerve block | 0204 | 2.13 | $110.78 | $42.10 | $22.16
64430 | T | Injection for nerve block | 0204 | 2.13 | $110.78 | $42.10 | $22.16
64435 | T | Injection for nerve block | 0204 | 2.13 | $110.78 | $42.10 | $22.16
64445 | T | Injection for nerve block | 0204 | 2.13 | $110.78 | $42.10 | $22.16
64450 | T | Injection for nerve block | 0204 | 2.13 | $110.78 | $42.10 | $22.16
64470 | T | Inj paravertebral c/t | 0207 | 5.97 | $310.49 | $123.69 | $62.10
64472 | T | Inj paravertebral c/t add-on | 0207 | 5.97 | $310.49 | $123.69 | $62.10
64475 | T | Inj paravertebral l/s | 0207 | 5.97 | $310.49 | $123.69 | $62.10
64476 | T | Inj paravertebral l/s add-on | 0207 | 5.97 | $310.49 | $123.69 | $62.10
64479 | T | Inj foramen epidural c/t | 0207 | 5.97 | $310.49 | $123.69 | $62.10
64480 | T | Inj foramen epidural add-on | 0207 | 5.97 | $310.49 | $123.69 | $62.10
64483 | T | Inj foramen epidural l/s | 0207 | 5.97 | $310.49 | $123.69 | $62.10
64484 | T | Inj foramen epidural add-on | 0207 | 5.97 | $310.49 | $123.69 | $62.10
64505 | T | Injection for nerve block | 0204 | 2.13 | $110.78 | $42.10 | $22.16
64508 | T | Injection for nerve block | 0204 | 2.13 | $110.78 | $42.10 | $22.16
64510 | T | Injection for nerve block | 0207 | 5.97 | $310.49 | $123.69 | $62.10
64520 | T | Injection for nerve block | 0207 | 5.97 | $310.49 | $123.69 | $62.10
64530 | T | Injection for nerve block | 0207 | 5.97 | $310.49 | $123.69 | $62.10
64550 | A | Apply neurostimulator |  |  |  |  |
64553 | T | Implant neuroelectrodes | 0225 | 44.47 | $2,312.84 |  | $462.57
64555 | T | Implant neuroelectrodes | 0225 | 44.47 | $2,312.84 |  | $462.57
64560 | T | Implant neuroelectrodes | 0225 | 44.47 | $2,312.84 |  | $462.57
64561 | T | Implant neuroelectrodes | 0225 | 44.47 | $2,312.84 |  | $462.57
64565 | T | Implant neuroelectrodes | 0225 | 44.47 | $2,312.84 |  | $462.57
64573 | T | Implant neuroelectrodes | 0225 | 44.47 | $2,312.84 |  | $462.57
64575 | T | Implant neuroelectrodes | 0225 | 44.47 | $2,312.84 |  | $462.57
64577 | T | Implant neuroelectrodes | 0225 | 44.47 | $2,312.84 |  | $462.57
64580 | T | Implant neuroelectrodes | 0225 | 44.47 | $2,312.84 |  | $462.57
64581 | T | Implant neuroelectrodes | 0225 | 44.47 | $2,312.84 |  | $462.57
64585 | T | Revise/remove neuroelectrode | 0687 | 19.50 | $1,014.18 | $466.52 | $202.84
64590 | T | Implant neuroreceiver | 0222 | 140.56 | $7,310.39 |  | $1,462.08
64595 | T | Revise/remove neuroreceiver | 0688 | 30.58 | $1,590.44 | $779.32 | $318.09
64600 | T | Injection treatment of nerve | 0203 | 10.96 | $570.02 | $256.51 | $114.00
64605 | T | Injection treatment of nerve | 0203 | 10.96 | $570.02 | $256.51 | $114.00
64610 | T | Injection treatment of nerve | 0203 | 10.96 | $570.02 | $256.51 | $114.00
64612 | T | Destroy nerve, face muscle | 0204 | 2.13 | $110.78 | $42.10 | $22.16
64613 | T | Destroy nerve, spine muscle | 0204 | 2.13 | $110.78 | $42.10 | $22.16
64614 | T | Destroy nerve, extrem musc | 0204 | 2.13 | $110.78 | $42.10 | $22.16
64620 | T | Injection treatment of nerve | 0203 | 10.96 | $570.02 | $256.51 | $114.00
64622 | T | Destr paravertebrl nerve l/s | 0203 | 10.96 | $570.02 | $256.51 | $114.00
64623 | T | Destr paravertebral n add-on | 0203 | 10.96 | $570.02 | $256.51 | $114.00
64626 | T | Destr paravertebrl nerve c/t | 0203 | 10.96 | $570.02 | $256.51 | $114.00
64627 | T | Destr paravertebral n add-on | 0203 | 10.96 | $570.02 | $256.51 | $114.00
64630 | T | Injection treatment of nerve | 0207 | 5.97 | $310.49 | $123.69 | $62.10
64640 | T | Injection treatment of nerve | 0207 | 5.97 | $310.49 | $123.69 | $62.10
64680 | T | Injection treatment of nerve | 0203 | 10.96 | $570.02 | $256.51 | $114.00
64702 | T | Revise finger/toe nerve | 0220 | 16.66 | $866.47 |  | $173.29
64704 | T | Revise hand/foot nerve | 0220 | 16.66 | $866.47 |  | $173.29
64708 | T | Revise arm/leg nerve | 0220 | 16.66 | $866.47 |  | $173.29
64712 | T | Revision of sciatic nerve | 0220 | 16.66 | $866.47 |  | $173.29
64713 | T | Revision of arm nerve(s) | 0220 | 16.66 | $866.47 |  | $173.29
64714 | T | Revise low back nerve(s) | 0220 | 16.66 | $866.47 |  | $173.29
64716 | T | Revision of cranial nerve | 0220 | 16.66 | $866.47 |  | $173.29
64718 | T | Revise ulnar nerve at elbow | 0220 | 16.66 | $866.47 |  | $173.29
64719 | T | Revise ulnar nerve at wrist | 0220 | 16.66 | $866.47 |  | $173.29
64721 | T | Carpal tunnel surgery | 0220 | 16.66 | $866.47 |  | $173.29
64722 | T | Relieve pressure on nerve(s) | 0220 | 16.66 | $866.47 |  | $173.29
64726 | T | Release foot/toe nerve | 0220 | 16.66 | $866.47 |  | $173.29
64727 | T | Internal nerve revision | 0220 | 16.66 | $866.47 |  | $173.29
64732 | T | Incision of brow nerve | 0220 | 16.66 | $866.47 |  | $173.29
64734 | T | Incision of cheek nerve | 0220 | 16.66 | $866.47 |  | $173.29
64736 | T | Incision of chin nerve | 0220 | 16.66 | $866.47 |  | $173.29
64738 | T | Incision of jaw nerve | 0220 | 16.66 | $866.47 |  | $173.29
64740 | T | Incision of tongue nerve | 0220 | 16.66 | $866.47 |  | $173.29
64742 | T | Incision of facial nerve | 0220 | 16.66 | $866.47 |  | $173.29
64744 | T | Incise nerve, back of head | 0220 | 16.66 | $866.47 |  | $173.29
64746 | T | Incise diaphragm nerve | 0220 | 16.66 | $866.47 |  | $173.29
64752 | C | Incision of vagus nerve |  |  |  |  |
64755 | C | Incision of stomach nerves |  |  |  |  |
64760 | C | Incision of vagus nerve |  |  |  |  |
64761 | T | Incision of pelvis nerve | 0220 | 16.66 | $866.47 |  | $173.29
64763 | C | Incise hip/thigh nerve |  |  |  |  |
64766 | C | Incise hip/thigh nerve |  |  |  |  |
64771 | T | Sever cranial nerve | 0220 | 16.66 | $866.47 |  | $173.29
64772 | T | Incision of spinal nerve | 0220 | 16.66 | $866.47 |  | $173.29
64774 | T | Remove skin nerve lesion | 0220 | 16.66 | $866.47 |  | $173.29
64776 | T | Remove digit nerve lesion | 0220 | 16.66 | $866.47 |  | $173.29
64778 | T | Digit nerve surgery add-on | 0220 | 16.66 | $866.47 |  | $173.29
64782 | T | Remove limb nerve lesion | 0220 | 16.66 | $866.47 |  | $173.29
64783 | T | Limb nerve surgery add-on | 0220 | 16.66 | $866.47 |  | $173.29
64784 | T | Remove nerve lesion | 0220 | 16.66 | $866.47 |  | $173.29
64786 | T | Remove sciatic nerve lesion | 0221 | 25.35 | $1,318.43 | $463.62 | $263.69
64787 | T | Implant nerve end | 0220 | 16.66 | $866.47 |  | $173.29
64788 | T | Remove skin nerve lesion | 0220 | 16.66 | $866.47 |  | $173.29
64790 | T | Removal of nerve lesion | 0220 | 16.66 | $866.47 |  | $173.29
64792 | T | Removal of nerve lesion | 0221 | 25.35 | $1,318.43 | $463.62 | $263.69
64795 | T | Biopsy of nerve | 0220 | 16.66 | $866.47 |  | $173.29
64802 | T | Remove sympathetic nerves | 0220 | 16.66 | $866.47 |  | $173.29
64804 | C | Remove sympathetic nerves |  |  |  |  |
64809 | C | Remove sympathetic nerves |  |  |  |  |
64818 | C | Remove sympathetic nerves |  |  |  |  |
64820 | T | Remove sympathetic nerves | 0220 | 16.66 | $866.47 |  | $173.29
64821 | T | Remove sympathetic nerves | 0054 | 23.50 | $1,222.21 | $472.33 | $244.44
64822 | T | Remove sympathetic nerves | 0054 | 23.50 | $1,222.21 | $472.33 | $244.44
64823 | T | Remove sympathetic nerves | 0054 | 23.50 | $1,222.21 | $472.33 | $244.44
64831 | T | Repair of digit nerve | 0221 | 25.35 | $1,318.43 | $463.62 | $263.69
64832 | T | Repair nerve add-on | 0221 | 25.35 | $1,318.43 | $463.62 | $263.69
64834 | T | Repair of hand or foot nerve | 0221 | 25.35 | $1,318.43 | $463.62 | $263.69
64835 | T | Repair of hand or foot nerve | 0221 | 25.35 | $1,318.43 | $463.62 | $263.69
64836 | T | Repair of hand or foot nerve | 0221 | 25.35 | $1,318.43 | $463.62 | $263.69
64837 | T | Repair nerve add-on | 0221 | 25.35 | $1,318.43 | $463.62 | $263.69
64840 | T | Repair of leg nerve | 0221 | 25.35 | $1,318.43 | $463.62 | $263.69
64856 | T | Repair/transpose nerve | 0221 | 25.35 | $1,318.43 | $463.62 | $263.69
64857 | T | Repair arm/leg nerve | 0221 | 25.35 | $1,318.43 | $463.62 | $263.69
64858 | T | Repair sciatic nerve | 0221 | 25.35 | $1,318.43 | $463.62 | $263.69
64859 | T | Nerve surgery | 0221 | 25.35 | $1,318.43 | $463.62 | $263.69
64861 | T | Repair of arm nerves | 0221 | 25.35 | $1,318.43 | $463.62 | $263.69
64862 | T | Repair of low back nerves | 0221 | 25.35 | $1,318.43 | $463.62 | $263.69
64864 | T | Repair of facial nerve | 0221 | 25.35 | $1,318.43 | $463.62 | $263.69
64865 | T | Repair of facial nerve | 0221 | 25.35 | $1,318.43 | $463.62 | $263.69
64866 | C | Fusion of facial/other nerve |  |  |  |  |
64868 | C | Fusion of facial/other nerve |  |  |  |  |
64870 | T | Fusion of facial/other nerve | 0221 | 25.35 | $1,318.43 | $463.62 | $263.69
64872 | T | Subsequent repair of nerve | 0221 | 25.35 | $1,318.43 | $463.62 | $263.69
64874 | T | Repair & revise nerve add-on | 0221 | 25.35 | $1,318.43 | $463.62 | $263.69
64876 | T | Repair nerve/shorten bone | 0221 | 25.35 | $1,318.43 | $463.62 | $263.69
64885 | T | Nerve graft, head or neck | 0221 | 25.35 | $1,318.43 | $463.62 | $263.69
64886 | T | Nerve graft, head or neck | 0221 | 25.35 | $1,318.43 | $463.62 | $263.69
64890 | T | Nerve graft, hand or foot | 0221 | 25.35 | $1,318.43 | $463.62 | $263.69
64891 | T | Nerve graft, hand or foot | 0221 | 25.35 | $1,318.43 | $463.62 | $263.69
64892 | T | Nerve graft, arm or leg | 0221 | 25.35 | $1,318.43 | $463.62 | $263.69
64893 | T | Nerve graft, arm or leg | 0221 | 25.35 | $1,318.43 | $463.62 | $263.69
64895 | T | Nerve graft, hand or foot | 0221 | 25.35 | $1,318.43 | $463.62 | $263.69
64896 | T | Nerve graft, hand or foot | 0221 | 25.35 | $1,318.43 | $463.62 | $263.69
64897 | T | Nerve graft, arm or leg | 0221 | 25.35 | $1,318.43 | $463.62 | $263.69
64898 | T | Nerve graft, arm or leg | 0221 | 25.35 | $1,318.43 | $463.62 | $263.69
64901 | T | Nerve graft add-on | 0221 | 25.35 | $1,318.43 | $463.62 | $263.69
64902 | T | Nerve graft add-on | 0221 | 25.35 | $1,318.43 | $463.62 | $263.69
64905 | T | Nerve pedicle transfer | 0221 | 25.35 | $1,318.43 | $463.62 | $263.69
64907 | T | Nerve pedicle transfer | 0221 | 25.35 | $1,318.43 | $463.62 | $263.69
64999 | T | Nervous system surgery | 0204 | 2.13 | $110.78 | $42.10 | $22.16
65091 | T | Revise eye | 0242 | 28.87 | $1,501.50 | $597.36 | $300.30
65093 | T | Revise eye with implant | 0241 | 21.89 | $1,138.48 | $384.47 | $227.70
65101 | T | Removal of eye | 0242 | 28.87 | $1,501.50 | $597.36 | $300.30
65103 | T | Remove eye/insert implant | 0242 | 28.87 | $1,501.50 | $597.36 | $300.30
65105 | T | Remove eye/attach implant | 0242 | 28.87 | $1,501.50 | $597.36 | $300.30
65110 | T | Removal of eye | 0242 | 28.87 | $1,501.50 | $597.36 | $300.30
65112 | T | Remove eye/revise socket | 0242 | 28.87 | $1,501.50 | $597.36 | $300.30
65114 | T | Remove eye/revise socket | 0242 | 28.87 | $1,501.50 | $597.36 | $300.30
65125 | T | Revise ocular implant | 0240 | 16.99 | $883.63 | $315.31 | $176.73
65130 | T | Insert ocular implant | 0241 | 21.89 | $1,138.48 | $384.47 | $227.70
65135 | T | Insert ocular implant | 0241 | 21.89 | $1,138.48 | $384.47 | $227.70
65140 | T | Attach ocular implant | 0242 | 28.87 | $1,501.50 | $597.36 | $300.30
65150 | T | Revise ocular implant | 0241 | 21.89 | $1,138.48 | $384.47 | $227.70
65155 | T | Reinsert ocular implant | 0242 | 28.87 | $1,501.50 | $597.36 | $300.30
65175 | T | Removal of ocular implant | 0240 | 16.99 | $883.63 | $315.31 | $176.73
65205 | S | Remove foreign body from eye | 0698 | 1.01 | $52.53 | $20.49 | $10.51
65210 | S | Remove foreign body from eye | 0231 | 2.24 | $116.50 | $52.43 | $23.30
65220 | S | Remove foreign body from eye | 0231 | 2.24 | $116.50 | $52.43 | $23.30
65222 | S | Remove foreign body from eye | 0231 | 2.24 | $116.50 | $52.43 | $23.30
65235 | T | Remove foreign body from eye | 0233 | 13.43 | $698.48 | $266.33 | $139.70
65260 | T | Remove foreign body from eye | 0236 | 20.62 | $1,072.43 |  | $214.49
65265 | T | Remove foreign body from eye | 0236 | 20.62 | $1,072.43 |  | $214.49
65270 | T | Repair of eye wound | 0240 | 16.99 | $883.63 | $315.31 | $176.73
65272 | T | Repair of eye wound | 0233 | 13.43 | $698.48 | $266.33 | $139.70
65273 | C | Repair of eye wound |  |  |  |  |
65275 | T | Repair of eye wound | 0233 | 13.43 | $698.48 | $266.33 | $139.70
65280 | T | Repair of eye wound | 0234 | 21.45 | $1,115.59 | $535.48 | $223.12
65285 | T | Repair of eye wound | 0234 | 21.45 | $1,115.59 | $535.48 | $223.12
65286 | T | Repair of eye wound | 0233 | 13.43 | $698.48 | $266.33 | $139.70
65290 | T | Repair of eye socket wound | 0243 | 20.94 | $1,089.07 | $431.39 | $217.81
65400 | T | Removal of eye lesion | 0233 | 13.43 | $698.48 | $266.33 | $139.70
65410 | T | Biopsy of cornea | 0233 | 13.43 | $698.48 | $266.33 | $139.70
65420 | T | Removal of eye lesion | 0233 | 13.43 | $698.48 | $266.33 | $139.70
65426 | T | Removal of eye lesion | 0234 | 21.45 | $1,115.59 | $535.48 | $223.12
65430 | S | Corneal smear | 0230 | 0.78 | $40.57 | $15.82 | $8.11
65435 | T | Curette/treat cornea | 0239 | 6.91 | $359.38 | $115.94 | $71.88
65436 | T | Curette/treat cornea | 0233 | 13.43 | $698.48 | $266.33 | $139.70
65450 | S | Treatment of corneal lesion | 0231 | 2.24 | $116.50 | $52.43 | $23.30
65600 | T | Revision of cornea | 0240 | 16.99 | $883.63 | $315.31 | $176.73
65710 | T | Corneal transplant | 0244 | 38.14 | $1,983.62 | $851.42 | $396.72
65730 | T | Corneal transplant | 0244 | 38.14 | $1,983.62 | $851.42 | $396.72
65750 | T | Corneal transplant | 0244 | 38.14 | $1,983.62 | $851.42 | $396.72
65755 | T | Corneal transplant | 0244 | 38.14 | $1,983.62 | $851.42 | $396.72
65760 | E | Revision of cornea |  |  |  |  |
65765 | E | Revision of cornea |  |  |  |  |
65767 | E | Corneal tissue transplant |  |  |  |  |
65770 | T | Revise cornea with implant | 0244 | 38.14 | $1,983.62 | $851.42 | $396.72
65771 | E | Radial keratotomy |  |  |  |  |
65772 | T | Correction of astigmatism | 0233 | 13.43 | $698.48 | $266.33 | $139.70
65775 | T | Correction of astigmatism | 0233 | 13.43 | $698.48 | $266.33 | $139.70
65800 | T | Drainage of eye | 0233 | 13.43 | $698.48 | $266.33 | $139.70
65805 | T | Drainage of eye | 0233 | 13.43 | $698.48 | $266.33 | $139.70
65810 | T | Drainage of eye | 0234 | 21.45 | $1,115.59 | $535.48 | $223.12
65815 | T | Drainage of eye | 0234 | 21.45 | $1,115.59 | $535.48 | $223.12
65820 | T | Relieve inner eye pressure | 0232 | 4.91 | $255.36 | $112.36 | $51.07
65850 | T | Incision of eye | 0234 | 21.45 | $1,115.59 | $535.48 | $223.12
65855 | T | Laser surgery of eye | 0247 | 4.97 | $258.48 | $108.56 | $51.70
65860 | T | Incise inner eye adhesions | 0247 | 4.97 | $258.48 | $108.56 | $51.70
65865 | T | Incise inner eye adhesions | 0233 | 13.43 | $698.48 | $266.33 | $139.70
65870 | T | Incise inner eye adhesions | 0234 | 21.45 | $1,115.59 | $535.48 | $223.12
65875 | T | Incise inner eye adhesions | 0234 | 21.45 | $1,115.59 | $535.48 | $223.12
65880 | T | Incise inner eye adhesions | 0233 | 13.43 | $698.48 | $266.33 | $139.70
65900 | T | Remove eye lesion | 0233 | 13.43 | $698.48 | $266.33 | $139.70
65920 | T | Remove implant of eye | 0233 | 13.43 | $698.48 | $266.33 | $139.70
65930 | T | Remove blood clot from eye | 0234 | 21.45 | $1,115.59 | $535.48 | $223.12
66020 | T | Injection treatment of eye | 0233 | 13.43 | $698.48 | $266.33 | $139.70
66030 | T | Injection treatment of eye | 0233 | 13.43 | $698.48 | $266.33 | $139.70
66130 | T | Remove eye lesion | 0234 | 21.45 | $1,115.59 | $535.48 | $223.12
66150 | T | Glaucoma surgery | 0233 | 13.43 | $698.48 | $266.33 | $139.70
66155 | T | Glaucoma surgery | 0234 | 21.45 | $1,115.59 | $535.48 | $223.12
66160 | T | Glaucoma surgery | 0234 | 21.45 | $1,115.59 | $535.48 | $223.12
66165 | T | Glaucoma surgery | 0234 | 21.45 | $1,115.59 | $535.48 | $223.12
66170 | T | Glaucoma surgery | 0234 | 21.45 | $1,115.59 | $535.48 | $223.12
66172 | T | Incision of eye | 0673 | 27.47 | $1,428.69 | $685.77 | $285.74
66180 | T | Implant eye shunt | 0673 | 27.47 | $1,428.69 | $685.77 | $285.74
66185 | T | Revise eye shunt | 0673 | 27.47 | $1,428.69 | $685.77 | $285.74
66220 | T | Repair eye lesion | 0236 | 20.62 | $1,072.43 |  | $214.49
66225 | T | Repair/graft eye lesion | 0673 | 27.47 | $1,428.69 | $685.77 | $285.74
66250 | T | Follow-up surgery of eye | 0233 | 13.43 | $698.48 | $266.33 | $139.70
66500 | T | Incision of iris | 0232 | 4.91 | $255.36 | $112.36 | $51.07
66505 | T | Incision of iris | 0232 | 4.91 | $255.36 | $112.36 | $51.07
66600 | T | Remove iris and lesion | 0233 | 13.43 | $698.48 | $266.33 | $139.70
66605 | T | Removal of iris | 0234 | 21.45 | $1,115.59 | $535.48 | $223.12
66625 | T | Removal of iris | 0233 | 13.43 | $698.48 | $266.33 | $139.70
66630 | T | Removal of iris | 0233 | 13.43 | $698.48 | $266.33 | $139.70
66635 | T | Removal of iris | 0234 | 21.45 | $1,115.59 | $535.48 | $223.12
66680 | T | Repair iris & ciliary body | 0234 | 21.45 | $1,115.59 | $535.48 | $223.12
66682 | T | Repair iris & ciliary body | 0234 | 21.45 | $1,115.59 | $535.48 | $223.12
66700 | T | Destruction, ciliary body | 0233 | 13.43 | $698.48 | $266.33 | $139.70
66710 | T | Destruction, ciliary body | 0233 | 13.43 | $698.48 | $266.33 | $139.70
66720 | T | Destruction, ciliary body | 0233 | 13.43 | $698.48 | $266.33 | $139.70
66740 | T | Destruction, ciliary body | 0233 | 13.43 | $698.48 | $266.33 | $139.70
66761 | T | Revision of iris | 0247 | 4.97 | $258.48 | $108.56 | $51.70
66762 | T | Revision of iris | 0247 | 4.97 | $258.48 | $108.56 | $51.70
66770 | T | Removal of inner eye lesion | 0247 | 4.97 | $258.48 | $108.56 | $51.70
66820 | T | Incision, secondary cataract | 0232 | 4.91 | $255.36 | $112.36 | $51.07
66821 | T | After cataract laser surgery | 0247 | 4.97 | $258.48 | $108.56 | $51.70
66825 | T | Reposition intraocular lens | 0234 | 21.45 | $1,115.59 | $535.48 | $223.12
66830 | T | Removal of lens lesion | 0232 | 4.91 | $255.36 | $112.36 | $51.07
66840 | T | Removal of lens material | 0245 | 14.39 | $748.41 | $251.21 | $149.68
66850 | T | Removal of lens material | 0249 | 27.75 | $1,443.25 | $524.67 | $288.65
66852 | T | Removal of lens material | 0249 | 27.75 | $1,443.25 | $524.67 | $288.65
66920 | T | Extraction of lens | 0249 | 27.75 | $1,443.25 | $524.67 | $288.65
66930 | T | Extraction of lens | 0249 | 27.75 | $1,443.25 | $524.67 | $288.65
66940 | T | Extraction of lens | 0245 | 14.39 | $748.41 | $251.21 | $149.68
66982 | T | Cataract surgery, complex | 0246 | 23.59 | $1,226.89 | $495.96 | $245.38
66983 | T | Cataract surg w/iol, 1 stage | 0246 | 23.59 | $1,226.89 | $495.96 | $245.38
66984 | T | Cataract surg w/iol, i stage | 0246 | 23.59 | $1,226.89 | $495.96 | $245.38
66985 | T | Insert lens prosthesis | 0246 | 23.59 | $1,226.89 | $495.96 | $245.38
66986 | T | Exchange lens prosthesis | 0246 | 23.59 | $1,226.89 | $495.96 | $245.38
66999 | T | Eye surgery procedure | 0232 | 4.91 | $255.36 | $112.36 | $51.07
67005 | T | Partial removal of eye fluid | 0237 | 35.09 | $1,825.00 | $818.54 | $365.00
67010 | T | Partial removal of eye fluid | 0237 | 35.09 | $1,825.00 | $818.54 | $365.00
67015 | T | Release of eye fluid | 0237 | 35.09 | $1,825.00 | $818.54 | $365.00
67025 | T | Replace eye fluid | 0236 | 20.62 | $1,072.43 |  | $214.49
67027 | T | Implant eye drug system | 0237 | 35.09 | $1,825.00 | $818.54 | $365.00
67028 | T | Injection eye drug | 0235 | 5.62 | $292.29 | $81.84 | $58.46
67030 | T | Incise inner eye strands | 0236 | 20.62 | $1,072.43 |  | $214.49
67031 | T | Laser surgery, eye strands | 0247 | 4.97 | $258.48 | $108.56 | $51.70
67036 | T | Removal of inner eye fluid | 0237 | 35.09 | $1,825.00 | $818.54 | $365.00
67038 | T | Strip retinal membrane | 0237 | 35.09 | $1,825.00 | $818.54 | $365.00
67039 | T | Laser treatment of retina | 0237 | 35.09 | $1,825.00 | $818.54 | $365.00
67040 | T | Laser treatment of retina | 0672 | 39.95 | $2,077.76 | $1,038.88 | $415.55
67101 | T | Repair detached retina | 0235 | 5.62 | $292.29 | $81.84 | $58.46
67105 | T | Repair detached retina | 0248 | 4.44 | $230.92 | $96.99 | $46.18
67107 | T | Repair detached retina | 0672 | 39.95 | $2,077.76 | $1,038.88 | $415.55
67108 | T | Repair detached retina | 0672 | 39.95 | $2,077.76 | $1,038.88 | $415.55
67110 | T | Repair detached retina | 0235 | 5.62 | $292.29 | $81.84 | $58.46
67112 | T | Rerepair detached retina | 0672 | 39.95 | $2,077.76 | $1,038.88 | $415.55
67115 | T | Release encircling material | 0236 | 20.62 | $1,072.43 |  | $214.49
67120 | T | Remove eye implant material | 0236 | 20.62 | $1,072.43 |  | $214.49
67121 | T | Remove eye implant material | 0237 | 35.09 | $1,825.00 | $818.54 | $365.00
67141 | T | Treatment of retina | 0235 | 5.62 | $292.29 | $81.84 | $58.46
67145 | T | Treatment of retina | 0248 | 4.44 | $230.92 | $96.99 | $46.18
67208 | T | Treatment of retinal lesion | 0235 | 5.62 | $292.29 | $81.84 | $58.46
67210 | T | Treatment of retinal lesion | 0248 | 4.44 | $230.92 | $96.99 | $46.18
67218 | T | Treatment of retinal lesion | 0236 | 20.62 | $1,072.43 |  | $214.49
67220 | T | Treatment of choroid lesion | 0235 | 5.62 | $292.29 | $81.84 | $58.46
67221 | T | Ocular photodynamic ther | 0235 | 5.62 | $292.29 | $81.84 | $58.46
67225 | T | Eye photodynamic ther add-on | 0235 | 5.62 | $292.29 | $81.84 | $58.46
67227 | T | Treatment of retinal lesion | 0235 | 5.62 | $292.29 | $81.84 | $58.46
67228 | T | Treatment of retinal lesion | 0248 | 4.44 | $230.92 | $96.99 | $46.18
67250 | T | Reinforce eye wall | 0240 | 16.99 | $883.63 | $315.31 | $176.73
67255 | T | Reinforce/graft eye wall | 0237 | 35.09 | $1,825.00 | $818.54 | $365.00
67299 | T | Eye surgery procedure | 0235 | 5.62 | $292.29 | $81.84 | $58.46
67311 | T | Revise eye muscle | 0243 | 20.94 | $1,089.07 | $431.39 | $217.81
67312 | T | Revise two eye muscles | 0243 | 20.94 | $1,089.07 | $431.39 | $217.81
67314 | T | Revise eye muscle | 0243 | 20.94 | $1,089.07 | $431.39 | $217.81
67316 | T | Revise two eye muscles | 0243 | 20.94 | $1,089.07 | $431.39 | $217.81
67318 | T | Revise eye muscle(s) | 0243 | 20.94 | $1,089.07 | $431.39 | $217.81
67320 | T | Revise eye muscle(s) add-on | 0243 | 20.94 | $1,089.07 | $431.39 | $217.81
67331 | T | Eye surgery follow-up add-on | 0243 | 20.94 | $1,089.07 | $431.39 | $217.81
67332 | T | Rerevise eye muscles add-on | 0243 | 20.94 | $1,089.07 | $431.39 | $217.81
67334 | T | Revise eye muscle w/suture | 0243 | 20.94 | $1,089.07 | $431.39 | $217.81
67335 | T | Eye suture during surgery | 0243 | 20.94 | $1,089.07 | $431.39 | $217.81
67340 | T | Revise eye muscle add-on | 0243 | 20.94 | $1,089.07 | $431.39 | $217.81
67343 | T | Release eye tissue | 0243 | 20.94 | $1,089.07 | $431.39 | $217.81
67345 | T | Destroy nerve of eye muscle | 0238 | 3.04 | $158.11 | $58.96 | $31.62
67350 | T | Biopsy eye muscle | 0699 | 2.37 | $123.26 | $55.47 | $24.65
67399 | T | Eye muscle surgery procedure | 0243 | 20.94 | $1,089.07 | $431.39 | $217.81
67400 | T | Explore/biopsy eye socket | 0241 | 21.89 | $1,138.48 | $384.47 | $227.70
67405 | T | Explore/drain eye socket | 0241 | 21.89 | $1,138.48 | $384.47 | $227.70
67412 | T | Explore/treat eye socket | 0241 | 21.89 | $1,138.48 | $384.47 | $227.70
67413 | T | Explore/treat eye socket | 0241 | 21.89 | $1,138.48 | $384.47 | $227.70
67414 | T | Explr/decompress eye socket | 0242 | 28.87 | $1,501.50 | $597.36 | $300.30
67415 | T | Aspiration, orbital contents | 0239 | 6.91 | $359.38 | $115.94 | $71.88
67420 | T | Explore/treat eye socket | 0242 | 28.87 | $1,501.50 | $597.36 | $300.30
67430 | T | Explore/treat eye socket | 0242 | 28.87 | $1,501.50 | $597.36 | $300.30
67440 | T | Explore/drain eye socket | 0242 | 28.87 | $1,501.50 | $597.36 | $300.30
67445 | T | Explr/decompress eye socket | 0242 | 28.87 | $1,501.50 | $597.36 | $300.30
67450 | T | Explore/biopsy eye socket | 0242 | 28.87 | $1,501.50 | $597.36 | $300.30
67500 | S | Inject/treat eye socket | 0231 | 2.24 | $116.50 | $52.43 | $23.30
67505 | T | Inject/treat eye socket | 0238 | 3.04 | $158.11 | $58.96 | $31.62
67515 | T | Inject/treat eye socket | 0239 | 6.91 | $359.38 | $115.94 | $71.88
67550 | T | Insert eye socket implant | 0242 | 28.87 | $1,501.50 | $597.36 | $300.30
67560 | T | Revise eye socket implant | 0241 | 21.89 | $1,138.48 | $384.47 | $227.70
67570 | T | Decompress optic nerve | 0242 | 28.87 | $1,501.50 | $597.36 | $300.30
67599 | T | Orbit surgery procedure | 0239 | 6.91 | $359.38 | $115.94 | $71.88
67700 | T | Drainage of eyelid abscess | 0238 | 3.04 | $158.11 | $58.96 | $31.62
67710 | T | Incision of eyelid | 0239 | 6.91 | $359.38 | $115.94 | $71.88
67715 | T | Incision of eyelid fold | 0240 | 16.99 | $883.63 | $315.31 | $176.73
67800 | T | Remove eyelid lesion | 0238 | 3.04 | $158.11 | $58.96 | $31.62
67801 | T | Remove eyelid lesions | 0239 | 6.91 | $359.38 | $115.94 | $71.88
67805 | T | Remove eyelid lesions | 0238 | 3.04 | $158.11 | $58.96 | $31.62
67808 | T | Remove eyelid lesion(s) | 0240 | 16.99 | $883.63 | $315.31 | $176.73
67810 | T | Biopsy of eyelid | 0238 | 3.04 | $158.11 | $58.96 | $31.62
67820 | S | Revise eyelashes | 0230 | 0.78 | $40.57 | $15.82 | $8.11
67825 | T | Revise eyelashes | 0238 | 3.04 | $158.11 | $58.96 | $31.62
67830 | T | Revise eyelashes | 0239 | 6.91 | $359.38 | $115.94 | $71.88
67835 | T | Revise eyelashes | 0240 | 16.99 | $883.63 | $315.31 | $176.73
67840 | T | Remove eyelid lesion | 0239 | 6.91 | $359.38 | $115.94 | $71.88
67850 | T | Treat eyelid lesion | 0239 | 6.91 | $359.38 | $115.94 | $71.88
67875 | T | Closure of eyelid by suture | 0239 | 6.91 | $359.38 | $115.94 | $71.88
67880 | T | Revision of eyelid | 0233 | 13.43 | $698.48 | $266.33 | $139.70
67882 | T | Revision of eyelid | 0240 | 16.99 | $883.63 | $315.31 | $176.73
67900 | T | Repair brow defect | 0240 | 16.99 | $883.63 | $315.31 | $176.73
67901 | T | Repair eyelid defect | 0240 | 16.99 | $883.63 | $315.31 | $176.73
67902 | T | Repair eyelid defect | 0240 | 16.99 | $883.63 | $315.31 | $176.73
67903 | T | Repair eyelid defect | 0240 | 16.99 | $883.63 | $315.31 | $176.73
67904 | T | Repair eyelid defect | 0240 | 16.99 | $883.63 | $315.31 | $176.73
67906 | T | Repair eyelid defect | 0240 | 16.99 | $883.63 | $315.31 | $176.73
67908 | T | Repair eyelid defect | 0240 | 16.99 | $883.63 | $315.31 | $176.73
67909 | T | Revise eyelid defect | 0240 | 16.99 | $883.63 | $315.31 | $176.73
67911 | T | Revise eyelid defect | 0240 | 16.99 | $883.63 | $315.31 | $176.73
67914 | T | Repair eyelid defect | 0240 | 16.99 | $883.63 | $315.31 | $176.73
67915 | T | Repair eyelid defect | 0239 | 6.91 | $359.38 | $115.94 | $71.88
67916 | T | Repair eyelid defect | 0240 | 16.99 | $883.63 | $315.31 | $176.73
67917 | T | Repair eyelid defect | 0240 | 16.99 | $883.63 | $315.31 | $176.73
67921 | T | Repair eyelid defect | 0240 | 16.99 | $883.63 | $315.31 | $176.73
67922 | T | Repair eyelid defect | 0239 | 6.91 | $359.38 | $115.94 | $71.88
67923 | T | Repair eyelid defect | 0240 | 16.99 | $883.63 | $315.31 | $176.73
67924 | T | Repair eyelid defect | 0240 | 16.99 | $883.63 | $315.31 | $176.73
67930 | T | Repair eyelid wound | 0240 | 16.99 | $883.63 | $315.31 | $176.73
67935 | T | Repair eyelid wound | 0240 | 16.99 | $883.63 | $315.31 | $176.73
67938 | S | Remove eyelid foreign body | 0698 | 1.01 | $52.53 | $20.49 | $10.51
67950 | T | Revision of eyelid | 0240 | 16.99 | $883.63 | $315.31 | $176.73
67961 | T | Revision of eyelid | 0240 | 16.99 | $883.63 | $315.31 | $176.73
67966 | T | Revision of eyelid | 0240 | 16.99 | $883.63 | $315.31 | $176.73
67971 | T | Reconstruction of eyelid | 0241 | 21.89 | $1,138.48 | $384.47 | $227.70
67973 | T | Reconstruction of eyelid | 0241 | 21.89 | $1,138.48 | $384.47 | $227.70
67974 | T | Reconstruction of eyelid | 0241 | 21.89 | $1,138.48 | $384.47 | $227.70
67975 | T | Reconstruction of eyelid | 0240 | 16.99 | $883.63 | $315.31 | $176.73
67999 | T | Revision of eyelid | 0240 | 16.99 | $883.63 | $315.31 | $176.73
68020 | T | Incise/drain eyelid lining | 0240 | 16.99 | $883.63 | $315.31 | $176.73
68040 | S | Treatment of eyelid lesions | 0698 | 1.01 | $52.53 | $20.49 | $10.51
68100 | T | Biopsy of eyelid lining | 0232 | 4.91 | $255.36 | $112.36 | $51.07
68110 | T | Remove eyelid lining lesion | 0699 | 2.37 | $123.26 | $55.47 | $24.65
68115 | T | Remove eyelid lining lesion | 0239 | 6.91 | $359.38 | $115.94 | $71.88
68130 | T | Remove eyelid lining lesion | 0233 | 13.43 | $698.48 | $266.33 | $139.70
68135 | T | Remove eyelid lining lesion | 0239 | 6.91 | $359.38 | $115.94 | $71.88
68200 | S | Treat eyelid by injection | 0698 | 1.01 | $52.53 | $20.49 | $10.51
68320 | T | Revise/graft eyelid lining | 0240 | 16.99 | $883.63 | $315.31 | $176.73
68325 | T | Revise/graft eyelid lining | 0242 | 28.87 | $1,501.50 | $597.36 | $300.30
68326 | T | Revise/graft eyelid lining | 0241 | 21.89 | $1,138.48 | $384.47 | $227.70
68328 | T | Revise/graft eyelid lining | 0241 | 21.89 | $1,138.48 | $384.47 | $227.70
68330 | T | Revise eyelid lining | 0233 | 13.43 | $698.48 | $266.33 | $139.70
68335 | T | Revise/graft eyelid lining | 0241 | 21.89 | $1,138.48 | $384.47 | $227.70
68340 | T | Separate eyelid adhesions | 0240 | 16.99 | $883.63 | $315.31 | $176.73
68360 | T | Revise eyelid lining | 0234 | 21.45 | $1,115.59 | $535.48 | $223.12
68362 | T | Revise eyelid lining | 0234 | 21.45 | $1,115.59 | $535.48 | $223.12
68399 | T | Eyelid lining surgery | 0239 | 6.91 | $359.38 | $115.94 | $71.88
68400 | T | Incise/drain tear gland | 0238 | 3.04 | $158.11 | $58.96 | $31.62
68420 | T | Incise/drain tear sac | 0240 | 16.99 | $883.63 | $315.31 | $176.73
68440 | T | Incise tear duct opening | 0238 | 3.04 | $158.11 | $58.96 | $31.62
68500 | T | Removal of tear gland | 0241 | 21.89 | $1,138.48 | $384.47 | $227.70
68505 | T | Partial removal, tear gland | 0241 | 21.89 | $1,138.48 | $384.47 | $227.70
68510 | T | Biopsy of tear gland | 0240 | 16.99 | $883.63 | $315.31 | $176.73
68520 | T | Removal of tear sac | 0241 | 21.89 | $1,138.48 | $384.47 | $227.70
68525 | T | Biopsy of tear sac | 0240 | 16.99 | $883.63 | $315.31 | $176.73
68530 | T | Clearance of tear duct | 0240 | 16.99 | $883.63 | $315.31 | $176.73
68540 | T | Remove tear gland lesion | 0241 | 21.89 | $1,138.48 | $384.47 | $227.70
68550 | T | Remove tear gland lesion | 0242 | 28.87 | $1,501.50 | $597.36 | $300.30
68700 | T | Repair tear ducts | 0241 | 21.89 | $1,138.48 | $384.47 | $227.70
68705 | T | Revise tear duct opening | 0238 | 3.04 | $158.11 | $58.96 | $31.62
68720 | T | Create tear sac drain | 0242 | 28.87 | $1,501.50 | $597.36 | $300.30
68745 | T | Create tear duct drain | 0241 | 21.89 | $1,138.48 | $384.47 | $227.70
68750 | T | Create tear duct drain | 0242 | 28.87 | $1,501.50 | $597.36 | $300.30
68760 | S | Close tear duct opening | 0698 | 1.01 | $52.53 | $20.49 | $10.51
68761 | S | Close tear duct opening | 0231 | 2.24 | $116.50 | $52.43 | $23.30
68770 | T | Close tear system fistula | 0240 | 16.99 | $883.63 | $315.31 | $176.73
68801 | S | Dilate tear duct opening | 0231 | 2.24 | $116.50 | $52.43 | $23.30
68810 | T | Probe nasolacrimal duct | 0699 | 2.37 | $123.26 | $55.47 | $24.65
68811 | T | Probe nasolacrimal duct | 0240 | 16.99 | $883.63 | $315.31 | $176.73
68815 | T | Probe nasolacrimal duct | 0240 | 16.99 | $883.63 | $315.31 | $176.73
68840 | T | Explore/irrigate tear ducts | 0699 | 2.37 | $123.26 | $55.47 | $24.65
68850 | N | Injection for tear sac x-ray |  |  |  |  |
68899 | T | Tear duct system surgery | 0699 | 2.37 | $123.26 | $55.47 | $24.65
69000 | T | Drain external ear lesion | 0006 | 1.89 | $98.30 | $25.56 | $19.66
69005 | T | Drain external ear lesion | 0007 | 9.44 | $490.96 | $103.10 | $98.19
69020 | T | Drain outer ear canal lesion | 0006 | 1.89 | $98.30 | $25.56 | $19.66
69090 | E | Pierce earlobes |  |  |  |  |
69100 | T | Biopsy of external ear | 0019 | 3.94 | $204.92 | $75.82 | $40.98
69105 | T | Biopsy of external ear canal | 0253 | 14.79 | $769.21 | $284.61 | $153.84
69110 | T | Remove external ear, partial | 0021 | 14.58 | $758.29 | $227.49 | $151.66
69120 | T | Removal of external ear | 0254 | 21.89 | $1,138.48 | $352.93 | $227.70
69140 | T | Remove ear canal lesion(s) | 0254 | 21.89 | $1,138.48 | $352.93 | $227.70
69145 | T | Remove ear canal lesion(s) | 0021 | 14.58 | $758.29 | $227.49 | $151.66
69150 | T | Extensive ear canal surgery | 0252 | 6.27 | $326.10 | $114.24 | $65.22
69155 | C | Extensive ear/neck surgery |  |  |  |  |
69200 | X | Clear outer ear canal | 0340 | 0.66 | $34.33 |  | $6.87
69205 | T | Clear outer ear canal | 0022 | 18.10 | $941.36 | $367.13 | $188.27
69210 | X | Remove impacted ear wax | 0340 | 0.66 | $34.33 |  | $6.87
69220 | T | Clean out mastoid cavity | 0012 | 0.76 | $39.53 | $10.67 | $7.91
69222 | T | Clean out mastoid cavity | 0253 | 14.79 | $769.21 | $284.61 | $153.84
69300 | T | Revise external ear | 0254 | 21.89 | $1,138.48 | $352.93 | $227.70
69310 | T | Rebuild outer ear canal | 0256 | 35.51 | $1,846.84 |  | $369.37
69320 | T | Rebuild outer ear canal | 0256 | 35.51 | $1,846.84 |  | $369.37
69399 | T | Outer ear surgery procedure | 0251 | 1.92 | $99.86 |  | $19.97
69400 | T | Inflate middle ear canal | 0251 | 1.92 | $99.86 |  | $19.97
69401 | T | Inflate middle ear canal | 0251 | 1.92 | $99.86 |  | $19.97
69405 | T | Catheterize middle ear canal | 0252 | 6.27 | $326.10 | $114.24 | $65.22
69410 | T | Inset middle ear (baffle) | 0252 | 6.27 | $326.10 | $114.24 | $65.22
69420 | T | Incision of eardrum | 0251 | 1.92 | $99.86 |  | $19.97
69421 | T | Incision of eardrum | 0253 | 14.79 | $769.21 | $284.61 | $153.84
69424 | T | Remove ventilating tube | 0252 | 6.27 | $326.10 | $114.24 | $65.22
69433 | T | Create eardrum opening | 0252 | 6.27 | $326.10 | $114.24 | $65.22
69436 | T | Create eardrum opening | 0253 | 14.79 | $769.21 | $284.61 | $153.84
69440 | T | Exploration of middle ear | 0254 | 21.89 | $1,138.48 | $352.93 | $227.70
69450 | T | Eardrum revision | 0256 | 35.51 | $1,846.84 |  | $369.37
69501 | T | Mastoidectomy | 0256 | 35.51 | $1,846.84 |  | $369.37
69502 | T | Mastoidectomy | 0254 | 21.89 | $1,138.48 | $352.93 | $227.70
69505 | T | Remove mastoid structures | 0256 | 35.51 | $1,846.84 |  | $369.37
69511 | T | Extensive mastoid surgery | 0256 | 35.51 | $1,846.84 |  | $369.37
69530 | T | Extensive mastoid surgery | 0256 | 35.51 | $1,846.84 |  | $369.37
69535 | C | Remove part of temporal bone |  |  |  |  |
69540 | T | Remove ear lesion | 0253 | 14.79 | $769.21 | $284.61 | $153.84
69550 | T | Remove ear lesion | 0256 | 35.51 | $1,846.84 |  | $369.37
69552 | T | Remove ear lesion | 0256 | 35.51 | $1,846.84 |  | $369.37
69554 | C | Remove ear lesion |  |  |  |  |
69601 | T | Mastoid surgery revision | 0256 | 35.51 | $1,846.84 |  | $369.37
69602 | T | Mastoid surgery revision | 0256 | 35.51 | $1,846.84 |  | $369.37
69603 | T | Mastoid surgery revision | 0256 | 35.51 | $1,846.84 |  | $369.37
69604 | T | Mastoid surgery revision | 0256 | 35.51 | $1,846.84 |  | $369.37
69605 | T | Mastoid surgery revision | 0256 | 35.51 | $1,846.84 |  | $369.37
69610 | T | Repair of eardrum | 0254 | 21.89 | $1,138.48 | $352.93 | $227.70
69620 | T | Repair of eardrum | 0254 | 21.89 | $1,138.48 | $352.93 | $227.70
69631 | T | Repair eardrum structures | 0256 | 35.51 | $1,846.84 |  | $369.37
69632 | T | Rebuild eardrum structures | 0256 | 35.51 | $1,846.84 |  | $369.37
69633 | T | Rebuild eardrum structures | 0256 | 35.51 | $1,846.84 |  | $369.37
69635 | T | Repair eardrum structures | 0256 | 35.51 | $1,846.84 |  | $369.37
69636 | T | Rebuild eardrum structures | 0256 | 35.51 | $1,846.84 |  | $369.37
69637 | T | Rebuild eardrum structures | 0256 | 35.51 | $1,846.84 |  | $369.37
69641 | T | Revise middle ear & mastoid | 0256 | 35.51 | $1,846.84 |  | $369.37
69642 | T | Revise middle ear & mastoid | 0256 | 35.51 | $1,846.84 |  | $369.37
69643 | T | Revise middle ear & mastoid | 0256 | 35.51 | $1,846.84 |  | $369.37
69644 | T | Revise middle ear & mastoid | 0256 | 35.51 | $1,846.84 |  | $369.37
69645 | T | Revise middle ear & mastoid | 0256 | 35.51 | $1,846.84 |  | $369.37
69646 | T | Revise middle ear & mastoid | 0256 | 35.51 | $1,846.84 |  | $369.37
69650 | T | Release middle ear bone | 0254 | 21.89 | $1,138.48 | $352.93 | $227.70
69660 | T | Revise middle ear bone | 0256 | 35.51 | $1,846.84 |  | $369.37
69661 | T | Revise middle ear bone | 0256 | 35.51 | $1,846.84 |  | $369.37
69662 | T | Revise middle ear bone | 0256 | 35.51 | $1,846.84 |  | $369.37
69666 | T | Repair middle ear structures | 0256 | 35.51 | $1,846.84 |  | $369.37
69667 | T | Repair middle ear structures | 0256 | 35.51 | $1,846.84 |  | $369.37
69670 | T | Remove mastoid air cells | 0256 | 35.51 | $1,846.84 |  | $369.37
69676 | T | Remove middle ear nerve | 0256 | 35.51 | $1,846.84 |  | $369.37
69700 | T | Close mastoid fistula | 0256 | 35.51 | $1,846.84 |  | $369.37
69710 | E | Implant/replace hearing aid |  |  |  |  |
69711 | T | Remove/repair hearing aid | 0256 | 35.51 | $1,846.84 |  | $369.37
69714 | T | Implant temple bone w/stimul | 0256 | 35.51 | $1,846.84 |  | $369.37
69715 | T | Temple bne implnt w/stimulat | 0256 | 35.51 | $1,846.84 |  | $369.37
69717 | T | Temple bone implant revision | 0256 | 35.51 | $1,846.84 |  | $369.37
69718 | T | Revise temple bone implant | 0256 | 35.51 | $1,846.84 |  | $369.37
69720 | T | Release facial nerve | 0256 | 35.51 | $1,846.84 |  | $369.37
69725 | T | Release facial nerve | 0256 | 35.51 | $1,846.84 |  | $369.37
69740 | T | Repair facial nerve | 0256 | 35.51 | $1,846.84 |  | $369.37
69745 | T | Repair facial nerve | 0256 | 35.51 | $1,846.84 |  | $369.37
69799 | T | Middle ear surgery procedure | 0253 | 14.79 | $769.21 | $284.61 | $153.84
69801 | T | Incise inner ear | 0256 | 35.51 | $1,846.84 |  | $369.37
69802 | T | Incise inner ear | 0256 | 35.51 | $1,846.84 |  | $369.37
69805 | T | Explore inner ear | 0256 | 35.51 | $1,846.84 |  | $369.37
69806 | T | Explore inner ear | 0256 | 35.51 | $1,846.84 |  | $369.37
69820 | T | Establish inner ear window | 0256 | 35.51 | $1,846.84 |  | $369.37
69840 | T | Revise inner ear window | 0256 | 35.51 | $1,846.84 |  | $369.37
69905 | T | Remove inner ear | 0256 | 35.51 | $1,846.84 |  | $369.37
69910 | T | Remove inner ear & mastoid | 0256 | 35.51 | $1,846.84 |  | $369.37
69915 | T | Incise inner ear nerve | 0256 | 35.51 | $1,846.84 |  | $369.37
69930 | T | Implant cochlear device | 0259 | 291.05 | $15,137.22 | $7,417.24 | $3,027.44
69949 | T | Inner ear surgery procedure | 0253 | 14.79 | $769.21 | $284.61 | $153.84
69950 | C | Incise inner ear nerve |  |  |  |  |
69955 | T | Release facial nerve | 0256 | 35.51 | $1,846.84 |  | $369.37
69960 | T | Release inner ear canal | 0256 | 35.51 | $1,846.84 |  | $369.37
69970 | C | Remove inner ear lesion |  |  |  |  |
69979 | T | Temporal bone surgery | 0251 | 1.92 | $99.86 |  | $19.97
69990 | N | Microsurgery add-on |  |  |  |  |
70010 | S | Contrast x-ray of brain | 0274 | 3.21 | $166.95 | $80.14 | $33.39
70015 | S | Contrast x-ray of brain | 0274 | 3.21 | $166.95 | $80.14 | $33.39
70030 | X | X-ray eye for foreign body | 0260 | 0.81 | $42.13 | $23.17 | $8.43
70100 | X | X-ray exam of jaw | 0260 | 0.81 | $42.13 | $23.17 | $8.43
70110 | X | X-ray exam of jaw | 0260 | 0.81 | $42.13 | $23.17 | $8.43
70120 | X | X-ray exam of mastoids | 0260 | 0.81 | $42.13 | $23.17 | $8.43
70130 | X | X-ray exam of mastoids | 0260 | 0.81 | $42.13 | $23.17 | $8.43
70134 | X | X-ray exam of middle ear | 0261 | 1.37 | $71.25 | $34.15 | $14.25
70140 | X | X-ray exam of facial bones | 0260 | 0.81 | $42.13 | $23.17 | $8.43
70150 | X | X-ray exam of facial bones | 0260 | 0.81 | $42.13 | $23.17 | $8.43
70160 | X | X-ray exam of nasal bones | 0260 | 0.81 | $42.13 | $23.17 | $8.43
70170 | X | X-ray exam of tear duct | 0263 | 1.99 | $103.50 | $45.54 | $20.70
70190 | X | X-ray exam of eye sockets | 0260 | 0.81 | $42.13 | $23.17 | $8.43
70200 | X | X-ray exam of eye sockets | 0260 | 0.81 | $42.13 | $23.17 | $8.43
70210 | X | X-ray exam of sinuses | 0260 | 0.81 | $42.13 | $23.17 | $8.43
70220 | X | X-ray exam of sinuses | 0260 | 0.81 | $42.13 | $23.17 | $8.43
70240 | X | X-ray exam, pituitary saddle | 0260 | 0.81 | $42.13 | $23.17 | $8.43
70250 | X | X-ray exam of skull | 0260 | 0.81 | $42.13 | $23.17 | $8.43
70260 | X | X-ray exam of skull | 0261 | 1.37 | $71.25 | $34.15 | $14.25
70300 | X | X-ray exam of teeth | 0262 | 0.60 | $31.21 | $10.30 | $6.24
70310 | X | X-ray exam of teeth | 0262 | 0.60 | $31.21 | $10.30 | $6.24
70320 | X | Full mouth x-ray of teeth | 0262 | 0.60 | $31.21 | $10.30 | $6.24
70328 | X | X-ray exam of jaw joint | 0260 | 0.81 | $42.13 | $23.17 | $8.43
70330 | X | X-ray exam of jaw joints | 0260 | 0.81 | $42.13 | $23.17 | $8.43
70332 | S | X-ray exam of jaw joint | 0275 | 3.09 | $160.71 | $69.09 | $32.14
70336 | S | Magnetic image, jaw joint | 0335 | 6.46 | $335.98 | $151.46 | $67.20
70350 | X | X-ray head for orthodontia | 0260 | 0.81 | $42.13 | $23.17 | $8.43
70355 | X | Panoramic x-ray of jaws | 0260 | 0.81 | $42.13 | $23.17 | $8.43
70360 | X | X-ray exam of neck | 0260 | 0.81 | $42.13 | $23.17 | $8.43
70370 | X | Throat x-ray & fluoroscopy | 0272 | 1.38 | $71.77 | $38.64 | $14.35
70371 | X | Speech evaluation, complex | 0272 | 1.38 | $71.77 | $38.64 | $14.35
70373 | X | Contrast x-ray of larynx | 0263 | 1.99 | $103.50 | $45.54 | $20.70
70380 | X | X-ray exam of salivary gland | 0260 | 0.81 | $42.13 | $23.17 | $8.43
70390 | X | X-ray exam of salivary duct | 0264 | 2.75 | $143.02 | $77.23 | $28.60
70450 | S | Ct head/brain w/o dye | 0332 | 3.62 | $188.27 | $91.27 | $37.65
70460 | S | Ct head/brain w/dye | 0283 | 4.75 | $247.04 |  | $49.41
70470 | S | Ct head/brain w/o&w dye | 0333 | 5.69 | $295.93 | $146.98 | $59.19
70480 | S | Ct orbit/ear/fossa w/o dye | 0332 | 3.62 | $188.27 | $91.27 | $37.65
70481 | S | Ct orbit/ear/fossa w/dye | 0283 | 4.75 | $247.04 |  | $49.41
70482 | S | Ct orbit/ear/fossa w/o&w dye | 0333 | 5.69 | $295.93 | $146.98 | $59.19
70486 | S | Ct maxillofacial w/o dye | 0332 | 3.62 | $188.27 | $91.27 | $37.65
70487 | S | Ct maxillofacial w/dye | 0283 | 4.75 | $247.04 |  | $49.41
70488 | S | Ct maxillofacial w/o&w dye | 0333 | 5.69 | $295.93 | $146.98 | $59.19
70490 | S | Ct soft tissue neck w/o dye | 0332 | 3.62 | $188.27 | $91.27 | $37.65
70491 | S | Ct soft tissue neck w/dye | 0283 | 4.75 | $247.04 |  | $49.41
70492 | S | Ct sft tsue nck w/o & w/dye | 0333 | 5.69 | $295.93 | $146.98 | $59.19
70496 | S | Ct angiography, head | 0662 | 5.96 | $309.97 | $170.48 | $61.99
70498 | S | Ct angiography, neck | 0662 | 5.96 | $309.97 | $170.48 | $61.99
70540 | S | Mri orbit/face/neck w/o dye | 0336 | 7.01 | $364.58 | $176.94 | $72.92
70542 | S | Mri orbit/face/neck w/dye | 0284 | 7.74 | $402.55 | $201.02 | $80.51
70543 | S | Mri orbt/fac/nck w/o&w dye | 0337 | 9.86 | $512.81 | $240.77 | $102.56
70544 | S | Mr angiography head w/o dye | 0336 | 7.01 | $364.58 | $176.94 | $72.92
70545 | S | Mr angiography head w/dye | 0284 | 7.74 | $402.55 | $201.02 | $80.51
70546 | S | Mr angiograph head w/o&w dye | 0337 | 9.86 | $512.81 | $240.77 | $102.56
70547 | S | Mr angiography neck w/o dye | 0336 | 7.01 | $364.58 | $176.94 | $72.92
70548 | S | Mr angiography neck w/dye | 0284 | 7.74 | $402.55 | $201.02 | $80.51
70549 | S | Mr angiograph neck w/o&w dye | 0337 | 9.86 | $512.81 | $240.77 | $102.56
70551 | S | Mri brain w/o dye | 0336 | 7.01 | $364.58 | $176.94 | $72.92
70552 | S | Mri brain w/dye | 0284 | 7.74 | $402.55 | $201.02 | $80.51
70553 | S | Mri brain w/o&w dye | 0337 | 9.86 | $512.81 | $240.77 | $102.56
71010 | X | Chest x-ray | 0260 | 0.81 | $42.13 | $23.17 | $8.43
71015 | X | Chest x-ray | 0260 | 0.81 | $42.13 | $23.17 | $8.43
71020 | X | Chest x-ray | 0260 | 0.81 | $42.13 | $23.17 | $8.43
71021 | X | Chest x-ray | 0260 | 0.81 | $42.13 | $23.17 | $8.43
71022 | X | Chest x-ray | 0260 | 0.81 | $42.13 | $23.17 | $8.43
71023 | X | Chest x-ray and fluoroscopy | 0272 | 1.38 | $71.77 | $38.64 | $14.35
71030 | X | Chest x-ray | 0260 | 0.81 | $42.13 | $23.17 | $8.43
71034 | X | Chest x-ray and fluoroscopy | 0272 | 1.38 | $71.77 | $38.64 | $14.35
71035 | X | Chest x-ray | 0260 | 0.81 | $42.13 | $23.17 | $8.43
71040 | X | Contrast x-ray of bronchi | 0263 | 1.99 | $103.50 | $45.54 | $20.70
71060 | X | Contrast x-ray of bronchi | 0264 | 2.75 | $143.02 | $77.23 | $28.60
71090 | X | X-ray & pacemaker insertion | 0272 | 1.38 | $71.77 | $38.64 | $14.35
71100 | X | X-ray exam of ribs | 0260 | 0.81 | $42.13 | $23.17 | $8.43
71101 | X | X-ray exam of ribs/chest | 0260 | 0.81 | $42.13 | $23.17 | $8.43
71110 | X | X-ray exam of ribs | 0260 | 0.81 | $42.13 | $23.17 | $8.43
71111 | X | X-ray exam of ribs/ chest | 0261 | 1.37 | $71.25 | $34.15 | $14.25
71120 | X | X-ray exam of breastbone | 0260 | 0.81 | $42.13 | $23.17 | $8.43
71130 | X | X-ray exam of breastbone | 0260 | 0.81 | $42.13 | $23.17 | $8.43
71250 | S | Ct thorax w/o dye | 0332 | 3.62 | $188.27 | $91.27 | $37.65
71260 | S | Ct thorax w/dye | 0283 | 4.75 | $247.04 |  | $49.41
71270 | S | Ct thorax w/o&w dye | 0333 | 5.69 | $295.93 | $146.98 | $59.19
71275 | S | Ct angiography, chest | 0662 | 5.96 | $309.97 | $170.48 | $61.99
71550 | S | Mri chest w/o dye | 0336 | 7.01 | $364.58 | $176.94 | $72.92
71551 | S | Mri chest w/dye | 0284 | 7.74 | $402.55 | $201.02 | $80.51
71552 | S | Mri chest w/o&w dye | 0337 | 9.86 | $512.81 | $240.77 | $102.56
71555 | E | Mri angio chest w or w/o dye |  |  |  |  |
72010 | X | X-ray exam of spine | 0261 | 1.37 | $71.25 | $34.15 | $14.25
72020 | X | X-ray exam of spine | 0260 | 0.81 | $42.13 | $23.17 | $8.43
72040 | X | X-ray exam of neck spine | 0260 | 0.81 | $42.13 | $23.17 | $8.43
72050 | X | X-ray exam of neck spine | 0261 | 1.37 | $71.25 | $34.15 | $14.25
72052 | X | X-ray exam of neck spine | 0261 | 1.37 | $71.25 | $34.15 | $14.25
72069 | X | X-ray exam of trunk spine | 0260 | 0.81 | $42.13 | $23.17 | $8.43
72070 | X | X-ray exam of thoracic spine | 0260 | 0.81 | $42.13 | $23.17 | $8.43
72072 | X | X-ray exam of thoracic spine | 0260 | 0.81 | $42.13 | $23.17 | $8.43
72074 | X | X-ray exam of thoracic spine | 0260 | 0.81 | $42.13 | $23.17 | $8.43
72080 | X | X-ray exam of trunk spine | 0260 | 0.81 | $42.13 | $23.17 | $8.43
72090 | X | X-ray exam of trunk spine | 0261 | 1.37 | $71.25 | $34.15 | $14.25
72100 | X | X-ray exam of lower spine | 0260 | 0.81 | $42.13 | $23.17 | $8.43
72110 | X | X-ray exam of lower spine | 0261 | 1.37 | $71.25 | $34.15 | $14.25
72114 | X | X-ray exam of lower spine | 0261 | 1.37 | $71.25 | $34.15 | $14.25
72120 | X | X-ray exam of lower spine | 0260 | 0.81 | $42.13 | $23.17 | $8.43
72125 | S | Ct neck spine w/o dye | 0332 | 3.62 | $188.27 | $91.27 | $37.65
72126 | S | Ct neck spine w/dye | 0283 | 4.75 | $247.04 |  | $49.41
72127 | S | Ct neck spine w/o&w dye | 0333 | 5.69 | $295.93 | $146.98 | $59.19
72128 | S | Ct chest spine w/o dye | 0332 | 3.62 | $188.27 | $91.27 | $37.65
72129 | S | Ct chest spine w/dye | 0283 | 4.75 | $247.04 |  | $49.41
72130 | S | Ct chest spine w/o&w dye | 0333 | 5.69 | $295.93 | $146.98 | $59.19
72131 | S | Ct lumbar spine w/o dye | 0332 | 3.62 | $188.27 | $91.27 | $37.65
72132 | S | Ct lumbar spine w/dye | 0283 | 4.75 | $247.04 |  | $49.41
72133 | S | Ct lumbar spine w/o&w dye | 0333 | 5.69 | $295.93 | $146.98 | $59.19
72141 | S | Mri neck spine w/o dye | 0336 | 7.01 | $364.58 | $176.94 | $72.92
72142 | S | Mri neck spine w/dye | 0284 | 7.74 | $402.55 | $201.02 | $80.51
72146 | S | Mri chest spine w/o dye | 0336 | 7.01 | $364.58 | $176.94 | $72.92
72147 | S | Mri chest spine w/dye | 0284 | 7.74 | $402.55 | $201.02 | $80.51
72148 | S | Mri lumbar spine w/o dye | 0336 | 7.01 | $364.58 | $176.94 | $72.92
72149 | S | Mri lumbar spine w/dye | 0284 | 7.74 | $402.55 | $201.02 | $80.51
72156 | S | Mri neck spine w/o&w dye | 0337 | 9.86 | $512.81 | $240.77 | $102.56
72157 | S | Mri chest spine w/o&w dye | 0337 | 9.86 | $512.81 | $240.77 | $102.56
72158 | S | Mri lumbar spine w/o&w dye | 0337 | 9.86 | $512.81 | $240.77 | $102.56
72159 | E | Mr angio spine w/o&w dye |  |  |  |  |
72170 | X | X-ray exam of pelvis | 0260 | 0.81 | $42.13 | $23.17 | $8.43
72190 | X | X-ray exam of pelvis | 0260 | 0.81 | $42.13 | $23.17 | $8.43
72191 | S | Ct angiograph pelv w/o&w dye | 0662 | 5.96 | $309.97 | $170.48 | $61.99
72192 | S | Ct pelvis w/o dye | 0332 | 3.62 | $188.27 | $91.27 | $37.65
72193 | S | Ct pelvis w/dye | 0283 | 4.75 | $247.04 |  | $49.41
72194 | S | Ct pelvis w/o&w dye | 0333 | 5.69 | $295.93 | $146.98 | $59.19
72195 | S | Mri pelvis w/o dye | 0336 | 7.01 | $364.58 | $176.94 | $72.92
72196 | S | Mri pelvis w/dye | 0284 | 7.74 | $402.55 | $201.02 | $80.51
72197 | S | Mri pelvis w/o & w dye | 0337 | 9.86 | $512.81 | $240.77 | $102.56
72198 | E | Mr angio pelvis w/o&w dye |  |  |  |  |
72200 | X | X-ray exam sacroiliac joints | 0260 | 0.81 | $42.13 | $23.17 | $8.43
72202 | X | X-ray exam sacroiliac joints | 0260 | 0.81 | $42.13 | $23.17 | $8.43
72220 | X | X-ray exam of tailbone | 0260 | 0.81 | $42.13 | $23.17 | $8.43
72240 | S | Contrast x-ray of neck spine | 0274 | 3.21 | $166.95 | $80.14 | $33.39
72255 | S | Contrast x-ray, thorax spine | 0274 | 3.21 | $166.95 | $80.14 | $33.39
72265 | S | Contrast x-ray, lower spine | 0274 | 3.21 | $166.95 | $80.14 | $33.39
72270 | S | Contrast x-ray of spine | 0274 | 3.21 | $166.95 | $80.14 | $33.39
72275 | S | Epidurography | 0274 | 3.21 | $166.95 | $80.14 | $33.39
72285 | S | X-ray c/t spine disk | 0274 | 3.21 | $166.95 | $80.14 | $33.39
72295 | S | X-ray of lower spine disk | 0274 | 3.21 | $166.95 | $80.14 | $33.39
73000 | X | X-ray exam of collar bone | 0260 | 0.81 | $42.13 | $23.17 | $8.43
73010 | X | X-ray exam of shoulder blade | 0260 | 0.81 | $42.13 | $23.17 | $8.43
73020 | X | X-ray exam of shoulder | 0260 | 0.81 | $42.13 | $23.17 | $8.43
73030 | X | X-ray exam of shoulder | 0260 | 0.81 | $42.13 | $23.17 | $8.43
73040 | S | Contrast x-ray of shoulder | 0275 | 3.09 | $160.71 | $69.09 | $32.14
73050 | X | X-ray exam of shoulders | 0260 | 0.81 | $42.13 | $23.17 | $8.43
73060 | X | X-ray exam of humerus | 0260 | 0.81 | $42.13 | $23.17 | $8.43
73070 | X | X-ray exam of elbow | 0260 | 0.81 | $42.13 | $23.17 | $8.43
73080 | X | X-ray exam of elbow | 0260 | 0.81 | $42.13 | $23.17 | $8.43
73085 | S | Contrast x-ray of elbow | 0275 | 3.09 | $160.71 | $69.09 | $32.14
73090 | X | X-ray exam of forearm | 0260 | 0.81 | $42.13 | $23.17 | $8.43
73092 | X | X-ray exam of arm, infant | 0260 | 0.81 | $42.13 | $23.17 | $8.43
73100 | X | X-ray exam of wrist | 0260 | 0.81 | $42.13 | $23.17 | $8.43
73110 | X | X-ray exam of wrist | 0260 | 0.81 | $42.13 | $23.17 | $8.43
73115 | S | Contrast x-ray of wrist | 0275 | 3.09 | $160.71 | $69.09 | $32.14
73120 | X | X-ray exam of hand | 0260 | 0.81 | $42.13 | $23.17 | $8.43
73130 | X | X-ray exam of hand | 0260 | 0.81 | $42.13 | $23.17 | $8.43
73140 | X | X-ray exam of finger(s) | 0260 | 0.81 | $42.13 | $23.17 | $8.43
73200 | S | Ct upper extremity w/o dye | 0332 | 3.62 | $188.27 | $91.27 | $37.65
73201 | S | Ct upper extremity w/dye | 0283 | 4.75 | $247.04 |  | $49.41
73202 | S | Ct uppr extremity w/o&w dye | 0333 | 5.69 | $295.93 | $146.98 | $59.19
73206 | S | Ct angio upr extrm w/o&w dye | 0662 | 5.96 | $309.97 | $170.48 | $61.99
73218 | S | Mri upper extremity w/o dye | 0336 | 7.01 | $364.58 | $176.94 | $72.92
73219 | S | Mri upper extremity w/dye | 0284 | 7.74 | $402.55 | $201.02 | $80.51
73220 | S | Mri uppr extremity w/o&w dye | 0337 | 9.86 | $512.81 | $240.77 | $102.56
73221 | S | Mri joint upr extrem w/o dye | 0336 | 7.01 | $364.58 | $176.94 | $72.92
73222 | S | Mri joint upr extrem w/ dye | 0284 | 7.74 | $402.55 | $201.02 | $80.51
73223 | S | Mri joint upr extr w/o&w dye | 0337 | 9.86 | $512.81 | $240.77 | $102.56
73225 | E | Mr angio upr extr w/o&w dye |  |  |  |  |
73500 | X | X-ray exam of hip | 0260 | 0.81 | $42.13 | $23.17 | $8.43
73510 | X | X-ray exam of hip | 0260 | 0.81 | $42.13 | $23.17 | $8.43
73520 | X | X-ray exam of hips | 0260 | 0.81 | $42.13 | $23.17 | $8.43
73525 | S | Contrast x-ray of hip | 0275 | 3.09 | $160.71 | $69.09 | $32.14
73530 | X | X-ray exam of hip | 0261 | 1.37 | $71.25 | $34.15 | $14.25
73540 | X | X-ray exam of pelvis & hips | 0260 | 0.81 | $42.13 | $23.17 | $8.43
73542 | S | X-ray exam, sacroiliac joint | 0275 | 3.09 | $160.71 | $69.09 | $32.14
73550 | X | X-ray exam of thigh | 0260 | 0.81 | $42.13 | $23.17 | $8.43
73560 | X | X-ray exam of knee, 1 or 2 | 0260 | 0.81 | $42.13 | $23.17 | $8.43
73562 | X | X-ray exam of knee, 3 | 0260 | 0.81 | $42.13 | $23.17 | $8.43
73564 | X | X-ray exam, knee, 4 or more | 0260 | 0.81 | $42.13 | $23.17 | $8.43
73565 | X | X-ray exam of knees | 0260 | 0.81 | $42.13 | $23.17 | $8.43
73580 | S | Contrast x-ray of knee joint | 0275 | 3.09 | $160.71 | $69.09 | $32.14
73590 | X | X-ray exam of lower leg | 0260 | 0.81 | $42.13 | $23.17 | $8.43
73592 | X | X-ray exam of leg, infant | 0260 | 0.81 | $42.13 | $23.17 | $8.43
73600 | X | X-ray exam of ankle | 0260 | 0.81 | $42.13 | $23.17 | $8.43
73610 | X | X-ray exam of ankle | 0260 | 0.81 | $42.13 | $23.17 | $8.43
73615 | S | Contrast x-ray of ankle | 0275 | 3.09 | $160.71 | $69.09 | $32.14
73620 | X | X-ray exam of foot | 0260 | 0.81 | $42.13 | $23.17 | $8.43
73630 | X | X-ray exam of foot | 0260 | 0.81 | $42.13 | $23.17 | $8.43
73650 | X | X-ray exam of heel | 0260 | 0.81 | $42.13 | $23.17 | $8.43
73660 | X | X-ray exam of toe(s) | 0260 | 0.81 | $42.13 | $23.17 | $8.43
73700 | S | Ct lower extremity w/o dye | 0332 | 3.62 | $188.27 | $91.27 | $37.65
73701 | S | Ct lower extremity w/dye | 0283 | 4.75 | $247.04 |  | $49.41
73702 | S | Ct lwr extremity w/o&w dye | 0333 | 5.69 | $295.93 | $146.98 | $59.19
73706 | S | Ct angio lwr extr w/o&w dye | 0662 | 5.96 | $309.97 | $170.48 | $61.99
73718 | S | Mri lower extremity w/o dye | 0336 | 7.01 | $364.58 | $176.94 | $72.92
73719 | S | Mri lower extremity w/dye | 0284 | 7.74 | $402.55 | $201.02 | $80.51
73720 | S | Mri lwr extremity w/o&w dye | 0337 | 9.86 | $512.81 | $240.77 | $102.56
73721 | S | Mri joint of lwr extre w/o d | 0336 | 7.01 | $364.58 | $176.94 | $72.92
73722 | S | Mri joint of lwr extr w/dye | 0284 | 7.74 | $402.55 | $201.02 | $80.51
73723 | S | Mri joint lwr extr w/o&w dye | 0337 | 9.86 | $512.81 | $240.77 | $102.56
73725 | E | Mr ang lwr ext w or w/o dye |  |  |  |  |
74000 | X | X-ray exam of abdomen | 0260 | 0.81 | $42.13 | $23.17 | $8.43
74010 | X | X-ray exam of abdomen | 0260 | 0.81 | $42.13 | $23.17 | $8.43
74020 | X | X-ray exam of abdomen | 0260 | 0.81 | $42.13 | $23.17 | $8.43
74022 | X | X-ray exam series, abdomen | 0261 | 1.37 | $71.25 | $34.15 | $14.25
74150 | S | Ct abdomen w/o dye | 0332 | 3.62 | $188.27 | $91.27 | $37.65
74160 | S | Ct abdomen w/dye | 0283 | 4.75 | $247.04 |  | $49.41
74170 | S | Ct abdomen w/o&w dye | 0333 | 5.69 | $295.93 | $146.98 | $59.19
74175 | S | Ct angio abdom w/o&w dye | 0662 | 5.96 | $309.97 | $170.48 | $61.99
74181 | S | Mri abdomen w/o dye | 0336 | 7.01 | $364.58 | $176.94 | $72.92
74182 | S | Mri abdomen w/dye | 0284 | 7.74 | $402.55 | $201.02 | $80.51
74183 | S | Mri abdomen w/o&w dye | 0337 | 9.86 | $512.81 | $240.77 | $102.56
74185 | E | Mri angio, abdom w or w/o dy |  |  |  |  |
74190 | X | X-ray exam of peritoneum | 0263 | 1.99 | $103.50 | $45.54 | $20.70
74210 | S | Contrst x-ray exam of throat | 0276 | 1.69 | $87.90 | $41.72 | $17.58
74220 | S | Contrast x-ray, esophagus | 0276 | 1.69 | $87.90 | $41.72 | $17.58
74230 | S | Cine/video x-ray, throat/eso | 0276 | 1.69 | $87.90 | $41.72 | $17.58
74235 | S | Remove esophagus obstruction | 0296 | 2.12 | $110.26 | $52.92 | $22.05
74240 | S | X-ray exam, upper gi tract | 0276 | 1.69 | $87.90 | $41.72 | $17.58
74241 | S | X-ray exam, upper gi tract | 0276 | 1.69 | $87.90 | $41.72 | $17.58
74245 | S | X-ray exam, upper gi tract | 0277 | 2.50 | $130.02 | $60.47 | $26.00
74246 | S | Contrst x-ray uppr gi tract | 0276 | 1.69 | $87.90 | $41.72 | $17.58
74247 | S | Contrst x-ray uppr gi tract | 0276 | 1.69 | $87.90 | $41.72 | $17.58
74249 | S | Contrst x-ray uppr gi tract | 0277 | 2.50 | $130.02 | $60.47 | $26.00
74250 | S | X-ray exam of small bowel | 0276 | 1.69 | $87.90 | $41.72 | $17.58
74251 | S | X-ray exam of small bowel | 0277 | 2.50 | $130.02 | $60.47 | $26.00
74260 | S | X-ray exam of small bowel | 0277 | 2.50 | $130.02 | $60.47 | $26.00
74270 | S | Contrast x-ray exam of colon | 0276 | 1.69 | $87.90 | $41.72 | $17.58
74280 | S | Contrast x-ray exam of colon | 0277 | 2.50 | $130.02 | $60.47 | $26.00
74283 | S | Contrast x-ray exam of colon | 0276 | 1.69 | $87.90 | $41.72 | $17.58
74290 | S | Contrast x-ray, gallbladder | 0276 | 1.69 | $87.90 | $41.72 | $17.58
74291 | S | Contrast x-rays, gallbladder | 0276 | 1.69 | $87.90 | $41.72 | $17.58
74300 | X | X-ray bile ducts/pancreas | 0263 | 1.99 | $103.50 | $45.54 | $20.70
74301 | X | X-rays at surgery add-on | 0263 | 1.99 | $103.50 | $45.54 | $20.70
74305 | X | X-ray bile ducts/pancreas | 0263 | 1.99 | $103.50 | $45.54 | $20.70
74320 | X | Contrast x-ray of bile ducts | 0264 | 2.75 | $143.02 | $77.23 | $28.60
74327 | S | X-ray bile stone removal | 0296 | 2.12 | $110.26 | $52.92 | $22.05
74328 | N | Xray bile duct endoscopy |  |  |  |  |
74329 | N | X-ray for pancreas endoscopy |  |  |  |  |
74330 | N | X-ray bile/panc endoscopy |  |  |  |  |
74340 | X | X-ray guide for GI tube | 0272 | 1.38 | $71.77 | $38.64 | $14.35
74350 | X | X-ray guide, stomach tube | 0263 | 1.99 | $103.50 | $45.54 | $20.70
74355 | X | X-ray guide, intestinal tube | 0263 | 1.99 | $103.50 | $45.54 | $20.70
74360 | S | X-ray guide, GI dilation | 0296 | 2.12 | $110.26 | $52.92 | $22.05
74363 | S | X-ray, bile duct dilation | 0297 | 7.80 | $405.67 | $172.51 | $81.13
74400 | S | Contrst x-ray, urinary tract | 0278 | 2.65 | $137.82 | $66.07 | $27.56
74410 | S | Contrst x-ray, urinary tract | 0278 | 2.65 | $137.82 | $66.07 | $27.56
74415 | S | Contrst x-ray, urinary tract | 0278 | 2.65 | $137.82 | $66.07 | $27.56
74420 | S | Contrst x-ray, urinary tract | 0278 | 2.65 | $137.82 | $66.07 | $27.56
74425 | S | Contrst x-ray, urinary tract | 0278 | 2.65 | $137.82 | $66.07 | $27.56
74430 | S | Contrast x-ray, bladder | 0278 | 2.65 | $137.82 | $66.07 | $27.56
74440 | S | X-ray, male genital tract | 0278 | 2.65 | $137.82 | $66.07 | $27.56
74445 | S | X-ray exam of penis | 0278 | 2.65 | $137.82 | $66.07 | $27.56
74450 | S | X-ray, urethra/bladder | 0278 | 2.65 | $137.82 | $66.07 | $27.56
74455 | S | X-ray, urethra/bladder | 0278 | 2.65 | $137.82 | $66.07 | $27.56
74470 | X | X-ray exam of kidney lesion | 0264 | 2.75 | $143.02 | $77.23 | $28.60
74475 | S | X-ray control, cath insert | 0297 | 7.80 | $405.67 | $172.51 | $81.13
74480 | S | X-ray control, cath insert | 0296 | 2.12 | $110.26 | $52.92 | $22.05
74485 | S | X-ray guide, GU dilation | 0296 | 2.12 | $110.26 | $52.92 | $22.05
74710 | X | X-ray measurement of pelvis | 0260 | 0.81 | $42.13 | $23.17 | $8.43
74740 | X | X-ray, female genital tract | 0264 | 2.75 | $143.02 | $77.23 | $28.60
74742 | X | X-ray, fallopian tube | 0263 | 1.99 | $103.50 | $45.54 | $20.70
74775 | S | X-ray exam of perineum | 0278 | 2.65 | $137.82 | $66.07 | $27.56
75552 | S | Heart mri for morph w/o dye | 0336 | 7.01 | $364.58 | $176.94 | $72.92
75553 | S | Heart mri for morph w/dye | 0284 | 7.74 | $402.55 | $201.02 | $80.51
75554 | S | Cardiac MRI/function | 0335 | 6.46 | $335.98 | $151.46 | $67.20
75555 | S | Cardiac MRI/limited study | 0335 | 6.46 | $335.98 | $151.46 | $67.20
75556 | E | Cardiac MRI/flow mapping |  |  |  |  |
75600 | S | Contrast x-ray exam of aorta | 0280 | 15.51 | $806.66 | $353.85 | $161.33
75605 | S | Contrast x-ray exam of aorta | 0280 | 15.51 | $806.66 | $353.85 | $161.33
75625 | S | Contrast x-ray exam of aorta | 0280 | 15.51 | $806.66 | $353.85 | $161.33
75630 | S | X-ray aorta, leg arteries | 0280 | 15.51 | $806.66 | $353.85 | $161.33
75635 | S | Ct angio abdominal arteries | 0662 | 5.96 | $309.97 | $170.48 | $61.99
75650 | S | Artery x-rays, head & neck | 0280 | 15.51 | $806.66 | $353.85 | $161.33
75658 | S | Artery x-rays, arm | 0280 | 15.51 | $806.66 | $353.85 | $161.33
75660 | S | Artery x-rays, head & neck | 0279 | 8.41 | $437.40 | $174.57 | $87.48
75662 | S | Artery x-rays, head & neck | 0279 | 8.41 | $437.40 | $174.57 | $87.48
75665 | S | Artery x-rays, head & neck | 0280 | 15.51 | $806.66 | $353.85 | $161.33
75671 | S | Artery x-rays, head & neck | 0280 | 15.51 | $806.66 | $353.85 | $161.33
75676 | S | Artery x-rays, neck | 0280 | 15.51 | $806.66 | $353.85 | $161.33
75680 | S | Artery x-rays, neck | 0280 | 15.51 | $806.66 | $353.85 | $161.33
75685 | S | Artery x-rays, spine | 0279 | 8.41 | $437.40 | $174.57 | $87.48
75705 | S | Artery x-rays, spine | 0279 | 8.41 | $437.40 | $174.57 | $87.48
75710 | S | Artery x-rays, arm/leg | 0280 | 15.51 | $806.66 | $353.85 | $161.33
75716 | S | Artery x-rays, arms/legs | 0280 | 15.51 | $806.66 | $353.85 | $161.33
75722 | S | Artery x-rays, kidney | 0280 | 15.51 | $806.66 | $353.85 | $161.33
75724 | S | Artery x-rays, kidneys | 0280 | 15.51 | $806.66 | $353.85 | $161.33
75726 | S | Artery x-rays, abdomen | 0280 | 15.51 | $806.66 | $353.85 | $161.33
75731 | S | Artery x-rays, adrenal gland | 0280 | 15.51 | $806.66 | $353.85 | $161.33
75733 | S | Artery x-rays, adrenals | 0280 | 15.51 | $806.66 | $353.85 | $161.33
75736 | S | Artery x-rays, pelvis | 0280 | 15.51 | $806.66 | $353.85 | $161.33
75741 | S | Artery x-rays, lung | 0279 | 8.41 | $437.40 | $174.57 | $87.48
75743 | S | Artery x-rays, lungs | 0280 | 15.51 | $806.66 | $353.85 | $161.33
75746 | S | Artery x-rays, lung | 0279 | 8.41 | $437.40 | $174.57 | $87.48
75756 | S | Artery x-rays, chest | 0279 | 8.41 | $437.40 | $174.57 | $87.48
75774 | S | Artery x-ray, each vessel | 0668 | 5.36 | $278.77 | $122.66 | $55.75
75790 | S | Visualize A-V shunt | 0281 | 5.23 | $272.01 | $115.16 | $54.40
75801 | X | Lymph vessel x-ray, arm/leg | 0264 | 2.75 | $143.02 | $77.23 | $28.60
75803 | X | Lymph vessel x-ray,arms/legs | 0264 | 2.75 | $143.02 | $77.23 | $28.60
75805 | X | Lymph vessel x-ray, trunk | 0264 | 2.75 | $143.02 | $77.23 | $28.60
75807 | X | Lymph vessel x-ray, trunk | 0264 | 2.75 | $143.02 | $77.23 | $28.60
75809 | X | Nonvascular shunt, x-ray | 0263 | 1.99 | $103.50 | $45.54 | $20.70
75810 | S | Vein x-ray, spleen/liver | 0279 | 8.41 | $437.40 | $174.57 | $87.48
75820 | S | Vein x-ray, arm/leg | 0281 | 5.23 | $272.01 | $115.16 | $54.40
75822 | S | Vein x-ray, arms/legs | 0281 | 5.23 | $272.01 | $115.16 | $54.40
75825 | S | Vein x-ray, trunk | 0279 | 8.41 | $437.40 | $174.57 | $87.48
75827 | S | Vein x-ray, chest | 0279 | 8.41 | $437.40 | $174.57 | $87.48
75831 | S | Vein x-ray, kidney | 0287 | 7.13 | $370.82 | $114.51 | $74.16
75833 | S | Vein x-ray, kidneys | 0279 | 8.41 | $437.40 | $174.57 | $87.48
75840 | S | Vein x-ray, adrenal gland | 0287 | 7.13 | $370.82 | $114.51 | $74.16
75842 | S | Vein x-ray, adrenal glands | 0287 | 7.13 | $370.82 | $114.51 | $74.16
75860 | S | Vein x-ray, neck | 0287 | 7.13 | $370.82 | $114.51 | $74.16
75870 | S | Vein x-ray, skull | 0287 | 7.13 | $370.82 | $114.51 | $74.16
75872 | S | Vein x-ray, skull | 0287 | 7.13 | $370.82 | $114.51 | $74.16
75880 | S | Vein x-ray, eye socket | 0287 | 7.13 | $370.82 | $114.51 | $74.16
75885 | S | Vein x-ray, liver | 0279 | 8.41 | $437.40 | $174.57 | $87.48
75887 | S | Vein x-ray, liver | 0280 | 15.51 | $806.66 | $353.85 | $161.33
75889 | S | Vein x-ray, liver | 0279 | 8.41 | $437.40 | $174.57 | $87.48
75891 | S | Vein x-ray, liver | 0279 | 8.41 | $437.40 | $174.57 | $87.48
75893 | N | Venous sampling by catheter |  |  |  |  |
75894 | S | X-rays, transcath therapy | 0297 | 7.80 | $405.67 | $172.51 | $81.13
75896 | S | X-rays, transcath therapy | 0297 | 7.80 | $405.67 | $172.51 | $81.13
75898 | X | Follow-up angiography | 0264 | 2.75 | $143.02 | $77.23 | $28.60
75900 | C | Arterial catheter exchange |  |  |  |  |
75940 | X | X-ray placement, vein filter | 0187 | 4.19 | $217.92 | $94.96 | $43.58
75945 | S | Intravascular us | 0267 | 2.58 | $134.18 | $65.52 | $26.84
75946 | S | Intravascular us add-on | 0267 | 2.58 | $134.18 | $65.52 | $26.84
75952 | C | Endovasc repair abdom aorta |  |  |  |  |
75953 | C | Abdom aneurysm endovas rpr |  |  |  |  |
75960 | S | Transcatheter intro, stent | 0280 | 15.51 | $806.66 | $353.85 | $161.33
75961 | S | Retrieval, broken catheter | 0280 | 15.51 | $806.66 | $353.85 | $161.33
75962 | S | Repair arterial blockage | 0280 | 15.51 | $806.66 | $353.85 | $161.33
75964 | S | Repair artery blockage, each | 0280 | 15.51 | $806.66 | $353.85 | $161.33
75966 | S | Repair arterial blockage | 0280 | 15.51 | $806.66 | $353.85 | $161.33
75968 | S | Repair artery blockage, each | 0280 | 15.51 | $806.66 | $353.85 | $161.33
75970 | S | Vascular biopsy | 0280 | 15.51 | $806.66 | $353.85 | $161.33
75978 | S | Repair venous blockage | 0668 | 5.36 | $278.77 | $122.66 | $55.75
75980 | S | Contrast xray exam bile duct | 0296 | 2.12 | $110.26 | $52.92 | $22.05
75982 | S | Contrast xray exam bile duct | 0297 | 7.80 | $405.67 | $172.51 | $81.13
75984 | X | Xray control catheter change | 0264 | 2.75 | $143.02 | $77.23 | $28.60
75989 | N | Abscess drainage under x-ray |  |  |  |  |
75992 | S | Atherectomy, x-ray exam | 0280 | 15.51 | $806.66 | $353.85 | $161.33
75993 | S | Atherectomy, x-ray exam | 0280 | 15.51 | $806.66 | $353.85 | $161.33
75994 | S | Atherectomy, x-ray exam | 0280 | 15.51 | $806.66 | $353.85 | $161.33
75995 | S | Atherectomy, x-ray exam | 0280 | 15.51 | $806.66 | $353.85 | $161.33
75996 | S | Atherectomy, x-ray exam | 0280 | 15.51 | $806.66 | $353.85 | $161.33
76000 | X | Fluoroscope examination | 0272 | 1.38 | $71.77 | $38.64 | $14.35
76001 | N | Fluoroscope exam, extensive |  |  |  |  |
76003 | N | Needle localization by x-ray |  |  |  |  |
76005 | N | Fluoroguide for spine inject |  |  |  |  |
76006 | X | X-ray stress view | 0260 | 0.81 | $42.13 | $23.17 | $8.43
76010 | X | X-ray, nose to rectum | 0260 | 0.81 | $42.13 | $23.17 | $8.43
76012 | S | Percut vertebroplasty fluor | 0274 | 3.21 | $166.95 | $80.14 | $33.39
76013 | S | Percut vertebroplasty, ct | 0274 | 3.21 | $166.95 | $80.14 | $33.39
76020 | X | X-rays for bone age | 0260 | 0.81 | $42.13 | $23.17 | $8.43
76040 | X | X-rays, bone evaluation | 0260 | 0.81 | $42.13 | $23.17 | $8.43
76061 | X | X-rays, bone survey | 0261 | 1.37 | $71.25 | $34.15 | $14.25
76062 | X | X-rays, bone survey | 0261 | 1.37 | $71.25 | $34.15 | $14.25
76065 | X | X-rays, bone evaluation | 0261 | 1.37 | $71.25 | $34.15 | $14.25
76066 | X | Joint survey, single view | 0260 | 0.81 | $42.13 | $23.17 | $8.43
76070 | E | CT scan, bone density study |  |  |  |  |
76075 | S | Dual energy x-ray study | 0288 | 1.38 | $71.77 |  | $14.35
76076 | S | Dual energy x-ray study | 0665 | 0.73 | $37.97 |  | $7.59
76078 | X | Radiographic absorptiometry | 0261 | 1.37 | $71.25 | $34.15 | $14.25
76080 | X | X-ray exam of fistula | 0263 | 1.99 | $103.50 | $45.54 | $20.70
76085 | A | Computer mammogram add-on |  |  |  |  |
76086 | X | X-ray of mammary duct | 0263 | 1.99 | $103.50 | $45.54 | $20.70
76088 | X | X-ray of mammary ducts | 0263 | 1.99 | $103.50 | $45.54 | $20.70
76090 | S | Mammogram, one breast | 0271 | 0.69 | $35.89 | $16.80 | $7.18
76091 | S | Mammogram, both breasts | 0271 | 0.69 | $35.89 | $16.80 | $7.18
76092 | A | Mammogram, screening |  |  |  |  |
76093 | E | Magnetic image, breast |  |  |  |  |
76094 | E | Magnetic image, both breasts |  |  |  |  |
76095 | X | Stereotactic breast biopsy | 0187 | 4.19 | $217.92 | $94.96 | $43.58
76096 | X | X-ray of needle wire, breast | 0289 | 1.84 | $95.70 | $44.80 | $19.14
76098 | X | X-ray exam, breast specimen | 0260 | 0.81 | $42.13 | $23.17 | $8.43
76100 | X | X-ray exam of body section | 0261 | 1.37 | $71.25 | $34.15 | $14.25
76101 | X | Complex body section x-ray | 0264 | 2.75 | $143.02 | $77.23 | $28.60
76102 | X | Complex body section x-rays | 0264 | 2.75 | $143.02 | $77.23 | $28.60
76120 | X | Cine/video x-rays | 0260 | 0.81 | $42.13 | $23.17 | $8.43
76125 | X | Cine/ video x-rays add-on | 0260 | 0.81 | $42.13 | $23.17 | $8.43
76140 | E | X-ray consultation |  |  |  |  |
76150 | X | X-ray exam, dry process | 0260 | 0.81 | $42.13 | $23.17 | $8.43
76350 | N | Special x-ray contrast study |  |  |  |  |
76355 | S | CAT scan for localization | 0283 | 4.75 | $247.04 |  | $49.41
76360 | S | CAT scan for needle biopsy | 0283 | 4.75 | $247.04 |  | $49.41
76362 | N | Cat scan for tissue ablation |  |  |  |  |
76370 | S | CAT scan for therapy guide | 0282 | 1.76 | $91.54 | $44.51 | $18.31
76375 | S | 3d/holograph reconstr add-on | 0282 | 1.76 | $91.54 | $44.51 | $18.31
76380 | S | CAT scan follow-up study | 0282 | 1.76 | $91.54 | $44.51 | $18.31
76390 | E | Mr spectroscopy |  |  |  |  |
76393 | N | Mr guidance for needle place |  |  |  |  |
76394 | N | Mri for tissue ablation |  |  |  |  |
76400 | S | Magnetic image, bone marrow | 0335 | 6.46 | $335.98 | $151.46 | $67.20
76490 | N | Us for tissue ablation |  |  |  |  |
76499 | X | Radiographic procedure | 0260 | 0.81 | $42.13 | $23.17 | $8.43
76506 | S | Echo exam of head | 0266 | 1.70 | $88.42 | $48.63 | $17.68
76511 | S | Echo exam of eye | 0266 | 1.70 | $88.42 | $48.63 | $17.68
76512 | S | Echo exam of eye | 0266 | 1.70 | $88.42 | $48.63 | $17.68
76513 | S | Echo exam of eye, water bath | 0265 | 1.04 | $54.09 | $29.75 | $10.82
76516 | S | Echo exam of eye | 0266 | 1.70 | $88.42 | $48.63 | $17.68
76519 | S | Echo exam of eye | 0266 | 1.70 | $88.42 | $48.63 | $17.68
76529 | S | Echo exam of eye | 0265 | 1.04 | $54.09 | $29.75 | $10.82
76536 | S | Us exam of head and neck | 0266 | 1.70 | $88.42 | $48.63 | $17.68
76604 | S | Us exam, chest, b-scan | 0266 | 1.70 | $88.42 | $48.63 | $17.68
76645 | S | Us exam, breast(s) | 0265 | 1.04 | $54.09 | $29.75 | $10.82
76700 | S | Us exam, abdom, complete | 0266 | 1.70 | $88.42 | $48.63 | $17.68
76705 | S | Us exam, abdom, limited | 0266 | 1.70 | $88.42 | $48.63 | $17.68
76770 | S | Us exam abdo back wall, comp | 0266 | 1.70 | $88.42 | $48.63 | $17.68
76775 | S | Us exam abdo back wall, lim | 0266 | 1.70 | $88.42 | $48.63 | $17.68
76778 | S | Us exam kidney transplant | 0266 | 1.70 | $88.42 | $48.63 | $17.68
76800 | S | Us exam, spinal canal | 0266 | 1.70 | $88.42 | $48.63 | $17.68
76805 | S | Us exam, pg uterus, compl | 0266 | 1.70 | $88.42 | $48.63 | $17.68
76810 | S | Us exam, pg uterus, mult | 0265 | 1.04 | $54.09 | $29.75 | $10.82
76815 | S | Us exam, pg uterus limit | 0265 | 1.04 | $54.09 | $29.75 | $10.82
76816 | S | Us exam pg uterus repeat | 0265 | 1.04 | $54.09 | $29.75 | $10.82
76818 | S | Fetal biophy profile w/nst | 0266 | 1.70 | $88.42 | $48.63 | $17.68
76819 | S | Fetal biophys profil w/o nst | 0266 | 1.70 | $88.42 | $48.63 | $17.68
76825 | S | Echo exam of fetal heart | 0671 | 1.68 | $87.38 | $45.44 | $17.48
76826 | S | Echo exam of fetal heart | 0697 | 1.51 | $78.53 | $40.84 | $15.71
76827 | S | Echo exam of fetal heart | 0671 | 1.68 | $87.38 | $45.44 | $17.48
76828 | S | Echo exam of fetal heart | 0697 | 1.51 | $78.53 | $40.84 | $15.71
76830 | S | Us exam, transvaginal | 0266 | 1.70 | $88.42 | $48.63 | $17.68
76831 | S | Echo exam, uterus | 0266 | 1.70 | $88.42 | $48.63 | $17.68
76856 | S | Us exam, pelvic, complete | 0266 | 1.70 | $88.42 | $48.63 | $17.68
76857 | S | Us exam, pelvic, limited | 0265 | 1.04 | $54.09 | $29.75 | $10.82
76870 | S | Us exam, scrotum | 0266 | 1.70 | $88.42 | $48.63 | $17.68
76872 | S | Echo exam, transrectal | 0266 | 1.70 | $88.42 | $48.63 | $17.68
76873 | S | Echograp trans r, pros study | 0266 | 1.70 | $88.42 | $48.63 | $17.68
76880 | S | Us exam, extremity | 0266 | 1.70 | $88.42 | $48.63 | $17.68
76885 | S | Us exam infant hips, dynamic | 0266 | 1.70 | $88.42 | $48.63 | $17.68
76886 | S | Us exam infant hips, static | 0266 | 1.70 | $88.42 | $48.63 | $17.68
76930 | S | Echo guide, cardiocentesis | 0268 | 1.48 | $76.97 |  | $15.39
76932 | S | Echo guide for heart biopsy | 0268 | 1.48 | $76.97 |  | $15.39
76936 | S | Echo guide for artery repair | 0268 | 1.48 | $76.97 |  | $15.39
76941 | S | Echo guide for transfusion | 0268 | 1.48 | $76.97 |  | $15.39
76942 | S | Echo guide for biopsy | 0268 | 1.48 | $76.97 |  | $15.39
76945 | S | Echo guide, villus sampling | 0268 | 1.48 | $76.97 |  | $15.39
76946 | S | Echo guide for amniocentesis | 0268 | 1.48 | $76.97 |  | $15.39
76948 | S | Echo guide, ova aspiration | 0268 | 1.48 | $76.97 |  | $15.39
76950 | S | Echo guidance radiotherapy | 0268 | 1.48 | $76.97 |  | $15.39
76965 | S | Echo guidance radiotherapy | 0268 | 1.48 | $76.97 |  | $15.39
76970 | S | Ultrasound exam follow-up | 0265 | 1.04 | $54.09 | $29.75 | $10.82
76975 | S | GI endoscopic ultrasound | 0266 | 1.70 | $88.42 | $48.63 | $17.68
76977 | S | Us bone density measure | 0265 | 1.04 | $54.09 | $29.75 | $10.82
76986 | S | Ultrasound guide intraoper | 0266 | 1.70 | $88.42 | $48.63 | $17.68
76999 | S | Echo examination procedure | 0265 | 1.04 | $54.09 | $29.75 | $10.82
77261 | E | Radiation therapy planning |  |  |  |  |
77262 | E | Radiation therapy planning |  |  |  |  |
77263 | E | Radiation therapy planning |  |  |  |  |
77280 | X | Set radiation therapy field | 0304 | 1.69 | $87.90 | $41.52 | $17.58
77285 | X | Set radiation therapy field | 0305 | 3.87 | $201.27 | $91.38 | $40.25
77290 | X | Set radiation therapy field | 0305 | 3.87 | $201.27 | $91.38 | $40.25
77295 | X | Set radiation therapy field | 0310 | 14.38 | $747.89 | $339.05 | $149.58
77299 | E | Radiation therapy planning |  |  |  |  |
77300 | X | Radiation therapy dose plan | 0304 | 1.69 | $87.90 | $41.52 | $17.58
77301 | S | Radioltherapy dos plan, imrt | 0712 |  | $875.00 |  | $175.00
77305 | X | Radiation therapy dose plan | 0304 | 1.69 | $87.90 | $41.52 | $17.58
77310 | X | Radiation therapy dose plan | 0304 | 1.69 | $87.90 | $41.52 | $17.58
77315 | X | Radiation therapy dose plan | 0305 | 3.87 | $201.27 | $91.38 | $40.25
77321 | X | Radiation therapy port plan | 0305 | 3.87 | $201.27 | $91.38 | $40.25
77326 | X | Radiation therapy dose plan | 0305 | 3.87 | $201.27 | $91.38 | $40.25
77327 | X | Radiation therapy dose plan | 0305 | 3.87 | $201.27 | $91.38 | $40.25
77328 | X | Radiation therapy dose plan | 0305 | 3.87 | $201.27 | $91.38 | $40.25
77331 | X | Special radiation dosimetry | 0304 | 1.69 | $87.90 | $41.52 | $17.58
77332 | X | Radiation treatment aid(s) | 0303 | 2.93 | $152.39 | $68.58 | $30.48
77333 | X | Radiation treatment aid(s) | 0303 | 2.93 | $152.39 | $68.58 | $30.48
77334 | X | Radiation treatment aid(s) | 0303 | 2.93 | $152.39 | $68.58 | $30.48
77336 | X | Radiation physics consult | 0304 | 1.69 | $87.90 | $41.52 | $17.58
77370 | X | Radiation physics consult | 0305 | 3.87 | $201.27 | $91.38 | $40.25
77399 | X | External radiation dosimetry | 0304 | 1.69 | $87.90 | $41.52 | $17.58
77401 | S | Radiation treatment delivery | 0300 | 1.53 | $79.57 |  | $15.91
77402 | S | Radiation treatment delivery | 0300 | 1.53 | $79.57 |  | $15.91
77403 | S | Radiation treatment delivery | 0300 | 1.53 | $79.57 |  | $15.91
77404 | S | Radiation treatment delivery | 0300 | 1.53 | $79.57 |  | $15.91
77406 | S | Radiation treatment delivery | 0300 | 1.53 | $79.57 |  | $15.91
77407 | S | Radiation treatment delivery | 0300 | 1.53 | $79.57 |  | $15.91
77408 | S | Radiation treatment delivery | 0300 | 1.53 | $79.57 |  | $15.91
77409 | S | Radiation treatment delivery | 0300 | 1.53 | $79.57 |  | $15.91
77411 | S | Radiation treatment delivery | 0300 | 1.53 | $79.57 |  | $15.91
77412 | S | Radiation treatment delivery | 0301 | 2.22 | $115.46 |  | $23.09
77413 | S | Radiation treatment delivery | 0301 | 2.22 | $115.46 |  | $23.09
77414 | S | Radiation treatment delivery | 0301 | 2.22 | $115.46 |  | $23.09
77416 | S | Radiation treatment delivery | 0301 | 2.22 | $115.46 |  | $23.09
77417 | X | Radiology port film(s) | 0260 | 0.81 | $42.13 | $23.17 | $8.43
77418 | S | Radiation tx delivery, imrt | 0710 |  | $400.00 |  | $80.00
77427 | E | Radiation tx management, x5 |  |  |  |  |
77431 | E | Radiation therapy management |  |  |  |  |
77432 | E | Stereotactic radiation trmt |  |  |  |  |
77470 | S | Special radiation treatment | 0299 | 6.20 | $322.46 |  | $64.49
77499 | E | Radiation therapy management |  |  |  |  |
77520 | S | Proton trmt, simple w/o comp | 0664 | 11.03 | $573.66 |  | $114.73
77522 | S | Proton trmt, simple w/comp | 0664 | 11.03 | $573.66 |  | $114.73
77523 | S | Proton trmt, intermediate | 0664 | 11.03 | $573.66 |  | $114.73
77525 | S | Proton treatment, complex | 0664 | 11.03 | $573.66 |  | $114.73
77600 | S | Hyperthermia treatment | 0314 | 4.24 | $220.52 | $101.77 | $44.10
77605 | S | Hyperthermia treatment | 0314 | 4.24 | $220.52 | $101.77 | $44.10
77610 | S | Hyperthermia treatment | 0314 | 4.24 | $220.52 | $101.77 | $44.10
77615 | S | Hyperthermia treatment | 0314 | 4.24 | $220.52 | $101.77 | $44.10
77620 | S | Hyperthermia treatment | 0314 | 4.24 | $220.52 | $101.77 | $44.10
77750 | S | Infuse radioactive materials | 0300 | 1.53 | $79.57 |  | $15.91
77761 | S | Apply intrcav radiat simple | 0312 | 4.23 | $220.00 |  | $44.00
77762 | S | Apply intrcav radiat interm | 0312 | 4.23 | $220.00 |  | $44.00
77763 | S | Apply intrcav radiat compl | 0312 | 4.23 | $220.00 |  | $44.00
77776 | S | Apply interstit radiat simpl | 0312 | 4.23 | $220.00 |  | $44.00
77777 | S | Apply interstit radiat inter | 0312 | 4.23 | $220.00 |  | $44.00
77778 | S | Apply iterstit radiat compl | 0312 | 4.23 | $220.00 |  | $44.00
77781 | S | High intensity brachytherapy | 0313 | 13.80 | $717.72 |  | $143.54
77782 | S | High intensity brachytherapy | 0313 | 13.80 | $717.72 |  | $143.54
77783 | S | High intensity brachytherapy | 0313 | 13.80 | $717.72 |  | $143.54
77784 | S | High intensity brachytherapy | 0313 | 13.80 | $717.72 |  | $143.54
77789 | S | Apply surface radiation | 0300 | 1.53 | $79.57 |  | $15.91
77790 | N | Radiation handling |  |  |  |  |
77799 | S | Radium/radioisotope therapy | 0313 | 13.80 | $717.72 |  | $143.54
78000 | S | Thyroid, single uptake | 0290 | 2.16 | $112.34 | $56.17 | $22.47
78001 | S | Thyroid, multiple uptakes | 0290 | 2.16 | $112.34 | $56.17 | $22.47
78003 | S | Thyroid suppress/stimul | 0290 | 2.16 | $112.34 | $56.17 | $22.47
78006 | S | Thyroid imaging with uptake | 0291 | 4.19 | $217.92 | $108.96 | $43.58
78007 | S | Thyroid image, mult uptakes | 0292 | 4.53 | $235.60 | $117.80 | $47.12
78010 | S | Thyroid imaging | 0291 | 4.19 | $217.92 | $108.96 | $43.58
78011 | S | Thyroid imaging with flow | 0292 | 4.53 | $235.60 | $117.80 | $47.12
78015 | S | Thyroid met imaging | 0291 | 4.19 | $217.92 | $108.96 | $43.58
78016 | S | Thyroid met imaging/studies | 0292 | 4.53 | $235.60 | $117.80 | $47.12
78018 | S | Thyroid met imaging, body | 0292 | 4.53 | $235.60 | $117.80 | $47.12
78020 | S | Thyroid met uptake | 0291 | 4.19 | $217.92 | $108.96 | $43.58
78070 | S | Parathyroid nuclear imaging | 0292 | 4.53 | $235.60 | $117.80 | $47.12
78075 | S | Adrenal nuclear imaging | 0292 | 4.53 | $235.60 | $117.80 | $47.12
78099 | S | Endocrine nuclear procedure | 0291 | 4.19 | $217.92 | $108.96 | $43.58
78102 | S | Bone marrow imaging, ltd | 0291 | 4.19 | $217.92 | $108.96 | $43.58
78103 | S | Bone marrow imaging, mult | 0291 | 4.19 | $217.92 | $108.96 | $43.58
78104 | S | Bone marrow imaging, body | 0291 | 4.19 | $217.92 | $108.96 | $43.58
78110 | S | Plasma volume, single | 0290 | 2.16 | $112.34 | $56.17 | $22.47
78111 | S | Plasma volume, multiple | 0290 | 2.16 | $112.34 | $56.17 | $22.47
78120 | S | Red cell mass, single | 0290 | 2.16 | $112.34 | $56.17 | $22.47
78121 | S | Red cell mass, multiple | 0290 | 2.16 | $112.34 | $56.17 | $22.47
78122 | S | Blood volume | 0290 | 2.16 | $112.34 | $56.17 | $22.47
78130 | S | Red cell survival study | 0290 | 2.16 | $112.34 | $56.17 | $22.47
78135 | S | Red cell survival kinetics | 0290 | 2.16 | $112.34 | $56.17 | $22.47
78140 | S | Red cell sequestration | 0290 | 2.16 | $112.34 | $56.17 | $22.47
78160 | S | Plasma iron turnover | 0290 | 2.16 | $112.34 | $56.17 | $22.47
78162 | S | Iron absorption exam | 0290 | 2.16 | $112.34 | $56.17 | $22.47
78170 | S | Red cell iron utilization | 0290 | 2.16 | $112.34 | $56.17 | $22.47
78172 | S | Total body iron estimation | 0290 | 2.16 | $112.34 | $56.17 | $22.47
78185 | S | Spleen imaging | 0291 | 4.19 | $217.92 | $108.96 | $43.58
78190 | S | Platelet survival, kinetics | 0290 | 2.16 | $112.34 | $56.17 | $22.47
78191 | S | Platelet survival | 0292 | 4.53 | $235.60 | $117.80 | $47.12
78195 | S | Lymph system imaging | 0292 | 4.53 | $235.60 | $117.80 | $47.12
78199 | S | Blood/lymph nuclear exam | 0291 | 4.19 | $217.92 | $108.96 | $43.58
78201 | S | Liver imaging | 0291 | 4.19 | $217.92 | $108.96 | $43.58
78202 | S | Liver imaging with flow | 0291 | 4.19 | $217.92 | $108.96 | $43.58
78205 | S | Liver imaging (3D) | 0291 | 4.19 | $217.92 | $108.96 | $43.58
78206 | S | Liver image (3d) w/flow | 0292 | 4.53 | $235.60 | $117.80 | $47.12
78215 | S | Liver and spleen imaging | 0291 | 4.19 | $217.92 | $108.96 | $43.58
78216 | S | Liver & spleen image/flow | 0291 | 4.19 | $217.92 | $108.96 | $43.58
78220 | S | Liver function study | 0291 | 4.19 | $217.92 | $108.96 | $43.58
78223 | S | Hepatobiliary imaging | 0292 | 4.53 | $235.60 | $117.80 | $47.12
78230 | S | Salivary gland imaging | 0292 | 4.53 | $235.60 | $117.80 | $47.12
78231 | S | Serial salivary imaging | 0292 | 4.53 | $235.60 | $117.80 | $47.12
78232 | S | Salivary gland function exam | 0292 | 4.53 | $235.60 | $117.80 | $47.12
78258 | S | Esophageal motility study | 0291 | 4.19 | $217.92 | $108.96 | $43.58
78261 | S | Gastric mucosa imaging | 0291 | 4.19 | $217.92 | $108.96 | $43.58
78262 | S | Gastroesophageal reflux exam | 0292 | 4.53 | $235.60 | $117.80 | $47.12
78264 | S | Gastric emptying study | 0292 | 4.53 | $235.60 | $117.80 | $47.12
78267 | A | Breath tst attain/anal c-14 |  |  |  |  |
78268 | A | Breath test analysis, c-14 |  |  |  |  |
78270 | S | Vit B-12 absorption exam | 0290 | 2.16 | $112.34 | $56.17 | $22.47
78271 | S | Vit B-12 absorp exam, IF | 0290 | 2.16 | $112.34 | $56.17 | $22.47
78272 | S | Vit B-12 absorp, combined | 0290 | 2.16 | $112.34 | $56.17 | $22.47
78278 | S | Acute GI blood loss imaging | 0292 | 4.53 | $235.60 | $117.80 | $47.12
78282 | S | GI protein loss exam | 0290 | 2.16 | $112.34 | $56.17 | $22.47
78290 | S | Meckel's divert exam | 0292 | 4.53 | $235.60 | $117.80 | $47.12
78291 | S | Leveen/shunt patency exam | 0292 | 4.53 | $235.60 | $117.80 | $47.12
78299 | S | GI nuclear procedure | 0291 | 4.19 | $217.92 | $108.96 | $43.58
78300 | S | Bone imaging, limited area | 0291 | 4.19 | $217.92 | $108.96 | $43.58
78305 | S | Bone imaging, multiple areas | 0291 | 4.19 | $217.92 | $108.96 | $43.58
78306 | S | Bone imaging, whole body | 0291 | 4.19 | $217.92 | $108.96 | $43.58
78315 | S | Bone imaging, 3 phase | 0292 | 4.53 | $235.60 | $117.80 | $47.12
78320 | S | Bone imaging (3D) | 0291 | 4.19 | $217.92 | $108.96 | $43.58
78350 | X | Bone mineral, single photon | 0261 | 1.37 | $71.25 | $34.15 | $14.25
78351 | E | Bone mineral, dual photon |  |  |  |  |
78399 | S | Musculoskeletal nuclear exam | 0291 | 4.19 | $217.92 | $108.96 | $43.58
78414 | S | Non-imaging heart function | 0290 | 2.16 | $112.34 | $56.17 | $22.47
78428 | S | Cardiac shunt imaging | 0291 | 4.19 | $217.92 | $108.96 | $43.58
78445 | S | Vascular flow imaging | 0291 | 4.19 | $217.92 | $108.96 | $43.58
78455 | S | Venous thrombosis study | 0290 | 2.16 | $112.34 | $56.17 | $22.47
78456 | S | Acute venous thrombus image | 0292 | 4.53 | $235.60 | $117.80 | $47.12
78457 | S | Venous thrombosis imaging | 0291 | 4.19 | $217.92 | $108.96 | $43.58
78458 | S | Ven thrombosis images, bilat | 0292 | 4.53 | $235.60 | $117.80 | $47.12
78459 | E | Heart muscle imaging (PET) |  |  |  |  |
78460 | S | Heart muscle blood, single | 0286 | 6.94 | $360.94 | $198.52 | $72.19
78461 | S | Heart muscle blood, multiple | 0286 | 6.94 | $360.94 | $198.52 | $72.19
78464 | S | Heart image (3d), single | 0286 | 6.94 | $360.94 | $198.52 | $72.19
78465 | S | Heart image (3d), multiple | 0286 | 6.94 | $360.94 | $198.52 | $72.19
78466 | S | Heart infarct image | 0291 | 4.19 | $217.92 | $108.96 | $43.58
78468 | S | Heart infarct image (ef) | 0291 | 4.19 | $217.92 | $108.96 | $43.58
78469 | S | Heart infarct image (3D) | 0291 | 4.19 | $217.92 | $108.96 | $43.58
78472 | S | Gated heart, planar, single | 0286 | 6.94 | $360.94 | $198.52 | $72.19
78473 | S | Gated heart, multiple | 0286 | 6.94 | $360.94 | $198.52 | $72.19
78478 | S | Heart wall motion add-on | 0666 | 1.59 | $82.69 | $45.48 | $16.54
78480 | S | Heart function add-on | 0666 | 1.59 | $82.69 | $45.48 | $16.54
78481 | S | Heart first pass, single | 0286 | 6.94 | $360.94 | $198.52 | $72.19
78483 | S | Heart first pass, multiple | 0286 | 6.94 | $360.94 | $198.52 | $72.19
78491 | E | Heart image (pet), single |  |  |  |  |
78492 | E | Heart image (pet), multiple |  |  |  |  |
78494 | S | Heart image, spect | 0286 | 6.94 | $360.94 | $198.52 | $72.19
78496 | S | Heart first pass add-on | 0666 | 1.59 | $82.69 | $45.48 | $16.54
78499 | S | Cardiovascular nuclear exam | 0291 | 4.19 | $217.92 | $108.96 | $43.58
78580 | S | Lung perfusion imaging | 0291 | 4.19 | $217.92 | $108.96 | $43.58
78584 | S | Lung V/Q image single breath | 0292 | 4.53 | $235.60 | $117.80 | $47.12
78585 | S | Lung V/Q imaging | 0292 | 4.53 | $235.60 | $117.80 | $47.12
78586 | S | Aerosol lung image, single | 0291 | 4.19 | $217.92 | $108.96 | $43.58
78587 | S | Aerosol lung image, multiple | 0291 | 4.19 | $217.92 | $108.96 | $43.58
78588 | S | Perfusion lung image | 0292 | 4.53 | $235.60 | $117.80 | $47.12
78591 | S | Vent image, 1 breath, 1 proj | 0291 | 4.19 | $217.92 | $108.96 | $43.58
78593 | S | Vent image, 1 proj, gas | 0291 | 4.19 | $217.92 | $108.96 | $43.58
78594 | S | Vent image, mult proj, gas | 0291 | 4.19 | $217.92 | $108.96 | $43.58
78596 | S | Lung differential function | 0292 | 4.53 | $235.60 | $117.80 | $47.12
78599 | S | Respiratory nuclear exam | 0291 | 4.19 | $217.92 | $108.96 | $43.58
78600 | S | Brain imaging, ltd static | 0291 | 4.19 | $217.92 | $108.96 | $43.58
78601 | S | Brain imaging, ltd w/ flow | 0291 | 4.19 | $217.92 | $108.96 | $43.58
78605 | S | Brain imaging, complete | 0291 | 4.19 | $217.92 | $108.96 | $43.58
78606 | S | Brain imaging, compl w/flow | 0291 | 4.19 | $217.92 | $108.96 | $43.58
78607 | S | Brain imaging (3D) | 0291 | 4.19 | $217.92 | $108.96 | $43.58
78608 | E | Brain imaging (PET) |  |  |  |  |
78609 | E | Brain imaging (PET) |  |  |  |  |
78610 | S | Brain flow imaging only | 0291 | 4.19 | $217.92 | $108.96 | $43.58
78615 | S | Cerebral vascular flow image | 0291 | 4.19 | $217.92 | $108.96 | $43.58
78630 | S | Cerebrospinal fluid scan | 0292 | 4.53 | $235.60 | $117.80 | $47.12
78635 | S | CSF ventriculography | 0292 | 4.53 | $235.60 | $117.80 | $47.12
78645 | S | CSF shunt evaluation | 0292 | 4.53 | $235.60 | $117.80 | $47.12
78647 | S | Cerebrospinal fluid scan | 0292 | 4.53 | $235.60 | $117.80 | $47.12
78650 | S | CSF leakage imaging | 0292 | 4.53 | $235.60 | $117.80 | $47.12
78660 | S | Nuclear exam of tear flow | 0291 | 4.19 | $217.92 | $108.96 | $43.58
78699 | S | Nervous system nuclear exam | 0291 | 4.19 | $217.92 | $108.96 | $43.58
78700 | S | Kidney imaging, static | 0291 | 4.19 | $217.92 | $108.96 | $43.58
78701 | S | Kidney imaging with flow | 0291 | 4.19 | $217.92 | $108.96 | $43.58
78704 | S | Imaging renogram | 0291 | 4.19 | $217.92 | $108.96 | $43.58
78707 | S | Kidney flow/function image | 0291 | 4.19 | $217.92 | $108.96 | $43.58
78708 | S | Kidney flow/function image | 0292 | 4.53 | $235.60 | $117.80 | $47.12
78709 | S | Kidney flow/function image | 0292 | 4.53 | $235.60 | $117.80 | $47.12
78710 | S | Kidney imaging (3D) | 0291 | 4.19 | $217.92 | $108.96 | $43.58
78715 | S | Renal vascular flow exam | 0291 | 4.19 | $217.92 | $108.96 | $43.58
78725 | S | Kidney function study | 0290 | 2.16 | $112.34 | $56.17 | $22.47
78730 | S | Urinary bladder retention | 0291 | 4.19 | $217.92 | $108.96 | $43.58
78740 | S | Ureteral reflux study | 0292 | 4.53 | $235.60 | $117.80 | $47.12
78760 | S | Testicular imaging | 0291 | 4.19 | $217.92 | $108.96 | $43.58
78761 | S | Testicular imaging/flow | 0291 | 4.19 | $217.92 | $108.96 | $43.58
78799 | S | Genitourinary nuclear exam | 0291 | 4.19 | $217.92 | $108.96 | $43.58
78800 | S | Tumor imaging, limited area | 0292 | 4.53 | $235.60 | $117.80 | $47.12
78801 | S | Tumor imaging, mult areas | 0292 | 4.53 | $235.60 | $117.80 | $47.12
78802 | S | Tumor imaging, whole body | 0292 | 4.53 | $235.60 | $117.80 | $47.12
78803 | S | Tumor imaging (3D) | 0292 | 4.53 | $235.60 | $117.80 | $47.12
78805 | S | Abscess imaging, ltd area | 0292 | 4.53 | $235.60 | $117.80 | $47.12
78806 | S | Abscess imaging, whole body | 0292 | 4.53 | $235.60 | $117.80 | $47.12
78807 | S | Nuclear localization/abscess | 0292 | 4.53 | $235.60 | $117.80 | $47.12
78810 | E | Tumor imaging (PET) |  |  |  |  |
78890 | N | Nuclear medicine data proc |  |  |  |  |
78891 | N | Nuclear med data proc |  |  |  |  |
78990 | N | Provide diag radionuclide(s) |  |  |  |  |
78999 | S | Nuclear diagnostic exam | 0291 | 4.19 | $217.92 | $108.96 | $43.58
79000 | S | Init hyperthyroid therapy | 0294 | 4.45 | $231.44 | $127.29 | $46.29
79001 | S | Repeat hyperthyroid therapy | 0294 | 4.45 | $231.44 | $127.29 | $46.29
79020 | S | Thyroid ablation | 0294 | 4.45 | $231.44 | $127.29 | $46.29
79030 | S | Thyroid ablation, carcinoma | 0294 | 4.45 | $231.44 | $127.29 | $46.29
79035 | S | Thyroid metastatic therapy | 0295 | 3.86 | $200.75 | $110.41 | $40.15
79100 | S | Hematopoetic nuclear therapy | 0294 | 4.45 | $231.44 | $127.29 | $46.29
79200 | S | Intracavitary nuclear trmt | 0295 | 3.86 | $200.75 | $110.41 | $40.15
79300 | S | Interstitial nuclear therapy | 0294 | 4.45 | $231.44 | $127.29 | $46.29
79400 | S | Nonhemato nuclear therapy | 0295 | 3.86 | $200.75 | $110.41 | $40.15
79420 | S | Intravascular nuclear ther | 0295 | 3.86 | $200.75 | $110.41 | $40.15
79440 | S | Nuclear joint therapy | 0294 | 4.45 | $231.44 | $127.29 | $46.29
79900 | N | Provide ther radiopharm(s) |  |  |  |  |
79999 | S | Nuclear medicine therapy | 0294 | 4.45 | $231.44 | $127.29 | $46.29
80048 | A | Basic metabolic panel |  |  |  |  |
80050 | A | General health panel |  |  |  |  |
80051 | A | Electrolyte panel |  |  |  |  |
80053 | A | Comprehen metabolic panel |  |  |  |  |
80055 | A | Obstetric panel |  |  |  |  |
80061 | A | Lipid panel |  |  |  |  |
80069 | A | Renal function panel |  |  |  |  |
80074 | A | Acute hepatitis panel |  |  |  |  |
80076 | A | Hepatic function panel |  |  |  |  |
80090 | A | Torch antibody panel |  |  |  |  |
80100 | A | Drug screen, qualitate/multi |  |  |  |  |
80101 | A | Drug screen, single |  |  |  |  |
80102 | A | Drug confirmation |  |  |  |  |
80103 | N | Drug analysis, tissue prep |  |  |  |  |
80150 | A | Assay of amikacin |  |  |  |  |
80152 | A | Assay of amitriptyline |  |  |  |  |
80154 | A | Assay of benzodiazepines |  |  |  |  |
80156 | A | Assay, carbamazepine, total |  |  |  |  |
80157 | A | Assay, carbamazepine, free |  |  |  |  |
80158 | A | Assay of cyclosporine |  |  |  |  |
80160 | A | Assay of desipramine |  |  |  |  |
80162 | A | Assay of digoxin |  |  |  |  |
80164 | A | Assay, dipropylacetic acid |  |  |  |  |
80166 | A | Assay of doxepin |  |  |  |  |
80168 | A | Assay of ethosuximide |  |  |  |  |
80170 | A | Assay of gentamicin |  |  |  |  |
80172 | A | Assay of gold |  |  |  |  |
80173 | A | Assay of haloperidol |  |  |  |  |
80174 | A | Assay of imipramine |  |  |  |  |
80176 | A | Assay of lidocaine |  |  |  |  |
80178 | A | Assay of lithium |  |  |  |  |
80182 | A | Assay of nortriptyline |  |  |  |  |
80184 | A | Assay of phenobarbital |  |  |  |  |
80185 | A | Assay of phenytoin, total |  |  |  |  |
80186 | A | Assay of phenytoin, free |  |  |  |  |
80188 | A | Assay of primidone |  |  |  |  |
80190 | A | Assay of procainamide |  |  |  |  |
80192 | A | Assay of procainamide |  |  |  |  |
80194 | A | Assay of quinidine |  |  |  |  |
80196 | A | Assay of salicylate |  |  |  |  |
80197 | A | Assay of tacrolimus |  |  |  |  |
80198 | A | Assay of theophylline |  |  |  |  |
80200 | A | Assay of tobramycin |  |  |  |  |
80201 | A | Assay of topiramate |  |  |  |  |
80202 | A | Assay of vancomycin |  |  |  |  |
80299 | A | Quantitative assay, drug |  |  |  |  |
80400 | A | Acth stimulation panel |  |  |  |  |
80402 | A | Acth stimulation panel |  |  |  |  |
80406 | A | Acth stimulation panel |  |  |  |  |
80408 | A | Aldosterone suppression eval |  |  |  |  |
80410 | A | Calcitonin stimul panel |  |  |  |  |
80412 | A | CRH stimulation panel |  |  |  |  |
80414 | A | Testosterone response |  |  |  |  |
80415 | A | Estradiol response panel |  |  |  |  |
80416 | A | Renin stimulation panel |  |  |  |  |
80417 | A | Renin stimulation panel |  |  |  |  |
80418 | A | Pituitary evaluation panel |  |  |  |  |
80420 | A | Dexamethasone panel |  |  |  |  |
80422 | A | Glucagon tolerance panel |  |  |  |  |
80424 | A | Glucagon tolerance panel |  |  |  |  |
80426 | A | Gonadotropin hormone panel |  |  |  |  |
80428 | A | Growth hormone panel |  |  |  |  |
80430 | A | Growth hormone panel |  |  |  |  |
80432 | A | Insulin suppression panel |  |  |  |  |
80434 | A | Insulin tolerance panel |  |  |  |  |
80435 | A | Insulin tolerance panel |  |  |  |  |
80436 | A | Metyrapone panel |  |  |  |  |
80438 | A | TRH stimulation panel |  |  |  |  |
80439 | A | TRH stimulation panel |  |  |  |  |
80440 | A | TRH stimulation panel |  |  |  |  |
80500 | X | Lab pathology consultation | 0343 | 0.47 | $24.44 | $13.20 | $4.89
80502 | X | Lab pathology consultation | 0342 | 0.23 | $11.96 | $5.88 | $2.39
81000 | A | Urinalysis, nonauto w/scope |  |  |  |  |
81001 | A | Urinalysis, auto w/scope |  |  |  |  |
81002 | A | Urinalysis nonauto w/o scope |  |  |  |  |
81003 | A | Urinalysis, auto, w/o scope |  |  |  |  |
81005 | A | Urinalysis |  |  |  |  |
81007 | A | Urine screen for bacteria |  |  |  |  |
81015 | A | Microscopic exam of urine |  |  |  |  |
81020 | A | Urinalysis, glass test |  |  |  |  |
81025 | A | Urine pregnancy test |  |  |  |  |
81050 | A | Urinalysis, volume measure |  |  |  |  |
81099 | A | Urinalysis test procedure |  |  |  |  |
82000 | A | Assay of blood acetaldehyde |  |  |  |  |
82003 | A | Assay of acetaminophen |  |  |  |  |
82009 | A | Test for acetone/ketones |  |  |  |  |
82010 | A | Acetone assay |  |  |  |  |
82013 | A | Acetylcholinesterase assay |  |  |  |  |
82016 | A | Acylcarnitines, qual |  |  |  |  |
82017 | A | Acylcarnitines, quant |  |  |  |  |
82024 | A | Assay of acth |  |  |  |  |
82030 | A | Assay of adp & amp |  |  |  |  |
82040 | A | Assay of serum albumin |  |  |  |  |
82042 | A | Assay of urine albumin |  |  |  |  |
82043 | A | Microalbumin, quantitative |  |  |  |  |
82044 | A | Microalbumin, semiquant |  |  |  |  |
82055 | A | Assay of ethanol |  |  |  |  |
82075 | A | Assay of breath ethanol |  |  |  |  |
82085 | A | Assay of aldolase |  |  |  |  |
82088 | A | Assay of aldosterone |  |  |  |  |
82101 | A | Assay of urine alkaloids |  |  |  |  |
82103 | A | Alpha-1-antitrypsin, total |  |  |  |  |
82104 | A | Alpha-1-antitrypsin, pheno |  |  |  |  |
82105 | A | Alpha-fetoprotein, serum |  |  |  |  |
82106 | A | Alpha-fetoprotein, amniotic |  |  |  |  |
82108 | A | Assay of aluminum |  |  |  |  |
82120 | A | Amines, vaginal fluid qual |  |  |  |  |
82127 | A | Amino acid, single qual |  |  |  |  |
82128 | A | Amino acids, mult qual |  |  |  |  |
82131 | A | Amino acids, single quant |  |  |  |  |
82135 | A | Assay, aminolevulinic acid |  |  |  |  |
82136 | A | Amino acids, quant, 2-5 |  |  |  |  |
82139 | A | Amino acids, quan, 6 or more |  |  |  |  |
82140 | A | Assay of ammonia |  |  |  |  |
82143 | A | Amniotic fluid scan |  |  |  |  |
82145 | A | Assay of amphetamines |  |  |  |  |
82150 | A | Assay of amylase |  |  |  |  |
82154 | A | Androstanediol glucuronide |  |  |  |  |
82157 | A | Assay of androstenedione |  |  |  |  |
82160 | A | Assay of androsterone |  |  |  |  |
82163 | A | Assay of angiotensin II |  |  |  |  |
82164 | A | Angiotensin I enzyme test |  |  |  |  |
82172 | A | Assay of apolipoprotein |  |  |  |  |
82175 | A | Assay of arsenic |  |  |  |  |
82180 | A | Assay of ascorbic acid |  |  |  |  |
82190 | A | Atomic absorption |  |  |  |  |
82205 | A | Assay of barbiturates |  |  |  |  |
82232 | A | Assay of beta-2 protein |  |  |  |  |
82239 | A | Bile acids, total |  |  |  |  |
82240 | A | Bile acids, cholylglycine |  |  |  |  |
82247 | A | Bilirubin, total |  |  |  |  |
82248 | A | Bilirubin, direct |  |  |  |  |
82252 | A | Fecal bilirubin test |  |  |  |  |
82261 | A | Assay of biotinidase |  |  |  |  |
82270 | A | Test for blood, feces |  |  |  |  |
82273 | A | Test for blood, other source |  |  |  |  |
82274 | A | Assay test for blood, fecal |  |  |  |  |
82286 | A | Assay of bradykinin |  |  |  |  |
82300 | A | Assay of cadmium |  |  |  |  |
82306 | A | Assay of vitamin D |  |  |  |  |
82307 | A | Assay of vitamin D |  |  |  |  |
82308 | A | Assay of calcitonin |  |  |  |  |
82310 | A | Assay of calcium |  |  |  |  |
82330 | A | Assay of calcium |  |  |  |  |
82331 | A | Calcium infusion test |  |  |  |  |
82340 | A | Assay of calcium in urine |  |  |  |  |
82355 | A | Calculus analysis, qual |  |  |  |  |
82360 | A | Calculus assay, quant |  |  |  |  |
82365 | A | Calculus spectroscopy |  |  |  |  |
82370 | A | X-ray assay, calculus |  |  |  |  |
82373 | A | Assay, c-d transfer measure |  |  |  |  |
82374 | A | Assay, blood carbon dioxide |  |  |  |  |
82375 | A | Assay, blood carbon monoxide |  |  |  |  |
82376 | A | Test for carbon monoxide |  |  |  |  |
82378 | A | Carcinoembryonic antigen |  |  |  |  |
82379 | A | Assay of carnitine |  |  |  |  |
82380 | A | Assay of carotene |  |  |  |  |
82382 | A | Assay, urine catecholamines |  |  |  |  |
82383 | A | Assay, blood catecholamines |  |  |  |  |
82384 | A | Assay, three catecholamines |  |  |  |  |
82387 | A | Assay of cathepsin-d |  |  |  |  |
82390 | A | Assay of ceruloplasmin |  |  |  |  |
82397 | A | Chemiluminescent assay |  |  |  |  |
82415 | A | Assay of chloramphenicol |  |  |  |  |
82435 | A | Assay of blood chloride |  |  |  |  |
82436 | A | Assay of urine chloride |  |  |  |  |
82438 | A | Assay, other fluid chlorides |  |  |  |  |
82441 | A | Test for chlorohydrocarbons |  |  |  |  |
82465 | A | Assay, bld/serum cholesterol |  |  |  |  |
82480 | A | Assay, serum cholinesterase |  |  |  |  |
82482 | A | Assay, rbc cholinesterase |  |  |  |  |
82485 | A | Assay, chondroitin sulfate |  |  |  |  |
82486 | A | Gas/liquid chromatography |  |  |  |  |
82487 | A | Paper chromatography |  |  |  |  |
82488 | A | Paper chromatography |  |  |  |  |
82489 | A | Thin layer chromatography |  |  |  |  |
82491 | A | Chromotography, quant, sing |  |  |  |  |
82492 | A | Chromotography, quant, mult |  |  |  |  |
82495 | A | Assay of chromium |  |  |  |  |
82507 | A | Assay of citrate |  |  |  |  |
82520 | A | Assay of cocaine |  |  |  |  |
82523 | A | Collagen crosslinks |  |  |  |  |
82525 | A | Assay of copper |  |  |  |  |
82528 | A | Assay of corticosterone |  |  |  |  |
82530 | A | Cortisol, free |  |  |  |  |
82533 | A | Total cortisol |  |  |  |  |
82540 | A | Assay of creatine |  |  |  |  |
82541 | A | Column chromotography, qual |  |  |  |  |
82542 | A | Column chromotography, quant |  |  |  |  |
82543 | A | Column chromotograph/isotope |  |  |  |  |
82544 | A | Column chromotograph/isotope |  |  |  |  |
82550 | A | Assay of ck (cpk) |  |  |  |  |
82552 | A | Assay of cpk in blood |  |  |  |  |
82553 | A | Creatine, MB fraction |  |  |  |  |
82554 | A | Creatine, isoforms |  |  |  |  |
82565 | A | Assay of creatinine |  |  |  |  |
82570 | A | Assay of urine creatinine |  |  |  |  |
82575 | A | Creatinine clearance test |  |  |  |  |
82585 | A | Assay of cryofibrinogen |  |  |  |  |
82595 | A | Assay of cryoglobulin |  |  |  |  |
82600 | A | Assay of cyanide |  |  |  |  |
82607 | A | Vitamin B-12 |  |  |  |  |
82608 | A | B-12 binding capacity |  |  |  |  |
82615 | A | Test for urine cystines |  |  |  |  |
82626 | A | Dehydroepiandrosterone |  |  |  |  |
82627 | A | Dehydroepiandrosterone |  |  |  |  |
82633 | A | Desoxycorticosterone |  |  |  |  |
82634 | A | Deoxycortisol |  |  |  |  |
82638 | A | Assay of dibucaine number |  |  |  |  |
82646 | A | Assay of dihydrocodeinone |  |  |  |  |
82649 | A | Assay of dihydromorphinone |  |  |  |  |
82651 | A | Assay of dihydrotestosterone |  |  |  |  |
82652 | A | Assay of dihydroxyvitamin d |  |  |  |  |
82654 | A | Assay of dimethadione |  |  |  |  |
82657 | A | Enzyme cell activity |  |  |  |  |
82658 | A | Enzyme cell activity, ra |  |  |  |  |
82664 | A | Electrophoretic test |  |  |  |  |
82666 | A | Assay of epiandrosterone |  |  |  |  |
82668 | A | Assay of erythropoietin |  |  |  |  |
82670 | A | Assay of estradiol |  |  |  |  |
82671 | A | Assay of estrogens |  |  |  |  |
82672 | A | Assay of estrogen |  |  |  |  |
82677 | A | Assay of estriol |  |  |  |  |
82679 | A | Assay of estrone |  |  |  |  |
82690 | A | Assay of ethchlorvynol |  |  |  |  |
82693 | A | Assay of ethylene glycol |  |  |  |  |
82696 | A | Assay of etiocholanolone |  |  |  |  |
82705 | A | Fats/lipids, feces, qual |  |  |  |  |
82710 | A | Fats/lipids, feces, quant |  |  |  |  |
82715 | A | Assay of fecal fat |  |  |  |  |
82725 | A | Assay of blood fatty acids |  |  |  |  |
82726 | A | Long chain fatty acids |  |  |  |  |
82728 | A | Assay of ferritin |  |  |  |  |
82731 | A | Assay of fetal fibronectin |  |  |  |  |
82735 | A | Assay of fluoride |  |  |  |  |
82742 | A | Assay of flurazepam |  |  |  |  |
82746 | A | Blood folic acid serum |  |  |  |  |
82747 | A | Assay of folic acid, rbc |  |  |  |  |
82757 | A | Assay of semen fructose |  |  |  |  |
82759 | A | Assay of rbc galactokinase |  |  |  |  |
82760 | A | Assay of galactose |  |  |  |  |
82775 | A | Assay galactose transferase |  |  |  |  |
82776 | A | Galactose transferase test |  |  |  |  |
82784 | A | Assay of gammaglobulin igm |  |  |  |  |
82785 | A | Assay of gammaglobulin ige |  |  |  |  |
82787 | A | Igg 1, 2, 3 or 4, each |  |  |  |  |
82800 | A | Blood pH |  |  |  |  |
82803 | A | Blood gases: pH, pO2 & pCO2 |  |  |  |  |
82805 | A | Blood gases W/02 saturation |  |  |  |  |
82810 | A | Blood gases, O2 sat only |  |  |  |  |
82820 | A | Hemoglobin-oxygen affinity |  |  |  |  |
82926 | A | Assay of gastric acid |  |  |  |  |
82928 | A | Assay of gastric acid |  |  |  |  |
82938 | A | Gastrin test |  |  |  |  |
82941 | A | Assay of gastrin |  |  |  |  |
82943 | A | Assay of glucagon |  |  |  |  |
82945 | A | Glucose other fluid |  |  |  |  |
82946 | A | Glucagon tolerance test |  |  |  |  |
82947 | A | Assay, glucose, blood quant |  |  |  |  |
82948 | A | Reagent strip/blood glucose |  |  |  |  |
82950 | A | Glucose test |  |  |  |  |
82951 | A | Glucose tolerance test (GTT) |  |  |  |  |
82952 | A | GTT-added samples |  |  |  |  |
82953 | A | Glucose-tolbutamide test |  |  |  |  |
82955 | A | Assay of g6pd enzyme |  |  |  |  |
82960 | A | Test for G6PD enzyme |  |  |  |  |
82962 | A | Glucose blood test |  |  |  |  |
82963 | A | Assay of glucosidase |  |  |  |  |
82965 | A | Assay of gdh enzyme |  |  |  |  |
82975 | A | Assay of glutamine |  |  |  |  |
82977 | A | Assay of GGT |  |  |  |  |
82978 | A | Assay of glutathione |  |  |  |  |
82979 | A | Assay, rbc glutathione |  |  |  |  |
82980 | A | Assay of glutethimide |  |  |  |  |
82985 | A | Glycated protein |  |  |  |  |
83001 | A | Gonadotropin (FSH) |  |  |  |  |
83002 | A | Gonadotropin (LH) |  |  |  |  |
83003 | A | Assay, growth hormone (hgh) |  |  |  |  |
83008 | A | Assay of guanosine |  |  |  |  |
83010 | A | Assay of haptoglobin, quant |  |  |  |  |
83012 | A | Assay of haptoglobins |  |  |  |  |
83013 | A | H pylori analysis |  |  |  |  |
83014 | A | H pylori drug admin/collect |  |  |  |  |
83015 | A | Heavy metal screen |  |  |  |  |
83018 | A | Quantitative screen, metals |  |  |  |  |
83020 | A | Hemoglobin electrophoresis |  |  |  |  |
83021 | A | Hemoglobin chromotography |  |  |  |  |
83026 | A | Hemoglobin, copper sulfate |  |  |  |  |
83030 | A | Fetal hemoglobin, chemical |  |  |  |  |
83033 | A | Fetal hemoglobin assay, qual |  |  |  |  |
83036 | A | Glycated hemoglobin test |  |  |  |  |
83045 | A | Blood methemoglobin test |  |  |  |  |
83050 | A | Blood methemoglobin assay |  |  |  |  |
83051 | A | Assay of plasma hemoglobin |  |  |  |  |
83055 | A | Blood sulfhemoglobin test |  |  |  |  |
83060 | A | Blood sulfhemoglobin assay |  |  |  |  |
83065 | A | Assay of hemoglobin heat |  |  |  |  |
83068 | A | Hemoglobin stability screen |  |  |  |  |
83069 | A | Assay of urine hemoglobin |  |  |  |  |
83070 | A | Assay of hemosiderin, qual |  |  |  |  |
83071 | A | Assay of hemosiderin, quant |  |  |  |  |
83080 | A | Assay of b hexosaminidase |  |  |  |  |
83088 | A | Assay of histamine |  |  |  |  |
83090 | A | Assay of homocystine |  |  |  |  |
83150 | A | Assay of for hva |  |  |  |  |
83491 | A | Assay of corticosteroids |  |  |  |  |
83497 | A | Assay of 5-hiaa |  |  |  |  |
83498 | A | Assay of progesterone |  |  |  |  |
83499 | A | Assay of progesterone |  |  |  |  |
83500 | A | Assay, free hydroxyproline |  |  |  |  |
83505 | A | Assay, total hydroxyproline |  |  |  |  |
83516 | A | Immunoassay, nonantibody |  |  |  |  |
83518 | A | Immunoassay, dipstick |  |  |  |  |
83519 | A | Immunoassay, nonantibody |  |  |  |  |
83520 | A | Immunoassay, RIA |  |  |  |  |
83525 | A | Assay of insulin |  |  |  |  |
83527 | A | Assay of insulin |  |  |  |  |
83528 | A | Assay of intrinsic factor |  |  |  |  |
83540 | A | Assay of iron |  |  |  |  |
83550 | A | Iron binding test |  |  |  |  |
83570 | A | Assay of idh enzyme |  |  |  |  |
83582 | A | Assay of ketogenic steroids |  |  |  |  |
83586 | A | Assay 17- ketosteroids |  |  |  |  |
83593 | A | Fractionation, ketosteroids |  |  |  |  |
83605 | A | Assay of lactic acid |  |  |  |  |
83615 | A | Lactate (LD) (LDH) enzyme |  |  |  |  |
83625 | A | Assay of ldh enzymes |  |  |  |  |
83632 | A | Placental lactogen |  |  |  |  |
83633 | A | Test urine for lactose |  |  |  |  |
83634 | A | Assay of urine for lactose |  |  |  |  |
83655 | A | Assay of lead |  |  |  |  |
83661 | A | L/s ratio, fetal lung |  |  |  |  |
83662 | A | Foam stability, fetal lung |  |  |  |  |
83663 | A | Fluoro polarize, fetal lung |  |  |  |  |
83664 | A | Lamellar bdy, fetal lung |  |  |  |  |
83670 | A | Assay of lap enzyme |  |  |  |  |
83690 | A | Assay of lipase |  |  |  |  |
83715 | A | Assay of blood lipoproteins |  |  |  |  |
83716 | A | Assay of blood lipoproteins |  |  |  |  |
83718 | A | Assay of lipoprotein |  |  |  |  |
83719 | A | Assay of blood lipoprotein |  |  |  |  |
83721 | A | Assay of blood lipoprotein |  |  |  |  |
83727 | A | Assay of lrh hormone |  |  |  |  |
83735 | A | Assay of magnesium |  |  |  |  |
83775 | A | Assay of md enzyme |  |  |  |  |
83785 | A | Assay of manganese |  |  |  |  |
83788 | A | Mass spectrometry qual |  |  |  |  |
83789 | A | Mass spectrometry quant |  |  |  |  |
83805 | A | Assay of meprobamate |  |  |  |  |
83825 | A | Assay of mercury |  |  |  |  |
83835 | A | Assay of metanephrines |  |  |  |  |
83840 | A | Assay of methadone |  |  |  |  |
83857 | A | Assay of methemalbumin |  |  |  |  |
83858 | A | Assay of methsuximide |  |  |  |  |
83864 | A | Mucopolysaccharides |  |  |  |  |
83866 | A | Mucopolysaccharides screen |  |  |  |  |
83872 | A | Assay synovial fluid mucin |  |  |  |  |
83873 | A | Assay of csf protein |  |  |  |  |
83874 | A | Assay of myoglobin |  |  |  |  |
83883 | A | Assay, nephelometry not spec |  |  |  |  |
83885 | A | Assay of nickel |  |  |  |  |
83887 | A | Assay of nicotine |  |  |  |  |
83890 | A | Molecule isolate |  |  |  |  |
83891 | A | Molecule isolate nucleic |  |  |  |  |
83892 | A | Molecular diagnostics |  |  |  |  |
83893 | A | Molecule dot/slot/blot |  |  |  |  |
83894 | A | Molecule gel electrophor |  |  |  |  |
83896 | A | Molecular diagnostics |  |  |  |  |
83897 | A | Molecule nucleic transfer |  |  |  |  |
83898 | A | Molecule nucleic ampli |  |  |  |  |
83901 | A | Molecule nucleic ampli |  |  |  |  |
83902 | A | Molecular diagnostics |  |  |  |  |
83903 | A | Molecule mutation scan |  |  |  |  |
83904 | A | Molecule mutation identify |  |  |  |  |
83905 | A | Molecule mutation identify |  |  |  |  |
83906 | A | Molecule mutation identify |  |  |  |  |
83912 | A | Genetic examination |  |  |  |  |
83915 | A | Assay of nucleotidase |  |  |  |  |
83916 | A | Oligoclonal bands |  |  |  |  |
83918 | A | Organic acids, total, quant |  |  |  |  |
83919 | A | Organic acids, qual, each |  |  |  |  |
83921 | A | Organic acid, single, quant |  |  |  |  |
83925 | A | Assay of opiates |  |  |  |  |
83930 | A | Assay of blood osmolality |  |  |  |  |
83935 | A | Assay of urine osmolality |  |  |  |  |
83937 | A | Assay of osteocalcin |  |  |  |  |
83945 | A | Assay of oxalate |  |  |  |  |
83950 | A | Oncorprotein, her-2/neu |  |  |  |  |
83970 | A | Assay of parathormone |  |  |  |  |
83986 | A | Assay of body fluid acidity |  |  |  |  |
83992 | A | Assay for phencyclidine |  |  |  |  |
84022 | A | Assay of phenothiazine |  |  |  |  |
84030 | A | Assay of blood pku |  |  |  |  |
84035 | A | Assay of phenylketones |  |  |  |  |
84060 | A | Assay acid phosphatase |  |  |  |  |
84061 | A | Phosphatase, forensic exam |  |  |  |  |
84066 | A | Assay prostate phosphatase |  |  |  |  |
84075 | A | Assay alkaline phosphatase |  |  |  |  |
84078 | A | Assay alkaline phosphatase |  |  |  |  |
84080 | A | Assay alkaline phosphatases |  |  |  |  |
84081 | A | Amniotic fluid enzyme test |  |  |  |  |
84085 | A | Assay of rbc pg6d enzyme |  |  |  |  |
84087 | A | Assay phosphohexose enzymes |  |  |  |  |
84100 | A | Assay of phosphorus |  |  |  |  |
84105 | A | Assay of urine phosphorus |  |  |  |  |
84106 | A | Test for porphobilinogen |  |  |  |  |
84110 | A | Assay of porphobilinogen |  |  |  |  |
84119 | A | Test urine for porphyrins |  |  |  |  |
84120 | A | Assay of urine porphyrins |  |  |  |  |
84126 | A | Assay of feces porphyrins |  |  |  |  |
84127 | A | Assay of feces porphyrins |  |  |  |  |
84132 | A | Assay of serum potassium |  |  |  |  |
84133 | A | Assay of urine potassium |  |  |  |  |
84134 | A | Assay of prealbumin |  |  |  |  |
84135 | A | Assay of pregnanediol |  |  |  |  |
84138 | A | Assay of pregnanetriol |  |  |  |  |
84140 | A | Assay of pregnenolone |  |  |  |  |
84143 | A | Assay of 17-hydroxypregneno |  |  |  |  |
84144 | A | Assay of progesterone |  |  |  |  |
84146 | A | Assay of prolactin |  |  |  |  |
84150 | A | Assay of prostaglandin |  |  |  |  |
84152 | A | Assay of psa, complexed |  |  |  |  |
84153 | A | Assay of psa, total |  |  |  |  |
84154 | A | Assay of psa, free |  |  |  |  |
84155 | A | Assay of protein |  |  |  |  |
84160 | A | Assay of serum protein |  |  |  |  |
84165 | A | Assay of serum proteins |  |  |  |  |
84181 | A | Western blot test |  |  |  |  |
84182 | A | Protein, western blot test |  |  |  |  |
84202 | A | Assay RBC protoporphyrin |  |  |  |  |
84203 | A | Test RBC protoporphyrin |  |  |  |  |
84206 | A | Assay of proinsulin |  |  |  |  |
84207 | A | Assay of vitamin b-6 |  |  |  |  |
84210 | A | Assay of pyruvate |  |  |  |  |
84220 | A | Assay of pyruvate kinase |  |  |  |  |
84228 | A | Assay of quinine |  |  |  |  |
84233 | A | Assay of estrogen |  |  |  |  |
84234 | A | Assay of progesterone |  |  |  |  |
84235 | A | Assay of endocrine hormone |  |  |  |  |
84238 | A | Assay, nonendocrine receptor |  |  |  |  |
84244 | A | Assay of renin |  |  |  |  |
84252 | A | Assay of vitamin b-2 |  |  |  |  |
84255 | A | Assay of selenium |  |  |  |  |
84260 | A | Assay of serotonin |  |  |  |  |
84270 | A | Assay of sex hormone globul |  |  |  |  |
84275 | A | Assay of sialic acid |  |  |  |  |
84285 | A | Assay of silica |  |  |  |  |
84295 | A | Assay of serum sodium |  |  |  |  |
84300 | A | Assay of urine sodium |  |  |  |  |
84305 | A | Assay of somatomedin |  |  |  |  |
84307 | A | Assay of somatostatin |  |  |  |  |
84311 | A | Spectrophotometry |  |  |  |  |
84315 | A | Body fluid specific gravity |  |  |  |  |
84375 | A | Chromatogram assay, sugars |  |  |  |  |
84376 | A | Sugars, single, qual |  |  |  |  |
84377 | A | Sugars, multiple, qual |  |  |  |  |
84378 | A | Sugars single quant |  |  |  |  |
84379 | A | Sugars multiple quant |  |  |  |  |
84392 | A | Assay of urine sulfate |  |  |  |  |
84402 | A | Assay of testosterone |  |  |  |  |
84403 | A | Assay of total testosterone |  |  |  |  |
84425 | A | Assay of vitamin b-1 |  |  |  |  |
84430 | A | Assay of thiocyanate |  |  |  |  |
84432 | A | Assay of thyroglobulin |  |  |  |  |
84436 | A | Assay of total thyroxine |  |  |  |  |
84437 | A | Assay of neonatal thyroxine |  |  |  |  |
84439 | A | Assay of free thyroxine |  |  |  |  |
84442 | A | Assay of thyroid activity |  |  |  |  |
84443 | A | Assay thyroid stim hormone |  |  |  |  |
84445 | A | Assay of tsi |  |  |  |  |
84446 | A | Assay of vitamin e |  |  |  |  |
84449 | A | Assay of transcortin |  |  |  |  |
84450 | A | Transferase (AST) (SGOT) |  |  |  |  |
84460 | A | Alanine amino (ALT) (SGPT) |  |  |  |  |
84466 | A | Assay of transferrin |  |  |  |  |
84478 | A | Assay of triglycerides |  |  |  |  |
84479 | A | Assay of thyroid (t3 or t4) |  |  |  |  |
84480 | A | Assay, triiodothyronine (t3) |  |  |  |  |
84481 | A | Free assay (FT-3) |  |  |  |  |
84482 | A | Reverse assay (t3) |  |  |  |  |
84484 | A | Assay of troponin, quant |  |  |  |  |
84485 | A | Assay duodenal fluid trypsin |  |  |  |  |
84488 | A | Test feces for trypsin |  |  |  |  |
84490 | A | Assay of feces for trypsin |  |  |  |  |
84510 | A | Assay of tyrosine |  |  |  |  |
84512 | A | Assay of troponin, qual |  |  |  |  |
84520 | A | Assay of urea nitrogen |  |  |  |  |
84525 | A | Urea nitrogen semi-quant |  |  |  |  |
84540 | A | Assay of urine/urea-n |  |  |  |  |
84545 | A | Urea-N clearance test |  |  |  |  |
84550 | A | Assay of blood/uric acid |  |  |  |  |
84560 | A | Assay of urine/uric acid |  |  |  |  |
84577 | A | Assay of feces/urobilinogen |  |  |  |  |
84578 | A | Test urine urobilinogen |  |  |  |  |
84580 | A | Assay of urine urobilinogen |  |  |  |  |
84583 | A | Assay of urine urobilinogen |  |  |  |  |
84585 | A | Assay of urine vma |  |  |  |  |
84586 | A | Assay of vip |  |  |  |  |
84588 | A | Assay of vasopressin |  |  |  |  |
84590 | A | Assay of vitamin a |  |  |  |  |
84591 | A | Assay of nos vitamin |  |  |  |  |
84597 | A | Assay of vitamin k |  |  |  |  |
84600 | A | Assay of volatiles |  |  |  |  |
84620 | A | Xylose tolerance test |  |  |  |  |
84630 | A | Assay of zinc |  |  |  |  |
84681 | A | Assay of c-peptide |  |  |  |  |
84702 | A | Chorionic gonadotropin test |  |  |  |  |
84703 | A | Chorionic gonadotropin assay |  |  |  |  |
84830 | A | Ovulation tests |  |  |  |  |
84999 | A | Clinical chemistry test |  |  |  |  |
85002 | A | Bleeding time test |  |  |  |  |
85007 | A | Differential WBC count |  |  |  |  |
85008 | A | Nondifferential WBC count |  |  |  |  |
85009 | A | Differential WBC count |  |  |  |  |
85013 | A | Hematocrit |  |  |  |  |
85014 | A | Hematocrit |  |  |  |  |
85018 | A | Hemoglobin |  |  |  |  |
85021 | A | Automated hemogram |  |  |  |  |
85022 | A | Automated hemogram |  |  |  |  |
85023 | A | Automated hemogram |  |  |  |  |
85024 | A | Automated hemogram |  |  |  |  |
85025 | A | Automated hemogram |  |  |  |  |
85027 | A | Automated hemogram |  |  |  |  |
85031 | A | Manual hemogram, cbc |  |  |  |  |
85041 | A | Red blood cell (RBC) count |  |  |  |  |
85044 | A | Reticulocyte count |  |  |  |  |
85045 | A | Reticulocyte count |  |  |  |  |
85046 | A | Reticyte/hgb concentrate |  |  |  |  |
85048 | A | White blood cell (WBC) count |  |  |  |  |
85060 | X | Blood smear interpretation | 0342 | 0.23 | $11.96 | $5.88 | $2.39
85097 | X | Bone marrow interpretation | 0343 | 0.47 | $24.44 | $13.20 | $4.89
85130 | A | Chromogenic substrate assay |  |  |  |  |
85170 | A | Blood clot retraction |  |  |  |  |
85175 | A | Blood clot lysis time |  |  |  |  |
85210 | A | Blood clot factor II test |  |  |  |  |
85220 | A | Blood clot factor V test |  |  |  |  |
85230 | A | Blood clot factor VII test |  |  |  |  |
85240 | A | Blood clot factor VIII test |  |  |  |  |
85244 | A | Blood clot factor VIII test |  |  |  |  |
85245 | A | Blood clot factor VIII test |  |  |  |  |
85246 | A | Blood clot factor VIII test |  |  |  |  |
85247 | A | Blood clot factor VIII test |  |  |  |  |
85250 | A | Blood clot factor IX test |  |  |  |  |
85260 | A | Blood clot factor X test |  |  |  |  |
85270 | A | Blood clot factor XI test |  |  |  |  |
85280 | A | Blood clot factor XII test |  |  |  |  |
85290 | A | Blood clot factor XIII test |  |  |  |  |
85291 | A | Blood clot factor XIII test |  |  |  |  |
85292 | A | Blood clot factor assay |  |  |  |  |
85293 | A | Blood clot factor assay |  |  |  |  |
85300 | A | Antithrombin III test |  |  |  |  |
85301 | A | Antithrombin III test |  |  |  |  |
85302 | A | Blood clot inhibitor antigen |  |  |  |  |
85303 | A | Blood clot inhibitor test |  |  |  |  |
85305 | A | Blood clot inhibitor assay |  |  |  |  |
85306 | A | Blood clot inhibitor test |  |  |  |  |
85307 | A | Assay activated protein c |  |  |  |  |
85335 | A | Factor inhibitor test |  |  |  |  |
85337 | A | Thrombomodulin |  |  |  |  |
85345 | A | Coagulation time |  |  |  |  |
85347 | A | Coagulation time |  |  |  |  |
85348 | A | Coagulation time |  |  |  |  |
85360 | A | Euglobulin lysis |  |  |  |  |
85362 | A | Fibrin degradation products |  |  |  |  |
85366 | A | Fibrinogen test |  |  |  |  |
85370 | A | Fibrinogen test |  |  |  |  |
85378 | A | Fibrin degradation |  |  |  |  |
85379 | A | Fibrin degradation |  |  |  |  |
85384 | A | Fibrinogen |  |  |  |  |
85385 | A | Fibrinogen |  |  |  |  |
85390 | A | Fibrinolysins screen |  |  |  |  |
85400 | A | Fibrinolytic plasmin |  |  |  |  |
85410 | A | Fibrinolytic antiplasmin |  |  |  |  |
85415 | A | Fibrinolytic plasminogen |  |  |  |  |
85420 | A | Fibrinolytic plasminogen |  |  |  |  |
85421 | A | Fibrinolytic plasminogen |  |  |  |  |
85441 | A | Heinz bodies, direct |  |  |  |  |
85445 | A | Heinz bodies, induced |  |  |  |  |
85460 | A | Hemoglobin, fetal |  |  |  |  |
85461 | A | Hemoglobin, fetal |  |  |  |  |
85475 | A | Hemolysin |  |  |  |  |
85520 | A | Heparin assay |  |  |  |  |
85525 | A | Heparin |  |  |  |  |
85530 | A | Heparin-protamine tolerance |  |  |  |  |
85536 | A | Iron stain peripheral blood |  |  |  |  |
85540 | A | Wbc alkaline phosphatase |  |  |  |  |
85547 | A | RBC mechanical fragility |  |  |  |  |
85549 | A | Muramidase |  |  |  |  |
85555 | A | RBC osmotic fragility |  |  |  |  |
85557 | A | RBC osmotic fragility |  |  |  |  |
85576 | A | Blood platelet aggregation |  |  |  |  |
85585 | A | Blood platelet estimation |  |  |  |  |
85590 | A | Platelet count, manual |  |  |  |  |
85595 | A | Platelet count, automated |  |  |  |  |
85597 | A | Platelet neutralization |  |  |  |  |
85610 | A | Prothrombin time |  |  |  |  |
85611 | A | Prothrombin test |  |  |  |  |
85612 | A | Viper venom prothrombin time |  |  |  |  |
85613 | A | Russell viper venom, diluted |  |  |  |  |
85635 | A | Reptilase test |  |  |  |  |
85651 | A | Rbc sed rate, nonautomated |  |  |  |  |
85652 | A | Rbc sed rate, automated |  |  |  |  |
85660 | A | RBC sickle cell test |  |  |  |  |
85670 | A | Thrombin time, plasma |  |  |  |  |
85675 | A | Thrombin time, titer |  |  |  |  |
85705 | A | Thromboplastin inhibition |  |  |  |  |
85730 | A | Thromboplastin time, partial |  |  |  |  |
85732 | A | Thromboplastin time, partial |  |  |  |  |
85810 | A | Blood viscosity examination |  |  |  |  |
85999 | A | Hematology procedure |  |  |  |  |
86000 | A | Agglutinins, febrile |  |  |  |  |
86001 | A | Allergen specific igg |  |  |  |  |
86003 | A | Allergen specific IgE |  |  |  |  |
86005 | A | Allergen specific IgE |  |  |  |  |
86021 | A | WBC antibody identification |  |  |  |  |
86022 | A | Platelet antibodies |  |  |  |  |
86023 | A | Immunoglobulin assay |  |  |  |  |
86038 | A | Antinuclear antibodies |  |  |  |  |
86039 | A | Antinuclear antibodies (ANA) |  |  |  |  |
86060 | A | Antistreptolysin o, titer |  |  |  |  |
86063 | A | Antistreptolysin o, screen |  |  |  |  |
86077 | X | Physician blood bank service | 0343 | 0.47 | $24.44 | $13.20 | $4.89
86078 | X | Physician blood bank service | 0344 | 0.66 | $34.33 | $18.54 | $6.87
86079 | X | Physician blood bank service | 0344 | 0.66 | $34.33 | $18.54 | $6.87
86140 | A | C-reactive protein |  |  |  |  |
86141 | A | C-reactive protein, hs |  |  |  |  |
86146 | A | Glycoprotein antibody |  |  |  |  |
86147 | A | Cardiolipin antibody |  |  |  |  |
86148 | A | Phospholipid antibody |  |  |  |  |
86155 | A | Chemotaxis assay |  |  |  |  |
86156 | A | Cold agglutinin, screen |  |  |  |  |
86157 | A | Cold agglutinin, titer |  |  |  |  |
86160 | A | Complement, antigen |  |  |  |  |
86161 | A | Complement/function activity |  |  |  |  |
86162 | A | Complement, total (CH50) |  |  |  |  |
86171 | A | Complement fixation, each |  |  |  |  |
86185 | A | Counterimmunoelectrophoresis |  |  |  |  |
86215 | A | Deoxyribonuclease, antibody |  |  |  |  |
86225 | A | DNA antibody |  |  |  |  |
86226 | A | DNA antibody, single strand |  |  |  |  |
86235 | A | Nuclear antigen antibody |  |  |  |  |
86243 | A | Fc receptor |  |  |  |  |
86255 | A | Fluorescent antibody, screen |  |  |  |  |
86256 | A | Fluorescent antibody, titer |  |  |  |  |
86277 | A | Growth hormone antibody |  |  |  |  |
86280 | A | Hemagglutination inhibition |  |  |  |  |
86294 | A | Immunoassay, tumor qual |  |  |  |  |
86300 | A | Immunoassay, tumor ca 15-3 |  |  |  |  |
86301 | A | Immunoassay, tumor ca 19-9 |  |  |  |  |
86304 | A | Immunoassay, tumor, ca 125 |  |  |  |  |
86308 | A | Heterophile antibodies |  |  |  |  |
86309 | A | Heterophile antibodies |  |  |  |  |
86310 | A | Heterophile antibodies |  |  |  |  |
86316 | A | Immunoassay, tumor other |  |  |  |  |
86317 | A | Immunoassay,infectious agent |  |  |  |  |
86318 | A | Immunoassay,infectious agent |  |  |  |  |
86320 | A | Serum immunoelectrophoresis |  |  |  |  |
86325 | A | Other immunoelectrophoresis |  |  |  |  |
86327 | A | Immunoelectrophoresis assay |  |  |  |  |
86329 | A | Immunodiffusion |  |  |  |  |
86331 | A | Immunodiffusion ouchterlony |  |  |  |  |
86332 | A | Immune complex assay |  |  |  |  |
86334 | A | Immunofixation procedure |  |  |  |  |
86336 | A | Inhibin A |  |  |  |  |
86337 | A | Insulin antibodies |  |  |  |  |
86340 | A | Intrinsic factor antibody |  |  |  |  |
86341 | A | Islet cell antibody |  |  |  |  |
86343 | A | Leukocyte histamine release |  |  |  |  |
86344 | A | Leukocyte phagocytosis |  |  |  |  |
86353 | A | Lymphocyte transformation |  |  |  |  |
86359 | A | T cells, total count |  |  |  |  |
86360 | A | T cell, absolute count/ratio |  |  |  |  |
86361 | A | T cell, absolute count |  |  |  |  |
86376 | A | Microsomal antibody |  |  |  |  |
86378 | A | Migration inhibitory factor |  |  |  |  |
86382 | A | Neutralization test, viral |  |  |  |  |
86384 | A | Nitroblue tetrazolium dye |  |  |  |  |
86403 | A | Particle agglutination test |  |  |  |  |
86406 | A | Particle agglutination test |  |  |  |  |
86430 | A | Rheumatoid factor test |  |  |  |  |
86431 | A | Rheumatoid factor, quant |  |  |  |  |
86485 | X | Skin test, candida | 0341 | 0.16 | $8.32 | $3.08 | $1.66
86490 | X | Coccidioidomycosis skin test | 0341 | 0.16 | $8.32 | $3.08 | $1.66
86510 | X | Histoplasmosis skin test | 0341 | 0.16 | $8.32 | $3.08 | $1.66
86580 | X | TB intradermal test | 0341 | 0.16 | $8.32 | $3.08 | $1.66
86585 | X | TB tine test | 0341 | 0.16 | $8.32 | $3.08 | $1.66
86586 | X | Skin test, unlisted | 0341 | 0.16 | $8.32 | $3.08 | $1.66
86590 | A | Streptokinase, antibody |  |  |  |  |
86592 | A | Blood serology, qualitative |  |  |  |  |
86593 | A | Blood serology, quantitative |  |  |  |  |
86602 | A | Antinomyces antibody |  |  |  |  |
86603 | A | Adenovirus antibody |  |  |  |  |
86606 | A | Aspergillus antibody |  |  |  |  |
86609 | A | Bacterium antibody |  |  |  |  |
86611 | A | Bartonella antibody |  |  |  |  |
86612 | A | Blastomyces antibody |  |  |  |  |
86615 | A | Bordetella antibody |  |  |  |  |
86617 | A | Lyme disease antibody |  |  |  |  |
86618 | A | Lyme disease antibody |  |  |  |  |
86619 | A | Borrelia antibody |  |  |  |  |
86622 | A | Brucella antibody |  |  |  |  |
86625 | A | Campylobacter antibody |  |  |  |  |
86628 | A | Candida antibody |  |  |  |  |
86631 | A | Chlamydia antibody |  |  |  |  |
86632 | A | Chlamydia igm antibody |  |  |  |  |
86635 | A | Coccidioides antibody |  |  |  |  |
86638 | A | Q fever antibody |  |  |  |  |
86641 | A | Cryptococcus antibody |  |  |  |  |
86644 | A | CMV antibody |  |  |  |  |
86645 | A | CMV antibody, IgM |  |  |  |  |
86648 | A | Diphtheria antibody |  |  |  |  |
86651 | A | Encephalitis antibody |  |  |  |  |
86652 | A | Encephalitis antibody |  |  |  |  |
86653 | A | Encephalitis antibody |  |  |  |  |
86654 | A | Encephalitis antibody |  |  |  |  |
86658 | A | Enterovirus antibody |  |  |  |  |
86663 | A | Epstein-barr antibody |  |  |  |  |
86664 | A | Epstein-barr antibody |  |  |  |  |
86665 | A | Epstein-barr antibody |  |  |  |  |
86666 | A | Ehrlichia antibody |  |  |  |  |
86668 | A | Francisella tularensis |  |  |  |  |
86671 | A | Fungus antibody |  |  |  |  |
86674 | A | Giardia lamblia antibody |  |  |  |  |
86677 | A | Helicobacter pylori |  |  |  |  |
86682 | A | Helminth antibody |  |  |  |  |
86684 | A | Hemophilus influenza |  |  |  |  |
86687 | A | Htlv-i antibody |  |  |  |  |
86688 | A | Htlv-ii antibody |  |  |  |  |
86689 | A | HTLV/HIV confirmatory test |  |  |  |  |
86692 | A | Hepatitis, delta agent |  |  |  |  |
86694 | A | Herpes simplex test |  |  |  |  |
86695 | A | Herpes simplex test |  |  |  |  |
86696 | A | Herpes simplex type 2 |  |  |  |  |
86698 | A | Histoplasma |  |  |  |  |
86701 | A | HIV-1 |  |  |  |  |
86702 | A | HIV-2 |  |  |  |  |
86703 | A | HIV-1/HIV-2, single assay |  |  |  |  |
86704 | A | Hep b core antibody, total |  |  |  |  |
86705 | A | Hep b core antibody, igm |  |  |  |  |
86706 | A | Hep b surface antibody |  |  |  |  |
86707 | A | Hep be antibody |  |  |  |  |
86708 | A | Hep a antibody, total |  |  |  |  |
86709 | A | Hep a antibody, igm |  |  |  |  |
86710 | A | Influenza virus antibody |  |  |  |  |
86713 | A | Legionella antibody |  |  |  |  |
86717 | A | Leishmania antibody |  |  |  |  |
86720 | A | Leptospira antibody |  |  |  |  |
86723 | A | Listeria monocytogenes ab |  |  |  |  |
86727 | A | Lymph choriomeningitis ab |  |  |  |  |
86729 | A | Lympho venereum antibody |  |  |  |  |
86732 | A | Mucormycosis antibody |  |  |  |  |
86735 | A | Mumps antibody |  |  |  |  |
86738 | A | Mycoplasma antibody |  |  |  |  |
86741 | A | Neisseria meningitidis |  |  |  |  |
86744 | A | Nocardia antibody |  |  |  |  |
86747 | A | Parvovirus antibody |  |  |  |  |
86750 | A | Malaria antibody |  |  |  |  |
86753 | A | Protozoa antibody nos |  |  |  |  |
86756 | A | Respiratory virus antibody |  |  |  |  |
86757 | A | Rickettsia antibody |  |  |  |  |
86759 | A | Rotavirus antibody |  |  |  |  |
86762 | A | Rubella antibody |  |  |  |  |
86765 | A | Rubeola antibody |  |  |  |  |
86768 | A | Salmonella antibody |  |  |  |  |
86771 | A | Shigella antibody |  |  |  |  |
86774 | A | Tetanus antibody |  |  |  |  |
86777 | A | Toxoplasma antibody |  |  |  |  |
86778 | A | Toxoplasma antibody, igm |  |  |  |  |
86781 | A | Treponema pallidum, confirm |  |  |  |  |
86784 | A | Trichinella antibody |  |  |  |  |
86787 | A | Varicella-zoster antibody |  |  |  |  |
86790 | A | Virus antibody nos |  |  |  |  |
86793 | A | Yersinia antibody |  |  |  |  |
86800 | A | Thyroglobulin antibody |  |  |  |  |
86803 | A | Hepatitis c ab test |  |  |  |  |
86804 | A | Hep c ab test, confirm |  |  |  |  |
86805 | A | Lymphocytotoxicity assay |  |  |  |  |
86806 | A | Lymphocytotoxicity assay |  |  |  |  |
86807 | A | Cytotoxic antibody screening |  |  |  |  |
86808 | A | Cytotoxic antibody screening |  |  |  |  |
86812 | A | HLA typing, A, B, or C |  |  |  |  |
86813 | A | HLA typing, A, B, or C |  |  |  |  |
86816 | A | HLA typing, DR/DQ |  |  |  |  |
86817 | A | HLA typing, DR/DQ |  |  |  |  |
86821 | A | Lymphocyte culture, mixed |  |  |  |  |
86822 | A | Lymphocyte culture, primed |  |  |  |  |
86849 | A | Immunology procedure |  |  |  |  |
86850 | X | RBC antibody screen | 0345 | 0.19 | $9.88 | $3.06 | $1.98
86860 | X | RBC antibody elution | 0346 | 0.42 | $21.84 | $5.46 | $4.37
86870 | X | RBC antibody identification | 0346 | 0.42 | $21.84 | $5.46 | $4.37
86880 | X | Coombs test | 0341 | 0.16 | $8.32 | $3.08 | $1.66
86885 | X | Coombs test | 0341 | 0.16 | $8.32 | $3.08 | $1.66
86886 | X | Coombs test | 0341 | 0.16 | $8.32 | $3.08 | $1.66
86890 | X | Autologous blood process | 0347 | 0.98 | $50.97 | $12.74 | $10.19
86891 | X | Autologous blood, op salvage | 0345 | 0.19 | $9.88 | $3.06 | $1.98
86900 | X | Blood typing, ABO | 0341 | 0.16 | $8.32 | $3.08 | $1.66
86901 | X | Blood typing, Rh (D) | 0345 | 0.19 | $9.88 | $3.06 | $1.98
86903 | X | Blood typing, antigen screen | 0345 | 0.19 | $9.88 | $3.06 | $1.98
86904 | X | Blood typing, patient serum | 0345 | 0.19 | $9.88 | $3.06 | $1.98
86905 | X | Blood typing, RBC antigens | 0345 | 0.19 | $9.88 | $3.06 | $1.98
86906 | X | Blood typing, Rh phenotype | 0345 | 0.19 | $9.88 | $3.06 | $1.98
86910 | E | Blood typing, paternity test |  |  |  |  |
86911 | E | Blood typing, antigen system |  |  |  |  |
86915 | X | Bone marrow/stem cell prep | 0346 | 0.42 | $21.84 | $5.46 | $4.37
86920 | X | Compatibility test | 0346 | 0.42 | $21.84 | $5.46 | $4.37
86921 | X | Compatibility test | 0345 | 0.19 | $9.88 | $3.06 | $1.98
86922 | X | Compatibility test | 0346 | 0.42 | $21.84 | $5.46 | $4.37
86927 | X | Plasma, fresh frozen | 0346 | 0.42 | $21.84 | $5.46 | $4.37
86930 | X | Frozen blood prep | 0347 | 0.98 | $50.97 | $12.74 | $10.19
86931 | X | Frozen blood thaw | 0347 | 0.98 | $50.97 | $12.74 | $10.19
86932 | X | Frozen blood freeze/thaw | 0346 | 0.42 | $21.84 | $5.46 | $4.37
86940 | A | Hemolysins/agglutinins, auto |  |  |  |  |
86941 | A | Hemolysins/agglutinins |  |  |  |  |
86945 | X | Blood product/irradiation | 0346 | 0.42 | $21.84 | $5.46 | $4.37
86950 | X | Leukacyte transfusion | 0347 | 0.98 | $50.97 | $12.74 | $10.19
86965 | X | Pooling blood platelets | 0346 | 0.42 | $21.84 | $5.46 | $4.37
86970 | X | RBC pretreatment | 0345 | 0.19 | $9.88 | $3.06 | $1.98
86971 | X | RBC pretreatment | 0345 | 0.19 | $9.88 | $3.06 | $1.98
86972 | X | RBC pretreatment | 0345 | 0.19 | $9.88 | $3.06 | $1.98
86975 | X | RBC pretreatment, serum | 0345 | 0.19 | $9.88 | $3.06 | $1.98
86976 | X | RBC pretreatment, serum | 0345 | 0.19 | $9.88 | $3.06 | $1.98
86977 | X | RBC pretreatment, serum | 0345 | 0.19 | $9.88 | $3.06 | $1.98
86978 | X | RBC pretreatment, serum | 0345 | 0.19 | $9.88 | $3.06 | $1.98
86985 | X | Split blood or products | 0347 | 0.98 | $50.97 | $12.74 | $10.19
86999 | X | Transfusion procedure | 0345 | 0.19 | $9.88 | $3.06 | $1.98
87001 | A | Small animal inoculation |  |  |  |  |
87003 | A | Small animal inoculation |  |  |  |  |
87015 | A | Specimen concentration |  |  |  |  |
87040 | A | Blood culture for bacteria |  |  |  |  |
87045 | A | Feces culture, bacteria |  |  |  |  |
87046 | A | Stool cultr, bacteria, each |  |  |  |  |
87070 | A | Culture, bacteria, other |  |  |  |  |
87071 | A | Culture bacteri aerobic othr |  |  |  |  |
87073 | A | Culture bacteria anaerobic |  |  |  |  |
87075 | A | Culture bacteria anaerobic |  |  |  |  |
87076 | A | Culture anaerobe ident, each |  |  |  |  |
87077 | A | Culture aerobic identify |  |  |  |  |
87081 | A | Culture screen only |  |  |  |  |
87084 | A | Culture of specimen by kit |  |  |  |  |
87086 | A | Urine culture/colony count |  |  |  |  |
87088 | A | Urine bacteria culture |  |  |  |  |
87101 | A | Skin fungi culture |  |  |  |  |
87102 | A | Fungus isolation culture |  |  |  |  |
87103 | A | Blood fungus culture |  |  |  |  |
87106 | A | Fungi identification, yeast |  |  |  |  |
87107 | A | Fungi identification, mold |  |  |  |  |
87109 | A | Mycoplasma |  |  |  |  |
87110 | A | Chlamydia culture |  |  |  |  |
87116 | A | Mycobacteria culture |  |  |  |  |
87118 | A | Mycobacteric identification |  |  |  |  |
87140 | A | Cultur type immunofluoresc |  |  |  |  |
87143 | A | Culture typing, glc/hplc |  |  |  |  |
87147 | A | Culture type, immunologic |  |  |  |  |
87149 | A | Culture type, nucleic acid |  |  |  |  |
87152 | A | Culture type pulse field gel |  |  |  |  |
87158 | A | Culture typing, added method |  |  |  |  |
87164 | A | Dark field examination |  |  |  |  |
87166 | A | Dark field examination |  |  |  |  |
87168 | A | Macroscopic exam arthropod |  |  |  |  |
87169 | A | Macacroscopic exam parasite |  |  |  |  |
87172 | A | Pinworm exam |  |  |  |  |
87176 | A | Tissue homogenization, cultr |  |  |  |  |
87177 | A | Ova and parasites smears |  |  |  |  |
87181 | A | Microbe susceptible, diffuse |  |  |  |  |
87184 | A | Microbe susceptible, disk |  |  |  |  |
87185 | A | Microbe susceptible, enzyme |  |  |  |  |
87186 | A | Microbe susceptible, mic |  |  |  |  |
87187 | A | Microbe susceptible, mlc |  |  |  |  |
87188 | A | Microbe suscept, macrobroth |  |  |  |  |
87190 | A | Microbe suscept, mycobacteri |  |  |  |  |
87197 | A | Bactericidal level, serum |  |  |  |  |
87198 | A | Cytomegalovirus antibody dfa |  |  |  |  |
87199 | A | Enterovirus antibody, dfa |  |  |  |  |
87205 | A | Smear, gram stain |  |  |  |  |
87206 | A | Smear, fluorescent/acid stai |  |  |  |  |
87207 | A | Smear, special stain |  |  |  |  |
87210 | A | Smear, wet mount, saline/ink |  |  |  |  |
87220 | A | Tissue exam for fungi |  |  |  |  |
87230 | A | Assay, toxin or antitoxin |  |  |  |  |
87250 | A | Virus inoculate, eggs/animal |  |  |  |  |
87252 | A | Virus inoculation, tissue |  |  |  |  |
87253 | A | Virus inoculate tissue, addl |  |  |  |  |
87254 | A | Virus inoculation, shell via |  |  |  |  |
87260 | A | Adenovirus ag, if |  |  |  |  |
87265 | A | Pertussis ag, if |  |  |  |  |
87270 | A | Chlamydia trachomatis ag, if |  |  |  |  |
87272 | A | Cryptosporidum/gardia ag, if |  |  |  |  |
87273 | A | Herpes simplex 2, ag, if |  |  |  |  |
87274 | A | Herpes simplex 1, ag, if |  |  |  |  |
87275 | A | Influenza b, ag, if |  |  |  |  |
87276 | A | Influenza a, ag, if |  |  |  |  |
87277 | A | Legionella micdadei, ag, if |  |  |  |  |
87278 | A | Legion pneumophilia ag, if |  |  |  |  |
87279 | A | Parainfluenza, ag, if |  |  |  |  |
87280 | A | Respiratory syncytial ag, if |  |  |  |  |
87281 | A | Pneumocystis carinii, ag, if |  |  |  |  |
87283 | A | Rubeola, ag, if |  |  |  |  |
87285 | A | Treponema pallidum, ag, if |  |  |  |  |
87290 | A | Varicella zoster, ag, if |  |  |  |  |
87299 | A | Antibody detection, nos, if |  |  |  |  |
87300 | A | Ag detection, polyval, if |  |  |  |  |
87301 | A | Adenovirus ag, eia |  |  |  |  |
87320 | A | Chylmd trach ag, eia |  |  |  |  |
87324 | A | Clostridium ag, eia |  |  |  |  |
87327 | A | Cryptococcus neoform ag, eia |  |  |  |  |
87328 | A | Cryptospor ag, eia |  |  |  |  |
87332 | A | Cytomegalovirus ag, eia |  |  |  |  |
87335 | A | E coli 0157 ag, eia |  |  |  |  |
87336 | A | Entamoeb hist dispr, ag, eia |  |  |  |  |
87337 | A | Entamoeb hist group, ag, eia |  |  |  |  |
87338 | A | Hpylori, stool, eia |  |  |  |  |
87339 | A | H pylori ag, eia |  |  |  |  |
87340 | A | Hepatitis b surface ag, eia |  |  |  |  |
87341 | A | Hepatitis b surface, ag, eia |  |  |  |  |
87350 | A | Hepatitis be ag, eia |  |  |  |  |
87380 | A | Hepatitis delta ag, eia |  |  |  |  |
87385 | A | Histoplasma capsul ag, eia |  |  |  |  |
87390 | A | Hiv-1 ag, eia |  |  |  |  |
87391 | A | Hiv-2 ag, eia |  |  |  |  |
87400 | A | Influenza a/b, ag, eia |  |  |  |  |
87420 | A | Resp syncytial ag, eia |  |  |  |  |
87425 | A | Rotavirus ag, eia |  |  |  |  |
87427 | A | Shiga-like toxin ag, eia |  |  |  |  |
87430 | A | Strep a ag, eia |  |  |  |  |
87449 | A | Ag detect nos, eia, mult |  |  |  |  |
87450 | A | Ag detect nos, eia, single |  |  |  |  |
87451 | A | Ag detect polyval, eia, mult |  |  |  |  |
87470 | A | Bartonella, dna, dir probe |  |  |  |  |
87471 | A | Bartonella, dna, amp probe |  |  |  |  |
87472 | A | Bartonella, dna, quant |  |  |  |  |
87475 | A | Lyme dis, dna, dir probe |  |  |  |  |
87476 | A | Lyme dis, dna, amp probe |  |  |  |  |
87477 | A | Lyme dis, dna, quant |  |  |  |  |
87480 | A | Candida, dna, dir probe |  |  |  |  |
87481 | A | Candida, dna, amp probe |  |  |  |  |
87482 | A | Candida, dna, quant |  |  |  |  |
87485 | A | Chylmd pneum, dna, dir probe |  |  |  |  |
87486 | A | Chylmd pneum, dna, amp probe |  |  |  |  |
87487 | A | Chylmd pneum, dna, quant |  |  |  |  |
87490 | A | Chylmd trach, dna, dir probe |  |  |  |  |
87491 | A | Chylmd trach, dna, amp probe |  |  |  |  |
87492 | A | Chylmd trach, dna, quant |  |  |  |  |
87495 | A | Cytomeg, dna, dir probe |  |  |  |  |
87496 | A | Cytomeg, dna, amp probe |  |  |  |  |
87497 | A | Cytomeg, dna, quant |  |  |  |  |
87510 | A | Gardner vag, dna, dir probe |  |  |  |  |
87511 | A | Gardner vag, dna, amp probe |  |  |  |  |
87512 | A | Gardner vag, dna, quant |  |  |  |  |
87515 | A | Hepatitis b, dna, dir probe |  |  |  |  |
87516 | A | Hepatitis b, dna, amp probe |  |  |  |  |
87517 | A | Hepatitis b, dna, quant |  |  |  |  |
87520 | A | Hepatitis c, rna, dir probe |  |  |  |  |
87521 | A | Hepatitis c, rna, amp probe |  |  |  |  |
87522 | A | Hepatitis c, rna, quant |  |  |  |  |
87525 | A | Hepatitis g, dna, dir probe |  |  |  |  |
87526 | A | Hepatitis g, dna, amp probe |  |  |  |  |
87527 | A | Hepatitis g, dna, quant |  |  |  |  |
87528 | A | Hsv, dna, dir probe |  |  |  |  |
87529 | A | Hsv, dna, amp probe |  |  |  |  |
87530 | A | Hsv, dna, quant |  |  |  |  |
87531 | A | Hhv-6, dna, dir probe |  |  |  |  |
87532 | A | Hhv-6, dna, amp probe |  |  |  |  |
87533 | A | Hhv-6, dna, quant |  |  |  |  |
87534 | A | Hiv-1, dna, dir probe |  |  |  |  |
87535 | A | Hiv-1, dna, amp probe |  |  |  |  |
87536 | A | Hiv-1, dna, quant |  |  |  |  |
87537 | A | Hiv-2, dna, dir probe |  |  |  |  |
87538 | A | Hiv-2, dna, amp probe |  |  |  |  |
87539 | A | Hiv-2, dna, quant |  |  |  |  |
87540 | A | Legion pneumo, dna, dir prob |  |  |  |  |
87541 | A | Legion pneumo, dna, amp prob |  |  |  |  |
87542 | A | Legion pneumo, dna, quant |  |  |  |  |
87550 | A | Mycobacteria, dna, dir probe |  |  |  |  |
87551 | A | Mycobacteria, dna, amp probe |  |  |  |  |
87552 | A | Mycobacteria, dna, quant |  |  |  |  |
87555 | A | M.tuberculo, dna, dir probe |  |  |  |  |
87556 | A | M.tuberculo, dna, amp probe |  |  |  |  |
87557 | A | M.tuberculo, dna, quant |  |  |  |  |
87560 | A | M.avium-intra, dna, dir prob |  |  |  |  |
87561 | A | M.avium-intra, dna, amp prob |  |  |  |  |
87562 | A | M.avium-intra, dna, quant |  |  |  |  |
87580 | A | M.pneumon, dna, dir probe |  |  |  |  |
87581 | A | M.pneumon, dna, amp probe |  |  |  |  |
87582 | A | M.pneumon, dna, quant |  |  |  |  |
87590 | A | N.gonorrhoeae, dna, dir prob |  |  |  |  |
87591 | A | N.gonorrhoeae, dna, amp prob |  |  |  |  |
87592 | A | N.gonorrhoeae, dna, quant |  |  |  |  |
87620 | A | Hpv, dna, dir probe |  |  |  |  |
87621 | A | Hpv, dna, amp probe |  |  |  |  |
87622 | A | Hpv, dna, quant |  |  |  |  |
87650 | A | Strep a, dna, dir probe |  |  |  |  |
87651 | A | Strep a, dna, amp probe |  |  |  |  |
87652 | A | Strep a, dna, quant |  |  |  |  |
87797 | A | Detect agent nos, dna, dir |  |  |  |  |
87798 | A | Detect agent nos, dna, amp |  |  |  |  |
87799 | A | Detect agent nos, dna, quant |  |  |  |  |
87800 | A | Detect agnt mult, dna, direc |  |  |  |  |
87801 | A | Detect agnt mult, dna, ampli |  |  |  |  |
87802 | A | Strep b assay w/optic |  |  |  |  |
87803 | A | Clostridium toxin a w/optic |  |  |  |  |
87804 | A | Influenza assay w/optic |  |  |  |  |
87810 | A | Chylmd trach assay w/optic |  |  |  |  |
87850 | A | N. gonorrhoeae assay w/optic |  |  |  |  |
87880 | A | Strep a assay w/optic |  |  |  |  |
87899 | A | Agent nos assay w/optic |  |  |  |  |
87901 | A | Genotype, dna, hiv reverse t |  |  |  |  |
87902 | A | Genotype, dna, hepatitis C |  |  |  |  |
87903 | A | Phenotype, dna hiv w/culture |  |  |  |  |
87904 | A | Phenotype, dna hiv w/clt add |  |  |  |  |
87999 | A | Microbiology procedure |  |  |  |  |
88000 | E | Autopsy (necropsy), gross |  |  |  |  |
88005 | E | Autopsy (necropsy), gross |  |  |  |  |
88007 | E | Autopsy (necropsy), gross |  |  |  |  |
88012 | E | Autopsy (necropsy), gross |  |  |  |  |
88014 | E | Autopsy (necropsy), gross |  |  |  |  |
88016 | E | Autopsy (necropsy), gross |  |  |  |  |
88020 | E | Autopsy (necropsy), complete |  |  |  |  |
88025 | E | Autopsy (necropsy), complete |  |  |  |  |
88027 | E | Autopsy (necropsy), complete |  |  |  |  |
88028 | E | Autopsy (necropsy), complete |  |  |  |  |
88029 | E | Autopsy (necropsy), complete |  |  |  |  |
88036 | E | Limited autopsy |  |  |  |  |
88037 | E | Limited autopsy |  |  |  |  |
88040 | E | Forensic autopsy (necropsy) |  |  |  |  |
88045 | E | Coroner's autopsy (necropsy) |  |  |  |  |
88099 | E | Necropsy (autopsy) procedure |  |  |  |  |
88104 | X | Cytopathology, fluids | 0343 | 0.47 | $24.44 | $13.20 | $4.89
88106 | X | Cytopathology, fluids | 0343 | 0.47 | $24.44 | $13.20 | $4.89
88107 | X | Cytopathology, fluids | 0343 | 0.47 | $24.44 | $13.20 | $4.89
88108 | X | Cytopath, concentrate tech | 0343 | 0.47 | $24.44 | $13.20 | $4.89
88125 | X | Forensic cytopathology | 0342 | 0.23 | $11.96 | $5.88 | $2.39
88130 | A | Sex chromatin identification |  |  |  |  |
88140 | A | Sex chromatin identification |  |  |  |  |
88141 | N | Cytopath, c/v, interpret |  |  |  |  |
88142 | A | Cytopath, c/v, thin layer |  |  |  |  |
88143 | A | Cytopath, c/v, thin lyr redo |  |  |  |  |
88144 | A | Cytopath, c/v, thin lyr redo |  |  |  |  |
88145 | A | Cytopath, c/v, thin lyr sel |  |  |  |  |
88147 | A | Cytopath, c/v, automated |  |  |  |  |
88148 | A | Cytopath, c/v, auto rescreen |  |  |  |  |
88150 | A | Cytopath, c/v, manual |  |  |  |  |
88152 | A | Cytopath, c/v, auto redo |  |  |  |  |
88153 | A | Cytopath, c/v, redo |  |  |  |  |
88154 | A | Cytopath, c/v, select |  |  |  |  |
88155 | A | Cytopath, c/v, index add-on |  |  |  |  |
88160 | X | Cytopath smear, other source | 0342 | 0.23 | $11.96 | $5.88 | $2.39
88161 | X | Cytopath smear, other source | 0343 | 0.47 | $24.44 | $13.20 | $4.89
88162 | X | Cytopath smear, other source | 0343 | 0.47 | $24.44 | $13.20 | $4.89
88164 | A | Cytopath tbs, c/v, manual |  |  |  |  |
88165 | A | Cytopath tbs, c/v, redo |  |  |  |  |
88166 | A | Cytopath tbs, c/v, auto redo |  |  |  |  |
88167 | A | Cytopath tbs, c/v, select |  |  |  |  |
88172 | X | Cytopathology eval of fna | 0343 | 0.47 | $24.44 | $13.20 | $4.89
88173 | X | Cytopath eval, fna, report | 0343 | 0.47 | $24.44 | $13.20 | $4.89
88180 | X | Cell marker study | 0343 | 0.47 | $24.44 | $13.20 | $4.89
88182 | X | Cell marker study | 0344 | 0.66 | $34.33 | $18.54 | $6.87
88199 | A | Cytopathology procedure |  |  |  |  |
88230 | A | Tissue culture, lymphocyte |  |  |  |  |
88233 | A | Tissue culture, skin/biopsy |  |  |  |  |
88235 | A | Tissue culture, placenta |  |  |  |  |
88237 | A | Tissue culture, bone marrow |  |  |  |  |
88239 | A | Tissue culture, tumor |  |  |  |  |
88240 | A | Cell cryopreserve/storage |  |  |  |  |
88241 | A | Frozen cell preparation |  |  |  |  |
88245 | A | Chromosome analysis, 20-25 |  |  |  |  |
88248 | A | Chromosome analysis, 50-100 |  |  |  |  |
88249 | A | Chromosome analysis, 100 |  |  |  |  |
88261 | A | Chromosome analysis, 5 |  |  |  |  |
88262 | A | Chromosome analysis, 15-20 |  |  |  |  |
88263 | A | Chromosome analysis, 45 |  |  |  |  |
88264 | A | Chromosome analysis, 20-25 |  |  |  |  |
88267 | A | Chromosome analys, placenta |  |  |  |  |
88269 | A | Chromosome analys, amniotic |  |  |  |  |
88271 | A | Cytogenetics, dna probe |  |  |  |  |
88272 | A | Cytogenetics, 3-5 |  |  |  |  |
88273 | A | Cytogenetics, 10-30 |  |  |  |  |
88274 | A | Cytogenetics, 25-99 |  |  |  |  |
88275 | A | Cytogenetics, 100-300 |  |  |  |  |
88280 | A | Chromosome karyotype study |  |  |  |  |
88283 | A | Chromosome banding study |  |  |  |  |
88285 | A | Chromosome count, additional |  |  |  |  |
88289 | A | Chromosome study, additional |  |  |  |  |
88291 | A | Cyto/molecular report |  |  |  |  |
88299 | X | Cytogenetic study | 0342 | 0.23 | $11.96 | $5.88 | $2.39
88300 | X | Surgical path, gross | 0342 | 0.23 | $11.96 | $5.88 | $2.39
88302 | X | Tissue exam by pathologist | 0342 | 0.23 | $11.96 | $5.88 | $2.39
88304 | X | Tissue exam by pathologist | 0343 | 0.47 | $24.44 | $13.20 | $4.89
88305 | X | Tissue exam by pathologist | 0343 | 0.47 | $24.44 | $13.20 | $4.89
88307 | X | Tissue exam by pathologist | 0344 | 0.66 | $34.33 | $18.54 | $6.87
88309 | X | Tissue exam by pathologist | 0344 | 0.66 | $34.33 | $18.54 | $6.87
88311 | X | Decalcify tissue | 0342 | 0.23 | $11.96 | $5.88 | $2.39
88312 | X | Special stains | 0342 | 0.23 | $11.96 | $5.88 | $2.39
88313 | X | Special stains | 0342 | 0.23 | $11.96 | $5.88 | $2.39
88314 | X | Histochemical stain | 0342 | 0.23 | $11.96 | $5.88 | $2.39
88318 | X | Chemical histochemistry | 0342 | 0.23 | $11.96 | $5.88 | $2.39
88319 | X | Enzyme histochemistry | 0342 | 0.23 | $11.96 | $5.88 | $2.39
88321 | X | Microslide consultation | 0342 | 0.23 | $11.96 | $5.88 | $2.39
88323 | X | Microslide consultation | 0343 | 0.47 | $24.44 | $13.20 | $4.89
88325 | X | Comprehensive review of data | 0344 | 0.66 | $34.33 | $18.54 | $6.87
88329 | X | Path consult introp | 0342 | 0.23 | $11.96 | $5.88 | $2.39
88331 | X | Path consult intraop, 1 bloc | 0343 | 0.47 | $24.44 | $13.20 | $4.89
88332 | X | Path consult intraop, addl | 0342 | 0.23 | $11.96 | $5.88 | $2.39
88342 | X | Immunocytochemistry | 0344 | 0.66 | $34.33 | $18.54 | $6.87
88346 | X | Immunofluorescent study | 0343 | 0.47 | $24.44 | $13.20 | $4.89
88347 | X | Immunofluorescent study | 0344 | 0.66 | $34.33 | $18.54 | $6.87
88348 | X | Electron microscopy | 0661 | 3.46 | $179.95 | $98.97 | $35.99
88349 | X | Scanning electron microscopy | 0661 | 3.46 | $179.95 | $98.97 | $35.99
88355 | X | Analysis, skeletal muscle | 0344 | 0.66 | $34.33 | $18.54 | $6.87
88356 | X | Analysis, nerve | 0344 | 0.66 | $34.33 | $18.54 | $6.87
88358 | X | Analysis, tumor | 0344 | 0.66 | $34.33 | $18.54 | $6.87
88362 | X | Nerve teasing preparations | 0343 | 0.47 | $24.44 | $13.20 | $4.89
88365 | X | Tissue hybridization | 0344 | 0.66 | $34.33 | $18.54 | $6.87
88371 | A | Protein, western blot tissue |  |  |  |  |
88372 | A | Protein analysis w/probe |  |  |  |  |
88380 | A | Microdissection |  |  |  |  |
88399 | A | Surgical pathology procedure |  |  |  |  |
88400 | A | Bilirubin total transcut |  |  |  |  |
89050 | A | Body fluid cell count |  |  |  |  |
89051 | A | Body fluid cell count |  |  |  |  |
89060 | A | Exam synovial fluid crystals |  |  |  |  |
89100 | X | Sample intestinal contents | 0360 | 1.65 | $85.81 | $42.91 | $17.16
89105 | X | Sample intestinal contents | 0360 | 1.65 | $85.81 | $42.91 | $17.16
89125 | A | Specimen fat stain |  |  |  |  |
89130 | X | Sample stomach contents | 0360 | 1.65 | $85.81 | $42.91 | $17.16
89132 | X | Sample stomach contents | 0360 | 1.65 | $85.81 | $42.91 | $17.16
89135 | X | Sample stomach contents | 0360 | 1.65 | $85.81 | $42.91 | $17.16
89136 | X | Sample stomach contents | 0360 | 1.65 | $85.81 | $42.91 | $17.16
89140 | X | Sample stomach contents | 0360 | 1.65 | $85.81 | $42.91 | $17.16
89141 | X | Sample stomach contents | 0360 | 1.65 | $85.81 | $42.91 | $17.16
89160 | A | Exam feces for meat fibers |  |  |  |  |
89190 | A | Nasal smear for eosinophils |  |  |  |  |
89250 | X | Fertilization of oocyte | 0348 | 0.83 | $43.17 |  | $8.63
89251 | X | Culture oocyte w/embryos | 0348 | 0.83 | $43.17 |  | $8.63
89252 | X | Assist oocyte fertilization | 0348 | 0.83 | $43.17 |  | $8.63
89253 | X | Embryo hatching | 0348 | 0.83 | $43.17 |  | $8.63
89254 | X | Oocyte identification | 0348 | 0.83 | $43.17 |  | $8.63
89255 | X | Prepare embryo for transfer | 0348 | 0.83 | $43.17 |  | $8.63
89256 | X | Prepare cryopreserved embryo | 0348 | 0.83 | $43.17 |  | $8.63
89257 | X | Sperm identification | 0348 | 0.83 | $43.17 |  | $8.63
89258 | X | Cryopreservation, embryo | 0348 | 0.83 | $43.17 |  | $8.63
89259 | X | Cryopreservation, sperm | 0348 | 0.83 | $43.17 |  | $8.63
89260 | X | Sperm isolation, simple | 0348 | 0.83 | $43.17 |  | $8.63
89261 | X | Sperm isolation, complex | 0348 | 0.83 | $43.17 |  | $8.63
89264 | X | Identify sperm tissue | 0348 | 0.83 | $43.17 |  | $8.63
89300 | A | Semen analysis |  |  |  |  |
89310 | A | Semen analysis |  |  |  |  |
89320 | A | Semen analysis |  |  |  |  |
89321 | A | Semen analysis |  |  |  |  |
89325 | A | Sperm antibody test |  |  |  |  |
89329 | A | Sperm evaluation test |  |  |  |  |
89330 | A | Evaluation, cervical mucus |  |  |  |  |
89350 | X | Sputum specimen collection | 0344 | 0.66 | $34.33 | $18.54 | $6.87
89355 | A | Exam feces for starch |  |  |  |  |
89360 | X | Collect sweat for test | 0344 | 0.66 | $34.33 | $18.54 | $6.87
89365 | A | Water load test |  |  |  |  |
89399 | A | Pathology lab procedure |  |  |  |  |
90281 | E | Human ig, im |  |  |  |  |
90283 | E | Human ig, iv |  |  |  |  |
90287 | E | Botulinum antitoxin |  |  |  |  |
90288 | E | Botulism ig, iv |  |  |  |  |
90291 | E | Cmv ig, iv |  |  |  |  |
90296 | N | Diphtheria antitoxin |  |  |  |  |
90371 | K | Hep b ig, im | 0356 | 0.69 | $35.89 |  | $7.18
90375 | K | Rabies ig, im/sc | 0356 | 0.69 | $35.89 |  | $7.18
90376 | K | Rabies ig, heat treated | 0356 | 0.69 | $35.89 |  | $7.18
90378 | N | Rsv ig, im, 50mg |  |  |  |  |
90379 | N | Rsv ig, iv |  |  |  |  |
90384 | E | Rh ig, full-dose, im |  |  |  |  |
90385 | N | Rh ig, minidose, im |  |  |  |  |
90386 | E | Rh ig, iv |  |  |  |  |
90389 | N | Tetanus ig, im |  |  |  |  |
90393 | N | Vaccina ig, im |  |  |  |  |
90396 | N | Varicella-zoster ig, im |  |  |  |  |
90399 | E | Immune globulin |  |  |  |  |
90471 | N | Immunization admin |  |  |  |  |
90472 | N | Immunization admin, each add |  |  |  |  |
90473 | E | Immune admin oral/nasal |  |  |  |  |
90474 | E | Immune admin oral/nasal addl |  |  |  |  |
90476 | N | Adenovirus vaccine, type 4 |  |  |  |  |
90477 | N | Adenovirus vaccine, type 7 |  |  |  |  |
90581 | K | Anthrax vaccine, sc | 0356 | 0.69 | $35.89 |  | $7.18
90585 | N | Bcg vaccine, percut |  |  |  |  |
90586 | N | Bcg vaccine, intravesical |  |  |  |  |
90632 | N | Hep a vaccine, adult im |  |  |  |  |
90633 | N | Hep a vacc, ped/adol, 2 dose |  |  |  |  |
90634 | N | Hep a vacc, ped/adol, 3 dose |  |  |  |  |
90636 | K | Hep a/hep b vacc, adult im | 0355 | 0.24 | $12.48 |  | $2.50
90645 | N | Hib vaccine, hboc, im |  |  |  |  |
90646 | N | Hib vaccine, prp-d, im |  |  |  |  |
90647 | N | Hib vaccine, prp-omp, im |  |  |  |  |
90648 | N | Hib vaccine, prp-t, im |  |  |  |  |
90657 | K | Flu vaccine, 6-35 mo, im | 0354 | 0.09 | $4.68 |  |
90658 | K | Flu vaccine, 3 yrs, im | 0354 | 0.09 | $4.68 |  |
90659 | K | Flu vaccine, whole, im | 0354 | 0.09 | $4.68 |  |
90660 | E | Flu vaccine, nasal |  |  |  |  |
90665 | N | Lyme disease vaccine, im |  |  |  |  |
90669 | E | Pneumococcal vacc, ped<5 |  |  |  |  |
90675 | N | Rabies vaccine, im |  |  |  |  |
90676 | N | Rabies vaccine, id |  |  |  |  |
90680 | N | Rotovirus vaccine, oral |  |  |  |  |
90690 | N | Typhoid vaccine, oral |  |  |  |  |
90691 | N | Typhoid vaccine, im |  |  |  |  |
90692 | N | Typhoid vaccine, h-p, sc/id |  |  |  |  |
90693 | K | Typhoid vaccine, akd, sc | 0356 | 0.69 | $35.89 |  | $7.18
90700 | N | Dtap vaccine, im |  |  |  |  |
90701 | N | Dtp vaccine, im |  |  |  |  |
90702 | N | Dt vaccine < 7, im |  |  |  |  |
90703 | N | Tetanus vaccine, im |  |  |  |  |
90704 | N | Mumps vaccine, sc |  |  |  |  |
90705 | N | Measles vaccine, sc |  |  |  |  |
90706 | N | Rubella vaccine, sc |  |  |  |  |
90707 | N | Mmr vaccine, sc |  |  |  |  |
90708 | N | Measles-rubella vaccine, sc |  |  |  |  |
90709 | K | Rubella & mumps vaccine, sc | 0356 | 0.69 | $35.89 |  | $7.18
90710 | N | Mmrv vaccine, sc |  |  |  |  |
90712 | N | Oral poliovirus vaccine |  |  |  |  |
90713 | N | Poliovirus, ipv, sc |  |  |  |  |
90716 | N | Chicken pox vaccine, sc |  |  |  |  |
90717 | N | Yellow fever vaccine, sc |  |  |  |  |
90718 | N | Td vaccine > 7, im |  |  |  |  |
90719 | N | Diphtheria vaccine, im |  |  |  |  |
90720 | N | Dtp/hib vaccine, im |  |  |  |  |
90721 | N | Dtap/hib vaccine, im |  |  |  |  |
90723 | K | Dtap-hep b-ipv vaccine, im | 0356 | 0.69 | $35.89 |  | $7.18
90725 | N | Cholera vaccine, injectable |  |  |  |  |
90727 | N | Plague vaccine, im |  |  |  |  |
90732 | K | Pneumococcal vaccine | 0354 | 0.09 | $4.68 |  |
90733 | N | Meningococcal vaccine, sc |  |  |  |  |
90735 | N | Encephalitis vaccine, sc |  |  |  |  |
90740 | K | Hepb vacc, ill pat 3 dose im | 0356 | 0.69 | $35.89 |  | $7.18
90743 | K | Hep b vacc, adol, 2 dose, im | 0356 | 0.69 | $35.89 |  | $7.18
90744 | K | Hepb vacc ped/adol 3 dose im | 0356 | 0.69 | $35.89 |  | $7.18
90746 | K | Hep b vaccine, adult, im | 0356 | 0.69 | $35.89 |  | $7.18
90747 | K | Hepb vacc, ill pat 4 dose im | 0356 | 0.69 | $35.89 |  | $7.18
90748 | K | Hep b/hib vaccine, im | 0355 | 0.24 | $12.48 |  | $2.50
90749 | N | Vaccine toxoid |  |  |  |  |
90780 | E | IV infusion therapy, 1 hour |  |  |  |  |
90781 | E | IV infusion, additional hour |  |  |  |  |
90782 | X | Injection, sc/im | 0353 | 0.43 | $22.36 |  | $4.47
90783 | X | Injection, ia | 0359 | 0.83 | $43.17 |  | $8.63
90784 | X | Injection, iv | 0359 | 0.83 | $43.17 |  | $8.63
90788 | X | Injection of antibiotic | 0359 | 0.83 | $43.17 |  | $8.63
90799 | X | Ther/prophylactic/dx inject | 0352 | 0.14 | $7.28 |  | $1.46
90801 | S | Psy dx interview | 0323 | 1.95 | $101.42 | $21.26 | $20.28
90802 | S | Intac psy dx interview | 0323 | 1.95 | $101.42 | $21.26 | $20.28
90804 | S | Psytx, office, 20-30 min | 0322 | 1.44 | $74.89 | $12.40 | $14.98
90805 | S | Psytx, off, 20-30 min w/e&m | 0322 | 1.44 | $74.89 | $12.40 | $14.98
90806 | S | Psytx, off, 45-50 min | 0323 | 1.95 | $101.42 | $21.26 | $20.28
90807 | S | Psytx, off, 45-50 min w/e&m | 0323 | 1.95 | $101.42 | $21.26 | $20.28
90808 | S | Psytx, office, 75-80 min | 0323 | 1.95 | $101.42 | $21.26 | $20.28
90809 | S | Psytx, off, 75-80, w/e&m | 0323 | 1.95 | $101.42 | $21.26 | $20.28
90810 | S | Intac psytx, off, 20-30 min | 0322 | 1.44 | $74.89 | $12.40 | $14.98
90811 | S | Intac psytx, 20-30, w/e&m | 0322 | 1.44 | $74.89 | $12.40 | $14.98
90812 | S | Intac psytx, off, 45-50 min | 0323 | 1.95 | $101.42 | $21.26 | $20.28
90813 | S | Intac psytx, 45-50 min w/e&m | 0323 | 1.95 | $101.42 | $21.26 | $20.28
90814 | S | Intac psytx, off, 75-80 min | 0323 | 1.95 | $101.42 | $21.26 | $20.28
90815 | S | Intac psytx, 75-80 w/e&m | 0323 | 1.95 | $101.42 | $21.26 | $20.28
90816 | S | Psytx, hosp, 20-30 min | 0322 | 1.44 | $74.89 | $12.40 | $14.98
90817 | S | Psytx, hosp, 20-30 min w/e&m | 0322 | 1.44 | $74.89 | $12.40 | $14.98
90818 | S | Psytx, hosp, 45-50 min | 0323 | 1.95 | $101.42 | $21.26 | $20.28
90819 | S | Psytx, hosp, 45-50 min w/e&m | 0323 | 1.95 | $101.42 | $21.26 | $20.28
90821 | S | Psytx, hosp, 75-80 min | 0323 | 1.95 | $101.42 | $21.26 | $20.28
90822 | S | Psytx, hosp, 75-80 min w/e&m | 0323 | 1.95 | $101.42 | $21.26 | $20.28
90823 | S | Intac psytx, hosp, 20-30 min | 0322 | 1.44 | $74.89 | $12.40 | $14.98
90824 | S | Intac psytx, hsp 20-30 w/e&m | 0322 | 1.44 | $74.89 | $12.40 | $14.98
90826 | S | Intac psytx, hosp, 45-50 min | 0323 | 1.95 | $101.42 | $21.26 | $20.28
90827 | S | Intac psytx, hsp 45-50 w/e&m | 0323 | 1.95 | $101.42 | $21.26 | $20.28
90828 | S | Intac psytx, hosp, 75-80 min | 0323 | 1.95 | $101.42 | $21.26 | $20.28
90829 | S | Intac psytx, hsp 75-80 w/e&m | 0323 | 1.95 | $101.42 | $21.26 | $20.28
90845 | S | Psychoanalysis | 0323 | 1.95 | $101.42 | $21.26 | $20.28
90846 | S | Family psytx w/o patient | 0324 | 2.71 | $140.94 |  | $28.19
90847 | S | Family psytx w/patient | 0324 | 2.71 | $140.94 |  | $28.19
90849 | S | Multiple family group psytx | 0325 | 1.55 | $80.61 | $18.27 | $16.12
90853 | S | Group psychotherapy | 0325 | 1.55 | $80.61 | $18.27 | $16.12
90857 | S | Intac group psytx | 0325 | 1.55 | $80.61 | $18.27 | $16.12
90862 | X | Medication management | 0374 | 1.20 | $62.41 |  | $12.48
90865 | S | Narcosynthesis | 0323 | 1.95 | $101.42 | $21.26 | $20.28
90870 | S | Electroconvulsive therapy | 0320 | 4.46 | $231.96 | $80.06 | $46.39
90871 | S | Electroconvulsive therapy | 0320 | 4.46 | $231.96 | $80.06 | $46.39
90875 | E | Psychophysiological therapy |  |  |  |  |
90876 | E | Psychophysiological therapy |  |  |  |  |
90880 | S | Hypnotherapy | 0323 | 1.95 | $101.42 | $21.26 | $20.28
90882 | E | Environmental manipulation |  |  |  |  |
90885 | N | Psy evaluation of records |  |  |  |  |
90887 | N | Consultation with family |  |  |  |  |
90889 | N | Preparation of report |  |  |  |  |
90899 | S | Psychiatric service/therapy | 0322 | 1.44 | $74.89 | $12.40 | $14.98
90901 | S | Biofeedback train, any meth | 0321 | 1.27 | $66.05 | $21.78 | $13.21
90911 | S | Biofeedback peri/uro/rectal | 0321 | 1.27 | $66.05 | $21.78 | $13.21
90918 | A | ESRD related services, month |  |  |  |  |
90919 | A | ESRD related services, month |  |  |  |  |
90920 | A | ESRD related services, month |  |  |  |  |
90921 | A | ESRD related services, month |  |  |  |  |
90922 | A | ESRD related services, day |  |  |  |  |
90923 | A | Esrd related services, day |  |  |  |  |
90924 | A | Esrd related services, day |  |  |  |  |
90925 | A | Esrd related services, day |  |  |  |  |
90935 | S | Hemodialysis, one evaluation | 0170 | 4.79 | $249.12 |  | $49.82
90937 | E | Hemodialysis, repeated eval |  |  |  |  |
90939 | N | Hemodialysis study, transcut |  |  |  |  |
90940 | N | Hemodialysis access study |  |  |  |  |
90945 | S | Dialysis, one evaluation | 0170 | 4.79 | $249.12 |  | $49.82
90947 | E | Dialysis, repeated eval |  |  |  |  |
90989 | E | Dialysis training, complete |  |  |  |  |
90993 | E | Dialysis training, incompl |  |  |  |  |
90997 | E | Hemoperfusion |  |  |  |  |
90999 | E | Dialysis procedure |  |  |  |  |
91000 | X | Esophageal intubation | 0361 | 3.55 | $184.63 | $83.23 | $36.93
91010 | X | Esophagus motility study | 0361 | 3.55 | $184.63 | $83.23 | $36.93
91011 | X | Esophagus motility study | 0361 | 3.55 | $184.63 | $83.23 | $36.93
91012 | X | Esophagus motility study | 0361 | 3.55 | $184.63 | $83.23 | $36.93
91020 | X | Gastric motility | 0361 | 3.55 | $184.63 | $83.23 | $36.93
91030 | X | Acid perfusion of esophagus | 0361 | 3.55 | $184.63 | $83.23 | $36.93
91032 | X | Esophagus, acid reflux test | 0361 | 3.55 | $184.63 | $83.23 | $36.93
91033 | X | Prolonged acid reflux test | 0361 | 3.55 | $184.63 | $83.23 | $36.93
91052 | X | Gastric analysis test | 0361 | 3.55 | $184.63 | $83.23 | $36.93
91055 | X | Gastric intubation for smear | 0360 | 1.65 | $85.81 | $42.91 | $17.16
91060 | X | Gastric saline load test | 0360 | 1.65 | $85.81 | $42.91 | $17.16
91065 | X | Breath hydrogen test | 0360 | 1.65 | $85.81 | $42.91 | $17.16
91100 | X | Pass intestine bleeding tube | 0360 | 1.65 | $85.81 | $42.91 | $17.16
91105 | X | Gastric intubation treatment | 0360 | 1.65 | $85.81 | $42.91 | $17.16
91122 | T | Anal pressure record | 0156 | 3.10 | $161.23 | $48.37 | $32.25
91123 | N | Irrigate fecal impaction |  |  |  |  |
91132 | X | Electrogastrography | 0360 | 1.65 | $85.81 | $42.91 | $17.16
91133 | X | Electrogastrography w/test | 0360 | 1.65 | $85.81 | $42.91 | $17.16
91299 | X | Gastroenterology procedure | 0360 | 1.65 | $85.81 | $42.91 | $17.16
92002 | V | Eye exam, new patient | 0601 | 1.04 | $54.09 |  | $10.82
92004 | V | Eye exam, new patient | 0602 | 1.57 | $81.65 |  | $16.33
92012 | V | Eye exam established pat | 0600 | 0.91 | $47.33 |  | $9.47
92014 | V | Eye exam & treatment | 0602 | 1.57 | $81.65 |  | $16.33
92015 | E | Refraction |  |  |  |  |
92018 | T | New eye exam & treatment | 0699 | 2.37 | $123.26 | $55.47 | $24.65
92019 | S | Eye exam & treatment | 0698 | 1.01 | $52.53 | $20.49 | $10.51
92020 | S | Special eye evaluation | 0230 | 0.78 | $40.57 | $15.82 | $8.11
92060 | S | Special eye evaluation | 0230 | 0.78 | $40.57 | $15.82 | $8.11
92065 | S | Orthoptic/pleoptic training | 0230 | 0.78 | $40.57 | $15.82 | $8.11
92070 | N | Fitting of contact lens |  |  |  |  |
92081 | S | Visual field examination(s) | 0230 | 0.78 | $40.57 | $15.82 | $8.11
92082 | S | Visual field examination(s) | 0698 | 1.01 | $52.53 | $20.49 | $10.51
92083 | S | Visual field examination(s) | 0698 | 1.01 | $52.53 | $20.49 | $10.51
92100 | N | Serial tonometry exam(s) |  |  |  |  |
92120 | S | Tonography & eye evaluation | 0230 | 0.78 | $40.57 | $15.82 | $8.11
92130 | S | Water provocation tonography | 0698 | 1.01 | $52.53 | $20.49 | $10.51
92135 | S | Opthalmic dx imaging | 0230 | 0.78 | $40.57 | $15.82 | $8.11
92136 | S | Ophthalmic biometry | 0230 | 0.78 | $40.57 | $15.82 | $8.11
92140 | S | Glaucoma provocative tests | 0698 | 1.01 | $52.53 | $20.49 | $10.51
92225 | S | Special eye exam, initial | 0698 | 1.01 | $52.53 | $20.49 | $10.51
92226 | S | Special eye exam, subsequent | 0698 | 1.01 | $52.53 | $20.49 | $10.51
92230 | T | Eye exam with photos | 0699 | 2.37 | $123.26 | $55.47 | $24.65
92235 | T | Eye exam with photos | 0699 | 2.37 | $123.26 | $55.47 | $24.65
92240 | S | Icg angiography | 0231 | 2.24 | $116.50 | $52.43 | $23.30
92250 | S | Eye exam with photos | 0230 | 0.78 | $40.57 | $15.82 | $8.11
92260 | S | Ophthalmoscopy/dynamometry | 0230 | 0.78 | $40.57 | $15.82 | $8.11
92265 | S | Eye muscle evaluation | 0231 | 2.24 | $116.50 | $52.43 | $23.30
92270 | S | Electro-oculography | 0698 | 1.01 | $52.53 | $20.49 | $10.51
92275 | S | Electroretinography | 0231 | 2.24 | $116.50 | $52.43 | $23.30
92283 | S | Color vision examination | 0230 | 0.78 | $40.57 | $15.82 | $8.11
92284 | S | Dark adaptation eye exam | 0698 | 1.01 | $52.53 | $20.49 | $10.51
92285 | S | Eye photography | 0230 | 0.78 | $40.57 | $15.82 | $8.11
92286 | S | Internal eye photography | 0698 | 1.01 | $52.53 | $20.49 | $10.51
92287 | S | Internal eye photography | 0231 | 2.24 | $116.50 | $52.43 | $23.30
92310 | E | Contact lens fitting |  |  |  |  |
92311 | X | Contact lens fitting | 0362 | 2.83 | $147.19 |  | $29.44
92312 | X | Contact lens fitting | 0362 | 2.83 | $147.19 |  | $29.44
92313 | X | Contact lens fitting | 0362 | 2.83 | $147.19 |  | $29.44
92314 | E | Prescription of contact lens |  |  |  |  |
92315 | X | Prescription of contact lens | 0362 | 2.83 | $147.19 |  | $29.44
92316 | X | Prescription of contact lens | 0362 | 2.83 | $147.19 |  | $29.44
92317 | X | Prescription of contact lens | 0362 | 2.83 | $147.19 |  | $29.44
92325 | X | Modification of contact lens | 0362 | 2.83 | $147.19 |  | $29.44
92326 | X | Replacement of contact lens | 0362 | 2.83 | $147.19 |  | $29.44
92330 | S | Fitting of artificial eye | 0230 | 0.78 | $40.57 | $15.82 | $8.11
92335 | N | Fitting of artificial eye |  |  |  |  |
92340 | E | Fitting of spectacles |  |  |  |  |
92341 | E | Fitting of spectacles |  |  |  |  |
92342 | E | Fitting of spectacles |  |  |  |  |
92352 | X | Special spectacles fitting | 0362 | 2.83 | $147.19 |  | $29.44
92353 | X | Special spectacles fitting | 0362 | 2.83 | $147.19 |  | $29.44
92354 | X | Special spectacles fitting | 0362 | 2.83 | $147.19 |  | $29.44
92355 | X | Special spectacles fitting | 0362 | 2.83 | $147.19 |  | $29.44
92358 | X | Eye prosthesis service | 0362 | 2.83 | $147.19 |  | $29.44
92370 | E | Repair & adjust spectacles |  |  |  |  |
92371 | X | Repair & adjust spectacles | 0362 | 2.83 | $147.19 |  | $29.44
92390 | E | Supply of spectacles |  |  |  |  |
92391 | E | Supply of contact lenses |  |  |  |  |
92392 | E | Supply of low vision aids |  |  |  |  |
92393 | E | Supply of artificial eye |  |  |  |  |
92395 | E | Supply of spectacles |  |  |  |  |
92396 | E | Supply of contact lenses |  |  |  |  |
92499 | S | Eye service or procedure | 0230 | 0.78 | $40.57 | $15.82 | $8.11
92502 | T | Ear and throat examination | 0251 | 1.92 | $99.86 |  | $19.97
92504 | N | Ear microscopy examination |  |  |  |  |
92506 | A | Speech/hearing evaluation |  |  |  |  |
92507 | A | Speech/hearing therapy |  |  |  |  |
92508 | A | Speech/hearing therapy |  |  |  |  |
92510 | A | Rehab for ear implant |  |  |  |  |
92511 | T | Nasopharyngoscopy | 0071 | 1.01 | $52.53 | $14.18 | $10.51
92512 | X | Nasal function studies | 0363 | 0.76 | $39.53 | $14.63 | $7.91
92516 | X | Facial nerve function test | 0660 | 1.65 | $85.81 | $31.75 | $17.16
92520 | X | Laryngeal function studies | 0660 | 1.65 | $85.81 | $31.75 | $17.16
92525 | A | Oral function evaluation |  |  |  |  |
92526 | A | Oral function therapy |  |  |  |  |
92531 | N | Spontaneous nystagmus study |  |  |  |  |
92532 | N | Positional nystagmus test |  |  |  |  |
92533 | N | Caloric vestibular test |  |  |  |  |
92534 | N | Optokinetic nystagmus test |  |  |  |  |
92541 | X | Spontaneous nystagmus test | 0363 | 0.76 | $39.53 | $14.63 | $7.91
92542 | X | Positional nystagmus test | 0363 | 0.76 | $39.53 | $14.63 | $7.91
92543 | X | Caloric vestibular test | 0660 | 1.65 | $85.81 | $31.75 | $17.16
92544 | X | Optokinetic nystagmus test | 0363 | 0.76 | $39.53 | $14.63 | $7.91
92545 | X | Oscillating tracking test | 0363 | 0.76 | $39.53 | $14.63 | $7.91
92546 | X | Sinusoidal rotational test | 0660 | 1.65 | $85.81 | $31.75 | $17.16
92547 | X | Supplemental electrical test | 0363 | 0.76 | $39.53 | $14.63 | $7.91
92548 | X | Posturography | 0660 | 1.65 | $85.81 | $31.75 | $17.16
92551 | E | Pure tone hearing test, air |  |  |  |  |
92552 | X | Pure tone audiometry, air | 0364 | 0.45 | $23.40 | $9.13 | $4.68
92553 | X | Audiometry, air & bone | 0365 | 1.31 | $68.13 | $20.16 | $13.63
92555 | X | Speech threshold audiometry | 0364 | 0.45 | $23.40 | $9.13 | $4.68
92556 | X | Speech audiometry, complete | 0364 | 0.45 | $23.40 | $9.13 | $4.68
92557 | X | Comprehensive hearing test | 0365 | 1.31 | $68.13 | $20.16 | $13.63
92559 | E | Group audiometric testing |  |  |  |  |
92560 | E | Bekesy audiometry, screen |  |  |  |  |
92561 | X | Bekesy audiometry, diagnosis | 0365 | 1.31 | $68.13 | $20.16 | $13.63
92562 | X | Loudness balance test | 0364 | 0.45 | $23.40 | $9.13 | $4.68
92563 | X | Tone decay hearing test | 0364 | 0.45 | $23.40 | $9.13 | $4.68
92564 | X | Sisi hearing test | 0364 | 0.45 | $23.40 | $9.13 | $4.68
92565 | X | Stenger test, pure tone | 0364 | 0.45 | $23.40 | $9.13 | $4.68
92567 | X | Tympanometry | 0364 | 0.45 | $23.40 | $9.13 | $4.68
92568 | X | Acoustic reflex testing | 0364 | 0.45 | $23.40 | $9.13 | $4.68
92569 | X | Acoustic reflex decay test | 0364 | 0.45 | $23.40 | $9.13 | $4.68
92571 | X | Filtered speech hearing test | 0364 | 0.45 | $23.40 | $9.13 | $4.68
92572 | X | Staggered spondaic word test | 0364 | 0.45 | $23.40 | $9.13 | $4.68
92573 | X | Lombard test | 0364 | 0.45 | $23.40 | $9.13 | $4.68
92575 | X | Sensorineural acuity test | 0365 | 1.31 | $68.13 | $20.16 | $13.63
92576 | X | Synthetic sentence test | 0364 | 0.45 | $23.40 | $9.13 | $4.68
92577 | X | Stenger test, speech | 0365 | 1.31 | $68.13 | $20.16 | $13.63
92579 | X | Visual audiometry (vra) | 0365 | 1.31 | $68.13 | $20.16 | $13.63
92582 | X | Conditioning play audiometry | 0365 | 1.31 | $68.13 | $20.16 | $13.63
92583 | X | Select picture audiometry | 0364 | 0.45 | $23.40 | $9.13 | $4.68
92584 | X | Electrocochleography | 0660 | 1.65 | $85.81 | $31.75 | $17.16
92585 | S | Auditor evoke potent, compre | 0216 | 3.06 | $159.15 | $71.62 | $31.83
92586 | S | Auditor evoke potent, limit | 0218 | 1.06 | $55.13 |  | $11.03
92587 | X | Evoked auditory test | 0363 | 0.76 | $39.53 | $14.63 | $7.91
92588 | X | Evoked auditory test | 0660 | 1.65 | $85.81 | $31.75 | $17.16
92589 | X | Auditory function test(s) | 0364 | 0.45 | $23.40 | $9.13 | $4.68
92590 | E | Hearing aid exam, one ear |  |  |  |  |
92591 | E | Hearing aid exam, both ears |  |  |  |  |
92592 | E | Hearing aid check, one ear |  |  |  |  |
92593 | E | Hearing aid check, both ears |  |  |  |  |
92594 | E | Electro hearng aid test, one |  |  |  |  |
92595 | E | Electro hearng aid tst, both |  |  |  |  |
92596 | X | Ear protector evaluation | 0365 | 1.31 | $68.13 | $20.16 | $13.63
92597 | E | Voice Prosthetic Evaluation |  |  |  |  |
92598 | E | Voice Prosthetic Modification |  |  |  |  |
92599 | X | ENT procedure/service | 0364 | 0.45 | $23.40 | $9.13 | $4.68
92950 | S | Heart/lung resuscitation cpr | 0094 | 2.68 | $139.38 | $47.39 | $27.88
92953 | S | Temporary external pacing | 0094 | 2.68 | $139.38 | $47.39 | $27.88
92960 | S | Cardioversion electric, ext | 0679 | 5.70 | $296.45 | $100.79 | $59.29
92961 | S | Cardioversion, electric, int | 0679 | 5.70 | $296.45 | $100.79 | $59.29
92970 | C | Cardioassist, internal |  |  |  |  |
92971 | C | Cardioassist, external |  |  |  |  |
92973 | T | Percut coronary thrombectomy | 0973 |  | $250.00 |  | $50.00
92974 | T | Cath place, cardio brachytx | 0981 |  | $2,250.00 |  | $450.00
92975 | C | Dissolve clot, heart vessel |  |  |  |  |
92977 | T | Dissolve clot, heart vessel | 0676 | 4.62 | $240.28 | $64.88 | $48.06
92978 | S | Intravasc us, heart add-on | 0670 | 14.78 | $768.69 | $276.73 | $153.74
92979 | S | Intravasc us, heart add-on | 0670 | 14.78 | $768.69 | $276.73 | $153.74
92980 | T | Insert intracoronary stent | 0104 | 72.72 | $3,782.09 |  | $756.42
92981 | T | Insert intracoronary stent | 0104 | 72.72 | $3,782.09 |  | $756.42
92982 | T | Coronary artery dilation | 0083 | 47.83 | $2,487.59 |  | $497.52
92984 | T | Coronary artery dilation | 0083 | 47.83 | $2,487.59 |  | $497.52
92986 | T | Revision of aortic valve | 0083 | 47.83 | $2,487.59 |  | $497.52
92987 | T | Revision of mitral valve | 0083 | 47.83 | $2,487.59 |  | $497.52
92990 | T | Revision of pulmonary valve | 0083 | 47.83 | $2,487.59 |  | $497.52
92992 | C | Revision of heart chamber |  |  |  |  |
92993 | C | Revision of heart chamber |  |  |  |  |
92995 | T | Coronary atherectomy | 0082 | 75.42 | $3,922.52 | $1,137.53 | $784.50
92996 | T | Coronary atherectomy add-on | 0082 | 75.42 | $3,922.52 | $1,137.53 | $784.50
92997 | T | Pul art balloon repr, percut | 0081 | 22.69 | $1,180.08 |  | $236.02
92998 | T | Pul art balloon repr, percut | 0081 | 22.69 | $1,180.08 |  | $236.02
93000 | E | Electrocardiogram, complete |  |  |  |  |
93005 | S | Electrocardiogram, tracing | 0099 | 0.38 | $19.76 |  | $3.95
93010 | A | Electrocardiogram report |  |  |  |  |
93012 | N | Transmission of ecg |  |  |  |  |
93014 | E | Report on transmitted ecg |  |  |  |  |
93015 | E | Cardiovascular stress test |  |  |  |  |
93016 | E | Cardiovascular stress test |  |  |  |  |
93017 | X | Cardiovascular stress test | 0100 | 1.34 | $69.69 | $38.33 | $13.94
93018 | E | Cardiovascular stress test |  |  |  |  |
93024 | X | Cardiac drug stress test | 0100 | 1.34 | $69.69 | $38.33 | $13.94
93025 | X | Microvolt t-wave assess | 0100 | 1.34 | $69.69 | $38.33 | $13.94
93040 | E | Rhythm ECG with report |  |  |  |  |
93041 | S | Rhythm ECG, tracing | 0099 | 0.38 | $19.76 |  | $3.95
93042 | E | Rhythm ECG, report |  |  |  |  |
93224 | E | ECG monitor/report, 24 hrs |  |  |  |  |
93225 | X | ECG monitor/record, 24 hrs | 0100 | 1.34 | $69.69 | $38.33 | $13.94
93226 | X | ECG monitor/report, 24 hrs | 0100 | 1.34 | $69.69 | $38.33 | $13.94
93227 | E | ECG monitor/review, 24 hrs |  |  |  |  |
93230 | E | ECG monitor/report, 24 hrs |  |  |  |  |
93231 | X | Ecg monitor/record, 24 hrs | 0100 | 1.34 | $69.69 | $38.33 | $13.94
93232 | X | ECG monitor/report, 24 hrs | 0100 | 1.34 | $69.69 | $38.33 | $13.94
93233 | E | ECG monitor/review, 24 hrs |  |  |  |  |
93235 | E | ECG monitor/report, 24 hrs |  |  |  |  |
93236 | X | ECG monitor/report, 24 hrs | 0100 | 1.34 | $69.69 | $38.33 | $13.94
93237 | E | ECG monitor/review, 24 hrs |  |  |  |  |
93268 | E | ECG record/review |  |  |  |  |
93270 | X | ECG recording | 0097 | 0.84 | $43.69 | $23.80 | $8.74
93271 | X | Ecg/monitoring and analysis | 0097 | 0.84 | $43.69 | $23.80 | $8.74
93272 | E | Ecg/review, interpret only |  |  |  |  |
93278 | S | ECG/signal-averaged | 0099 | 0.38 | $19.76 |  | $3.95
93303 | S | Echo transthoracic | 0269 | 3.42 | $177.87 | $92.49 | $35.57
93304 | S | Echo transthoracic | 0697 | 1.51 | $78.53 | $40.84 | $15.71
93307 | S | Echo exam of heart | 0269 | 3.42 | $177.87 | $92.49 | $35.57
93308 | S | Echo exam of heart | 0697 | 1.51 | $78.53 | $40.84 | $15.71
93312 | S | Echo transesophageal | 0270 | 5.65 | $293.85 | $146.79 | $58.77
93313 | S | Echo transesophageal | 0270 | 5.65 | $293.85 | $146.79 | $58.77
93314 | N | Echo transesophageal |  |  |  |  |
93315 | S | Echo transesophageal | 0270 | 5.65 | $293.85 | $146.79 | $58.77
93316 | S | Echo transesophageal | 0270 | 5.65 | $293.85 | $146.79 | $58.77
93317 | N | Echo transesophageal |  |  |  |  |
93318 | S | Echo transesophageal intraop | 0270 | 5.65 | $293.85 | $146.79 | $58.77
93320 | S | Doppler echo exam, heart | 0671 | 1.68 | $87.38 | $45.44 | $17.48
93321 | S | Doppler echo exam, heart | 0697 | 1.51 | $78.53 | $40.84 | $15.71
93325 | S | Doppler color flow add-on | 0697 | 1.51 | $78.53 | $40.84 | $15.71
93350 | S | Echo transthoracic | 0269 | 3.42 | $177.87 | $92.49 | $35.57
93501 | T | Right heart catheterization | 0080 | 35.64 | $1,853.60 | $838.92 | $370.72
93503 | T | Insert/place heart catheter | 0103 | 11.26 | $585.62 | $210.82 | $117.12
93505 | T | Biopsy of heart lining | 0103 | 11.26 | $585.62 | $210.82 | $117.12
93508 | T | Cath placement, angiography | 0080 | 35.64 | $1,853.60 | $838.92 | $370.72
93510 | T | Left heart catheterization | 0080 | 35.64 | $1,853.60 | $838.92 | $370.72
93511 | T | Left heart catheterization | 0080 | 35.64 | $1,853.60 | $838.92 | $370.72
93514 | T | Left heart catheterization | 0080 | 35.64 | $1,853.60 | $838.92 | $370.72
93524 | T | Left heart catheterization | 0080 | 35.64 | $1,853.60 | $838.92 | $370.72
93526 | T | Rt & Lt heart catheters | 0080 | 35.64 | $1,853.60 | $838.92 | $370.72
93527 | T | Rt & Lt heart catheters | 0080 | 35.64 | $1,853.60 | $838.92 | $370.72
93528 | T | Rt & Lt heart catheters | 0080 | 35.64 | $1,853.60 | $838.92 | $370.72
93529 | T | Rt&lt heart catheterization | 0080 | 35.64 | $1,853.60 | $838.92 | $370.72
93530 | T | Rt heart cath, congenital | 0080 | 35.64 | $1,853.60 | $838.92 | $370.72
93531 | T | R & l heart cath, congenital | 0080 | 35.64 | $1,853.60 | $838.92 | $370.72
93532 | T | R & l heart cath, congenital | 0080 | 35.64 | $1,853.60 | $838.92 | $370.72
93533 | T | R & l heart cath, congenital | 0080 | 35.64 | $1,853.60 | $838.92 | $370.72
93539 | N | Injection, cardiac cath |  |  |  |  |
93540 | N | Injection, cardiac cath |  |  |  |  |
93541 | N | Injection for lung angiogram |  |  |  |  |
93542 | N | Injection for heart x-rays |  |  |  |  |
93543 | N | Injection for heart x-rays |  |  |  |  |
93544 | N | Injection for aortography |  |  |  |  |
93545 | N | Inject for coronary x-rays |  |  |  |  |
93555 | N | Imaging, cardiac cath |  |  |  |  |
93556 | N | Imaging, cardiac cath |  |  |  |  |
93561 | N | Cardiac output measurement |  |  |  |  |
93562 | N | Cardiac output measurement |  |  |  |  |
93571 | N | Heart flow reserve measure |  |  |  |  |
93572 | N | Heart flow reserve measure |  |  |  |  |
93600 | T | Bundle of His recording | 0087 | 5.81 | $302.17 |  | $60.43
93602 | T | Intra-atrial recording | 0087 | 5.81 | $302.17 |  | $60.43
93603 | T | Right ventricular recording | 0087 | 5.81 | $302.17 |  | $60.43
93609 | T | Map tachycardia, add-on | 0087 | 5.81 | $302.17 |  | $60.43
93610 | T | Intra-atrial pacing | 0087 | 5.81 | $302.17 |  | $60.43
93612 | T | Intraventricular pacing | 0087 | 5.81 | $302.17 |  | $60.43
93613 | T | Electrophys map, 3d, add-on | 0087 | 5.81 | $302.17 |  | $60.43
93615 | T | Esophageal recording | 0087 | 5.81 | $302.17 |  | $60.43
93616 | T | Esophageal recording | 0087 | 5.81 | $302.17 |  | $60.43
93618 | T | Heart rhythm pacing | 0087 | 5.81 | $302.17 |  | $60.43
93619 | T | Electrophysiology evaluation | 0085 | 31.77 | $1,652.33 | $363.51 | $330.47
93620 | T | Electrophysiology evaluation | 0085 | 31.77 | $1,652.33 | $363.51 | $330.47
93621 | T | Electrophysiology evaluation | 0085 | 31.77 | $1,652.33 | $363.51 | $330.47
93622 | T | Electrophysiology evaluation | 0085 | 31.77 | $1,652.33 | $363.51 | $330.47
93623 | T | Stimulation, pacing heart | 0087 | 5.81 | $302.17 |  | $60.43
93624 | S | Electrophysiologic study | 0084 | 9.60 | $499.29 |  | $99.86
93631 | T | Heart pacing, mapping | 0087 | 5.81 | $302.17 |  | $60.43
93640 | S | Evaluation heart device | 0084 | 9.60 | $499.29 |  | $99.86
93641 | S | Electrophysiology evaluation | 0084 | 9.60 | $499.29 |  | $99.86
93642 | S | Electrophysiology evaluation | 0084 | 9.60 | $499.29 |  | $99.86
93650 | T | Ablate heart dysrhythm focus | 0086 | 43.70 | $2,272.79 | $772.75 | $454.56
93651 | T | Ablate heart dysrhythm focus | 0086 | 43.70 | $2,272.79 | $772.75 | $454.56
93652 | T | Ablate heart dysrhythm focus | 0086 | 43.70 | $2,272.79 | $772.75 | $454.56
93660 | S | Tilt table evaluation | 0101 | 4.40 | $228.84 | $105.27 | $45.77
93662 | S | Intracardiac ecg (ice) | 0670 | 14.78 | $768.69 | $276.73 | $153.74
93668 | E | Peripheral vascular rehab |  |  |  |  |
93701 | S | Bioimpedance, thoracic | 0099 | 0.38 | $19.76 |  | $3.95
93720 | E | Total body plethysmography |  |  |  |  |
93721 | X | Plethysmography tracing | 0368 | 0.96 | $49.93 | $24.97 | $9.99
93722 | E | Plethysmography report |  |  |  |  |
93724 | S | Analyze pacemaker system | 0690 | 0.45 | $23.40 | $10.63 | $4.68
93727 | S | Analyze ilr system | 0690 | 0.45 | $23.40 | $10.63 | $4.68
93731 | S | Analyze pacemaker system | 0690 | 0.45 | $23.40 | $10.63 | $4.68
93732 | S | Analyze pacemaker system | 0690 | 0.45 | $23.40 | $10.63 | $4.68
93733 | S | Telephone analy, pacemaker | 0690 | 0.45 | $23.40 | $10.63 | $4.68
93734 | S | Analyze pacemaker system | 0690 | 0.45 | $23.40 | $10.63 | $4.68
93735 | S | Analyze pacemaker system | 0690 | 0.45 | $23.40 | $10.63 | $4.68
93736 | S | Telephone analy, pacemaker | 0690 | 0.45 | $23.40 | $10.63 | $4.68
93740 | X | Temperature gradient studies | 0367 | 0.60 | $31.21 | $15.61 | $6.24
93741 | S | Analyze ht pace device sngl | 0689 | 0.60 | $31.21 | $12.03 | $6.24
93742 | S | Analyze ht pace device sngl | 0689 | 0.60 | $31.21 | $12.03 | $6.24
93743 | S | Analyze ht pace device dual | 0689 | 0.60 | $31.21 | $12.03 | $6.24
93744 | S | Analyze ht pace device dual | 0689 | 0.60 | $31.21 | $12.03 | $6.24
93760 | E | Cephalic thermogram |  |  |  |  |
93762 | E | Peripheral thermogram |  |  |  |  |
93770 | N | Measure venous pressure |  |  |  |  |
93784 | E | Ambulatory BP monitoring |  |  |  |  |
93786 | X | Ambulatory BP recording | 0097 | 0.84 | $43.69 | $23.80 | $8.74
93788 | E | Ambulatory BP analysis |  |  |  |  |
93790 | E | Review/report BP recording |  |  |  |  |
93797 | S | Cardiac rehab | 0095 | 0.66 | $34.33 | $16.73 | $6.87
93798 | S | Cardiac rehab/monitor | 0095 | 0.66 | $34.33 | $16.73 | $6.87
93799 | S | Cardiovascular procedure | 0096 | 1.82 | $94.66 | $48.15 | $18.93
93875 | S | Extracranial study | 0096 | 1.82 | $94.66 | $48.15 | $18.93
93880 | S | Extracranial study | 0267 | 2.58 | $134.18 | $65.52 | $26.84
93882 | S | Extracranial study | 0267 | 2.58 | $134.18 | $65.52 | $26.84
93886 | S | Intracranial study | 0267 | 2.58 | $134.18 | $65.52 | $26.84
93888 | S | Intracranial study | 0266 | 1.70 | $88.42 | $48.63 | $17.68
93922 | S | Extremity study | 0096 | 1.82 | $94.66 | $48.15 | $18.93
93923 | S | Extremity study | 0096 | 1.82 | $94.66 | $48.15 | $18.93
93924 | S | Extremity study | 0096 | 1.82 | $94.66 | $48.15 | $18.93
93925 | S | Lower extremity study | 0267 | 2.58 | $134.18 | $65.52 | $26.84
93926 | S | Lower extremity study | 0267 | 2.58 | $134.18 | $65.52 | $26.84
93930 | S | Upper extremity study | 0267 | 2.58 | $134.18 | $65.52 | $26.84
93931 | S | Upper extremity study | 0266 | 1.70 | $88.42 | $48.63 | $17.68
93965 | S | Extremity study | 0096 | 1.82 | $94.66 | $48.15 | $18.93
93970 | S | Extremity study | 0267 | 2.58 | $134.18 | $65.52 | $26.84
93971 | S | Extremity study | 0267 | 2.58 | $134.18 | $65.52 | $26.84
93975 | S | Vascular study | 0267 | 2.58 | $134.18 | $65.52 | $26.84
93976 | S | Vascular study | 0267 | 2.58 | $134.18 | $65.52 | $26.84
93978 | S | Vascular study | 0267 | 2.58 | $134.18 | $65.52 | $26.84
93979 | S | Vascular study | 0267 | 2.58 | $134.18 | $65.52 | $26.84
93980 | S | Penile vascular study | 0267 | 2.58 | $134.18 | $65.52 | $26.84
93981 | S | Penile vascular study | 0267 | 2.58 | $134.18 | $65.52 | $26.84
93990 | S | Doppler flow testing | 0267 | 2.58 | $134.18 | $65.52 | $26.84
94010 | X | Breathing capacity test | 0368 | 0.96 | $49.93 | $24.97 | $9.99
94014 | X | Patient recorded spirometry | 0367 | 0.60 | $31.21 | $15.61 | $6.24
94015 | X | Patient recorded spirometry | 0367 | 0.60 | $31.21 | $15.61 | $6.24
94016 | A | Review patient spirometry |  |  |  |  |
94060 | X | Evaluation of wheezing | 0368 | 0.96 | $49.93 | $24.97 | $9.99
94070 | X | Evaluation of wheezing | 0369 | 2.39 | $124.30 | $41.02 | $24.86
94150 | X | Vital capacity test | 0367 | 0.60 | $31.21 | $15.61 | $6.24
94200 | X | Lung function test (MBC/MVV) | 0367 | 0.60 | $31.21 | $15.61 | $6.24
94240 | X | Residual lung capacity | 0368 | 0.96 | $49.93 | $24.97 | $9.99
94250 | X | Expired gas collection | 0367 | 0.60 | $31.21 | $15.61 | $6.24
94260 | X | Thoracic gas volume | 0368 | 0.96 | $49.93 | $24.97 | $9.99
94350 | X | Lung nitrogen washout curve | 0368 | 0.96 | $49.93 | $24.97 | $9.99
94360 | X | Measure airflow resistance | 0367 | 0.60 | $31.21 | $15.61 | $6.24
94370 | X | Breath airway closing volume | 0367 | 0.60 | $31.21 | $15.61 | $6.24
94375 | X | Respiratory flow volume loop | 0367 | 0.60 | $31.21 | $15.61 | $6.24
94400 | X | CO2 breathing response curve | 0367 | 0.60 | $31.21 | $15.61 | $6.24
94450 | X | Hypoxia response curve | 0367 | 0.60 | $31.21 | $15.61 | $6.24
94620 | X | Pulmonary stress test/simple | 0368 | 0.96 | $49.93 | $24.97 | $9.99
94621 | X | Pulm stress test/complex | 0369 | 2.39 | $124.30 | $41.02 | $24.86
94640 | S | Airway inhalation treatment | 0077 | 0.26 | $13.52 | $7.44 | $2.70
94642 | S | Aerosol inhalation treatment | 0078 | 0.68 | $35.37 | $15.21 | $7.07
94650 | S | Pressure breathing (IPPB) | 0077 | 0.26 | $13.52 | $7.44 | $2.70
94651 | S | Pressure breathing (IPPB) | 0077 | 0.26 | $13.52 | $7.44 | $2.70
94652 | C | Pressure breathing (IPPB) |  |  |  |  |
94656 | S | Initial ventilator mgmt | 0079 | 1.63 | $84.77 | $16.80 | $16.95
94657 | S | Continued ventilator mgmt | 0079 | 1.63 | $84.77 | $16.80 | $16.95
94660 | S | Pos airway pressure, CPAP | 0068 | 1.59 | $82.69 | $45.48 | $16.54
94662 | S | Neg press ventilation, cnp | 0079 | 1.63 | $84.77 | $16.80 | $16.95
94664 | S | Aerosol or vapor inhalations | 0077 | 0.26 | $13.52 | $7.44 | $2.70
94665 | S | Aerosol or vapor inhalations | 0077 | 0.26 | $13.52 | $7.44 | $2.70
94667 | S | Chest wall manipulation | 0077 | 0.26 | $13.52 | $7.44 | $2.70
94668 | S | Chest wall manipulation | 0077 | 0.26 | $13.52 | $7.44 | $2.70
94680 | X | Exhaled air analysis, o2 | 0367 | 0.60 | $31.21 | $15.61 | $6.24
94681 | X | Exhaled air analysis, o2/co2 | 0368 | 0.96 | $49.93 | $24.97 | $9.99
94690 | X | Exhaled air analysis | 0367 | 0.60 | $31.21 | $15.61 | $6.24
94720 | X | Monoxide diffusing capacity | 0368 | 0.96 | $49.93 | $24.97 | $9.99
94725 | X | Membrane diffusion capacity | 0368 | 0.96 | $49.93 | $24.97 | $9.99
94750 | X | Pulmonary compliance study | 0367 | 0.60 | $31.21 | $15.61 | $6.24
94760 | N | Measure blood oxygen level |  |  |  |  |
94761 | N | Measure blood oxygen level |  |  |  |  |
94762 | N | Measure blood oxygen level |  |  |  |  |
94770 | X | Exhaled carbon dioxide test | 0367 | 0.60 | $31.21 | $15.61 | $6.24
94772 | X | Breath recording, infant | 0369 | 2.39 | $124.30 | $41.02 | $24.86
94799 | X | Pulmonary service/procedure | 0367 | 0.60 | $31.21 | $15.61 | $6.24
95004 | X | Allergy skin tests | 0370 | 0.74 | $38.49 | $11.16 | $7.70
95010 | X | Sensitivity skin tests | 0370 | 0.74 | $38.49 | $11.16 | $7.70
95015 | X | Sensitivity skin tests | 0370 | 0.74 | $38.49 | $11.16 | $7.70
95024 | X | Allergy skin tests | 0370 | 0.74 | $38.49 | $11.16 | $7.70
95027 | X | Skin end point titration | 0370 | 0.74 | $38.49 | $11.16 | $7.70
95028 | X | Allergy skin tests | 0370 | 0.74 | $38.49 | $11.16 | $7.70
95044 | X | Allergy patch tests | 0370 | 0.74 | $38.49 | $11.16 | $7.70
95052 | X | Photo patch test | 0370 | 0.74 | $38.49 | $11.16 | $7.70
95056 | X | Photosensitivity tests | 0370 | 0.74 | $38.49 | $11.16 | $7.70
95060 | X | Eye allergy tests | 0370 | 0.74 | $38.49 | $11.16 | $7.70
95065 | X | Nose allergy test | 0370 | 0.74 | $38.49 | $11.16 | $7.70
95070 | X | Bronchial allergy tests | 0369 | 2.39 | $124.30 | $41.02 | $24.86
95071 | X | Bronchial allergy tests | 0369 | 2.39 | $124.30 | $41.02 | $24.86
95075 | X | Ingestion challenge test | 0361 | 3.55 | $184.63 | $83.23 | $36.93
95078 | X | Provocative testing | 0370 | 0.74 | $38.49 | $11.16 | $7.70
95115 | X | Immunotherapy, one injection | 0352 | 0.14 | $7.28 |  | $1.46
95117 | X | Immunotherapy injections | 0353 | 0.43 | $22.36 |  | $4.47
95120 | E | Immunotherapy, one injection |  |  |  |  |
95125 | E | Immunotherapy, many antigens |  |  |  |  |
95130 | E | Immunotherapy, insect venom |  |  |  |  |
95131 | E | Immunotherapy, insect venoms |  |  |  |  |
95132 | E | Immunotherapy, insect venoms |  |  |  |  |
95133 | E | Immunotherapy, insect venoms |  |  |  |  |
95134 | E | Immunotherapy, insect venoms |  |  |  |  |
95144 | X | Antigen therapy services | 0371 | 0.50 | $26.00 |  | $5.20
95145 | X | Antigen therapy services | 0371 | 0.50 | $26.00 |  | $5.20
95146 | X | Antigen therapy services | 0371 | 0.50 | $26.00 |  | $5.20
95147 | X | Antigen therapy services | 0371 | 0.50 | $26.00 |  | $5.20
95148 | X | Antigen therapy services | 0371 | 0.50 | $26.00 |  | $5.20
95149 | X | Antigen therapy services | 0371 | 0.50 | $26.00 |  | $5.20
95165 | X | Antigen therapy services | 0371 | 0.50 | $26.00 |  | $5.20
95170 | X | Antigen therapy services | 0371 | 0.50 | $26.00 |  | $5.20
95180 | X | Rapid desensitization | 0370 | 0.74 | $38.49 | $11.16 | $7.70
95199 | X | Allergy immunology services | 0370 | 0.74 | $38.49 | $11.16 | $7.70
95250 | T | Glucose monitoring, cont | 0972 |  | $150.00 |  | $30.00
95805 | S | Multiple sleep latency test | 0209 | 12.09 | $628.79 | $280.58 | $125.76
95806 | S | Sleep study, unattended | 0213 | 3.38 | $175.79 | $70.41 | $35.16
95807 | S | Sleep study, attended | 0209 | 12.09 | $628.79 | $280.58 | $125.76
95808 | S | Polysomnography, 1-3 | 0209 | 12.09 | $628.79 | $280.58 | $125.76
95810 | S | Polysomnography, 4 or more | 0209 | 12.09 | $628.79 | $280.58 | $125.76
95811 | S | Polysomnography w/cpap | 0209 | 12.09 | $628.79 | $280.58 | $125.76
95812 | S | Electroencephalogram (EEG) | 0213 | 3.38 | $175.79 | $70.41 | $35.16
95813 | S | Electroencephalogram (EEG) | 0213 | 3.38 | $175.79 | $70.41 | $35.16
95816 | S | Electroencephalogram (EEG) | 0214 | 2.37 | $123.26 | $61.63 | $24.65
95819 | S | Electroencephalogram (EEG) | 0214 | 2.37 | $123.26 | $61.63 | $24.65
95822 | S | Sleep electroencephalogram | 0214 | 2.37 | $123.26 | $61.63 | $24.65
95824 | S | Electroencephalography | 0214 | 2.37 | $123.26 | $61.63 | $24.65
95827 | S | Night electroencephalogram | 0209 | 12.09 | $628.79 | $280.58 | $125.76
95829 | S | Surgery electrocorticogram | 0214 | 2.37 | $123.26 | $61.63 | $24.65
95830 | E | Insert electrodes for EEG |  |  |  |  |
95831 | N | Limb muscle testing, manual |  |  |  |  |
95832 | N | Hand muscle testing, manual |  |  |  |  |
95833 | N | Body muscle testing, manual |  |  |  |  |
95834 | N | Body muscle testing, manual |  |  |  |  |
95851 | N | Range of motion measurements |  |  |  |  |
95852 | N | Range of motion measurements |  |  |  |  |
95857 | S | Tensilon test | 0218 | 1.06 | $55.13 |  | $11.03
95858 | S | Tensilon test & myogram | 0218 | 1.06 | $55.13 |  | $11.03
95860 | S | Muscle test, one limb | 0218 | 1.06 | $55.13 |  | $11.03
95861 | S | Muscle test, two limbs | 0218 | 1.06 | $55.13 |  | $11.03
95863 | S | Muscle test, 3 limbs | 0218 | 1.06 | $55.13 |  | $11.03
95864 | S | Muscle test, 4 limbs | 0218 | 1.06 | $55.13 |  | $11.03
95867 | S | Muscle test, head or neck | 0218 | 1.06 | $55.13 |  | $11.03
95868 | S | Muscle test, head or neck | 0218 | 1.06 | $55.13 |  | $11.03
95869 | S | Muscle test, thor paraspinal | 0215 | 0.60 | $31.21 |  | $6.24
95870 | S | Muscle test, nonparaspinal | 0218 | 1.06 | $55.13 |  | $11.03
95872 | S | Muscle test, one fiber | 0218 | 1.06 | $55.13 |  | $11.03
95875 | S | Limb exercise test | 0215 | 0.60 | $31.21 |  | $6.24
95900 | S | Motor nerve conduction test | 0218 | 1.06 | $55.13 |  | $11.03
95903 | S | Motor nerve conduction test | 0218 | 1.06 | $55.13 |  | $11.03
95904 | S | Sense nerve conduction test | 0215 | 0.60 | $31.21 |  | $6.24
95920 | S | Intraop nerve test add-on | 0216 | 3.06 | $159.15 | $71.62 | $31.83
95921 | S | Autonomic nerv function test | 0218 | 1.06 | $55.13 |  | $11.03
95922 | S | Autonomic nerv function test | 0218 | 1.06 | $55.13 |  | $11.03
95923 | S | Autonomic nerv function test | 0215 | 0.60 | $31.21 |  | $6.24
95925 | S | Somatosensory testing | 0216 | 3.06 | $159.15 | $71.62 | $31.83
95926 | S | Somatosensory testing | 0216 | 3.06 | $159.15 | $71.62 | $31.83
95927 | S | Somatosensory testing | 0216 | 3.06 | $159.15 | $71.62 | $31.83
95930 | S | Visual evoked potential test | 0218 | 1.06 | $55.13 |  | $11.03
95933 | S | Blink reflex test | 0215 | 0.60 | $31.21 |  | $6.24
95934 | S | H-reflex test | 0215 | 0.60 | $31.21 |  | $6.24
95936 | S | H-reflex test | 0215 | 0.60 | $31.21 |  | $6.24
95937 | S | Neuromuscular junction test | 0218 | 1.06 | $55.13 |  | $11.03
95950 | S | Ambulatory eeg monitoring | 0213 | 3.38 | $175.79 | $70.41 | $35.16
95951 | S | EEG monitoring/videorecord | 0209 | 12.09 | $628.79 | $280.58 | $125.76
95953 | S | EEG monitoring/computer | 0209 | 12.09 | $628.79 | $280.58 | $125.76
95954 | S | EEG monitoring/giving drugs | 0214 | 2.37 | $123.26 | $61.63 | $24.65
95955 | S | EEG during surgery | 0214 | 2.37 | $123.26 | $61.63 | $24.65
95956 | S | Eeg monitoring, cable/radio | 0214 | 2.37 | $123.26 | $61.63 | $24.65
95957 | S | EEG digital analysis | 0214 | 2.37 | $123.26 | $61.63 | $24.65
95958 | S | EEG monitoring/function test | 0213 | 3.38 | $175.79 | $70.41 | $35.16
95961 | S | Electrode stimulation, brain | 0216 | 3.06 | $159.15 | $71.62 | $31.83
95962 | S | Electrode stim, brain add-on | 0216 | 3.06 | $159.15 | $71.62 | $31.83
95965 | S | Meg, spontaneous | 0717 |  | $2,250.00 |  | $450.00
95966 | S | Meg, evoked, single | 0714 |  | $1,375.00 |  | $275.00
95967 | S | Meg, evoked, each addl | 0712 |  | $875.00 |  | $175.00
95970 | S | Analyze neurostim, no prog | 0692 | 0.85 | $44.21 | $24.32 | $8.84
95971 | S | Analyze neurostim, simple | 0692 | 0.85 | $44.21 | $24.32 | $8.84
95972 | S | Analyze neurostim, complex | 0692 | 0.85 | $44.21 | $24.32 | $8.84
95973 | S | Analyze neurostim, complex | 0692 | 0.85 | $44.21 | $24.32 | $8.84
95974 | S | Cranial neurostim, complex | 0692 | 0.85 | $44.21 | $24.32 | $8.84
95975 | S | Cranial neurostim, complex | 0692 | 0.85 | $44.21 | $24.32 | $8.84
95999 | S | Neurological procedure | 0215 | 0.60 | $31.21 |  | $6.24
96000 | S | Motion analysis, video/3d | 0708 |  | $150.00 |  | $30.00
96001 | S | Motion test w/ft press meas | 0708 |  | $150.00 |  | $30.00
96002 | S | Dynamic surface emg | 0708 |  | $150.00 |  | $30.00
96003 | S | Dynamic fine wire emg | 0708 |  | $150.00 |  | $30.00
96004 | E | Phys review of motion tests |  |  |  |  |
96100 | X | Psychological testing | 0373 | 2.37 | $123.26 |  | $24.65
96105 | X | Assessment of aphasia | 0373 | 2.37 | $123.26 |  | $24.65
96110 | X | Developmental test, lim | 0373 | 2.37 | $123.26 |  | $24.65
96111 | X | Developmental test, extend | 0373 | 2.37 | $123.26 |  | $24.65
96115 | X | Neurobehavior status exam | 0373 | 2.37 | $123.26 |  | $24.65
96117 | X | Neuropsych test battery | 0373 | 2.37 | $123.26 |  | $24.65
96150 | S | Assess hlth/behave, init | 0322 | 1.44 | $74.89 | $12.40 | $14.98
96151 | S | Assess hlth/behave, subseq | 0322 | 1.44 | $74.89 | $12.40 | $14.98
96152 | S | Intervene hlth/behave, indiv | 0322 | 1.44 | $74.89 | $12.40 | $14.98
96153 | S | Intervene hlth/behave, group | 0322 | 1.44 | $74.89 | $12.40 | $14.98
96154 | S | Interv hlth/behav, fam w/pt | 0322 | 1.44 | $74.89 | $12.40 | $14.98
96155 | S | Interv hlth/behav fam no pt | 0322 | 1.44 | $74.89 | $12.40 | $14.98
96400 | E | Chemotherapy, sc/im |  |  |  |  |
96405 | E | Intralesional chemo admin |  |  |  |  |
96406 | E | Intralesional chemo admin |  |  |  |  |
96408 | E | Chemotherapy, push technique |  |  |  |  |
96410 | E | Chemotherapy infusion method |  |  |  |  |
96412 | E | Chemo, infuse method add-on |  |  |  |  |
96414 | E | Chemo, infuse method add-on |  |  |  |  |
96420 | E | Chemotherapy, push technique |  |  |  |  |
96422 | E | Chemotherapy infusion method |  |  |  |  |
96423 | E | Chemo, infuse method add-on |  |  |  |  |
96425 | E | Chemotherapy infusion method |  |  |  |  |
96440 | E | Chemotherapy, intracavitary |  |  |  |  |
96445 | E | Chemotherapy, intracavitary |  |  |  |  |
96450 | E | Chemotherapy, into CNS |  |  |  |  |
96520 | T | Pump refilling, maintenance | 0125 | 1.73 | $89.98 |  | $18.00
96530 | T | Pump refilling, maintenance | 0125 | 1.73 | $89.98 |  | $18.00
96542 | E | Chemotherapy injection |  |  |  |  |
96545 | E | Provide chemotherapy agent |  |  |  |  |
96549 | E | Chemotherapy, unspecified |  |  |  |  |
96567 | T | Photodynamic tx, skin | 0972 |  | $150.00 |  | $30.00
96570 | T | Photodynamic tx, 30 min | 0973 |  | $250.00 |  | $50.00
96571 | T | Photodynamic tx, addl 15 min | 0973 |  | $250.00 |  | $50.00
96900 | S | Ultraviolet light therapy | 0001 | 0.43 | $22.36 | $7.88 | $4.47
96902 | N | Trichogram |  |  |  |  |
96910 | S | Photochemotherapy with UV-B | 0001 | 0.43 | $22.36 | $7.88 | $4.47
96912 | S | Photochemotherapy with UV-A | 0001 | 0.43 | $22.36 | $7.88 | $4.47
96913 | S | Photochemotherapy, UV-A or B | 0683 | 2.11 | $109.74 | $39.51 | $21.95
96999 | T | Dermatological procedure | 0010 | 0.70 | $36.41 | $10.56 | $7.28
97001 | A | Pt evaluation |  |  |  |  |
97002 | A | Pt re-evaluation |  |  |  |  |
97003 | A | Ot evaluation |  |  |  |  |
97004 | A | Ot re-evaluation |  |  |  |  |
97005 | E | Athletic train eval |  |  |  |  |
97006 | E | Athletic train reeval |  |  |  |  |
97010 | A | Hot or cold packs therapy |  |  |  |  |
97012 | A | Mechanical traction therapy |  |  |  |  |
97014 | A | Electric stimulation therapy |  |  |  |  |
97016 | A | Vasopneumatic device therapy |  |  |  |  |
97018 | A | Paraffin bath therapy |  |  |  |  |
97020 | A | Microwave therapy |  |  |  |  |
97022 | A | Whirlpool therapy |  |  |  |  |
97024 | A | Diathermy treatment |  |  |  |  |
97026 | A | Infrared therapy |  |  |  |  |
97028 | A | Ultraviolet therapy |  |  |  |  |
97032 | A | Electrical stimulation |  |  |  |  |
97033 | A | Electric current therapy |  |  |  |  |
97034 | A | Contrast bath therapy |  |  |  |  |
97035 | A | Ultrasound therapy |  |  |  |  |
97036 | A | Hydrotherapy |  |  |  |  |
97039 | A | Physical therapy treatment |  |  |  |  |
97110 | A | Therapeutic exercises |  |  |  |  |
97112 | A | Neuromuscular reeducation |  |  |  |  |
97113 | A | Aquatic therapy/exercises |  |  |  |  |
97116 | A | Gait training therapy |  |  |  |  |
97124 | A | Massage therapy |  |  |  |  |
97139 | A | Physical medicine procedure |  |  |  |  |
97140 | A | Manual therapy |  |  |  |  |
97150 | A | Group therapeutic procedures |  |  |  |  |
97504 | A | Orthotic training |  |  |  |  |
97520 | A | Prosthetic training |  |  |  |  |
97530 | A | Therapeutic activities |  |  |  |  |
97532 | A | Cognitive skills development |  |  |  |  |
97533 | A | Sensory integration |  |  |  |  |
97535 | A | Self care mngment training |  |  |  |  |
97537 | A | Community/work reintegration |  |  |  |  |
97542 | A | Wheelchair mngment training |  |  |  |  |
97545 | A | Work hardening |  |  |  |  |
97546 | A | Work hardening add-on |  |  |  |  |
97601 | A | Wound(s) care, selective |  |  |  |  |
97602 | N | Wound(s) care non-selective |  |  |  |  |
97703 | A | Prosthetic checkout |  |  |  |  |
97750 | A | Physical performance test |  |  |  |  |
97780 | E | Acupuncture w/o stimul |  |  |  |  |
97781 | E | Acupuncture w/stimul |  |  |  |  |
97799 | A | Physical medicine procedure |  |  |  |  |
97802 | A | Medical nutrition, indiv, in |  |  |  |  |
97803 | A | Med nutrition, indiv, subseq |  |  |  |  |
97804 | A | Medical nutrition, group |  |  |  |  |
98925 | S | Osteopathic manipulation | 0060 | 0.36 | $18.72 |  | $3.74
98926 | S | Osteopathic manipulation | 0060 | 0.36 | $18.72 |  | $3.74
98927 | S | Osteopathic manipulation | 0060 | 0.36 | $18.72 |  | $3.74
98928 | S | Osteopathic manipulation | 0060 | 0.36 | $18.72 |  | $3.74
98929 | S | Osteopathic manipulation | 0060 | 0.36 | $18.72 |  | $3.74
98940 | S | Chiropractic manipulation | 0060 | 0.36 | $18.72 |  | $3.74
98941 | S | Chiropractic manipulation | 0060 | 0.36 | $18.72 |  | $3.74
98942 | S | Chiropractic manipulation | 0060 | 0.36 | $18.72 |  | $3.74
98943 | E | Chiropractic manipulation |  |  |  |  |
99000 | E | Specimen handling |  |  |  |  |
99001 | E | Specimen handling |  |  |  |  |
99002 | E | Device handling |  |  |  |  |
99024 | E | Postop follow-up visit |  |  |  |  |
99025 | E | Initial surgical evaluation |  |  |  |  |
99050 | E | Medical services after hrs |  |  |  |  |
99052 | E | Medical services at night |  |  |  |  |
99054 | E | Medical servcs, unusual hrs |  |  |  |  |
99056 | E | Non-office medical services |  |  |  |  |
99058 | E | Office emergency care |  |  |  |  |
99070 | E | Special supplies |  |  |  |  |
99071 | E | Patient education materials |  |  |  |  |
99075 | E | Medical testimony |  |  |  |  |
99078 | N | Group health education |  |  |  |  |
99080 | E | Special reports or forms |  |  |  |  |
99082 | E | Unusual physician travel |  |  |  |  |
99090 | E | Computer data analysis |  |  |  |  |
99091 | E | Collect/review data from pt |  |  |  |  |
99100 | E | Special anesthesia service |  |  |  |  |
99116 | E | Anesthesia with hypothermia |  |  |  |  |
99135 | E | Special anesthesia procedure |  |  |  |  |
99140 | E | Emergency anesthesia |  |  |  |  |
99141 | N | Sedation, iv/im or inhalant |  |  |  |  |
99142 | N | Sedation, oral/rectal/nasal |  |  |  |  |
99170 | T | Anogenital exam, child | 0191 | 0.22 | $11.44 | $3.32 | $2.29
99172 | E | Ocular function screen |  |  |  |  |
99173 | E | Visual acuity screen |  |  |  |  |
99175 | N | Induction of vomiting |  |  |  |  |
99183 | E | Hyperbaric oxygen therapy |  |  |  |  |
99185 | N | Regional hypothermia |  |  |  |  |
99186 | N | Total body hypothermia |  |  |  |  |
99190 | C | Special pump services |  |  |  |  |
99191 | C | Special pump services |  |  |  |  |
99192 | C | Special pump services |  |  |  |  |
99195 | X | Phlebotomy | 0372 | 0.56 | $29.13 | $10.09 | $5.83
99199 | E | Special service/proc/report |  |  |  |  |
99201 | V | Office/outpatient visit, new | 0600 | 0.91 | $47.33 |  | $9.47
99202 | V | Office/outpatient visit, new | 0600 | 0.91 | $47.33 |  | $9.47
99203 | V | Office/outpatient visit, new | 0601 | 1.04 | $54.09 |  | $10.82
99204 | V | Office/outpatient visit, new | 0602 | 1.57 | $81.65 |  | $16.33
99205 | V | Office/outpatient visit, new | 0602 | 1.57 | $81.65 |  | $16.33
99211 | V | Office/outpatient visit, est | 0600 | 0.91 | $47.33 |  | $9.47
99212 | V | Office/outpatient visit, est | 0600 | 0.91 | $47.33 |  | $9.47
99213 | V | Office/outpatient visit, est | 0601 | 1.04 | $54.09 |  | $10.82
99214 | V | Office/outpatient visit, est | 0602 | 1.57 | $81.65 |  | $16.33
99215 | V | Office/outpatient visit, est | 0602 | 1.57 | $81.65 |  | $16.33
99217 | N | Observation care discharge |  |  |  |  |
99218 | N | Observation care |  |  |  |  |
99219 | N | Observation care |  |  |  |  |
99220 | N | Observation care |  |  |  |  |
99221 | E | Initial hospital care |  |  |  |  |
99222 | E | Initial hospital care |  |  |  |  |
99223 | E | Initial hospital care |  |  |  |  |
99231 | E | Subsequent hospital care |  |  |  |  |
99232 | E | Subsequent hospital care |  |  |  |  |
99233 | E | Subsequent hospital care |  |  |  |  |
99234 | N | Observ/hosp same date |  |  |  |  |
99235 | N | Observ/hosp same date |  |  |  |  |
99236 | N | Observ/hosp same date |  |  |  |  |
99238 | E | Hospital discharge day |  |  |  |  |
99239 | E | Hospital discharge day |  |  |  |  |
99241 | V | Office consultation | 0600 | 0.91 | $47.33 |  | $9.47
99242 | V | Office consultation | 0600 | 0.91 | $47.33 |  | $9.47
99243 | V | Office consultation | 0601 | 1.04 | $54.09 |  | $10.82
99244 | V | Office consultation | 0602 | 1.57 | $81.65 |  | $16.33
99245 | V | Office consultation | 0602 | 1.57 | $81.65 |  | $16.33
99251 | C | Initial inpatient consult |  |  |  |  |
99252 | C | Initial inpatient consult |  |  |  |  |
99253 | C | Initial inpatient consult |  |  |  |  |
99254 | C | Initial inpatient consult |  |  |  |  |
99255 | C | Initial inpatient consult |  |  |  |  |
99261 | C | Follow-up inpatient consult |  |  |  |  |
99262 | C | Follow-up inpatient consult |  |  |  |  |
99263 | C | Follow-up inpatient consult |  |  |  |  |
99271 | V | Confirmatory consultation | 0600 | 0.91 | $47.33 |  | $9.47
99272 | V | Confirmatory consultation | 0600 | 0.91 | $47.33 |  | $9.47
99273 | V | Confirmatory consultation | 0601 | 1.04 | $54.09 |  | $10.82
99274 | V | Confirmatory consultation | 0602 | 1.57 | $81.65 |  | $16.33
99275 | V | Confirmatory consultation | 0602 | 1.57 | $81.65 |  | $16.33
99281 | V | Emergency dept visit | 0610 | 1.49 | $77.49 | $19.57 | $15.50
99282 | V | Emergency dept visit | 0610 | 1.49 | $77.49 | $19.57 | $15.50
99283 | V | Emergency dept visit | 0611 | 2.66 | $138.34 | $36.47 | $27.67
99284 | V | Emergency dept visit | 0612 | 4.53 | $235.60 | $54.14 | $47.12
99285 | V | Emergency dept visit | 0612 | 4.53 | $235.60 | $54.14 | $47.12
99288 | E | Direct advanced life support |  |  |  |  |
99289 | N | Pt transport, 30-74 min |  |  |  |  |
99290 | N | Pt transport, addl 30 min |  |  |  |  |
99291 | S | Critical care, first hour | 0620 | 10.25 | $533.09 | $150.55 | $106.62
99292 | N | Critical care, addl 30 min |  |  |  |  |
99295 | C | Neonatal critical care |  |  |  |  |
99296 | C | Neonatal critical care |  |  |  |  |
99297 | C | Neonatal critical care |  |  |  |  |
99298 | C | Neonatal critical care |  |  |  |  |
99301 | E | Nursing facility care |  |  |  |  |
99302 | E | Nursing facility care |  |  |  |  |
99303 | E | Nursing facility care |  |  |  |  |
99311 | E | Nursing fac care, subseq |  |  |  |  |
99312 | E | Nursing fac care, subseq |  |  |  |  |
99313 | E | Nursing fac care, subseq |  |  |  |  |
99315 | E | Nursing fac discharge day |  |  |  |  |
99316 | E | Nursing fac discharge day |  |  |  |  |
99321 | E | Rest home visit, new patient |  |  |  |  |
99322 | E | Rest home visit, new patient |  |  |  |  |
99323 | E | Rest home visit, new patient |  |  |  |  |
99331 | E | Rest home visit, est pat |  |  |  |  |
99332 | E | Rest home visit, est pat |  |  |  |  |
99333 | E | Rest home visit, est pat |  |  |  |  |
99341 | E | Home visit, new patient |  |  |  |  |
99342 | E | Home visit, new patient |  |  |  |  |
99343 | E | Home visit, new patient |  |  |  |  |
99344 | E | Home visit, new patient |  |  |  |  |
99345 | E | Home visit, new patient |  |  |  |  |
99347 | E | Home visit, est patient |  |  |  |  |
99348 | E | Home visit, est patient |  |  |  |  |
99349 | E | Home visit, est patient |  |  |  |  |
99350 | E | Home visit, est patient |  |  |  |  |
99354 | N | Prolonged service, office |  |  |  |  |
99355 | N | Prolonged service, office |  |  |  |  |
99356 | C | Prolonged service, inpatient |  |  |  |  |
99357 | C | Prolonged service, inpatient |  |  |  |  |
99358 | N | Prolonged serv, w/o contact |  |  |  |  |
99359 | N | Prolonged serv, w/o contact |  |  |  |  |
99360 | E | Physician standby services |  |  |  |  |
99361 | E | Physician/team conference |  |  |  |  |
99362 | E | Physician/team conference |  |  |  |  |
99371 | E | Physician phone consultation |  |  |  |  |
99372 | E | Physician phone consultation |  |  |  |  |
99373 | E | Physician phone consultation |  |  |  |  |
99374 | E | Home health care supervision |  |  |  |  |
99377 | E | Hospice care supervision |  |  |  |  |
99379 | E | Nursing fac care supervision |  |  |  |  |
99380 | E | Nursing fac care supervision |  |  |  |  |
99381 | E | Prev visit, new, infant |  |  |  |  |
99382 | E | Prev visit, new, age 1-4 |  |  |  |  |
99383 | E | Prev visit, new, age 5-11 |  |  |  |  |
99384 | E | Prev visit, new, age 12-17 |  |  |  |  |
99385 | E | Prev visit, new, age 18-39 |  |  |  |  |
99386 | E | Prev visit, new, age 40-64 |  |  |  |  |
99387 | E | Prev visit, new, 65 & over |  |  |  |  |
99391 | E | Prev visit, est, infant |  |  |  |  |
99392 | E | Prev visit, est, age 1-4 |  |  |  |  |
99393 | E | Prev visit, est, age 5-11 |  |  |  |  |
99394 | E | Prev visit, est, age 12-17 |  |  |  |  |
99395 | E | Prev visit, est, age 18-39 |  |  |  |  |
99396 | E | Prev visit, est, age 40-64 |  |  |  |  |
99397 | E | Prev visit, est, 65 & over |  |  |  |  |
99401 | E | Preventive counseling, indiv |  |  |  |  |
99402 | E | Preventive counseling, indiv |  |  |  |  |
99403 | E | Preventive counseling, indiv |  |  |  |  |
99404 | E | Preventive counseling, indiv |  |  |  |  |
99411 | E | Preventive counseling, group |  |  |  |  |
99412 | E | Preventive counseling, group |  |  |  |  |
99420 | E | Health risk assessment test |  |  |  |  |
99429 | E | Unlisted preventive service |  |  |  |  |
99431 | V | Initial care, normal newborn | 0600 | 0.91 | $47.33 |  | $9.47
99432 | N | Newborn care, not in hosp |  |  |  |  |
99433 | C | Normal newborn care/hospital |  |  |  |  |
99435 | E | Newborn discharge day hosp |  |  |  |  |
99436 | N | Attendance, birth |  |  |  |  |
99440 | S | Newborn resuscitation | 0094 | 2.68 | $139.38 | $47.39 | $27.88
99450 | E | Life/disability evaluation |  |  |  |  |
99455 | E | Disability examination |  |  |  |  |
99456 | E | Disability examination |  |  |  |  |
99499 | E | Unlisted e&m service |  |  |  |  |
99500 | E | Home visit, prenatal |  |  |  |  |
99501 | E | Home visit, postnatal |  |  |  |  |
99502 | E | Home visit, nb care |  |  |  |  |
99503 | E | Home visit, resp therapy |  |  |  |  |
99504 | E | Home visit mech ventilator |  |  |  |  |
99505 | E | Home visit, stoma care |  |  |  |  |
99506 | E | Home visit, im injection |  |  |  |  |
99507 | E | Home visit, cath maintain |  |  |  |  |
99508 | E | Home visit, sleep studies |  |  |  |  |
99509 | E | Home visit day life activity |  |  |  |  |
99510 | E | Home visit, sing/m/fam couns |  |  |  |  |
99511 | E | Home visit, fecal/enema mgmt |  |  |  |  |
99512 | E | Home visit, hemodialysis |  |  |  |  |
99539 | E | Home visit, nos |  |  |  |  |
99551 | E | Home infus, pain mgmt, iv/sc |  |  |  |  |
99552 | E | Hm infus pain mgmt, epid/ith |  |  |  |  |
99553 | E | Home infuse, tocolytic tx |  |  |  |  |
99554 | E | Home infus, hormone/platelet |  |  |  |  |
99555 | E | Home infuse, chemotheraphy |  |  |  |  |
99556 | E | Home infus, antibio/fung/vir |  |  |  |  |
99557 | E | Home infuse, anticoagulant |  |  |  |  |
99558 | E | Home infuse, immunotherapy |  |  |  |  |
99559 | E | Home infus, periton dialysis |  |  |  |  |
99560 | E | Home infus, entero nutrition |  |  |  |  |
99561 | E | Home infuse, hydration tx |  |  |  |  |
99562 | E | Home infus, parent nutrition |  |  |  |  |
99563 | E | Home admin, pentamidine |  |  |  |  |
99564 | E | Hme infus, antihemophil agnt |  |  |  |  |
99565 | E | Home infus, proteinase inhib |  |  |  |  |
99566 | E | Home infuse, iv therapy |  |  |  |  |
99567 | E | Home infuse, sympath agent |  |  |  |  |
99568 | E | Home infus, misc drug, daily |  |  |  |  |
99569 | E | Home infuse, each addl tx |  |  |  |  |
A0021 | E | Outside state ambulance serv |  |  |  |  |
A0080 | E | Noninterest escort in non er |  |  |  |  |
A0090 | E | Interest escort in non er |  |  |  |  |
A0100 | E | Nonemergency transport taxi |  |  |  |  |
A0110 | E | Nonemergency transport bus |  |  |  |  |
A0120 | E | Noner transport mini-bus |  |  |  |  |
A0130 | E | Noner transport wheelch van |  |  |  |  |
A0140 | E | Nonemergency transport air |  |  |  |  |
A0160 | E | Noner transport case worker |  |  |  |  |
A0170 | E | Noner transport parking fees |  |  |  |  |
A0180 | E | Noner transport lodgng recip |  |  |  |  |
A0190 | E | Noner transport meals recip |  |  |  |  |
A0200 | E | Noner transport lodgng escrt |  |  |  |  |
A0210 | E | Noner transport meals escort |  |  |  |  |
A0225 | A | Neonatal emergency transport |  |  |  |  |
A0380 | A | Basic life support mileage |  |  |  |  |
A0382 | A | Basic support routine suppls |  |  |  |  |
A0384 | A | Bls defibrillation supplies |  |  |  |  |
A0390 | A | Advanced life support mileag |  |  |  |  |
A0392 | A | Als defibrillation supplies |  |  |  |  |
A0394 | A | Als IV drug therapy supplies |  |  |  |  |
A0396 | A | Als esophageal intub suppls |  |  |  |  |
A0398 | A | Als routine disposble suppls |  |  |  |  |
A0420 | A | Ambulance waiting 1/2 hr |  |  |  |  |
A0422 | A | Ambulance 02 life sustaining |  |  |  |  |
A0424 | A | Extra ambulance attendant |  |  |  |  |
A0425 | A | Ground mileage |  |  |  |  |
A0426 | A | Als 1 |  |  |  |  |
A0427 | A | ALS1-emergency |  |  |  |  |
A0428 | A | bls |  |  |  |  |
A0429 | A | BLS-emergency |  |  |  |  |
A0430 | A | Fixed wing air transport |  |  |  |  |
A0431 | A | Rotary wing air transport |  |  |  |  |
A0432 | A | PI volunteer ambulance co |  |  |  |  |
A0433 | A | als 2 |  |  |  |  |
A0434 | A | Specialty care transport |  |  |  |  |
A0435 | A | Fixed wing air mileage |  |  |  |  |
A0436 | A | Rotary wing air mileage |  |  |  |  |
A0888 | E | Noncovered ambulance mileage |  |  |  |  |
A0999 | A | Unlisted ambulance service |  |  |  |  |
A4206 | A | 1 CC sterile syringe&needle |  |  |  |  |
A4207 | A | 2 CC sterile syringe&needle |  |  |  |  |
A4208 | A | 3 CC sterile syringe&needle |  |  |  |  |
A4209 | E | 5+ CC sterile syringe&needle |  |  |  |  |
A4210 | E | Nonneedle injection device |  |  |  |  |
A4211 | E | Supp for self-adm injections |  |  |  |  |
A4212 | E | Non coring needle or stylet |  |  |  |  |
A4213 | E | 20+ CC syringe only |  |  |  |  |
A4214 | A | 30 CC sterile water/saline |  |  |  |  |
A4215 | E | Sterile needle |  |  |  |  |
A4220 | A | Infusion pump refill kit |  |  |  |  |
A4221 | A | Maint drug infus cath per wk |  |  |  |  |
A4222 | A | Drug infusion pump supplies |  |  |  |  |
A4230 | A | Infus insulin pump non needl |  |  |  |  |
A4231 | A | Infusion insulin pump needle |  |  |  |  |
A4232 | A | Syringe w/needle insulin 3cc |  |  |  |  |
A4244 | E | Alcohol or peroxide per pint |  |  |  |  |
A4245 | E | Alcohol wipes per box |  |  |  |  |
A4246 | E | Betadine/phisohex solution |  |  |  |  |
A4247 | E | Betadine/iodine swabs/wipes |  |  |  |  |
A4250 | E | Urine reagent strips/tablets |  |  |  |  |
A4253 | A | Blood glucose/reagent strips |  |  |  |  |
A4254 | A | Battery for glucose monitor |  |  |  |  |
A4255 | A | Glucose monitor platforms |  |  |  |  |
A4256 | A | Calibrator solution/chips |  |  |  |  |
A4257 | A | Replace Lensshield Cartridge |  |  |  |  |
A4258 | A | Lancet device each |  |  |  |  |
A4259 | A | Lancets per box |  |  |  |  |
A4260 | E | Levonorgestrel implant |  |  |  |  |
A4261 | E | Cervical cap contraceptive |  |  |  |  |
A4262 | N | Temporary tear duct plug |  |  |  |  |
A4263 | N | Permanent tear duct plug |  |  |  |  |
A4265 | A | Paraffin |  |  |  |  |
A4270 | A | Disposable endoscope sheath |  |  |  |  |
A4280 | A | Brst prsths adhsv attchmnt |  |  |  |  |
A4290 | E | Sacral nerve stim test lead |  |  |  |  |
A4300 | E | Cath impl vasc access portal |  |  |  |  |
A4301 | E | Implantable access syst perc |  |  |  |  |
A4305 | A | Drug delivery system >=50 ML |  |  |  |  |
A4306 | A | Drug delivery system <=5 ML |  |  |  |  |
A4310 | A | Insert tray w/o bag/cath |  |  |  |  |
A4311 | A | Catheter w/o bag 2-way latex |  |  |  |  |
A4312 | A | Cath w/o bag 2-way silicone |  |  |  |  |
A4313 | A | Catheter w/bag 3-way |  |  |  |  |
A4314 | A | Cath w/drainage 2-way latex |  |  |  |  |
A4315 | A | Cath w/drainage 2-way silcne |  |  |  |  |
A4316 | A | Cath w/drainage 3-way |  |  |  |  |
A4319 | A | Sterile H2O irrigation solut |  |  |  |  |
A4320 | A | Irrigation tray |  |  |  |  |
A4321 | A | Cath therapeutic irrig agent |  |  |  |  |
A4322 | A | Irrigation syringe |  |  |  |  |
A4323 | A | Saline irrigation solution |  |  |  |  |
A4324 | A | Male ext cath w/adh coating |  |  |  |  |
A4325 | A | Male ext cath w/adh strip |  |  |  |  |
A4326 | A | Male external catheter |  |  |  |  |
A4327 | A | Fem urinary collect dev cup |  |  |  |  |
A4328 | A | Fem urinary collect pouch |  |  |  |  |
A4330 | A | Stool collection pouch |  |  |  |  |
A4331 | A | Extension drainage tubing |  |  |  |  |
A4332 | A | Lubricant for cath insertion |  |  |  |  |
A4333 | A | Urinary cath anchor device |  |  |  |  |
A4334 | A | Urinary cath leg strap |  |  |  |  |
A4335 | A | Incontinence supply |  |  |  |  |
A4338 | A | Indwelling catheter latex |  |  |  |  |
A4340 | A | Indwelling catheter special |  |  |  |  |
A4344 | A | Cath indw foley 2 way silicn |  |  |  |  |
A4346 | A | Cath indw foley 3 way |  |  |  |  |
A4347 | A | Male external catheter |  |  |  |  |
A4348 | A | Male ext cath extended wear |  |  |  |  |
A4351 | A | Straight tip urine catheter |  |  |  |  |
A4352 | A | Coude tip urinary catheter |  |  |  |  |
A4353 | A | Intermittent urinary cath |  |  |  |  |
A4354 | A | Cath insertion tray w/bag |  |  |  |  |
A4355 | A | Bladder irrigation tubing |  |  |  |  |
A4356 | A | Ext ureth clmp or compr dvc |  |  |  |  |
A4357 | A | Bedside drainage bag |  |  |  |  |
A4358 | A | Urinary leg or abdomen bag |  |  |  |  |
A4359 | A | Urinary suspensory w/o leg b |  |  |  |  |
A4360 | A | Adult incontinence garment |  |  |  |  |
A4361 | A | Ostomy face plate |  |  |  |  |
A4362 | A | Solid skin barrier |  |  |  |  |
A4364 | A | Adhesive, liquid or equal |  |  |  |  |
A4365 | A | Adhesive remover wipes |  |  |  |  |
A4367 | A | Ostomy belt |  |  |  |  |
A4368 | A | Ostomy filter |  |  |  |  |
A4369 | A | Skin barrier liquid per oz |  |  |  |  |
A4370 | A | Skin barrier paste per oz |  |  |  |  |
A4371 | A | Skin barrier powder per oz |  |  |  |  |
A4372 | A | Skin barrier solid 4x4 equiv |  |  |  |  |
A4373 | A | Skin barrier with flange |  |  |  |  |
A4374 | A | Skin barrier extended wear |  |  |  |  |
A4375 | A | Drainable plastic pch w fcpl |  |  |  |  |
A4376 | A | Drainable rubber pch w fcplt |  |  |  |  |
A4377 | A | Drainable plstic pch w/o fp |  |  |  |  |
A4378 | A | Drainable rubber pch w/o fp |  |  |  |  |
A4379 | A | Urinary plastic pouch w fcpl |  |  |  |  |
A4380 | A | Urinary rubber pouch w fcplt |  |  |  |  |
A4381 | A | Urinary plastic pouch w/o fp |  |  |  |  |
A4382 | A | Urinary hvy plstc pch w/o fp |  |  |  |  |
A4383 | A | Urinary rubber pouch w/o fp |  |  |  |  |
A4384 | A | Ostomy faceplt/silicone ring |  |  |  |  |
A4385 | A | Ost skn barrier sld ext wear |  |  |  |  |
A4386 | A | Ost skn barrier w flng ex wr |  |  |  |  |
A4387 | A | Ost clsd pouch w att st barr |  |  |  |  |
A4388 | A | Drainable pch w ex wear barr |  |  |  |  |
A4389 | A | Drainable pch w st wear barr |  |  |  |  |
A4390 | A | Drainable pch ex wear convex |  |  |  |  |
A4391 | A | Urinary pouch w ex wear barr |  |  |  |  |
A4392 | A | Urinary pouch w st wear barr |  |  |  |  |
A4393 | A | Urine pch w ex wear bar conv |  |  |  |  |
A4394 | A | Ostomy pouch liq deodorant |  |  |  |  |
A4395 | A | Ostomy pouch solid deodorant |  |  |  |  |
A4396 | A | Peristomal hernia supprt blt |  |  |  |  |
A4397 | A | Irrigation supply sleeve |  |  |  |  |
A4398 | A | Ostomy irrigation bag |  |  |  |  |
A4399 | A | Ostomy irrig cone/cath w brs |  |  |  |  |
A4400 | A | Ostomy irrigation set |  |  |  |  |
A4402 | A | Lubricant per ounce |  |  |  |  |
A4404 | A | Ostomy ring each |  |  |  |  |
A4421 | A | Ostomy supply misc |  |  |  |  |
A4454 | A | Tape all types all sizes |  |  |  |  |
A4455 | A | Adhesive remover per ounce |  |  |  |  |
A4460 | A | Elastic compression bandage |  |  |  |  |
A4462 | A | Abdmnl drssng holder/binder |  |  |  |  |
A4464 | A | Joint support device/garment |  |  |  |  |
A4465 | A | Non-elastic extremity binder |  |  |  |  |
A4470 | A | Gravlee jet washer |  |  |  |  |
A4480 | A | Vabra aspirator |  |  |  |  |
A4481 | A | Tracheostoma filter |  |  |  |  |
A4483 | A | Moisture exchanger |  |  |  |  |
A4490 | E | Above knee surgical stocking |  |  |  |  |
A4495 | E | Thigh length surg stocking |  |  |  |  |
A4500 | E | Below knee surgical stocking |  |  |  |  |
A4510 | E | Full length surg stocking |  |  |  |  |
A4550 | E | Surgical trays |  |  |  |  |
A4554 | E | Disposable underpads |  |  |  |  |
A4556 | A | Electrodes, pair |  |  |  |  |
A4557 | A | Lead wires, pair |  |  |  |  |
A4558 | A | Conductive paste or gel |  |  |  |  |
A4561 | N | Pessary rubber, any type |  |  |  |  |
A4562 | N | Pessary, non rubber,any type |  |  |  |  |
A4565 | A | Slings |  |  |  |  |
A4570 | N | Splint |  |  |  |  |
A4572 | A | Rib belt |  |  |  |  |
A4575 | E | Hyperbaric o2 chamber disps |  |  |  |  |
A4580 | N | Cast supplies (plaster) |  |  |  |  |
A4590 | N | Special casting material |  |  |  |  |
A4595 | A | TENS suppl 2 lead per month |  |  |  |  |
A4608 | A | Transtracheal oxygen cath |  |  |  |  |
A4611 | A | Heavy duty battery |  |  |  |  |
A4612 | A | Battery cables |  |  |  |  |
A4613 | A | Battery charger |  |  |  |  |
A4614 | A | Hand-held PEFR meter |  |  |  |  |
A4615 | A | Cannula nasal |  |  |  |  |
A4616 | A | Tubing (oxygen) per foot |  |  |  |  |
A4617 | A | Mouth piece |  |  |  |  |
A4618 | A | Breathing circuits |  |  |  |  |
A4619 | A | Face tent |  |  |  |  |
A4620 | A | Variable concentration mask |  |  |  |  |
A4621 | A | Tracheotomy mask or collar |  |  |  |  |
A4622 | A | Tracheostomy or larngectomy |  |  |  |  |
A4623 | A | Tracheostomy inner cannula |  |  |  |  |
A4624 | A | Tracheal suction tube |  |  |  |  |
A4625 | A | Trach care kit for new trach |  |  |  |  |
A4626 | A | Tracheostomy cleaning brush |  |  |  |  |
A4627 | E | Spacer bag/reservoir |  |  |  |  |
A4628 | A | Oropharyngeal suction cath |  |  |  |  |
A4629 | A | Tracheostomy care kit |  |  |  |  |
A4630 | A | Repl bat t.e.n.s. own by pt |  |  |  |  |
A4631 | A | Wheelchair battery |  |  |  |  |
A4635 | A | Underarm crutch pad |  |  |  |  |
A4636 | A | Handgrip for cane etc |  |  |  |  |
A4637 | A | Repl tip cane/crutch/walker |  |  |  |  |
A4640 | A | Alternating pressure pad |  |  |  |  |
A4641 | N | Diagnostic imaging agent |  |  |  |  |
A4642 | N | Satumomab pendetide per dose |  |  |  |  |
A4643 | N | High dose contrast MRI |  |  |  |  |
A4644 | N | Contrast 100-199 MGs iodine |  |  |  |  |
A4645 | N | Contrast 200-299 MGs iodine |  |  |  |  |
A4646 | N | Contrast 300-399 MGs iodine |  |  |  |  |
A4647 | N | Supp- paramagnetic contr mat |  |  |  |  |
A4649 | A | Surgical supplies |  |  |  |  |
A4651 | A | Calibrated microcap tube |  |  |  |  |
A4652 | A | Microcapillary tube sealant |  |  |  |  |
A4656 | A | Dialysis needle |  |  |  |  |
A4657 | A | Dialysis syringe w/wo needle |  |  |  |  |
A4660 | A | Sphyg/bp app w cuff and stet |  |  |  |  |
A4663 | A | Dialysis blood pressure cuff |  |  |  |  |
A4670 | E | Automatic bp monitor, dial |  |  |  |  |
A4680 | A | Activated carbon filter, ea |  |  |  |  |
A4690 | A | Dialyzer, each |  |  |  |  |
A4706 | A | Bicarbonate conc sol per gal |  |  |  |  |
A4707 | A | Bicarbonate conc pow per pac |  |  |  |  |
A4708 | A | Acetate conc sol per gallon |  |  |  |  |
A4709 | A | Acid conc sol per gallon |  |  |  |  |
A4712 | A | Sterile water inj per 10 ml |  |  |  |  |
A4714 | A | Treated water per gallon |  |  |  |  |
A4719 | A | “Y set” tubing |  |  |  |  |
A4720 | A | Dialysat sol fld vol > 249cc |  |  |  |  |
A4721 | A | Dialysat sol fld vol > 999cc |  |  |  |  |
A4722 | A | Dialys sol fld vol > 1999cc |  |  |  |  |
A4723 | A | Dialys sol fld vol > 2999cc |  |  |  |  |
A4724 | A | Dialys sol fld vol > 3999cc |  |  |  |  |
A4725 | A | Dialys sol fld vol > 4999cc |  |  |  |  |
A4726 | A | Dialys sol fld vol > 5999cc |  |  |  |  |
A4730 | A | Fistula cannulation set, ea |  |  |  |  |
A4736 | A | Topical anesthetic, per gram |  |  |  |  |
A4737 | A | Inj anesthetic per 10 ml |  |  |  |  |
A4740 | A | Shunt accessory |  |  |  |  |
A4750 | A | Art or venous blood tubing |  |  |  |  |
A4755 | A | Comb art/venous blood tubing |  |  |  |  |
A4760 | A | Dialysate sol test kit, each |  |  |  |  |
A4765 | A | Dialysate conc pow per pack |  |  |  |  |
A4766 | A | Dialysate conc sol add 10 ml |  |  |  |  |
A4770 | A | Blood collection tube/vacuum |  |  |  |  |
A4771 | A | Serum clotting time tube |  |  |  |  |
A4772 | A | Blood glucose test strips |  |  |  |  |
A4773 | A | Occult blood test strips |  |  |  |  |
A4774 | A | Ammonia test strips |  |  |  |  |
A4801 | A | Heparin per 1000 units |  |  |  |  |
A4802 | A | Protamine sulfate per 50 mg |  |  |  |  |
A4860 | A | Disposable catheter tips |  |  |  |  |
A4870 | A | Plumb/elec wk hm hemo equip |  |  |  |  |
A4890 | A | Repair/maint cont hemo equip |  |  |  |  |
A4911 | A | Drain bag/bottle |  |  |  |  |
A4913 | A | Misc dialysis supplies noc |  |  |  |  |
A4918 | A | Venous pressure clamp |  |  |  |  |
A4927 | A | Non-sterile gloves |  |  |  |  |
A4928 | A | Surgical mask |  |  |  |  |
A4929 | A | Tourniquet for dialysis, ea |  |  |  |  |
A5051 | A | Pouch clsd w barr attached |  |  |  |  |
A5052 | A | Clsd ostomy pouch w/o barr |  |  |  |  |
A5053 | A | Clsd ostomy pouch faceplate |  |  |  |  |
A5054 | A | Clsd ostomy pouch w/flange |  |  |  |  |
A5055 | A | Stoma cap |  |  |  |  |
A5061 | A | Pouch drainable w barrier at |  |  |  |  |
A5062 | A | Drnble ostomy pouch w/o barr |  |  |  |  |
A5063 | A | Drain ostomy pouch w/flange |  |  |  |  |
A5071 | A | Urinary pouch w/barrier |  |  |  |  |
A5072 | A | Urinary pouch w/o barrier |  |  |  |  |
A5073 | A | Urinary pouch on barr w/flng |  |  |  |  |
A5081 | A | Continent stoma plug |  |  |  |  |
A5082 | A | Continent stoma catheter |  |  |  |  |
A5093 | A | Ostomy accessory convex inse |  |  |  |  |
A5102 | A | Bedside drain btl w/wo tube |  |  |  |  |
A5105 | A | Urinary suspensory |  |  |  |  |
A5112 | A | Urinary leg bag |  |  |  |  |
A5113 | A | Latex leg strap |  |  |  |  |
A5114 | A | Foam/fabric leg strap |  |  |  |  |
A5119 | A | Skin barrier wipes box pr 50 |  |  |  |  |
A5121 | A | Solid skin barrier 6x6 |  |  |  |  |
A5122 | A | Solid skin barrier 8x8 |  |  |  |  |
A5123 | A | Skin barrier with flange |  |  |  |  |
A5126 | A | Disk/foam pad +or- adhesive |  |  |  |  |
A5131 | A | Appliance cleaner |  |  |  |  |
A5200 | A | Percutaneous catheter anchor |  |  |  |  |
A5500 | A | Diab shoe for density insert |  |  |  |  |
A5501 | A | Diabetic custom molded shoe |  |  |  |  |
A5503 | A | Diabetic shoe w/roller/rockr |  |  |  |  |
A5504 | A | Diabetic shoe with wedge |  |  |  |  |
A5505 | A | Diab shoe w/metatarsal bar |  |  |  |  |
A5506 | A | Diabetic shoe w/off set heel |  |  |  |  |
A5507 | A | Modification diabetic shoe |  |  |  |  |
A5508 | A | Diabetic deluxe shoe |  |  |  |  |
A5509 | A | Direct heat form shoe insert |  |  |  |  |
A5510 | A | Compression form shoe insert |  |  |  |  |
A5511 | A | Custom fab molded shoe inser |  |  |  |  |
A6000 | A | Wound warming wound cover |  |  |  |  |
A6010 | A | Collagen based wound filler |  |  |  |  |
A6021 | A | Collagen dressing <=16 sq in |  |  |  |  |
A6022 | A | Collagen drsg>6<=48 sq in |  |  |  |  |
A6023 | A | Collagen dressing >48 sq in |  |  |  |  |
A6024 | A | Collagen dsg wound filler |  |  |  |  |
A6025 | E | Silicone gel sheet, each |  |  |  |  |
A6154 | A | Wound pouch each |  |  |  |  |
A6196 | A | Alginate dressing <=16 sq in |  |  |  |  |
A6197 | A | Alginate drsg >16 <=48 sq in |  |  |  |  |
A6198 | A | alginate dressing > 48 sq in |  |  |  |  |
A6199 | A | Alginate drsg wound filler |  |  |  |  |
A6200 | A | Compos drsg <=16 no border |  |  |  |  |
A6201 | A | Compos drsg >16<=48 no bdr |  |  |  |  |
A6202 | A | Compos drsg >48 no border |  |  |  |  |
A6203 | A | Composite drsg <= 16 sq in |  |  |  |  |
A6204 | A | Composite drsg >16<=48 sq in |  |  |  |  |
A6205 | A | Composite drsg > 48 sq in |  |  |  |  |
A6206 | A | Contact layer <= 16 sq in |  |  |  |  |
A6207 | A | Contact layer >16<= 48 sq in |  |  |  |  |
A6208 | A | Contact layer > 48 sq in |  |  |  |  |
A6209 | A | Foam drsg <=16 sq in w/o bdr |  |  |  |  |
A6210 | A | Foam drg >16<=48 sq in w/o b |  |  |  |  |
A6211 | A | Foam drg > 48 sq in w/o brdr |  |  |  |  |
A6212 | A | Foam drg <=16 sq in w/border |  |  |  |  |
A6213 | A | Foam drg >16<=48 sq in w/bdr |  |  |  |  |
A6214 | A | Foam drg > 48 sq in w/border |  |  |  |  |
A6215 | A | Foam dressing wound filler |  |  |  |  |
A6216 | A | Non-sterile gauze<=16 sq in |  |  |  |  |
A6217 | A | Non-sterile gauze>16<=48 sq |  |  |  |  |
A6218 | A | Non-sterile gauze > 48 sq in |  |  |  |  |
A6219 | A | Gauze <= 16 sq in w/border |  |  |  |  |
A6220 | A | Gauze >16 <=48 sq in w/bordr |  |  |  |  |
A6221 | A | Gauze > 48 sq in w/border |  |  |  |  |
A6222 | A | Gauze <=16 in no w/sal w/o b |  |  |  |  |
A6223 | A | Gauze >16<=48 no w/sal w/o b |  |  |  |  |
A6224 | A | Gauze > 48 in no w/sal w/o b |  |  |  |  |
A6228 | A | Gauze <= 16 sq in water/sal |  |  |  |  |
A6229 | A | Gauze >16<=48 sq in watr/sal |  |  |  |  |
A6230 | A | Gauze > 48 sq in water/salne |  |  |  |  |
A6231 | A | Hydrogel dsg<=16 sq in |  |  |  |  |
A6232 | A | Hydrogel dsg>16<=48 sq in |  |  |  |  |
A6233 | A | Hydrogel dressing >48 sq in |  |  |  |  |
A6234 | A | Hydrocolld drg <=16 w/o bdr |  |  |  |  |
A6235 | A | Hydrocolld drg >16<=48 w/o b |  |  |  |  |
A6236 | A | Hydrocolld drg > 48 in w/o b |  |  |  |  |
A6237 | A | Hydrocolld drg <=16 in w/bdr |  |  |  |  |
A6238 | A | Hydrocolld drg >16<=48 w/bdr |  |  |  |  |
A6239 | A | Hydrocolld drg > 48 in w/bdr |  |  |  |  |
A6240 | A | Hydrocolld drg filler paste |  |  |  |  |
A6241 | A | Hydrocolloid drg filler dry |  |  |  |  |
A6242 | A | Hydrogel drg <=16 in w/o bdr |  |  |  |  |
A6243 | A | Hydrogel drg >16<=48 w/o bdr |  |  |  |  |
A6244 | A | Hydrogel drg >48 in w/o bdr |  |  |  |  |
A6245 | A | Hydrogel drg <= 16 in w/bdr |  |  |  |  |
A6246 | A | Hydrogel drg >16<=48 in w/b |  |  |  |  |
A6247 | A | Hydrogel drg > 48 sq in w/b |  |  |  |  |
A6248 | A | Hydrogel drsg gel filler |  |  |  |  |
A6250 | A | Skin seal protect moisturizr |  |  |  |  |
A6251 | A | Absorpt drg <=16 sq in w/o b |  |  |  |  |
A6252 | A | Absorpt drg >16 <=48 w/o bdr |  |  |  |  |
A6253 | A | Absorpt drg > 48 sq in w/o b |  |  |  |  |
A6254 | A | Absorpt drg <=16 sq in w/bdr |  |  |  |  |
A6255 | A | Absorpt drg >16<=48 in w/bdr |  |  |  |  |
A6256 | A | Absorpt drg > 48 sq in w/bdr |  |  |  |  |
A6257 | A | Transparent film <= 16 sq in |  |  |  |  |
A6258 | A | Transparent film >16<=48 in |  |  |  |  |
A6259 | A | Transparent film > 48 sq in |  |  |  |  |
A6260 | A | Wound cleanser any type/size |  |  |  |  |
A6261 | A | Wound filler gel/paste /oz |  |  |  |  |
A6262 | A | Wound filler dry form / gram |  |  |  |  |
A6263 | A | Non-sterile elastic gauze/yd |  |  |  |  |
A6264 | A | Non-sterile no elastic gauze |  |  |  |  |
A6265 | A | Tape per 18 sq inches |  |  |  |  |
A6266 | A | Impreg gauze no h20/sal/yard |  |  |  |  |
A6402 | A | Sterile gauze <= 16 sq in |  |  |  |  |
A6403 | A | Sterile gauze>16 <= 48 sq in |  |  |  |  |
A6404 | A | Sterile gauze > 48 sq in |  |  |  |  |
A6405 | A | Sterile elastic gauze /yd |  |  |  |  |
A6406 | A | Sterile non-elastic gauze/yd |  |  |  |  |
A7000 | A | Disposable canister for pump |  |  |  |  |
A7001 | A | Nondisposable pump canister |  |  |  |  |
A7002 | A | Tubing used w suction pump |  |  |  |  |
A7003 | A | Nebulizer administration set |  |  |  |  |
A7004 | A | Disposable nebulizer sml vol |  |  |  |  |
A7005 | A | Nondisposable nebulizer set |  |  |  |  |
A7006 | A | Filtered nebulizer admin set |  |  |  |  |
A7007 | A | Lg vol nebulizer disposable |  |  |  |  |
A7008 | A | Disposable nebulizer prefill |  |  |  |  |
A7009 | A | Nebulizer reservoir bottle |  |  |  |  |
A7010 | A | Disposable corrugated tubing |  |  |  |  |
A7011 | A | Nondispos corrugated tubing |  |  |  |  |
A7012 | A | Nebulizer water collec devic |  |  |  |  |
A7013 | A | Disposable compressor filter |  |  |  |  |
A7014 | A | Compressor nondispos filter |  |  |  |  |
A7015 | A | Aerosol mask used w nebulize |  |  |  |  |
A7016 | A | Nebulizer dome & mouthpiece |  |  |  |  |
A7017 | A | Nebulizer not used w oxygen |  |  |  |  |
A7018 | A | Water distilled w/nebulizer |  |  |  |  |
A7019 | A | Saline solution dispenser |  |  |  |  |
A7020 | A | Sterile H2O or NSS w lgv neb |  |  |  |  |
A7501 | A | Tracheostoma valve w diaphra |  |  |  |  |
A7502 | A | Replacement diaphragm/fplate |  |  |  |  |
A7503 | A | HMES filter holder or cap |  |  |  |  |
A7504 | A | Tracheostoma HMES filter |  |  |  |  |
A7505 | A | HMES or trach valve housing |  |  |  |  |
A7506 | A | HMES/trachvalve adhesivedisk |  |  |  |  |
A7507 | A | Integrated filter & holder |  |  |  |  |
A7508 | A | Housing & Integrated Adhesiv |  |  |  |  |
A7509 | A | Heat & moisture exchange sys |  |  |  |  |
A9150 | E | Misc/exper non-prescript dru |  |  |  |  |
A9270 | E | Non-covered item or service |  |  |  |  |
A9300 | E | Exercise equipment |  |  |  |  |
A9500 | N | Technetium TC 99m sestamibi |  |  |  |  |
A9502 | N | Technetium TC99M tetrofosmin |  |  |  |  |
A9503 | N | Technetium TC 99m medronate |  |  |  |  |
A9504 | N | Technetium tc 99m apcitide |  |  |  |  |
A9505 | N | Thallous chloride TL 201/mci |  |  |  |  |
A9507 | K | Indium/111 capromab pendetid | 1604 | 5.91 | $307.37 |  | $61.47
A9508 | N | Iobenguane sulfate I-131 |  |  |  |  |
A9510 | N | Technetium TC99m Disofenin |  |  |  |  |
A9511 | K | Technetium TC 99m depreotide | 1095 | 0.25 | $13.00 |  | $2.60
A9600 | K | Strontium-89 chloride | 0701 | 6.43 | $334.42 |  | $66.88
A9605 | K | Samarium sm153 lexidronamm | 0702 | 15.02 | $781.18 |  | $156.24
A9700 | G | Echocardiography Contrast | 9016 |  | $118.75 |  | $17.00
A9900 | A | Supply/accessory/service |  |  |  |  |
A9901 | A | Delivery/set up/dispensing |  |  |  |  |
B4034 | A | Enter feed supkit syr by day |  |  |  |  |
B4035 | A | Enteral feed supp pump per d |  |  |  |  |
B4036 | A | Enteral feed sup kit grav by |  |  |  |  |
B4081 | A | Enteral ng tubing w/ stylet |  |  |  |  |
B4082 | A | Enteral ng tubing w/o stylet |  |  |  |  |
B4083 | A | Enteral stomach tube levine |  |  |  |  |
B4086 | A | Gastrostomy/jejunostomy tube |  |  |  |  |
B4150 | A | Enteral formulae category i |  |  |  |  |
B4151 | A | Enteral formulae cat1natural |  |  |  |  |
B4152 | A | Enteral formulae category ii |  |  |  |  |
B4153 | A | Enteral formulae categoryIII |  |  |  |  |
B4154 | A | Enteral formulae category IV |  |  |  |  |
B4155 | A | Enteral formulae category v |  |  |  |  |
B4156 | A | Enteral formulae category vi |  |  |  |  |
B4164 | A | Parenteral 50% dextrose solu |  |  |  |  |
B4168 | A | Parenteral sol amino acid 3. |  |  |  |  |
B4172 | A | Parenteral sol amino acid 5. |  |  |  |  |
B4176 | A | Parenteral sol amino acid 7- |  |  |  |  |
B4178 | A | Parenteral sol amino acid > |  |  |  |  |
B4180 | A | Parenteral sol carb > 50% |  |  |  |  |
B4184 | A | Parenteral sol lipids 10% |  |  |  |  |
B4186 | A | Parenteral sol lipids 20% |  |  |  |  |
B4189 | A | Parenteral sol amino acid & |  |  |  |  |
B4193 | A | Parenteral sol 52-73 gm prot |  |  |  |  |
B4197 | A | Parenteral sol 74-100 gm pro |  |  |  |  |
B4199 | A | Parenteral sol > 100gm prote |  |  |  |  |
B4216 | A | Parenteral nutrition additiv |  |  |  |  |
B4220 | A | Parenteral supply kit premix |  |  |  |  |
B4222 | A | Parenteral supply kit homemi |  |  |  |  |
B4224 | A | Parenteral administration ki |  |  |  |  |
B5000 | A | Parenteral sol renal-amirosy |  |  |  |  |
B5100 | A | Parenteral sol hepatic-fream |  |  |  |  |
B5200 | A | Parenteral sol stres-brnch c |  |  |  |  |
B9000 | A | Enter infusion pump w/o alrm |  |  |  |  |
B9002 | A | Enteral infusion pump w/ ala |  |  |  |  |
B9004 | A | Parenteral infus pump portab |  |  |  |  |
B9006 | A | Parenteral infus pump statio |  |  |  |  |
B9998 | A | Enteral supp not otherwise c |  |  |  |  |
B9999 | A | Parenteral supp not othrws c |  |  |  |  |
C1010 | K | Blood, L/R, CMV-NEG | 1010 | 1.67 | $86.86 |  | $17.37
C1011 | K | Platelets, HLA-m, L/R, unit | 1011 | 6.03 | $313.61 |  | $62.72
C1012 | K | PLATELET CONC, L/R, Irrad | 0954 | 1.59 | $82.69 |  | $16.54
C1013 | K | PLATELET CONC, L/R, Unit | 1013 | 0.91 | $47.33 |  | $9.47
C1014 | K | Platelet,Aph/Pher, L/R, unit | 9501 | 5.10 | $265.25 |  | $53.05
C1016 | K | BLOOD,L/R,FROZ/DEGLY/Washed | 1016 | 1.09 | $56.69 |  | $11.34
C1017 | K | Plt, APH/PHER,L/R,CMV-NEG | 1017 | 4.78 | $248.60 |  | $49.72
C1018 | K | Blood, L/R, IRRADIATED | 1018 | 1.90 | $98.82 |  | $19.76
C1058 | G | TC 99M oxidronate, per vial | 1058 |  | $36.74 |  | $5.26
C1064 | G | I-131 cap, each add mCi | 1064 |  | $5.86 |  | $.75
C1065 | G | I-131 sol, each add mCi | 1065 |  | $15.81 |  | $2.03
C1066 | N | IN 111 satumomab pendetide |  |  |  |  |
C1079 | N | CO 57/58 per 0.5 uCi |  |  |  |  |
C1087 | N | I-123 per 100 uCi |  |  |  |  |
C1088 | T | LASER OPTIC TR Sys | 0980 |  | $1,875.00 |  | $375.00
C1091 | K | IN111 oxyquinoline,per0.5mCi | 1091 | 4.36 | $226.76 |  | $45.35
C1092 | K | IN 111 pentetate per 0.5 mCi | 1092 | 4.78 | $248.60 |  | $49.72
C1094 | N | TC99Malbumin aggr,per 1.0mCi |  |  |  |  |
C1096 | K | TC 99M EXAMETAZIME, PER Dose | 1096 | 3.35 | $174.23 |  | $34.85
C1097 | N | TC 99M MEBROFENIN, PER Vial |  |  |  |  |
C1098 | N | TC 99M PENTETATE, PER Vial |  |  |  |  |
C1099 | N | TC 99M PYROPHOSPHATE,PER Via |  |  |  |  |
C1122 | K | Tc 99M ARCITUMOMAB PER VIAL | 1122 | 8.33 | $433.23 |  | $86.65
C1166 | N | CYTARABINE LIPOSOMAL, 10 mg |  |  |  |  |
C1167 | K | EPIRUBICIN HCL, 2 mg | 1167 | 0.32 | $16.64 |  | $3.33
C1178 | K | BUSULFAN IV, 6 Mg | 1178 | 0.53 | $27.56 |  | $5.51
C1188 | N | I-131 cap, per 1-5 mCi |  |  |  |  |
C1200 | N | TC 99M Sodium Glucoheptonat |  |  |  |  |
C1201 | N | TC 99M SUCCIMER, PER Vial |  |  |  |  |
C1202 | N | TC 99M SULFUR COLLOID, Vial |  |  |  |  |
C1207 | K | OCTREOTIDE ACETATE DEPOT 1mg | 1207 | 1.22 | $63.45 |  | $12.69
C1300 | S | HYPERBARIC Oxygen | 0659 | 3.12 | $162.27 |  | $32.45
C1305 | K | Apligraf | 1305 | 12.47 | $648.55 |  | $129.71
C1348 | K | I-131 sol, per 1-6 mCi | 1348 | 0.19 | $9.88 |  | $1.98
C1713 | N | Anchor/screw bn/bn,tis/bn |  |  |  |  |
C1714 | N | Cath, trans atherectomy, dir |  |  |  |  |
C1715 | N | Brachytherapy needle |  |  |  |  |
C1716 | K | Brachytx seed, Gold 198 | 1716 | 0.35 | $18.20 |  | $3.64
C1717 | N | Brachytx seed, HDR Ir-192 |  |  |  |  |
C1718 | K | Brachytx seed, Iodine 125 | 1718 | 0.64 | $33.29 |  | $6.66
C1719 | K | Brachytx seed,Non-HDR Ir-192 | 1719 | 0.57 | $29.65 |  | $5.93
C1720 | K | Brachytx seed, Palladium 103 | 1720 | 0.89 | $46.29 |  | $9.26
C1721 | N | AICD, dual chamber |  |  |  |  |
C1722 | N | AICD, single chamber |  |  |  |  |
C1724 | N | Cath, trans atherec,rotation |  |  |  |  |
C1725 | N | Cath, translumin non-laser |  |  |  |  |
C1726 | N | Cath, bal dil, non-vascular |  |  |  |  |
C1727 | N | Cath, bal tis dis, non-vas |  |  |  |  |
C1728 | N | Cath, brachytx seed adm |  |  |  |  |
C1729 | N | Cath, drainage |  |  |  |  |
C1730 | N | Cath, EP, 19 or few elect |  |  |  |  |
C1731 | N | Cath, EP, 20 or more elec |  |  |  |  |
C1732 | N | Cath, EP, diag/abl, 3D/vect |  |  |  |  |
C1733 | N | Cath, EP, othr than cool-tip |  |  |  |  |
C1750 | N | Cath, hemodialysis,long-term |  |  |  |  |
C1751 | N | Cath, inf, per/cent/midline |  |  |  |  |
C1752 | N | Cath,hemodialysis,short-term |  |  |  |  |
C1753 | N | Cath, intravas ultrasound |  |  |  |  |
C1754 | N | Catheter, intradiscal |  |  |  |  |
C1755 | N | Catheter, intraspinal |  |  |  |  |
C1756 | N | Cath, pacing, transesoph |  |  |  |  |
C1757 | N | Cath, thrombectomy/embolect |  |  |  |  |
C1758 | N | Catheter, ureteral |  |  |  |  |
C1759 | N | Cath, intra echocardiography |  |  |  |  |
C1760 | N | Closure dev, vasc |  |  |  |  |
C1762 | N | Conn tiss, human(inc fascia) |  |  |  |  |
C1763 | N | Conn tiss, non-human |  |  |  |  |
C1764 | N | Event recorder, cardiac |  |  |  |  |
C1765 | H | Adhesion barrier | 1765 |  |  |  |
C1766 | N | Intro/sheath,strble,non-peel |  |  |  |  |
C1767 | N | Generator, neurostim, imp |  |  |  |  |
C1768 | N | Graft, vascular |  |  |  |  |
C1769 | N | Guide wire |  |  |  |  |
C1770 | N | Imaging coil, MR, insertable |  |  |  |  |
C1771 | N | Rep dev, urinary, w/sling |  |  |  |  |
C1772 | N | Infusion pump, programmable |  |  |  |  |
C1773 | N | Ret dev, insertable |  |  |  |  |
C1774 | G | Darbepoetin alfa, 1 mcg | 0734 |  | $4.74 |  | $.68
C1775 | G | FDG, per dose (4-40 mCi/ml) | 1775 |  | $475.00 |  | $68.00
C1776 | N | Joint device (implantable) |  |  |  |  |
C1777 | N | Lead, AICD, endo single coil |  |  |  |  |
C1778 | N | Lead, neurostimulator |  |  |  |  |
C1779 | N | Lead, pmkr, transvenous VDD |  |  |  |  |
C1780 | N | Lens, intraocular (new tech) |  |  |  |  |
C1781 | N | Mesh (implantable) |  |  |  |  |
C1782 | N | Morcellator |  |  |  |  |
C1783 | H | Ocular imp, aqueous drain dev | 1783 |  |  |  |
C1784 | N | Ocular dev, intraop, det ret |  |  |  |  |
C1785 | N | Pmkr, dual, rate-resp |  |  |  |  |
C1786 | N | Pmkr, single, rate-resp |  |  |  |  |
C1787 | N | Patient progr, neurostim |  |  |  |  |
C1788 | N | Port, indwelling, imp |  |  |  |  |
C1789 | N | Prosthesis, breast, imp |  |  |  |  |
C1813 | N | Prosthesis, penile, inflatab |  |  |  |  |
C1815 | N | Pros, urinary sph, imp |  |  |  |  |
C1816 | N | Receiver/transmitter, neuro |  |  |  |  |
C1817 | N | Septal defect imp sys |  |  |  |  |
C1874 | N | Stent, coated/cov w/del sys |  |  |  |  |
C1875 | N | Stent, coated/cov w/o del sy |  |  |  |  |
C1876 | N | Stent, non-coa/non-cov w/del |  |  |  |  |
C1877 | N | Stent, non-coat/cov w/o del |  |  |  |  |
C1878 | N | Matrl for vocal cord |  |  |  |  |
C1879 | N | Tissue marker, implantable |  |  |  |  |
C1880 | N | Vena cava filter |  |  |  |  |
C1881 | N | Dialysis access system |  |  |  |  |
C1882 | N | AICD, other than sing/dual |  |  |  |  |
C1883 | N | Adapt/ext, pacing/neuro lead |  |  |  |  |
C1885 | N | Cath, translumin angio laser |  |  |  |  |
C1887 | N | Catheter, guiding |  |  |  |  |
C1888 | H | Endovas non-cardiac abl cath | 1888 |  |  |  |
C1891 | N | Infusion pump,non-prog, perm |  |  |  |  |
C1892 | N | Intro/sheath,fixed,peel-away |  |  |  |  |
C1893 | N | Intro/sheath, fixed,non-peel |  |  |  |  |
C1894 | N | Intro/sheath, non-laser |  |  |  |  |
C1895 | N | Lead, AICD, endo dual coil |  |  |  |  |
C1896 | N | Lead, AICD, non sing/dual |  |  |  |  |
C1897 | N | Lead, neurostim test kit |  |  |  |  |
C1898 | N | Lead, pmkr, other than trans |  |  |  |  |
C1899 | N | Lead, pmkr/AICD combination |  |  |  |  |
C1900 | H | Lead coronary venous | 1900 |  |  |  |
C2615 | N | Sealant, pulmonary, liquid |  |  |  |  |
C2616 | N | Brachytx seed, Yttrium-90 |  |  |  |  |
C2617 | N | Stent, non-cor, tem w/o del |  |  |  |  |
C2618 | H | Probe, cryoablation | 2618 |  |  |  |
C2619 | N | Pmkr, dual, non rate-resp |  |  |  |  |
C2620 | N | Pmkr, single, non rate-resp |  |  |  |  |
C2621 | N | Pmkr, other than sing/dual |  |  |  |  |
C2622 | N | Prosthesis, penile, non-inf |  |  |  |  |
C2625 | N | Stent, non-cor, tem w/del sy |  |  |  |  |
C2626 | N | Infusion pump, non-prog,temp |  |  |  |  |
C2627 | N | Cath, suprapubic/cystoscopic |  |  |  |  |
C2628 | N | Catheter, occlusion |  |  |  |  |
C2629 | N | Intro/sheath, laser |  |  |  |  |
C2630 | N | Cath, EP, cool-tip |  |  |  |  |
C2631 | N | Rep dev, urinary, w/o sling |  |  |  |  |
C8900 | S | MRA w/cont, abd | 0284 | 7.74 | $402.55 | $201.02 | $80.51
C8901 | S | MRA w/o cont, abd | 0336 | 7.01 | $364.58 | $176.94 | $72.92
C8902 | S | MRA w/o fol w/cont, abd | 0337 | 9.86 | $512.81 | $240.77 | $102.56
C8903 | S | MRI w/cont, breast, uni | 0284 | 7.74 | $402.55 | $201.02 | $80.51
C8904 | S | MRI w/o cont, breast, uni | 0336 | 7.01 | $364.58 | $176.94 | $72.92
C8905 | S | MRI w/o fol w/cont, brst, un | 0337 | 9.86 | $512.81 | $240.77 | $102.56
C8906 | S | MRI w/cont, breast, bi | 0284 | 7.74 | $402.55 | $201.02 | $80.51
C8907 | S | MRI w/o cont, breast, bi | 0336 | 7.01 | $364.58 | $176.94 | $72.92
C8908 | S | MRI w/o fol w/cont, breast, | 0337 | 9.86 | $512.81 | $240.77 | $102.56
C8909 | S | MRA w/cont, chest | 0284 | 7.74 | $402.55 | $201.02 | $80.51
C8910 | S | MRA w/o cont, chest | 0336 | 7.01 | $364.58 | $176.94 | $72.92
C8911 | S | MRA w/o fol w/cont, chest | 0337 | 9.86 | $512.81 | $240.77 | $102.56
C8912 | S | MRA w/cont, lwr ext | 0284 | 7.74 | $402.55 | $201.02 | $80.51
C8913 | S | MRA w/o cont, lwr ext | 0336 | 7.01 | $364.58 | $176.94 | $72.92
C8914 | S | MRA w/o fol w/cont, lwr ext | 0337 | 9.86 | $512.81 | $240.77 | $102.56
C9000 | N | Na chromateCr51, per 0.25mCi |  |  |  |  |
C9003 | K | Palivizumab, per 50 mg | 9003 | 9.34 | $485.76 |  | $97.15
C9007 | N | Baclofen Intrathecal kit-1am |  |  |  |  |
C9008 | N | Baclofen Refill Kit-500mcg |  |  |  |  |
C9009 | K | Baclofen Refill Kit-2000mcg | 9009 | 0.79 | $41.09 |  | $8.22
C9010 | K | Baclofen Refill Kit--4000mcg | 9010 | 0.95 | $49.41 |  | $9.88
C9013 | N | Co 57 cobaltous chloride |  |  |  |  |
C9019 | G | Caspofungin acetate, 5 mg | 9019 |  | $34.20 |  | $4.90
C9020 | K | Sirolimussolution, 1 mg | 9020 | 0.05 | $2.60 |  | $.52
C9100 | N | Iodinated I-131 Albumin |  |  |  |  |
C9102 | N | 51 Na Chromate, 50mCi |  |  |  |  |
C9103 | N | Na Iothalamate I-125, 10 uCi |  |  |  |  |
C9105 | K | Hep B imm glob, per 1 ml | 9105 | 1.58 | $82.17 |  | $16.43
C9108 | K | Thyrotropin alfa, 1.1 mg | 9108 | 8.79 | $457.16 |  | $91.43
C9109 | K | Tirofiban hcl, 6.25 mg | 9109 | 2.32 | $120.66 |  | $24.13
C9110 | G | Alemtuzumab, per 10mg/ml | 9110 |  | $486.88 |  | $69.70
C9111 | G | Inj, bivalirudin, 250mg vial | 9111 |  | $397.81 |  | $56.95
C9112 | G | Perflutren lipid micro, 2ml | 9112 |  | $148.20 |  | $21.22
C9113 | G | Inj pantoprazole sodium, via | 9113 |  | $22.80 |  | $3.26
C9114 | G | Nesiritide, per 1.5 mg vial | 9114 |  | $433.20 |  | $62.02
C9115 | G | Inj, zoledronic acid, 2 mg | 9115 |  | $406.78 |  | $58.23
C9200 | G | Orcel, per 36 cm2 | 9200 |  | $1,135.25 |  | $162.52
C9201 | G | Dermagraft, per 37.5 sq cm | 9201 |  | $577.60 |  | $82.69
C9503 | K | Fresh frozen plasma, ea unit | 9503 | 0.77 | $40.05 |  | $8.01
C9701 | T | Stretta System | 0980 |  | $1,875.00 |  | $375.00
C9703 | T | Bard Endoscopic Suturing Sys | 0979 |  | $1,625.00 |  | $325.00
C9708 | T | Preview Tx Planning Software | 0973 |  | $250.00 |  | $50.00
C9711 | T | H.E.L.P. Apheresis System | 0978 |  | $1,375.00 |  | $275.00
D0120 | E | Periodic oral evaluation |  |  |  |  |
D0140 | E | Limit oral eval problm focus |  |  |  |  |
D0150 | S | Comprehensve oral evaluation | 0330 | 0.64 | $33.29 |  | $6.66
D0160 | E | Extensv oral eval prob focus |  |  |  |  |
D0170 | E | Re-eval,est pt,problem focus |  |  |  |  |
D0210 | E | Intraor complete film series |  |  |  |  |
D0220 | E | Intraoral periapical first f |  |  |  |  |
D0230 | E | Intraoral periapical ea add |  |  |  |  |
D0240 | S | Intraoral occlusal film | 0330 | 0.64 | $33.29 |  | $6.66
D0250 | S | Extraoral first film | 0330 | 0.64 | $33.29 |  | $6.66
D0260 | S | Extraoral ea additional film | 0330 | 0.64 | $33.29 |  | $6.66
D0270 | S | Dental bitewing single film | 0330 | 0.64 | $33.29 |  | $6.66
D0272 | S | Dental bitewings two films | 0330 | 0.64 | $33.29 |  | $6.66
D0274 | S | Dental bitewings four films | 0330 | 0.64 | $33.29 |  | $6.66
D0277 | S | Vert bitewings-sev to eight | 0330 | 0.64 | $33.29 |  | $6.66
D0290 | E | Dental film skull/facial bon |  |  |  |  |
D0310 | E | Dental saliography |  |  |  |  |
D0320 | E | Dental tmj arthrogram incl i |  |  |  |  |
D0321 | E | Dental other tmj films |  |  |  |  |
D0322 | E | Dental tomographic survey |  |  |  |  |
D0330 | E | Dental panoramic film |  |  |  |  |
D0340 | E | Dental cephalometric film |  |  |  |  |
D0350 | E | Oral/facial images |  |  |  |  |
D0415 | E | Bacteriologic study |  |  |  |  |
D0425 | E | Caries susceptibility test |  |  |  |  |
D0460 | S | Pulp vitality test | 0330 | 0.64 | $33.29 |  | $6.66
D0470 | E | Diagnostic casts |  |  |  |  |
D0472 | S | Gross exam, prep & report | 0330 | 0.64 | $33.29 |  | $6.66
D0473 | S | Micro exam, prep & report | 0330 | 0.64 | $33.29 |  | $6.66
D0474 | S | Micro w exam of surg margins | 0330 | 0.64 | $33.29 |  | $6.66
D0480 | S | Cytopath smear prep & report | 0330 | 0.64 | $33.29 |  | $6.66
D0501 | S | Histopathologic examinations | 0330 | 0.64 | $33.29 |  | $6.66
D0502 | S | Other oral pathology procedu | 0330 | 0.64 | $33.29 |  | $6.66
D0999 | S | Unspecified diagnostic proce | 0330 | 0.64 | $33.29 |  | $6.66
D1110 | E | Dental prophylaxis adult |  |  |  |  |
D1120 | E | Dental prophylaxis child |  |  |  |  |
D1201 | E | Topical fluor w prophy child |  |  |  |  |
D1203 | E | Topical fluor w/o prophy chi |  |  |  |  |
D1204 | E | Topical fluor w/o prophy adu |  |  |  |  |
D1205 | E | Topical fluoride w/ prophy a |  |  |  |  |
D1310 | E | Nutri counsel-control caries |  |  |  |  |
D1320 | E | Tobacco counseling |  |  |  |  |
D1330 | E | Oral hygiene instruction |  |  |  |  |
D1351 | E | Dental sealant per tooth |  |  |  |  |
D1510 | S | Space maintainer fxd unilat | 0330 | 0.64 | $33.29 |  | $6.66
D1515 | S | Fixed bilat space maintainer | 0330 | 0.64 | $33.29 |  | $6.66
D1520 | S | Remove unilat space maintain | 0330 | 0.64 | $33.29 |  | $6.66
D1525 | S | Remove bilat space maintain | 0330 | 0.64 | $33.29 |  | $6.66
D1550 | S | Recement space maintainer | 0330 | 0.64 | $33.29 |  | $6.66
D2110 | E | Amalgam one surface primary |  |  |  |  |
D2120 | E | Amalgam two surfaces primary |  |  |  |  |
D2130 | E | Amalgam three surfaces prima |  |  |  |  |
D2131 | E | Amalgam four/more surf prima |  |  |  |  |
D2140 | E | Amalgam one surface permanen |  |  |  |  |
D2150 | E | Amalgam two surfaces permane |  |  |  |  |
D2160 | E | Amalgam three surfaces perma |  |  |  |  |
D2161 | E | Amalgam 4 or > surfaces perm |  |  |  |  |
D2330 | E | Resin one surface-anterior |  |  |  |  |
D2331 | E | Resin two surfaces-anterior |  |  |  |  |
D2332 | E | Resin three surfaces-anterio |  |  |  |  |
D2335 | E | Resin 4/> surf or w incis an |  |  |  |  |
D2336 | E | Composite resin crown |  |  |  |  |
D2337 | E | Compo resin crown ant-perm |  |  |  |  |
D2380 | E | Resin one surf poster primar |  |  |  |  |
D2381 | E | Resin two surf poster primar |  |  |  |  |
D2382 | E | Resin three/more surf post p |  |  |  |  |
D2385 | E | Resin one surf poster perman |  |  |  |  |
D2386 | E | Resin two surf poster perman |  |  |  |  |
D2387 | E | Resin three/more surf post p |  |  |  |  |
D2388 | E | Resin four/more, post perm |  |  |  |  |
D2410 | E | Dental gold foil one surface |  |  |  |  |
D2420 | E | Dental gold foil two surface |  |  |  |  |
D2430 | E | Dental gold foil three surfa |  |  |  |  |
D2510 | E | Dental inlay metalic 1 surf |  |  |  |  |
D2520 | E | Dental inlay metallic 2 surf |  |  |  |  |
D2530 | E | Dental inlay metl 3/more sur |  |  |  |  |
D2542 | E | Dental onlay metallic 2 surf |  |  |  |  |
D2543 | E | Dental onlay metallic 3 surf |  |  |  |  |
D2544 | E | Dental onlay metl 4/more sur |  |  |  |  |
D2610 | E | Inlay porcelain/ceramic 1 su |  |  |  |  |
D2620 | E | Inlay porcelain/ceramic 2 su |  |  |  |  |
D2630 | E | Dental onlay porc 3/more sur |  |  |  |  |
D2642 | E | Dental onlay porcelin 2 surf |  |  |  |  |
D2643 | E | Dental onlay porcelin 3 surf |  |  |  |  |
D2644 | E | Dental onlay porc 4/more sur |  |  |  |  |
D2650 | E | Inlay composite/resin one su |  |  |  |  |
D2651 | E | Inlay composite/resin two su |  |  |  |  |
D2652 | E | Dental inlay resin 3/mre sur |  |  |  |  |
D2662 | E | Dental onlay resin 2 surface |  |  |  |  |
D2663 | E | Dental onlay resin 3 surface |  |  |  |  |
D2664 | E | Dental onlay resin 4/mre sur |  |  |  |  |
D2710 | E | Crown resin laboratory |  |  |  |  |
D2720 | E | Crown resin w/ high noble me |  |  |  |  |
D2721 | E | Crown resin w/ base metal |  |  |  |  |
D2722 | E | Crown resin w/ noble metal |  |  |  |  |
D2740 | E | Crown porcelain/ceramic subs |  |  |  |  |
D2750 | E | Crown porcelain w/ h noble m |  |  |  |  |
D2751 | E | Crown porcelain fused base m |  |  |  |  |
D2752 | E | Crown porcelain w/ noble met |  |  |  |  |
D2780 | E | Crown 3/4 cast hi noble met |  |  |  |  |
D2781 | E | Crown 3/4 cast base metal |  |  |  |  |
D2782 | E | Crown 3/4 cast noble metal |  |  |  |  |
D2783 | E | Crown 3/4 porcelain/ceramic |  |  |  |  |
D2790 | E | Crown full cast high noble m |  |  |  |  |
D2791 | E | Crown full cast base metal |  |  |  |  |
D2792 | E | Crown full cast noble metal |  |  |  |  |
D2799 | E | Provisional crown |  |  |  |  |
D2910 | E | Dental recement inlay |  |  |  |  |
D2920 | E | Dental recement crown |  |  |  |  |
D2930 | E | Prefab stnlss steel crwn pri |  |  |  |  |
D2931 | E | Prefab stnlss steel crown pe |  |  |  |  |
D2932 | E | Prefabricated resin crown |  |  |  |  |
D2933 | E | Prefab stainless steel crown |  |  |  |  |
D2940 | E | Dental sedative filling |  |  |  |  |
D2950 | E | Core build-up incl any pins |  |  |  |  |
D2951 | E | Tooth pin retention |  |  |  |  |
D2952 | E | Post and core cast + crown |  |  |  |  |
D2953 | E | Each addtnl cast post |  |  |  |  |
D2954 | E | Prefab post/core + crown |  |  |  |  |
D2955 | E | Post removal |  |  |  |  |
D2957 | E | Each addtnl prefab post |  |  |  |  |
D2960 | E | Laminate labial veneer |  |  |  |  |
D2961 | E | Lab labial veneer resin |  |  |  |  |
D2962 | E | Lab labial veneer porcelain |  |  |  |  |
D2970 | S | Temporary- fractured tooth | 0330 | 0.64 | $33.29 |  | $6.66
D2980 | E | Crown repair |  |  |  |  |
D2999 | S | Dental unspec restorative pr | 0330 | 0.64 | $33.29 |  | $6.66
D3110 | E | Pulp cap direct |  |  |  |  |
D3120 | E | Pulp cap indirect |  |  |  |  |
D3220 | E | Therapeutic pulpotomy |  |  |  |  |
D3221 | E | Gross pulpal debridement |  |  |  |  |
D3230 | E | Pulpal therapy anterior prim |  |  |  |  |
D3240 | E | Pulpal therapy posterior pri |  |  |  |  |
D3310 | E | Anterior |  |  |  |  |
D3320 | E | Root canal therapy 2 canals |  |  |  |  |
D3330 | E | Root canal therapy 3 canals |  |  |  |  |
D3331 | E | Non-surg tx root canal obs |  |  |  |  |
D3332 | E | Incomplete endodontic tx |  |  |  |  |
D3333 | E | Internal root repair |  |  |  |  |
D3346 | E | Retreat root canal anterior |  |  |  |  |
D3347 | E | Retreat root canal bicuspid |  |  |  |  |
D3348 | E | Retreat root canal molar |  |  |  |  |
D3351 | E | Apexification/recalc initial |  |  |  |  |
0001T | C | Endovas repr abdo ao aneurys |  |  |  |  |
D3352 | E | Apexification/recalc interim |  |  |  |  |
D3353 | E | Apexification/recalc final |  |  |  |  |
D3410 | E | Apicoect/perirad surg anter |  |  |  |  |
D3421 | E | Root surgery bicuspid |  |  |  |  |
D3425 | E | Root surgery molar |  |  |  |  |
D3426 | E | Root surgery ea add root |  |  |  |  |
D3430 | E | Retrograde filling |  |  |  |  |
D3450 | E | Root amputation |  |  |  |  |
D3460 | S | Endodontic endosseous implan | 0330 | 0.64 | $33.29 |  | $6.66
D3470 | E | Intentional replantation |  |  |  |  |
D3910 | E | Isolation- tooth w rubb dam |  |  |  |  |
D3920 | E | Tooth splitting |  |  |  |  |
D3950 | E | Canal prep/fitting of dowel |  |  |  |  |
D3999 | S | Endodontic procedure | 0330 | 0.64 | $33.29 |  | $6.66
D4210 | E | Gingivectomy/plasty per quad |  |  |  |  |
D4211 | E | Gingivectomy/plasty per toot |  |  |  |  |
D4220 | E | Gingival curettage per quadr |  |  |  |  |
D4240 | E | Gingival flap proc w/ planin |  |  |  |  |
D4245 | E | Apically positioned flap |  |  |  |  |
D4249 | E | Crown lengthen hard tissue |  |  |  |  |
D4260 | S | Osseous surgery per quadrant | 0330 | 0.64 | $33.29 |  | $6.66
D4263 | S | Bone replce graft first site | 0330 | 0.64 | $33.29 |  | $6.66
D4264 | S | Bone replce graft each add | 0330 | 0.64 | $33.29 |  | $6.66
D4266 | E | Guided tiss regen resorble |  |  |  |  |
D4267 | E | Guided tiss regen nonresorb |  |  |  |  |
D4268 | S | Surgical revision procedure | 0330 | 0.64 | $33.29 |  | $6.66
D4270 | S | Pedicle soft tissue graft pr | 0330 | 0.64 | $33.29 |  | $6.66
D4271 | S | Free soft tissue graft proc | 0330 | 0.64 | $33.29 |  | $6.66
D4273 | S | Subepithelial tissue graft | 0330 | 0.64 | $33.29 |  | $6.66
D4274 | E | Distal/proximal wedge proc |  |  |  |  |
D4320 | E | Provision splnt intracoronal |  |  |  |  |
D4321 | E | Provisional splint extracoro |  |  |  |  |
D4341 | E | Periodontal scaling & root |  |  |  |  |
D4355 | S | Full mouth debridement | 0330 | 0.64 | $33.29 |  | $6.66
D4381 | S | Localized chemo delivery | 0330 | 0.64 | $33.29 |  | $6.66
D4910 | E | Periodontal maint procedures |  |  |  |  |
D4920 | E | Unscheduled dressing change |  |  |  |  |
D4999 | E | Unspecified periodontal proc |  |  |  |  |
D5110 | E | Dentures complete maxillary |  |  |  |  |
D5120 | E | Dentures complete mandible |  |  |  |  |
D5130 | E | Dentures immediat maxillary |  |  |  |  |
D5140 | E | Dentures immediat mandible |  |  |  |  |
D5211 | E | Dentures maxill part resin |  |  |  |  |
D5212 | E | Dentures mand part resin |  |  |  |  |
D5213 | E | Dentures maxill part metal |  |  |  |  |
D5214 | E | Dentures mandibl part metal |  |  |  |  |
D5281 | E | Removable partial denture |  |  |  |  |
D5410 | E | Dentures adjust cmplt maxil |  |  |  |  |
D5411 | E | Dentures adjust cmplt mand |  |  |  |  |
D5421 | E | Dentures adjust part maxill |  |  |  |  |
D5422 | E | Dentures adjust part mandbl |  |  |  |  |
D5510 | E | Dentur repr broken compl bas |  |  |  |  |
D5520 | E | Replace denture teeth complt |  |  |  |  |
D5610 | E | Dentures repair resin base |  |  |  |  |
D5620 | E | Rep part denture cast frame |  |  |  |  |
D5630 | E | Rep partial denture clasp |  |  |  |  |
D5640 | E | Replace part denture teeth |  |  |  |  |
D5650 | E | Add tooth to partial denture |  |  |  |  |
D5660 | E | Add clasp to partial denture |  |  |  |  |
D5710 | E | Dentures rebase cmplt maxil |  |  |  |  |
D5711 | E | Dentures rebase cmplt mand |  |  |  |  |
D5720 | E | Dentures rebase part maxill |  |  |  |  |
D5721 | E | Dentures rebase part mandbl |  |  |  |  |
D5730 | E | Denture reln cmplt maxil ch |  |  |  |  |
D5731 | E | Denture reln cmplt mand chr |  |  |  |  |
D5740 | E | Denture reln part maxil chr |  |  |  |  |
D5741 | E | Denture reln part mand chr |  |  |  |  |
D5750 | E | Denture reln cmplt max lab |  |  |  |  |
D5751 | E | Denture reln cmplt mand lab |  |  |  |  |
D5760 | E | Denture reln part maxil lab |  |  |  |  |
D5761 | E | Denture reln part mand lab |  |  |  |  |
D5810 | E | Denture interm cmplt maxill |  |  |  |  |
D5811 | E | Denture interm cmplt mandbl |  |  |  |  |
D5820 | E | Denture interm part maxill |  |  |  |  |
D5821 | E | Denture interm part mandbl |  |  |  |  |
D5850 | E | Denture tiss conditn maxill |  |  |  |  |
D5851 | E | Denture tiss condtin mandbl |  |  |  |  |
D5860 | E | Overdenture complete |  |  |  |  |
D5861 | E | Overdenture partial |  |  |  |  |
D5862 | E | Precision attachment |  |  |  |  |
D5867 | E | Replacement of precision att |  |  |  |  |
D5875 | E | Prosthesis modification |  |  |  |  |
D5899 | E | Removable prosthodontic proc |  |  |  |  |
D5911 | S | Facial moulage sectional | 0330 | 0.64 | $33.29 |  | $6.66
D5912 | S | Facial moulage complete | 0330 | 0.64 | $33.29 |  | $6.66
D5913 | E | Nasal prosthesis |  |  |  |  |
D5914 | E | Auricular prosthesis |  |  |  |  |
D5915 | E | Orbital prosthesis |  |  |  |  |
D5916 | E | Ocular prosthesis |  |  |  |  |
D5919 | E | Facial prosthesis |  |  |  |  |
D5922 | E | Nasal septal prosthesis |  |  |  |  |
D5923 | E | Ocular prosthesis interim |  |  |  |  |
D5924 | E | Cranial prosthesis |  |  |  |  |
D5925 | E | Facial augmentation implant |  |  |  |  |
D5926 | E | Replacement nasal prosthesis |  |  |  |  |
D5927 | E | Auricular replacement |  |  |  |  |
D5928 | E | Orbital replacement |  |  |  |  |
D5929 | E | Facial replacement |  |  |  |  |
D5931 | E | Surgical obturator |  |  |  |  |
D5932 | E | Postsurgical obturator |  |  |  |  |
D5933 | E | Refitting of obturator |  |  |  |  |
D5934 | E | Mandibular flange prosthesis |  |  |  |  |
D5935 | E | Mandibular denture prosth |  |  |  |  |
D5936 | E | Temp obturator prosthesis |  |  |  |  |
D5937 | E | Trismus appliance |  |  |  |  |
D5951 | E | Feeding aid |  |  |  |  |
D5952 | E | Pediatric speech aid |  |  |  |  |
D5953 | E | Adult speech aid |  |  |  |  |
D5954 | E | Superimposed prosthesis |  |  |  |  |
D5955 | E | Palatal lift prosthesis |  |  |  |  |
D5958 | E | Intraoral con def inter plt |  |  |  |  |
D5959 | E | Intraoral con def mod palat |  |  |  |  |
D5960 | E | Modify speech aid prosthesis |  |  |  |  |
D5982 | E | Surgical stent |  |  |  |  |
D5983 | S | Radiation applicator | 0330 | 0.64 | $33.29 |  | $6.66
D5984 | S | Radiation shield | 0330 | 0.64 | $33.29 |  | $6.66
D5985 | S | Radiation cone locator | 0330 | 0.64 | $33.29 |  | $6.66
D5986 | E | Fluoride applicator |  |  |  |  |
D5987 | S | Commissure splint | 0330 | 0.64 | $33.29 |  | $6.66
D5988 | E | Surgical splint |  |  |  |  |
D5999 | E | Maxillofacial prosthesis |  |  |  |  |
D6010 | E | Odontics endosteal implant |  |  |  |  |
D6020 | E | Odontics abutment placement |  |  |  |  |
D6040 | E | Odontics eposteal implant |  |  |  |  |
D6050 | E | Odontics transosteal implnt |  |  |  |  |
D6055 | E | Implant connecting bar |  |  |  |  |
D6056 | E | Prefabricated abutment |  |  |  |  |
D6057 | E | Custom abutment |  |  |  |  |
D6058 | E | Abutment supported crown |  |  |  |  |
D6059 | E | Abutment supported mtl crown |  |  |  |  |
D6060 | E | Abutment supported mtl crown |  |  |  |  |
D6061 | E | Abutment supported mtl crown |  |  |  |  |
D6062 | E | Abutment supported mtl crown |  |  |  |  |
D6063 | E | Abutment supported mtl crown |  |  |  |  |
D6064 | E | Abutment supported mtl crown |  |  |  |  |
D6065 | E | Implant supported crown |  |  |  |  |
D6066 | E | Implant supported mtl crown |  |  |  |  |
D6067 | E | Implant supported mtl crown |  |  |  |  |
D6068 | E | Abutment supported retainer |  |  |  |  |
D6069 | E | Abutment supported retainer |  |  |  |  |
D6070 | E | Abutment supported retainer |  |  |  |  |
D6071 | E | Abutment supported retainer |  |  |  |  |
D6072 | E | Abutment supported retainer |  |  |  |  |
D6073 | E | Abutment supported retainer |  |  |  |  |
D6074 | E | Abutment supported retainer |  |  |  |  |
D6075 | E | Implant supported retainer |  |  |  |  |
D6076 | E | Implant supported retainer |  |  |  |  |
D6077 | E | Implant supported retainer |  |  |  |  |
D6078 | E | Implnt/abut suprtd fixd dent |  |  |  |  |
D6079 | E | Implnt/abut suprtd fixd dent |  |  |  |  |
D6080 | E | Implant maintenance |  |  |  |  |
D6090 | E | Repair implant |  |  |  |  |
D6095 | E | Odontics repr abutment |  |  |  |  |
D6100 | E | Removal of implant |  |  |  |  |
D6199 | E | Implant procedure |  |  |  |  |
D6210 | E | Prosthodont high noble metal |  |  |  |  |
D6211 | E | Bridge base metal cast |  |  |  |  |
D6212 | E | Bridge noble metal cast |  |  |  |  |
D6240 | E | Bridge porcelain high noble |  |  |  |  |
D6241 | E | Bridge porcelain base metal |  |  |  |  |
D6242 | E | Bridge porcelain nobel metal |  |  |  |  |
D6245 | E | Bridge porcelain/ceramic |  |  |  |  |
D6250 | E | Bridge resin w/high noble |  |  |  |  |
D6251 | E | Bridge resin base metal |  |  |  |  |
D6252 | E | Bridge resin w/noble metal |  |  |  |  |
D6519 | E | Inlay/onlay porce/ceramic |  |  |  |  |
D6520 | E | Dental retainer two surfaces |  |  |  |  |
D6530 | E | Retainer metallic 3+ surface |  |  |  |  |
D6543 | E | Dental retainr onlay 3 surf |  |  |  |  |
D6544 | E | Dental retainr onlay 4/more |  |  |  |  |
D6545 | E | Dental retainr cast metl |  |  |  |  |
D6548 | E | Porcelain/ceramic retainer |  |  |  |  |
D6720 | E | Retain crown resin w hi nble |  |  |  |  |
D6721 | E | Crown resin w/base metal |  |  |  |  |
D6722 | E | Crown resin w/noble metal |  |  |  |  |
D6740 | E | Crown porcelain/ceramic |  |  |  |  |
D6750 | E | Crown porcelain high noble |  |  |  |  |
D6751 | E | Crown porcelain base metal |  |  |  |  |
D6752 | E | Crown porcelain noble metal |  |  |  |  |
D6780 | E | Crown 3/4 high noble metal |  |  |  |  |
D6781 | E | Crown 3/4 cast based metal |  |  |  |  |
D6782 | E | Crown 3/4 cast noble metal |  |  |  |  |
D6783 | E | Crown 3/4 porcelain/ceramic |  |  |  |  |
D6790 | E | Crown full high noble metal |  |  |  |  |
D6791 | E | Crown full base metal cast |  |  |  |  |
D6792 | E | Crown full noble metal cast |  |  |  |  |
D6920 | S | Dental connector bar | 0330 | 0.64 | $33.29 |  | $6.66
D6930 | E | Dental recement bridge |  |  |  |  |
D6940 | E | Stress breaker |  |  |  |  |
D6950 | E | Precision attachment |  |  |  |  |
D6970 | E | Post & core plus retainer |  |  |  |  |
D6971 | E | Cast post bridge retainer |  |  |  |  |
D6972 | E | Prefab post & core plus reta |  |  |  |  |
D6973 | E | Core build up for retainer |  |  |  |  |
D6975 | E | Coping metal |  |  |  |  |
D6976 | E | Each addtnl cast post |  |  |  |  |
D6977 | E | Each addtl prefab post |  |  |  |  |
D6980 | E | Bridge repair |  |  |  |  |
D6999 | E | Fixed prosthodontic proc |  |  |  |  |
D7110 | S | Oral surgery single tooth | 0330 | 0.64 | $33.29 |  | $6.66
D7120 | S | Each add tooth extraction | 0330 | 0.64 | $33.29 |  | $6.66
D7130 | S | Tooth root removal | 0330 | 0.64 | $33.29 |  | $6.66
D7210 | S | Rem imp tooth w mucoper flp | 0330 | 0.64 | $33.29 |  | $6.66
D7220 | S | Impact tooth remov soft tiss | 0330 | 0.64 | $33.29 |  | $6.66
D7230 | S | Impact tooth remov part bony | 0330 | 0.64 | $33.29 |  | $6.66
D7240 | S | Impact tooth remov comp bony | 0330 | 0.64 | $33.29 |  | $6.66
D7241 | S | Impact tooth rem bony w/comp | 0330 | 0.64 | $33.29 |  | $6.66
D7250 | S | Tooth root removal | 0330 | 0.64 | $33.29 |  | $6.66
D7260 | S | Oral antral fistula closure | 0330 | 0.64 | $33.29 |  | $6.66
D7270 | E | Tooth reimplantation |  |  |  |  |
D7272 | E | Tooth transplantation |  |  |  |  |
D7280 | E | Exposure impact tooth orthod |  |  |  |  |
D7281 | E | Exposure tooth aid eruption |  |  |  |  |
D7285 | E | Biopsy of oral tissue hard |  |  |  |  |
D7286 | E | Biopsy of oral tissue soft |  |  |  |  |
D7290 | E | Repositioning of teeth |  |  |  |  |
D7291 | S | Transseptal fiberotomy | 0330 | 0.64 | $33.29 |  | $6.66
D7310 | E | Alveoplasty w/ extraction |  |  |  |  |
D7320 | E | Alveoplasty w/o extraction |  |  |  |  |
D7340 | E | Vestibuloplasty ridge extens |  |  |  |  |
D7350 | E | Vestibuloplasty exten graft |  |  |  |  |
D7410 | E | Rad exc lesion up to 1.25 cm |  |  |  |  |
D7420 | E | Lesion > 1.25 cm |  |  |  |  |
D7430 | E | Exc benign tumor to 1.25 cm |  |  |  |  |
D7431 | E | Benign tumor exc > 1.25 cm |  |  |  |  |
D7440 | E | Malig tumor exc to 1.25 cm |  |  |  |  |
D7441 | E | Malig tumor > 1.25 cm |  |  |  |  |
D7450 | E | Rem odontogen cyst to 1.25cm |  |  |  |  |
D7451 | E | Rem odontogen cyst > 1.25 cm |  |  |  |  |
D7460 | E | Rem nonodonto cyst to 1.25cm |  |  |  |  |
D7461 | E | Rem nonodonto cyst > 1.25 cm |  |  |  |  |
D7465 | E | Lesion destruction |  |  |  |  |
D7471 | E | Rem exostosis any site |  |  |  |  |
D7480 | E | Partial ostectomy |  |  |  |  |
D7490 | E | Mandible resection |  |  |  |  |
D7510 | E | I&d absc intraoral soft tiss |  |  |  |  |
D7520 | E | I&d abscess extraoral |  |  |  |  |
D7530 | E | Removal fb skin/areolar tiss |  |  |  |  |
D7540 | E | Removal of fb reaction |  |  |  |  |
D7550 | E | Removal of sloughed off bone |  |  |  |  |
D7560 | E | Maxillary sinusotomy |  |  |  |  |
D7610 | E | Maxilla open reduct simple |  |  |  |  |
D7620 | E | Clsd reduct simpl maxilla fx |  |  |  |  |
D7630 | E | Open red simpl mandible fx |  |  |  |  |
D7640 | E | Clsd red simpl mandible fx |  |  |  |  |
D7650 | E | Open red simp malar/zygom fx |  |  |  |  |
D7660 | E | Clsd red simp malar/zygom fx |  |  |  |  |
D7670 | E | Closd rductn splint alveolus |  |  |  |  |
D7680 | E | Reduct simple facial bone fx |  |  |  |  |
D7710 | E | Maxilla open reduct compound |  |  |  |  |
D7720 | E | Clsd reduct compd maxilla fx |  |  |  |  |
D7730 | E | Open reduct compd mandble fx |  |  |  |  |
D7740 | E | Clsd reduct compd mandble fx |  |  |  |  |
D7750 | E | Open red comp malar/zygma fx |  |  |  |  |
D7760 | E | Clsd red comp malar/zygma fx |  |  |  |  |
D7770 | E | Open reduc compd alveolus fx |  |  |  |  |
D7780 | E | Reduct compnd facial bone fx |  |  |  |  |
D7810 | E | Tmj open reduct-dislocation |  |  |  |  |
D7820 | E | Closed tmp manipulation |  |  |  |  |
D7830 | E | Tmj manipulation under anest |  |  |  |  |
D7840 | E | Removal of tmj condyle |  |  |  |  |
D7850 | E | Tmj meniscectomy |  |  |  |  |
D7852 | E | Tmj repair of joint disc |  |  |  |  |
D7854 | E | Tmj excisn of joint membrane |  |  |  |  |
D7856 | E | Tmj cutting of a muscle |  |  |  |  |
D7858 | E | Tmj reconstruction |  |  |  |  |
D7860 | E | Tmj cutting into joint |  |  |  |  |
D7865 | E | Tmj reshaping components |  |  |  |  |
D7870 | E | Tmj aspiration joint fluid |  |  |  |  |
D7871 | E | Lysis + lavage w catheters |  |  |  |  |
D7872 | E | Tmj diagnostic arthroscopy |  |  |  |  |
D7873 | E | Tmj arthroscopy lysis adhesn |  |  |  |  |
D7874 | E | Tmj arthroscopy disc reposit |  |  |  |  |
D7875 | E | Tmj arthroscopy synovectomy |  |  |  |  |
D7876 | E | Tmj arthroscopy discectomy |  |  |  |  |
D7877 | E | Tmj arthroscopy debridement |  |  |  |  |
D7880 | E | Occlusal orthotic appliance |  |  |  |  |
D7899 | E | Tmj unspecified therapy |  |  |  |  |
D7910 | E | Dent sutur recent wnd to 5cm |  |  |  |  |
D7911 | E | Dental suture wound to 5 cm |  |  |  |  |
D7912 | E | Suture complicate wnd > 5 cm |  |  |  |  |
D7920 | E | Dental skin graft |  |  |  |  |
D7940 | S | Reshaping bone orthognathic | 0330 | 0.64 | $33.29 |  | $6.66
D7941 | E | Bone cutting ramus closed |  |  |  |  |
D7943 | E | Cutting ramus open w/graft |  |  |  |  |
D7944 | E | Bone cutting segmented |  |  |  |  |
D7945 | E | Bone cutting body mandible |  |  |  |  |
D7946 | E | Reconstruction maxilla total |  |  |  |  |
D7947 | E | Reconstruct maxilla segment |  |  |  |  |
D7948 | E | Reconstruct midface no graft |  |  |  |  |
D7949 | E | Reconstruct midface w/graft |  |  |  |  |
D7950 | E | Mandible graft |  |  |  |  |
D7955 | E | Repair maxillofacial defects |  |  |  |  |
D7960 | E | Frenulectomy/frenulotomy |  |  |  |  |
D7970 | E | Excision hyperplastic tissue |  |  |  |  |
D7971 | E | Excision pericoronal gingiva |  |  |  |  |
D7980 | E | Sialolithotomy |  |  |  |  |
D7981 | E | Excision of salivary gland |  |  |  |  |
D7982 | E | Sialodochoplasty |  |  |  |  |
D7983 | E | Closure of salivary fistula |  |  |  |  |
D7990 | E | Emergency tracheotomy |  |  |  |  |
D7991 | E | Dental coronoidectomy |  |  |  |  |
D7995 | E | Synthetic graft facial bones |  |  |  |  |
D7996 | E | Implant mandible for augment |  |  |  |  |
D7997 | E | Appliance removal |  |  |  |  |
D7999 | E | Oral surgery procedure |  |  |  |  |
D8010 | E | Limited dental tx primary |  |  |  |  |
D8020 | E | Limited dental tx transition |  |  |  |  |
D8030 | E | Limited dental tx adolescent |  |  |  |  |
D8040 | E | Limited dental tx adult |  |  |  |  |
D8050 | E | Intercep dental tx primary |  |  |  |  |
D8060 | E | Intercep dental tx transitn |  |  |  |  |
D8070 | E | Compre dental tx transition |  |  |  |  |
D8080 | E | Compre dental tx adolescent |  |  |  |  |
D8090 | E | Compre dental tx adult |  |  |  |  |
D8210 | E | Orthodontic rem appliance tx |  |  |  |  |
D8220 | E | Fixed appliance therapy habt |  |  |  |  |
D8660 | E | Preorthodontic tx visit |  |  |  |  |
D8670 | E | Periodic orthodontc tx visit |  |  |  |  |
D8680 | E | Orthodontic retention |  |  |  |  |
D8690 | E | Orthodontic treatment |  |  |  |  |
D8691 | E | Repair ortho appliance |  |  |  |  |
D8692 | E | Replacement retainer |  |  |  |  |
D8999 | E | Orthodontic procedure |  |  |  |  |
D9110 | N | Tx dental pain minor proc |  |  |  |  |
D9210 | E | Dent anesthesia w/o surgery |  |  |  |  |
D9211 | E | Regional block anesthesia |  |  |  |  |
D9212 | E | Trigeminal block anesthesia |  |  |  |  |
D9215 | E | Local anesthesia |  |  |  |  |
D9220 | E | General anesthesia |  |  |  |  |
D9221 | E | General anesthesia ea ad 15m |  |  |  |  |
D9230 | N | Analgesia |  |  |  |  |
D9241 | E | Intravenous sedation |  |  |  |  |
D9242 | E | IV sedation ea ad 30 m |  |  |  |  |
D9248 | N | Sedation (non-iv) |  |  |  |  |
D9310 | E | Dental consultation |  |  |  |  |
D9410 | E | Dental house call |  |  |  |  |
D9420 | E | Hospital call |  |  |  |  |
D9430 | E | Office visit during hours |  |  |  |  |
D9440 | E | Office visit after hours |  |  |  |  |
D9610 | E | Dent therapeutic drug inject |  |  |  |  |
D9630 | S | Other drugs/medicaments | 0330 | 0.64 | $33.29 |  | $6.66
D9910 | E | Dent appl desensitizing med |  |  |  |  |
D9911 | E | Appl desensitizing resin |  |  |  |  |
D9920 | E | Behavior management |  |  |  |  |
D9930 | S | Treatment of complications | 0330 | 0.64 | $33.29 |  | $6.66
D9940 | S | Dental occlusal guard | 0330 | 0.64 | $33.29 |  | $6.66
D9941 | E | Fabrication athletic guard |  |  |  |  |
D9950 | S | Occlusion analysis | 0330 | 0.64 | $33.29 |  | $6.66
D9951 | S | Limited occlusal adjustment | 0330 | 0.64 | $33.29 |  | $6.66
D9952 | S | Complete occlusal adjustment | 0330 | 0.64 | $33.29 |  | $6.66
D9970 | E | Enamel microabrasion |  |  |  |  |
D9971 | E | Odontoplasty 1-2 teeth |  |  |  |  |
D9972 | E | Extrnl bleaching per arch |  |  |  |  |
D9973 | E | Extrnl bleaching per tooth |  |  |  |  |
D9974 | E | Intrnl bleaching per tooth |  |  |  |  |
D9999 | E | Adjunctive procedure |  |  |  |  |
E0100 | A | Cane adjust/fixed with tip |  |  |  |  |
E0105 | A | Cane adjust/fixed quad/3 pro |  |  |  |  |
E0110 | A | Crutch forearm pair |  |  |  |  |
E0111 | A | Crutch forearm each |  |  |  |  |
E0112 | A | Crutch underarm pair wood |  |  |  |  |
E0113 | A | Crutch underarm each wood |  |  |  |  |
E0114 | A | Crutch underarm pair no wood |  |  |  |  |
E0116 | A | Crutch underarm each no wood |  |  |  |  |
E0130 | A | Walker rigid adjust/fixed ht |  |  |  |  |
E0135 | A | Walker folding adjust/fixed |  |  |  |  |
E0141 | A | Rigid walker wheeled wo seat |  |  |  |  |
E0142 | A | Walker rigid wheeled with se |  |  |  |  |
E0143 | A | Walker folding wheeled w/o s |  |  |  |  |
E0144 | A | Enclosed walker w rear seat |  |  |  |  |
E0145 | A | Walker whled seat/crutch att |  |  |  |  |
E0146 | A | Folding walker wheels w seat |  |  |  |  |
E0147 | A | Walker variable wheel resist |  |  |  |  |
E0148 | A | Heavyduty walker no wheels |  |  |  |  |
E0149 | A | Heavy duty wheeled walker |  |  |  |  |
E0153 | A | Forearm crutch platform atta |  |  |  |  |
E0154 | A | Walker platform attachment |  |  |  |  |
E0155 | A | Walker wheel attachment,pair |  |  |  |  |
E0156 | A | Walker seat attachment |  |  |  |  |
E0157 | A | Walker crutch attachment |  |  |  |  |
E0158 | A | Walker leg extenders set of4 |  |  |  |  |
E0159 | A | Brake for wheeled walker |  |  |  |  |
E0160 | A | Sitz type bath or equipment |  |  |  |  |
E0161 | A | Sitz bath/equipment w/faucet |  |  |  |  |
E0162 | A | Sitz bath chair |  |  |  |  |
E0163 | A | Commode chair stationry fxd |  |  |  |  |
E0164 | A | Commode chair mobile fixed a |  |  |  |  |
E0165 | A | Commode chair stationry det |  |  |  |  |
E0166 | A | Commode chair mobile detach |  |  |  |  |
E0167 | A | Commode chair pail or pan |  |  |  |  |
E0168 | A | Heavyduty/wide commode chair |  |  |  |  |
E0169 | A | Seatlift incorp commodechair |  |  |  |  |
E0175 | A | Commode chair foot rest |  |  |  |  |
E0176 | A | Air pressre pad/cushion nonp |  |  |  |  |
E0177 | A | Water press pad/cushion nonp |  |  |  |  |
E0178 | A | Gel pressre pad/cushion nonp |  |  |  |  |
E0179 | A | Dry pressre pad/cushion nonp |  |  |  |  |
E0180 | A | Press pad alternating w pump |  |  |  |  |
E0181 | A | Press pad alternating w/ pum |  |  |  |  |
E0182 | A | Pressure pad alternating pum |  |  |  |  |
E0184 | A | Dry pressure mattress |  |  |  |  |
E0185 | A | Gel pressure mattress pad |  |  |  |  |
E0186 | A | Air pressure mattress |  |  |  |  |
E0187 | A | Water pressure mattress |  |  |  |  |
E0188 | E | Synthetic sheepskin pad |  |  |  |  |
E0189 | E | Lambswool sheepskin pad |  |  |  |  |
E0191 | A | Protector heel or elbow |  |  |  |  |
E0192 | A | Pad wheelchr low press/posit |  |  |  |  |
E0193 | A | Powered air flotation bed |  |  |  |  |
E0194 | A | Air fluidized bed |  |  |  |  |
E0196 | A | Gel pressure mattress |  |  |  |  |
E0197 | A | Air pressure pad for mattres |  |  |  |  |
E0198 | A | Water pressure pad for mattr |  |  |  |  |
E0199 | A | Dry pressure pad for mattres |  |  |  |  |
E0200 | A | Heat lamp without stand |  |  |  |  |
E0202 | A | Phototherapy light w/ photom |  |  |  |  |
E0205 | A | Heat lamp with stand |  |  |  |  |
E0210 | A | Electric heat pad standard |  |  |  |  |
E0215 | A | Electric heat pad moist |  |  |  |  |
E0217 | A | Water circ heat pad w pump |  |  |  |  |
E0218 | E | Water circ cold pad w pump |  |  |  |  |
E0220 | A | Hot water bottle |  |  |  |  |
E0221 | A | Infrared heating pad system |  |  |  |  |
E0225 | A | Hydrocollator unit |  |  |  |  |
E0230 | A | Ice cap or collar |  |  |  |  |
E0231 | A | Wound warming device |  |  |  |  |
E0232 | A | Warming card for NWT |  |  |  |  |
E0235 | A | Paraffin bath unit portable |  |  |  |  |
E0236 | A | Pump for water circulating p |  |  |  |  |
E0238 | A | Heat pad non-electric moist |  |  |  |  |
E0239 | A | Hydrocollator unit portable |  |  |  |  |
E0241 | E | Bath tub wall rail |  |  |  |  |
E0242 | E | Bath tub rail floor |  |  |  |  |
E0243 | E | Toilet rail |  |  |  |  |
E0244 | E | Toilet seat raised |  |  |  |  |
E0245 | E | Tub stool or bench |  |  |  |  |
E0246 | E | Transfer tub rail attachment |  |  |  |  |
E0249 | A | Pad water circulating heat u |  |  |  |  |
E0250 | A | Hosp bed fixed ht w/ mattres |  |  |  |  |
E0251 | A | Hosp bed fixd ht w/o mattres |  |  |  |  |
E0255 | A | Hospital bed var ht w/ mattr |  |  |  |  |
E0256 | A | Hospital bed var ht w/o matt |  |  |  |  |
E0260 | A | Hosp bed semi-electr w/ matt |  |  |  |  |
E0261 | A | Hosp bed semi-electr w/o mat |  |  |  |  |
E0265 | A | Hosp bed total electr w/ mat |  |  |  |  |
E0266 | A | Hosp bed total elec w/o matt |  |  |  |  |
E0270 | E | Hospital bed institutional t |  |  |  |  |
E0271 | A | Mattress innerspring |  |  |  |  |
E0272 | A | Mattress foam rubber |  |  |  |  |
E0273 | E | Bed board |  |  |  |  |
E0274 | E | Over-bed table |  |  |  |  |
E0275 | A | Bed pan standard |  |  |  |  |
E0276 | A | Bed pan fracture |  |  |  |  |
E0277 | A | Powered pres-redu air mattrs |  |  |  |  |
E0280 | A | Bed cradle |  |  |  |  |
E0290 | A | Hosp bed fx ht w/o rails w/m |  |  |  |  |
E0291 | A | Hosp bed fx ht w/o rail w/o |  |  |  |  |
E0292 | A | Hosp bed var ht w/o rail w/o |  |  |  |  |
E0293 | A | Hosp bed var ht w/o rail w/ |  |  |  |  |
E0294 | A | Hosp bed semi-elect w/ mattr |  |  |  |  |
E0295 | A | Hosp bed semi-elect w/o matt |  |  |  |  |
E0296 | A | Hosp bed total elect w/ matt |  |  |  |  |
E0297 | A | Hosp bed total elect w/o mat |  |  |  |  |
E0305 | A | Rails bed side half length |  |  |  |  |
E0310 | A | Rails bed side full length |  |  |  |  |
E0315 | E | Bed accessory brd/tbl/supprt |  |  |  |  |
E0316 | A | Bed safety enclosure |  |  |  |  |
E0325 | A | Urinal male jug-type |  |  |  |  |
E0326 | A | Urinal female jug-type |  |  |  |  |
E0350 | E | Control unit bowel system |  |  |  |  |
E0352 | E | Disposable pack w/bowel syst |  |  |  |  |
E0370 | E | Air elevator for heel |  |  |  |  |
E0371 | A | Nonpower mattress overlay |  |  |  |  |
E0372 | A | Powered air mattress overlay |  |  |  |  |
E0373 | A | Nonpowered pressure mattress |  |  |  |  |
E0424 | A | Stationary compressed gas 02 |  |  |  |  |
E0425 | E | Gas system stationary compre |  |  |  |  |
E0430 | E | Oxygen system gas portable |  |  |  |  |
E0431 | A | Portable gaseous 02 |  |  |  |  |
E0434 | A | Portable liquid 02 |  |  |  |  |
E0435 | E | Oxygen system liquid portabl |  |  |  |  |
E0439 | A | Stationary liquid 02 |  |  |  |  |
E0440 | E | Oxygen system liquid station |  |  |  |  |
E0441 | A | Oxygen contents, gaseous |  |  |  |  |
E0442 | A | Oxygen contents, liquid |  |  |  |  |
E0443 | A | Portable 02 contents, gas |  |  |  |  |
E0444 | A | Portable 02 contents, liquid |  |  |  |  |
E0450 | A | Volume vent stationary/porta |  |  |  |  |
E0455 | A | Oxygen tent excl croup/ped t |  |  |  |  |
E0457 | A | Chest shell |  |  |  |  |
E0459 | A | Chest wrap |  |  |  |  |
E0460 | A | Neg press vent portabl/statn |  |  |  |  |
E0462 | A | Rocking bed w/ or w/o side r |  |  |  |  |
E0480 | A | Percussor elect/pneum home m |  |  |  |  |
E0481 | A | Intrpulmnry percuss vent sys |  |  |  |  |
E0482 | A | Cough stimulating device |  |  |  |  |
E0500 | A | Ippb all types |  |  |  |  |
E0550 | A | Humidif extens supple w ippb |  |  |  |  |
E0555 | A | Humidifier for use w/ regula |  |  |  |  |
E0560 | A | Humidifier supplemental w/ i |  |  |  |  |
E0565 | A | Compressor air power source |  |  |  |  |
E0570 | A | Nebulizer with compression |  |  |  |  |
E0571 | A | Aerosol compressor for svneb |  |  |  |  |
E0572 | A | Aerosol compressor adjust pr |  |  |  |  |
E0574 | A | Ultrasonic generator w svneb |  |  |  |  |
E0575 | A | Nebulizer ultrasonic |  |  |  |  |
E0580 | A | Nebulizer for use w/ regulat |  |  |  |  |
E0585 | A | Nebulizer w/ compressor & he |  |  |  |  |
E0590 | A | Dispensing fee dme neb drug |  |  |  |  |
E0600 | A | Suction pump portab hom modl |  |  |  |  |
E0601 | A | Cont airway pressure device |  |  |  |  |
E0602 | E | Manual breast pump |  |  |  |  |
E0603 | A | Electric breast pump |  |  |  |  |
E0604 | A | Hosp grade elec breast pump |  |  |  |  |
E0605 | A | Vaporizer room type |  |  |  |  |
E0606 | A | Drainage board postural |  |  |  |  |
E0607 | A | Blood glucose monitor home |  |  |  |  |
E0608 | A | Apnea monitor |  |  |  |  |
E0610 | A | Pacemaker monitr audible/vis |  |  |  |  |
E0615 | A | Pacemaker monitr digital/vis |  |  |  |  |
E0616 | N | Cardiac event recorder |  |  |  |  |
E0617 | A | Automatic ext defibrillator |  |  |  |  |
E0620 | A | Cap bld skin piercing laser |  |  |  |  |
E0621 | A | Patient lift sling or seat |  |  |  |  |
E0625 | E | Patient lift bathroom or toi |  |  |  |  |
E0627 | A | Seat lift incorp lift-chair |  |  |  |  |
E0628 | A | Seat lift for pt furn-electr |  |  |  |  |
E0629 | A | Seat lift for pt furn-non-el |  |  |  |  |
E0630 | A | Patient lift hydraulic |  |  |  |  |
E0635 | A | Patient lift electric |  |  |  |  |
E0650 | A | Pneuma compresor non-segment |  |  |  |  |
E0651 | A | Pneum compressor segmental |  |  |  |  |
E0652 | A | Pneum compres w/cal pressure |  |  |  |  |
E0655 | A | Pneumatic appliance half arm |  |  |  |  |
E0660 | A | Pneumatic appliance full leg |  |  |  |  |
E0665 | A | Pneumatic appliance full arm |  |  |  |  |
E0666 | A | Pneumatic appliance half leg |  |  |  |  |
E0667 | A | Seg pneumatic appl full leg |  |  |  |  |
E0668 | A | Seg pneumatic appl full arm |  |  |  |  |
E0669 | A | Seg pneumatic appli half leg |  |  |  |  |
E0671 | A | Pressure pneum appl full leg |  |  |  |  |
E0672 | A | Pressure pneum appl full arm |  |  |  |  |
E0673 | A | Pressure pneum appl half leg |  |  |  |  |
E0690 | A | Ultraviolet cabinet |  |  |  |  |
E0700 | E | Safety equipment |  |  |  |  |
E0710 | E | Restraints any type |  |  |  |  |
E0720 | A | Tens two lead |  |  |  |  |
E0730 | A | Tens four lead |  |  |  |  |
E0731 | A | Conductive garment for tens/ |  |  |  |  |
E0740 | E | Incontinence treatment systm |  |  |  |  |
E0744 | A | Neuromuscular stim for scoli |  |  |  |  |
E0745 | A | Neuromuscular stim for shock |  |  |  |  |
E0746 | E | Electromyograph biofeedback |  |  |  |  |
E0747 | A | Elec osteogen stim not spine |  |  |  |  |
E0748 | A | Elec osteogen stim spinal |  |  |  |  |
E0749 | N | Elec osteogen stim implanted |  |  |  |  |
E0752 | E | Neurostimulator electrode |  |  |  |  |
E0754 | A | Pulsegenerator pt programmer |  |  |  |  |
E0755 | E | Electronic salivary reflex s |  |  |  |  |
E0756 | E | Implantable pulse generator |  |  |  |  |
E0757 | E | Implantable RF receiver |  |  |  |  |
E0758 | A | External RF transmitter |  |  |  |  |
E0759 | A | Replace rdfrquncy transmittr |  |  |  |  |
E0760 | E | Osteogen ultrasound stimltor |  |  |  |  |
E0765 | E | Nerve stimulator for tx n&v |  |  |  |  |
E0776 | A | Iv pole |  |  |  |  |
E0779 | A | Amb infusion pump mechanical |  |  |  |  |
E0780 | A | Mech amb infusion pump <8hrs |  |  |  |  |
E0781 | A | External ambulatory infus pu |  |  |  |  |
E0782 | E | Non-programble infusion pump |  |  |  |  |
E0783 | E | Programmable infusion pump |  |  |  |  |
E0784 | A | Ext amb infusn pump insulin |  |  |  |  |
E0785 | E | Replacement impl pump cathet |  |  |  |  |
E0786 | E | Implantable pump replacement |  |  |  |  |
E0791 | A | Parenteral infusion pump sta |  |  |  |  |
E0830 | N | Ambulatory traction device |  |  |  |  |
E0840 | A | Tract frame attach headboard |  |  |  |  |
E0850 | A | Traction stand free standing |  |  |  |  |
E0855 | A | Cervical traction equipment |  |  |  |  |
E0860 | A | Tract equip cervical tract |  |  |  |  |
E0870 | A | Tract frame attach footboard |  |  |  |  |
E0880 | A | Trac stand free stand extrem |  |  |  |  |
E0890 | A | Traction frame attach pelvic |  |  |  |  |
E0900 | A | Trac stand free stand pelvic |  |  |  |  |
E0910 | A | Trapeze bar attached to bed |  |  |  |  |
E0920 | A | Fracture frame attached to b |  |  |  |  |
E0930 | A | Fracture frame free standing |  |  |  |  |
E0935 | A | Exercise device passive moti |  |  |  |  |
E0940 | A | Trapeze bar free standing |  |  |  |  |
E0941 | A | Gravity assisted traction de |  |  |  |  |
E0942 | A | Cervical head harness/halter |  |  |  |  |
E0943 | A | Cervical pillow |  |  |  |  |
E0944 | A | Pelvic belt/harness/boot |  |  |  |  |
E0945 | A | Belt/harness extremity |  |  |  |  |
E0946 | A | Fracture frame dual w cross |  |  |  |  |
E0947 | A | Fracture frame attachmnts pe |  |  |  |  |
E0948 | A | Fracture frame attachmnts ce |  |  |  |  |
E0950 | E | Tray |  |  |  |  |
E0951 | E | Loop heel |  |  |  |  |
E0952 | E | Loop tie |  |  |  |  |
E0953 | E | Pneumatic tire |  |  |  |  |
E0954 | E | Wheelchair semi-pneumatic ca |  |  |  |  |
E0958 | A | Whlchr att- conv 1 arm drive |  |  |  |  |
E0959 | E | Amputee adapter |  |  |  |  |
E0961 | E | Wheelchair brake extension |  |  |  |  |
E0962 | A | Wheelchair 1 inch cushion |  |  |  |  |
E0963 | A | Wheelchair 2 inch cushion |  |  |  |  |
E0964 | A | Wheelchair 3 inch cushion |  |  |  |  |
E0965 | A | Wheelchair 4 inch cushion |  |  |  |  |
E0966 | E | Wheelchair head rest extensi |  |  |  |  |
E0967 | E | Wheelchair hand rims |  |  |  |  |
E0968 | A | Wheelchair commode seat |  |  |  |  |
E0969 | E | Wheelchair narrowing device |  |  |  |  |
E0970 | E | Wheelchair no. 2 footplates |  |  |  |  |
E0971 | E | Wheelchair anti-tipping devi |  |  |  |  |
E0972 | A | Transfer board or device |  |  |  |  |
E0973 | E | Wheelchair adjustabl height |  |  |  |  |
E0974 | E | Wheelchair grade-aid |  |  |  |  |
E0975 | E | Wheelchair reinforced seat u |  |  |  |  |
E0976 | E | Wheelchair reinforced back u |  |  |  |  |
E0977 | E | Wheelchair wedge cushion |  |  |  |  |
E0978 | E | Wheelchair belt w/airplane b |  |  |  |  |
E0979 | E | Wheelchair belt with velcro |  |  |  |  |
E0980 | E | Wheelchair safety vest |  |  |  |  |
E0990 | E | Whellchair elevating leg res |  |  |  |  |
E0991 | E | Wheelchair upholstry seat |  |  |  |  |
E0992 | E | Wheelchair solid seat insert |  |  |  |  |
E0993 | E | Wheelchair back upholstery |  |  |  |  |
E0994 | E | Wheelchair arm rest |  |  |  |  |
E0995 | E | Wheelchair calf rest |  |  |  |  |
E0996 | E | Wheelchair tire solid |  |  |  |  |
E0997 | E | Wheelchair caster w/ a fork |  |  |  |  |
E0998 | E | Wheelchair caster w/o a fork |  |  |  |  |
E0999 | E | Wheelchr pneumatic tire w/wh |  |  |  |  |
E1000 | E | Wheelchair tire pneumatic ca |  |  |  |  |
E1001 | E | Wheelchair wheel |  |  |  |  |
E1031 | A | Rollabout chair with casters |  |  |  |  |
E1035 | E | Patient transfer system |  |  |  |  |
E1050 | A | Whelchr fxd full length arms |  |  |  |  |
E1060 | A | Wheelchair detachable arms |  |  |  |  |
E1065 | E | Wheelchair power attachment |  |  |  |  |
E1066 | E | Wheelchair battery charger |  |  |  |  |
E1069 | E | Wheelchair deep cycle batter |  |  |  |  |
E1070 | A | Wheelchair detachable foot r |  |  |  |  |
E1083 | A | Hemi-wheelchair fixed arms |  |  |  |  |
E1084 | A | Hemi-wheelchair detachable a |  |  |  |  |
E1085 | A | Hemi-wheelchair fixed arms |  |  |  |  |
E1086 | A | Hemi-wheelchair detachable a |  |  |  |  |
E1087 | A | Wheelchair lightwt fixed arm |  |  |  |  |
E1088 | A | Wheelchair lightweight det a |  |  |  |  |
E1089 | A | Wheelchair lightwt fixed arm |  |  |  |  |
E1090 | A | Wheelchair lightweight det a |  |  |  |  |
E1091 | A | Wheelchair youth |  |  |  |  |
E1092 | A | Wheelchair wide w/ leg rests |  |  |  |  |
E1093 | A | Wheelchair wide w/ foot rest |  |  |  |  |
E1100 | A | Whchr s-recl fxd arm leg res |  |  |  |  |
E1110 | A | Wheelchair semi-recl detach |  |  |  |  |
E1130 | A | Whlchr stand fxd arm ft rest |  |  |  |  |
E1140 | A | Wheelchair standard detach a |  |  |  |  |
E1150 | A | Wheelchair standard w/ leg r |  |  |  |  |
E1160 | A | Wheelchair fixed arms |  |  |  |  |
E1170 | A | Whlchr ampu fxd arm leg rest |  |  |  |  |
E1171 | A | Wheelchair amputee w/o leg r |  |  |  |  |
E1172 | A | Wheelchair amputee detach ar |  |  |  |  |
E1180 | A | Wheelchair amputee w/ foot r |  |  |  |  |
E1190 | A | Wheelchair amputee w/ leg re |  |  |  |  |
E1195 | A | Wheelchair amputee heavy dut |  |  |  |  |
E1200 | A | Wheelchair amputee fixed arm |  |  |  |  |
E1210 | A | Whlchr moto ful arm leg rest |  |  |  |  |
E1211 | A | Wheelchair motorized w/ det |  |  |  |  |
E1212 | A | Wheelchair motorized w full |  |  |  |  |
E1213 | A | Wheelchair motorized w/ det |  |  |  |  |
E1220 | A | Whlchr special size/constrc |  |  |  |  |
E1221 | A | Wheelchair spec size w foot |  |  |  |  |
E1222 | A | Wheelchair spec size w/ leg |  |  |  |  |
E1223 | A | Wheelchair spec size w foot |  |  |  |  |
E1224 | A | Wheelchair spec size w/ leg |  |  |  |  |
E1225 | A | Wheelchair spec sz semi-recl |  |  |  |  |
E1226 | E | Wheelchair spec sz full-recl |  |  |  |  |
E1227 | E | Wheelchair spec sz spec ht a |  |  |  |  |
E1228 | A | Wheelchair spec sz spec ht b |  |  |  |  |
E1230 | A | Power operated vehicle |  |  |  |  |
E1240 | A | Whchr litwt det arm leg rest |  |  |  |  |
E1250 | A | Wheelchair lightwt fixed arm |  |  |  |  |
E1260 | A | Wheelchair lightwt foot rest |  |  |  |  |
E1270 | A | Wheelchair lightweight leg r |  |  |  |  |
E1280 | A | Whchr h-duty det arm leg res |  |  |  |  |
E1285 | A | Wheelchair heavy duty fixed |  |  |  |  |
E1290 | A | Wheelchair hvy duty detach a |  |  |  |  |
E1295 | A | Wheelchair heavy duty fixed |  |  |  |  |
E1296 | A | Wheelchair special seat heig |  |  |  |  |
E1297 | A | Wheelchair special seat dept |  |  |  |  |
E1298 | A | Wheelchair spec seat depth/w |  |  |  |  |
E1300 | E | Whirlpool portable |  |  |  |  |
E1310 | A | Whirlpool non-portable |  |  |  |  |
E1340 | A | Repair for DME, per 15 min |  |  |  |  |
E1353 | A | Oxygen supplies regulator |  |  |  |  |
E1355 | A | Oxygen supplies stand/rack |  |  |  |  |
E1372 | A | Oxy suppl heater for nebuliz |  |  |  |  |
E1390 | A | Oxygen concentrator |  |  |  |  |
E1399 | A | Durable medical equipment mi |  |  |  |  |
E1405 | A | O2/water vapor enrich w/heat |  |  |  |  |
E1406 | A | O2/water vapor enrich w/o he |  |  |  |  |
E1500 | A | Centrifuge |  |  |  |  |
E1510 | A | Kidney dialysate delivry sys |  |  |  |  |
E1520 | A | Heparin infusion pump |  |  |  |  |
E1530 | A | Replacement air bubble detec |  |  |  |  |
E1540 | A | Replacement pressure alarm |  |  |  |  |
E1550 | A | Bath conductivity meter |  |  |  |  |
E1560 | A | Replace blood leak detector |  |  |  |  |
E1570 | A | Adjustable chair for esrd pt |  |  |  |  |
E1575 | A | Transducer protect/fld bar |  |  |  |  |
E1580 | A | Unipuncture control system |  |  |  |  |
E1590 | A | Hemodialysis machine |  |  |  |  |
E1592 | A | Auto interm peritoneal dialy |  |  |  |  |
E1594 | A | Cycler dialysis machine |  |  |  |  |
E1600 | A | Deli/install chrg hemo equip |  |  |  |  |
E1610 | A | Reverse osmosis h2o puri sys |  |  |  |  |
E1615 | A | Deionizer H2O puri system |  |  |  |  |
E1620 | A | Replacement blood pump |  |  |  |  |
E1625 | A | Water softening system |  |  |  |  |
E1630 | A | Reciprocating peritoneal dia |  |  |  |  |
E1632 | A | Wearable artificial kidney |  |  |  |  |
E1635 | A | Compact travel hemodialyzer |  |  |  |  |
E1636 | A | Sorbent cartridges per 10 |  |  |  |  |
E1637 | A | Hemostats for dialysis, each |  |  |  |  |
E1638 | A | Peri dialysis heating pad |  |  |  |  |
E1639 | A | Dialysis scale |  |  |  |  |
E1699 | A | Dialysis equipment noc |  |  |  |  |
E1700 | A | Jaw motion rehab system |  |  |  |  |
E1701 | A | Repl cushions for jaw motion |  |  |  |  |
E1702 | A | Repl measr scales jaw motion |  |  |  |  |
E1800 | A | Adjust elbow ext/flex device |  |  |  |  |
E1801 | A | SPS elbow device |  |  |  |  |
E1805 | A | Adjust wrist ext/flex device |  |  |  |  |
E1806 | A | SPS wrist device |  |  |  |  |
E1810 | A | Adjust knee ext/flex device |  |  |  |  |
E1811 | A | SPS knee device |  |  |  |  |
E1815 | A | Adjust ankle ext/flex device |  |  |  |  |
E1816 | A | SPS ankle device |  |  |  |  |
E1818 | A | SPS forearm device |  |  |  |  |
E1820 | A | Soft interface material |  |  |  |  |
E1821 | A | Replacement interface SPSD |  |  |  |  |
E1825 | A | Adjust finger ext/flex devc |  |  |  |  |
E1830 | A | Adjust toe ext/flex device |  |  |  |  |
E1840 | A | Adj shoulder ext/flex device |  |  |  |  |
E1902 | A | AAC non-electronic board |  |  |  |  |
E2000 | A | Gastric suction pump hme mdl |  |  |  |  |
E2100 | A | Bld glucose monitor w voice |  |  |  |  |
E2101 | A | Bld glucose monitor w lance |  |  |  |  |
G0001 | A | Drawing blood for specimen |  |  |  |  |
G0002 | X | Temporary urinary catheter | 0340 | 0.66 | $34.33 |  | $6.87
G0004 | E | ECG transm phys review & int |  |  |  |  |
G0005 | X | ECG 24 hour recording | 0097 | 0.84 | $43.69 | $23.80 | $8.74
G0006 | X | ECG transmission & analysis | 0097 | 0.84 | $43.69 | $23.80 | $8.74
G0007 | N | ECG phy review & interpret |  |  |  |  |
G0008 | K | Admin influenza virus vac | 0354 | 0.09 | $4.68 |  |
G0009 | K | Admin pneumococcal vaccine | 0354 | 0.09 | $4.68 |  |
G0010 | K | Admin hepatitis b vaccine | 0355 | 0.24 | $12.48 |  | $2.50
G0015 | X | Post symptom ECG tracing | 0097 | 0.84 | $43.69 | $23.80 | $8.74
G0025 | N | Collagen skin test kit |  |  |  |  |
G0026 | A | Fecal leukocyte examination |  |  |  |  |
G0027 | A | Semen analysis |  |  |  |  |
G0030 | S | PET imaging prev PET single | 0285 | 16.73 | $870.11 | $374.15 | $174.02
G0031 | S | PET imaging prev PET multple | 0285 | 16.73 | $870.11 | $374.15 | $174.02
G0032 | S | PET follow SPECT 78464 singl | 0285 | 16.73 | $870.11 | $374.15 | $174.02
G0033 | S | PET follow SPECT 78464 mult | 0285 | 16.73 | $870.11 | $374.15 | $174.02
G0034 | S | PET follow SPECT 76865 singl | 0285 | 16.73 | $870.11 | $374.15 | $174.02
G0035 | S | PET follow SPECT 78465 mult | 0285 | 16.73 | $870.11 | $374.15 | $174.02
G0036 | S | PET follow cornry angio sing | 0285 | 16.73 | $870.11 | $374.15 | $174.02
G0037 | S | PET follow cornry angio mult | 0285 | 16.73 | $870.11 | $374.15 | $174.02
G0038 | S | PET follow myocard perf sing | 0285 | 16.73 | $870.11 | $374.15 | $174.02
G0039 | S | PET follow myocard perf mult | 0285 | 16.73 | $870.11 | $374.15 | $174.02
G0040 | S | PET follow stress echo singl | 0285 | 16.73 | $870.11 | $374.15 | $174.02
G0041 | S | PET follow stress echo mult | 0285 | 16.73 | $870.11 | $374.15 | $174.02
G0042 | S | PET follow ventriculogm sing | 0285 | 16.73 | $870.11 | $374.15 | $174.02
G0043 | S | PET follow ventriculogm mult | 0285 | 16.73 | $870.11 | $374.15 | $174.02
G0044 | S | PET following rest ECG singl | 0285 | 16.73 | $870.11 | $374.15 | $174.02
G0045 | S | PET following rest ECG mult | 0285 | 16.73 | $870.11 | $374.15 | $174.02
G0046 | S | PET follow stress ECG singl | 0285 | 16.73 | $870.11 | $374.15 | $174.02
G0047 | S | PET follow stress ECG mult | 0285 | 16.73 | $870.11 | $374.15 | $174.02
G0050 | S | Residual urine by ultrasound | 0265 | 1.04 | $54.09 | $29.75 | $10.82
G0101 | V | CA screen;pelvic/breast exam | 0600 | 0.91 | $47.33 |  | $9.47
G0102 | N | Prostate ca screening; dre |  |  |  |  |
G0103 | A | Psa, total screening |  |  |  |  |
G0104 | S | CA screen;flexi sigmoidscope | 0159 | 2.48 | $128.98 |  | $32.25
G0105 | T | Colorectal scrn; hi risk ind | 0158 | 7.56 | $393.19 |  | $98.30
G0106 | S | Colon CA screen;barium enema | 0157 | 2.73 | $141.98 | $22.19 | $28.40
G0107 | A | CA screen; fecal blood test |  |  |  |  |
G0108 | A | Diab manage trn per indiv |  |  |  |  |
G0109 | A | Diab manage trn ind/group |  |  |  |  |
G0110 | A | Nett pulm-rehab educ; ind |  |  |  |  |
G0111 | A | Nett pulm-rehab educ; group |  |  |  |  |
G0112 | A | Nett;nutrition guid, initial |  |  |  |  |
G0113 | A | Nett;nutrition guid,subseqnt |  |  |  |  |
G0114 | A | Nett; psychosocial consult |  |  |  |  |
G0115 | A | Nett; psychological testing |  |  |  |  |
G0116 | A | Nett; psychosocial counsel |  |  |  |  |
G0117 | S | Glaucoma scrn hgh risk direc | 0230 | 0.78 | $40.57 | $15.82 | $8.11
G0118 | S | Glaucoma scrn hgh risk direc | 0230 | 0.78 | $40.57 | $15.82 | $8.11
G0120 | S | Colon ca scrn; barium enema | 0157 | 2.73 | $141.98 | $22.19 | $28.40
G0121 | T | Colon ca scrn not hi rsk ind | 0158 | 7.56 | $393.19 |  | $98.30
G0122 | E | Colon ca scrn; barium enema |  |  |  |  |
G0123 | A | Screen cerv/vag thin layer |  |  |  |  |
G0124 | A | Screen c/v thin layer by MD |  |  |  |  |
G0125 | S | PET img WhBD sgl pulm ring | 0667 | 18.68 | $971.53 |  | $194.31
G0127 | T | Trim nail(s) | 0009 | 0.68 | $35.37 | $8.34 | $7.07
G0128 | E | CORF skilled nursing service |  |  |  |  |
G0129 | P | Partial hosp prog service | 0033 | 4.96 | $257.96 |  | $51.59
G0130 | X | Single energy x-ray study | 0260 | 0.81 | $42.13 | $23.17 | $8.43
G0131 | S | CT scan, bone density study | 0288 | 1.38 | $71.77 |  | $14.35
G0132 | S | CT scan, bone density study | 0665 | 0.73 | $37.97 |  | $7.59
G0141 | E | Scr c/v cyto,autosys and md |  |  |  |  |
G0143 | A | Scr c/v cyto,thinlayer,rescr |  |  |  |  |
G0144 | A | Scr c/v cyto,thinlayer,rescr |  |  |  |  |
G0145 | A | Scr c/v cyto,thinlayer,rescr |  |  |  |  |
G0147 | A | Scr c/v cyto, automated sys |  |  |  |  |
G0148 | A | Scr c/v cyto, autosys, rescr |  |  |  |  |
G0151 | E | HHCP-serv of pt,ea 15 min |  |  |  |  |
G0152 | E | HHCP-serv of ot,ea 15 min |  |  |  |  |
G0153 | E | HHCP-svs of s/l path,ea 15mn |  |  |  |  |
G0154 | E | HHCP-svs of rn,ea 15 min |  |  |  |  |
G0155 | E | HHCP-svs of csw,ea 15 min |  |  |  |  |
G0156 | E | HHCP-svs of aide,ea 15 min |  |  |  |  |
G0166 | T | Extrnl counterpulse, per tx | 0678 | 2.55 | $132.62 |  | $26.52
G0167 | E | Hyperbaric oz tx;no md reqrd |  |  |  |  |
G0168 | X | Wound closure by adhesive | 0340 | 0.66 | $34.33 |  | $6.87
G0173 | S | Stereo radoisurgery,complete | 0663 | 63.69 | $3,312.45 |  | $662.49
G0175 | V | OPPS Service,sched team conf | 0602 | 1.57 | $81.65 |  | $16.33
G0176 | P | OPPS/PHP;activity therapy | 0033 | 4.96 | $257.96 |  | $51.59
G0177 | P | OPPS/PHP; train & educ serv | 0033 | 4.96 | $257.96 |  | $51.59
G0179 | E | MD recertification HHA PT |  |  |  |  |
G0180 | E | MD certification HHA patient |  |  |  |  |
G0181 | E | Home health care supervision |  |  |  |  |
G0182 | E | Hospice care supervision |  |  |  |  |
G0185 | T | Transpuppillary thermotx | 0235 | 5.62 | $292.29 | $81.84 | $58.46
G0186 | T | Dstry eye lesn,fdr vssl tech | 0235 | 5.62 | $292.29 | $81.84 | $58.46
G0187 | T | Dstry mclr drusen,photocoag | 0235 | 5.62 | $292.29 | $81.84 | $58.46
G0192 | N | Immunization oral/intranasal |  |  |  |  |
G0193 | A | Endoscopicstudyswallowfunctn |  |  |  |  |
G0194 | A | Sensorytestingendoscopicstud |  |  |  |  |
G0195 | A | Clinicalevalswallowingfunct |  |  |  |  |
G0196 | A | Evalofswallowingwithradioopa |  |  |  |  |
G0197 | A | Evalofptforprescipspeechdevi |  |  |  |  |
G0198 | A | Patientadapation&trainforspe |  |  |  |  |
G0199 | A | Reevaluationofpatientusespec |  |  |  |  |
G0200 | A | Evalofpatientprescipofvoicep |  |  |  |  |
G0201 | A | Modifortraininginusevoicepro |  |  |  |  |
G0202 | A | Screeningmammographydigital |  |  |  |  |
G0204 | S | Diagnosticmammographydigital | 0669 | 0.95 | $49.41 |  | $9.88
G0206 | S | Diagnosticmammographydigital | 0669 | 0.95 | $49.41 |  | $9.88
G0210 | S | PET img whbd ring dxlung ca | 0667 | 18.68 | $971.53 |  | $194.31
G0211 | S | PET img whbd ring init lung | 0667 | 18.68 | $971.53 |  | $194.31
G0212 | S | PET img whbd ring restag lun | 0667 | 18.68 | $971.53 |  | $194.31
G0213 | S | PET img whbd ring dx colorec | 0667 | 18.68 | $971.53 |  | $194.31
G0214 | S | PET img whbd ring init colre | 0667 | 18.68 | $971.53 |  | $194.31
G0215 | S | PET img whbd restag col | 0667 | 18.68 | $971.53 |  | $194.31
G0216 | S | PET img whbd ring dx melanom | 0667 | 18.68 | $971.53 |  | $194.31
G0217 | S | PET img whbd ring init melan | 0667 | 18.68 | $971.53 |  | $194.31
G0218 | S | PET img whbd ring restag mel | 0667 | 18.68 | $971.53 |  | $194.31
G0219 | E | PET img whbd ring noncov ind |  |  |  |  |
G0220 | S | PET img whbd ring dx lymphom | 0667 | 18.68 | $971.53 |  | $194.31
G0221 | S | PET img whbd ring init lymph | 0667 | 18.68 | $971.53 |  | $194.31
G0222 | S | PET img whbd ring resta lymp | 0667 | 18.68 | $971.53 |  | $194.31
G0223 | S | PET img whbd reg ring dx hea | 0667 | 18.68 | $971.53 |  | $194.31
G0224 | S | PETimg whbd reg ring ini hea | 0667 | 18.68 | $971.53 |  | $194.31
G0225 | S | PET img whbd ring restag hea | 0667 | 18.68 | $971.53 |  | $194.31
G0226 | S | PET img whbd dx esophag | 0667 | 18.68 | $971.53 |  | $194.31
G0227 | S | PET img whbd ring ini esopha | 0667 | 18.68 | $971.53 |  | $194.31
G0228 | S | PET img whbd ring restg esop | 0667 | 18.68 | $971.53 |  | $194.31
G0229 | S | PET img metabolic brain ring | 0667 | 18.68 | $971.53 |  | $194.31
G0230 | S | PET myocard viability ring | 0667 | 18.68 | $971.53 |  | $194.31
G0231 | S | PET WhBD colorec; gamma cam | 0667 | 18.68 | $971.53 |  | $194.31
G0232 | S | PET whbd lymphoma; gamma cam | 0667 | 18.68 | $971.53 |  | $194.31
G0233 | S | PET whbd melanoma; gamma cam | 0667 | 18.68 | $971.53 |  | $194.31
G0234 | S | PET WhBD pulm nod; gamma cam | 0667 | 18.68 | $971.53 |  | $194.31
G0236 | S | Digital film convert diag ma | 0706 |  | $25.00 |  | $5.00
G0237 | T | Therapeutic procd strg endur | 0970 |  | $25.00 |  | $5.00
G0238 | T | Oth resp proc, indiv | 0970 |  | $25.00 |  | $5.00
G0239 | T | Oth resp proc, group | 0970 |  | $25.00 |  | $5.00
G0240 | A | Critic care by MD transport |  |  |  |  |
G0241 | A | Each additional 30 minutes |  |  |  |  |
G0242 | S | Multisource photon ster plan | 0714 |  | $1,375.00 |  | $275.00
G0243 | S | Multisour photon stero treat | 0721 |  | $5,500.00 |  | $1,100.00
G0244 | S | Observ care by facility topt | 0339 | 7.60 | $395.27 |  | $79.05
G0245 | V | Initial Foot Exam PTLOPS | 0600 | 0.91 | $47.33 |  | $9.47
G0246 | V | Follow-up Eval of Foot PTLOPS | 0600 | 0.91 | $47.33 |  | $9.47
G0247 | T | Routine footcare w LOPS | 0009 | 0.68 | $35.37 | $8.34 | $7.07
G0248 | S | Demonstrate use home INR mon | 0708 |  | $150.00 |  | $30.00
G0249 | S | Provide test material,equipm | 0708 |  | $150.00 |  | $30.00
G0250 | E | MD review interpret of test |  |  |  |  |
G9001 | E | MCCD, initial rate |  |  |  |  |
G9002 | E | MCCD,maintenance rate |  |  |  |  |
G9003 | E | MCCD, risk adj hi, initial |  |  |  |  |
G9004 | E | MCCD, risk adj lo, initial |  |  |  |  |
G9005 | E | MCCD, risk adj, maintenance |  |  |  |  |
G9006 | E | MCCD, Home monitoring |  |  |  |  |
G9007 | E | MCCD, sch team conf |  |  |  |  |
G9008 | E | Mccd,phys coor-care ovrsght |  |  |  |  |
G9009 | E | MCCD, risk adj, level 3 |  |  |  |  |
G9010 | E | MCCD, risk adj, level 4 |  |  |  |  |
G9011 | E | MCCD, risk adj, level 5 |  |  |  |  |
G9012 | E | Other Specified Case Mgmt |  |  |  |  |
G9016 | A | Demo-smoking cessation coun |  |  |  |  |
H0001 | E | Alcohol and/or drug assess |  |  |  |  |
H0002 | E | Alcohol and/or drug screenin |  |  |  |  |
H0003 | E | Alcohol and/or drug screenin |  |  |  |  |
H0004 | E | Alcohol and/or drug services |  |  |  |  |
H0005 | E | Alcohol and/or drug services |  |  |  |  |
H0006 | E | Alcohol and/or drug services |  |  |  |  |
H0007 | E | Alcohol and/or drug services |  |  |  |  |
H0008 | E | Alcohol and/or drug services |  |  |  |  |
H0009 | E | Alcohol and/or drug services |  |  |  |  |
H0010 | E | Alcohol and/or drug services |  |  |  |  |
H0011 | E | Alcohol and/or drug services |  |  |  |  |
H0012 | E | Alcohol and/or drug services |  |  |  |  |
H0013 | E | Alcohol and/or drug services |  |  |  |  |
H0014 | E | Alcohol and/or drug services |  |  |  |  |
H0015 | E | Alcohol and/or drug services |  |  |  |  |
H0016 | E | Alcohol and/or drug services |  |  |  |  |
H0017 | E | Alcohol and/or drug services |  |  |  |  |
H0018 | E | Alcohol and/or drug services |  |  |  |  |
H0019 | E | Alcohol and/or drug services |  |  |  |  |
H0020 | E | Alcohol and/or drug services |  |  |  |  |
H0021 | E | Alcohol and/or drug training |  |  |  |  |
H0022 | E | Alcohol and/or drug interven |  |  |  |  |
H0023 | E | Alcohol and/or drug outreach |  |  |  |  |
H0024 | E | Alcohol and/or drug preventi |  |  |  |  |
H0025 | E | Alcohol and/or drug preventi |  |  |  |  |
H0026 | E | Alcohol and/or drug preventi |  |  |  |  |
H0027 | E | Alcohol and/or drug preventi |  |  |  |  |
H0028 | E | Alcohol and/or drug preventi |  |  |  |  |
H0029 | E | Alcohol and/or drug preventi |  |  |  |  |
H0030 | E | Alcohol and/or drug hotline |  |  |  |  |
H1000 | A | Prenatal care atrisk assessm |  |  |  |  |
H1001 | A | Antepartum management |  |  |  |  |
H1002 | A | Carecoordination prenatal |  |  |  |  |
H1003 | A | Prenatal at risk education |  |  |  |  |
H1004 | A | Follow up home visit/prental |  |  |  |  |
H1005 | A | Prenatalcare enhanced srv pk |  |  |  |  |
J0120 | N | Tetracyclin injection |  |  |  |  |
J0130 | K | Abciximab injection | 1605 | 5.82 | $302.69 |  | $60.54
J0150 | N | Injection adenosine 6 MG |  |  |  |  |
J0151 | E | Adenosine injection |  |  |  |  |
J0170 | N | Adrenalin epinephrin inject |  |  |  |  |
J0190 | N | Inj biperiden lactate/5 mg |  |  |  |  |
J0200 | N | Alatrofloxacin mesylate |  |  |  |  |
J0205 | K | Alglucerase injection | 0900 | 0.53 | $27.56 |  | $5.51
J0207 | K | Amifostine | 7000 | 4.46 | $231.96 |  | $46.39
J0210 | N | Methyldopate hcl injection |  |  |  |  |
J0256 | K | Alpha 1 proteinase inhibitor | 0901 | 0.02 | $1.04 |  | $.21
J0270 | E | Alprostadil for injection |  |  |  |  |
J0275 | E | Alprostadil urethral suppos |  |  |  |  |
J0280 | N | Aminophyllin 250 MG inj |  |  |  |  |
J0282 | N | Amiodarone HCl |  |  |  |  |
J0285 | N | Amphotericin B |  |  |  |  |
J0286 | K | Amphotericin B lipid complex | 7001 | 2.05 | $106.62 |  | $21.32
J0290 | N | Ampicillin 500 MG inj |  |  |  |  |
J0295 | N | Ampicillin sodium per 1.5 gm |  |  |  |  |
J0300 | N | Amobarbital 125 MG inj |  |  |  |  |
J0330 | N | Succinycholine chloride inj |  |  |  |  |
J0350 | N | Injection anistreplase 30 u |  |  |  |  |
J0360 | N | Hydralazine hcl injection |  |  |  |  |
J0380 | N | Inj metaraminol bitartrate |  |  |  |  |
J0390 | N | Chloroquine injection |  |  |  |  |
J0395 | N | Arbutamine HCl injection |  |  |  |  |
J0456 | N | Azithromycin |  |  |  |  |
J0460 | N | Atropine sulfate injection |  |  |  |  |
J0470 | N | Dimecaprol injection |  |  |  |  |
J0475 | N | Baclofen 10 MG injection |  |  |  |  |
J0476 | E | Baclofen intrathecal trial |  |  |  |  |
J0500 | N | Dicyclomine injection |  |  |  |  |
J0515 | N | Inj benztropine mesylate |  |  |  |  |
J0520 | N | Bethanechol chloride inject |  |  |  |  |
J0530 | N | Penicillin g benzathine inj |  |  |  |  |
J0540 | N | Penicillin g benzathine inj |  |  |  |  |
J0550 | N | Penicillin g benzathine inj |  |  |  |  |
J0560 | N | Penicillin g benzathine inj |  |  |  |  |
J0570 | N | Penicillin g benzathine inj |  |  |  |  |
J0580 | N | Penicillin g benzathine inj |  |  |  |  |
J0585 | K | Botulinum toxin a per unit | 0902 | 0.05 | $2.60 |  | $.52
J0587 | G | Botulinum toxin type B | 9018 |  | $8.79 |  | $1.26
J0600 | N | Edetate calcium disodium inj |  |  |  |  |
J0610 | N | Calcium gluconate injection |  |  |  |  |
J0620 | N | Calcium glycer & lact/10 ML |  |  |  |  |
J0630 | N | Calcitonin salmon injection |  |  |  |  |
J0635 | N | Calcitriol injection |  |  |  |  |
J0640 | N | Leucovorin calcium injection |  |  |  |  |
J0670 | N | Inj mepivacaine HCL/10 ml |  |  |  |  |
J0690 | N | Cefazolin sodium injection |  |  |  |  |
J0692 | N | Cefepime HCl for injection |  |  |  |  |
J0694 | N | Cefoxitin sodium injection |  |  |  |  |
J0696 | N | Ceftriaxone sodium injection |  |  |  |  |
J0697 | N | Sterile cefuroxime injection |  |  |  |  |
J0698 | N | Cefotaxime sodium injection |  |  |  |  |
J0702 | N | Betamethasone acet&sod phosp |  |  |  |  |
J0704 | N | Betamethasone sod phosp/4 MG |  |  |  |  |
J0706 | N | Caffeine citrate injection |  |  |  |  |
J0710 | N | Cephapirin sodium injection |  |  |  |  |
J0713 | N | Inj ceftazidime per 500 mg |  |  |  |  |
J0715 | N | Ceftizoxime sodium / 500 MG |  |  |  |  |
J0720 | N | Chloramphenicol sodium injec |  |  |  |  |
J0725 | N | Chorionic gonadotropin/1000u |  |  |  |  |
J0735 | N | Clonidine hydrochloride |  |  |  |  |
J0740 | N | Cidofovir injection |  |  |  |  |
J0743 | N | Cilastatin sodium injection |  |  |  |  |
J0744 | N | Ciprofloxacin iv |  |  |  |  |
J0745 | N | Inj codeine phosphate /30 MG |  |  |  |  |
J0760 | N | Colchicine injection |  |  |  |  |
J0770 | N | Colistimethate sodium inj |  |  |  |  |
J0780 | N | Prochlorperazine injection |  |  |  |  |
J0800 | N | Corticotropin injection |  |  |  |  |
J0835 | N | Inj cosyntropin per 0.25 MG |  |  |  |  |
J0850 | K | Cytomegalovirus imm IV /vial | 0903 | 0.34 | $17.68 |  | $3.54
J0895 | N | Deferoxamine mesylate inj |  |  |  |  |
J0900 | N | Testosterone enanthate inj |  |  |  |  |
J0945 | N | Brompheniramine maleate inj |  |  |  |  |
J0970 | N | Estradiol valerate injection |  |  |  |  |
J1000 | N | Depo-estradiol cypionate inj |  |  |  |  |
J1020 | N | Methylprednisolone 20 MG inj |  |  |  |  |
J1030 | N | Methylprednisolone 40 MG inj |  |  |  |  |
J1040 | N | Methylprednisolone 80 MG inj |  |  |  |  |
J1050 | N | Medroxyprogesterone inj |  |  |  |  |
J1055 | E | Medrxyprogester acetate inj |  |  |  |  |
J1056 | E | MA/EC contraceptiveinjection |  |  |  |  |
J1060 | N | Testosterone cypionate 1 ML |  |  |  |  |
J1070 | N | Testosterone cypionat 100 MG |  |  |  |  |
J1080 | N | Testosterone cypionat 200 MG |  |  |  |  |
J1095 | N | Inj dexamethasone acetate |  |  |  |  |
J1100 | N | Dexamethasone sodium phos |  |  |  |  |
J1110 | N | Inj dihydroergotamine mesylt |  |  |  |  |
J1120 | N | Acetazolamid sodium injectio |  |  |  |  |
J1160 | N | Digoxin injection |  |  |  |  |
J1165 | N | Phenytoin sodium injection |  |  |  |  |
J1170 | N | Hydromorphone injection |  |  |  |  |
J1180 | N | Dyphylline injection |  |  |  |  |
J1190 | K | Dexrazoxane HCl injection | 0726 | 2.40 | $124.82 |  | $24.96
J1200 | N | Diphenhydramine hcl injectio |  |  |  |  |
J1205 | N | Chlorothiazide sodium inj |  |  |  |  |
J1212 | N | Dimethyl sulfoxide 50% 50 ML |  |  |  |  |
J1230 | N | Methadone injection |  |  |  |  |
J1240 | N | Dimenhydrinate injection |  |  |  |  |
J1245 | N | Dipyridamole injection |  |  |  |  |
J1250 | N | Inj dobutamine HCL/250 mg |  |  |  |  |
J1260 | N | Dolasetron mesylate |  |  |  |  |
J1270 | N | Injection, doxercalciferol |  |  |  |  |
J1320 | N | Amitriptyline injection |  |  |  |  |
J1325 | N | Epoprostenol injection |  |  |  |  |
J1327 | N | Eptifibatide injection |  |  |  |  |
J1330 | N | Ergonovine maleate injection |  |  |  |  |
J1364 | N | Erythro lactobionate /500 MG |  |  |  |  |
J1380 | N | Estradiol valerate 10 MG inj |  |  |  |  |
J1390 | N | Estradiol valerate 20 MG inj |  |  |  |  |
J1410 | N | Inj estrogen conjugate 25 MG |  |  |  |  |
J1435 | N | Injection estrone per 1 MG |  |  |  |  |
J1436 | N | Etidronate disodium inj |  |  |  |  |
J1438 | N | Etanercept injection |  |  |  |  |
J1440 | K | Filgrastim 300 mcg injection | 0728 | 2.24 | $116.50 |  | $23.30
J1441 | K | Filgrastim 480 mcg injection | 7049 | 3.37 | $175.27 |  | $35.05
J1450 | N | Fluconazole |  |  |  |  |
J1452 | N | Intraocular Fomivirsen na |  |  |  |  |
J1455 | N | Foscarnet sodium injection |  |  |  |  |
J1460 | N | Gamma globulin 1 CC inj |  |  |  |  |
J1470 | E | Gamma globulin 2 CC inj |  |  |  |  |
J1480 | E | Gamma globulin 3 CC inj |  |  |  |  |
J1490 | E | Gamma globulin 4 CC inj |  |  |  |  |
J1500 | E | Gamma globulin 5 CC inj |  |  |  |  |
J1510 | E | Gamma globulin 6 CC inj |  |  |  |  |
J1520 | E | Gamma globulin 7 CC inj |  |  |  |  |
J1530 | E | Gamma globulin 8 CC inj |  |  |  |  |
J1540 | E | Gamma globulin 9 CC inj |  |  |  |  |
J1550 | E | Gamma globulin 10 CC inj |  |  |  |  |
J1560 | E | Gamma globulin > 10 CC inj |  |  |  |  |
J1561 | K | Immune globulin 500 mg | 0905 | 0.45 | $23.40 |  | $4.68
J1563 | E | IV immune globulin |  |  |  |  |
J1565 | N | RSV-ivig |  |  |  |  |
J1570 | N | Ganciclovir sodium injection |  |  |  |  |
J1580 | N | Garamycin gentamicin inj |  |  |  |  |
J1590 | N | Gatifloxacin injection |  |  |  |  |
J1600 | N | Gold sodium thiomaleate inj |  |  |  |  |
J1610 | N | Glucagon hydrochloride/1 MG |  |  |  |  |
J1620 | N | Gonadorelin hydroch/ 100 mcg |  |  |  |  |
J1626 | N | Granisetron HCl injection |  |  |  |  |
J1630 | N | Haloperidol injection |  |  |  |  |
J1631 | N | Haloperidol decanoate inj |  |  |  |  |
J1642 | N | Inj heparin sodium per 10 u |  |  |  |  |
J1644 | N | Inj heparin sodium per 1000u |  |  |  |  |
J1645 | N | Dalteparin sodium |  |  |  |  |
J1650 | E | Inj enoxaparin sodium |  |  |  |  |
J1655 | N | Tinzaparin sodium injection |  |  |  |  |
J1670 | N | Tetanus immune globulin inj |  |  |  |  |
J1700 | N | Hydrocortisone acetate inj |  |  |  |  |
J1710 | N | Hydrocortisone sodium ph inj |  |  |  |  |
J1720 | N | Hydrocortisone sodium succ i |  |  |  |  |
J1730 | N | Diazoxide injection |  |  |  |  |
J1742 | N | Ibutilide fumarate injection |  |  |  |  |
J1745 | K | Infliximab injection | 7043 | 0.74 | $38.49 |  | $7.70
J1750 | N | Iron dextran |  |  |  |  |
J1755 | N | Iron sucrose injection |  |  |  |  |
J1785 | K | Injection imiglucerase /unit | 0916 | 0.05 | $2.60 |  | $.52
J1790 | N | Droperidol injection |  |  |  |  |
J1800 | N | Propranolol injection |  |  |  |  |
J1810 | E | Droperidol/fentanyl inj |  |  |  |  |
J1820 | N | Insulin injection |  |  |  |  |
J1825 | K | Interferon beta-1a | 0909 | 2.77 | $144.06 |  | $28.81
J1830 | N | Interferon beta-1b / .25 MG |  |  |  |  |
J1835 | N | Itraconazole injection |  |  |  |  |
J1840 | N | Kanamycin sulfate 500 MG inj |  |  |  |  |
J1850 | N | Kanamycin sulfate 75 MG inj |  |  |  |  |
J1885 | N | Ketorolac tromethamine inj |  |  |  |  |
J1890 | N | Cephalothin sodium injection |  |  |  |  |
J1910 | N | Kutapressin injection |  |  |  |  |
J1940 | N | Furosemide injection |  |  |  |  |
J1950 | K | Leuprolide acetate /3.75 MG | 0800 | 4.15 | $215.84 |  | $43.17
J1955 | E | Inj levocarnitine per 1 gm |  |  |  |  |
J1956 | N | Levofloxacin injection |  |  |  |  |
J1960 | N | Levorphanol tartrate inj |  |  |  |  |
J1980 | N | Hyoscyamine sulfate inj |  |  |  |  |
J1990 | N | Chlordiazepoxide injection |  |  |  |  |
J2000 | N | Lidocaine injection |  |  |  |  |
J2010 | N | Lincomycin injection |  |  |  |  |
J2020 | N | Linezolid injection |  |  |  |  |
J2060 | N | Lorazepam injection |  |  |  |  |
J2150 | N | Mannitol injection |  |  |  |  |
J2175 | N | Meperidine hydrochl /100 MG |  |  |  |  |
J2180 | N | Meperidine/promethazine inj |  |  |  |  |
J2210 | N | Methylergonovin maleate inj |  |  |  |  |
J2250 | N | Inj midazolam hydrochloride |  |  |  |  |
J2260 | N | Inj milrinone lactate / 5 ML |  |  |  |  |
J2270 | N | Morphine sulfate injection |  |  |  |  |
J2271 | N | Morphine so4 injection 100mg |  |  |  |  |
J2275 | N | Morphine sulfate injection |  |  |  |  |
J2300 | N | Inj nalbuphine hydrochloride |  |  |  |  |
J2310 | N | Inj naloxone hydrochloride |  |  |  |  |
J2320 | N | Nandrolone decanoate 50 MG |  |  |  |  |
J2321 | N | Nandrolone decanoate 100 MG |  |  |  |  |
J2322 | N | Nandrolone decanoate 200 MG |  |  |  |  |
J2352 | K | Octreotide acetate injection | 7031 | 0.90 | $46.81 |  | $9.36
J2355 | K | Oprelvekin injection | 7011 | 2.52 | $131.06 |  | $26.21
J2360 | N | Orphenadrine injection |  |  |  |  |
J2370 | N | Phenylephrine hcl injection |  |  |  |  |
J2400 | N | Chloroprocaine hcl injection |  |  |  |  |
J2405 | N | Ondansetron hcl injection |  |  |  |  |
J2410 | N | Oxymorphone hcl injection |  |  |  |  |
J2430 | K | Pamidronate disodium /30 MG | 0730 | 3.46 | $179.95 |  | $35.99
J2440 | N | Papaverin hcl injection |  |  |  |  |
J2460 | N | Oxytetracycline injection |  |  |  |  |
J2500 | N | Paricalcitol |  |  |  |  |
J2510 | N | Penicillin g procaine inj |  |  |  |  |
J2515 | N | Pentobarbital sodium inj |  |  |  |  |
J2540 | N | Penicillin g potassium inj |  |  |  |  |
J2543 | N | Piperacillin/tazobactam |  |  |  |  |
J2545 | A | Pentamidine isethionte/300mg |  |  |  |  |
J2550 | N | Promethazine hcl injection |  |  |  |  |
J2560 | N | Phenobarbital sodium inj |  |  |  |  |
J2590 | N | Oxytocin injection |  |  |  |  |
J2597 | N | Inj desmopressin acetate |  |  |  |  |
J2650 | N | Prednisolone acetate inj |  |  |  |  |
J2670 | N | Totazoline hcl injection |  |  |  |  |
J2680 | N | Fluphenazine decanoate 25 MG |  |  |  |  |
J2690 | N | Procainamide hcl injection |  |  |  |  |
J2700 | N | Oxacillin sodium injeciton |  |  |  |  |
J2710 | N | Neostigmine methylslfte inj |  |  |  |  |
J2720 | N | Inj protamine sulfate/10 MG |  |  |  |  |
J2725 | N | Inj protirelin per 250 mcg |  |  |  |  |
J2730 | N | Pralidoxime chloride inj |  |  |  |  |
J2760 | N | Phentolaine mesylate inj |  |  |  |  |
J2765 | N | Metoclopramide hcl injection |  |  |  |  |
J2770 | N | Quinupristin/dalfopristin |  |  |  |  |
J2780 | N | Ranitidine hydrochloride inj |  |  |  |  |
J2790 | K | Rho d immune globulin inj | 0884 | 0.70 | $36.41 |  | $7.28
J2792 | K | Rho(D) immune globulin h, sd | 1609 | 0.22 | $11.44 |  | $2.29
J2795 | N | Ropivacaine HCl injection |  |  |  |  |
J2800 | N | Methocarbamol injection |  |  |  |  |
J2810 | N | Inj theophylline per 40 MG |  |  |  |  |
J2820 | N | Sargramostim injection |  |  |  |  |
J2910 | N | Aurothioglucose injeciton |  |  |  |  |
J2912 | N | Sodium chloride injection |  |  |  |  |
J2915 | N | NA Ferric Gluconate Complex |  |  |  |  |
J2920 | N | Methylprednisolone injection |  |  |  |  |
J2930 | N | Methylprednisolone injection |  |  |  |  |
J2940 | N | Somatrem injection |  |  |  |  |
J2941 | K | Somatropin injection | 7034 | 0.78 | $40.57 |  | $8.11
J2950 | N | Promazine hcl injection |  |  |  |  |
J2993 | K | Reteplase injection | 9005 | 10.84 | $563.78 |  | $112.76
J2995 | N | Inj streptokinase /250000 IU |  |  |  |  |
J2997 | N | Alteplase recombinant |  |  |  |  |
J3000 | N | Streptomycin injection |  |  |  |  |
J3010 | N | Fentanyl citrate injeciton |  |  |  |  |
J3030 | N | Sumatriptan succinate / 6 MG |  |  |  |  |
J3070 | N | Pentazocine hcl injection |  |  |  |  |
J3100 | K | Tenecteplase injection | 9002 | 25.46 | $1,324.15 |  | $264.83
J3105 | N | Terbutaline sulfate inj |  |  |  |  |
J3120 | N | Testosterone enanthate inj |  |  |  |  |
J3130 | N | Testosterone enanthate inj |  |  |  |  |
J3140 | N | Testosterone suspension inj |  |  |  |  |
J3150 | N | Testosteron propionate inj |  |  |  |  |
J3230 | N | Chlorpromazine hcl injection |  |  |  |  |
J3240 | E | Thyrotropin injection |  |  |  |  |
J3245 | K | Tirofiban hydrochloride | 7041 | 4.82 | $250.68 |  | $50.14
J3250 | N | Trimethobenzamide hcl inj |  |  |  |  |
J3260 | N | Tobramycin sulfate injection |  |  |  |  |
J3265 | N | Injection torsemide 10 mg/ml |  |  |  |  |
J3280 | N | Thiethylperazine maleate inj |  |  |  |  |
J3301 | N | Triamcinolone acetonide inj |  |  |  |  |
J3302 | N | Triamcinolone diacetate inj |  |  |  |  |
J3303 | N | Triamcinolone hexacetonl inj |  |  |  |  |
J3305 | K | Inj trimetrexate glucoronate | 7045 | 1.23 | $63.97 |  | $12.79
J3310 | N | Perphenazine injeciton |  |  |  |  |
J3320 | N | Spectinomycn di-hcl inj |  |  |  |  |
J3350 | N | Urea injection |  |  |  |  |
J3360 | N | Diazepam injection |  |  |  |  |
J3364 | N | Urokinase 5000 IU injection |  |  |  |  |
J3365 | N | Urokinase 250,000 IU inj |  |  |  |  |
J3370 | N | Vancomycin hcl injection |  |  |  |  |
J3395 | K | Verteporfin injection | 1203 | 16.26 | $845.67 |  | $169.13
J3400 | N | Triflupromazine hcl inj |  |  |  |  |
J3410 | N | Hydroxyzine hcl injection |  |  |  |  |
J3420 | N | Vitamin b12 injection |  |  |  |  |
J3430 | N | Vitamin k phytonadione inj |  |  |  |  |
J3470 | N | Hyaluronidase injection |  |  |  |  |
J3475 | N | Inj magnesium sulfate |  |  |  |  |
J3480 | N | Inj potassium chloride |  |  |  |  |
J3485 | N | Zidovudine |  |  |  |  |
J3490 | N | Drugs unclassified injection |  |  |  |  |
J3520 | E | Edetate disodium per 150 mg |  |  |  |  |
J3530 | N | Nasal vaccine inhalation |  |  |  |  |
J3535 | E | Metered dose inhaler drug |  |  |  |  |
J3570 | E | Laetrile amygdalin vit B17 |  |  |  |  |
J7030 | N | Normal saline solution infus |  |  |  |  |
J7040 | N | Normal saline solution infus |  |  |  |  |
J7042 | N | 5% dextrose/normal saline |  |  |  |  |
J7050 | N | Normal saline solution infus |  |  |  |  |
J7051 | N | Sterile saline/water |  |  |  |  |
J7060 | N | 5% dextrose/water |  |  |  |  |
J7070 | N | D5w infusion |  |  |  |  |
J7100 | N | Dextran 40 infusion |  |  |  |  |
J7110 | N | Dextran 75 infusion |  |  |  |  |
J7120 | N | Ringers lactate infusion |  |  |  |  |
J7130 | N | Hypertonic saline solution |  |  |  |  |
J7190 | K | Factor viii | 0925 | 0.01 | $.52 |  | $.10
J7191 | K | Factor VIII (porcine) | 0926 | 0.02 | $1.04 |  | $.21
J7192 | K | Factor viii recombinant | 0927 | 0.01 | $.52 |  | $.10
J7193 | K | Factor IX non-recombinant | 0931 | 0.01 | $.52 |  | $.10
J7194 | K | Factor ix complex | 0928 | 0.01 | $.52 |  | $.10
J7195 | K | Factor IX recombinant | 0932 | 0.03 | $1.56 |  | $.31
J7197 | K | Antithrombin iii injection | 0930 | 0.01 | $.52 |  | $.10
J7198 | K | Anti-inhibitor | 0929 | 0.01 | $.52 |  | $.10
J7199 | E | Hemophilia clot factor noc |  |  |  |  |
J7300 | E | Intraut copper contraceptive |  |  |  |  |
J7302 | E | Levonorgestrel iu contracept |  |  |  |  |
J7308 | N | Aminolevulinic acid hcl top |  |  |  |  |
J7310 | N | Ganciclovir long act implant |  |  |  |  |
J7316 | N | Sodium hyaluronate injection |  |  |  |  |
J7320 | K | Hylan G-F 20 injection | 1611 | 2.43 | $126.38 |  | $25.28
J7330 | K | Cultured chondrocytes implnt | 1059 | 43.64 | $2,269.67 |  | $453.93
J7340 | E | Metabolic active D/E tissue |  |  |  |  |
J7500 | N | Azathioprine oral 50mg |  |  |  |  |
J7501 | N | Azathioprine parenteral |  |  |  |  |
J7502 | K | Cyclosporine oral 100 mg | 0888 | 0.04 | $2.08 |  | $.42
J7504 | K | Lymphocyte immune globulin | 0890 | 3.64 | $189.31 |  | $37.86
J7505 | K | Monoclonal antibodies | 7038 | 4.43 | $230.40 |  | $46.08
J7506 | N | Prednisone oral |  |  |  |  |
J7507 | K | Tacrolimus oral per 1 MG | 0891 | 0.02 | $1.04 |  | $.21
J7508 | E | Tacrolimus oral per 5 MG |  |  |  |  |
J7509 | N | Methylprednisolone oral |  |  |  |  |
J7510 | N | Prednisolone oral per 5 mg |  |  |  |  |
J7511 | K | Antithymocyte globuln rabbit | 9104 | 1.97 | $102.46 |  | $20.49
J7513 | K | Daclizumab, parenteral | 1612 | 3.77 | $196.07 |  | $39.21
J7515 | N | Cyclosporine oral 25 mg |  |  |  |  |
J7516 | N | Cyclosporin parenteral 250mg |  |  |  |  |
J7517 | G | Mycophenolate mofetil oral | 9015 |  | $2.40 |  | $.34
J7520 | K | Sirolimus, oral | 9106 | 0.05 | $2.60 |  | $.52
J7525 | N | Tacrolimus injection |  |  |  |  |
J7599 | E | Immunosuppressive drug noc |  |  |  |  |
J7608 | A | Acetylcysteine inh sol u d |  |  |  |  |
J7618 | A | Albuterol inh sol con |  |  |  |  |
J7619 | A | Albuterol inh sol u d |  |  |  |  |
J7622 | A | Beclomethasone inhalatn sol |  |  |  |  |
J7624 | A | Betamethasone inhalation sol |  |  |  |  |
J7626 | A | Budesonide inhalation sol |  |  |  |  |
J7628 | A | Bitolterol mes inhal sol con |  |  |  |  |
J7629 | A | Bitolterol mes inh sol u d |  |  |  |  |
J7631 | A | Cromolyn sodium inh sol u d |  |  |  |  |
J7635 | A | Atropine inhal sol con |  |  |  |  |
J7636 | A | Atropine inhal sol unit dose |  |  |  |  |
J7637 | A | Dexamethasone inhal sol con |  |  |  |  |
J7638 | A | Dexamethasone inhal sol u d |  |  |  |  |
J7639 | A | Dornase alpha inhal sol u d |  |  |  |  |
J7641 | A | Flunisolide, inhalation sol |  |  |  |  |
J7642 | A | Glycopyrrolate inhal sol con |  |  |  |  |
J7643 | A | Glycopyrrolate inhal sol u d |  |  |  |  |
J7644 | A | Ipratropium brom inh sol u d |  |  |  |  |
J7648 | A | Isoetharine hcl inh sol con |  |  |  |  |
J7649 | A | Isoetharine hcl inh sol u d |  |  |  |  |
J7658 | A | Isoproterenolhcl inh sol con |  |  |  |  |
J7659 | A | Isoproterenol hcl inh sol ud |  |  |  |  |
J7668 | A | Metaproterenol inh sol con |  |  |  |  |
J7669 | A | Metaproterenol inh sol u d |  |  |  |  |
J7680 | A | Terbutaline so4 inh sol con |  |  |  |  |
J7681 | A | Terbutaline so4 inh sol u d |  |  |  |  |
J7682 | A | Tobramycin inhalation sol |  |  |  |  |
J7683 | A | Triamcinolone inh sol con |  |  |  |  |
J7684 | A | Triamcinolone inh sol u d |  |  |  |  |
J7699 | A | Inhalation solution for DME |  |  |  |  |
J7799 | A | Non-inhalation drug for DME |  |  |  |  |
J8499 | E | Oral prescrip drug non chemo |  |  |  |  |
J8510 | N | Oral busulfan |  |  |  |  |
J8520 | K | Capecitabine, oral, 150 mg | 7042 | 0.03 | $1.56 |  | $.31
J8521 | E | Capecitabine, oral, 500 mg |  |  |  |  |
J8530 | N | Cyclophosphamide oral 25 MG |  |  |  |  |
J8560 | K | Etoposide oral 50 MG | 0802 | 0.54 | $28.08 |  | $5.62
J8600 | N | Melphalan oral 2 MG |  |  |  |  |
J8610 | N | Methotrexate oral 2.5 MG |  |  |  |  |
J8700 | K | Temozolmide | 1086 | 0.05 | $2.60 |  | $.52
J8999 | E | Oral prescription drug chemo |  |  |  |  |
J9000 | N | Doxorubic hcl 10 MG vl chemo |  |  |  |  |
J9001 | K | Doxorubicin hcl liposome inj | 7046 | 4.54 | $236.12 |  | $47.22
J9015 | K | Aldesleukin/single use vial | 0807 | 6.09 | $316.73 |  | $63.35
J9017 | G | Arsenic trioxide | 9012 |  | $23.75 |  | $3.40
J9020 | N | Asparaginase injection |  |  |  |  |
J9031 | N | Bcg live intravesical vac |  |  |  |  |
J9040 | K | Bleomycin sulfate injection | 0857 | 3.10 | $161.23 |  | $32.25
J9045 | K | Carboplatin injection | 0811 | 1.58 | $82.17 |  | $16.43
J9050 | N | Carmus bischl nitro inj |  |  |  |  |
J9060 | K | Cisplatin 10 MG injection | 0813 | 0.47 | $24.44 |  | $4.89
J9062 | E | Cisplatin 50 MG injection |  |  |  |  |
J9065 | K | Inj cladribine per 1 MG | 0858 | 0.84 | $43.69 |  | $8.74
J9070 | N | Cyclophosphamide 100 MG inj |  |  |  |  |
J9080 | E | Cyclophosphamide 200 MG inj |  |  |  |  |
J9090 | E | Cyclophosphamide 500 MG inj |  |  |  |  |
J9091 | E | Cyclophosphamide 1.0 grm inj |  |  |  |  |
J9092 | E | Cyclophosphamide 2.0 grm inj |  |  |  |  |
J9093 | N | Cyclophosphamide lyophilized |  |  |  |  |
J9094 | E | Cyclophosphamide lyophilized |  |  |  |  |
J9095 | E | Cyclophosphamide lyophilized |  |  |  |  |
J9096 | E | Cyclophosphamide lyophilized |  |  |  |  |
J9097 | E | Cyclophosphamide lyophilized |  |  |  |  |
J9100 | N | Cytarabine hcl 100 MG inj |  |  |  |  |
J9110 | E | Cytarabine hcl 500 MG inj |  |  |  |  |
J9120 | N | Dactinomycin actinomycin d |  |  |  |  |
J9130 | N | Dacarbazine 10 MG inj |  |  |  |  |
J9140 | E | Dacarbazine 200 MG inj |  |  |  |  |
J9150 | K | Daunorubicin | 0820 | 2.27 | $118.06 |  | $23.61
J9151 | K | Daunorubicin citrate liposom | 0821 | 3.17 | $164.87 |  | $32.97
J9160 | K | Denileukin diftitox, 300 mcg | 1084 | 13.94 | $725.01 |  | $145.00
J9165 | K | Diethylstilbestrol injection | 0822 | 2.21 | $114.94 |  | $22.99
J9170 | K | Docetaxel | 0823 | 4.01 | $208.56 |  | $41.71
J9180 | E | Epirubicin HCl injection |  |  |  |  |
J9181 | N | Etoposide 10 MG inj |  |  |  |  |
J9182 | E | Etoposide 100 MG inj |  |  |  |  |
J9185 | K | Fludarabine phosphate inj | 0842 | 3.30 | $171.63 |  | $34.33
J9190 | N | Fluorouracil injection |  |  |  |  |
J9200 | K | Floxuridine injection | 0827 | 2.42 | $125.86 |  | $25.17
J9201 | K | Gemcitabine HCl | 0828 | 1.49 | $77.49 |  | $15.50
J9202 | K | Goserelin acetate implant | 0810 | 5.94 | $308.93 |  | $61.79
J9206 | K | Irinotecan injection | 0830 | 1.86 | $96.74 |  | $19.35
J9208 | K | Ifosfomide injection | 0831 | 2.06 | $107.14 |  | $21.43
J9209 | K | Mesna injection | 0732 | 0.55 | $28.60 |  | $5.72
J9211 | K | Idarubicin hcl injection | 0832 | 4.57 | $237.68 |  | $47.54
J9212 | N | Interferon alfacon-1 |  |  |  |  |
J9213 | N | Interferon alfa-2a inj |  |  |  |  |
J9214 | N | Interferon alfa-2b inj |  |  |  |  |
J9215 | N | Interferon alfa-n3 inj |  |  |  |  |
J9216 | K | Interferon gamma 1-b inj | 0838 | 2.49 | $129.50 |  | $25.90
J9217 | K | Leuprolide acetate suspnsion | 9217 | 6.30 | $327.66 |  | $65.53
J9218 | K | Leuprolide acetate injeciton | 0861 | 0.84 | $43.69 |  | $8.74
J9219 | G | Leuprolide acetate implant | 7051 |  | $5,399.80 |  | $773.02
J9230 | N | Mechlorethamine hcl inj |  |  |  |  |
J9245 | K | Inj melphalan hydrochl 50 MG | 0840 | 4.09 | $212.72 |  | $42.54
J9250 | N | Methotrexate sodium inj |  |  |  |  |
J9260 | E | Methotrexate sodium inj |  |  |  |  |
J9265 | K | Paclitaxel injection | 0863 | 2.50 | $130.02 |  | $26.00
J9266 | K | Pegaspargase/singl dose vial | 0843 | 2.38 | $123.78 |  | $24.76
J9268 | K | Pentostatin injection | 0844 | 21.32 | $1,108.83 |  | $221.77
J9270 | N | Plicamycin (mithramycin) inj |  |  |  |  |
J9280 | K | Mitomycin 5 MG inj | 0862 | 1.18 | $61.37 |  | $12.27
J9290 | E | Mitomycin 20 MG inj |  |  |  |  |
J9291 | E | Mitomycin 40 MG inj |  |  |  |  |
J9293 | K | Mitoxantrone hydrochl / 5 MG | 0864 | 3.02 | $157.07 |  | $31.41
J9300 | K | Gemtuzumab ozogamicin | 9004 | 1.05 | $54.61 |  | $10.92
J9310 | K | Rituximab cancer treatment | 0849 | 5.71 | $296.97 |  | $59.39
J9320 | N | Streptozocin injection |  |  |  |  |
J9340 | N | Thiotepa injection |  |  |  |  |
J9350 | K | Topotecan | 0852 | 7.61 | $395.79 |  | $79.16
J9355 | K | Trastuzumab | 1613 | 0.66 | $34.33 |  | $6.87
J9357 | K | Valrubicin, 200 mg | 1614 | 2.04 | $106.10 |  | $21.22
J9360 | N | Vinblastine sulfate inj |  |  |  |  |
J9370 | N | Vincristine sulfate 1 MG inj |  |  |  |  |
J9375 | E | Vincristine sulfate 2 MG inj |  |  |  |  |
J9380 | E | Vincristine sulfate 5 MG inj |  |  |  |  |
J9390 | K | Vinorelbine tartrate/10 mg | 0855 | 1.10 | $57.21 |  | $11.44
J9600 | K | Porfimer sodium | 0856 | 26.35 | $1,370.44 |  | $274.09
J9999 | E | Chemotherapy drug |  |  |  |  |
K0001 | A | Standard wheelchair |  |  |  |  |
K0002 | A | Stnd hemi (low seat) whlchr |  |  |  |  |
K0003 | A | Lightweight wheelchair |  |  |  |  |
K0004 | A | High strength ltwt whlchr |  |  |  |  |
K0005 | A | Ultralightweight wheelchair |  |  |  |  |
K0006 | A | Heavy duty wheelchair |  |  |  |  |
K0007 | A | Extra heavy duty wheelchair |  |  |  |  |
K0009 | A | Other manual wheelchair/base |  |  |  |  |
K0010 | A | Stnd wt frame power whlchr |  |  |  |  |
K0011 | A | Stnd wt pwr whlchr w control |  |  |  |  |
K0012 | A | Ltwt portbl power whlchr |  |  |  |  |
K0014 | A | Other power whlchr base |  |  |  |  |
K0015 | A | Detach non-adjus hght armrst |  |  |  |  |
K0016 | A | Detach adjust armrst cmplete |  |  |  |  |
K0017 | A | Detach adjust armrest base |  |  |  |  |
K0018 | A | Detach adjust armrst upper |  |  |  |  |
K0019 | A | Arm pad each |  |  |  |  |
K0020 | A | Fixed adjust armrest pair |  |  |  |  |
K0021 | A | Anti-tipping device each |  |  |  |  |
K0022 | A | Reinforced back upholstery |  |  |  |  |
K0023 | A | Planr back insrt foam w/strp |  |  |  |  |
K0024 | A | Plnr back insrt foam w/hrdwr |  |  |  |  |
K0025 | A | Hook-on headrest extension |  |  |  |  |
K0026 | A | Back upholst lgtwt whlchr |  |  |  |  |
K0027 | A | Back upholst other whlchr |  |  |  |  |
K0028 | A | Manual fully reclining back |  |  |  |  |
K0029 | A | Reinforced seat upholstery |  |  |  |  |
K0030 | A | Solid plnr seat sngl dnsfoam |  |  |  |  |
K0031 | A | Safety belt/pelvic strap |  |  |  |  |
K0032 | A | Seat uphols lgtwt whlchr |  |  |  |  |
K0033 | A | Seat upholstery other whlchr |  |  |  |  |
K0034 | A | Heel loop each |  |  |  |  |
K0035 | A | Heel loop with ankle strap |  |  |  |  |
K0036 | A | Toe loop each |  |  |  |  |
K0037 | A | High mount flip-up footrest |  |  |  |  |
K0038 | A | Leg strap each |  |  |  |  |
K0039 | A | Leg strap h style each |  |  |  |  |
K0040 | A | Adjustable angle footplate |  |  |  |  |
K0041 | A | Large size footplate each |  |  |  |  |
K0042 | A | Standard size footplate each |  |  |  |  |
K0043 | A | Ftrst lower extension tube |  |  |  |  |
K0044 | A | Ftrst upper hanger bracket |  |  |  |  |
K0045 | A | Footrest complete assembly |  |  |  |  |
K0046 | A | Elevat legrst low extension |  |  |  |  |
K0047 | A | Elevat legrst up hangr brack |  |  |  |  |
K0048 | A | Elevate legrest complete |  |  |  |  |
K0049 | A | Calf pad each |  |  |  |  |
K0050 | A | Ratchet assembly |  |  |  |  |
K0051 | A | Cam relese assem ftrst/lgrst |  |  |  |  |
K0052 | A | Swingaway detach footrest |  |  |  |  |
K0053 | A | Elevate footrest articulate |  |  |  |  |
K0054 | A | Seat wdth 10-12/15/17/20 wc |  |  |  |  |
K0055 | A | Seat dpth 15/17/18 ltwt wc |  |  |  |  |
K0056 | A | Seat ht <17 or> =21 ltwt wc |  |  |  |  |
K0057 | A | Seat wdth 19/20 hvy dty wc |  |  |  |  |
K0058 | A | Seat dpth 17/18 power wc |  |  |  |  |
K0059 | A | Plastic coated handrim each |  |  |  |  |
K0060 | A | Steel handrim each |  |  |  |  |
K0061 | A | Aluminum handrim each |  |  |  |  |
K0062 | A | Handrim 8-10 vert/obliq proj |  |  |  |  |
K0063 | A | Hndrm 12-16 vert/obliq proj |  |  |  |  |
K0064 | A | Zero pressure tube flat free |  |  |  |  |
K0065 | A | Spoke protectors |  |  |  |  |
K0066 | A | Solid tire any size each |  |  |  |  |
K0067 | A | Pneumatic tire any size each |  |  |  |  |
K0068 | A | Pneumatic tire tube each |  |  |  |  |
K0069 | A | Rear whl complete solid tire |  |  |  |  |
K0070 | A | Rear whl compl pneum tire |  |  |  |  |
K0071 | A | Front castr compl pneum tire |  |  |  |  |
K0072 | A | Frnt cstr cmpl sem-pneum tir |  |  |  |  |
K0073 | A | Caster pin lock each |  |  |  |  |
K0074 | A | Pneumatic caster tire each |  |  |  |  |
K0075 | A | Semi-pneumatic caster tire |  |  |  |  |
K0076 | A | Solid caster tire each |  |  |  |  |
K0077 | A | Front caster assem complete |  |  |  |  |
K0078 | A | Pneumatic caster tire tube |  |  |  |  |
K0079 | A | Wheel lock extension pair |  |  |  |  |
K0080 | A | Anti-rollback device pair |  |  |  |  |
K0081 | A | Wheel lock assembly complete |  |  |  |  |
K0082 | A | 22 nf deep cycl acid battery |  |  |  |  |
K0083 | A | 22 nf gel cell battery each |  |  |  |  |
K0084 | A | Grp 24 deep cycl acid battry |  |  |  |  |
K0085 | A | Group 24 gel cell battery |  |  |  |  |
K0086 | A | U-1 lead acid battery each |  |  |  |  |
K0087 | A | U-1 gel cell battery each |  |  |  |  |
K0088 | A | Battry chrgr acid/gel cell |  |  |  |  |
K0089 | A | Battery charger dual mode |  |  |  |  |
K0090 | A | Rear tire power wheelchair |  |  |  |  |
K0091 | A | Rear tire tube power whlchr |  |  |  |  |
K0092 | A | Rear assem cmplt powr whlchr |  |  |  |  |
K0093 | A | Rear zero pressure tire tube |  |  |  |  |
K0094 | A | Wheel tire for power base |  |  |  |  |
K0095 | A | Wheel tire tube each base |  |  |  |  |
K0096 | A | Wheel assem powr base complt |  |  |  |  |
K0097 | A | Wheel zero presure tire tube |  |  |  |  |
K0098 | A | Drive belt power wheelchair |  |  |  |  |
K0099 | A | Pwr wheelchair front caster |  |  |  |  |
K0100 | A | Amputee adapter pair |  |  |  |  |
K0101 | A | One-arm drive attachment |  |  |  |  |
K0102 | A | Crutch and cane holder |  |  |  |  |
K0103 | A | Transfer board < 25″ |  |  |  |  |
K0104 | A | Cylinder tank carrier |  |  |  |  |
K0105 | A | Iv hanger |  |  |  |  |
K0106 | A | Arm trough each |  |  |  |  |
K0107 | A | Wheelchair tray |  |  |  |  |
K0108 | A | W/c component-accessory NOS |  |  |  |  |
K0112 | A | Trunk vest supprt innr frame |  |  |  |  |
K0113 | A | Trunk vest suprt w/o inr frm |  |  |  |  |
K0114 | A | Whlchr back suprt inr frame |  |  |  |  |
K0115 | A | Back module orthotic system |  |  |  |  |
K0116 | A | Back & seat modul orthot sys |  |  |  |  |
K0183 | A | Nasal application device |  |  |  |  |
K0184 | A | Nasal pillow or face seal |  |  |  |  |
K0185 | A | Pos airway pressure headgear |  |  |  |  |
K0186 | A | Pos airway prssure chinstrap |  |  |  |  |
K0187 | A | Pos airway pressure tubing |  |  |  |  |
K0188 | A | Pos airway pressure filter |  |  |  |  |
K0189 | A | Filter nondisposable w PAP |  |  |  |  |
K0195 | A | Elevating whlchair leg rests |  |  |  |  |
K0268 | A | Humidifier nonheated w PAP |  |  |  |  |
K0415 | E | RX antiemetic drg, oral NOS |  |  |  |  |
K0416 | E | Rx antiemetic drg,rectal NOS |  |  |  |  |
K0452 | A | Wheelchair bearings |  |  |  |  |
K0455 | A | Pump uninterrupted infusion |  |  |  |  |
K0460 | A | WC power add-on joystick |  |  |  |  |
K0461 | A | WC power add-on tiller cntrl |  |  |  |  |
K0462 | A | Temporary replacement eqpmnt |  |  |  |  |
K0531 | A | Heated humidifier used w pap |  |  |  |  |
K0532 | A | Noninvasive assist wo backup |  |  |  |  |
K0533 | A | Noninvasive assist w backup |  |  |  |  |
K0534 | A | Invasive assist w backup |  |  |  |  |
K0538 | A | Neg pressure wnd thrpy pump |  |  |  |  |
K0539 | A | Neg pres wnd thrpy dsg set |  |  |  |  |
K0540 | A | Neg pres wnd thrp canister |  |  |  |  |
K0541 | A | SGD prerecorded msg <= 8 min |  |  |  |  |
K0542 | A | SGD prerecorded msg > 8 min |  |  |  |  |
K0543 | A | SGD msg formed by spelling |  |  |  |  |
K0544 | A | SGD w multi methods msg/accs |  |  |  |  |
K0545 | A | SGD sftwre prgrm for PC/PDA |  |  |  |  |
K0546 | A | SGD accessory,mounting systm |  |  |  |  |
K0547 | A | SGD accessory NOC |  |  |  |  |
K0548 | A | Insulin lispro |  |  |  |  |
K0549 | A | Hosp bed hvy dty xtra wide |  |  |  |  |
K0550 | A | Hosp bed xtra hvy dty x wide |  |  |  |  |
K0551 | A | Residual limb support system |  |  |  |  |
L0100 | A | Cranial orthosis/helmet mold |  |  |  |  |
L0110 | A | Cranial orthosis/helmet nonm |  |  |  |  |
L0120 | A | Cerv flexible non-adjustable |  |  |  |  |
L0130 | A | Flex thermoplastic collar mo |  |  |  |  |
L0140 | A | Cervical semi-rigid adjustab |  |  |  |  |
L0150 | A | Cerv semi-rig adj molded chn |  |  |  |  |
L0160 | A | Cerv semi-rig wire occ/mand |  |  |  |  |
L0170 | A | Cervical collar molded to pt |  |  |  |  |
L0172 | A | Cerv col thermplas foam 2 pi |  |  |  |  |
L0174 | A | Cerv col foam 2 piece w thor |  |  |  |  |
L0180 | A | Cer post col occ/man sup adj |  |  |  |  |
L0190 | A | Cerv collar supp adj cerv ba |  |  |  |  |
L0200 | A | Cerv col supp adj bar & thor |  |  |  |  |
L0210 | A | Thoracic rib belt |  |  |  |  |
L0220 | A | Thor rib belt custom fabrica |  |  |  |  |
L0300 | A | TLSO flex surgical support |  |  |  |  |
L0310 | A | Tlso flexible custom fabrica |  |  |  |  |
L0315 | A | Tlso flex elas rigid post pa |  |  |  |  |
L0317 | A | Tlso flex hypext elas post p |  |  |  |  |
L0320 | A | Tlso a-p contrl w apron frnt |  |  |  |  |
L0321 | A | Tlso anti-post-cntrl prefab |  |  |  |  |
L0330 | A | Tlso ant-pos-lateral control |  |  |  |  |
L0331 | A | Tlso ant-post-lat cntrl prfb |  |  |  |  |
L0340 | A | Tlso a-p-l-rotary with apron |  |  |  |  |
L0350 | A | Tlso flex compress jacket cu |  |  |  |  |
L0360 | A | Tlso flex compress jacket mo |  |  |  |  |
L0370 | A | Tlso a-p-l-rotary hyperexten |  |  |  |  |
L0380 | A | Tlso a-p-l-rot w/ pos extens |  |  |  |  |
L0390 | A | Tlso a-p-l control molded |  |  |  |  |
L0391 | A | Tlso ant-post-lat-rot cntrl |  |  |  |  |
L0400 | A | Tlso a-p-l w interface mater |  |  |  |  |
L0410 | A | Tlso a-p-l two piece constr |  |  |  |  |
L0420 | A | Tlso a-p-l 2 piece w interfa |  |  |  |  |
L0430 | A | Tlso a-p-l w interface custm |  |  |  |  |
L0440 | A | Tlso a-p-l overlap frnt cust |  |  |  |  |
L0500 | A | Lso flex surgical support |  |  |  |  |
L0510 | A | Lso flexible custom fabricat |  |  |  |  |
L0515 | A | Lso flex elas w/ rig post pa |  |  |  |  |
L0520 | A | Lso a-p-l control with apron |  |  |  |  |
L0530 | A | Lso ant-pos control w apron |  |  |  |  |
L0540 | A | Lso lumbar flexion a-p-l |  |  |  |  |
L0550 | A | Lso a-p-l control molded |  |  |  |  |
L0560 | A | Lso a-p-l w interface |  |  |  |  |
L0561 | A | Prefab lso |  |  |  |  |
L0565 | A | Lso a-p-l control custom |  |  |  |  |
L0600 | A | Sacroiliac flex surg support |  |  |  |  |
L0610 | A | Sacroiliac flexible custm fa |  |  |  |  |
L0620 | A | Sacroiliac semi-rig w apron |  |  |  |  |
L0700 | A | Ctlso a-p-l control molded |  |  |  |  |
L0710 | A | Ctlso a-p-l control w/ inter |  |  |  |  |
L0810 | A | Halo cervical into jckt vest |  |  |  |  |
L0820 | A | Halo cervical into body jack |  |  |  |  |
L0830 | A | Halo cerv into milwaukee typ |  |  |  |  |
L0860 | A | Magnetic resonanc image comp |  |  |  |  |
L0900 | A | Torso/ptosis support |  |  |  |  |
L0910 | A | Torso & ptosis supp custm fa |  |  |  |  |
L0920 | A | Torso/pendulous abd support |  |  |  |  |
L0930 | A | Pendulous abdomen supp custm |  |  |  |  |
L0940 | A | Torso/postsurgical support |  |  |  |  |
L0950 | A | Post surg support custom fab |  |  |  |  |
L0960 | A | Post surgical support pads |  |  |  |  |
L0970 | A | Tlso corset front |  |  |  |  |
L0972 | A | Lso corset front |  |  |  |  |
L0974 | A | Tlso full corset |  |  |  |  |
L0976 | A | Lso full corset |  |  |  |  |
L0978 | A | Axillary crutch extension |  |  |  |  |
L0980 | A | Peroneal straps pair |  |  |  |  |
L0982 | A | Stocking supp grips set of f |  |  |  |  |
L0984 | A | Protective body sock each |  |  |  |  |
L0986 | A | Spinal orth abdm pnl prefab |  |  |  |  |
L0999 | A | Add to spinal orthosis NOS |  |  |  |  |
L1000 | A | Ctlso milwauke initial model |  |  |  |  |
L1005 | A | Tension based scoliosis orth |  |  |  |  |
L1010 | A | Ctlso axilla sling |  |  |  |  |
L1020 | A | Kyphosis pad |  |  |  |  |
L1025 | A | Kyphosis pad floating |  |  |  |  |
L1030 | A | Lumbar bolster pad |  |  |  |  |
L1040 | A | Lumbar or lumbar rib pad |  |  |  |  |
L1050 | A | Sternal pad |  |  |  |  |
L1060 | A | Thoracic pad |  |  |  |  |
L1070 | A | Trapezius sling |  |  |  |  |
L1080 | A | Outrigger |  |  |  |  |
L1085 | A | Outrigger bil w/ vert extens |  |  |  |  |
L1090 | A | Lumbar sling |  |  |  |  |
L1100 | A | Ring flange plastic/leather |  |  |  |  |
L1110 | A | Ring flange plas/leather mol |  |  |  |  |
L1120 | A | Covers for upright each |  |  |  |  |
L1200 | A | Furnsh initial orthosis only |  |  |  |  |
L1210 | A | Lateral thoracic extension |  |  |  |  |
L1220 | A | Anterior thoracic extension |  |  |  |  |
L1230 | A | Milwaukee type superstructur |  |  |  |  |
L1240 | A | Lumbar derotation pad |  |  |  |  |
L1250 | A | Anterior asis pad |  |  |  |  |
L1260 | A | Anterior thoracic derotation |  |  |  |  |
L1270 | A | Abdominal pad |  |  |  |  |
L1280 | A | Rib gusset (elastic) each |  |  |  |  |
L1290 | A | Lateral trochanteric pad |  |  |  |  |
L1300 | A | Body jacket mold to patient |  |  |  |  |
L1310 | A | Post-operative body jacket |  |  |  |  |
L1499 | A | Spinal orthosis NOS |  |  |  |  |
L1500 | A | Thkao mobility frame |  |  |  |  |
L1510 | A | Thkao standing frame |  |  |  |  |
L1520 | A | Thkao swivel walker |  |  |  |  |
L1600 | A | Abduct hip flex frejka w cvr |  |  |  |  |
L1610 | A | Abduct hip flex frejka covr |  |  |  |  |
L1620 | A | Abduct hip flex pavlik harne |  |  |  |  |
L1630 | A | Abduct control hip semi-flex |  |  |  |  |
L1640 | A | Pelv band/spread bar thigh c |  |  |  |  |
L1650 | A | HO abduction hip adjustable |  |  |  |  |
L1660 | A | HO abduction static plastic |  |  |  |  |
L1680 | A | Pelvic & hip control thigh c |  |  |  |  |
L1685 | A | Post-op hip abduct custom fa |  |  |  |  |
L1686 | A | HO post-op hip abduction |  |  |  |  |
L1690 | A | Combination bilateral HO |  |  |  |  |
L1700 | A | Leg perthes orth toronto typ |  |  |  |  |
L1710 | A | Legg perthes orth newington |  |  |  |  |
L1720 | A | Legg perthes orthosis trilat |  |  |  |  |
L1730 | A | Legg perthes orth scottish r |  |  |  |  |
L1750 | A | Legg perthes sling |  |  |  |  |
L1755 | A | Legg perthes patten bottom t |  |  |  |  |
L1800 | A | Knee orthoses elas w stays |  |  |  |  |
L1810 | A | Ko elastic with joints |  |  |  |  |
L1815 | A | Elastic with condylar pads |  |  |  |  |
L1820 | A | Ko elas w/ condyle pads & jo |  |  |  |  |
L1825 | A | Ko elastic knee cap |  |  |  |  |
L1830 | A | Ko immobilizer canvas longit |  |  |  |  |
L1832 | A | KO adj jnt pos rigid support |  |  |  |  |
L1834 | A | Ko w/0 joint rigid molded to |  |  |  |  |
L1840 | A | Ko derot ant cruciate custom |  |  |  |  |
L1843 | A | KO single upright custom fit |  |  |  |  |
L1844 | A | Ko w/adj jt rot cntrl molded |  |  |  |  |
L1845 | A | Ko w/ adj flex/ext rotat cus |  |  |  |  |
L1846 | A | Ko w adj flex/ext rotat mold |  |  |  |  |
L1847 | A | KO adjustable w air chambers |  |  |  |  |
L1850 | A | Ko swedish type |  |  |  |  |
L1855 | A | Ko plas doub upright jnt mol |  |  |  |  |
L1858 | A | Ko polycentric pneumatic pad |  |  |  |  |
L1860 | A | Ko supracondylar socket mold |  |  |  |  |
L1870 | A | Ko doub upright lacers molde |  |  |  |  |
L1880 | A | Ko doub upright cuffs/lacers |  |  |  |  |
L1885 | A | Knee upright w/resistance |  |  |  |  |
L1900 | A | Afo sprng wir drsflx calf bd |  |  |  |  |
L1902 | A | Afo ankle gauntlet |  |  |  |  |
L1904 | A | Afo molded ankle gauntlet |  |  |  |  |
L1906 | A | Afo multiligamentus ankle su |  |  |  |  |
L1910 | A | Afo sing bar clasp attach sh |  |  |  |  |
L1920 | A | Afo sing upright w/ adjust s |  |  |  |  |
L1930 | A | Afo plastic |  |  |  |  |
L1940 | A | Afo molded to patient plasti |  |  |  |  |
L1945 | A | Afo molded plas rig ant tib |  |  |  |  |
L1950 | A | Afo spiral molded to pt plas |  |  |  |  |
L1960 | A | Afo pos solid ank plastic mo |  |  |  |  |
L1970 | A | Afo plastic molded w/ankle j |  |  |  |  |
L1980 | A | Afo sing solid stirrup calf |  |  |  |  |
L1990 | A | Afo doub solid stirrup calf |  |  |  |  |
L2000 | A | Kafo sing fre stirr thi/calf |  |  |  |  |
L2010 | A | Kafo sng solid stirrup w/o j |  |  |  |  |
L2020 | A | Kafo dbl solid stirrup band/ |  |  |  |  |
L2030 | A | Kafo dbl solid stirrup w/o j |  |  |  |  |
L2035 | A | KAFO plastic pediatric size |  |  |  |  |
L2036 | A | Kafo plas doub free knee mol |  |  |  |  |
L2037 | A | Kafo plas sing free knee mol |  |  |  |  |
L2038 | A | Kafo w/o joint multi-axis an |  |  |  |  |
L2039 | A | KAFO,plstic,medlat rotat con |  |  |  |  |
L2040 | A | Hkafo torsion bil rot straps |  |  |  |  |
L2050 | A | Hkafo torsion cable hip pelv |  |  |  |  |
L2060 | A | Hkafo torsion ball bearing j |  |  |  |  |
L2070 | A | Hkafo torsion unilat rot str |  |  |  |  |
L2080 | A | Hkafo unilat torsion cable |  |  |  |  |
L2090 | A | Hkafo unilat torsion ball br |  |  |  |  |
L2102 | E | Afo tibial fx cast plstr mol |  |  |  |  |
L2104 | E | Afo tib fx cast synthetic mo |  |  |  |  |
L2106 | A | Afo tib fx cast plaster mold |  |  |  |  |
L2108 | A | Afo tib fx cast molded to pt |  |  |  |  |
L2112 | A | Afo tibial fracture soft |  |  |  |  |
L2114 | A | Afo tib fx semi-rigid |  |  |  |  |
L2116 | A | Afo tibial fracture rigid |  |  |  |  |
L2122 | E | Kafo fem fx cast plaster mol |  |  |  |  |
L2124 | E | Kafo fem fx cast synthet mol |  |  |  |  |
L2126 | A | Kafo fem fx cast thermoplas |  |  |  |  |
L2128 | A | Kafo fem fx cast molded to p |  |  |  |  |
L2132 | A | Kafo femoral fx cast soft |  |  |  |  |
L2134 | A | Kafo fem fx cast semi-rigid |  |  |  |  |
L2136 | A | Kafo femoral fx cast rigid |  |  |  |  |
L2180 | A | Plas shoe insert w ank joint |  |  |  |  |
L2182 | A | Drop lock knee |  |  |  |  |
L2184 | A | Limited motion knee joint |  |  |  |  |
L2186 | A | Adj motion knee jnt lerman t |  |  |  |  |
L2188 | A | Quadrilateral brim |  |  |  |  |
L2190 | A | Waist belt |  |  |  |  |
L2192 | A | Pelvic band & belt thigh fla |  |  |  |  |
L2200 | A | Limited ankle motion ea jnt |  |  |  |  |
L2210 | A | Dorsiflexion assist each joi |  |  |  |  |
L2220 | A | Dorsi & plantar flex ass/res |  |  |  |  |
L2230 | A | Split flat caliper stirr & p |  |  |  |  |
L2240 | A | Round caliper and plate atta |  |  |  |  |
L2250 | A | Foot plate molded stirrup at |  |  |  |  |
L2260 | A | Reinforced solid stirrup |  |  |  |  |
L2265 | A | Long tongue stirrup |  |  |  |  |
L2270 | A | Varus/valgus strap padded/li |  |  |  |  |
L2275 | A | Plastic mod low ext pad/line |  |  |  |  |
L2280 | A | Molded inner boot |  |  |  |  |
L2300 | A | Abduction bar jointed adjust |  |  |  |  |
L2310 | A | Abduction bar-straight |  |  |  |  |
L2320 | A | Non-molded lacer |  |  |  |  |
L2330 | A | Lacer molded to patient mode |  |  |  |  |
L2335 | A | Anterior swing band |  |  |  |  |
L2340 | A | Pre-tibial shell molded to p |  |  |  |  |
L2350 | A | Prosthetic type socket molde |  |  |  |  |
L2360 | A | Extended steel shank |  |  |  |  |
L2370 | A | Patten bottom |  |  |  |  |
L2375 | A | Torsion ank & half solid sti |  |  |  |  |
L2380 | A | Torsion straight knee joint |  |  |  |  |
L2385 | A | Straight knee joint heavy du |  |  |  |  |
L2390 | A | Offset knee joint each |  |  |  |  |
L2395 | A | Offset knee joint heavy duty |  |  |  |  |
L2397 | A | Suspension sleeve lower ext |  |  |  |  |
L2405 | A | Knee joint drop lock ea jnt |  |  |  |  |
L2415 | A | Knee joint cam lock each joi |  |  |  |  |
L2425 | A | Knee disc/dial lock/adj flex |  |  |  |  |
L2430 | A | Knee jnt ratchet lock ea jnt |  |  |  |  |
L2435 | A | Knee joint polycentric joint |  |  |  |  |
L2492 | A | Knee lift loop drop lock rin |  |  |  |  |
L2500 | A | Thi/glut/ischia wgt bearing |  |  |  |  |
L2510 | A | Th/wght bear quad-lat brim m |  |  |  |  |
L2520 | A | Th/wght bear quad-lat brim c |  |  |  |  |
L2525 | A | Th/wght bear nar m-l brim mo |  |  |  |  |
L2526 | A | Th/wght bear nar m-l brim cu |  |  |  |  |
L2530 | A | Thigh/wght bear lacer non-mo |  |  |  |  |
L2540 | A | Thigh/wght bear lacer molded |  |  |  |  |
L2550 | A | Thigh/wght bear high roll cu |  |  |  |  |
L2570 | A | Hip clevis type 2 posit jnt |  |  |  |  |
L2580 | A | Pelvic control pelvic sling |  |  |  |  |
L2600 | A | Hip clevis/thrust bearing fr |  |  |  |  |
L2610 | A | Hip clevis/thrust bearing lo |  |  |  |  |
L2620 | A | Pelvic control hip heavy dut |  |  |  |  |
L2622 | A | Hip joint adjustable flexion |  |  |  |  |
L2624 | A | Hip adj flex ext abduct cont |  |  |  |  |
L2627 | A | Plastic mold recipro hip & c |  |  |  |  |
L2628 | A | Metal frame recipro hip & ca |  |  |  |  |
L2630 | A | Pelvic control band & belt u |  |  |  |  |
L2640 | A | Pelvic control band & belt b |  |  |  |  |
L2650 | A | Pelv & thor control gluteal |  |  |  |  |
L2660 | A | Thoracic control thoracic ba |  |  |  |  |
L2670 | A | Thorac cont paraspinal uprig |  |  |  |  |
L2680 | A | Thorac cont lat support upri |  |  |  |  |
L2750 | A | Plating chrome/nickel pr bar |  |  |  |  |
L2755 | A | Carbon graphite lamination |  |  |  |  |
L2760 | A | Extension per extension per |  |  |  |  |
L2768 | A | Ortho sidebar disconnect |  |  |  |  |
L2770 | A | Low ext orthosis per bar/jnt |  |  |  |  |
L2780 | A | Non-corrosive finish |  |  |  |  |
L2785 | A | Drop lock retainer each |  |  |  |  |
L2795 | A | Knee control full kneecap |  |  |  |  |
L2800 | A | Knee cap medial or lateral p |  |  |  |  |
L2810 | A | Knee control condylar pad |  |  |  |  |
L2820 | A | Soft interface below knee se |  |  |  |  |
L2830 | A | Soft interface above knee se |  |  |  |  |
L2840 | A | Tibial length sock fx or equ |  |  |  |  |
L2850 | A | Femoral lgth sock fx or equa |  |  |  |  |
L2860 | A | Torsion mechanism knee/ankle |  |  |  |  |
L2999 | A | Lower extremity orthosis NOS |  |  |  |  |
L3000 | E | Ft insert ucb berkeley shell |  |  |  |  |
L3001 | E | Foot insert remov molded spe |  |  |  |  |
L3002 | E | Foot insert plastazote or eq |  |  |  |  |
L3003 | E | Foot insert silicone gel eac |  |  |  |  |
L3010 | E | Foot longitudinal arch suppo |  |  |  |  |
L3020 | E | Foot longitud/metatarsal sup |  |  |  |  |
L3030 | E | Foot arch support remov prem |  |  |  |  |
L3040 | E | Ft arch suprt premold longit |  |  |  |  |
L3050 | E | Foot arch supp premold metat |  |  |  |  |
L3060 | E | Foot arch supp longitud/meta |  |  |  |  |
L3070 | E | Arch suprt att to sho longit |  |  |  |  |
L3080 | E | Arch supp att to shoe metata |  |  |  |  |
L3090 | E | Arch supp att to shoe long/m |  |  |  |  |
L3100 | E | Hallus-valgus nght dynamic s |  |  |  |  |
L3140 | E | Abduction rotation bar shoe |  |  |  |  |
L3150 | E | Abduct rotation bar w/o shoe |  |  |  |  |
L3160 | E | Shoe styled positioning dev |  |  |  |  |
L3170 | E | Foot plastic heel stabilizer |  |  |  |  |
L3201 | E | Oxford w supinat/pronat inf |  |  |  |  |
L3202 | E | Oxford w/ supinat/pronator c |  |  |  |  |
L3203 | E | Oxford w/ supinator/pronator |  |  |  |  |
L3204 | E | Hightop w/ supp/pronator inf |  |  |  |  |
L3206 | E | Hightop w/ supp/pronator chi |  |  |  |  |
L3207 | E | Hightop w/ supp/pronator jun |  |  |  |  |
L3208 | E | Surgical boot each infant |  |  |  |  |
L3209 | E | Surgical boot each child |  |  |  |  |
L3211 | E | Surgical boot each junior |  |  |  |  |
L3212 | E | Benesch boot pair infant |  |  |  |  |
L3213 | E | Benesch boot pair child |  |  |  |  |
L3214 | E | Benesch boot pair junior |  |  |  |  |
L3215 | E | Orthopedic ftwear ladies oxf |  |  |  |  |
L3216 | E | Orthoped ladies shoes dpth i |  |  |  |  |
L3217 | E | Ladies shoes hightop depth i |  |  |  |  |
L3218 | E | Ladies surgical boot each |  |  |  |  |
L3219 | E | Orthopedic mens shoes oxford |  |  |  |  |
L3221 | E | Orthopedic mens shoes dpth i |  |  |  |  |
L3222 | E | Mens shoes hightop depth inl |  |  |  |  |
L3223 | E | Mens surgical boot each |  |  |  |  |
L3224 | A | Woman's shoe oxford brace |  |  |  |  |
L3225 | A | Man's shoe oxford brace |  |  |  |  |
L3230 | E | Custom shoes depth inlay |  |  |  |  |
L3250 | E | Custom mold shoe remov prost |  |  |  |  |
L3251 | E | Shoe molded to pt silicone s |  |  |  |  |
L3252 | E | Shoe molded plastazote cust |  |  |  |  |
L3253 | E | Shoe molded plastazote cust |  |  |  |  |
L3254 | E | Orth foot non-stndard size/w |  |  |  |  |
L3255 | E | Orth foot non-standard size/ |  |  |  |  |
L3257 | E | Orth foot add charge split s |  |  |  |  |
L3260 | E | Ambulatory surgical boot eac |  |  |  |  |
L3265 | E | Plastazote sandal each |  |  |  |  |
L3300 | E | Sho lift taper to metatarsal |  |  |  |  |
L3310 | E | Shoe lift elev heel/sole neo |  |  |  |  |
L3320 | E | Shoe lift elev heel/sole cor |  |  |  |  |
L3330 | E | Lifts elevation metal extens |  |  |  |  |
L3332 | E | Shoe lifts tapered to one-ha |  |  |  |  |
L3334 | E | Shoe lifts elevation heel /i |  |  |  |  |
L3340 | E | Shoe wedge sach |  |  |  |  |
L3350 | E | Shoe heel wedge |  |  |  |  |
L3360 | E | Shoe sole wedge outside sole |  |  |  |  |
L3370 | E | Shoe sole wedge between sole |  |  |  |  |
L3380 | E | Shoe clubfoot wedge |  |  |  |  |
L3390 | E | Shoe outflare wedge |  |  |  |  |
L3400 | E | Shoe metatarsal bar wedge ro |  |  |  |  |
L3410 | E | Shoe metatarsal bar between |  |  |  |  |
L3420 | E | Full sole/heel wedge btween |  |  |  |  |
L3430 | E | Sho heel count plast reinfor |  |  |  |  |
L3440 | E | Heel leather reinforced |  |  |  |  |
L3450 | E | Shoe heel sach cushion type |  |  |  |  |
L3455 | E | Shoe heel new leather standa |  |  |  |  |
L3460 | E | Shoe heel new rubber standar |  |  |  |  |
L3465 | E | Shoe heel thomas with wedge |  |  |  |  |
L3470 | E | Shoe heel thomas extend to b |  |  |  |  |
L3480 | E | Shoe heel pad & depress for |  |  |  |  |
L3485 | E | Shoe heel pad removable for |  |  |  |  |
L3500 | E | Ortho shoe add leather insol |  |  |  |  |
L3510 | E | Orthopedic shoe add rub insl |  |  |  |  |
L3520 | E | O shoe add felt w leath insl |  |  |  |  |
L3530 | E | Ortho shoe add half sole |  |  |  |  |
L3540 | E | Ortho shoe add full sole |  |  |  |  |
L3550 | E | O shoe add standard toe tap |  |  |  |  |
L3560 | E | O shoe add horseshoe toe tap |  |  |  |  |
L3570 | E | O shoe add instep extension |  |  |  |  |
L3580 | E | O shoe add instep velcro clo |  |  |  |  |
L3590 | E | O shoe convert to sof counte |  |  |  |  |
L3595 | E | Ortho shoe add march bar |  |  |  |  |
L3600 | E | Trans shoe calip plate exist |  |  |  |  |
L3610 | E | Trans shoe caliper plate new |  |  |  |  |
L3620 | E | Trans shoe solid stirrup exi |  |  |  |  |
L3630 | E | Trans shoe solid stirrup new |  |  |  |  |
L3640 | E | Shoe dennis browne splint bo |  |  |  |  |
L3649 | E | Orthopedic shoe modifica NOS |  |  |  |  |
L3650 | A | Shlder fig 8 abduct restrain |  |  |  |  |
L3660 | A | Abduct restrainer canvas&web |  |  |  |  |
L3670 | A | Acromio/clavicular canvas&we |  |  |  |  |
L3675 | A | Canvas vest SO |  |  |  |  |
L3677 | A | SO hard plastic stabilizer |  |  |  |  |
L3700 | A | Elbow orthoses elas w stays |  |  |  |  |
L3710 | A | Elbow elastic with metal joi |  |  |  |  |
L3720 | A | Forearm/arm cuffs free motio |  |  |  |  |
L3730 | A | Forearm/arm cuffs ext/flex a |  |  |  |  |
L3740 | A | Cuffs adj lock w/ active con |  |  |  |  |
L3760 | A | EO withjoint, Prefabricated |  |  |  |  |
L3800 | A | Whfo short opponen no attach |  |  |  |  |
L3805 | A | Whfo long opponens no attach |  |  |  |  |
L3807 | A | WHFO,no joint, prefabricated |  |  |  |  |
L3810 | A | Whfo thumb abduction bar |  |  |  |  |
L3815 | A | Whfo second m.p. abduction a |  |  |  |  |
L3820 | A | Whfo ip ext asst w/ mp ext s |  |  |  |  |
L3825 | A | Whfo m.p. extension stop |  |  |  |  |
L3830 | A | Whfo m.p. extension assist |  |  |  |  |
L3835 | A | Whfo m.p. spring extension a |  |  |  |  |
L3840 | A | Whfo spring swivel thumb |  |  |  |  |
L3845 | A | Whfo thumb ip ext ass w/ mp |  |  |  |  |
L3850 | A | Action wrist w/ dorsiflex as |  |  |  |  |
L3855 | A | Whfo adj m.p. flexion contro |  |  |  |  |
L3860 | A | Whfo adj m.p. flex ctrl & i. |  |  |  |  |
L3890 | E | Torsion mechanism wrist/elbo |  |  |  |  |
L3900 | A | Hinge extension/flex wrist/f |  |  |  |  |
L3901 | A | Hinge ext/flex wrist finger |  |  |  |  |
L3902 | A | Whfo ext power compress gas |  |  |  |  |
L3904 | A | Whfo electric custom fitted |  |  |  |  |
L3906 | A | Wrist gauntlet molded to pt |  |  |  |  |
L3907 | A | Whfo wrst gauntlt thmb spica |  |  |  |  |
L3908 | A | Wrist cock-up non-molded |  |  |  |  |
L3910 | A | Whfo swanson design |  |  |  |  |
L3912 | A | Flex glove w/elastic finger |  |  |  |  |
L3914 | A | WHO wrist extension cock-up |  |  |  |  |
L3916 | A | Whfo wrist extens w/ outrigg |  |  |  |  |
L3918 | A | HFO knuckle bender |  |  |  |  |
L3920 | A | Knuckle bender with outrigge |  |  |  |  |
L3922 | A | Knuckle bend 2 seg to flex j |  |  |  |  |
L3923 | A | HFO, no joint, prefabricated |  |  |  |  |
L3924 | A | Oppenheimer |  |  |  |  |
L3926 | A | Thomas suspension |  |  |  |  |
L3928 | A | Finger extension w/ clock sp |  |  |  |  |
L3930 | A | Finger extension with wrist |  |  |  |  |
L3932 | A | Safety pin spring wire |  |  |  |  |
L3934 | A | Safety pin modified |  |  |  |  |
L3936 | A | Palmer |  |  |  |  |
L3938 | A | Dorsal wrist |  |  |  |  |
L3940 | A | Dorsal wrist w/ outrigger at |  |  |  |  |
L3942 | A | Reverse knuckle bender |  |  |  |  |
L3944 | A | Reverse knuckle bend w/ outr |  |  |  |  |
L3946 | A | HFO composite elastic |  |  |  |  |
L3948 | A | Finger knuckle bender |  |  |  |  |
L3950 | A | Oppenheimer w/ knuckle bend |  |  |  |  |
L3952 | A | Oppenheimer w/ rev knuckle 2 |  |  |  |  |
L3954 | A | Spreading hand |  |  |  |  |
L3956 | A | Add joint upper ext orthosis |  |  |  |  |
L3960 | A | Sewho airplan desig abdu pos |  |  |  |  |
L3962 | A | Sewho erbs palsey design abd |  |  |  |  |
L3963 | A | Molded w/ articulating elbow |  |  |  |  |
L3964 | A | Seo mobile arm sup att to wc |  |  |  |  |
L3965 | A | Arm supp att to wc rancho ty |  |  |  |  |
L3966 | A | Mobile arm supports reclinin |  |  |  |  |
L3968 | A | Friction dampening arm supp |  |  |  |  |
L3969 | A | Monosuspension arm/hand supp |  |  |  |  |
L3970 | A | Elevat proximal arm support |  |  |  |  |
L3972 | A | Offset/lat rocker arm w/ ela |  |  |  |  |
L3974 | A | Mobile arm support supinator |  |  |  |  |
L3980 | A | Upp ext fx orthosis humeral |  |  |  |  |
L3982 | A | Upper ext fx orthosis rad/ul |  |  |  |  |
L3984 | A | Upper ext fx orthosis wrist |  |  |  |  |
L3985 | A | Forearm hand fx orth w/ wr h |  |  |  |  |
L3986 | A | Humeral rad/ulna wrist fx or |  |  |  |  |
L3995 | A | Sock fracture or equal each |  |  |  |  |
L3999 | A | Upper limb orthosis NOS |  |  |  |  |
L4000 | A | Repl girdle milwaukee orth |  |  |  |  |
L4010 | A | Replace trilateral socket br |  |  |  |  |
L4020 | A | Replace quadlat socket brim |  |  |  |  |
L4030 | A | Replace socket brim cust fit |  |  |  |  |
L4040 | A | Replace molded thigh lacer |  |  |  |  |
L4045 | A | Replace non-molded thigh lac |  |  |  |  |
L4050 | A | Replace molded calf lacer |  |  |  |  |
L4055 | A | Replace non-molded calf lace |  |  |  |  |
L4060 | A | Replace high roll cuff |  |  |  |  |
L4070 | A | Replace prox & dist upright |  |  |  |  |
L4080 | A | Repl met band kafo-afo prox |  |  |  |  |
L4090 | A | Repl met band kafo-afo calf/ |  |  |  |  |
L4100 | A | Repl leath cuff kafo prox th |  |  |  |  |
L4110 | A | Repl leath cuff kafo-afo cal |  |  |  |  |
L4130 | A | Replace pretibial shell |  |  |  |  |
L4205 | A | Ortho dvc repair per 15 min |  |  |  |  |
L4210 | A | Orth dev repair/repl minor p |  |  |  |  |
L4350 | A | Pneumatic ankle cntrl splint |  |  |  |  |
L4360 | A | Pneumatic walking splint |  |  |  |  |
L4370 | A | Pneumatic full leg splint |  |  |  |  |
L4380 | A | Pneumatic knee splint |  |  |  |  |
L4392 | A | Replace AFO soft interface |  |  |  |  |
L4394 | A | Replace foot drop spint |  |  |  |  |
L4396 | A | Static AFO |  |  |  |  |
L4398 | A | Foot drop splint recumbent |  |  |  |  |
L5000 | A | Sho insert w arch toe filler |  |  |  |  |
L5010 | A | Mold socket ank hgt w/ toe f |  |  |  |  |
L5020 | A | Tibial tubercle hgt w/ toe f |  |  |  |  |
L5050 | A | Ank symes mold sckt sach ft |  |  |  |  |
L5060 | A | Symes met fr leath socket ar |  |  |  |  |
L5100 | A | Molded socket shin sach foot |  |  |  |  |
L5105 | A | Plast socket jts/thgh lacer |  |  |  |  |
L5150 | A | Mold sckt ext knee shin sach |  |  |  |  |
L5160 | A | Mold socket bent knee shin s |  |  |  |  |
L5200 | A | Kne sing axis fric shin sach |  |  |  |  |
L5210 | A | No knee/ankle joints w/ ft b |  |  |  |  |
L5220 | A | No knee joint with artic ali |  |  |  |  |
L5230 | A | Fem focal defic constant fri |  |  |  |  |
L5250 | A | Hip canad sing axi cons fric |  |  |  |  |
L5270 | A | Tilt table locking hip sing |  |  |  |  |
L5280 | A | Hemipelvect canad sing axis |  |  |  |  |
L5301 | A | BK mold socket SACH ft endo |  |  |  |  |
L5311 | A | Knee disart, SACH ft, endo |  |  |  |  |
L5321 | A | AK open end SACH |  |  |  |  |
L5331 | A | Hip disart canadian SACH ft |  |  |  |  |
L5341 | A | Hemipelvectomy canadian SACH |  |  |  |  |
L5400 | A | Postop dress & 1 cast chg bk |  |  |  |  |
L5410 | A | Postop dsg bk ea add cast ch |  |  |  |  |
L5420 | A | Postop dsg & 1 cast chg ak/d |  |  |  |  |
L5430 | A | Postop dsg ak ea add cast ch |  |  |  |  |
L5450 | A | Postop app non-wgt bear dsg |  |  |  |  |
L5460 | A | Postop app non-wgt bear dsg |  |  |  |  |
L5500 | A | Init bk ptb plaster direct |  |  |  |  |
L5505 | A | Init ak ischal plstr direct |  |  |  |  |
L5510 | A | Prep BK ptb plaster molded |  |  |  |  |
L5520 | A | Perp BK ptb thermopls direct |  |  |  |  |
L5530 | A | Prep BK ptb thermopls molded |  |  |  |  |
L5535 | A | Prep BK ptb open end socket |  |  |  |  |
L5540 | A | Prep BK ptb laminated socket |  |  |  |  |
L5560 | A | Prep AK ischial plast molded |  |  |  |  |
L5570 | A | Prep AK ischial direct form |  |  |  |  |
L5580 | A | Prep AK ischial thermo mold |  |  |  |  |
L5585 | A | Prep AK ischial open end |  |  |  |  |
L5590 | A | Prep AK ischial laminated |  |  |  |  |
L5595 | A | Hip disartic sach thermopls |  |  |  |  |
L5600 | A | Hip disart sach laminat mold |  |  |  |  |
L5610 | A | Above knee hydracadence |  |  |  |  |
L5611 | A | Ak 4 bar link w/fric swing |  |  |  |  |
L5613 | A | Ak 4 bar ling w/hydraul swig |  |  |  |  |
L5614 | A | 4-bar link above knee w/swng |  |  |  |  |
L5616 | A | Ak univ multiplex sys frict |  |  |  |  |
L5617 | A | AK/BK self-aligning unit ea |  |  |  |  |
L5618 | A | Test socket symes |  |  |  |  |
L5620 | A | Test socket below knee |  |  |  |  |
L5622 | A | Test socket knee disarticula |  |  |  |  |
L5624 | A | Test socket above knee |  |  |  |  |
L5626 | A | Test socket hip disarticulat |  |  |  |  |
L5628 | A | Test socket hemipelvectomy |  |  |  |  |
L5629 | A | Below knee acrylic socket |  |  |  |  |
L5630 | A | Syme typ expandabl wall sckt |  |  |  |  |
L5631 | A | Ak/knee disartic acrylic soc |  |  |  |  |
L5632 | A | Symes type ptb brim design s |  |  |  |  |
L5634 | A | Symes type poster opening so |  |  |  |  |
L5636 | A | Symes type medial opening so |  |  |  |  |
L5637 | A | Below knee total contact |  |  |  |  |
L5638 | A | Below knee leather socket |  |  |  |  |
L5639 | A | Below knee wood socket |  |  |  |  |
L5640 | A | Knee disarticulat leather so |  |  |  |  |
L5642 | A | Above knee leather socket |  |  |  |  |
L5643 | A | Hip flex inner socket ext fr |  |  |  |  |
L5644 | A | Above knee wood socket |  |  |  |  |
L5645 | A | Bk flex inner socket ext fra |  |  |  |  |
L5646 | A | Below knee air cushion socke |  |  |  |  |
L5647 | A | Below knee suction socket |  |  |  |  |
L5648 | A | Above knee air cushion socke |  |  |  |  |
L5649 | A | Isch containmt/narrow m-l so |  |  |  |  |
L5650 | A | Tot contact ak/knee disart s |  |  |  |  |
L5651 | A | Ak flex inner socket ext fra |  |  |  |  |
L5652 | A | Suction susp ak/knee disart |  |  |  |  |
L5653 | A | Knee disart expand wall sock |  |  |  |  |
L5654 | A | Socket insert symes |  |  |  |  |
L5655 | A | Socket insert below knee |  |  |  |  |
L5656 | A | Socket insert knee articulat |  |  |  |  |
L5658 | A | Socket insert above knee |  |  |  |  |
L5660 | A | Sock insrt syme silicone gel |  |  |  |  |
L5661 | A | Multi-durometer symes |  |  |  |  |
L5662 | A | Socket insert bk silicone ge |  |  |  |  |
L5663 | A | Sock knee disartic silicone |  |  |  |  |
L5664 | A | Socket insert ak silicone ge |  |  |  |  |
L5665 | A | Multi-durometer below knee |  |  |  |  |
L5666 | A | Below knee cuff suspension |  |  |  |  |
L5668 | A | Socket insert w/o lock lower |  |  |  |  |
L5670 | A | Bk molded supracondylar susp |  |  |  |  |
L5671 | A | BK/AK locking mechanism |  |  |  |  |
L5672 | A | Bk removable medial brim sus |  |  |  |  |
L5674 | A | Bk suspension sleeve |  |  |  |  |
L5675 | A | Bk heavy duty susp sleeve |  |  |  |  |
L5676 | A | Bk knee joints single axis p |  |  |  |  |
L5677 | A | Bk knee joints polycentric p |  |  |  |  |
L5678 | A | Bk joint covers pair |  |  |  |  |
L5680 | A | Bk thigh lacer non-molded |  |  |  |  |
L5682 | A | Bk thigh lacer glut/ischia m |  |  |  |  |
L5684 | A | Bk fork strap |  |  |  |  |
L5686 | A | Bk back check |  |  |  |  |
L5688 | A | Bk waist belt webbing |  |  |  |  |
L5690 | A | Bk waist belt padded and lin |  |  |  |  |
L5692 | A | Ak pelvic control belt light |  |  |  |  |
L5694 | A | Ak pelvic control belt pad/l |  |  |  |  |
L5695 | A | Ak sleeve susp neoprene/equa |  |  |  |  |
L5696 | A | Ak/knee disartic pelvic join |  |  |  |  |
L5697 | A | Ak/knee disartic pelvic band |  |  |  |  |
L5698 | A | Ak/knee disartic silesian ba |  |  |  |  |
L5699 | A | Shoulder harness |  |  |  |  |
L5700 | A | Replace socket below knee |  |  |  |  |
L5701 | A | Replace socket above knee |  |  |  |  |
L5702 | A | Replace socket hip |  |  |  |  |
L5704 | A | Custom shape cover BK |  |  |  |  |
L5705 | A | Custom shape cover AK |  |  |  |  |
L5706 | A | Custom shape cvr knee disart |  |  |  |  |
L5707 | A | Custom shape cvr hip disart |  |  |  |  |
L5710 | A | Kne-shin exo sng axi mnl loc |  |  |  |  |
L5711 | A | Knee-shin exo mnl lock ultra |  |  |  |  |
L5712 | A | Knee-shin exo frict swg & st |  |  |  |  |
L5714 | A | Knee-shin exo variable frict |  |  |  |  |
L5716 | A | Knee-shin exo mech stance ph |  |  |  |  |
L5718 | A | Knee-shin exo frct swg & sta |  |  |  |  |
L5722 | A | Knee-shin pneum swg frct exo |  |  |  |  |
L5724 | A | Knee-shin exo fluid swing ph |  |  |  |  |
L5726 | A | Knee-shin ext jnts fld swg e |  |  |  |  |
L5728 | A | Knee-shin fluid swg & stance |  |  |  |  |
L5780 | A | Knee-shin pneum/hydra pneum |  |  |  |  |
L5785 | A | Exoskeletal bk ultralt mater |  |  |  |  |
L5790 | A | Exoskeletal ak ultra-light m |  |  |  |  |
L5795 | A | Exoskel hip ultra-light mate |  |  |  |  |
L5810 | A | Endoskel knee-shin mnl lock |  |  |  |  |
L5811 | A | Endo knee-shin mnl lck ultra |  |  |  |  |
L5812 | A | Endo knee-shin frct swg & st |  |  |  |  |
L5814 | A | Endo knee-shin hydral swg ph |  |  |  |  |
L5816 | A | Endo knee-shin polyc mch sta |  |  |  |  |
L5818 | A | Endo knee-shin frct swg & st |  |  |  |  |
L5822 | A | Endo knee-shin pneum swg frc |  |  |  |  |
L5824 | A | Endo knee-shin fluid swing p |  |  |  |  |
L5826 | A | Miniature knee joint |  |  |  |  |
L5828 | A | Endo knee-shin fluid swg/sta |  |  |  |  |
L5830 | A | Endo knee-shin pneum/swg pha |  |  |  |  |
L5840 | A | Multi-axial knee/shin system |  |  |  |  |
L5845 | A | Knee-shin sys stance flexion |  |  |  |  |
L5846 | A | Knee-shin sys microprocessor |  |  |  |  |
L5847 | A | Microprocessor cntrl feature |  |  |  |  |
L5850 | A | Endo ak/hip knee extens assi |  |  |  |  |
L5855 | A | Mech hip extension assist |  |  |  |  |
L5910 | A | Endo below knee alignable sy |  |  |  |  |
L5920 | A | Endo ak/hip alignable system |  |  |  |  |
L5925 | A | Above knee manual lock |  |  |  |  |
L5930 | A | High activity knee frame |  |  |  |  |
L5940 | A | Endo bk ultra-light material |  |  |  |  |
L5950 | A | Endo ak ultra-light material |  |  |  |  |
L5960 | A | Endo hip ultra-light materia |  |  |  |  |
L5962 | A | Below knee flex cover system |  |  |  |  |
L5964 | A | Above knee flex cover system |  |  |  |  |
L5966 | A | Hip flexible cover system |  |  |  |  |
L5968 | A | Multiaxial ankle w dorsiflex |  |  |  |  |
L5970 | A | Foot external keel sach foot |  |  |  |  |
L5972 | A | Flexible keel foot |  |  |  |  |
L5974 | A | Foot single axis ankle/foot |  |  |  |  |
L5975 | A | Combo ankle/foot prosthesis |  |  |  |  |
L5976 | A | Energy storing foot |  |  |  |  |
L5978 | A | Ft prosth multiaxial ankl/ft |  |  |  |  |
L5979 | A | Multi-axial ankle/ft prosth |  |  |  |  |
L5980 | A | Flex foot system |  |  |  |  |
L5981 | A | Flex-walk sys low ext prosth |  |  |  |  |
L5982 | A | Exoskeletal axial rotation u |  |  |  |  |
L5984 | A | Endoskeletal axial rotation |  |  |  |  |
L5985 | A | Lwr ext dynamic prosth pylon |  |  |  |  |
L5986 | A | Multi-axial rotation unit |  |  |  |  |
L5987 | A | Shank ft w vert load pylon |  |  |  |  |
L5988 | A | Vertical shock reducing pylo |  |  |  |  |
L5989 | A | Pylon w elctrnc force sensor |  |  |  |  |
L5990 | A | User adjustable heel height |  |  |  |  |
L5999 | A | Lowr extremity prosthes NOS |  |  |  |  |
L6000 | A | Par hand robin-aids thum rem |  |  |  |  |
L6010 | A | Hand robin-aids little/ring |  |  |  |  |
L6020 | A | Part hand robin-aids no fing |  |  |  |  |
L6050 | A | Wrst MLd sck flx hng tri pad |  |  |  |  |
L6055 | A | Wrst mold sock w/exp interfa |  |  |  |  |
L6100 | A | Elb mold sock flex hinge pad |  |  |  |  |
L6110 | A | Elbow mold sock suspension t |  |  |  |  |
L6120 | A | Elbow mold doub splt soc ste |  |  |  |  |
L6130 | A | Elbow stump activated lock h |  |  |  |  |
L6200 | A | Elbow mold outsid lock hinge |  |  |  |  |
L6205 | A | Elbow molded w/ expand inter |  |  |  |  |
L6250 | A | Elbow inter loc elbow forarm |  |  |  |  |
L6300 | A | Shlder disart int lock elbow |  |  |  |  |
L6310 | A | Shoulder passive restor comp |  |  |  |  |
L6320 | A | Shoulder passive restor cap |  |  |  |  |
L6350 | A | Thoracic intern lock elbow |  |  |  |  |
L6360 | A | Thoracic passive restor comp |  |  |  |  |
L6370 | A | Thoracic passive restor cap |  |  |  |  |
L6380 | A | Postop dsg cast chg wrst/elb |  |  |  |  |
L6382 | A | Postop dsg cast chg elb dis/ |  |  |  |  |
L6384 | A | Postop dsg cast chg shlder/t |  |  |  |  |
L6386 | A | Postop ea cast chg & realign |  |  |  |  |
L6388 | A | Postop applicat rigid dsg on |  |  |  |  |
L6400 | A | Below elbow prosth tiss shap |  |  |  |  |
L6450 | A | Elb disart prosth tiss shap |  |  |  |  |
L6500 | A | Above elbow prosth tiss shap |  |  |  |  |
L6550 | A | Shldr disar prosth tiss shap |  |  |  |  |
L6570 | A | Scap thorac prosth tiss shap |  |  |  |  |
L6580 | A | Wrist/elbow bowden cable mol |  |  |  |  |
L6582 | A | Wrist/elbow bowden cbl dir f |  |  |  |  |
L6584 | A | Elbow fair lead cable molded |  |  |  |  |
L6586 | A | Elbow fair lead cable dir fo |  |  |  |  |
L6588 | A | Shdr fair lead cable molded |  |  |  |  |
L6590 | A | Shdr fair lead cable direct |  |  |  |  |
L6600 | A | Polycentric hinge pair |  |  |  |  |
L6605 | A | Single pivot hinge pair |  |  |  |  |
L6610 | A | Flexible metal hinge pair |  |  |  |  |
L6615 | A | Disconnect locking wrist uni |  |  |  |  |
L6616 | A | Disconnect insert locking wr |  |  |  |  |
L6620 | A | Flexion-friction wrist unit |  |  |  |  |
L6623 | A | Spring-ass rot wrst w/ latch |  |  |  |  |
L6625 | A | Rotation wrst w/ cable lock |  |  |  |  |
L6628 | A | Quick disconn hook adapter o |  |  |  |  |
L6629 | A | Lamination collar w/ couplin |  |  |  |  |
L6630 | A | Stainless steel any wrist |  |  |  |  |
L6632 | A | Latex suspension sleeve each |  |  |  |  |
L6635 | A | Lift assist for elbow |  |  |  |  |
L6637 | A | Nudge control elbow lock |  |  |  |  |
L6640 | A | Shoulder abduction joint pai |  |  |  |  |
L6641 | A | Excursion amplifier pulley t |  |  |  |  |
L6642 | A | Excursion amplifier lever ty |  |  |  |  |
L6645 | A | Shoulder flexion-abduction j |  |  |  |  |
L6650 | A | Shoulder universal joint |  |  |  |  |
L6655 | A | Standard control cable extra |  |  |  |  |
L6660 | A | Heavy duty control cable |  |  |  |  |
L6665 | A | Teflon or equal cable lining |  |  |  |  |
L6670 | A | Hook to hand cable adapter |  |  |  |  |
L6672 | A | Harness chest/shlder saddle |  |  |  |  |
L6675 | A | Harness figure of 8 sing con |  |  |  |  |
L6676 | A | Harness figure of 8 dual con |  |  |  |  |
L6680 | A | Test sock wrist disart/bel e |  |  |  |  |
L6682 | A | Test sock elbw disart/above |  |  |  |  |
L6684 | A | Test socket shldr disart/tho |  |  |  |  |
L6686 | A | Suction socket |  |  |  |  |
L6687 | A | Frame typ socket bel elbow/w |  |  |  |  |
L6688 | A | Frame typ sock above elb/dis |  |  |  |  |
L6689 | A | Frame typ socket shoulder di |  |  |  |  |
L6690 | A | Frame typ sock interscap-tho |  |  |  |  |
L6691 | A | Removable insert each |  |  |  |  |
L6692 | A | Silicone gel insert or equal |  |  |  |  |
L6693 | A | Lockingelbow forearm cntrbal |  |  |  |  |
L6700 | A | Terminal device model #3 |  |  |  |  |
L6705 | A | Terminal device model #5 |  |  |  |  |
L6710 | A | Terminal device model #5x |  |  |  |  |
L6715 | A | Terminal device model #5xa |  |  |  |  |
L6720 | A | Terminal device model #6 |  |  |  |  |
L6725 | A | Terminal device model #7 |  |  |  |  |
L6730 | A | Terminal device model #7lo |  |  |  |  |
L6735 | A | Terminal device model #8 |  |  |  |  |
L6740 | A | Terminal device model #8x |  |  |  |  |
L6745 | A | Terminal device model #88x |  |  |  |  |
L6750 | A | Terminal device model #10p |  |  |  |  |
L6755 | A | Terminal device model #10x |  |  |  |  |
L6765 | A | Terminal device model #12p |  |  |  |  |
L6770 | A | Terminal device model #99x |  |  |  |  |
L6775 | A | Terminal device model#555 |  |  |  |  |
L6780 | A | Terminal device model #ss555 |  |  |  |  |
L6790 | A | Hooks-accu hook or equal |  |  |  |  |
L6795 | A | Hooks-2 load or equal |  |  |  |  |
L6800 | A | Hooks-aprl vc or equal |  |  |  |  |
L6805 | A | Modifier wrist flexion unit |  |  |  |  |
L6806 | A | Trs grip vc or equal |  |  |  |  |
L6807 | A | Term device grip1/2 or equal |  |  |  |  |
L6808 | A | Term device infant or child |  |  |  |  |
L6809 | A | Trs super sport passive |  |  |  |  |
L6810 | A | Pincher tool otto bock or eq |  |  |  |  |
L6825 | A | Hands dorrance vo |  |  |  |  |
L6830 | A | Hand aprl vc |  |  |  |  |
L6835 | A | Hand sierra vo |  |  |  |  |
L6840 | A | Hand becker imperial |  |  |  |  |
L6845 | A | Hand becker lock grip |  |  |  |  |
L6850 | A | Term dvc-hand becker plylite |  |  |  |  |
L6855 | A | Hand robin-aids vo |  |  |  |  |
L6860 | A | Hand robin-aids vo soft |  |  |  |  |
L6865 | A | Hand passive hand |  |  |  |  |
L6867 | A | Hand detroit infant hand |  |  |  |  |
L6868 | A | Passive inf hand steeper/hos |  |  |  |  |
L6870 | A | Hand child mitt |  |  |  |  |
L6872 | A | Hand nyu child hand |  |  |  |  |
L6873 | A | Hand mech inf steeper or equ |  |  |  |  |
L6875 | A | Hand bock vc |  |  |  |  |
L6880 | A | Hand bock vo |  |  |  |  |
L6881 | A | Autograsp feature ul term dv |  |  |  |  |
L6882 | A | Microprocessor control uplmb |  |  |  |  |
L6890 | A | Production glove |  |  |  |  |
L6895 | A | Custom glove |  |  |  |  |
L6900 | A | Hand restorat thumb/1 finger |  |  |  |  |
L6905 | A | Hand restoration multiple fi |  |  |  |  |
L6910 | A | Hand restoration no fingers |  |  |  |  |
L6915 | A | Hand restoration replacmnt g |  |  |  |  |
L6920 | A | Wrist disarticul switch ctrl |  |  |  |  |
L6925 | A | Wrist disart myoelectronic c |  |  |  |  |
L6930 | A | Below elbow switch control |  |  |  |  |
L6935 | A | Below elbow myoelectronic ct |  |  |  |  |
L6940 | A | Elbow disarticulation switch |  |  |  |  |
L6945 | A | Elbow disart myoelectronic c |  |  |  |  |
L6950 | A | Above elbow switch control |  |  |  |  |
L6955 | A | Above elbow myoelectronic ct |  |  |  |  |
L6960 | A | Shldr disartic switch contro |  |  |  |  |
L6965 | A | Shldr disartic myoelectronic |  |  |  |  |
L6970 | A | Interscapular-thor switch ct |  |  |  |  |
L6975 | A | Interscap-thor myoelectronic |  |  |  |  |
L7010 | A | Hand otto back steeper/eq sw |  |  |  |  |
L7015 | A | Hand sys teknik village swit |  |  |  |  |
L7020 | A | Electronic greifer switch ct |  |  |  |  |
L7025 | A | Electron hand myoelectronic |  |  |  |  |
L7030 | A | Hand sys teknik vill myoelec |  |  |  |  |
L7035 | A | Electron greifer myoelectro |  |  |  |  |
L7040 | A | Prehensile actuator hosmer s |  |  |  |  |
L7045 | A | Electron hook child michigan |  |  |  |  |
L7170 | A | Electronic elbow hosmer swit |  |  |  |  |
L7180 | A | Electronic elbow utah myoele |  |  |  |  |
L7185 | A | Electron elbow adolescent sw |  |  |  |  |
L7186 | A | Electron elbow child switch |  |  |  |  |
L7190 | A | Elbow adolescent myoelectron |  |  |  |  |
L7191 | A | Elbow child myoelectronic ct |  |  |  |  |
L7260 | A | Electron wrist rotator otto |  |  |  |  |
L7261 | A | Electron wrist rotator utah |  |  |  |  |
L7266 | A | Servo control steeper or equ |  |  |  |  |
L7272 | A | Analogue control unb or equa |  |  |  |  |
L7274 | A | Proportional ctl 12 volt uta |  |  |  |  |
L7360 | A | Six volt bat otto bock/eq ea |  |  |  |  |
L7362 | A | Battery chrgr six volt otto |  |  |  |  |
L7364 | A | Twelve volt battery utah/equ |  |  |  |  |
L7366 | A | Battery chrgr 12 volt utah/e |  |  |  |  |
L7499 | A | Upper extremity prosthes NOS |  |  |  |  |
L7500 | A | Prosthetic dvc repair hourly |  |  |  |  |
L7510 | A | Prosthetic device repair rep |  |  |  |  |
L7520 | A | Repair prosthesis per 15 min |  |  |  |  |
L7900 | A | Vacuum erection system |  |  |  |  |
L8000 | A | Mastectomy bra |  |  |  |  |
L8001 | A | Breast prosthesis bra & form |  |  |  |  |
L8002 | A | Brst prsth bra & bilat form |  |  |  |  |
L8010 | A | Mastectomy sleeve |  |  |  |  |
L8015 | A | Ext breastprosthesis garment |  |  |  |  |
L8020 | A | Mastectomy form |  |  |  |  |
L8030 | A | Breast prosthesis silicone/e |  |  |  |  |
L8035 | A | Custom breast prosthesis |  |  |  |  |
L8039 | A | Breast prosthesis NOS |  |  |  |  |
L8040 | A | Nasal prosthesis |  |  |  |  |
L8041 | A | Midfacial prosthesis |  |  |  |  |
L8042 | A | Orbital prosthesis |  |  |  |  |
L8043 | A | Upper facial prosthesis |  |  |  |  |
L8044 | A | Hemi-facial prosthesis |  |  |  |  |
L8045 | A | Auricular prosthesis |  |  |  |  |
L8046 | A | Partial facial prosthesis |  |  |  |  |
L8047 | A | Nasal septal prosthesis |  |  |  |  |
L8048 | A | Unspec maxillofacial prosth |  |  |  |  |
L8049 | A | Repair maxillofacial prosth |  |  |  |  |
L8100 | E | Compression stocking BK18-30 |  |  |  |  |
L8110 | E | Compression stocking BK30-40 |  |  |  |  |
L8120 | E | Compression stocking BK40-50 |  |  |  |  |
L8130 | E | Gc stocking thighlngth 18-30 |  |  |  |  |
L8140 | E | Gc stocking thighlngth 30-40 |  |  |  |  |
L8150 | E | Gc stocking thighlngth 40-50 |  |  |  |  |
L8160 | E | Gc stocking full lngth 18-30 |  |  |  |  |
L8170 | E | Gc stocking full lngth 30-40 |  |  |  |  |
L8180 | E | Gc stocking full lngth 40-50 |  |  |  |  |
L8190 | E | Gc stocking waistlngth 18-30 |  |  |  |  |
L8195 | E | Gc stocking waistlngth 30-40 |  |  |  |  |
L8200 | E | Gc stocking waistlngth 40-50 |  |  |  |  |
L8210 | E | Gc stocking custom made |  |  |  |  |
L8220 | E | Gc stocking lymphedema |  |  |  |  |
L8230 | E | Gc stocking garter belt |  |  |  |  |
L8239 | E | G compression stocking NOS |  |  |  |  |
L8300 | A | Truss single w/ standard pad |  |  |  |  |
L8310 | A | Truss double w/ standard pad |  |  |  |  |
L8320 | A | Truss addition to std pad wa |  |  |  |  |
L8330 | A | Truss add to std pad scrotal |  |  |  |  |
L8400 | A | Sheath below knee |  |  |  |  |
L8410 | A | Sheath above knee |  |  |  |  |
L8415 | A | Sheath upper limb |  |  |  |  |
L8417 | A | Pros sheath/sock w gel cushn |  |  |  |  |
L8420 | A | Prosthetic sock multi ply BK |  |  |  |  |
L8430 | A | Prosthetic sock multi ply AK |  |  |  |  |
L8435 | A | Pros sock multi ply upper lm |  |  |  |  |
L8440 | A | Shrinker below knee |  |  |  |  |
L8460 | A | Shrinker above knee |  |  |  |  |
L8465 | A | Shrinker upper limb |  |  |  |  |
L8470 | A | Pros sock single ply BK |  |  |  |  |
L8480 | A | Pros sock single ply AK |  |  |  |  |
L8485 | A | Pros sock single ply upper l |  |  |  |  |
L8490 | A | Air seal suction reten systm |  |  |  |  |
L8499 | A | Unlisted misc prosthetic ser |  |  |  |  |
L8500 | A | Artificial larynx |  |  |  |  |
L8501 | A | Tracheostomy speaking valve |  |  |  |  |
L8505 | A | Artificial larynx, accessory |  |  |  |  |
L8507 | A | Trach-esoph voice pros pt in |  |  |  |  |
L8509 | A | Trach-esoph voice pros md in |  |  |  |  |
L8510 | A | Voice amplifier |  |  |  |  |
L8600 | N | Implant breast silicone/eq |  |  |  |  |
L8603 | N | Collagen imp urinary 2.5 ml |  |  |  |  |
L8606 | A | Synthetic implnt urinary 1ml |  |  |  |  |
L8610 | N | Ocular implant |  |  |  |  |
L8612 | N | Aqueous shunt prosthesis |  |  |  |  |
L8613 | N | Ossicular implant |  |  |  |  |
L8614 | N | Cochlear device/system |  |  |  |  |
L8619 | A | Replace cochlear processor |  |  |  |  |
L8630 | N | Metacarpophalangeal implant |  |  |  |  |
L8641 | N | Metatarsal joint implant |  |  |  |  |
L8642 | N | Hallux implant |  |  |  |  |
L8658 | N | Interphalangeal joint implnt |  |  |  |  |
L8670 | N | Vascular graft, synthetic |  |  |  |  |
L8699 | N | Prosthetic implant NOS |  |  |  |  |
L9900 | A | O&P supply/accessory/service |  |  |  |  |
M0064 | X | Visit for drug monitoring | 0374 | 1.20 | $62.41 |  | $12.48
M0075 | E | Cellular therapy |  |  |  |  |
M0076 | E | Prolotherapy |  |  |  |  |
M0100 | E | Intragastric hypothermia |  |  |  |  |
M0300 | E | IV chelationtherapy |  |  |  |  |
M0301 | E | Fabric wrapping of aneurysm |  |  |  |  |
P2028 | A | Cephalin floculation test |  |  |  |  |
P2029 | A | Congo red blood test |  |  |  |  |
P2031 | E | Hair analysis |  |  |  |  |
P2033 | A | Blood thymol turbidity |  |  |  |  |
P2038 | A | Blood mucoprotein |  |  |  |  |
P3000 | A | Screen pap by tech w md supv |  |  |  |  |
P3001 | E | Screening pap smear by phys |  |  |  |  |
P7001 | E | Culture bacterial urine |  |  |  |  |
P9010 | K | Whole blood for transfusion | 0950 | 1.25 | $65.01 |  | $13.00
P9011 | E | Blood split unit |  |  |  |  |
P9012 | K | Cryoprecipitate each unit | 0952 | 0.53 | $27.56 |  | $5.51
P9016 | K | RBC leukocytes reduced | 0954 | 1.59 | $82.69 |  | $16.54
P9017 | K | One donor fresh frozn plasma | 0955 | 0.71 | $36.93 |  | $7.39
P9019 | K | Platelets, each unit | 0957 | 0.67 | $34.85 |  | $6.97
P9020 | K | Plaelet rich plasma unit | 0958 | 1.12 | $58.25 |  | $11.65
P9021 | K | Red blood cells unit | 0959 | 1.12 | $58.25 |  | $11.65
P9022 | K | Washed red blood cells unit | 0960 | 1.42 | $73.85 |  | $14.77
P9023 | K | Frozen plasma, pooled, sd | 0949 | 1.26 | $65.53 |  | $13.11
P9031 | K | Platelets leukocytes reduced | 1013 | 0.91 | $47.33 |  | $9.47
P9032 | K | Platelets, irradiated | 9500 | 0.92 | $47.85 |  | $9.57
P9033 | K | Platelets leukoreduced irrad | 0954 | 1.59 | $82.69 |  | $16.54
P9034 | K | Platelets, pheresis | 9501 | 5.10 | $265.25 |  | $53.05
P9035 | K | Platelet pheres leukoreduced | 9501 | 5.10 | $265.25 |  | $53.05
P9036 | K | Platelet pheresis irradiated | 9502 | 1.99 | $103.50 |  | $20.70
P9037 | K | Plate pheres leukoredu irrad | 1019 | 6.93 | $360.42 |  | $72.08
P9038 | K | RBC irradiated | 9505 | 1.82 | $94.66 |  | $18.93
P9039 | K | RBC deglycerolized | 9504 | 1.91 | $99.34 |  | $19.87
P9040 | K | RBC leukoreduced irradiated | 9504 | 1.91 | $99.34 |  | $19.87
P9041 | K | Albumin (human),5%, 50ml | 0961 | 0.47 | $24.44 |  | $4.89
P9043 | K | Plasma protein fract,5%,50ml | 0956 | 1.94 | $100.90 |  | $20.18
P9044 | K | Cryoprecipitatereducedplasma | 1009 | 0.66 | $34.33 |  | $6.87
P9045 | K | Albumin (human), 5%, 250 ml | 0963 | 2.37 | $123.26 |  | $24.65
P9046 | K | Albumin (human), 25%, 20 ml | 0964 | 0.50 | $26.00 |  | $5.20
P9047 | K | Albumin (human), 25%, 50ml | 0965 | 1.25 | $65.01 |  | $13.00
P9048 | K | Plasmaprotein fract,5%,250ml | 0966 | 9.71 | $505.01 |  | $101.00
P9050 | K | Granulocytes, pheresis unit | 9506 | 0.45 | $23.40 |  | $4.68
P9603 | A | One-way allow prorated miles |  |  |  |  |
P9604 | A | One-way allow prorated trip |  |  |  |  |
P9612 | N | Catheterize for urine spec |  |  |  |  |
P9615 | N | Urine specimen collect mult |  |  |  |  |
Q0035 | X | Cardiokymography | 0100 | 1.34 | $69.69 | $38.33 | $13.94
Q0081 | T | Infusion ther other than che | 0120 | 1.81 | $94.14 | $25.42 | $18.83
Q0083 | S | Chemo by other than infusion | 0116 | 0.85 | $44.21 |  | $8.84
Q0084 | S | Chemotherapy by infusion | 0117 | 3.87 | $201.27 | $52.33 | $40.25
Q0085 | S | Chemo by both infusion and o | 0118 | 5.68 | $295.41 | $72.03 | $59.08
Q0086 | A | Physical therapy evaluation/ |  |  |  |  |
Q0091 | T | Obtaining screen pap smear | 0191 | 0.22 | $11.44 | $3.32 | $2.29
Q0092 | N | Set up port xray equipment |  |  |  |  |
Q0111 | A | Wet mounts/ w preparations |  |  |  |  |
Q0112 | A | Potassium hydroxide preps |  |  |  |  |
Q0113 | A | Pinworm examinations |  |  |  |  |
Q0114 | A | Fern test |  |  |  |  |
Q0115 | A | Post-coital mucous exam |  |  |  |  |
Q0136 | K | Non esrd epoetin alpha inj | 0733 | 0.19 | $9.88 |  | $1.98
Q0163 | N | Diphenhydramine HCl 50mg |  |  |  |  |
Q0164 | N | Prochlorperazine maleate 5mg |  |  |  |  |
Q0165 | E | Prochlorperazine maleate10mg |  |  |  |  |
Q0166 | N | Granisetron HCl 1 mg oral |  |  |  |  |
Q0167 | N | Dronabinol 2.5mg oral |  |  |  |  |
Q0168 | E | Dronabinol 5mg oral |  |  |  |  |
Q0169 | N | Promethazine HCl 12.5mg oral |  |  |  |  |
Q0170 | E | Promethazine HCl 25 mg oral |  |  |  |  |
Q0171 | N | Chlorpromazine HCl 10mg oral |  |  |  |  |
Q0172 | E | Chlorpromazine HCl 25mg oral |  |  |  |  |
Q0173 | N | Trimethobenzamide HCl 250mg |  |  |  |  |
Q0174 | N | Thiethylperazine maleate10mg |  |  |  |  |
Q0175 | N | Perphenazine 4mg oral |  |  |  |  |
Q0176 | E | Perphenazine 8mg oral |  |  |  |  |
Q0177 | N | Hydroxyzine pamoate 25mg |  |  |  |  |
Q0178 | E | Hydroxyzine pamoate 50mg |  |  |  |  |
Q0179 | N | Ondansetron HCl 8mg oral |  |  |  |  |
Q0180 | N | Dolasetron mesylate oral |  |  |  |  |
Q0181 | E | Unspecified oral anti-emetic |  |  |  |  |
Q0183 | N | Nonmetabolic active tissue |  |  |  |  |
Q0184 | N | Metabolically active tissue |  |  |  |  |
Q0187 | K | Factor viia recombinant | 1409 | 13.53 | $703.68 |  | $140.74
Q1001 | E | Ntiol category 1 |  |  |  |  |
Q1002 | E | Ntiol category 2 |  |  |  |  |
Q1003 | E | Ntiol category 3 |  |  |  |  |
Q1004 | E | Ntiol category 4 |  |  |  |  |
Q1005 | E | Ntiol category 5 |  |  |  |  |
Q2001 | N | Oral cabergoline 0.5 mg |  |  |  |  |
Q2002 | N | Elliotts b solution per ml |  |  |  |  |
Q2003 | N | Aprotinin, 10,000 kiu |  |  |  |  |
Q2004 | N | Bladder calculi irrig sol |  |  |  |  |
Q2005 | K | Corticorelin ovine triflutat | 7024 | 4.62 | $240.28 |  | $48.06
Q2006 | K | Digoxin immune fab (ovine) | 7025 | 2.77 | $144.06 |  | $28.81
Q2007 | N | Ethanolamine oleate 100 mg |  |  |  |  |
Q2008 | N | Fomepizole, 15 mg |  |  |  |  |
Q2009 | N | Fosphenytoin, 50 mg |  |  |  |  |
Q2010 | N | Glatiramer acetate, per dose |  |  |  |  |
Q2011 | K | Hemin, per 1 mg | 7030 | 0.01 | $.52 |  | $.10
Q2012 | N | Pegademase bovine, 25 iu |  |  |  |  |
Q2013 | N | Pentastarch 10% solution |  |  |  |  |
Q2014 | N | Sermorelin acetate, 0.5 mg |  |  |  |  |
Q2017 | K | Teniposide, 50 mg | 7035 | 1.24 | $64.49 |  | $12.90
Q2018 | N | Urofollitropin, 75 iu |  |  |  |  |
Q2019 | K | Basiliximab | 1615 | 9.64 | $501.37 |  | $100.27
Q2020 | E | Histrelin acetate |  |  |  |  |
Q2021 | N | Lepirudin |  |  |  |  |
Q2022 | K | VonWillebrandFactrCmplxperIU | 1618 | 0.01 | $.52 |  | $.10
Q3001 | N | Brachytherapy Radioelements |  |  |  |  |
Q3002 | N | Gallium ga 67 |  |  |  |  |
Q3003 | K | Technetium tc99m bicisate | 1620 | 2.80 | $145.63 |  | $29.13
Q3004 | N | Xenon xe 133 |  |  |  |  |
Q3005 | N | Technetium tc99m mertiatide |  |  |  |  |
Q3006 | N | Technetium tc99m glucepatate |  |  |  |  |
Q3007 | N | Sodium phosphate p32 |  |  |  |  |
Q3008 | K | Indium 111-in pentetreotide | 1625 | 4.57 | $237.68 |  | $47.54
Q3009 | N | Technetium tc99m oxidronate |  |  |  |  |
Q3010 | N | Technetium tc99mlabeledrbcs |  |  |  |  |
Q3011 | K | Chromic phosphate p32 | 1628 | 1.35 | $70.21 |  | $14.04
Q3012 | N | Cyanocobalamin cobalt co57 |  |  |  |  |
Q3014 | A | Telehealth facility fee |  |  |  |  |
Q3017 | E | ALS assessment |  |  |  |  |
Q3019 | A | ALS emer trans no ALS serv |  |  |  |  |
Q3020 | A | ALS nonemer trans no ALS se |  |  |  |  |
Q4001 | A | Cast sup body cast plaster |  |  |  |  |
Q4002 | A | Cast sup body cast fiberglas |  |  |  |  |
Q4003 | A | Cast sup shoulder cast plstr |  |  |  |  |
Q4004 | A | Cast sup shoulder cast fbrgl |  |  |  |  |
Q4005 | A | Cast sup long arm adult plst |  |  |  |  |
Q4006 | A | Cast sup long arm adult fbrg |  |  |  |  |
Q4007 | A | Cast sup long arm ped plster |  |  |  |  |
Q4008 | A | Cast sup long arm ped fbrgls |  |  |  |  |
Q4009 | A | Cast sup sht arm adult plstr |  |  |  |  |
Q4010 | A | Cast sup sht arm adult fbrgl |  |  |  |  |
Q4011 | A | Cast sup sht arm ped plaster |  |  |  |  |
Q4012 | A | Cast sup sht arm ped fbrglas |  |  |  |  |
Q4013 | A | Cast sup gauntlet plaster |  |  |  |  |
Q4014 | A | Cast sup gauntlet fiberglass |  |  |  |  |
Q4015 | A | Cast sup gauntlet ped plster |  |  |  |  |
Q4016 | A | Cast sup gauntlet ped fbrgls |  |  |  |  |
Q4017 | A | Cast sup lng arm splint plst |  |  |  |  |
Q4018 | A | Cast sup lng arm splint fbrg |  |  |  |  |
Q4019 | A | Cast sup lng arm splnt ped p |  |  |  |  |
Q4020 | A | Cast sup lng arm splnt ped f |  |  |  |  |
Q4021 | A | Cast sup sht arm splint plst |  |  |  |  |
Q4022 | A | Cast sup sht arm splint fbrg |  |  |  |  |
Q4023 | A | Cast sup sht arm splnt ped p |  |  |  |  |
Q4024 | A | Cast sup sht arm splnt ped f |  |  |  |  |
Q4025 | A | Cast sup hip spica plaster |  |  |  |  |
Q4026 | A | Cast sup hip spica fiberglas |  |  |  |  |
Q4027 | A | Cast sup hip spica ped plstr |  |  |  |  |
Q4028 | A | Cast sup hip spica ped fbrgl |  |  |  |  |
Q4029 | A | Cast sup long leg plaster |  |  |  |  |
Q4030 | A | Cast sup long leg fiberglass |  |  |  |  |
Q4031 | A | Cast sup lng leg ped plaster |  |  |  |  |
Q4032 | A | Cast sup lng leg ped fbrgls |  |  |  |  |
Q4033 | A | Cast sup lng leg cylinder pl |  |  |  |  |
Q4034 | A | Cast sup lng leg cylinder fb |  |  |  |  |
Q4035 | A | Cast sup lngleg cylndr ped p |  |  |  |  |
Q4036 | A | Cast sup lngleg cylndr ped f |  |  |  |  |
Q4037 | A | Cast sup shrt leg plaster |  |  |  |  |
Q4038 | A | Cast sup shrt leg fiberglass |  |  |  |  |
Q4039 | A | Cast sup shrt leg ped plster |  |  |  |  |
Q4040 | A | Cast sup shrt leg ped fbrgls |  |  |  |  |
Q4041 | A | Cast sup lng leg splnt plstr |  |  |  |  |
Q4042 | A | Cast sup lng leg splnt fbrgl |  |  |  |  |
Q4043 | A | Cast sup lng leg splnt ped p |  |  |  |  |
Q4044 | A | Cast sup lng leg splnt ped f |  |  |  |  |
Q4045 | A | Cast sup sht leg splnt plstr |  |  |  |  |
Q4046 | A | Cast sup sht leg splnt fbrgl |  |  |  |  |
Q4047 | A | Cast sup sht leg splnt ped p |  |  |  |  |
Q4048 | A | Cast sup sht leg splnt ped f |  |  |  |  |
Q4049 | A | Finger splint, static |  |  |  |  |
Q4050 | A | Cast supplies unlisted |  |  |  |  |
Q4051 | A | Splint supplies misc |  |  |  |  |
Q9920 | A | Epoetin with hct <= 20 |  |  |  |  |
Q9921 | A | Epoetin with hct = 21 |  |  |  |  |
Q9922 | A | Epoetin with hct = 22 |  |  |  |  |
Q9923 | A | Epoetin with hct = 23 |  |  |  |  |
Q9924 | A | Epoetin with hct = 24 |  |  |  |  |
Q9925 | A | Epoetin with hct = 25 |  |  |  |  |
Q9926 | A | Epoetin with hct = 26 |  |  |  |  |
Q9927 | A | Epoetin with hct = 27 |  |  |  |  |
Q9928 | A | Epoetin with hct = 28 |  |  |  |  |
Q9929 | A | Epoetin with hct = 29 |  |  |  |  |
Q9930 | A | Epoetin with hct = 30 |  |  |  |  |
Q9931 | A | Epoetin with hct = 31 |  |  |  |  |
Q9932 | A | Epoetin with hct = 32 |  |  |  |  |
Q9933 | A | Epoetin with hct = 33 |  |  |  |  |
Q9934 | A | Epoetin with hct = 34 |  |  |  |  |
Q9935 | A | Epoetin with hct = 35 |  |  |  |  |
Q9936 | A | Epoetin with hct = 36 |  |  |  |  |
Q9937 | A | Epoetin with hct = 37 |  |  |  |  |
Q9938 | A | Epoetin with hct = 38 |  |  |  |  |
Q9939 | A | Epoetin with hct = 39 |  |  |  |  |
Q9940 | A | Epoetin with hct >= 40 |  |  |  |  |
R0070 | N | Transport portable x-ray |  |  |  |  |
R0075 | N | Transport port x-ray multipl |  |  |  |  |
R0076 | N | Transport portable EKG |  |  |  |  |
T1015 | E | Clinic service |  |  |  |  |
V2020 | A | Vision svcs frames purchases |  |  |  |  |
V2025 | E | Eyeglasses delux frames |  |  |  |  |
V2100 | A | Lens spher single plano 4.00 |  |  |  |  |
V2101 | A | Single visn sphere 4.12-7.00 |  |  |  |  |
V2102 | A | Singl visn sphere 7.12-20.00 |  |  |  |  |
V2103 | A | Spherocylindr 4.00d/12-2.00d |  |  |  |  |
V2104 | A | Spherocylindr 4.00d/2.12-4d |  |  |  |  |
V2105 | A | Spherocylinder 4.00d/4.25-6d |  |  |  |  |
V2106 | A | Spherocylinder 4.00d/>6.00d |  |  |  |  |
V2107 | A | Spherocylinder 4.25d/12-2d |  |  |  |  |
V2108 | A | Spherocylinder 4.25d/2.12-4d |  |  |  |  |
V2109 | A | Spherocylinder 4.25d/4.25-6d |  |  |  |  |
V2110 | A | Spherocylinder 4.25d/over 6d |  |  |  |  |
V2111 | A | Spherocylindr 7.25d/.25-2.25 |  |  |  |  |
V2112 | A | Spherocylindr 7.25d/2.25-4d |  |  |  |  |
V2113 | A | Spherocylindr 7.25d/4.25-6d |  |  |  |  |
V2114 | A | Spherocylinder over 12.00d |  |  |  |  |
V2115 | A | Lens lenticular bifocal |  |  |  |  |
V2116 | A | Nonaspheric lens bifocal |  |  |  |  |
V2117 | A | Aspheric lens bifocal |  |  |  |  |
V2118 | A | Lens aniseikonic single |  |  |  |  |
V2199 | A | Lens single vision not oth c |  |  |  |  |
V2200 | A | Lens spher bifoc plano 4.00d |  |  |  |  |
V2201 | A | Lens sphere bifocal 4.12-7.0 |  |  |  |  |
V2202 | A | Lens sphere bifocal 7.12-20. |  |  |  |  |
V2203 | A | Lens sphcyl bifocal 4.00d/.1 |  |  |  |  |
V2204 | A | Lens sphcy bifocal 4.00d/2.1 |  |  |  |  |
V2205 | A | Lens sphcy bifocal 4.00d/4.2 |  |  |  |  |
V2206 | A | Lens sphcy bifocal 4.00d/ove |  |  |  |  |
V2207 | A | Lens sphcy bifocal 4.25-7d/. |  |  |  |  |
V2208 | A | Lens sphcy bifocal 4.25-7/2. |  |  |  |  |
V2209 | A | Lens sphcy bifocal 4.25-7/4. |  |  |  |  |
V2210 | A | Lens sphcy bifocal 4.25-7/ov |  |  |  |  |
V2211 | A | Lens sphcy bifo 7.25-12/.25- |  |  |  |  |
V2212 | A | Lens sphcyl bifo 7.25-12/2.2 |  |  |  |  |
V2213 | A | Lens sphcyl bifo 7.25-12/4.2 |  |  |  |  |
V2214 | A | Lens sphcyl bifocal over 12. |  |  |  |  |
V2215 | A | Lens lenticular bifocal |  |  |  |  |
V2216 | A | Lens lenticular nonaspheric |  |  |  |  |
V2217 | A | Lens lenticular aspheric bif |  |  |  |  |
V2218 | A | Lens aniseikonic bifocal |  |  |  |  |
V2219 | A | Lens bifocal seg width over |  |  |  |  |
V2220 | A | Lens bifocal add over 3.25d |  |  |  |  |
V2299 | A | Lens bifocal speciality |  |  |  |  |
V2300 | A | Lens sphere trifocal 4.00d |  |  |  |  |
V2301 | A | Lens sphere trifocal 4.12-7. |  |  |  |  |
V2302 | A | Lens sphere trifocal 7.12-20 |  |  |  |  |
V2303 | A | Lens sphcy trifocal 4.0/.12- |  |  |  |  |
V2304 | A | Lens sphcy trifocal 4.0/2.25 |  |  |  |  |
V2305 | A | Lens sphcy trifocal 4.0/4.25 |  |  |  |  |
V2306 | A | Lens sphcyl trifocal 4.00/>6 |  |  |  |  |
V2307 | A | Lens sphcy trifocal 4.25-7/. |  |  |  |  |
V2308 | A | Lens sphc trifocal 4.25-7/2. |  |  |  |  |
V2309 | A | Lens sphc trifocal 4.25-7/4. |  |  |  |  |
V2310 | A | Lens sphc trifocal 4.25-7/>6 |  |  |  |  |
V2311 | A | Lens sphc trifo 7.25-12/.25- |  |  |  |  |
V2312 | A | Lens sphc trifo 7.25-12/2.25 |  |  |  |  |
V2313 | A | Lens sphc trifo 7.25-12/4.25 |  |  |  |  |
V2314 | A | Lens sphcyl trifocal over 12 |  |  |  |  |
V2315 | A | Lens lenticular trifocal |  |  |  |  |
V2316 | A | Lens lenticular nonaspheric |  |  |  |  |
V2317 | A | Lens lenticular aspheric tri |  |  |  |  |
V2318 | A | Lens aniseikonic trifocal |  |  |  |  |
V2319 | A | Lens trifocal seg width > 28 |  |  |  |  |
V2320 | A | Lens trifocal add over 3.25d |  |  |  |  |
V2399 | A | Lens trifocal speciality |  |  |  |  |
V2410 | A | Lens variab asphericity sing |  |  |  |  |
V2430 | A | Lens variable asphericity bi |  |  |  |  |
V2499 | A | Variable asphericity lens |  |  |  |  |
V2500 | A | Contact lens pmma spherical |  |  |  |  |
V2501 | A | Cntct lens pmma-toric/prism |  |  |  |  |
V2502 | A | Contact lens pmma bifocal |  |  |  |  |
V2503 | A | Cntct lens pmma color vision |  |  |  |  |
V2510 | A | Cntct gas permeable sphericl |  |  |  |  |
V2511 | A | Cntct toric prism ballast |  |  |  |  |
V2512 | A | Cntct lens gas permbl bifocl |  |  |  |  |
V2513 | A | Contact lens extended wear |  |  |  |  |
V2520 | A | Contact lens hydrophilic |  |  |  |  |
V2521 | A | Cntct lens hydrophilic toric |  |  |  |  |
V2522 | A | Cntct lens hydrophil bifocl |  |  |  |  |
V2523 | A | Cntct lens hydrophil extend |  |  |  |  |
V2530 | A | Contact lens gas impermeable |  |  |  |  |
V2531 | A | Contact lens gas permeable |  |  |  |  |
V2599 | A | Contact lens/es other type |  |  |  |  |
V2600 | A | Hand held low vision aids |  |  |  |  |
V2610 | A | Single lens spectacle mount |  |  |  |  |
V2615 | A | Telescop/othr compound lens |  |  |  |  |
V2623 | A | Plastic eye prosth custom |  |  |  |  |
V2624 | A | Polishing artifical eye |  |  |  |  |
V2625 | A | Enlargemnt of eye prosthesis |  |  |  |  |
V2626 | A | Reduction of eye prosthesis |  |  |  |  |
V2627 | A | Scleral cover shell |  |  |  |  |
V2628 | A | Fabrication & fitting |  |  |  |  |
V2629 | A | Prosthetic eye other type |  |  |  |  |
V2630 | N | Anter chamber intraocul lens |  |  |  |  |
V2631 | N | Iris support intraoclr lens |  |  |  |  |
V2632 | N | Post chmbr intraocular lens |  |  |  |  |
V2700 | A | Balance lens |  |  |  |  |
V2710 | A | Glass/plastic slab off prism |  |  |  |  |
V2715 | A | Prism lens/es |  |  |  |  |
V2718 | A | Fresnell prism press-on lens |  |  |  |  |
V2730 | A | Special base curve |  |  |  |  |
V2740 | A | Rose tint plastic |  |  |  |  |
V2741 | A | Non-rose tint plastic |  |  |  |  |
V2742 | A | Rose tint glass |  |  |  |  |
V2743 | A | Non-rose tint glass |  |  |  |  |
V2744 | A | Tint photochromatic lens/es |  |  |  |  |
V2750 | A | Anti-reflective coating |  |  |  |  |
V2755 | A | UV lens/es |  |  |  |  |
V2760 | A | Scratch resistant coating |  |  |  |  |
V2770 | A | Occluder lens/es |  |  |  |  |
V2780 | A | Oversize lens/es |  |  |  |  |
V2781 | E | Progressive lens per lens |  |  |  |  |
V2785 | F | Corneal tissue processing |  |  |  |  |
V2790 | N | Amniotic membrane |  |  |  |  |
V2799 | A | Miscellaneous vision service |  |  |  |  |
V5008 | E | Hearing screening |  |  |  |  |
V5010 | E | Assessment for hearing aid |  |  |  |  |
V5011 | E | Hearing aid fitting/checking |  |  |  |  |
V5014 | E | Hearing aid repair/modifying |  |  |  |  |
V5020 | E | Conformity evaluation |  |  |  |  |
V5030 | E | Body-worn hearing aid air |  |  |  |  |
V5040 | E | Body-worn hearing aid bone |  |  |  |  |
V5050 | E | Hearing aid monaural in ear |  |  |  |  |
V5060 | E | Behind ear hearing aid |  |  |  |  |
V5070 | E | Glasses air conduction |  |  |  |  |
V5080 | E | Glasses bone conduction |  |  |  |  |
V5090 | E | Hearing aid dispensing fee |  |  |  |  |
V5100 | E | Body-worn bilat hearing aid |  |  |  |  |
V5110 | E | Hearing aid dispensing fee |  |  |  |  |
V5120 | E | Body-worn binaur hearing aid |  |  |  |  |
V5130 | E | In ear binaural hearing aid |  |  |  |  |
V5140 | E | Behind ear binaur hearing ai |  |  |  |  |
V5150 | E | Glasses binaural hearing aid |  |  |  |  |
V5160 | E | Dispensing fee binaural |  |  |  |  |
V5170 | E | Within ear cros hearing aid |  |  |  |  |
V5180 | E | Behind ear cros hearing aid |  |  |  |  |
V5190 | E | Glasses cros hearing aid |  |  |  |  |
V5200 | E | Cros hearing aid dispens fee |  |  |  |  |
V5210 | E | In ear bicros hearing aid |  |  |  |  |
V5220 | E | Behind ear bicros hearing ai |  |  |  |  |
V5230 | E | Glasses bicros hearing aid |  |  |  |  |
V5240 | E | Dispensing fee bicros |  |  |  |  |
V5241 | E | Dispensing fee, monaural |  |  |  |  |
V5242 | E | Hearing aid, monaural, cic |  |  |  |  |
V5243 | E | Hearing aid, monaural, itc |  |  |  |  |
V5244 | E | Hearing aid, prog, mon, cic |  |  |  |  |
V5245 | E | Hearing aid, prog, mon, itc |  |  |  |  |
V5246 | E | Hearing aid, prog, mon, ite |  |  |  |  |
V5247 | E | Hearing aid, prog, mon, bte |  |  |  |  |
V5248 | E | Hearing aid, binaural, cic |  |  |  |  |
V5249 | E | Hearing aid, binaural, itc |  |  |  |  |
V5250 | E | Hearing aid, prog, bin, cic |  |  |  |  |
V5251 | E | Hearing aid, prog, bin, itc |  |  |  |  |
V5252 | E | Hearing aid, prog, bin, ite |  |  |  |  |
V5253 | E | Hearing aid, prog, bin, bte |  |  |  |  |
V5254 | E | Hearing id, digit, mon, cic |  |  |  |  |
V5255 | E | Hearing aid, digit, mon, itc |  |  |  |  |
V5256 | E | Hearing aid, digit, mon, ite |  |  |  |  |
V5257 | E | Hearing aid, digit, mon, bte |  |  |  |  |
V5258 | E | Hearing aid, digit, bin, cic |  |  |  |  |
V5259 | E | Hearing aid, digit, bin, itc |  |  |  |  |
V5260 | E | Hearing aid, digit, bin, ite |  |  |  |  |
V5261 | E | Hearing aid, digit, bin, bte |  |  |  |  |
V5262 | E | Hearing aid, disp, monaural |  |  |  |  |
V5263 | E | Hearing aid, disp, binaural |  |  |  |  |
V5264 | E | Ear mold/insert |  |  |  |  |
V5265 | E | Ear mold/insert, disp |  |  |  |  |
V5266 | E | Battery for hearing device |  |  |  |  |
V5267 | E | Hearing aid supply/accessory |  |  |  |  |
V5268 | E | ALD Telephone Amplifier |  |  |  |  |
V5269 | E | Alerting device, any type |  |  |  |  |
V5270 | E | ALD, TV amplifier, any type |  |  |  |  |
V5271 | E | ALD, TV caption decoder |  |  |  |  |
V5272 | E | Tdd |  |  |  |  |
V5273 | E | ALD for cochlear implant |  |  |  |  |
V5274 | E | ALD unspecified |  |  |  |  |
V5275 | E | Ear impression |  |  |  |  |
V5299 | E | Hearing service |  |  |  |  |
V5336 | E | Repair communication device |  |  |  |  |
V5362 | A | Speech screening |  |  |  |  |
V5363 | A | Language screening |  |  |  |  |
V5364 | A | Dysphagia screening |  |  |  |  |
CPT codes and descriptions only are copyright American Medical Association. All Rights Reserved. Applicable FARS/DFARS Apply.
Copyright American Dental Association. All rights reserved.

Addendum D.—Payment Status Indicators for the Hospital Outpatient Prospective Payment System
Indicator | Service | Status
A | Ambulance | Ambulance Fee Schedule.
A | Clinical Diagnostic Laboratory Services | Laboratory Fee Schedule.
A | Durable Medical Equipment, Prosthetics and Orthotics (excluding implanted DME and prosthetics) | DMEPOS Fee Schedule.
A | EPO for ESRD Patients | National Rate.
A | Physical, Occupational and Speech Therapy | Physician Fee Schedule.
A | Physician Services for ESRD Patients | Physician Fee Schedule.
A | Screening Mammography | Physician Fee Schedule.
C | Inpatient Procedures | Not Payable under OPPS; Admit Patient; Bill as Inpatient.
D | Deleted Code | Deleted Effective Beginning of Calendar Year.
E | Non-Covered Items and Services, Codes not Reportable in Hospital Outpatient Settings | Not Paid Under Medicare or When Performed in a Hospital Outpatient Setting.
F | Acquisition of Corneal Tissue | Paid at Reasonable Cost.
G | Drug/Biological Pass-Through | Paid Under OPPS; Separate APC Payment Includes Pass Through Amount.
H | Device Category Pass-Through | Paid Under OPPS; Separate Cost Based Pass Through Payment.
K | Non Pass-Through Drug/Biological, Certain Brachytherapy seeds | Paid Under OPPS; Separate APC.
N | Items and Services Packaged into APC Rate | Paid under OPPS; Payment Is Packaged Into Payment for Other Services.
P | Partial Hospitalization | Paid under OPPS; Per Diem APC.
S | Significant Procedure, Not Discounted When Multiple | Paid Under OPPS; Separate APC.
T | Significant Procedure, Multiple Procedure Reduction Applies | Paid Under OPPS; Separate APC.
V | Visit to Clinic or Emergency Department | Paid Under OPPS; Separate PC.
X | Ancillary Service | Paid Under OPPS; Separate APC

——————————

CPT codes and descriptions only are copyright American Medical Association. All Rights Reserved. Applicable FARS/DFARS Apply.

Copyright American Dental Association. All rights reserved.

Addendum E.—CPT Codes Which Would Be Paid Only As Inpatient Procedures
[Calender Year 2003]
CPT/HCPCS | Status indicator | Description
0001T | C | Endovas repr abdo ao aneurys
0002T | C | Endovas repr abdo ao aneurys
0005T | C | Perc cath stent/brain cv art
0006T | C | Perc cath stent/brain cv art
0007T | C | Perc cath stent/brain cv art
00174 | C | Anesth, pharyngeal surgery
00176 | C | Anesth, pharyngeal surgery
00192 | C | Anesth, facial bone surgery
00214 | C | Anesth, skull drainage
00215 | C | Anesth, skull repair/fract
0021T | C | Fetal oximetry, trnsvag/cerv
0024T | C | Transcath cardiac reduction
00404 | C | Anesth, surgery of breast
00406 | C | Anesth, surgery of breast
00452 | C | Anesth, surgery of shoulder
00474 | C | Anesth, surgery of rib(s)
00524 | C | Anesth, chest drainage
00540 | C | Anesth, chest surgery
00542 | C | Anesth, release of lung
00544 | C | Anesth, chest lining removal
00546 | C | Anesth, lung,chest wall surg
00560 | C | Anesth, open heart surgery
00562 | C | Anesth, open heart surgery
00580 | C | Anesth heart/lung transplant
00604 | C | Anesth, sitting procedure
00622 | C | Anesth, removal of nerves
00632 | C | Anesth, removal of nerves
00634 | C | Anesth for chemonucleolysis
00670 | C | Anesth, spine, cord surgery
00792 | C | Anesth, hemorr/excise liver
00794 | C | Anesth, pancreas removal
00796 | C | Anesth, for liver transplant
00802 | C | Anesth, fat layer removal
00844 | C | Anesth, pelvis surgery
00846 | C | Anesth, hysterectomy
00848 | C | Anesth, pelvic organ surg
00864 | C | Anesth, removal of bladder
00865 | C | Anesth, removal of prostate
00866 | C | Anesth, removal of adrenal
00868 | C | Anesth, kidney transplant
00882 | C | Anesth, major vein ligation
00904 | C | Anesth, perineal surgery
00908 | C | Anesth, removal of prostate
00928 | C | Anesth, removal of testis
00932 | C | Anesth, amputation of penis
00934 | C | Anesth, penis, nodes removal
00936 | C | Anesth, penis, nodes removal
00944 | C | Anesth, vaginal hysterectomy
01140 | C | Anesth, amputation at pelvis
01150 | C | Anesth, pelvic tumor surgery
01190 | C | Anesth, pelvis nerve removal
01212 | C | Anesth, hip disarticulation
01214 | C | Anesth, hip arthroplasty
01232 | C | Anesth, amputation of femur
01234 | C | Anesth, radical femur surg
01272 | C | Anesth, femoral artery surg
01274 | C | Anesth, femoral embolectomy
01402 | C | Anesth, knee arthroplasty
01404 | C | Anesth, amputation at knee
01442 | C | Anesth, knee artery surg
01444 | C | Anesth, knee artery repair
01486 | C | Anesth, ankle replacement
01502 | C | Anesth, lwr leg embolectomy
01632 | C | Anesth, surgery of shoulder
01634 | C | Anesth, shoulder joint amput
01636 | C | Anesth, forequarter amput
01638 | C | Anesth, shoulder replacement
01652 | C | Anesth, shoulder vessel surg
01654 | C | Anesth, shoulder vessel surg
01656 | C | Anesth, arm-leg vessel surg
01756 | C | Anesth, radical humerus surg
01990 | C | Support for organ donor
15756 | C | Free muscle flap, microvasc
15757 | C | Free skin flap, microvasc
15758 | C | Free fascial flap, microvasc
16035 | C | Incision of burn scab, initi
16036 | C | Incise burn scab, addl incis
19200 | C | Removal of breast
19220 | C | Removal of breast
19271 | C | Revision of chest wall
19272 | C | Extensive chest wall surgery
19361 | C | Breast reconstruction
19364 | C | Breast reconstruction
19367 | C | Breast reconstruction
19368 | C | Breast reconstruction
19369 | C | Breast reconstruction
20660 | C | Apply,remove fixation device
20661 | C | Application of head brace
20662 | C | Application of pelvis brace
20663 | C | Application of thigh brace
20664 | C | Halo brace application
20802 | C | Replantation, arm, complete
20805 | C | Replant, forearm, complete
20808 | C | Replantation hand, complete
20816 | C | Replantation digit, complete
20822 | C | Replantation digit, complete
20824 | C | Replantation thumb, complete
20827 | C | Replantation thumb, complete
20838 | C | Replantation foot, complete
20930 | C | Spinal bone allograft
20931 | C | Spinal bone allograft
20936 | C | Spinal bone autograft
20937 | C | Spinal bone autograft
20938 | C | Spinal bone autograft
20955 | C | Fibula bone graft, microvasc
20956 | C | Iliac bone graft, microvasc
20957 | C | Mt bone graft, microvasc
20962 | C | Other bone graft, microvasc
20969 | C | Bone/skin graft, microvasc
20970 | C | Bone/skin graft, iliac crest
20972 | C | Bone/skin graft, metatarsal
20973 | C | Bone/skin graft, great toe
21045 | C | Extensive jaw surgery
21141 | C | Reconstruct midface, lefort
21142 | C | Reconstruct midface, lefort
21143 | C | Reconstruct midface, lefort
21145 | C | Reconstruct midface, lefort
21146 | C | Reconstruct midface, lefort
21147 | C | Reconstruct midface, lefort
21150 | C | Reconstruct midface, lefort
21151 | C | Reconstruct midface, lefort
21154 | C | Reconstruct midface, lefort
21155 | C | Reconstruct midface, lefort
21159 | C | Reconstruct midface, lefort
21160 | C | Reconstruct midface, lefort
21172 | C | Reconstruct orbit/forehead
21175 | C | Reconstruct orbit/forehead
21179 | C | Reconstruct entire forehead
21180 | C | Reconstruct entire forehead
21182 | C | Reconstruct cranial bone
21183 | C | Reconstruct cranial bone
21184 | C | Reconstruct cranial bone
21188 | C | Reconstruction of midface
21193 | C | Reconst lwr jaw w/o graft
21194 | C | Reconst lwr jaw w/graft
21195 | C | Reconst lwr jaw w/o fixation
21196 | C | Reconst lwr jaw w/fixation
21247 | C | Reconstruct lower jaw bone
21255 | C | Reconstruct lower jaw bone
21256 | C | Reconstruction of orbit
21268 | C | Revise eye sockets
21343 | C | Treatment of sinus fracture
21344 | C | Treatment of sinus fracture
21346 | C | Treat nose/jaw fracture
21347 | C | Treat nose/jaw fracture
21348 | C | Treat nose/jaw fracture
21356 | C | Treat cheek bone fracture
21360 | C | Treat cheek bone fracture
21365 | C | Treat cheek bone fracture
21366 | C | Treat cheek bone fracture
21385 | C | Treat eye socket fracture
21386 | C | Treat eye socket fracture
21387 | C | Treat eye socket fracture
21395 | C | Treat eye socket fracture
21408 | C | Treat eye socket fracture
21422 | C | Treat mouth roof fracture
21423 | C | Treat mouth roof fracture
21431 | C | Treat craniofacial fracture
21432 | C | Treat craniofacial fracture
21433 | C | Treat craniofacial fracture
21435 | C | Treat craniofacial fracture
21436 | C | Treat craniofacial fracture
21495 | C | Treat hyoid bone fracture
21510 | C | Drainage of bone lesion
21557 | C | Remove tumor, neck/chest
21615 | C | Removal of rib
21616 | C | Removal of rib and nerves
21620 | C | Partial removal of sternum
21627 | C | Sternal debridement
21630 | C | Extensive sternum surgery
21632 | C | Extensive sternum surgery
21705 | C | Revision of neck muscle/rib
21740 | C | Reconstruction of sternum
21750 | C | Repair of sternum separation
21810 | C | Treatment of rib fracture(s)
21825 | C | Treat sternum fracture
22110 | C | Remove part of neck vertebra
22112 | C | Remove part, thorax vertebra
22114 | C | Remove part, lumbar vertebra
22116 | C | Remove extra spine segment
22210 | C | Revision of neck spine
22212 | C | Revision of thorax spine
22214 | C | Revision of lumbar spine
22216 | C | Revise, extra spine segment
22220 | C | Revision of neck spine
22222 | C | Revision of thorax spine
22224 | C | Revision of lumbar spine
22226 | C | Revise, extra spine segment
22318 | C | Treat odontoid fx w/o graft
22319 | C | Treat odontoid fx w/graft
22325 | C | Treat spine fracture
22326 | C | Treat neck spine fracture
22327 | C | Treat thorax spine fracture
22328 | C | Treat each add spine fx
22548 | C | Neck spine fusion
22554 | C | Neck spine fusion
22556 | C | Thorax spine fusion
22558 | C | Lumbar spine fusion
22585 | C | Additional spinal fusion
22590 | C | Spine & skull spinal fusion
22595 | C | Neck spinal fusion
22600 | C | Neck spine fusion
22610 | C | Thorax spine fusion
22612 | C | Lumbar spine fusion
22614 | C | Spine fusion, extra segment
22630 | C | Lumbar spine fusion
22632 | C | Spine fusion, extra segment
22800 | C | Fusion of spine
22802 | C | Fusion of spine
22804 | C | Fusion of spine
22808 | C | Fusion of spine
22810 | C | Fusion of spine
22812 | C | Fusion of spine
22818 | C | Kyphectomy, 1-2 segments
22819 | C | Kyphectomy, 3 or more
22830 | C | Exploration of spinal fusion
22840 | C | Insert spine fixation device
22841 | C | Insert spine fixation device
22842 | C | Insert spine fixation device
22843 | C | Insert spine fixation device
22844 | C | Insert spine fixation device
22845 | C | Insert spine fixation device
22846 | C | Insert spine fixation device
22847 | C | Insert spine fixation device
22848 | C | Insert pelv fixation device
22849 | C | Reinsert spinal fixation
22850 | C | Remove spine fixation device
22851 | C | Apply spine prosth device
22852 | C | Remove spine fixation device
22855 | C | Remove spine fixation device
23200 | C | Removal of collar bone
23210 | C | Removal of shoulder blade
23220 | C | Partial removal of humerus
23221 | C | Partial removal of humerus
23222 | C | Partial removal of humerus
23332 | C | Remove shoulder foreign body
23472 | C | Reconstruct shoulder joint
23900 | C | Amputation of arm & girdle
23920 | C | Amputation at shoulder joint
24149 | C | Radical resection of elbow
24900 | C | Amputation of upper arm
24920 | C | Amputation of upper arm
24930 | C | Amputation follow-up surgery
24931 | C | Amputate upper arm & implant
24940 | C | Revision of upper arm
25900 | C | Amputation of forearm
25905 | C | Amputation of forearm
25909 | C | Amputation follow-up surgery
25915 | C | Amputation of forearm
25920 | C | Amputate hand at wrist
25924 | C | Amputation follow-up surgery
25927 | C | Amputation of hand
25931 | C | Amputation follow-up surgery
26551 | C | Great toe-hand transfer
26553 | C | Single transfer, toe-hand
26554 | C | Double transfer, toe-hand
26556 | C | Toe joint transfer
26992 | C | Drainage of bone lesion
27005 | C | Incision of hip tendon
27006 | C | Incision of hip tendons
27025 | C | Incision of hip/thigh fascia
27030 | C | Drainage of hip joint
27036 | C | Excision of hip joint/muscle
27054 | C | Removal of hip joint lining
27070 | C | Partial removal of hip bone
27071 | C | Partial removal of hip bone
27075 | C | Extensive hip surgery
27076 | C | Extensive hip surgery
27077 | C | Extensive hip surgery
27078 | C | Extensive hip surgery
27079 | C | Extensive hip surgery
27090 | C | Removal of hip prosthesis
27091 | C | Removal of hip prosthesis
27120 | C | Reconstruction of hip socket
27122 | C | Reconstruction of hip socket
27125 | C | Partial hip replacement
27130 | C | Total hip arthroplasty
27132 | C | Total hip arthroplasty
27134 | C | Revise hip joint replacement
27137 | C | Revise hip joint replacement
27138 | C | Revise hip joint replacement
27140 | C | Transplant femur ridge
27146 | C | Incision of hip bone
27147 | C | Revision of hip bone
27151 | C | Incision of hip bones
27156 | C | Revision of hip bones
27158 | C | Revision of pelvis
27161 | C | Incision of neck of femur
27165 | C | Incision/fixation of femur
27170 | C | Repair/graft femur head/neck
27175 | C | Treat slipped epiphysis
27176 | C | Treat slipped epiphysis
27177 | C | Treat slipped epiphysis
27178 | C | Treat slipped epiphysis
27179 | C | Revise head/neck of femur
27181 | C | Treat slipped epiphysis
27185 | C | Revision of femur epiphysis
27187 | C | Reinforce hip bones
27215 | C | Treat pelvic fracture(s)
27217 | C | Treat pelvic ring fracture
27218 | C | Treat pelvic ring fracture
27222 | C | Treat hip socket fracture
27226 | C | Treat hip wall fracture
27227 | C | Treat hip fracture(s)
27228 | C | Treat hip fracture(s)
27232 | C | Treat thigh fracture
27236 | C | Treat thigh fracture
27240 | C | Treat thigh fracture
27244 | C | Treat thigh fracture
27245 | C | Treat thigh fracture
27248 | C | Treat thigh fracture
27253 | C | Treat hip dislocation
27254 | C | Treat hip dislocation
27258 | C | Treat hip dislocation
27259 | C | Treat hip dislocation
27280 | C | Fusion of sacroiliac joint
27282 | C | Fusion of pubic bones
27284 | C | Fusion of hip joint
27286 | C | Fusion of hip joint
27290 | C | Amputation of leg at hip
27295 | C | Amputation of leg at hip
27303 | C | Drainage of bone lesion
27365 | C | Extensive leg surgery
27445 | C | Revision of knee joint
27447 | C | Total knee arthroplasty
27448 | C | Incision of thigh
27450 | C | Incision of thigh
27454 | C | Realignment of thigh bone
27455 | C | Realignment of knee
27457 | C | Realignment of knee
27465 | C | Shortening of thigh bone
27466 | C | Lengthening of thigh bone
27468 | C | Shorten/lengthen thighs
27470 | C | Repair of thigh
27472 | C | Repair/graft of thigh
27475 | C | Surgery to stop leg growth
27477 | C | Surgery to stop leg growth
27479 | C | Surgery to stop leg growth
27485 | C | Surgery to stop leg growth
27486 | C | Revise/replace knee joint
27487 | C | Revise/replace knee joint
27488 | C | Removal of knee prosthesis
27495 | C | Reinforce thigh
27506 | C | Treatment of thigh fracture
27507 | C | Treatment of thigh fracture
27511 | C | Treatment of thigh fracture
27513 | C | Treatment of thigh fracture
27514 | C | Treatment of thigh fracture
27519 | C | Treat thigh fx growth plate
27535 | C | Treat knee fracture
27536 | C | Treat knee fracture
27540 | C | Treat knee fracture
27556 | C | Treat knee dislocation
27557 | C | Treat knee dislocation
27558 | C | Treat knee dislocation
27580 | C | Fusion of knee
27590 | C | Amputate leg at thigh
27591 | C | Amputate leg at thigh
27592 | C | Amputate leg at thigh
27596 | C | Amputation follow-up surgery
27598 | C | Amputate lower leg at knee
27645 | C | Extensive lower leg surgery
27646 | C | Extensive lower leg surgery
27702 | C | Reconstruct ankle joint
27703 | C | Reconstruction, ankle joint
27712 | C | Realignment of lower leg
27715 | C | Revision of lower leg
27720 | C | Repair of tibia
27722 | C | Repair/graft of tibia
27724 | C | Repair/graft of tibia
27725 | C | Repair of lower leg
27727 | C | Repair of lower leg
27880 | C | Amputation of lower leg
27881 | C | Amputation of lower leg
27882 | C | Amputation of lower leg
27886 | C | Amputation follow-up surgery
27888 | C | Amputation of foot at ankle
28800 | C | Amputation of midfoot
28805 | C | Amputation thru metatarsal
31225 | C | Removal of upper jaw
31230 | C | Removal of upper jaw
31290 | C | Nasal/sinus endoscopy, surg
31291 | C | Nasal/sinus endoscopy, surg
31292 | C | Nasal/sinus endoscopy, surg
31293 | C | Nasal/sinus endoscopy, surg
31294 | C | Nasal/sinus endoscopy, surg
31360 | C | Removal of larynx
31365 | C | Removal of larynx
31367 | C | Partial removal of larynx
31368 | C | Partial removal of larynx
31370 | C | Partial removal of larynx
31375 | C | Partial removal of larynx
31380 | C | Partial removal of larynx
31382 | C | Partial removal of larynx
31390 | C | Removal of larynx & pharynx
31395 | C | Reconstruct larynx & pharynx
31584 | C | Treat larynx fracture
31587 | C | Revision of larynx
31725 | C | Clearance of airways
31760 | C | Repair of windpipe
31766 | C | Reconstruction of windpipe
31770 | C | Repair/graft of bronchus
31775 | C | Reconstruct bronchus
31780 | C | Reconstruct windpipe
31781 | C | Reconstruct windpipe
31786 | C | Remove windpipe lesion
31800 | C | Repair of windpipe injury
31805 | C | Repair of windpipe injury
32035 | C | Exploration of chest
32036 | C | Exploration of chest
32095 | C | Biopsy through chest wall
32100 | C | Exploration/biopsy of chest
32110 | C | Explore/repair chest
32120 | C | Re-exploration of chest
32124 | C | Explore chest free adhesions
32140 | C | Removal of lung lesion(s)
32141 | C | Remove/treat lung lesions
32150 | C | Removal of lung lesion(s)
32151 | C | Remove lung foreign body
32160 | C | Open chest heart massage
32200 | C | Drain, open, lung lesion
32215 | C | Treat chest lining
32220 | C | Release of lung
32225 | C | Partial release of lung
32310 | C | Removal of chest lining
32320 | C | Free/remove chest lining
32402 | C | Open biopsy chest lining
32440 | C | Removal of lung
32442 | C | Sleeve pneumonectomy
32445 | C | Removal of lung
32480 | C | Partial removal of lung
32482 | C | Bilobectomy
32484 | C | Segmentectomy
32486 | C | Sleeve lobectomy
32488 | C | Completion pneumonectomy
32491 | C | Lung volume reduction
32500 | C | Partial removal of lung
32501 | C | Repair bronchus add-on
32520 | C | Remove lung & revise chest
32522 | C | Remove lung & revise chest
32525 | C | Remove lung & revise chest
32540 | C | Removal of lung lesion
32650 | C | Thoracoscopy, surgical
32651 | C | Thoracoscopy, surgical
32652 | C | Thoracoscopy, surgical
32653 | C | Thoracoscopy, surgical
32654 | C | Thoracoscopy, surgical
32655 | C | Thoracoscopy, surgical
32656 | C | Thoracoscopy, surgical
32657 | C | Thoracoscopy, surgical
32658 | C | Thoracoscopy, surgical
32659 | C | Thoracoscopy, surgical
32660 | C | Thoracoscopy, surgical
32661 | C | Thoracoscopy, surgical
32662 | C | Thoracoscopy, surgical
32663 | C | Thoracoscopy, surgical
32664 | C | Thoracoscopy, surgical
32665 | C | Thoracoscopy, surgical
32800 | C | Repair lung hernia
32810 | C | Close chest after drainage
32815 | C | Close bronchial fistula
32820 | C | Reconstruct injured chest
32850 | C | Donor pneumonectomy
32851 | C | Lung transplant, single
32852 | C | Lung transplant with bypass
32853 | C | Lung transplant, double
32854 | C | Lung transplant with bypass
32900 | C | Removal of rib(s)
32905 | C | Revise & repair chest wall
32906 | C | Revise & repair chest wall
32940 | C | Revision of lung
32997 | C | Total lung lavage
33015 | C | Incision of heart sac
33020 | C | Incision of heart sac
33025 | C | Incision of heart sac
33030 | C | Partial removal of heart sac
33031 | C | Partial removal of heart sac
33050 | C | Removal of heart sac lesion
33120 | C | Removal of heart lesion
33130 | C | Removal of heart lesion
33140 | C | Heart revascularize (tmr)
33141 | C | Heart tmr w/other procedure
33200 | C | Insertion of heart pacemaker
33201 | C | Insertion of heart pacemaker
33236 | C | Remove electrode/thoracotomy
33237 | C | Remove electrode/thoracotomy
33238 | C | Remove electrode/thoracotomy
33243 | C | Remove eltrd/thoracotomy
33245 | C | Insert epic eltrd pace-defib
33246 | C | Insert epic eltrd/generator
33250 | C | Ablate heart dysrhythm focus
33251 | C | Ablate heart dysrhythm focus
33253 | C | Reconstruct atria
33261 | C | Ablate heart dysrhythm focus
33300 | C | Repair of heart wound
33305 | C | Repair of heart wound
33310 | C | Exploratory heart surgery
33315 | C | Exploratory heart surgery
33320 | C | Repair major blood vessel(s)
33321 | C | Repair major vessel
33322 | C | Repair major blood vessel(s)
33330 | C | Insert major vessel graft
33332 | C | Insert major vessel graft
33335 | C | Insert major vessel graft
33400 | C | Repair of aortic valve
33401 | C | Valvuloplasty, open
33403 | C | Valvuloplasty, w/cp bypass
33404 | C | Prepare heart-aorta conduit
33405 | C | Replacement of aortic valve
33406 | C | Replacement of aortic valve
33410 | C | Replacement of aortic valve
33411 | C | Replacement of aortic valve
33412 | C | Replacement of aortic valve
33413 | C | Replacement of aortic valve
33414 | C | Repair of aortic valve
33415 | C | Revision, subvalvular tissue
33416 | C | Revise ventricle muscle
33417 | C | Repair of aortic valve
33420 | C | Revision of mitral valve
33422 | C | Revision of mitral valve
33425 | C | Repair of mitral valve
33426 | C | Repair of mitral valve
33427 | C | Repair of mitral valve
33430 | C | Replacement of mitral valve
33460 | C | Revision of tricuspid valve
33463 | C | Valvuloplasty, tricuspid
33464 | C | Valvuloplasty, tricuspid
33465 | C | Replace tricuspid valve
33468 | C | Revision of tricuspid valve
33470 | C | Revision of pulmonary valve
33471 | C | Valvotomy, pulmonary valve
33472 | C | Revision of pulmonary valve
33474 | C | Revision of pulmonary valve
33475 | C | Replacement, pulmonary valve
33476 | C | Revision of heart chamber
33478 | C | Revision of heart chamber
33496 | C | Repair, prosth valve clot
33500 | C | Repair heart vessel fistula
33501 | C | Repair heart vessel fistula
33502 | C | Coronary artery correction
33503 | C | Coronary artery graft
33504 | C | Coronary artery graft
33505 | C | Repair artery w/tunnel
33506 | C | Repair artery, translocation
33510 | C | CABG, vein, single
33511 | C | CABG, vein, two
33512 | C | CABG, vein, three
33513 | C | CABG, vein, four
33514 | C | CABG, vein, five
33516 | C | Cabg, vein, six or more
33517 | C | CABG, artery-vein, single
33518 | C | CABG, artery-vein, two
33519 | C | CABG, artery-vein, three
33521 | C | CABG, artery-vein, four
33522 | C | CABG, artery-vein, five
33523 | C | Cabg, art-vein, six or more
33530 | C | Coronary artery, bypass/reop
33533 | C | CABG, arterial, single
33534 | C | CABG, arterial, two
33535 | C | CABG, arterial, three
33536 | C | Cabg, arterial, four or more
33542 | C | Removal of heart lesion
33545 | C | Repair of heart damage
33572 | C | Open coronary endarterectomy
33600 | C | Closure of valve
33602 | C | Closure of valve
33606 | C | Anastomosis/artery-aorta
33608 | C | Repair anomaly w/conduit
33610 | C | Repair by enlargement
33611 | C | Repair double ventricle
33612 | C | Repair double ventricle
33615 | C | Repair, modified fontan
33617 | C | Repair single ventricle
33619 | C | Repair single ventricle
33641 | C | Repair heart septum defect
33645 | C | Revision of heart veins
33647 | C | Repair heart septum defects
33660 | C | Repair of heart defects
33665 | C | Repair of heart defects
33670 | C | Repair of heart chambers
33681 | C | Repair heart septum defect
33684 | C | Repair heart septum defect
33688 | C | Repair heart septum defect
33690 | C | Reinforce pulmonary artery
33692 | C | Repair of heart defects
33694 | C | Repair of heart defects
33697 | C | Repair of heart defects
33702 | C | Repair of heart defects
33710 | C | Repair of heart defects
33720 | C | Repair of heart defect
33722 | C | Repair of heart defect
33730 | C | Repair heart-vein defect(s)
33732 | C | Repair heart-vein defect
33735 | C | Revision of heart chamber
33736 | C | Revision of heart chamber
33737 | C | Revision of heart chamber
33750 | C | Major vessel shunt
33755 | C | Major vessel shunt
33762 | C | Major vessel shunt
33764 | C | Major vessel shunt & graft
33766 | C | Major vessel shunt
33767 | C | Major vessel shunt
33770 | C | Repair great vessels defect
33771 | C | Repair great vessels defect
33774 | C | Repair great vessels defect
33775 | C | Repair great vessels defect
33776 | C | Repair great vessels defect
33777 | C | Repair great vessels defect
33778 | C | Repair great vessels defect
33779 | C | Repair great vessels defect
33780 | C | Repair great vessels defect
33781 | C | Repair great vessels defect
33786 | C | Repair arterial trunk
33788 | C | Revision of pulmonary artery
33800 | C | Aortic suspension
33802 | C | Repair vessel defect
33803 | C | Repair vessel defect
33813 | C | Repair septal defect
33814 | C | Repair septal defect
33820 | C | Revise major vessel
33822 | C | Revise major vessel
33824 | C | Revise major vessel
33840 | C | Remove aorta constriction
33845 | C | Remove aorta constriction
33851 | C | Remove aorta constriction
33852 | C | Repair septal defect
33853 | C | Repair septal defect
33860 | C | Ascending aortic graft
33861 | C | Ascending aortic graft
33863 | C | Ascending aortic graft
33870 | C | Transverse aortic arch graft
33875 | C | Thoracic aortic graft
33877 | C | Thoracoabdominal graft
33910 | C | Remove lung artery emboli
33915 | C | Remove lung artery emboli
33916 | C | Surgery of great vessel
33917 | C | Repair pulmonary artery
33918 | C | Repair pulmonary atresia
33919 | C | Repair pulmonary atresia
33920 | C | Repair pulmonary atresia
33922 | C | Transect pulmonary artery
33924 | C | Remove pulmonary shunt
33930 | C | Removal of donor heart/lung
33935 | C | Transplantation, heart/lung
33940 | C | Removal of donor heart
33945 | C | Transplantation of heart
33960 | C | External circulation assist
33961 | C | External circulation assist
33967 | C | Insert ia percut device
33968 | C | Remove aortic assist device
33970 | C | Aortic circulation assist
33971 | C | Aortic circulation assist
33973 | C | Insert balloon device
33974 | C | Remove intra-aortic balloon
33975 | C | Implant ventricular device
33976 | C | Implant ventricular device
33977 | C | Remove ventricular device
33978 | C | Remove ventricular device
33979 | C | Insert intracorporeal device
33980 | C | Remove intracorporeal device
34001 | C | Removal of artery clot
34051 | C | Removal of artery clot
34151 | C | Removal of artery clot
34401 | C | Removal of vein clot
34451 | C | Removal of vein clot
34502 | C | Reconstruct vena cava
34800 | C | Endovasc abdo repair w/tube
34802 | C | Endovasc abdo repr w/device
34804 | C | Endovasc abdo repr w/device
34808 | C | Endovasc abdo occlud device
34812 | C | Xpose for endoprosth, aortic
34813 | C | Xpose for endoprosth, femorl
34820 | C | Xpose for endoprosth, iliac
34825 | C | Endovasc extend prosth, init
34826 | C | Endovasc exten prosth, addl
34830 | C | Open aortic tube prosth repr
34831 | C | Open aortoiliac prosth repr
34832 | C | Open aortofemor prosth repr
35001 | C | Repair defect of artery
35002 | C | Repair artery rupture, neck
35005 | C | Repair defect of artery
35013 | C | Repair artery rupture, arm
35021 | C | Repair defect of artery
35022 | C | Repair artery rupture, chest
35045 | C | Repair defect of arm artery
35081 | C | Repair defect of artery
35082 | C | Repair artery rupture, aorta
35091 | C | Repair defect of artery
35092 | C | Repair artery rupture, aorta
35102 | C | Repair defect of artery
35103 | C | Repair artery rupture, groin
35111 | C | Repair defect of artery
35112 | C | Repair artery rupture,spleen
35121 | C | Repair defect of artery
35122 | C | Repair artery rupture, belly
35131 | C | Repair defect of artery
35132 | C | Repair artery rupture, groin
35141 | C | Repair defect of artery
35142 | C | Repair artery rupture, thigh
35151 | C | Repair defect of artery
35152 | C | Repair artery rupture, knee
35161 | C | Repair defect of artery
35162 | C | Repair artery rupture
35182 | C | Repair blood vessel lesion
35189 | C | Repair blood vessel lesion
35211 | C | Repair blood vessel lesion
35216 | C | Repair blood vessel lesion
35221 | C | Repair blood vessel lesion
35241 | C | Repair blood vessel lesion
35246 | C | Repair blood vessel lesion
35251 | C | Repair blood vessel lesion
35271 | C | Repair blood vessel lesion
35276 | C | Repair blood vessel lesion
35281 | C | Repair blood vessel lesion
35301 | C | Rechanneling of artery
35311 | C | Rechanneling of artery
35331 | C | Rechanneling of artery
35341 | C | Rechanneling of artery
35351 | C | Rechanneling of artery
35355 | C | Rechanneling of artery
35361 | C | Rechanneling of artery
35363 | C | Rechanneling of artery
35371 | C | Rechanneling of artery
35372 | C | Rechanneling of artery
35381 | C | Rechanneling of artery
35390 | C | Reoperation, carotid add-on
35400 | C | Angioscopy
35450 | C | Repair arterial blockage
35452 | C | Repair arterial blockage
35454 | C | Repair arterial blockage
35456 | C | Repair arterial blockage
35480 | C | Atherectomy, open
35481 | C | Atherectomy, open
35482 | C | Atherectomy, open
35483 | C | Atherectomy, open
35501 | C | Artery bypass graft
35506 | C | Artery bypass graft
35507 | C | Artery bypass graft
35508 | C | Artery bypass graft
35509 | C | Artery bypass graft
35511 | C | Artery bypass graft
35515 | C | Artery bypass graft
35516 | C | Artery bypass graft
35518 | C | Artery bypass graft
35521 | C | Artery bypass graft
35526 | C | Artery bypass graft
35531 | C | Artery bypass graft
35533 | C | Artery bypass graft
35536 | C | Artery bypass graft
35541 | C | Artery bypass graft
35546 | C | Artery bypass graft
35548 | C | Artery bypass graft
35549 | C | Artery bypass graft
35551 | C | Artery bypass graft
35556 | C | Artery bypass graft
35558 | C | Artery bypass graft
35560 | C | Artery bypass graft
35563 | C | Artery bypass graft
35565 | C | Artery bypass graft
35566 | C | Artery bypass graft
35571 | C | Artery bypass graft
35582 | C | Vein bypass graft
35583 | C | Vein bypass graft
35585 | C | Vein bypass graft
35587 | C | Vein bypass graft
35600 | C | Harvest artery for cabg
35601 | C | Artery bypass graft
35606 | C | Artery bypass graft
35612 | C | Artery bypass graft
35616 | C | Artery bypass graft
35621 | C | Artery bypass graft
35623 | C | Bypass graft, not vein
35626 | C | Artery bypass graft
35631 | C | Artery bypass graft
35636 | C | Artery bypass graft
35641 | C | Artery bypass graft
35642 | C | Artery bypass graft
35645 | C | Artery bypass graft
35646 | C | Artery bypass graft
35647 | C | Artery bypass graft
35650 | C | Artery bypass graft
35651 | C | Artery bypass graft
35654 | C | Artery bypass graft
35656 | C | Artery bypass graft
35661 | C | Artery bypass graft
35663 | C | Artery bypass graft
35665 | C | Artery bypass graft
35666 | C | Artery bypass graft
35671 | C | Artery bypass graft
35681 | C | Composite bypass graft
35682 | C | Composite bypass graft
35683 | C | Composite bypass graft
35691 | C | Arterial transposition
35693 | C | Arterial transposition
35694 | C | Arterial transposition
35695 | C | Arterial transposition
35700 | C | Reoperation, bypass graft
35701 | C | Exploration, carotid artery
35721 | C | Exploration, femoral artery
35741 | C | Exploration popliteal artery
35800 | C | Explore neck vessels
35820 | C | Explore chest vessels
35840 | C | Explore abdominal vessels
35870 | C | Repair vessel graft defect
35901 | C | Excision, graft, neck
35905 | C | Excision, graft, thorax
35907 | C | Excision, graft, abdomen
36510 | C | Insertion of catheter, vein
36660 | C | Insertion catheter, artery
36822 | C | Insertion of cannula(s)
36823 | C | Insertion of cannula(s)
37140 | C | Revision of circulation
37145 | C | Revision of circulation
37160 | C | Revision of circulation
37180 | C | Revision of circulation
37181 | C | Splice spleen/kidney veins
37195 | C | Thrombolytic therapy, stroke
37616 | C | Ligation of chest artery
37617 | C | Ligation of abdomen artery
37618 | C | Ligation of extremity artery
37660 | C | Revision of major vein
37788 | C | Revascularization, penis
38100 | C | Removal of spleen, total
38101 | C | Removal of spleen, partial
38102 | C | Removal of spleen, total
38115 | C | Repair of ruptured spleen
38380 | C | Thoracic duct procedure
38381 | C | Thoracic duct procedure
38382 | C | Thoracic duct procedure
38562 | C | Removal, pelvic lymph nodes
38564 | C | Removal, abdomen lymph nodes
38724 | C | Removal of lymph nodes, neck
38746 | C | Remove thoracic lymph nodes
38747 | C | Remove abdominal lymph nodes
38765 | C | Remove groin lymph nodes
38770 | C | Remove pelvis lymph nodes
38780 | C | Remove abdomen lymph nodes
39000 | C | Exploration of chest
39010 | C | Exploration of chest
39200 | C | Removal chest lesion
39220 | C | Removal chest lesion
39499 | C | Chest procedure
39501 | C | Repair diaphragm laceration
39502 | C | Repair paraesophageal hernia
39503 | C | Repair of diaphragm hernia
39520 | C | Repair of diaphragm hernia
39530 | C | Repair of diaphragm hernia
39531 | C | Repair of diaphragm hernia
39540 | C | Repair of diaphragm hernia
39541 | C | Repair of diaphragm hernia
39545 | C | Revision of diaphragm
39560 | C | Resect diaphragm, simple
39561 | C | Resect diaphragm, complex
39599 | C | Diaphragm surgery procedure
41130 | C | Partial removal of tongue
41135 | C | Tongue and neck surgery
41140 | C | Removal of tongue
41145 | C | Tongue removal, neck surgery
41150 | C | Tongue, mouth, jaw surgery
41153 | C | Tongue, mouth, neck surgery
41155 | C | Tongue, jaw, & neck surgery
42426 | C | Excise parotid gland/lesion
42845 | C | Extensive surgery of throat
42894 | C | Revision of pharyngeal walls
42953 | C | Repair throat, esophagus
42961 | C | Control throat bleeding
42971 | C | Control nose/throat bleeding
43045 | C | Incision of esophagus
43100 | C | Excision of esophagus lesion
43101 | C | Excision of esophagus lesion
43107 | C | Removal of esophagus
43108 | C | Removal of esophagus
43112 | C | Removal of esophagus
43113 | C | Removal of esophagus
43116 | C | Partial removal of esophagus
43117 | C | Partial removal of esophagus
43118 | C | Partial removal of esophagus
43121 | C | Partial removal of esophagus
43122 | C | Parital removal of esophagus
43123 | C | Partial removal of esophagus
43124 | C | Removal of esophagus
43135 | C | Removal of esophagus pouch
43300 | C | Repair of esophagus
43305 | C | Repair esophagus and fistula
43310 | C | Repair of esophagus
43312 | C | Repair esophagus and fistula
43313 | C | Esophagoplasty congential
43314 | C | Tracheo-esophagoplasty cong
43320 | C | Fuse esophagus & stomach
43324 | C | Revise esophagus & stomach
43325 | C | Revise esophagus & stomach
43326 | C | Revise esophagus & stomach
43330 | C | Repair of esophagus
43331 | C | Repair of esophagus
43340 | C | Fuse esophagus & intestine
43341 | C | Fuse esophagus & intestine
43350 | C | Surgical opening, esophagus
43351 | C | Surgical opening, esophagus
43352 | C | Surgical opening, esophagus
43360 | C | Gastrointestinal repair
43361 | C | Gastrointestinal repair
43400 | C | Ligate esophagus veins
43401 | C | Esophagus surgery for veins
43405 | C | Ligate/staple esophagus
43410 | C | Repair esophagus wound
43415 | C | Repair esophagus wound
43420 | C | Repair esophagus opening
43425 | C | Repair esophagus opening
43460 | C | Pressure treatment esophagus
43496 | C | Free jejunum flap, microvasc
43500 | C | Surgical opening of stomach
43501 | C | Surgical repair of stomach
43502 | C | Surgical repair of stomach
43510 | C | Surgical opening of stomach
43520 | C | Incision of pyloric muscle
43605 | C | Biopsy of stomach
43610 | C | Excision of stomach lesion
43611 | C | Excision of stomach lesion
43620 | C | Removal of stomach
43621 | C | Removal of stomach
43622 | C | Removal of stomach
43631 | C | Removal of stomach, partial
43632 | C | Removal of stomach, partial
43633 | C | Removal of stomach, partial
43634 | C | Removal of stomach, partial
43635 | C | Removal of stomach, partial
43638 | C | Removal of stomach, partial
43639 | C | Removal of stomach, partial
43640 | C | Vagotomy & pylorus repair
43641 | C | Vagotomy & pylorus repair
43800 | C | Reconstruction of pylorus
43810 | C | Fusion of stomach and bowel
43820 | C | Fusion of stomach and bowel
43825 | C | Fusion of stomach and bowel
43832 | C | Place gastrostomy tube
43840 | C | Repair of stomach lesion
43842 | C | Gastroplasty for obesity
43843 | C | Gastroplasty for obesity
43846 | C | Gastric bypass for obesity
43847 | C | Gastric bypass for obesity
43848 | C | Revision gastroplasty
43850 | C | Revise stomach-bowel fusion
43855 | C | Revise stomach-bowel fusion
43860 | C | Revise stomach-bowel fusion
43865 | C | Revise stomach-bowel fusion
43880 | C | Repair stomach-bowel fistula
44005 | C | Freeing of bowel adhesion
44010 | C | Incision of small bowel
44015 | C | Insert needle cath bowel
44020 | C | Explore small intestine
44021 | C | Decompress small bowel
44025 | C | Incision of large bowel
44050 | C | Reduce bowel obstruction
44055 | C | Correct malrotation of bowel
44110 | C | Excise intestine lesion(s)
44111 | C | Excision of bowel lesion(s)
44120 | C | Removal of small intestine
44121 | C | Removal of small intestine
44125 | C | Removal of small intestine
44126 | C | Enterectomy w/taper, cong
44127 | C | Enterectomy w/o taper, cong
44128 | C | Enterectomy cong, add-on
44130 | C | Bowel to bowel fusion
44132 | C | Enterectomy, cadaver donor
44133 | C | Enterectomy, live donor
44135 | C | Intestine transplnt, cadaver
44136 | C | Intestine transplant, live
44139 | C | Mobilization of colon
44140 | C | Partial removal of colon
44141 | C | Partial removal of colon
44143 | C | Partial removal of colon
44144 | C | Partial removal of colon
44145 | C | Partial removal of colon
44146 | C | Partial removal of colon
44147 | C | Partial removal of colon
44150 | C | Removal of colon
44151 | C | Removal of colon/ileostomy
44152 | C | Removal of colon/ileostomy
44153 | C | Removal of colon/ileostomy
44155 | C | Removal of colon/ileostomy
44156 | C | Removal of colon/ileostomy
44160 | C | Removal of colon
44202 | C | Lap resect s/intestine singl
44203 | C | Lap resect s/intestine, addl
44204 | C | Laparo partial colectomy
44205 | C | Lap colectomy part w/ileum
44300 | C | Open bowel to skin
44310 | C | Ileostomy/jejunostomy
44314 | C | Revision of ileostomy
44316 | C | Devise bowel pouch
44320 | C | Colostomy
44322 | C | Colostomy with biopsies
44345 | C | Revision of colostomy
44346 | C | Revision of colostomy
44602 | C | Suture, small intestine
44603 | C | Suture, small intestine
44604 | C | Suture, large intestine
44605 | C | Repair of bowel lesion
44615 | C | Intestinal stricturoplasty
44620 | C | Repair bowel opening
44625 | C | Repair bowel opening
44626 | C | Repair bowel opening
44640 | C | Repair bowel-skin fistula
44650 | C | Repair bowel fistula
44660 | C | Repair bowel-bladder fistula
44661 | C | Repair bowel-bladder fistula
44680 | C | Surgical revision, intestine
44700 | C | Suspend bowel w/prosthesis
44800 | C | Excision of bowel pouch
44820 | C | Excision of mesentery lesion
44850 | C | Repair of mesentery
44899 | C | Bowel surgery procedure
44900 | C | Drain app abscess, open
44901 | C | Drain app abscess, percut
44950 | C | Appendectomy
44955 | C | Appendectomy add-on
44960 | C | Appendectomy
45110 | C | Removal of rectum
45111 | C | Partial removal of rectum
45112 | C | Removal of rectum
45113 | C | Partial proctectomy
45114 | C | Partial removal of rectum
45116 | C | Partial removal of rectum
45119 | C | Remove rectum w/reservoir
45120 | C | Removal of rectum
45121 | C | Removal of rectum and colon
45123 | C | Partial proctectomy
45126 | C | Pelvic exenteration
45130 | C | Excision of rectal prolapse
45135 | C | Excision of rectal prolapse
45136 | C | Excise ileoanal reservoir
45540 | C | Correct rectal prolapse
45541 | C | Correct rectal prolapse
45550 | C | Repair rectum/remove sigmoid
45562 | C | Exploration/repair of rectum
45563 | C | Exploration/repair of rectum
45800 | C | Repair rect/bladder fistula
45805 | C | Repair fistula w/colostomy
45820 | C | Repair rectourethral fistula
45825 | C | Repair fistula w/colostomy
46705 | C | Repair of anal stricture
46715 | C | Repair of anovaginal fistula
46716 | C | Repair of anovaginal fistula
46730 | C | Construction of absent anus
46735 | C | Construction of absent anus
46740 | C | Construction of absent anus
46742 | C | Repair of imperforated anus
46744 | C | Repair of cloacal anomaly
46746 | C | Repair of cloacal anomaly
46748 | C | Repair of cloacal anomaly
46751 | C | Repair of anal sphincter
47010 | C | Open drainage, liver lesion
47015 | C | Inject/aspirate liver cyst
47100 | C | Wedge biopsy of liver
47120 | C | Partial removal of liver
47122 | C | Extensive removal of liver
47125 | C | Partial removal of liver
47130 | C | Partial removal of liver
47133 | C | Removal of donor liver
47134 | C | Partial removal, donor liver
47135 | C | Transplantation of liver
47136 | C | Transplantation of liver
47300 | C | Surgery for liver lesion
47350 | C | Repair liver wound
47360 | C | Repair liver wound
47361 | C | Repair liver wound
47362 | C | Repair liver wound
47380 | C | Open ablate liver tumor rf
47381 | C | Open ablate liver tumor cryo
47400 | C | Incision of liver duct
47420 | C | Incision of bile duct
47425 | C | Incision of bile duct
47460 | C | Incise bile duct sphincter
47480 | C | Incision of gallbladder
47550 | C | Bile duct endoscopy add-on
47570 | C | Laparo cholecystoenterostomy
47600 | C | Removal of gallbladder
47605 | C | Removal of gallbladder
47610 | C | Removal of gallbladder
47612 | C | Removal of gallbladder
47620 | C | Removal of gallbladder
47700 | C | Exploration of bile ducts
47701 | C | Bile duct revision
47711 | C | Excision of bile duct tumor
47712 | C | Excision of bile duct tumor
47715 | C | Excision of bile duct cyst
47716 | C | Fusion of bile duct cyst
47720 | C | Fuse gallbladder & bowel
47721 | C | Fuse upper gi structures
47740 | C | Fuse gallbladder & bowel
47741 | C | Fuse gallbladder & bowel
47760 | C | Fuse bile ducts and bowel
47765 | C | Fuse liver ducts & bowel
47780 | C | Fuse bile ducts and bowel
47785 | C | Fuse bile ducts and bowel
47800 | C | Reconstruction of bile ducts
47801 | C | Placement, bile duct support
47802 | C | Fuse liver duct & intestine
47900 | C | Suture bile duct injury
48000 | C | Drainage of abdomen
48001 | C | Placement of drain, pancreas
48005 | C | Resect/debride pancreas
48020 | C | Removal of pancreatic stone
48100 | C | Biopsy of pancreas, open
48120 | C | Removal of pancreas lesion
48140 | C | Partial removal of pancreas
48145 | C | Partial removal of pancreas
48146 | C | Pancreatectomy
48148 | C | Removal of pancreatic duct
48150 | C | Partial removal of pancreas
48152 | C | Pancreatectomy
48153 | C | Pancreatectomy
48154 | C | Pancreatectomy
48155 | C | Removal of pancreas
48180 | C | Fuse pancreas and bowel
48400 | C | Injection, intraop add-on
48500 | C | Surgery of pancreatic cyst
48510 | C | Drain pancreatic pseudocyst
48520 | C | Fuse pancreas cyst and bowel
48540 | C | Fuse pancreas cyst and bowel
48545 | C | Pancreatorrhaphy
48547 | C | Duodenal exclusion
48556 | C | Removal, allograft pancreas
49000 | C | Exploration of abdomen
49002 | C | Reopening of abdomen
49010 | C | Exploration behind abdomen
49020 | C | Drain abdominal abscess
49021 | C | Drain abdominal abscess
49040 | C | Drain, open, abdom abscess
49041 | C | Drain, percut, abdom abscess
49060 | C | Drain, open, retrop abscess
49061 | C | Drain, percut, retroper absc
49062 | C | Drain to peritoneal cavity
49201 | C | Removal of abdominal lesion
49215 | C | Excise sacral spine tumor
49220 | C | Multiple surgery, abdomen
49255 | C | Removal of omentum
49425 | C | Insert abdomen-venous drain
49428 | C | Ligation of shunt
49605 | C | Repair umbilical lesion
49606 | C | Repair umbilical lesion
49610 | C | Repair umbilical lesion
49611 | C | Repair umbilical lesion
49900 | C | Repair of abdominal wall
49905 | C | Omental flap
49906 | C | Free omental flap, microvasc
50010 | C | Exploration of kidney
50020 | C | Renal abscess, open drain
50040 | C | Drainage of kidney
50045 | C | Exploration of kidney
50060 | C | Removal of kidney stone
50065 | C | Incision of kidney
50070 | C | Incision of kidney
50075 | C | Removal of kidney stone
50100 | C | Revise kidney blood vessels
50120 | C | Exploration of kidney
50125 | C | Explore and drain kidney
50130 | C | Removal of kidney stone
50135 | C | Exploration of kidney
50205 | C | Biopsy of kidney
50220 | C | Remove kidney, open
50225 | C | Removal kidney open, complex
50230 | C | Removal kidney open, radical
50234 | C | Removal of kidney & ureter
50236 | C | Removal of kidney & ureter
50240 | C | Partial removal of kidney
50280 | C | Removal of kidney lesion
50290 | C | Removal of kidney lesion
50300 | C | Removal of donor kidney
50320 | C | Removal of donor kidney
50340 | C | Removal of kidney
50360 | C | Transplantation of kidney
50365 | C | Transplantation of kidney
50370 | C | Remove transplanted kidney
50380 | C | Reimplantation of kidney
50400 | C | Revision of kidney/ureter
50405 | C | Revision of kidney/ureter
50500 | C | Repair of kidney wound
50520 | C | Close kidney-skin fistula
50525 | C | Repair renal-abdomen fistula
50526 | C | Repair renal-abdomen fistula
50540 | C | Revision of horseshoe kidney
50545 | C | Laparo radical nephrectomy
50546 | C | Laparoscopic nephrectomy
50547 | C | Laparo removal donor kidney
50548 | C | Laparo remove k/ureter
50570 | C | Kidney endoscopy
50572 | C | Kidney endoscopy
50574 | C | Kidney endoscopy & biopsy
50575 | C | Kidney endoscopy
50576 | C | Kidney endoscopy & treatment
50578 | C | Renal endoscopy/radiotracer
50580 | C | Kidney endoscopy & treatment
50600 | C | Exploration of ureter
50605 | C | Insert ureteral support
50610 | C | Removal of ureter stone
50620 | C | Removal of ureter stone
50630 | C | Removal of ureter stone
50650 | C | Removal of ureter
50660 | C | Removal of ureter
50700 | C | Revision of ureter
50715 | C | Release of ureter
50722 | C | Release of ureter
50725 | C | Release/revise ureter
50727 | C | Revise ureter
50728 | C | Revise ureter
50740 | C | Fusion of ureter & kidney
50750 | C | Fusion of ureter & kidney
50760 | C | Fusion of ureters
50770 | C | Splicing of ureters
50780 | C | Reimplant ureter in bladder
50782 | C | Reimplant ureter in bladder
50783 | C | Reimplant ureter in bladder
50785 | C | Reimplant ureter in bladder
50800 | C | Implant ureter in bowel
50810 | C | Fusion of ureter & bowel
50815 | C | Urine shunt to intestine
50820 | C | Construct bowel bladder
50825 | C | Construct bowel bladder
50830 | C | Revise urine flow
50840 | C | Replace ureter by bowel
50845 | C | Appendico-vesicostomy
50860 | C | Transplant ureter to skin
50900 | C | Repair of ureter
50920 | C | Closure ureter/skin fistula
50930 | C | Closure ureter/bowel fistula
50940 | C | Release of ureter
51060 | C | Removal of ureter stone
51525 | C | Removal of bladder lesion
51530 | C | Removal of bladder lesion
51535 | C | Repair of ureter lesion
51550 | C | Partial removal of bladder
51555 | C | Partial removal of bladder
51565 | C | Revise bladder & ureter(s)
51570 | C | Removal of bladder
51575 | C | Removal of bladder & nodes
51580 | C | Remove bladder/revise tract
51585 | C | Removal of bladder & nodes
51590 | C | Remove bladder/revise tract
51595 | C | Remove bladder/revise tract
51596 | C | Remove bladder/create pouch
51597 | C | Removal of pelvic structures
51800 | C | Revision of bladder/urethra
51820 | C | Revision of urinary tract
51840 | C | Attach bladder/urethra
51841 | C | Attach bladder/urethra
51845 | C | Repair bladder neck
51860 | C | Repair of bladder wound
51865 | C | Repair of bladder wound
51900 | C | Repair bladder/vagina lesion
51920 | C | Close bladder-uterus fistula
51925 | C | Hysterectomy/bladder repair
51940 | C | Correction of bladder defect
51960 | C | Revision of bladder & bowel
51980 | C | Construct bladder opening
53085 | C | Drainage of urinary leakage
53415 | C | Reconstruction of urethra
53448 | C | Remov/replc ur sphinctr comp
54125 | C | Removal of penis
54130 | C | Remove penis & nodes
54135 | C | Remove penis & nodes
54332 | C | Revise penis/urethra
54336 | C | Revise penis/urethra
54390 | C | Repair penis and bladder
54411 | C | Remv/replc penis pros, comp
54417 | C | Remv/replc penis pros, compl
54430 | C | Revision of penis
54535 | C | Extensive testis surgery
54560 | C | Exploration for testis
54650 | C | Orchiopexy (Fowler-Stephens)
55600 | C | Incise sperm duct pouch
55605 | C | Incise sperm duct pouch
55650 | C | Remove sperm duct pouch
55801 | C | Removal of prostate
55810 | C | Extensive prostate surgery
55812 | C | Extensive prostate surgery
55815 | C | Extensive prostate surgery
55821 | C | Removal of prostate
55831 | C | Removal of prostate
55840 | C | Extensive prostate surgery
55842 | C | Extensive prostate surgery
55845 | C | Extensive prostate surgery
55862 | C | Extensive prostate surgery
55865 | C | Extensive prostate surgery
56630 | C | Extensive vulva surgery
56631 | C | Extensive vulva surgery
56632 | C | Extensive vulva surgery
56633 | C | Extensive vulva surgery
56634 | C | Extensive vulva surgery
56637 | C | Extensive vulva surgery
56640 | C | Extensive vulva surgery
57110 | C | Remove vagina wall, complete
57111 | C | Remove vagina tissue, compl
57112 | C | Vaginectomy w/nodes, compl
57270 | C | Repair of bowel pouch
57280 | C | Suspension of vagina
57282 | C | Repair of vaginal prolapse
57292 | C | Construct vagina with graft
57305 | C | Repair rectum-vagina fistula
57307 | C | Fistula repair & colostomy
57308 | C | Fistula repair, transperine
57311 | C | Repair urethrovaginal lesion
57335 | C | Repair vagina
57531 | C | Removal of cervix, radical
57540 | C | Removal of residual cervix
57545 | C | Remove cervix/repair pelvis
58140 | C | Removal of uterus lesion
58150 | C | Total hysterectomy
58152 | C | Total hysterectomy
58180 | C | Partial hysterectomy
58200 | C | Extensive hysterectomy
58210 | C | Extensive hysterectomy
58240 | C | Removal of pelvis contents
58260 | C | Vaginal hysterectomy
58262 | C | Vaginal hysterectomy
58263 | C | Vaginal hysterectomy
58267 | C | Hysterectomy & vagina repair
58270 | C | Hysterectomy & vagina repair
58275 | C | Hysterectomy/revise vagina
58280 | C | Hysterectomy/revise vagina
58285 | C | Extensive hysterectomy
58400 | C | Suspension of uterus
58410 | C | Suspension of uterus
58520 | C | Repair of ruptured uterus
58540 | C | Revision of uterus
58605 | C | Division of fallopian tube
58611 | C | Ligate oviduct(s) add-on
58700 | C | Removal of fallopian tube
58720 | C | Removal of ovary/tube(s)
58740 | C | Revise fallopian tube(s)
58750 | C | Repair oviduct
58752 | C | Revise ovarian tube(s)
58760 | C | Remove tubal obstruction
58770 | C | Create new tubal opening
58805 | C | Drainage of ovarian cyst(s)
58822 | C | Drain ovary abscess, percut
58825 | C | Transposition, ovary(s)
58940 | C | Removal of ovary(s)
58943 | C | Removal of ovary(s)
58950 | C | Resect ovarian malignancy
58951 | C | Resect ovarian malignancy
58952 | C | Resect ovarian malignancy
58953 | C | Tah, rad dissect for debulk
58954 | C | Tah rad debulk/lymph remove
58960 | C | Exploration of abdomen
59100 | C | Remove uterus lesion
59120 | C | Treat ectopic pregnancy
59121 | C | Treat ectopic pregnancy
59130 | C | Treat ectopic pregnancy
59135 | C | Treat ectopic pregnancy
59136 | C | Treat ectopic pregnancy
59140 | C | Treat ectopic pregnancy
59325 | C | Revision of cervix
59350 | C | Repair of uterus
59514 | C | Cesarean delivery only
59525 | C | Remove uterus after cesarean
59620 | C | Attempted vbac delivery only
59830 | C | Treat uterus infection
59850 | C | Abortion
59851 | C | Abortion
59852 | C | Abortion
59855 | C | Abortion
59856 | C | Abortion
59857 | C | Abortion
60254 | C | Extensive thyroid surgery
60270 | C | Removal of thyroid
60271 | C | Removal of thyroid
60502 | C | Re-explore parathyroids
60505 | C | Explore parathyroid glands
60520 | C | Removal of thymus gland
60521 | C | Removal of thymus gland
60522 | C | Removal of thymus gland
60540 | C | Explore adrenal gland
60545 | C | Explore adrenal gland
60600 | C | Remove carotid body lesion
60605 | C | Remove carotid body lesion
60650 | C | Laparoscopy adrenalectomy
61105 | C | Twist drill hole
61107 | C | Drill skull for implantation
61108 | C | Drill skull for drainage
61120 | C | Burr hole for puncture
61140 | C | Pierce skull for biopsy
61150 | C | Pierce skull for drainage
61151 | C | Pierce skull for drainage
61154 | C | Pierce skull & remove clot
61156 | C | Pierce skull for drainage
61210 | C | Pierce skull, implant device
61250 | C | Pierce skull & explore
61253 | C | Pierce skull & explore
61304 | C | Open skull for exploration
61305 | C | Open skull for exploration
61312 | C | Open skull for drainage
61313 | C | Open skull for drainage
61314 | C | Open skull for drainage
61315 | C | Open skull for drainage
61320 | C | Open skull for drainage
61321 | C | Open skull for drainage
61332 | C | Explore/biopsy eye socket
61333 | C | Explore orbit/remove lesion
61334 | C | Explore orbit/remove object
61340 | C | Relieve cranial pressure
61343 | C | Incise skull (press relief)
61345 | C | Relieve cranial pressure
61440 | C | Incise skull for surgery
61450 | C | Incise skull for surgery
61458 | C | Incise skull for brain wound
61460 | C | Incise skull for surgery
61470 | C | Incise skull for surgery
61480 | C | Incise skull for surgery
61490 | C | Incise skull for surgery
61500 | C | Removal of skull lesion
61501 | C | Remove infected skull bone
61510 | C | Removal of brain lesion
61512 | C | Remove brain lining lesion
61514 | C | Removal of brain abscess
61516 | C | Removal of brain lesion
61518 | C | Removal of brain lesion
61519 | C | Remove brain lining lesion
61520 | C | Removal of brain lesion
61521 | C | Removal of brain lesion
61522 | C | Removal of brain abscess
61524 | C | Removal of brain lesion
61526 | C | Removal of brain lesion
61530 | C | Removal of brain lesion
61531 | C | Implant brain electrodes
61533 | C | Implant brain electrodes
61534 | C | Removal of brain lesion
61535 | C | Remove brain electrodes
61536 | C | Removal of brain lesion
61538 | C | Removal of brain tissue
61539 | C | Removal of brain tissue
61541 | C | Incision of brain tissue
61542 | C | Removal of brain tissue
61543 | C | Removal of brain tissue
61544 | C | Remove & treat brain lesion
61545 | C | Excision of brain tumor
61546 | C | Removal of pituitary gland
61548 | C | Removal of pituitary gland
61550 | C | Release of skull seams
61552 | C | Release of skull seams
61556 | C | Incise skull/sutures
61557 | C | Incise skull/sutures
61558 | C | Excision of skull/sutures
61559 | C | Excision of skull/sutures
61563 | C | Excision of skull tumor
61564 | C | Excision of skull tumor
61570 | C | Remove foreign body, brain
61571 | C | Incise skull for brain wound
61575 | C | Skull base/brainstem surgery
61576 | C | Skull base/brainstem surgery
61580 | C | Craniofacial approach, skull
61581 | C | Craniofacial approach, skull
61582 | C | Craniofacial approach, skull
61583 | C | Craniofacial approach, skull
61584 | C | Orbitocranial approach/skull
61585 | C | Orbitocranial approach/skull
61586 | C | Resect nasopharynx, skull
61590 | C | Infratemporal approach/skull
61591 | C | Infratemporal approach/skull
61592 | C | Orbitocranial approach/skull
61595 | C | Transtemporal approach/skull
61596 | C | Transcochlear approach/skull
61597 | C | Transcondylar approach/skull
61598 | C | Transpetrosal approach/skull
61600 | C | Resect/excise cranial lesion
61601 | C | Resect/excise cranial lesion
61605 | C | Resect/excise cranial lesion
61606 | C | Resect/excise cranial lesion
61607 | C | Resect/excise cranial lesion
61608 | C | Resect/excise cranial lesion
61609 | C | Transect artery, sinus
61610 | C | Transect artery, sinus
61611 | C | Transect artery, sinus
61612 | C | Transect artery, sinus
61613 | C | Remove aneurysm, sinus
61615 | C | Resect/excise lesion, skull
61616 | C | Resect/excise lesion, skull
61618 | C | Repair dura
61619 | C | Repair dura
61624 | C | Occlusion/embolization cath
61680 | C | Intracranial vessel surgery
61682 | C | Intracranial vessel surgery
61684 | C | Intracranial vessel surgery
61686 | C | Intracranial vessel surgery
61690 | C | Intracranial vessel surgery
61692 | C | Intracranial vessel surgery
61697 | C | Brain aneurysm repr, complx
61698 | C | Brain aneurysm repr, complx
61700 | C | Brain aneurysm repr , simple
61702 | C | Inner skull vessel surgery
61703 | C | Clamp neck artery
61705 | C | Revise circulation to head
61708 | C | Revise circulation to head
61710 | C | Revise circulation to head
61711 | C | Fusion of skull arteries
61720 | C | Incise skull/brain surgery
61735 | C | Incise skull/brain surgery
61750 | C | Incise skull/brain biopsy
61751 | C | Brain biopsy w/ ct/mr guide
61760 | C | Implant brain electrodes
61770 | C | Incise skull for treatment
61850 | C | Implant neuroelectrodes
61860 | C | Implant neuroelectrodes
61862 | C | Implant neurostimul, subcort
61870 | C | Implant neuroelectrodes
61875 | C | Implant neuroelectrodes
62000 | C | Treat skull fracture
62005 | C | Treat skull fracture
62010 | C | Treatment of head injury
62100 | C | Repair brain fluid leakage
62115 | C | Reduction of skull defect
62116 | C | Reduction of skull defect
62117 | C | Reduction of skull defect
62120 | C | Repair skull cavity lesion
62121 | C | Incise skull repair
62140 | C | Repair of skull defect
62141 | C | Repair of skull defect
62142 | C | Remove skull plate/flap
62143 | C | Replace skull plate/flap
62145 | C | Repair of skull & brain
62146 | C | Repair of skull with graft
62147 | C | Repair of skull with graft
62180 | C | Establish brain cavity shunt
62190 | C | Establish brain cavity shunt
62192 | C | Establish brain cavity shunt
62200 | C | Establish brain cavity shunt
62201 | C | Establish brain cavity shunt
62220 | C | Establish brain cavity shunt
62223 | C | Establish brain cavity shunt
62256 | C | Remove brain cavity shunt
62258 | C | Replace brain cavity shunt
63043 | C | Laminotomy, addl cervical
63044 | C | Laminotomy, addl lumbar
63075 | C | Neck spine disk surgery
63076 | C | Neck spine disk surgery
63077 | C | Spine disk surgery, thorax
63078 | C | Spine disk surgery, thorax
63081 | C | Removal of vertebral body
63082 | C | Remove vertebral body add-on
63085 | C | Removal of vertebral body
63086 | C | Remove vertebral body add-on
63087 | C | Removal of vertebral body
63088 | C | Remove vertebral body add-on
63090 | C | Removal of vertebral body
63091 | C | Remove vertebral body add-on
63170 | C | Incise spinal cord tract(s)
63172 | C | Drainage of spinal cyst
63173 | C | Drainage of spinal cyst
63180 | C | Revise spinal cord ligaments
63182 | C | Revise spinal cord ligaments
63185 | C | Incise spinal column/nerves
63190 | C | Incise spinal column/nerves
63191 | C | Incise spinal column/nerves
63194 | C | Incise spinal column & cord
63195 | C | Incise spinal column & cord
63196 | C | Incise spinal column & cord
63197 | C | Incise spinal column & cord
63198 | C | Incise spinal column & cord
63199 | C | Incise spinal column & cord
63200 | C | Release of spinal cord
63250 | C | Revise spinal cord vessels
63251 | C | Revise spinal cord vessels
63252 | C | Revise spinal cord vessels
63265 | C | Excise intraspinal lesion
63266 | C | Excise intraspinal lesion
63267 | C | Excise intraspinal lesion
63268 | C | Excise intraspinal lesion
63270 | C | Excise intraspinal lesion
63271 | C | Excise intraspinal lesion
63272 | C | Excise intraspinal lesion
63273 | C | Excise intraspinal lesion
63275 | C | Biopsy/excise spinal tumor
63276 | C | Biopsy/excise spinal tumor
63277 | C | Biopsy/excise spinal tumor
63278 | C | Biopsy/excise spinal tumor
63280 | C | Biopsy/excise spinal tumor
63281 | C | Biopsy/excise spinal tumor
63282 | C | Biopsy/excise spinal tumor
63283 | C | Biopsy/excise spinal tumor
63285 | C | Biopsy/excise spinal tumor
63286 | C | Biopsy/excise spinal tumor
63287 | C | Biopsy/excise spinal tumor
63290 | C | Biopsy/excise spinal tumor
63300 | C | Removal of vertebral body
63301 | C | Removal of vertebral body
63302 | C | Removal of vertebral body
63303 | C | Removal of vertebral body
63304 | C | Removal of vertebral body
63305 | C | Removal of vertebral body
63306 | C | Removal of vertebral body
63307 | C | Removal of vertebral body
63308 | C | Remove vertebral body add-on
63700 | C | Repair of spinal herniation
63702 | C | Repair of spinal herniation
63704 | C | Repair of spinal herniation
63706 | C | Repair of spinal herniation
63707 | C | Repair spinal fluid leakage
63709 | C | Repair spinal fluid leakage
63710 | C | Graft repair of spine defect
63740 | C | Install spinal shunt
64752 | C | Incision of vagus nerve
64755 | C | Incision of stomach nerves
64760 | C | Incision of vagus nerve
64763 | C | Incise hip/thigh nerve
64766 | C | Incise hip/thigh nerve
64804 | C | Remove sympathetic nerves
64809 | C | Remove sympathetic nerves
64818 | C | Remove sympathetic nerves
64866 | C | Fusion of facial/other nerve
64868 | C | Fusion of facial/other nerve
65273 | C | Repair of eye wound
69155 | C | Extensive ear/neck surgery
69535 | C | Remove part of temporal bone
69554 | C | Remove ear lesion
69950 | C | Incise inner ear nerve
69970 | C | Remove inner ear lesion
75900 | C | Arterial catheter exchange
75952 | C | Endovasc repair abdom aorta
75953 | C | Abdom aneurysm endovas rpr
92970 | C | Cardioassist, internal
92971 | C | Cardioassist, external
92975 | C | Dissolve clot, heart vessel
92992 | C | Revision of heart chamber
92993 | C | Revision of heart chamber
94652 | C | Pressure breathing (IPPB)
99190 | C | Special pump services
99191 | C | Special pump services
99192 | C | Special pump services
99251 | C | Initial inpatient consult
99252 | C | Initial inpatient consult
99253 | C | Initial inpatient consult
99254 | C | Initial inpatient consult
99255 | C | Initial inpatient consult
99261 | C | Follow-up inpatient consult
99262 | C | Follow-up inpatient consult
99263 | C | Follow-up inpatient consult
99295 | C | Neonatal critical care
99296 | C | Neonatal critical care
99297 | C | Neonatal critical care
99298 | C | Neonatal critical care
99356 | C | Prolonged service, inpatient
99357 | C | Prolonged service, inpatient
99433 | C | Normal newborn care/hospital
CPT codes and descriptions only are copyright American Medical Association. All Rights Reserved. Applicable FARS/DFARS Apply.
Copyright American Dental Association. All rights reserved.

Addendum H.—Wage Index for Urban Areas
Urban area (constituent counties) | Wage index
0040 Abilene, TX | 0.9268
Taylor, TX
0060 Aguadilla, PR | 0.4634
Aguada, PR
Aguadilla, PR
Moca, PR
0080 Akron, OH | 0.9685
Portage, OH
Summit, OH
0120 Albany, GA | 1.0835
Dougherty, GA
Lee, GA
0160 ² Albany-Schenectady-Troy, NY | 0.8633
Albany, NY
Montgomery, NY
Rensselaer, NY
Saratoga, NY
Schenectady, NY
Schoharie, NY
0200 Albuquerque, NM | 0.9372
Bernalillo, NM
Sandoval, NM
Valencia, NM
0220 Alexandria, LA | 0.7929
Rapides, LA
0240 Allentown-Bethlehem-Easton, PA | 0.9833
Carbon, PA
Lehigh, PA
Northampton, PA
0280 Altoona, PA | 0.9300
Blair, PA
0320 Amarillo, TX Potter, TX | 0.9051
Randall, TX
0380 Anchorage, AK | 1.2610
Anchorage, AK
0440 Ann Arbor, MI | 1.1217
Lenawee, MI
Livingston, MI
Washtenaw, MI
0450 Anniston, AL | 0.8126
Calhoun, AL
0460 ² Appleton-Oshkosh-Neenah, WI | 0.9229
Calumet, WI
Outagamie, WI
Winnebago, WI
0470 ² Arecibo, PR | 0.4400
Arecibo, PR
Camuy, PR
Hatillo, PR
0480 Asheville, NC | 0.9682
Buncombe, NC
Madison, NC
0500 Athens, GA | 1.0308
Clarke, GA
Madison, GA
Oconee, GA
0520 ¹ Atlanta, GA | 1.0091
Barrow, GA
Bartow, GA
Carroll, GA
Cherokee, GA
Clayton, GA
Cobb, GA
Coweta, GA
DeKalb, GA
Douglas, GA
Fayette, GA
Forsyth, GA
Fulton, GA
Gwinnett, GA
Henry, GA
Newton, GA
Paulding, GA
Pickens, GA
Rockdale, GA
Spalding, GA
Walton, GA
0560 Atlantic-Cape May, NJ | 1.1058
Atlantic, NJ
Cape May, NJ
0580 Auburn-Opelika, AL | 0.8306
Lee, AL
0600 Augusta-Aiken, GA-SC | 1.0364
Columbia, GA
McDuffie, GA
Richmond, GA
Aiken, SC
Edgefield, SC
0640 ¹ Austin-San Marcos, TX | 0.9529
Bastrop, TX
Caldwell, TX
Hays, TX
Travis, TX
Williamson, TX
0680 Bakersfield, CA | 1.0186
Kern, CA
0720 ¹ Baltimore, MD | 0.9757
Anne Arundel, MD
Baltimore, MD
Baltimore City, MD
Carroll, MD
Harford, MD
Howard, MD
Queen Anne's, MD
0733 Bangor, ME | 0.9791
Penobscot, ME
0743 Barnstable-Yarmouth, MA | 1.3127
Barnstable, MA
0760 Baton Rouge, LA | 0.8388
Ascension, LA
East Baton Rouge, LA
Livingston, LA
West Baton Rouge, LA
0840 Beaumont-Port Arthur, TX | 0.8389
Hardin, TX
Jefferson, TX
Orange, TX
0860 Bellingham, WA | 1.2407
Whatcom, WA
0870 Benton Harbor, MI | 0.9072
Berrien, MI
0875 ¹ Bergen-Passaic, NJ | 1.2100
Bergen, NJ
Passaic, NJ
0880 Billings, MT | 0.9114
Yellowstone, MT
0920 Biloxi-Gulfport-Pascagoula, MS | 0.8830
Hancock, MS
Harrison, MS
Jackson, MS
0960 ² Binghamton, NY | 0.8633
Broome, NY
Tioga, NY
1000 Birmingham, AL | 0.9301
Blount, AL
Jefferson, AL
St. Clair, AL
Shelby, AL
1010 Bismarck, ND | 0.7881
Burleigh, ND
Morton, ND
1020 Bloomington, IN | 0.8997
Monroe, IN
1040 Bloomington-Normal, IL | 0.9202
McLean, IL
1080 Boise City, ID | 0.9403
Ada, ID
Canyon, ID
1123 ¹ Boston-Worcester-Lawrence-Lowell-Brockton, MA-NH | 1.1304
Bristol, MA
Essex, MA
Middlesex, MA
Norfolk, MA
Plymouth, MA
Suffolk, MA
Worcester, MA
Hillsborough, NH
Merrimack, NH
Rockingham, NH
Strafford, NH
1125 Boulder-Longmont, CO | 0.9688
Boulder, CO
1145 Brazoria, TX | 0.8617
Brazoria, TX
1150 Bremerton, WA | 1.1056
Kitsap, WA
1240 Brownsville-Harlingen-San Benito, TX | 0.8992
Cameron, TX
1260 Bryan-College Station, TX | 0.8410
Brazos, TX
1280 ¹ Buffalo-Niagara Falls, NY | 0.9464
Erie, NY
Niagara, NY
1303 Burlington, VT | 1.0176
Chittenden, VT
Franklin, VT
Grand Isle, VT
1310 Caguas, PR | 0.4453
Caguas, PR
Cayey, PR
Cidra, PR
Gurabo, PR
San Lorenzo, PR
1320 Canton-Massillon, OH | 0.9026
Carroll, OH
Stark, OH
1350 Casper, WY | 0.9788
Natrona, WY
1360 Cedar Rapids, IA | 0.9149
Linn, IA
1400 Champaign-Urbana, IL | 0.9983
Champaign, IL
1440 ² Charleston-North Charleston, SC | 0.8607
Berkeley, SC
Charleston, SC
Dorchester, SC
1480 Charleston, WV | 0.8765
Kanawha, WV
Putnam, WV
1520 ¹ Charlotte-Gastonia-Rock Hill, NC-SC | 0.9839
Cabarrus, NC
Gaston, NC
Lincoln, NC
Mecklenburg, NC
Rowan, NC
Stanly, NC
Union, NC
York, SC
1540 Charlottesville, VA | 1.0583
Albemarle, VA
Charlottesville City, VA
Fluvanna, VA
Greene, VA
1560 Chattanooga, TN-GA | 0.9069
Catoosa, GA
Dade, GA
Walker, GA
Hamilton, TN
Marion, TN
1580 ² Cheyenne, WY | 0.8890
Laramie, WY
1600 ¹ Chicago, IL | 1.1088
Cook, IL
DeKalb, IL
DuPage, IL
Grundy, IL
Kane, IL
Kendall, IL
Lake, IL
McHenry, IL
Will, IL
1620 ² Chico-Paradise, CA | 0.9934
Butte, CA
1640 ¹ Cincinnati, OH-KY-IN | 0.9354
Dearborn, IN
Ohio, IN
Boone, KY
Campbell, KY
Gallatin, KY
Grant, KY
Kenton, KY
Pendleton, KY
Brown, OH
Clermont, OH
Hamilton, OH
Warren, OH
1660 Clarksville-Hopkinsville, TN-KY | 0.8386
Christian, KY
Montgomery, TN
1680 ¹ Cleveland-Lorain-Elyria, OH | 0.9295
Ashtabula, OH
Cuyahoga, OH
Geauga, OH
Lake, OH
Lorain, OH
Medina, OH
1720 Colorado Springs, CO | 0.9968
El Paso, CO
1740 Columbia, MO | 0.8737
Boone, MO
1760 Columbia, SC | 0.8990
Lexington, SC
Richland, SC
1800 Columbus, GA-ALRussell, AL | 0.8450
Chattahoochee, GA
Harris, GA
Muscogee, GA
1840 ¹ Columbus, OH | 0.9705
Delaware, OH
Fairfield, OH
Franklin, OH
Licking, OH
Madison, OH
Pickaway, OH
1880 Corpus Christi, TX | 0.8154
Nueces, TX
San Patricio, TX
1890 Corvallis, OR | 1.1569
Benton, OR
1900 ² Cumberland, MD-WV (MD Hospitals) | 0.8855
Allegany, MD
Mineral, WV
1900 ² Cumberland, MD-WV (WV Hospitals) | 0.8053
Allegany, MD
Mineral, WV
1920 ¹ Dallas, TX | 0.9831
Collin, TX
Dallas, TX
Denton, TX
Ellis, TX
Henderson, TX
Hunt, TX
Kaufman, TX
Rockwall, TX
1950 Danville, VA | 0.8785
Danville City, VA
Pittsylvania, VA
1960 Davenport-Moline-Rock Island, IA-IL | 0.8872
Scott, IA
Henry, IL
Rock Island, IL
2000 Dayton-Springfield, OH | 0.9378
Clark, OH
Greene, OH
Miami, OH
Montgomery, OH
2020 Daytona Beach, FL | 0.9133
Flagler, FL
Volusia, FL
2030 Decatur, AL | 0.9066
Lawrence, AL
Morgan, AL
2040 ² Decatur, IL | 0.8301
Macon, IL
2080 ¹ Denver, CO | 1.0401
Adams, CO
Arapahoe, CO
Denver, CO
Douglas, CO
Jefferson, CO
2120 Des Moines, IA | 0.8908
Dallas, IA
Polk, IA
Warren, IA
2160 ¹ Detroit, MI | 1.0506
Lapeer, MI
Macomb, MI
Monroe, MI
Oakland, MI
St. Clair, MI
Wayne, MI
2180 Dothan, AL | 0.8028
Dale, AL
Houston, AL
2190 Dover, DE | 0.9452
Kent, DE
2200 Dubuque, IA | 0.8801
Dubuque, IA
2240 Duluth-Superior, MN-WI | 1.0462
St. Louis, MN
Douglas, WI
2281 Dutchess County, NY | 1.0793
Dutchess, NY
2290 ² Eau Claire, WI | 0.9229
Chippewa, WI
Eau Claire, WI
2320 El Paso, TX | 0.9137
El Paso, TX
2330 Elkhart-Goshen, IN | 0.9851
Elkhart, IN
2335 ² Elmira, NY | 0.8633
Chemung, NY
2340 Enid, OK | 0.8387
Garfield, OK
2360 Erie, PA | 0.9016
Erie, PA
2400 Eugene-Springfield, OR | 1.1077
Lane, OR
2440 ² Evansville-Henderson, IN-KY (IN Hospitals) | 0.8796
Posey, IN
Vanderburgh, IN
Warrick, IN
Henderson, KY
2440 Evansville-Henderson, IN-KY (KY Hospitals) | 0.8254
Posey, IN
Vanderburgh, IN
Warrick, IN
Henderson, KY
2520 Fargo-Moorhead, ND-MN | 0.9783
Clay, MN
Cass, ND
2560 Fayetteville, NC | 0.9055
Cumberland, NC
2580 Fayetteville-Springdale-Rogers, AR | 0.8182
Benton, AR
Washington, AR
2620 Flagstaff, AZ-UT | 1.0791
Coconino, AZ
Kane, UT
2640 Flint, MI | 1.1233
Genesee, MI
2650 Florence, AL | 0.7960
Colbert, AL
Lauderdale, AL
2655 Florence, SC | 0.8869
Florence, SC
2670 Fort Collins-Loveland, CO | 0.9923
Larimer, CO
2680 ¹ Ft. Lauderdale, FL | 1.0792
Broward, FL
2700 Fort Myers-Cape Coral, FL | 0.9456
Lee, FL
2710 Fort Pierce-Port St. Lucie, FL | 0.9959
Martin, FL
St. Lucie, FL
2720 Fort Smith, AR-OK | 0.7811
Crawford, AR
Sebastian, AR
Sequoyah, OK
2750 Fort Walton Beach, FL | 0.9651
Okaloosa, FL
2760 Fort Wayne, IN | 0.9499
Adams, IN
Allen, IN
De Kalb, IN
Huntington, IN
Wells, IN
Whitley, IN
2800 ¹ Forth Worth-Arlington, TX | 0.9620
Hood, TX
Johnson, TX
Parker, TX
Tarrant, TX
2840 Fresno, CA | 1.0340
Fresno, CA
Madera, CA
2880 Gadsden, AL | 0.8684
Etowah, AL
2900 Gainesville, FL | 0.9730
Alachua, FL
2920 Galveston-Texas City, TX | 0.9603
Galveston, TX
2960 Gary, IN | 0.9676
Lake, IN
Porter, IN
2975 ² Glens Falls, NY | 0.8633
Warren, NY
Washington, NY
2980 Goldsboro, NC | 0.8982
Wayne, NC
2985 Grand Forks, ND-MN | 0.9338
Polk, MN
Grand Forks, ND
2995 Grand Junction, CO | 0.9824
Mesa, CO
3000 ¹ Grand Rapids-Muskegon-Holland, MI | 0.9664
Allegan, MI
Kent, MI
Muskegon, MI
Ottawa, MI
3040 Great Falls, MT | 0.9057
Cascade, MT
3060 Greeley, CO | 0.9219
Weld, CO
3080 Green Bay, WI | 0.9599
Brown, WI
3120 ¹ Greensboro-Winston-Salem-High Point, NC | 0.9270
Alamance, NC
Davidson, NC
Davie, NC
Forsyth, NCGuilford, NC
Randolph, NC
Stokes, NC
Yadkin, NC
3150 Greenville, NC | 0.9257
Pitt, NC
3160 Greenville-Spartanburg-Anderson, SC | 0.9177
Anderson, SC
Cherokee, SC
Greenville, SC
Pickens, SC
Spartanburg, SC
3180 Hagerstown, MD | 0.9362
Washington, MD
3200 Hamilton-Middletown, OH | 0.9484
Butler, OH
3240 Harrisburg-Lebanon-Carlisle, PA | 0.9315
Cumberland, PA
Dauphin, PA
Lebanon, PA
Perry, PA
3283 \1, 2\ Hartford, CT | 1.2520
Hartford, CT
Litchfield, CT
Middlesex, CT
Tolland, CT
3285 ² Hattiesburg, MS | 0.7759
Forrest, MS
Lamar, MS
3290 Hickory-Morganton-Lenoir, NC | 0.8958
Alexander, NC
Burke, NC
Caldwell, NC
Catawba, NC
3320 Honolulu, HI | 1.1121
Honolulu, HI
3350 Houma, LA | 0.8470
Lafourche, LA
Terrebonne, LA
3360 ¹ Houston, TX | 0.9746
Chambers, TX
Fort Bend, TX
Harris, TX
Liberty, TX
Montgomery, TX
Waller, TX
3400 Huntington-Ashland, WV-KY-OH | 0.9744
Boyd, KY
Carter, KY
Greenup, KY
Lawrence, OH
Cabell, WV
Wayne, WV
3440 Huntsville, AL | 0.8901
Limestone, AL
Madison, AL
3480 ¹ Indianapolis, IN | 0.9828
Boone, IN
Hamilton, IN
Hancock, IN
Hendricks, IN
Johnson, IN
Madison, IN
Marion, IN
Morgan, IN
Shelby, IN
3500 Iowa City, IA | 1.0025
Johnson, IA
3520 Jackson, MI | 0.9591
Jackson, MI
3560 Jackson, MS | 0.8713
Hinds, MS
Madison, MS
Rankin, MS
3580 Jackson, TN | 0.9370
Madison, TN
Chester, TN
3600 ¹ Jacksonville, FL | 0.9341
Clay, FL
Duval, FL
Nassau, FL
St. Johns, FL
3605 ² Jacksonville, NC | 0.8714
Onslow, NC
3610 ² Jamestown, NY | 0.8633
Chautauqua, NY
3620 Janesville-Beloit, WI | 0.9696
Rock, WI
3640 Jersey City, NJ | 1.1200
Hudson, NJ
3660 Johnson City-Kingsport-Bristol, TN-VA (TN Hospitals) | 0.8384
Carter, TN
Hawkins, TN
Sullivan, TN
Unicoi, TN
Washington, TN
Bristol City, VA
Scott, VA
Washington, VA
3660 ² Johnson City-Kingsport-Bristol, TN-VA (VA Hospitals) | 0.8494
Carter, TN
Hawkins, TN
Sullivan, TN
Unicoi, TN
Washington, TN
Bristol City, VA
Scott, VA
Washington, VA
3680 ² Johnstown, PA | 0.8525
Cambria, PA
Somerset, PA
3700 Jonesboro, AR | 0.7906
Craighead, AR
3710 Joplin, MO | 0.8700
Jasper, MO
Newton, MO
3720 Kalamazoo-Battlecreek, MI | 1.0689
Calhoun, MI
Kalamazoo, MI
Van Buren, MI
3740 Kankakee, IL | 0.9591
Kankakee, IL
3760 ¹ Kansas City, KS-MO | 0.9809
Johnson, KS
Leavenworth, KS
Miami, KS
Wyandotte, KS
Cass, MO
Clay, MO
Clinton, MO
Jackson, MO
Lafayette, MO
Platte, MO
Ray, MO
3800 Kenosha, WI | 0.9741
Kenosha, WI
3810 Killeen-Temple, TX | 0.8447
Bell, TX
Coryell, TX
3840 Knoxville, TN | 0.9090
Anderson, TN
Blount, TN
Knox, TN
Loudon, TN
Sevier, TN
Union, TN
3850 Kokomo, IN | 0.9031
Howard, IN
Tipton, IN
3870 ² La Crosse, WI-MN (WI Hospitals) | 0.9229
Houston, MN
La Crosse, WI
3870 ² La Crosse, WI-MN (MN Hospitals) | 0.9249
Houston, MN
La Crosse, WI
3880 Lafayette, LA | 0.8550
Acadia, LA
Lafayette, LA
St. Landry, LA
St. Martin, LA
3920 Lafayette, IN | 0.9515
Clinton, IN
Tippecanoe, IN
3960 Lake Charles, LA | 0.8030
Calcasieu, LA
3980 Lakeland-Winter Haven, FL | 0.9170
Polk, FL
4000 Lancaster, PA | 0.9171
Lancaster, PA
4040 Lansing-East Lansing, MI | 0.9827
Clinton, MI
Eaton, MI
Ingham, MI
4080 Laredo, TX | 0.8504
Webb, TX
4100 Las Cruces, NM | 0.8888
Dona Ana, NM
4120 ¹ Las Vegas, NV-AZ | 1.1018
Mohave, AZ
Clark, NV
Nye, NV
4150 Lawrence, KS | 0.7964
Douglas, KS
4200 Lawton, OK | 0.8251
Comanche, OK
4243 Lewiston-Auburn, ME | 0.9249
Androscoggin, ME
4280 Lexington, KY | 0.8629
Bourbon, KY
Clark, KY
Fayette, KY
Jessamine, KY
Madison, KY
Scott, KY
Woodford, KY
4320 Lima, OH | 0.9515
Allen, OH
Auglaize, OH
4360 Lincoln, NE | 0.9133
Lancaster, NE
4400 Little Rock-North Little Rock, AR | 0.9045
Faulkner, AR
Lonoke, AR
Pulaski, AR
Saline, AR
4420 Longview-Marshall, TX | 0.8588
Gregg, TX
Harrison, TX
Upshur, TX
4480 ¹ Los Angeles-Long Beach, CA | 1.2044
Los Angeles, CA
4520 ¹ Louisville, KY-IN | 0.9517
Clark, IN
Floyd, IN
Harrison, IN
Scott, IN
Bullitt, KY
Jefferson, KY
Oldham, KY
4600 Lubbock, TX | 0.7809
Lubbock, TX
4640 Lynchburg, VA | 0.9311
Amherst, VA
Bedford, VA
Bedford City, VA
Campbell, VA
Lynchburg City, VA
4680 Macon, GA | 0.9296
Bibb, GA
Houston, GA
Jones, GA
Peach, GA
Twiggs, GA
4720 Madison, WI | 1.0188
Dane, WI
4800 Mansfield, OH | 0.8989
Crawford, OH
Richland, OH
4840 Mayaguez, PR | 0.4921
Anasco, PR
Cabo Rojo, PR
Hormigueros, PR
Mayaguez, PR
Sabana Grande, PR
San German, PR
4880 McAllen-Edinburg-Mission, TX | 0.8419
Hidalgo, TX
4890 Medford-Ashland, OR | 1.0605
Jackson, OR
4900 Melbourne-Titusville-Palm Bay, FL | 1.0782
Brevard, Fl
4920 ¹ Memphis, TN-AR-MS | 0.8839
Crittenden, AR
DeSoto, MS
Fayette, TN
Shelby, TN
Tipton, TN
4940 Merced, CA | 0.9937
Merced, CA
5000 ¹ Miami, FL | 0.9878
Dade, FL
5015 ¹ Middlesex-Somerset-Hunterdon, NJ | 1.1454
Hunterdon, NJ
Middlesex, NJ
Somerset, NJ
5080 ¹ Milwaukee-Waukesha, WI | 0.9901
Milwaukee, WI
Ozaukee, WI
Washington, WI
Waukesha, WI
5120 ¹ Minneapolis-St. Paul, MN-WI | 1.0969
Anoka, MN
Carver, MN
Chisago, MN
Dakota, MN
Hennepin, MN
Isanti, MN
Ramsey, MN
Scott, MN
Sherburne, MN
Washington, MN
Wright, MN
Pierce, WI
St. Croix, WI
5140 Missoula, MT | 0.9250
Missoula, MT
5160 Mobile, AL | 0.8181
Baldwin, AL
Mobile, AL
5170 Modesto, CA | 1.0606
Stanislaus, CA
5190 ¹ Monmouth-Ocean, NJ | 1.1290
Monmouth, NJ
Ocean, NJ
5200 Monroe, LA | 0.8191
Ouachita, LA
5240 ² Montgomery, AL | 0.7853
Autauga, AL
Elmore, AL
Montgomery, AL
5280 Muncie, IN | 0.9150
Delaware, IN
5330 Myrtle Beach, SC | 0.9141
Horry, SC
5345 Naples, FL | 0.9803
Collier, FL
5360 ¹ Nashville, TN | 0.9456
Cheatham, TN
Davidson, TN
Dickson, TN
Robertson, TN
Rutherford TN
Sumner, TN
Williamson, TN
Wilson, TN
5380 ¹ Nassau-Suffolk, NY | 1.3441
Nassau, NY
Suffolk, NY
5483 \1, 2\ New Haven-Bridgeport-Stamford-Waterbury- | 1.2520
Danbury, CT
Fairfield, CT
New Haven, CT
5523 ² New London-Norwich, CT | 1.2520
New London, CT
5560 ¹ New Orleans, LA | 0.9050
Jefferson, LA
Orleans, LA
Plaquemines, LA
St. Bernard, LA
St. Charles, LA
St. James, LA
St. John The Baptist, LA
St. Tammany, LA
5600 ¹ New York, NY | 1.4069
Bronx, NY
Kings, NY
New York, NY
Putnam, NY
Queens, NY
Richmond, NY
Rockland, NY
Westchester, NY
5640 ¹ Newark, NJ | 1.1546
Essex, NJ
Morris, NJ
Sussex, NJ
Union, NJ
Warren, NJ
5660 Newburgh, NY-PA | 1.1434
Orange, NY
Pike, PA
5720 ¹ Norfolk-Virginia Beach-Newport News, VA-NC | 0.8553
Currituck, NC
Chesapeake City, VA
Gloucester, VA
Hampton City, VA
Isle of Wight, VA
James City, VA
Mathews, VA
Newport News City, VA
Norfolk City, VA
Poquoson City, VA
Portsmouth City, VA
Suffolk City, VA
Virginia Beach City VA
Williamsburg City, VA
York, VA
5775 ¹ Oakland, CA | 1.5324
Alameda, CA
Contra Costa, CA
5790 Ocala, FL | 0.9526
Marion, FL
5800 Odessa-Midland, TX | 0.9233
Ector, TX
Midland, TX
5880 ¹ Oklahoma City, OK | 0.8997
Canadian, OK
Cleveland, OK
Logan, OK
McClain, OK
Oklahoma, OK
Pottawatomie, OK
5910 Olympia, WA | 1.1071
Thurston, WA
5920 Omaha, NE-IA | 1.0089
Pottawattamie, IA
Cass, NE
Douglas, NE
Sarpy, NE
Washington, NE
5945 ¹ Orange County, CA | 1.1726
Orange, CA
5960 ¹ Orlando, FL | 0.9537
Lake, FL
Orange, FL
Osceola, FL
Seminole, FL
5990 Owensboro, KY | 0.8283
Daviess, KY
6015 Panama City, FL | 0.8926
Bay, FL
6020 Parkersburg-Marietta, WV-OH (WV Hospitals) | 0.8210
Washington, OH
Wood, WV
6020 ² Parkersburg-Marietta, WV-OH (OH Hospitals) | 0.8675
Washington, OH
Wood, WV
6080 ² Pensacola, FL | 0.8907
Escambia, FL
Santa Rosa, FL
6120 Peoria-Pekin, IL | 0.8854
Peoria, IL
Tazewell, IL
Woodford, IL
6160 ¹ Philadelphia, PA-NJ | 1.0675
Burlington, NJ
Camden, NJ
Gloucester, NJ
Salem, NJ
Bucks, PA
Chester, PA
Delaware, PA
Montgomery, PA
Philadelphia, PA
6200 ¹ Phoenix-Mesa, AZ | 0.9562
Maricopa, AZ
Pinal, AZ
6240 Pine Bluff, AR | 0.7866
Jefferson, AR
6280 ¹ Pittsburgh, PA | 0.9403
Allegheny, PA
Beaver, PA
Butler, PA
Fayette, PA
Washington, PA
Westmoreland, PA
6323 ² Pittsfield, MA | 1.1257
Berkshire, MA
6340 Pocatello, ID | 0.9013
Bannock, ID
6360 Ponce, PR | 0.5221
Guayanilla, PR
Juana Diaz, PR
Penuelas, PR
Ponce, PR
Villalba, PR
Yauco, PR
6403 Portland, ME | 0.9932
Cumberland, ME
Sagadahoc, ME
York, ME
6440 ¹ Portland-Vancouver, OR-WA | 1.0792
Clackamas, OR
Columbia, OR
Multnomah, OR
Washington, OR
Yamhill, OR
Clark, WA
6483 ¹ Providence-Warwick-Pawtucket, RI | 1.0558
Bristol, RI
Kent, RI
Newport, RI
Providence, RI
Washington, RI
6520 Provo-Orem, UT | 1.0190
Utah, UT
6560 ² Pueblo, CO | 0.9104
Pueblo, CO
6580 ² Punta Gorda, FL | 0.8907
Charlotte, FL
6600 Racine, WI | 0.9413
Racine, WI
6640 ¹ Raleigh-Durham-Chapel Hill, NC | 1.0083
Chatham, NC
Durham, NC
Franklin, NC
Johnston, NC
Orange, NC
Wake, NC
6660 Rapid City, SD | 0.8936
Pennington, SD
6680 Reading, PA | 0.9308
Berks, PA
6690 Redding, CA | 1.1249
Shasta, CA
6720 Reno, NV | 1.0664
Washoe, NV
6740 Richland-Kennewick-Pasco, WA | 1.1608
Benton, WA
Franklin, WA
6760 Richmond-Petersburg, VA | 0.9735
Charles City County, VA
Chesterfield, VA
Colonial Heights City, VA
Dinwiddie, VA
Goochland, VA
Hanover, VA
Henrico, VA
Hopewell City, VA
New Kent, VA
Petersburg City, VA
Powhatan, VA
Prince George, VA
Richmond City, VA
6780 ¹ Riverside-San Bernardino, CA | 1.1251
Riverside, CA
San Bernardino, CA
6800 Roanoke, VA | 0.8703
Botetourt, VA
Roanoke, VA
Roanoke City, VA
Salem City, VA
6820 Rochester, MN | 1.2263
Olmsted, MN
6840 ¹ Rochester, NY | 0.9133
Genesee, NY
Livingston, NY
Monroe, NY
Ontario, NY
Orleans, NY
Wayne, NY
6880 Rockford, IL | 0.9456
Boone, IL
Ogle, IL
Winnebago, IL
6895 Rocky Mount, NC | 0.9322
Edgecombe, NC
Nash, NC
6920 ¹ Sacramento, CA | 1.1636
El Dorado, CA
Placer, CA
Sacramento, CA
6960 Saginaw-Bay City-Midland, MI | 0.9709
Bay, MI
Midland, MI
Saginaw, MI
6980 St. Cloud, MN | 0.9858
Benton, MN
Stearns, MN
7000 ² St. Joseph, MO | 0.8099
Andrew, MO
Buchanan, MO
7040 ¹ St. Louis, MO-IL | 0.8907
Clinton, IL
Jersey, IL
Madison, IL
Monroe, IL
St. Clair, IL
Franklin, MO
Jefferson, MO
Lincoln, MO
St. Charles, MO
St. Louis, MO
St. Louis City, MO
Warren, MO
7080 Salem, OR | 1.0473
Marion, OR
Polk, OR
7120 Salinas, CA | 1.4772
Monterey, CA
7160 ¹ Salt Lake City-Ogden, UT | 1.0035
Davis, UT
Salt Lake, UT
Weber, UT
7200 San Angelo, TX | 0.7956
Tom Green, TX
7240 ¹ San Antonio, TX | 0.8649
Bexar, TX
Comal, TX
Guadalupe, TX
Wilson, TX
7320 ¹ San Diego, CA | 1.1247
San Diego, CA
7360 ¹ San Francisco, CA | 1.4288
Marin, CA
San Francisco, CA
San Mateo, CA
7400 ¹ San Jose, CA | 1.4162
Santa Clara, CA
7440 ¹ San Juan-Bayamon, PR | 0.4706
Aguas Buenas, PR
Barceloneta, PR
Bayamon, PR
Canovanas, PR
Carolina, PR
Catano, PR
Ceiba, PR
Comerio, PR
Corozal, PR
Dorado, PR
Fajardo, PR
Florida, PR
Guaynabo, PR
Humacao, PR
Juncos, PR
Los Piedras, PR
Loiza, PR
Luguillo, PR
Manati, PR
Morovis, PR
Naguabo, PR
Naranjito, PR
Rio Grande, PR
San Juan, PR
Toa Alta, PR
Toa Baja, PR
Trujillo Alto, PR
Vega Alta, PR
Vega Baja, PR
Yabucoa, PR
7460 San Luis Obispo-Atascadero-Paso Robles, CA | 1.1386
San Luis Obispo, CA
7480 Santa Barbara-Santa Maria-Lompoc, CA | 1.0588
Santa Barbara, CA
7485 Santa Cruz-Watsonville, CA | 1.3630
Santa Cruz, CA
7490 Santa Fe, NM | 1.0822
Los Alamos, NM
Santa Fe, NM
7500 Santa Rosa, CA | 1.3179
Sonoma, CA
7510 Sarasota-Bradenton, FL | 0.9367
Manatee, FL
Sarasota, FL
7520 Savannah, GA | 0.9961
Bryan, GA
Chatham, GA
Effingham, GA
7560 ² Scranton—Wilkes-Barre—Hazleton, PA | 0.8525
Columbia, PA
Lackawanna, PA
Luzerne, PA
Wyoming, PA
7600 ¹ Seattle-Bellevue-Everett, WA | 1.1571
Island, WA
King, WA
Snohomish, WA
7610 ² Sharon, PA | 0.8525
Mercer, PA
7620 ² Sheboygan, WI | 0.9229
Sheboygan, WI
7640 Sherman-Denison, TX | 0.9334
Grayson, TX
7680 Shreveport-Bossier City, LA | 0.8813
Bossier, LA
Caddo, LA
Webster, LA
7720 Sioux City, IA-NE | 0.9138
Woodbury, IA
Dakota, NE
7760 Sioux Falls, SD | 0.9098
Lincoln, SD
Minnehaha, SD
7800 South Bend, IN | 0.9902
St. Joseph, IN
7840 Spokane, WA | 1.0961
Spokane, WA
7880 Springfield, IL | 0.8654
Menard, IL
Sangamon, IL
7920 Springfield, MO | 0.8510
Christian, MO
Greene, MO
Webster, MO
8003 ² Springfield, MA | 1.1257
Hampden, MA
Hampshire, MA
8050 State College, PA | 0.9032
Centre, PA
8080 Steubenville-Weirton, OH-WV | 0.8893
Jefferson, OH
Brooke, WV
Hancock, WV
8120 Stockton-Lodi, CA | 1.0630
San Joaquin, CA
8140 ² Sumter, SC | 0.8607
Sumter, SC
8160 Syracuse, NY | 0.9519
Cayuga, NY
Madison, NY
Onondaga, NY
Oswego, NY
8200 Tacoma, WA | 1.1052
Pierce, WA
8240 ² Tallahassee, FL | 0.8907
Gadsden, FL
Leon, FL
8280 ¹ Tampa-St. Petersburg-Clearwater, FL | 0.9238
Hernando, FL
Hillsborough, FL
Pasco, FL
Pinellas, FL
8320 ² Terre Haute, IN | 0.8796
Clay, IN
Vermillion, IN
Vigo, IN
8360 Texarkana,AR-Texarkana, TX | 0.8193
Miller, AR
Bowie, TX
8400 Toledo, OH | 0.9863
Fulton, OH
Lucas, OH
Wood, OH
8440 Topeka, KS | 0.8952
Shawnee, KS
8480 Trenton, NJ | 1.0710
Mercer, NJ
8520 Tucson, AZ | 0.8993
Pima, AZ
8560 Tulsa, OK | 0.8398
Creek, OK
Osage, OK
Rogers, OK
Tulsa, OK
Wagoner, OK
8600 Tuscaloosa, AL | 0.8303
Tuscaloosa, AL
8640 Tyler, TX | 0.9650
Smith, TX
8680 ² Utica-Rome, NY | 0.8633
Herkimer, NY
Oneida, NY
8720 Vallejo-Fairfield-Napa, CA | 1.3544
Napa, CA
Solano, CA
8735 Ventura, CA | 1.1209
Ventura, CA
8750 Victoria, TX | 0.8814
Victoria, TX
8760 Vineland-Millville-Bridgeton, NJ | 1.0296
Cumberland, NJ
8780 2Visalia-Tulare-Porterville, CA | 0.9934
Tulare, CA
8800 Waco, TX | 0.8802
McLennan, TX
8840 ¹ Washington, DC-MD-VA-WV | 1.0852
District of Columbia, DC
Calvert, MD
Charles, MD
Frederick, MD
Montgomery, MD
Prince Georges, MD
Alexandria City, VA
Arlington, VA
Clarke, VA
Culpeper, VA
Fairfax, VA
Fairfax City, VA
Falls Church City, VA
Fauquier, VA
Fredericksburg City, VA
King George, VA
Loudoun, VA
Manassas City, VA
Manassas Park City, VA
Prince William, VA
Spotsylvania, VA
Stafford, VA
Warren, VA
Berkeley, WV
Jefferson, WV
8920 Waterloo-Cedar Falls, IA | 0.8970
Black Hawk, IA
8940 Wausau, WI | 0.9882
Marathon, WI
8960 ¹West Palm Beach-Boca Raton, FL | 0.9929
Palm Beach, FL
9000 ²Wheeling, WV-OH (WV Hospitals) | 0.8053
Belmont, OH
Marshall, WV
Ohio, WV
9000 ² Wheeling, WV-OH (OH Hospitals) | 0.8675
Belmont, OH
Marshall, WV
Ohio, WV
9040 Wichita, KS | 0.9571
Butler, KS
Harvey, KS
Sedgwick, KS
9080 Wichita Falls, TX | 0.8023
Archer, TX
Wichita, TX
9140 Williamsport, PA | 0.8624
Lycoming, PA
9160 Wilmington-Newark, DE-MD | 1.1287
New Castle, DE
Cecil, MD
9200 Wilmington, NC | 0.9471
New Hanover, NC
Brunswick, NC
9260 Yakima, WA | 1.0676
Yakima, WA
9270 ² Yolo, CA | 0.9934
Yolo, CA
9280 York, PA | 0.9140
York, PA
9320 Youngstown-Warren, OH | 0.9485
Columbiana, OH
Mahoning, OH
Trumbull, OH
9340 Yuba City, CA | 1.0310
Sutter, CA
Yuba, CA
9360 Yuma, AZ | 0.8677
Yuma, AZ
¹ Large Urban Area
² Hospitals geographically located in the area are assigned the statewide rural wage index.

Addendum I.—Wage Index for Rural Areas
Nonurban area | Wage index
Alabama | 0.7853
Alaska | 1.2323
Arizona | 0.8483
Arkansas | 0.7670
California | 0.9934
Colorado | 0.9104
Connecticut | 1.2520
Delaware | 0.9126
Florida | 0.8907
Georgia | 0.8254
Hawaii | 1.0342
Idaho | 0.8799
Illinois | 0.8301
Indiana | 0.8796
Iowa | 0.8395
Kansas | 0.7964
Kentucky | 0.8079
Louisiana | 0.7719
Maine | 0.8754
Maryland | 0.8855
Massachusetts | 1.1257
Michigan | 0.8961
Minnesota | 0.9249
Mississippi | 0.7759
Missouri | 0.8099
Montana | 0.8567
Nebraska | 0.8283
Nevada | 0.9519
New Hampshire | 0.9882
New Jersey ¹ |
New Mexico | 0.8645
New York | 0.8633
North Carolina | 0.8714
North Dakota | 0.7830
Ohio | 0.8675
Oklahoma | 0.7664
Oregon | 1.0408
Pennsylvania | 0.8525
Puerto Rico | 0.4400
Rhode Island ¹ |
South Carolina | 0.8607
South Dakota | 0.7895
Tennessee | 0.7873
Texas | 0.7759
Utah | 0.9426
Vermont | 0.9402
Virginia | 0.8494
Washington | 1.0274
West Virginia | 0.8053
Wisconsin | 0.9229
Wyoming | 0.8890
¹ All counties within the State are classified as urban.

Addendum J.—Wage Index for Hospitals That Are Reclassified
Area | Wage index
Abilene, TX | 0.8534
Akron, OH | 0.9685
Albany, GA | 1.0658
Albuquerque, NM | 0.9372
Alexandria, LA | 0.7929
Allentown-Bethlehem-Easton, PA | 0.9833
Altoona, PA | 0.9300
Amarillo, TX | 0.8900
Anchorage, AK | 1.2610
Ann Arbor, MI | 1.1217
Anniston, AL | 0.7983
Asheville, NC | 0.9448
Athens, GA | 1.0161
Atlanta, GA | 0.9985
Augusta-Aiken, GA-SC | 0.9981
Austin-San Marcos, TX | 0.9529
Barnstable-Yarmouth, MA | 1.2894
Baton Rouge, LA | 0.8281
Bellingham, WA | 1.2139
Benton Harbor, MI | 0.9072
Bergen-Passaic, NJ | 1.2100
Billings, MT | 0.9114
Biloxi-Gulfport-Pascagoula, MS | 0.8417
Binghamton, NY | 0.8525
Birmingham, AL | 0.9301
Bismarck, ND | 0.7881
Boston-Worcester-Lawrence-Lowell-Brockton, MA-NH | 1.1304
Burlington, VT | 0.9667
Caguas, PR | 0.4453
Casper, WY | 0.9655
Champaign-Urbana, IL | 0.9334
Charleston-North Charleston, SC | 0.8607
Charleston, WV | 0.8602
Charlotte-Gastonia-Rock Hill, NC-SC | 0.9839
Charlottesville, VA | 1.0252
Chattanooga, TN-GA | 0.8878
Chicago, IL | 1.0953
Cincinnati, OH-KY-IN | 0.9354
Clarksville-Hopkinsville, TN-KY | 0.8239
Cleveland-Lorain-Elyria, OH | 0.9295
Columbia, MO | 0.8737
Columbia, SC | 0.8990
Columbus, GA-AL (GA Hospitals) | 0.8254
Columbus, GA-AL (AL Hospitals) | 0.8041
Columbus, OH | 0.9521
Corpus Christi, TX | 0.8154
Dallas, TX | 0.9831
Danville, VA | 0.8530
Davenport-Moline-Rock Island, IA-IL | 0.8872
Dayton-Springfield, OH | 0.9378
Denver, CO | 1.0401
Des Moines, IA | 0.8908
Detroit, MI | 1.0506
Dothan, AL | 0.8028
Dover, DE | 0.9274
Duluth-Superior, MN-WI | 1.0462
Eau Claire, WI | 0.9229
Elkhart-Goshen, IN | 0.9484
Erie, PA | 0.8850
Eugene-Springfield, OR | 1.1077
Fargo-Moorhead, ND-MN | 0.9564
Fayetteville, NC | 0.9055
Flagstaff, AZ-UT | 1.0234
Flint, MI | 1.1041
Florence, AL | 0.7960
Florence, SC | 0.8869
Fort Collins-Loveland, CO | 0.9923
Ft. Lauderdale, FL | 1.0792
Fort Pierce-Port St. Lucie, FL | 0.9959
Fort Smith, AR-OK | 0.7681
Fort Walton Beach, FL | 0.9365
Forth Worth-Arlington, TX | 0.9620
Gadsden, AL | 0.8684
Grand Forks, ND-MN | 0.9338
Grand Junction, CO | 0.9824
Grand Rapids-Muskegon-Holland, MI | 0.9664
Great Falls, MT | 0.9057
Greeley, CO | 0.9219
Green Bay, WI | 0.9347
Greensboro-Winston-Salem-High Point, NC | 0.9131
Greenville, NC | 0.9257
Harrisburg-Lebanon-Carlisle, PA | 0.9315
Hartford, CT | 1.1550
Hattiesburg, MS | 0.7759
Hickory-Morganton-Lenoir, NC | 0.8958
Houston, TX | 0.9746
Huntington-Ashland, WV-KY-OH | 0.9251
Huntsville, AL | 0.8901
Indianapolis, IN | 0.9828
Iowa City, IA | 0.9828
Jackson, MS | 0.8587
Jackson, TN | 0.9032
Jacksonville, FL | 0.9225
Johnson City-Kingsport-Bristol, TN-VA (VA Hospitals) | 0.8494
Johnson City-Kingsport-Bristol, TN-VA (KY Hospitals) | 0.8384
Johnstown, PA | 0.0000
Jonesboro, AR (AR Hospitals) | 0.7906
Jonesboro, AR (MO Hospitals) | 0.8099
Joplin, MO | 0.8700
Kalamazoo-Battlecreek, MI | 1.0490
Kansas City, KS-MO | 0.9809
Knoxville, TN | 0.9090
Kokomo, IN | 0.9031
Lafayette, LA | 0.8392
Lakeland-Winter Haven, FL | 0.9170
Las Vegas, NV-AZ | 1.1018
Lawton, OK | 0.8073
Lexington, KY | 0.8629
Lima, OH | 0.9515
Lincoln, NE | 0.9133
Little Rock-North Little Rock, AR | 0.8926
Longview-Marshall, TX | 0.8588
Los Angeles-Long Beach, CA | 1.2044
Louisville, KY-IN | 0.9382
Lubbock, TX | 0.7809
Lynchburg, VA | 0.9114
Macon, GA | 0.9296
Madison, WI | 1.0188
Mansfield, OH | 0.8989
Medford-Ashland, OR | 1.0408
Memphis, TN-AR-MS | 0.8667
Miami, FL | 0.9878
Milwaukee-Waukesha, WI | 0.9901
Minneapolis-St. Paul, MN-WI | 1.0969
Missoula, MT | 0.9139
Mobile, AL | 0.8181
Modesto, CA | 1.0606
Monmouth-Ocean, NJ | 1.1290
Monroe, LA | 0.8191
Montgomery, AL | 0.7853
Nashville, TN | 0.9283
New Haven-Bridgeport-Stamford-Waterbury-
Danbury, CT | 1.2520
New London-Norwich, CT | 1.1683
New Orleans, LA | 0.9050
New York, NY | 1.3936
Newark, NJ | 1.1546
Newburgh, NY-PA | 1.0820
Norfolk-Virginia Beach-Newport News, VA-NC | 0.8714
Oakland, CA | 1.5324
Ocala, FL | 0.9343
Odessa-Midland, TX | 0.8910
Oklahoma City, OK | 0.8997
Omaha, NE-IA | 1.0089
Orange County, CA | 1.1726
Orlando, FL | 0.9537
Peoria-Pekin, IL | 0.8854
Philadelphia, PA-NJ | 1.0675
Phoenix-Mesa, AZ | 0.9562
Pine Bluff, AR | 0.7760
Pittsburgh, PA | 0.9268
Pittsfield, MA | 0.9869
Pocatello, ID | 0.9013
Portland, ME | 0.9698
Portland-Vancouver, OR-WA | 1.0792
Provo-Orem, UT | 1.0088
Raleigh-Durham-Chapel Hill, NC | 0.9978
Rapid City, SD | 0.8936
Reading, PA | 0.9126
Redding, CA | 1.1249
Reno, NV | 1.0445
Richland-Kennewick-Pasco, WA | 1.1209
Richmond-Petersburg, VA | 0.9735
Roanoke, VA | 0.8703
Rochester, MN | 1.2263
Rockford, IL | 0.9456
Sacramento, CA | 1.1636
Saginaw-Bay City-Midland, MI | 0.9709
St. Cloud, MN | 0.9858
St. Joseph, MO | 0.8300
St. Louis, MO-IL | 0.8907
Salinas, CA | 1.4772
Salt Lake City-Ogden, UT | 1.0035
San Antonio, TX | 0.8649
San Diego, CA | 1.1247
Santa Fe, NM | 0.9927
Santa Rosa, CA | 1.2891
Sarasota-Bradenton, FL | 0.9367
Savannah, GA | 0.9841
Seattle-Bellevue-Everett, WA | 1.1571
Sherman-Denison, TX | 0.9090
Shreveport-Bossier City, LA | 0.8813
Sioux City, IA-NE | 0.8736
Sioux Falls, SD | 0.8950
South Bend, IN | 0.9902
Spokane, WA | 1.0770
Springfield, IL | 0.8654
Springfield, MO | 0.8236
Stockton-Lodi, CA | 1.0630
Syracuse, NY | 0.9519
Tampa-St. Petersburg-Clearwater, FL | 0.9238
Texarkana,AR-Texarkana, TX | 0.8193
Toledo, OH | 0.9863
Topeka, KS | 0.8840
Tucson, AZ | 0.8993
Tulsa, OK | 0.8398
Tuscaloosa, AL | 0.8303
Tyler, TX | 0.9249
Vallejo-Fairfield-Napa, CA | 1.3544
Victoria, TX | 0.8668
Waco, TX | 0.8671
Washington, DC-MD-VA-WV | 1.0852
Waterloo-Cedar Falls, IA | 0.8970
Wausau, WI | 0.9710
West Palm Beach-Boca Raton, FL | 0.9929
Wichita, KS | 0.9235
Wichita Falls, TX | 0.7918
Wilmington-Newark, DE-MD | 1.0973
Wilmington, NC | 0.9336
York, PA | 0.9140
Youngstown-Warren, OH | 0.9485
Rural Alabama | 0.7853
Rural Florida | 0.8907
Rural Illinois (IA Hospitals) | 0.8395
Rural Illinois (MO Hospitals) | 0.8301
Rural Kentucky | 0.8079
Rural Louisiana | 0.7719
Rural Massachusetts | 1.0417
Rural Michigan | 0.8961
Rural Minnesota | 0.9249
Rural Mississippi | 0.7759
Rural Missouri | 0.8099
Rural Montana | 0.8567
Rural Nebraska | 0.8283
Rural Nevada | 0.9097
Rural Texas | 0.7759
Rural Washington | 1.0274
Rural Wyoming | 0.8890

[FR Doc. 02-20146 Filed 8-6-02; 12:38 pm]

BILLING CODE 4120-01-P